DEPARTMENT OF THE INTERIOR

Fish and Wildlife Service

50 CFR Parts 26, 32, 36, and 71

[Docket No. FWS-HQ-NWRS-2019-0040; FXRS12610900000-190-FF09R20000]

RIN 1018-BD79

2019-2020 Station-Specific Hunting and Sport Fishing Regulations

AGENCY: Fish and Wildlife Service, Interior.

ACTION: Proposed rule.

SUMMARY: We, the U.S. Fish and Wildlife Service (Service), propose to open seven National Wildlife Refuges (NWRs) that are currently closed to hunting and sport fishing. In addition, we propose to expand hunting and sport fishing at 67 other NWRs, and add pertinent station-specific regulations for other NWRs that pertain to migratory game bird hunting, upland game hunting, big game hunting, and sport fishing for the 2019-2020 season. We also propose to formally open 15 units of the National Fish Hatchery System (NFHs) to hunting and sport fishing. We also propose to add pertinent station-specific regulations that pertain to migratory game bird hunting, upland game hunting, big game hunting, and sport fishing at these 15 NFHs for the 2019-2020 season. This proposed rule includes global administrative updates to every NWR entry in our refuge-specific regulations and the reorganization of general public use regulations. We propose to remove approximately 2,100 regulations that will have no impact on the administration of hunting and sport fishing within the National Wildlife Refuge System. We also propose to simplify over 2,900 refuge-specific regulations to comply with a Presidential mandate to adhere to plain language standards and to reduce the regulatory burden on the public. Lastly, we propose to amend certain provisions of the regulations specific to Alaska NWRs. The proposed amendments include the removal of the regulations concerning same-day airborne hunting.

DATES: We will accept comments received or postmarked on or before August 12, 2019.

Information Collection Requirements: If you wish to comment on the information collection requirements in this proposed rule, please note that the Office of Management and Budget (OMB) is required to make a decision concerning the collection of information contained in this proposed rule between 30 and 60 days after publication of this proposed rule in the Federal Register. Therefore, comments should be submitted to OMB by July 26, 2019.

ADDRESSES: You may submit comments by one of the following methods:

• Electronically: Go to the Federal eRulemaking Portal: http://www.regulations.gov. In the Search box, type in FWS-HQ-NWRS-2019-0040, which is the docket number for this rulemaking. Then, click on the Search button. On the resulting screen, find the correct document and submit a comment by clicking on “Comment Now!”

• By hard copy: Submit by U.S. mail or hand delivery: Public Comments Processing, Attn: FWS-HQ-NWRS-2019-0040; U.S. Fish and Wildlife Service; 5275 Leesburg Pike, MS: JAO/1N; Falls Church, VA 22041-3803.

We will not accept email or faxes. We will post all comments on http://www.regulations.gov. This generally means that we will post any personal information you provide us (see Request for Comments, below, for more information). For information on specific refuges' or hatcheries' public use programs and the conditions that apply to them or for copies of compatibility determinations for any refuge(s), contact individual programs at the addresses/phone numbers given in Available Information for Specific Refuges under SUPPLEMENTARY INFORMATION.

Information collection requirements: Send your comments on the requested revision of the information collection request (ICR) to the Desk Officer for the Department of the Interior at OMB-OIRA at 202-395-5806 (fax) or oira_submission@omb.eop.gov (email). Please provide a copy of your comments to the Service Information Collection Clearance Officer, Madonna Baucum, U.S. Fish and Wildlife Service, 5275 Leesburg Pike, MS: JAO/1N, Falls Church, VA 22041-3803 (mail); (703) 358-2503 (telephone); or Info_Coll@fws.gov (email). Please reference OMB Control Number 1018-0140 in the subject line of your comments.

FOR FURTHER INFORMATION CONTACT: Katherine Harrigan, (703) 358-2440.

SUPPLEMENTARY INFORMATION:

Background

The National Wildlife Refuge System Administration Act of 1966 closes NWRs in all States except Alaska to all uses until opened. The Secretary of the Interior (Secretary) may open refuge areas to any use, including hunting and/or sport fishing, upon a determination that the use is compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Services mission.

Provisions governing hunting and sport fishing on refuges are in title 50 of the Code of Federal Regulations in part 32 (50 CFR part 32), on hatcheries in part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate in meeting these objectives. On other stations, we must supplement State regulations with more-restrictive Federal regulations to ensure that we meet our management responsibilities, as outlined in the Statutory Authority section, below. We issue station-specific hunting and sport fishing regulations when we open wildlife refuges and fish hatcheries to migratory game bird hunting, upland game hunting, big game hunting, or sport fishing. These regulations may list the wildlife species that you may hunt or fish, seasons, bag or creel (container for carrying fish) limits, methods of hunting or sport fishing, descriptions of areas open to hunting or sport fishing, and other provisions as appropriate. You may find previously issued station-specific regulations for hunting and sport fishing in 50 CFR part 32.

Statutory Authority

The National Wildlife Refuge System Administration Act of 1966 (Administration Act; 16 U.S.C. 668dd-668ee, as amended by the National Wildlife Refuge System Improvement Act of 1997 [Improvement Act]) govern the administration and public use of refuges and the Refuge Recreation Act of 1962 (16 U.S.C. 460k-460k-4) (Recreation Act) govern the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges to the lists of areas open to hunting and sport fishing in 50 CFR parts 32 and 71. We ensure continued compliance by the development of comprehensive conservation plans and step-down management plans, and by annual review of hunting and sport fishing programs and regulations.

Proposed Amendments to Existing Regulations

Updates to Hunting and Fishing Opportunities on NWRs and NFHs

This document proposes to codify in the Code of Federal Regulations all of the Service's hunting and/or sport fishing regulations that we would update since the last time we published a rule amending these regulations (83 FR 45758; September 10, 2018) and that are applicable at Refuge System and Hatchery System units previously opened to hunting and/or sport fishing. We propose this to better inform the general public of the regulations at each station, to increase understanding and compliance with these regulations, and to make enforcement of these regulations more efficient. In addition to now finding these regulations in 50 CFR parts 32 and 71, visitors to our refuges and hatcheries may find them reiterated in literature distributed by each station or posted on signs.

Table 1—Proposed Changes for 2019-2020 Hunting/Sport Fishing Season
Station | State | Migratory bird hunting | Upland game hunting | Big game hunting | Sport fishing
Bandon Marsh | Oregon | Already Open | Closed | Closed | D.
Bill Williams River | Arizona | E | E | Already Open | Already Open.
Billy Frank Jr. Nisqually | Washington | D | Closed | Closed | Already Open.
Bitter Lake | New Mexico | E | E | Already Open | Closed.
Bond Swamp | Georgia | Already Open | E | E | Already Open.
Bosque del Apache | New Mexico | E | E | E | Already Open.
Boyer Chute | Nebraska | D | Closed | C/E | Already Open.
Buenos Aires | Arizona | Already Open | E | E | Closed.
Cedar Point | Ohio | Closed | Closed | Already Open | D.
Cherry Valley | Pennsylvania | Already Open | Already Open | Already Open | B.
Cibola | Arizona | E | E | E | Already Open.
Clarks River | Kentucky | Already Open | E | Already Open | Already Open.
Colusa | California | Already Open | C | Closed | Closed.
Crab Orchard | Illinois | C/E | C/E | E | Already Open.
Craig Brook NFH | Maine | Closed | Closed | Closed | A.
Crane Meadows | Minnesota | B | B | D | Closed.
Cross Creeks | Tennessee | Already Open | C | E | Already Open.
Currituck | North Carolina | E | Closed | E | Closed.
Cypress Creek | Illinois | C/D | C/D | D | Already Open.
Deep Fork | Oklahoma | C | Already Open | E | Already Open.
Delevan | California | Already Open | C | Closed | Closed.
Desoto | Iowa and Nebraska | Closed | Already Open | E | Already Open.
Dexter NFH | New Mexico | A | A | Closed | Closed.
Edenton NFH | North Carolina | Closed | Closed | Closed | A.
Entiat NFH | Washington | Closed | Closed | Closed | A.
Grand Bay | Mississippi and Alabama | E | Already Open | Already Open | Closed.
Great Bay | New Hampshire | Already Open | Closed | C/E | Closed.
Great River | Illinois and Missouri | Already Open | E | E | Already Open.
Green Bay | Wisconsin | Closed | Closed | A | A.
Hackmatack | Illinois and Wisconsin | Already Open | Already Open | Already Open | B.
Hagerman | Texas | D | D | D | Already Open.
Harrison Lake NFH | Virginia | Closed | Closed | Closed | A.
Havasu | Arizona | E | Already Open | Already Open | Already Open.
Hotchkiss NFH | Colorado | Closed | Closed | Closed | A.
Hutton Lake | Wyoming | A | Closed | Closed | Closed.
Imperial | Arizona | E | E | Already Open | Already Open.
Inks Dam NFH | Texas | Closed | Closed | Closed | A.
Iron River NFH | Wisconsin | A | A | A | Closed.
Key Cave | Alabama | C | C | B | Closed.
Kirwin | Kansas | D | Already Open | Already Open | Already Open.
Kofa | Arizona | Closed | E | Already Open | Closed.
Laguna Atascosa | Texas | Closed | Closed | E | Already Open.
Las Vegas | New Mexico | E | Closed | Closed | Closed.
Leadville NFH | Colorado | A | A | A | A.
Leavenworth NFH | Washington | Closed | Closed | Closed | A.
Little River | Oklahoma | Already Open | C | E | Already Open.
Little White Salmon NFH | Washington | Closed | Closed | Closed | A.
Lower Rio Grande Valley | Texas | Already Open | Closed | E | Closed.
Marin Islands | California | Closed | Closed | Closed | A.
Mashpee | Massachusetts | A | A | A | Closed.
Mattamuskeet | North Carolina | Already Open | Closed | E | Already Open.
McKay Creek | Oregon | C | C | B | Already Open.
Medicine Lake | Montana | C | Already Open | Already Open | E.
Middle Mississippi River | Illinois and Missouri | Already Open | D | E | D.
Minidoka | Idaho | Already Open | Already Open | B | E.
Monomoy | Massachusetts | B | B | Closed | Already Open.
Neal Smith | Iowa | D | D | D | Closed.
Nestucca Bay | Oregon | Already Open | Closed | Closed | B.
Northern Tallgrass Prairie | Iowa and Minnesota | D | D | D | B.
Okefenokee | Georgia | Closed | Already Open | E | Already Open.
Orangeburg NFH | South Carolina | Closed | Closed | Closed | A.
Ottawa | Ohio | Already Open | Already Open | Already Open | D.
Ozark Plateau | Oklahoma | Closed | A | A | Closed.
Parker River | Massachusetts | D/E | B | D/E | Already Open.
Patoka River | Indiana | D | D | D | D.
Patuxent | Maryland | Already Open | Already Open | D | Already Open.
Piedmont | Georgia | Closed | E | E | Already Open.
Sacramento | California | Already Open | C | Closed | Closed.
Salt Plains | Oklahoma | C/D | C/D | C/E | Already Open.
San Bernardino | Arizona | E | Already Open | Closed | Closed.
Sand Lake | South Dakota | Already Open | Already Open | E | Already Open.
San Juan Islands | Washington | Closed | Closed | Closed | A.
San Pablo Bay | California | E | Already Open | Closed | Already Open.
Seedskadee | Wyoming | Already Open | Already Open | C | Already Open.
Sequoyah | Oklahoma | Already Open | Already Open | C | Already Open.
Silvio O. Conte | Massachusetts and Connecticut | A | A | A | A.
Spring Creek NFH | Washington | Closed | Closed | Closed | A.
St. Marks | Florida | Already Open | D | D | Already Open.
Stone Lakes | California | Already Open | Closed | Closed | B.
Sutter | California | Already Open | C | Closed | Closed.
Tamarac | Minnesota | C | C | Already Open | Already Open.
Tishomingo | Oklahoma | B | Closed | C | Already Open.
Tishomingo NFH | Oklahoma | Closed | Closed | Closed | A.
Trinity River | Texas | E | E | E | Already Open.
Valentine | Nebraska | Already Open | E | Already Open | Already Open.
Valley City NFH (6) | North Dakota | Closed | Closed | Closed | A.
Washita | Oklahoma | C/D | C | Already Open | Already Open.
Wichita Mountains | Oklahoma | B | B | C | Already Open.
Whittlesey Creek | Wisconsin | Already Open | Closed | Already Open | B.
Key:
* Number in ( ) refers to the Region as explained in the preamble to this proposed rule for additional information regarding refuge specific regulations.
A = New station opened (Opening).
B = New activity on a station previously open to other activities (Opening).
C = Station already open to activity but added new species to hunt (Opening).
D = Station already open to activity, but added new lands/waters or modified areas open to hunting or fishing (Expansion).
E = Station already open to activity, but existing opportunity expanded through season dates, method of take, bag limits, quota permits, youth hunt, etc. (Expansion).
F = Activity is being closed on the station.

The changes for the 2019-2020 hunting/fishing season noted in the chart above are each based on a complete administrative record which, among other detailed documentation, also includes a hunt plan, a compatibility determination (for refuges), and the appropriate National Environmental Policy Act (NEPA; 42 U.S.C. 4321 et seq.) analysis, all of which were the subject of a public review and comment process. These documents are available upon request.

Through these openings and expansions, we are proposing to open or expand an additional 1,451,131 acres to hunting and sport fishing within the National Wildlife Refuge System and the National Fish Hatchery System. These proposed actions are the only changes to the administration of hunting and sport fishing opportunities on Service lands and waters.

Other Updates to the Regulations for NWRs

In this rulemaking, we propose to standardize and clarify the language of existing regulations.

We propose to update the existing nonstandard codification system of 50 CFR part 32, as well as 50 CFR 26.34, to the standard Code of Federal Regulations (CFR) paragraph designation system. Therefore, in addition to setting forth all of §§ 26.34 and 32.7 to bring them into conformity with the CFR's standard codification system, we also set forth every entry for our refuge-specific regulations in 50 CFR part 32 in this proposed rule for reformatting.

Further, as part of a national effort to assess hunting and sport fishing on Service lands and waters, we reviewed over 7,200 station-specific regulations to, in part, identify unnecessary redundancy in existing Federal regulations that apply to all stations and relevant State hunting and fishing regulations. As a result of that review, we propose to remove approximately 2,100 regulations that will have no impact on the administration of hunting and sport fishing within the National Wildlife Refuge System.

We also propose to simplify over 2,900 refuge-specific regulations to comply with a Presidential mandate to adhere to plain language standards and to reduce the regulatory burden on the public. In this proposed rule, the editorial revisions to use plain language in regulations that we propose do not modify the substance of the previous regulations. These types of changes include using “you” to refer to the reader and “we” to refer to the Refuge System, using the word “allow” instead of “permit” when we do not require the use of a permit for an activity, using consistent language to present requirements concerning hunters' ages for youth hunt opportunities, and using active voice (e.g., “We restrict entry into the refuge” vs. “Entry into the refuge is restricted”). Some of these proposed changes also include adding clarifying language or Office of Management and Budget (OMB) approved form numbers for permits to comply with Paperwork Reduction Act (PRA) and information collection requirements.

Another result of our review of our station-specific regulations is the identification of general public use regulations, for activities like camping and boating, in 50 CFR part 32 that would be better placed elsewhere in our regulations. Therefore, we propose to move those general public use regulations not exclusively pertaining to hunting and sport fishing activities from 50 CFR part 32 to 50 CFR 26.34. This reorganization does not establish any new regulations, nor does it make any changes to the enforcement of public use or hunting and sport fishing on Service lands.

In 50 CFR 26.34, we propose to remove the provisions concerning the issuance of medical access waiver permits for Back Bay National Wildlife Refuge in Virginia. We propose this change because, as the current regulations state, we have not issued any such waivers for more than 30 years, and we will not issue any in the future. Therefore, these provisions are obsolete and should be removed from the regulations.

Lastly, we propose changes to 50 CFR part 36, the regulations concerning Alaska NWRs. Specifically, we propose to remove the same-day airborne hunting prohibition set forth at 50 CFR 36.32(c)(1)(iv). This prohibition duplicates a State of Alaska law and regulation (Title 16 of the Alaska Statutes (AS) at chapter 5, section 783 (AS 16.05.783), and Title 5 of the Alaska Administrative Code (AAC) at chapter 92, section 85 (5 AAC 92.085)). Further, the State of Alaska's animal control programs may only be conducted on Alaska NWRs in accordance with a Federal special use permit issued by the Refuge Manager (50 CFR 36.32(e)). We would also make editorial changes to these regulations for clarity and consistency.

Fish Advisory

For health reasons, anglers should review and follow State-issued consumption advisories before enjoying recreational sport fishing opportunities on Service-managed waters. You can find information about current fish-consumption advisories on the internet at: http://www.epa.gov/fish-tech.

Request for Comments

General Information

You may submit comments and materials on this proposed rule by any one of the methods listed in ADDRESSES. We will not accept comments sent by email or fax or to an address not listed in ADDRESSES. We will not consider hand-delivered comments that we do not receive, or mailed comments that are not postmarked, by the date specified in DATES.

We will post your entire comment on http://www.regulations.gov. Before including personal identifying information in your comment, you should be aware that we may make your entire comment—including your personal identifying information—publicly available at any time. While you can ask us in your comment to withhold your personal identifying information from public review, we cannot guarantee that we will be able to do so. We will post all hardcopy comments on http://www.regulations.gov.

Length of the Public Comment Period

Department of the Interior policy is, whenever practicable, to afford the public a meaningful opportunity to participate in the rulemaking process. We open refuges and hatcheries through a series of stages, with the fundamental work being performed on the ground at the station and in the community where the program is administered. In these stages, we give the public other opportunities to comment, for example, on comprehensive conservation plans and compatibility determinations. The second stage is this document, when we publish the proposed rule in the Federal Register for additional comment.

There is nothing contained in this proposed rule outside the scope of the annual review process where we determine whether individual stations need modifications, deletions, or additions made to them. We make every attempt to collect all of the proposals from the station nationwide and process them expeditiously to maximize the time available for public review. A 45-day comment period, through the broader publication following the earlier public involvement, gives the public sufficient time to comment and allows us to establish hunting and fishing programs in time for the upcoming seasons. Many of these rules would also relieve restrictions and allow the public to participate in recreational activities on a number of stations. In addition, in order to continue to provide for previously authorized hunting opportunities while at the same time providing for adequate resource protection, we must be timely in providing modifications to certain hunting programs on some stations.

We considered providing a 60-day, rather than a 45-day, comment period. However, we determined that an additional 15-day delay in processing these refuge-specific hunting and sport fishing regulations would hinder the effective planning and administration of our hunting and sport fishing programs. Such a delay would jeopardize enacting amendments to hunting and sport fishing programs in time for implementation this year and/or early next year, or shorten the duration of these programs.

Even after issuance of a final rule, we accept comments, suggestions, and concerns for consideration for any appropriate subsequent rulemaking.

When finalized, we will incorporate these regulations into 50 CFR parts 26, 32, 36, and 71. Part 26 contains general regulations that apply to all National Wildlife Refuges and refuge-specific public use regulations. Part 32 contains general provisions and refuge-specific regulations for hunting and sport fishing on refuges. Part 36 contains regulations that apply to Alaska National Wildlife Refuges. Part 71 contains general provisions and hatchery-specific regulations for hunting and sport fishing on hatcheries.

Required Determinations

Clarity of This Proposed Rule

Executive Orders 12866 and 12988 and the Presidential Memorandum of June 1, 1998, require us to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Regulatory Planning and Review (Executive Orders 12866 and 13563)

Executive Order 12866 provides that the Office of Information and Regulatory Affairs (OIRA) will review all significant rules. OIRA has determined that this rulemaking is not significant.

Executive Order (E.O.) 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Executive Order 13771—Reducing Regulation and Controlling Regulatory Costs

This proposed rule is not an Executive Order (E.O.) 13771 (82 FR 9339, February 3, 2017) regulatory action because this proposed rule is not significant under E.O. 12866.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This rule proposes to open 7 NWRs and 15 NFHs to sport fishing and hunting and expand hunting or fishing activities on 67 additional NWRs. As a result, visitor use for wildlife-dependent recreation on these stations will change. If the stations establishing new programs were a pure addition to the current supply of those activities, it would mean an estimated increase of 18,258 user days (one person per day participating in a recreational opportunity; see Table 2). Because the participation trend is flat in these activities since 1991, this increase in supply will most likely be offset by other sites losing participants. Therefore, this is likely to be a substitute site for the activity and not necessarily an increase in participation rates for the activity.

Table 2—Estimated Change in Recreation Opportunities in 2019-2020
[Dollars in thousands]
Station | Additional hunting days | Additional fishing days | Additional expenditures
Bandon Marsh |  | 100 | $4.4
Bill Williams River | 15 |  | 0.6
Billy Frank Jr. Nisqually | 311 |  | 12.8
Bitter Lake | 333 |  | 13.7
Bond Swamp | 24 |  | 1.0
Bosque del Apache | 360 |  | 14.9
Boyer Chute | 327 |  | 13.5
Buenos Aires | 45 |  | 1.9
Cedar Point |  | 30 | 1.3
Cherry Valley |  | 365 | 16.0
Cibola | 400 |  | 16.5
Clarks River | 60 |  | 2.5
Colusa | 476 |  | 19.6
Crab Orchard | 1,099 |  | 45.4
Craig Brook NFH |  | 365 | 16.0
Crane Meadows | 304 |  | 12.5
Cross Creeks | 11 |  | 0.5
Currituck |  |  |
Cypress Creek | 378 |  | 15.6
Deep Fork | 450 |  | 18.6
Delevan | 715 |  | 29.5
Desoto | 85 |  | 3.5
Dexter NFH |  |  |
Edenton NFH |  | 300 | 13.2
Entiat NFH |  |  |
Grand Bay | 25 |  | 1.0
Great Bay | 64 |  | 2.6
Great River | 320 |  | 13.2
Green Bay | 752 | 50 | 33.2
Hackmatack |  | 50 | 2.2
Hagerman | 5,400 |  | 222.9
Harrison Lake NFH |  | 365 | 16.0
Havasu | 205 |  | 8.5
Hotchkiss NFH |  | 300 | 13.2
Hutton Lake | 94 |  | 3.9
Imperial | 30 |  | 1.2
Inks Dam NFH |  |  |
Iron River NFH | 1,145 |  | 47.3
Key Cave | 150 |  | 6.2
Kirwin | 172 |  | 7.1
Kofa | 35 |  | 1.4
Laguna Atascosa |  |  |
Las Vegas | 65 |  | 2.7
Leadville NFH |  |  |
Leavenworth NFH |  |  |
Little River | 658 |  | 27.2
Little White Salmon NFH |  |  |
Lower Rio Grande Valley |  |  |
Marin Islands |  | 1,825 | 80.2
Mashpee | 225 |  | 9.3
Mattamuskeet | 1 |  | <0.1
McKay Creek | 85 |  | 3.5
Medicine Lake | 10,350 | 60 | 429.8
Middle Mississippi River | 40 | 20 | 2.5
Minidoka | 120 | 900 | 44.5
Monomoy | 165 |  | 6.8
Neal Smith | 200 |  | 8.3
Nestucca Bay |  | 100 | 4.4
Northern Tallgrass Prairie | 124 | 50 | 7.3
Okefenokee | 182 |  | 7.5
Orangeburg NFH |  | 300 | 13.2
Ottawa |  | 365 | 16.0
Ozark Plateau | 522 |  | 21.5
Parker River | 92 |  | 3.8
Patoka River | 150 | 50 | 8.4
Patuxent |  |  |
Piedmont | 10 |  | 0.4
Sacramento | 783 |  | 32.3
Salt Plains | 300 |  | 12.4
San Bernardino | 5 |  | 0.2
San Juan Islands |  |  |
San Pablo Bay | 200 |  | 8.3
Sand Lake | 49 |  | 2.0
Seedskadee | 60 |  | 2.5
Sequoyah | 100 |  | 4.1
Silvio O. Conte |  |  |
Spring Creek NFH |  |  |
St. Marks |  |  |
Stone Lakes |  | 1,825 | 80.2
Sutter | 378 |  | 15.6
Tamarac | 200 |  | 8.3
Tishomingo | 500 |  | 20.6
Tishomingo NFH |  |  |
Trinity River | 92 |  | 3.8
Valentine | 88 |  | 3.6
Valley City NFH |  | 300 | 13.2
Washita | 4,000 |  | 165.1
Whittlesey Creek |  | 50 | 2.2
Wichita Mountains | 1,000 |  | 41.3
Total | 14,508 | 3,750 | 763.5

To the extent visitors spend time and money in the area of the station that they would not have spent there anyway, they contribute new income to the regional economy and benefit local businesses. Due to the unavailability of site-specific expenditure data, we use the national estimates from the 2011 National Survey of Fishing, Hunting, and Wildlife Associated Recreation to identify expenditures for food and lodging, transportation, and other incidental expenses. Using the average expenditures for these categories with the maximum expected additional participation of the Refuge System and the Hatchery System yields approximately $763,500 in recreation-related expenditures (see Table 2, above). By having ripple effects throughout the economy, these direct expenditures are only part of the economic impact of these recreational activities. Using a national impact multiplier for hunting activities (2.27) derived from the report “Hunting in America: An Economic Force for Conservation” and for fishing activities (2.40) derived from the report “Sportfishing in America” yields a total economic impact of approximately $1.8 million (2018 dollars) (Southwick Associates, Inc., 2012). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $1.8 million, and most likely considerably less. Since 80 percent of the participants travel less than 100 miles to engage in hunting and fishing activities, their spending patterns would not add new money into the local economy and, therefore, the real impact would be on the order of about $351,000 annually.

Small businesses within the retail trade industry (such as hotels, gas stations, taxidermy shops, bait-and-tackle shops, and similar businesses) may be affected by some increased or decreased station visitation. A large percentage of these retail trade establishments in the local communities around NWRs and NFHs qualify as small businesses (see Table 3, below). We expect that the incremental recreational changes would be scattered, and so we do not expect that the rule would have a significant economic effect on a substantial number of small entities in any region or nationally. As noted previously, we expect approximately $763,500 to be spent in total in the refuges' local economies. The maximum increase would be less than three-tenths of 1 percent for local retail trade spending (see Table 3, below).

Table 3—Comparative Expenditures for Retail Trade Associated With Additional Station Visitation for 2019-2020
[Thousands, 2018 dollars]
Station/county(ies) | Retail trade in 2012 | Estimated maximum addition from new activities | Addition as % of total | Establishments in 2012 | Establishments with fewer than 10 employees in 2012
Bandon Marsh:
Coos, OR | $815,690 | $4.4 | <0.01 | 261 | 106
Bill Williams River:
La Paz, AZ | 476,807 | 0.3 | <0.01 | 80 | 57
Mohave, AZ | 2,966,929 | 0.3 | <0.01 | 594 | 245
Billy Frank Jr. Nisqually:
Pierce, WA | 11,062,118 | 6.4 | <0.01 | 2,144 | 1,481
Thurston, WA | 3,642,910 | 6.4 | <0.01 | 769 | 516
Bitter Lake:
Chaves, NM | 978,967 | 13.7 | <0.01 | 233 | 153
Bond Swamp:
Bibb, GA | 2,840,899 | 0.5 | <0.01 | 803 | 580
Twiggs, GA | 30,550 | 0.5 | <0.01 | 15 | 12
Bosque del Apache:
Socorro, NM | 131,026 | 14.9 | 0.01 | 39 | 31
Boyer Chute:
Washington, NE | 817,449 | 13.5 | <0.01 | 55 | 36
Cedar Point:
Lucas, OH | 6,538,026 | 1.3 | <0.01 | 1,452 | 965
Cherry Valley:
Monroe, PA | 2,340,937 | 8.0 | <0.01 | 633 | 424
Northampton, PA | 3,967,299 | 8.0 | <0.01 | 879 | 603
Cibola:
La Paz, AZ | 476,807 | 8.3 | <0.01 | 80 | 57
Imperial, CA | 1,833,974 | 8.3 | <0.01 | 448 | 297
Clarks River:
Graves, KY | 441,526 | 1.2 | <0.01 | 125 | 90
Marshall, KY | 429,097 | 1.2 | <0.01 | 103 | 71
McCracken, KY | 1,792,028 | 1.2 | <0.01 | 415 | 256
Colusa:
Colusa, CA | 139,868 | 19.6 | 0.01 | 59 | 45
Crab Orchard:
Jackson, IL | 1,102,806 | 15.1 | <0.01 | 227 | 143
Union, IL | 182,761 | 15.1 | 0.01 | 64 | 47
Williamson, IL | 1,220,878 | 15.1 | <0.01 | 274 | 185
Cross Creeks:
Stewart, TN | 94,752 | 0.5 | <0.01 | 37 | 28
Cypress Creek:
Alexander, IL | 26,475 | 3.9 | 0.01 | 23 | 20
Johnson, IL | 96,890 | 3.9 | <0.01 | 28 | 18
Pulaski, IL | 38,240 | 3.9 | 0.01 | 18 | 15
Union, IL | 182,761 | 3.9 | <0.01 | 64 | 47
Deep Fork:
Okmulgee, OK | 372,982 | 18.6 | <0.01 | 126 | 97
Delevan:
Colusa, CA | 139,868 | 29.5 | 0.02 | 59 | 45
Desoto:
Harrison, IA | 215,702 | 1.2 | <0.01 | 53 | 36
Pottawatamie, IA | 1,922,235 | 1.2 | <0.01 | 311 | 194
Washington, NE | 817,449 | 1.2 | <0.01 | 55 | 36
Edenton NFH:
Chowan, NC | 130,344 | 13.2 | 0.01 | 58 | 44
Grand Bay:
Mobile, AL | 5,580,676 | 0.5 | <0.01 | 1,465 | 1,005
Jackson, MS | 1,334,845 | 0.5 | <0.01 | 425 | 326
Great Bay:
Rockingham, NH | 7,398,381 | 2.6 | <0.01 | 1,596 | 1,106
Great River:
Pike, IL | 208,851 | 4.4 | <0.01 | 64 | 45
Clark, MO | 110,758 | 4.4 | <0.01 | 32 | 28
Shelby, MO | 64,462 | 4.4 | 0.01 | 35 | 25
Green Bay:
Door, WI | 452,931 | 33.2 | 0.01 | 260 | 225
Hackmatack:
McHenry, IL | 4,007,709 | 1.1 | <0.01 | 940 | 629
Walworth, WI | 1,350,117 | 1.1 | <0.01 | 359 | 264
Hagerman:
Montague, TX | 210,612 | 222.9 | 0.11 | 69 | 56
Harrison Lake NFH:
Charles City, VA | 16,075 | 16.0 | 0.10 | 10 | 9
Havasu:
Mohave, AZ | 2,966,929 | 4.2 | <0.01 | 594 | 394
San Bernardino, CA | 26,664,942 | 4.2 | <0.01 | 4,769 | 3,123
Hotchkiss NFH:
Delta, CO | 338,829 | 13.2 | <0.01 | 117 | 93
Hutton Lake:
Albany, WY | 524,488 | 3.9 | <0.01 | 141 | 103
Imperial:
Imperial, CA | 1,833,974 | 0.6 | <0.01 | 448 | 297
La Paz, AZ | 476,807 | 0.6 | <0.01 | 80 | 57
Iron River NFH:
Bayfield, WI | 92,470 | 47.3 | 0.05 | 69 | 57
Key Cave:
Lauderdale, AL | 1,302,366 | 6.2 | <0.01 | 420 | 302
Kirwin:
Phillips, KS | 56,297 | 7.1 | 0.01 | 35 | 27
Kofa:
La Paz, AZ | 476,807 | 0.7 | <0.01 | 80 | 57
Yuma, AZ | 2,182,997 | 0.7 | <0.01 | 452 | 302
Las Vegas:
San Miguel, NM | 241,627 | 2.7 | <0.01 | 82 | 52
Little River:
McCurtain, OK | 301,003 | 27.2 | 0.01 | 101 | 81
Marin Islands:
Marin, CA | 5,564,228 | 80.2 | <0.01 | 1,050 | 762
Mashpee:
Barnstable, MA | 4,218,338 | 9.3 | <0.01 | 1,507 | 1,160
Mattamuskeet:
Hyde, NC | 33,265 | <0.1 | <0.01 | 38 | 35
McKay Creek:
Umatilla, OR | 877,978 | 3.5 | <0.01 | 224 | 155
Medicine Lake:
Roosevelt, MT | 174,121 | 214.9 | 0.12 | 41 | 24
Sheridan, MT | 66,779 | 214.9 | 0.32 | 27 | 18
Middle Mississippi River:
Monroe, IL | 1,816,999 | 0.8 | <0.01 | 97 | 72
Randolph, IL | 408,338 | 0.8 | <0.01 | 102 | 62
Jefferson, MO | 2,135,540 | 0.8 | <0.01 | 482 | 324
Minidoka:
Blaine, ID | 326,573 | 11.1 | <0.01 | 185 | 153
Cassia, ID | 354,240 | 11.1 | <0.01 | 117 | 89
Minidoka, ID | 172,744 | 11.1 | 0.01 | 62 | 47
Power, ID | 32,404 | 11.1 | 0.03 | 18 | 13
Monomoy:
Barnstable, MA | 4,218,338 | 6.8 | <0.01 | 1,507 | 1,160
Neal Smith:
Jasper, IA | 388,658 | 8.3 | <0.01 | 108 | 74
Nestucca Bay:
Tillamook, OR | 272,191 | 4.4 | <0.01 | 115 | 94
Northern Tallgrass Prairie:
Dickinson, IA | 320,317 | 0.5 | <0.01 | 111 | 85
Jasper, IA | 388,658 | 0.5 | <0.01 | 108 | 74
Kossuth, IA | 269,945 | 0.5 | <0.01 | 93 | 69
O'Brien, IA | 223,641 | 0.5 | <0.01 | 100 | 71
Clay, MN | 727,392 | 0.5 | <0.01 | 169 | 97
Kandiyohi, MN | 728,828 | 0.5 | <0.01 | 225 | 154
Kittson, MN | 140,472 | 0.5 | <0.01 | 30 | 21
Lincoln, MN | 73,219 | 0.5 | <0.01 | 38 | 29
Murray, MN | 51,137 | 0.5 | <0.01 | 43 | 34
Norman, MN | 51,396 | 0.5 | <0.01 | 30 | 20
Otter Tail, MN | 849,239 | 0.5 | <0.01 | 261 | 201
Pope, MN | 151,479 | 0.5 | <0.01 | 41 | 32
Rock, MN | 113,737 | 0.5 | <0.01 | 42 | 31
Stevens, MN | 229,738 | 0.5 | <0.01 | 50 | 32
Okefenokee:
Clinch, GA | 48,875 | 2.5 | 0.01 | 21 | 17
Charlton, GA | 64,316 | 2.5 | <0.01 | 32 | 27
Ware, GA | 686,193 | 2.5 | <0.01 | 206 | 147
Orangeburg NFH:
Orangeburg, SC | 1,111,896 | 13.2 | <0.01 | 376 | 267
Ottawa:
Lucas, OH | 6,538,026 | 8.0 | <0.01 | 1,452 | 965
Ottawa, OH | 467,762 | 8.0 | <0.01 | 142 | 109
Ozark Plateau:
Adair, OK | 134,909 | 7.2 | 0.01 | 57 | 42
Cherokee, OK | 427,195 | 7.2 | <0.01 | 146 | 110
Delaware, OK | 403,757 | 7.2 | <0.01 | 140 | 111
Parker River:
Essex, MA | 10,978,447 | 3.8 | <0.01 | 2,598 | 1,875
Patoka River:
Gibson, IN | 609,814 | 4.2 | <0.01 | 122 | 84
Pike, IN | 79,329 | 4.2 | 0.01 | 31 | 23
Piedmont:
Jasper, GA | 52,113 | 0.2 | <0.01 | 24 | 18
Jones, GA | 106,034 | 0.2 | <0.01 | 50 | 40
Sacramento:
Colusa, CA | 139,868 | 16.2 | 0.01 | 59 | 45
Glenn, CA | 209,140 | 16.2 | 0.01 | 73 | 58
Salt Plains:
Alfalfa, OK | 62,493 | 12.4 | 0.02 | 24 | 19
San Bernardino:
Cochise, AZ | 1,386,009 | 0.2 | <0.01 | 414 | 301
San Pablo Bay:
Marin, CA | 5,564,228 | 2.8 | <0.01 | 1,050 | 762
Solano, CA | 5,585,119 | 2.8 | <0.01 | 1,066 | 682
Sonoma, CA | 6,580,062 | 2.8 | <0.01 | 1,766 | 1,274
Sand Lake:
Brown, SD | 885,325 | 2.0 | <0.01 | 201 | 136
Seedskadee:
Sweetwater, WY | 1,007,782 | 2.5 | <0.01 | 197 | 145
Sequoyah:
Haskell, OK | 156,313 | 2.1 | <0.01 | 33 | 22
Muskogee, OK | 1,014,880 | 2.1 | <0.01 | 258 | 178
Stone Lakes:
Sacramento, CA | 16,654,079 | 80.2 | <0.01 | 3,512 | 2,361
Sutter:
Sutter, CA | 1,169,700 | 15.6 | <0.01 | 287 | 201
Tamarac:
Becker, MN | 502,743 | 8.3 | <0.01 | 135 | 92
Tishomingo:
Johnston, OK | 66,800 | 10.3 | 0.02 | 35 | 31
Marshall, OK | 174,821 | 10.3 | 0.01 | 53 | 42
Trinity River:
Liberty, TX | 871,294 | 3.8 | <0.01 | 198 | 142
Valentine:
Cherry, NE | 95,506 | 3.6 | <0.01 | 38 | 27
Valley City NFH:
Barnes, ND | 133,136 | 13.2 | 0.01 | 47 | 29
Washita:
Custer, OK | 580,592 | 165.1 | 0.03 | 148 | 102
Whittlesey Creek:
Bayfield, WI | 92,470 | 2.2 | <0.01 | 69 | 57
Wichita Mountains:
Comanche, OK | 1,539,705 | 41.3 | <0.01 | 409 | 285

With the small change in overall spending anticipated from this proposed rule, it is unlikely that a substantial number of small entities will have more than a small impact from the spending change near the affected stations. Therefore, we certify that, if adopted as proposed, this rule will not have a significant economic effect on a substantial number of small entities as defined under the Regulatory Flexibility Act (5 U.S.C. 601 et seq.). An initial regulatory flexibility analysis is not required. Accordingly, a small entity compliance guide is not required.

Small Business Regulatory Enforcement Fairness Act

The proposed rule is not a major rule under 5 U.S.C. 804(2), the Small Business Regulatory Enforcement Fairness Act. We anticipate no significant employment or small business effects. This rule:

a. Would not have an annual effect on the economy of $100 million or more. The minimal impact would be scattered across the country and would most likely not be significant in any local area.

b. Would not cause a major increase in costs or prices for consumers; individual industries; Federal, State, or local government agencies; or geographic regions. This proposed rule would have only a slight effect on the costs of hunting opportunities for Americans. If the substitute sites are farther from the participants' residences, then an increase in travel costs would occur. The Service does not have information to quantify this change in travel cost but assumes that, since most people travel less than 100 miles to hunt, the increased travel cost would be small. We do not expect this proposed rule to affect the supply or demand for hunting opportunities in the United States, and, therefore, it should not affect prices for hunting equipment and supplies, or the retailers that sell equipment.

c. Would not have significant adverse effects on competition, employment, investment, productivity, innovation, or the ability of U.S.-based enterprises to compete with foreign-based enterprises. This proposed rule represents only a small proportion of recreational spending at NWRs. Therefore, if adopted, this rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This rule would affect only visitors at NWRs and NFHs, and describe what they can do while they are on a Service station.

Federalism (E.O. 13132)

As discussed under Regulatory Planning and Review and Unfunded Mandates Reform Act, above, this proposed rule would not have sufficient federalism implications to warrant the preparation of a federalism summary impact statement under E.O. 13132. In preparing this proposed rule, we worked with State governments.

Civil Justice Reform (E.O. 12988)

In accordance with E.O. 12988, the Department of the Interior has determined that this proposed rule would not unduly burden the judicial system and that it meets the requirements of sections 3(a) and 3(b)(2) of the Order.

Energy Supply, Distribution or Use (E.O. 13211)

On May 18, 2001, the President issued E.O. 13211 on regulations that significantly affect energy supply, distribution, and use. E.O. 13211 requires agencies to prepare Statements of Energy Effects when undertaking certain actions. Because this proposed rule would add 7 NWRs to the list of refuges open to hunting and sport fishing, open or expand hunting or sport fishing at 67 other NWRs, and open 15 NFHs to hunting and/or sport fishing, it is not a significant regulatory action under E.O. 12866, and we do not expect it to significantly affect energy supplies, distribution, or use. Therefore, this action is not a significant energy action, and no Statement of Energy Effects is required.

Consultation and Coordination With Indian Tribal Governments (E.O. 13175)

In accordance with E.O. 13175, we have evaluated possible effects on federally recognized Indian tribes and have determined that there are no effects. We coordinate recreational use on NWRs and NFHs with Tribal governments having adjoining or overlapping jurisdiction before we propose the regulations.

Paperwork Reduction Act (PRA)

This proposed rule contains existing and new information collections. All information collections require approval under the Paperwork Reduction Act of 1995 (44 U.S.C. 3501 et seq.). We may not conduct or sponsor and you are not required to respond to a collection of information unless it displays a currently valid Office of Management and Budget (OMB) control number. The OMB has reviewed and approved the information collection requirements associated with hunting and sport fishing activities across the National Wildlife Refuge System and assigned the following OMB control numbers:

• 1018-0140, “Hunting and Sport Fishing Application Forms and Activity Reports for National Wildlife Refuges, 50 CFR 25.41, 25.43, 25.51, 26.32, 26.33, 27.42, 30.11, 31.15, 32.1 to 32.72” (Expires 07/30/2021),

• 1018-0153, “National Wildlife Refuge Visitor Check-In Permit and Use Report” (Expires 04/30/2022),

• 1018-0102, “National Wildlife Refuge Special Use Permit Applications and Reports, 50 CFR 25, 26, 27, 29, 30, 31, 32, & 36” (Expires 08/31/2020),

• 1018-0135, “Electronic Federal Duck Stamp Program” (Expires 01/31/2020),

• 1018-0093, “Federal Fish and Wildlife Permit Applications and Reports—Management Authority; 50 CFR 13, 15, 16, 17, 18, 22, 23” (Expires 08/31/2020), and

• 1024-0252, “The Interagency Access Pass and Senior Pass Application Processes” (Expires 08/31/2020).

The new information collection requirements identified below require approval by OMB:

(1) Labeling/Marking Requirements—As a condition of the permit, some refuges require permittees to label hunting and fishing gear left overnight. This equipment may include items such as the following: Tree stands, blinds, or game cameras; hunting dogs (collars); flagging/trail markers; boats; and/or fishing equipment such as jugs, trotlines, and crawfish or crab traps. Refuges require the owner label their equipment with their last name, the state issued hunting/fishing license number, and/or hunting/fishing permit number. Refuges may also require equipment for youth hunters include “YOUTH” on the label. This minimal information is necessary in the event the refuge needs to contact the owner.

(2) Notifications—On occasion, hunters may find their game has landed outside of established hunting boundaries. In this situation, hunters must notify an authorized refuge employee to obtain consent to retrieve the game from an area closed to hunting or entry only upon specific consent. Certain refuges also require hunters to notify the refuge manager when hunting specific species (e.g., black bear, bobcat, or eastern coyote) with trailing dogs. Refuges may also require advance notification by disabled hunters requesting special accommodations on the refuge.

(3) Transfer of FWS Form 3-2405—Currently, OMB approval of FWS Form 3-2405 is under OMB Control No. 1018-0153. With this submission, the Service is requesting the transfer of the form into OMB Control No. 1018-0140 so all forms associated with hunting and/or sport fishing activities in use by the National Wildlife Refuge System are contained under the same information collection. Upon approval of this transfer by OMB at the final rule stage of RIN 1018-BD79, we will discontinue OMB Control No. 1018-0153 on the effective date of the final rule for 1018-BD79.

(4) We are proposing FWS Form 3-2439 Hunt Application—National Wildlife Refuge System, to replace existing FWS Forms 3-2354 through 3-2357. This will streamline the application process and reduce the regulatory burden on the public.

Title of Collection: Hunting and Fishing Application Forms and Activity Reports for National Wildlife Refuges, 50 CFR 25.41, 25.43, 25.51, 26.32, 26.33, 27.42, 30.11, 31.15, 32.1 to 32.72.

OMB Control Number: 1018-0140.

Form Number: FWS Forms 3-2405, 3-2439, and 3-2358 through 3-2362.

Type of Review: Revision of a currently approved collection.

Respondents/Affected Public: Individuals and households.

Respondent's Obligation: Required to Obtain or Retain a Benefit.

Frequency of Collection: On occasion.

Total Estimated Annual Nonhour Burden Cost: $84,000.

Activity | Annual number of responses | Completion time per response (minutes) | Total annual burden hours
Hunting and Fishing Permit Applications:
Form 3-2439 Hunt Application/Permit | 348,689 | 10 | 58,115
Form 3-2358 Fish/Crab/Shrimp Application/Permit | 2,472 | 5 | 206
Subtotal Applications | 351,161 |  | 58,321
Harvest Activity Reports:
Form 3-2359 Big Game Harvest Report | 91,879 | 15 | 22,970
Form 3-2360 Fishing Harvest Report | 421,112 | 15 | 105,278
Form 3-2361 Migratory Bird Harvest Report | 32,821 | 15 | 8,205
Form 3-2362 Upland Game Furbearer Harvest Report | 25,024 | 15 | 6,256
Subtotal Activity Reports | 570,836 |  | 142,709
New Information Collections Added to Collection:
Labeling/Marking Requirements | 2,160 | 10 | 360
Notifications | 384 | 30 | 192
Form 3-2405 Check-In/Out Permit (from 1018-0153) | 650,000 | 5 | 54,167
Subtotal Other Requirements | 652,544 |  | 54,719
Totals | 1,574,541 |  | 255,749

As part of our continuing effort to reduce paperwork and respondent burdens, we invite the public and other Federal agencies to comment on any aspect of this information collection, including:

(1) Whether or not the collection of information is necessary, including whether or not the information will have practical utility;

(2) The accuracy of our estimate of the burden for this collection of information;

(3) Ways to enhance the quality, utility, and clarity of the information to be collected; and

(4) Ways to minimize the burden of the collection of information on respondents.

Send your comments and suggestions on this information collection by the date indicated in DATES to the Desk Officer for the Department of the Interior at OMB-OIRA at (202) 395-5806 (fax) or OIRA_Submission@omb.eop.gov (email). You may view the information collection request(s) at http://www.reginfo.gov/public/do/PRAMain. Please provide a copy of your comments to the Service Information Collection Clearance Officer, Madonna Baucum, U.S. Fish and Wildlife Service, 5275 Leesburg Pike, MS: AMAD-ARM-PPM, Falls Church, VA 22041-3803 (mail); (703) 358-2503 (telephone); or Info_Coll@fws.gov (email). Please reference OMB Control Number 1018-0140 in the subject line of your comments.

Endangered Species Act Section 7 Consultation

We comply with section 7 of the Endangered Species Act of 1973, as amended (16 U.S.C. 1531 et seq.), when developing comprehensive conservation plans and step-down management plans—which would include hunting and/or fishing plans—for public use of refuges and hatcheries, and prior to implementing any new or revised public recreation program on a station as identified in 50 CFR 26.32. We have completed section 7 consultation on each of the affected stations.

National Environmental Policy Act

We analyzed this proposed rule in accordance with the criteria of the National Environmental Policy Act of 1969 (NEPA) (42 U.S.C. 4332(C)), 43 CFR part 46, and 516 Departmental Manual (DM) 8.

A categorical exclusion from NEPA documentation applies to publication of proposed amendments to station-specific hunting and fishing regulations because they are technical and procedural in nature, and the environmental effects are too broad, speculative, or conjectural to lend themselves to meaningful analysis (43 CFR 46.210 and 516 DM 8). Concerning the actions that are the subject of this proposed rulemaking, we have complied with NEPA at the project level when developing each proposal. This is consistent with the Department of the Interior instructions for compliance with NEPA where actions are covered sufficiently by an earlier environmental document (43 CFR 46.120).

Prior to the addition of a refuge or hatchery to the list of areas open to hunting and fishing in 50 CFR parts 32 and 71, we develop hunting and fishing plans for the affected stations. We incorporate these proposed station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA, the Council on Environmental Quality's regulations for implementing NEPA in 40 CFR parts 1500 through 1508, and the Department of Interior's NEPA regulations 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the states listed below:

Hawaii, Idaho, Oregon, and Washington. Regional Chief, National Wildlife Refuge System, U.S. Fish and Wildlife Service, Eastside Federal Complex, Suite 1692, 911 NE 11th Avenue, Portland, OR 97232-4181; Telephone (503) 231-6214.

Arizona, New Mexico, Oklahoma, and Texas. Regional Chief, National Wildlife Refuge System, U.S. Fish and Wildlife Service, P.O. Box 1306, 500 Gold Avenue SW, Albuquerque, NM 87103; Telephone (505) 248-6937.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5360.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-8145.

Alaska. Regional Chief, National Wildlife Refuge System, U.S. Fish and Wildlife Service, 1011 E Tudor Rd., Anchorage, AK 99503; Telephone (907) 786-3545.

California and Nevada. Regional Chief, National Wildlife Refuge System, U.S. Fish and Wildlife Service, 2800 Cottage Way, Room W-2606, Sacramento, CA 95825; Telephone (916) 414-6464.

Primary Author

Katherine Harrigan, Division of Natural Resources and Conservation Planning, National Wildlife Refuge System, is the primary author of this rulemaking document.

List of Subjects

50 CFR Part 26

Recreation and recreation areas, Wildlife refuges.

50 CFR Part 32

Fishing, Hunting, Reporting and recordkeeping requirements, Wildlife, Wildlife refuges.

50 CFR Part 36

Alaska, Recreation and recreation areas, Reporting and recordkeeping requirements, Wildlife refuges.

50 CFR Part 71

Fish, Fishing, Hunting, Wildlife.

Proposed Regulation Promulgation

For the reasons set forth in the preamble, we propose to amend title 50, chapter I, subchapters C and E of the Code of Federal Regulations as follows:

Subchapter C—The National Wildlife Refuge System

PART 26—PUBLIC ENTRY AND USE

1. The authority citation for part 26 continues to read as follows:

Authority: 5 U.S.C. 301; 16 U.S.C. 460k, 664, 668dd-668ee, and 715i; Pub. L. 96-315 (94 Stat. 958) and Pub. L. 98-146 (97 Stat. 955).

2. Revise § 26.34 to read as follows:

§ 26.34 What are the special regulations concerning public access, use, and recreation for individual national wildlife refuges?

The following refuge units, listed in alphabetical order by State and unit name, have refuge-specific regulations for public access, use, and recreation.

(a) Alabama—(1) Bon Secour National Wildlife Refuge. (i) We allow only nonmotorized boats and boats with electric motors on Gator and Little Gator Lakes.

(ii) [Reserved]

(2) Eufaula National Wildlife Refuge. (i) We prohibit the use of motorized watercraft in all refuge waters not directly connected to Lake Eufaula.

(ii) We prohibit the use of all air-thrust boats, including airboats, aircraft, boats with secondary fans, and hovercraft.

(iii) We prohibit the use of personal watercraft or air-cooled propulsion engines outside of marked navigation channels.

(iv) We prohibit the mooring or storing of boats from 1½ hours after legal sunset to 1½ hours before legal sunrise.

(3) Wheeler National Wildlife Refuge. (i) We prohibit mooring or storing of boats from legal sunset to legal sunrise.

(ii) We prohibit airboats and hovercraft on all waters within the refuge boundaries.

(iii) We prohibit inboard waterthrust boats such as, but not limited to, personal watercraft, watercycles, and waterbikes on all waters of the refuge except that portion of the Tennessee River and Flint Creek from its mouth to mile marker 3.

(b) Arizona—(1) Bill Williams River National Wildlife Refuge. (i) We prohibit personal watercraft (PWC as governed by State law), air thrust boats, and hovercraft on all waters within the boundaries of the refuge.

(ii) We designate all refuge waters as wakeless speed zones (as governed by State law) as indicated by signs or regulatory buoys.

(iii) The nonmotorized watercraft launch and Central Arizona Project (CAP) peninsula are day-use only areas and are open from ½ hour before legal sunrise to ½ hour after legal sunset. We allow fishing and the launching of watercraft at these and other areas 24 hours a day.

(iv) We prohibit the possession or consumption of open containers of alcohol or the possession of glass beverage containers in improved areas, including the nonmotorized watercraft launch and the CAP peninsula.

(2) Havasu National Wildlife Refuge. (i) We prohibit the use of all air-thrust boats or air-cooled propulsion engines, including floating aircraft.

(ii) The following conditions apply only on Topock Marsh:

(A) We close designated portions to all entry from October 1 through the last day of the waterfowl hunt season (including the State junior waterfowl hunt).

(B) We close designated portions to all entry from April 1 through August 31. These areas are indicated in refuge brochures and identified by buoys and or signs.

(C) We prohibit personal watercraft (PWC, as governed by State law).

(iii) The following conditions apply to all waters of the Colorado River within the refuge from the south regulatory buoy line to the north regulatory buoy line at Interstate 40 (approximately 17 miles (27.2 kilometers)):

(A) We prohibit personal watercraft (PWC, as governed by State law) as indicated by signs or regulatory buoys in all backwaters.

(B) We limit watercraft speed as indicated by signs or regulatory buoys to no wake (as governed by State law) in all backwaters.

(C) We prohibit water-skiing, tubing, wake boarding, or other recreational-towed devices.

(iv) The following conditions apply to improved areas within the refuge; improved areas consist of the Mesquite Bay areas, Castle Rock, the Diving Cliffs, Catfish Paradise, Five Mile Landing, and North Dike:

(A) We prohibit entry of all motorized watercraft in all three bays of the Mesquite Bay areas as indicated by signs or regulatory buoys.

(B) Improved areas are day-use only and are open from ½ hour before legal sunrise to ½ hour after legal sunset. We allow fishing and launching watercraft at these and other areas 24 hours a day.

(C) We prohibit the possession of open containers of alcohol or the possession of glass beverage containers in improved areas.

(c) Arkansas—(1) Bald Knob National Wildlife Refuge. (i) We prohibit mooring houseboats to the refuge bank on the Little Red River.

(ii) [Reserved]

(2) Big Lake National Wildlife Refuge. (i) We prohibit boats from November 1 through February 28, except on that portion of the refuge open for public fishing with electric motors and Ditch 28.

(ii) [Reserved]

(3) Cache River National Wildlife Refuge. (i) We prohibit the mooring of houseboats to refuge property.

(ii) [Reserved]

(4) Dale Bumpers White River National Wildlife Refuge. (i) We allow camping only in designated sites and areas identified in the refuge user brochure (signed brochure), and we restrict camping to individuals involved in wildlife-dependent activities. We limit camping on the refuge to no more than 14 days during any 30 consecutive-day period. Campers must occupy camps daily. We prohibit all disturbances, including use of generators, after 10 p.m.

(ii) We allow refuge users to leave boats 16 feet (4.8 meters) or less in length unattended overnight from March 1 to October 31, as long as the owner clearly and prominently displays his or her boat registration number.

(5) Felsenthal National Wildlife Refuge. (i) We allow camping only at designated primitive campground sites identified in the refuge hunt brochure, and we restrict camping to individuals involved in wildlife-dependent refuge activities.

(ii) Campers may stay no more than 14 days during any 30 consecutive-day period in any campground and must occupy camps daily.

(iii) We prohibit all disturbances, including use of generators, after 10 p.m.

(6) Overflow National Wildlife Refuge. (i) We prohibit all boat motors (including surface drive motors, mud motors, etc.) larger than 25 horsepower.

(ii) [Reserved]

(7) Pond Creek National Wildlife Refuge. (i) We allow camping only at designated primitive campground sites identified in the refuge hunt brochure. We restrict camping to the individuals involved in refuge wildlife-dependent activities. Campers may stay no more than 14 days during any consecutive 30-day period in a campground and must occupy the camps daily. We prohibit all disturbances, including use of generators, after 10 p.m.

(ii) You must unload all hunting firearms and crossbows (see § 27.42(b) of this chapter) within 100 yards (90 meters) of a campground.

(iii) We prohibit camping on the refuge while hunting off the refuge.

(iv) We prohibit consumption or possession of opened container(s) of alcoholic beverage(s) in parking lots, on roadways, and in plain view in campgrounds.

(v) We prohibit fires outside of campgrounds.

(vi) We prohibit possession or use of fireworks.

(vii) We prohibit geocaching.

(d) California—(1) Colusa National Wildlife Refuge. (i) No person may build or maintain fires, except in portable gas stoves in designated parking/overnight stay areas.

(ii) We only allow overnight stays in vehicles, motor homes, and trailers at the check station parking areas on Tuesdays, Fridays, and Saturdays (closed on Federal holidays).

(iii) You must restrain dogs on a leash within all designated parking areas and vehicle access roads.

(2) Delevan National Wildlife Refuge. (i) No person may build or maintain fires, except in portable gas stoves in designated parking/overnight stay areas.

(ii) We only allow overnight stays in vehicles, motor homes, and trailers at the check station parking areas on Tuesdays, Fridays, and Saturdays (closed on Federal holidays).

(iii) You must restrain dogs on a leash within all designated parking areas and vehicle access roads.

(3) Lower Klamath National Wildlife Refuge. (i) We prohibit air-thrust and inboard water-thrust boats.

(ii) You may use only nonmotorized boats and boats with electric motors on designated motorless units from the start of the hunting season through November 30. You may use motorized boats on designated motorless units from December 1 through the end of hunting season.

(4) Sacramento National Wildlife Refuge. (i) No person may build or maintain fires, except in portable gas stoves in designated parking/overnight stay areas.

(ii) We only allow overnight stays in vehicles, motor homes, and trailers at the check station parking areas on Tuesdays, Fridays, and Saturdays (closed on Federal holidays).

(iii) You must restrain dogs on a leash within all designated parking areas and vehicle access roads.

(5) Sacramento River National Wildlife Refuge. (i) We prohibit fires on the refuge, except we allow portable gas stoves on gravel bars (see § 27.95(a) of this chapter).

(ii) We open the refuge for day-use access from 2 hours before legal sunrise until 1½ hours after legal sunset. We allow access during other hours on gravel bars only.

(iii) On Packer Lake and Drumheller North, due to primitive access, we only allow boats up to 14 feet (4.2 meters) and canoes. Electric motors only.

(6) San Pablo Bay National Wildlife Refuge. (i) We prohibit launching of boats and access to the Bay or sloughs from refuge property except from designated boat launch sites (Cullinan Ranch Unit and Dickson Ranch Unit).

(ii) We allow only nonmotorized crafts at the Cullinan Ranch Unit and Dickson Ranch Unit launch sites.

(7) Sutter National Wildlife Refuge. (i) No person may build or maintain fires, except in portable gas stoves in designated parking/overnight stay areas.

(ii) We only allow overnight stays in vehicles, motor homes, and trailers at the check station parking areas on Tuesdays, Fridays, and Saturdays (closed on Federal holidays).

(iii) You must restrain dogs on a leash within all designated parking areas and vehicle access roads.

(e)-(f) [Reserved]

(g) Delaware—(1) Prime Hook National Wildlife Refuge. (i) The maximum horsepower allowed for boat motors is 30 horsepower. You must abide by the slow, no-wake zones on designated portions of refuge waterways as depicted in maps or within the brochure.

(ii) [Reserved]

(2) [Reserved]

(h) Florida—(1) Arthur R. Marshal Loxahatchee National Wildlife Refuge. (i) We allow only boats equipped with factory-manufactured-water-cooled outboard motors, boats with electric motors, and nonmotorized boats. We prohibit boats with air-cooled engines, airboats, fan boats, hovercraft, and personal watercraft (e.g., Jet Skis, jet boats, wave runners).

(ii) There is a 35 miles per hour (mph) speed limit in all waters of the refuge. A 500-foot (150-meter) “idle speed zone” is at each of the refuge's three boat ramps.

(iii) We require all boats operating outside of the main perimeter canals (the L-40 Canal, L-39 Canal, L-7 Canal, and L-101 Canal) in interior areas of the refuge and within the hunt area to fly a 12-inch by 12-inch (30-centimeters (cm) by 30-cm) orange flag 10 feet (3 meters) above the vessel's waterline.

(2) Chassahowitzka National Wildlife Refuge. (i) We allow airboats only on the designated airboat route within Citrus County and on all navigable waterways within Hernando County with a refuge Special Use Permit (General Activities Special Use Permit Application, FWS Form 3-1383-G) issued by the U.S. Fish and Wildlife Service.

(ii) We prohibit the use of airboats on vegetation.

(3) J.N. “Ding” Darling National Wildlife Refuge. (i) We prohibit kite surfing, kite boarding, wind surfing, and sail boarding.

(ii) We allow vessels propelled only by polling, paddling, or floating in the posted “no-motor zone” of the J.N. “Ding” Darling Wilderness Area. All motors, including electric motors, must be in a nonuse position (out of the water) when in the “no-motor zone.”

(iii) We allow vessels propelled only by polling, paddling, floating, or electric motors in the posted “pole/troll zone” of the Wulfert Flats Management Area. All non-electric motors must be in a nonuse position (out of the water) when in the “pole/troll zone.”

(iv) We allow launching of canoes and kayaks anywhere on the right (north) side of Wildlife Drive. We prohibit launching motorized vessels over 14 feet (4.2 meters) in length from Wildlife Drive. Motorized vessels less than 14 feet (4.2 meters) in length may only be launched from designated site #2.

(v) We prohibit airboats, hovercraft, personal watercraft, and “Go-Devil”-style outboard motors.

(vi) Vessels must not exceed slow speed/minimum wake in refuge waters.

(4) Lake Woodruff National Wildlife Refuge. (i) During hunting seasons, we close hunting areas on the refuge to all public use except to hunters possessing a valid permit. Hunting areas are marked on refuge maps.

(ii) We close the refuge between legal sunset and legal sunrise.

(iii) We prohibit the use of airboats on the refuge.

(5) Lower Suwannee National Wildlife Refuge. (i) We prohibit leaving boats on the refuge overnight.

(ii) [Reserved]

(6) St. Marks National Wildlife Refuge. (i) We prohibit use of boats with motors over 10 horsepower on any refuge lake or pond.

(ii) We allow use of hand-launched boats on impoundments on the St. Marks Unit from March 15 through October 15 each year. We prohibit launching of boats from trailers in the impoundments in the St. Marks Unit. We prohibit all gasoline-powered motors in the impoundments in the St. Marks Unit.

(iii) You may not launch commercially registered boats, air-thrust boats, or personal watercraft at the saltwater boat ramp on the St. Marks Unit. We also prohibit commercial guides from launching any type of watercraft at the saltwater boat ramp on the St. Marks Unit.

(iv) You may not launch air-thrust boats or personal watercraft from Wakulla Beach. We also prohibit commercial guides from launching any type of watercraft from Wakulla Beach.

(7) St. Vincent National Wildlife Refuge. (i) We restrict camping and fires (see § 27.95(a) of this chapter) to the two designated camping areas. We may restrict or ban fires during dry periods.

(ii) We prohibit the use or possession of alcoholic beverages during the refuge hunt period (see § 32.2(j) of this chapter).

(iii) We prohibit motorized equipment, generators, or land vehicles (except bicycles).

(iv) Visitors must observe quiet time in the campground between 9 p.m. and 5 a.m. We prohibit loud or boisterous behavior or activity.

(v) We allow boats with electric motors. You must remove all other motors from the boats and secure them to a designated motor rack with a lock and chain.

(vi) We allow boats in refuge lakes from May 15 through September 30.

(8) Ten Thousand Islands National Wildlife Refuge. (i) We prohibit air-thrust boats, hovercraft, personal watercraft (e.g., Jet Skis, jet boats, wave runners), and off-road vehicles in the freshwater and brackish marsh area south of U.S. 41.

(ii) We limit vessels to a maximum of 25 horsepower outboard motor.

(i) Georgia—(1) Banks Lake National Wildlife Refuge. (i) We prohibit swimming, wading, jet skiing, water skiing, and the use of airboats.

(ii) [Reserved]

(2) Bond Swamp National Wildlife Refuge. (i) We prohibit overnight camping.

(ii) We prohibit overnight parking.

(iii) We allow boat launching at the Stone Creek Boat Launch. During periods of high water, we allow boats to be launched from refuge roads normally open to vehicle traffic. We allow gasoline motors only during periods of high water as defined as a reading of 18 feet (5.5 meters) or higher at the Macon Gauge on the Ocmulgee River.

(iv) We prohibit bicycles on foot travel roads or off road. We restrict bicycles to roads designated open to vehicles.

(3) Okefenokee National Wildlife Refuge. (i) We only allow foot and bicycle traffic on the refuge portion of Cowhouse Island.

(ii) We only allow the use of 10 horsepower motors or less on the refuge.

(iii) We prohibit paddleboarding, air boats, swimming, and wading.

(iv) We require all boats to be off the water by posted time.

(4) Piedmont National Wildlife Refuge. (i) The refuge is a day-use-only area, with the exception of legal hunting activities.

(ii) We prohibit bicycles on foot travel roads or off road. We restrict bicycles to gravel roads designated open to vehicles.

(iii) We prohibit overnight camping and/or parking except in the designated campgrounds at Pippins Lake during quota deer hunts with a valid permit (state-issued).

(iv) We allow alcoholic beverages only in the designated campground.

(j) [Reserved]

(k) Idaho—(1) Deer Flat National Wildlife Refuge. (i) From April 15 through September 30, we allow motorized and nonmotorized boats from ½ hour before legal sunrise to ½ hour after legal sunset throughout the Lake Lowell Unit.

(ii) [Reserved]

(2) Grays Lake National Wildlife Refuge. (i) We only allow nonmotorized boats on the refuge.

(ii) [Reserved]

(3) Minidoka National Wildlife Refuge. (i) We allow the use of float tubes year-round, throughout all of Lake Walcott.

(ii) We allow boats on designated areas of Lake Walcott from April 1 through October 31.

(l) Illinois—(1) Chautauqua National Wildlife Refuge. (i) Motorboats must not exceed “no-wake” speeds.

(ii) We prohibit the public entering Weis Lake on the Cameron-Billsbach Unit of the refuge from October 16 through January 31.

(iii) We prohibit leaving boats on refuge waters overnight (see § 27.93 of this chapter).

(2) Crab Orchard National Wildlife Refuge. (i) We restrict motorboats on all refuge waters to slow speeds leaving “no wake” within 150 feet (45 meters) of any shoreline, swimming area, marina entrance, boat ramp, causeway tunnel, and areas indicated on the lake zoning map in the refuge fishing brochure.

(ii) We prohibit the use of boat motors of more than 10 horsepower on Devils Kitchen and Little Grassy Lakes.

(iii) We prohibit the use of gas-powered motors in the southeastern section of Devils Kitchen Lake (consult lake zoning map in the refuge fishing brochure).

(3) Emiquon National Wildlife Refuge. (i) We allow the use of motorized boats at no-wake speeds on all refuge waters.

(ii) We prohibit leaving boats on refuge waters overnight.

(4) Meredosia National Wildlife Refuge. (i) We prohibit leaving boats on refuge waters overnight.

(ii) Motorboats must not exceed “no-wake” speeds.

(5) Port Louisa National Wildlife Refuge. (i) We close the following divisions to all public access:

(A) Louisa Division—September 15 until January 1;

(B) Horseshoe Bend Division—September 15 until December 1; and

(C) Keithsburg Division—September 15 until January 1.

(ii) [Reserved]

(6) Upper Mississippi River National Wildlife and Fish Refuge. Refer to paragraph (v)(2) of this section for regulations.

(m) Indiana—(1) Big Oaks National Wildlife Refuge. (i) We allow boats only if rowed, paddled, or powered by an electric trolling motor on the Old Timbers Lake.

(ii) [Reserved]

(2) Muscatatuck National Wildlife Refuge. (i) We allow the use of boats (hand- or foot-propelled only) on Stanfield Lake. We prohibit the use of electric or gasoline motors.

(ii) We allow the use of kayaks and nonmotorized canoes on Richart Lake.

(3) Patoka River National Wildlife Refuge and Management Area. (i) We allow motorboats only on Snakey Point Marsh east of the South Fork River and the Patoka River. All other areas are open to either manual-powered boats or boats with battery-driven motors only.

(ii) Motorboats must not exceed “no wake” speeds.

(iii) We prohibit the use of powered airboats on the refuge.

(n) Iowa—(1) Desoto National Wildlife Refuge. (i) We limit boating to “no-wake” speeds, not to exceed 5 miles per hour.

(ii) [Reserved]

(2) Upper Mississippi River National Wildlife and Fish Refuge. Refer to paragraph (v)(2) of this section for regulations.

(o) Kansas—(1) Kirwin National Wildlife Refuge. (i) We allow motorized boating in the main body of Kirwin Reservoir and in Bow Creek. You must not create a wake in Bow Creek or within 100 yards (90 meters) of any shoreline or island in the main body of Kirwin Reservoir. We prohibit motorized boats in the Solomon Arm of Kirwin Reservoir.

(ii) We allow motorless boats in the Solomon Arm of Kirwin Reservoir from August 1 through September 30.

(2) Marais des Cygnes National Wildlife Refuge. (i) We restrict outboard motor use to the westernmost 5.5 miles (8.8 kilometers) of the Marais des Cygnes River. You may use only nonmotorized boats and electric trolling motors on remaining waters in designated areas of the refuge.

(ii) [Reserved]

(p) Kentucky—(1) Clarks River National Wildlife Refuge. (i) We allow horseback riding on refuge roads and portions of the abandoned railroad tracks owned by the refuge for access purposes while engaged in wildlife activities. We prohibit horses and mules off these secondary access routes for any reason.

(ii) [Reserved]

(2) [Reserved]

(q) Louisiana—(1) Bayou Sauvage National Wildlife Refuge. (i) The refuge is open from 30 minutes before legal sunrise to 30 minutes after legal sunset.

(ii) We allow only outboard motors 25 horsepower or less in waterways inside the hurricane protection levee.

(2) Bayou Teche National Wildlife Refuge. (i) You may use motorized boats only in existing canals, ditches, trenasses, and ponds. We prohibit motorized boat use in areas marked as nonmotorized use only.

(ii) The refuge is open from legal sunrise until legal sunset unless stated otherwise.

(iii) We open the Franklin Unit canals (birdfoot canals) for motorized boats between April 15 and August 31. This unit is open to nonmotorized boats all year.

(3) Big Branch Marsh National Wildlife Refuge. (i) We prohibit air-thrust boats, aircraft, mud boats, and air-cooled propulsion engines on the refuge.

(ii) We open the refuge to public entry from ½ hour before legal sunrise to ½ hour after legal sunset.

(4) Black Bayou National Wildlife Refuge. (i) You may enter the refuge ½ hour before legal sunrise, and you must exit no later than ½ hour after legal sunset.

(ii) You may only launch boats at the concrete ramp adjacent to the visitor center. We prohibit launching boats with motors greater than 50 horsepower.

(iii) We prohibit leaving boats or other equipment on the refuge overnight (see § 27.93 of this chapter).

(iv) We require a boat launch fee. You must pay the launch fee before launching boat.

(v) We prohibit crossing the water hyacinth booms in a boat or traveling over idle speed within the booms.

(5) Bogue Chitto National Wildlife Refuge. (i) We allow primitive camping within 100 feet (30 meters) of designated streams. These include either bank of the Boque Chitto River, Wilson Slough, and West Pearl River south of Wilson Slough; refuge lands along the East Pearl River; and Holmes Bayou. Campers must mark their campsite with the owner's State license/identification number, or boat identification number, and dates of occupancy placed in a conspicuous location in the center of camp.

(ii) [Reserved]

(6) Cameron Prairie National Wildlife Refuge. (i) We prohibit overnight camping on the refuge.

(ii) We allow only nonpowered boats in the Bank Fishing Road waterways.

(iii) We allow operation of outboard motors in refuge canals, bayous, and lakes. We allow only trolling motors in the marsh.

(7) Catahoula National Wildlife Refuge. (i) We allow the use of nonmotorized boats or boats with motors of 10 horsepower or less on refuge lakes and waters as designated. We prohibit the use of air-thrust boats, water-thrust boats, or personal watercraft.

(ii) We prohibit overnight camping on the refuge.

(iii) We prohibit overnight parking on the refuge.

(8) Cat Island National Wildlife Refuge. (i) We prohibit overnight camping on the refuge.

(ii) We prohibit overnight parking on the refuge.

(iii) We prohibit air-thrust boats on the refuge.

(iv) We prohibit boat launching by trailer from all refuge roads and parking lots except at designated boat ramps.

(9) D'Arbonne National Wildlife Refuge. (i) We prohibit motorized boats in the No Gun Hunting Area (the “Beanfield”) from November 1 through January 31.

(ii) We prohibit leaving boats and other personal property on the refuge overnight.

(10) Grand Cote National Wildlife Refuge. (i) We prohibit overnight camping on the refuge.

(ii) We prohibit overnight parking on the refuge.

(iii) We allow only electric-powered or nonmotorized boats.

(11) Lacassine National Wildlife Refuge. (i) We prohibit overnight camping on the refuge.

(ii) We allow boats of all motor types with 40 horsepower or less in Lacassine Pool.

(iii) We prohibit boats in Lacassine Pool and Unit D from October 16 through March 14. We prohibit boats in Units A and C.

(iv) We prohibit air-thrust boats, all-terrain vehicles (ATVs), and Jet Skis on the refuge (see § 27.31(f) of this chapter).

(v) We prohibit dragging or driving of boats over levees.

(vi) You must only launch trailered boats at the cement ramps at the public boat launches in Lacassine Pool.

(vii) We only allow boats powered by paddling or trolling motors in the Unit D impoundment within Lacassine Pool.

(12) Lake Ophelia National Wildlife Refuge. (i) We allow watercraft with motors up to 36 horsepower in Possum Bayou (north of boat ramp), Palmetto Bayou, Duck Lake, Westcut Lake, Point Basse, and Nicholas Lake.

(ii) We allow electric-powered or nonmotorized boats in Doomes Lake, Lake Long, Possum Bayou (south of boat ramp), and Lake Ophelia.

(iii) We prohibit overnight camping on the refuge.

(iv) We prohibit overnight parking on the refuge.

(13) Mandalay National Wildlife Refuge. (i) We allow air-cooled propulsion engines on the refuge.

(ii) We prohibit air-thrust boats or marsh buggies on the refuge. We restrict motorized boat use to existing canals, ditches, trenasses, and ponds.

(14) Sabine National Wildlife Refuge. (i) You may access the hunt areas by boat using the boat launches at the West Cove Public Use Area or by access through Burton Canal. You may access hunt areas by vehicle from Vastar Road or designated turnouts within the refuge public hunt area along State Highway 27 (see § 27.31 of this chapter) unless otherwise posted.

(ii) We allow hand launching of small boats along Vastar Road (no trailers allowed). We allow hand launching of nonmotorized boats into Units 1A and 1B from Blue Crab Recreation Area for recreational paddling year-round.

(iii) We allow operation of outboard motors in designated refuge canals only. We allow trolling motors within the refuge marshes.

(iv) We prohibit air-thrust boats, personal motorized watercraft (e.g., Jet Skis), and all-terrain vehicles (ATVs) on the refuge (see § 27.31(f) of this chapter) unless otherwise posted.

(v) We prohibit overnight camping on the refuge.

(vi) We prohibit swimming and/or wading in the refuge canals and waterways.

(15) Tensas River National Wildlife Refuge. (i) We allow nonmotorized boats, electric motors, and boats with motors 10 horsepower or less in refuge lakes, streams, and bayous. Boaters must follow State boating regulations, including those for navigation lights. We prohibit boat storage on the refuge.

(ii) We allow use of nonmotorized bicycles on designated all-terrain vehicle (ATV) trails.

(16) Upper Ouachita National Wildlife Refuge. (i) We prohibit outboard motors in the Wigeon Ponds (only trolling motors allowed).

(ii) We prohibit launching boats from a trailer or from a nondesignated boat ramp within the Mollicy levee.

(r) Maine—(1) Rachel Carson National Wildlife Refuge. (i) We allow car-top launching from legal sunrise to legal sunset on the following areas of the refuge:

(A) At Brave Boat Harbor division on Chauncey Creek at the intersection of Cutts Island Road and Sea Point Road.

(B) At Little River division at the end of Granite Point Road into the Little River.

(C) At Spurwink River division on the upstream side of Route 77 at the old road crossing.

(ii) [Reserved]

(2) [Reserved]

(s) Maryland—(1) Blackwater National Wildlife Refuge. (i) We prohibit boat launching from refuge lands except from the car-top boat launch located near the Blackwater River Bridge on Route 335. Only canoes, kayaks, and small jon boats under 17 feet are considered car-top boats.

(ii) We prohibit the use of airboats on refuge waters.

(2) Eastern Neck National Wildlife Refuge. (i) We prohibit boat launching from refuge lands except for canoes and kayaks at the canoe/kayak ramp located at the Ingleside Recreation Area.

(ii) [Reserved]

(t)-(u) [Reserved]

(v) Minnesota—(1) Big Stone National Wildlife Refuge. (i) We allow nonmotorized boats and boats using electric motors only in the Minnesota River channel. We prohibit boats on all other refuge waters.

(ii) [Reserved]

(2) Upper Mississippi River National Wildlife and Fish Refuge—(i) Wildlife observation, photography, interpretation, environmental education, and other general recreational uses. We allow wildlife-dependent uses and other recreational uses, such as, but not limited to, sightseeing, hiking, bicycling on roads or trails, picnicking, and swimming, on areas designated by the refuge manager and shown on maps available at refuge offices, subject to the following conditions:

(A) In areas posted and shown on maps as “No Entry—Sanctuary,” we prohibit entry as specified on signs or maps (see § 32.42 of this chapter for list of areas and locations).

(B) In areas posted and shown on maps as “Area Closed,” “Area Closed—No Motors,” and “No Hunting Zone” (Goose Island), we ask that you practice voluntary avoidance of these areas by any means or for any purpose from October 15 to the end of the respective State duck hunting season. In areas marked “no motors,” we prohibit the use of motors on watercraft from October 15 to the end of the respective State duck hunting season (see § 32.42 of this chapter for list of areas and locations).

(C) Commercial tours and filming (see § 27.71 of this chapter) require a permit (FWS Form 3-1383-C) issued by the refuge or district manager.

(D) We allow the collecting of edible fruits, nuts, mushrooms, or other plant parts for personal use (no sale or barter allowed). We limit the amount you may collect to 2 gallons by volume per person, per day. We also allow the collecting of shed deer antlers for personal use.

(E) We prohibit the harvest of wild rice; plant and animal specimens; and other natural objects, such as rocks, stones, or minerals (see § 27.21 of this chapter). We only allow the collection of plants or their parts for ornamental use by permit (FWS Form 3-1383-G) issued by the refuge or district manager.

(F) We prohibit the cutting, removal, or damage of any tree or vegetation on the refuge without a permit from the refuge or district manager. We prohibit attaching nails, screws, or other hardware to any tree (see § 32.2(i) of this chapter).

(G) We prohibit all vehicle use on or across refuge lands at any time except on designated routes of travel or on the ice over navigable waters accessed from boat landings. We prohibit parking beyond vehicle control barriers or on grass or other vegetation. We prohibit parking or operating vehicles in a manner that obstructs or impedes any road, trail, fire lane, boat ramp, access gate, or other facility, or in a manner that creates a safety hazard or endangers any person, property, or environmental feature. We may impound any vehicle left parked in violation at the owner's expense (see § 27.31(h) of this chapter).

(H) We allow dogs and other domestic animals on the refuge subject to the following conditions:

(1) We prohibit dogs disturbing or endangering wildlife or people while on the refuge.

(2) While on the refuge, all dogs must be under the control of their owners/handlers at all times or on a leash.

(3) We prohibit allowing dogs to roam.

(4) All dogs must be on a leash when on hiking trails, or other areas so posted.

(5) We allow working a dog in refuge waters by tossing a retrieval dummy or other object for out-and-back exercise.

(6) We encourage the use of dogs for hunting (see § 32.42 of this chapter), but we prohibit field trials and commercial/professional dog training.

(7) Owners/handlers of dogs are responsible for disposal of dog droppings in refuge public use concentration areas such as trails, sandbars, and boat landings.

(8) We prohibit horses and all other domestic animals on the refuge unless confined in a vehicle, boat, trailer, kennel, or other container (see § 26.21 of this chapter).

(I) We prohibit the discharging of firearms (including dog training pistols and dummy launchers), air guns, or any other weapons on the refuge, unless you are a licensed hunter or trapper engaged in authorized activities during established seasons, as governed by Federal, State, and local regulations. We prohibit target practice on the refuge (see §§ 27.42 and 27.43 of this chapter).

(J) We prohibit the use or possession of glass food and beverage containers on lands within the refuge.

(K) We require that you keep all refuge lands clean during your period of use or occupancy. At all times you must keep all refuse, trash, and litter contained in bags or other suitable containers and not left scattered on the ground or in the water. You must remove all personal property, refuse, trash, and litter immediately upon vacating a site. We require that human solid waste and associated material be either removed and properly disposed of off-refuge or be buried on site to a depth of 6 to 8 inches (15 to 20 centimeters) and at least 50 feet (15 meters) from water's edge (see § 27.94 of this chapter).

(ii) Watercraft. We allow the use of watercraft of all types and means of propulsion on all navigable waters of the refuge as governed by State regulations subject to the following conditions:

(A) In areas posted and shown on maps as “Electric Motor Area,” we prohibit motorized vehicles and watercraft year-round except watercraft powered by electric motors or nonmotorized means. We do not prohibit the possession of watercraft motors in these areas, only their use. These areas are:

(1) Island 42, Pool 5, Minnesota, 459 acres.

(2) Snyder Lake, Pool 5A, Minnesota, 182 acres.

(3) Mertes Slough, Pool 6, Wisconsin, 222 acres.

(4) Browns Marsh, Pool 7, Wisconsin, 827 acres.

(5) Hoosier Lake, Pool 10, Wisconsin, 162 acres.

(B) In areas posted and shown on maps as “Slow No Wake Area,” we require watercraft to travel at slow, no-wake speed from March 16 through October 31. We apply the applicable State definition of slow, no-wake operation in these areas. We also prohibit the operation of airboats or hovercraft in these areas from March 16 through October 31. These areas are:

(1) Nelson-Trevino, Pool 4, Wisconsin, 2,626 acres.

(2) Denzers Slough, Pool 5A, Minnesota, 83 acres.

(3) Black River Bottoms, Pool 7, Wisconsin, 815 acres.

(4) Blue/Target Lake, Pool 8, Minnesota, 1,834 acres.

(5) Root River, Pool 8, Minnesota, 695 acres.

(6) Reno Bottoms, Pool 9, Minnesota, 2,536 acres.

(7) Nine Mile Island, Pool 12, Iowa, 454 acres.

(8) Princeton, Pool 14, Iowa, 327 acres.

(C) In water access and travel routes posted and shown on maps as “Slow No Wake Zone,” we require watercraft to travel at slow, no-wake speed at all times unless otherwise posted. We apply the respective State definition of slow, no-wake operation in these areas.

(D) In portions of Spring Lake and Crooked Slough—Lost Mound, Pool 13, Illinois, posted as “Slow, 5 mph When Boats Present” and marked on maps as “Speed/Distance Regulation,” we require watercraft operators to reduce the speed of their watercraft to less than 5 miles per hour (mph) (8 kilometers per hour (kph)) when within 100 feet (30 meters) of another watercraft that is anchored or underway at 5 mph (8 kph) or less.

(E) We prohibit the mooring, beaching, or storing of watercraft on the refuge not used at least once every 24 hours. We define “used” as a watercraft moved at least 100 feet (30 meters) on the water with the operator on board. We prohibit the mooring of watercraft within 200 feet (60 meters) of refuge boat landings or ramps. We may impound any watercraft moored in violation at the owner's expense (see § 27.32 of this chapter).

(F) The conditions set forth in paragraphs (v)(2)(i)(A), (B), and (K) of this section apply.

(iii) Camping. We allow camping on all lands and waters of the refuge as designated by the refuge manager and shown on maps available at refuge offices subject to the following conditions:

(A) We define “camping” as:

(1) Erecting a tent or shelter of natural or synthetic material;

(2) Preparing a sleeping bag or other bedding material for use;

(3) Parking of a motor vehicle or mooring or anchoring of a vessel, for the apparent purpose of overnight occupancy; or

(4) Occupying or leaving personal property, including boats or other craft, at a site anytime between the hours of 11 p.m. and 3 a.m.

(B) We prohibit camping at any one site for a period longer than 14 days during any 30-consecutive-day period. After 14 days, you must move all persons, property, equipment, and boats to a new site located at least 0.5 mile (0.8 kilometer) from the previous site.

(C) We prohibit camping within 200 feet (60 meters) of any refuge boat landing, access area, parking lot, structure, road, trail, or other recreation or management facility.

(D) We prohibit camping during waterfowl hunting seasons within areas posted “No Entry—Sanctuary,” “Area Closed,” “Area Closed—No Motors,” and “No Hunting Zone” or on any sites not clearly visible from the main commercial navigation channel of the Mississippi River (see § 32.42 of this chapter).

(E) You must occupy campsites daily. We prohibit the leaving of tents, camping equipment, or other property unattended at any site for over 24 hours, and we may impound any equipment left in violation at the owner's expense. We define “occupy” and “attended” as being present at a site for a minimum of 2 hours daily.

(F) You must remove any tables, fireplaces, or other facilities erected upon vacating a camping or day-use site.

(G) We allow campfires in conjunction with camping and day-use activities subject to the following conditions (see §§ 27.95 and 32.42 of this chapter):

(1) You may only use dead wood on the ground, or materials brought into the refuge such as charcoal or firewood. You must remove any unused firewood brought into the refuge upon departure due to the threat of invasive insects.

(2) We prohibit building, attending, and maintaining a campfire without sufficient clearance from flammable materials so as to prevent its escape.

(3) We prohibit building a fire at any developed facility, including, but not limited to, boat landings, access areas, parking lots, roads, trails, or any other recreation or management facility or structure.

(4) We prohibit burying live fires or hot coals when vacating a campfire site.

(5) We prohibit burning or attempting to burn any nonflammable materials or any materials that may produce toxic fumes or leave hazardous waste. These materials include, but are not limited to, metal cans, plastic containers, glass, fiberglass, treated wood products, wood containing nails or staples, wire, flotation materials, or other refuse.

(H) The conditions set forth in paragraphs (v)(2)(i)(D) through (K) of this section apply.

(w) Mississippi—(1) Grand Bay National Wildlife Refuge. (i) We prohibit the use of airboats, mudboats, motorized pirogues, and air-cooled propulsion engines on the refuge.

(ii) [Reserved]

(2) Hillside National Wildlife Refuge. (i) With the exception of raccoon hunting and frogging, we limit all refuge entry and exit to the period of 4 a.m. to 1½ hours after legal sunset.

(ii) We allow all-terrain vehicles (ATVs) and utility-type vehicles (UTVs) only on designated trails from September 15 through February 28.

(3) Holt Collier National Wildlife Refuge. (i) With the exception of raccoon hunting, we limit all refuge entry and exit to the period of 4 a.m. to 1½ hours after legal sunset.

(ii) [Reserved]

(4) Mathews Brake National Wildlife Refuge. (i) With the exception of raccoon hunting and frogging, we limit all refuge entry and exit to the period of 4 a.m. to 1½ hours after legal sunset.

(ii) Beginning the day before duck season opens and ending the last day of duck season, we close refuge waters to all public use from 1 p.m. until 4 a.m.

(5) Morgan Brake National Wildlife Refuge. (i) With the exception of raccoon hunting and frogging, we limit refuge entry and exit to the period of 4 a.m. to 1½ hours after legal sunset.

(ii) We allow all-terrain vehicles (ATVs) and utility-type vehicles (UTVs) only on designated trails from September 15 through February 28.

(6) Panther Swamp National Wildlife Refuge. (i) With the exception of raccoon hunting and frogging, we limit refuge entry and exit to the period of 4 a.m. to 1½ hours after legal sunset.

(ii) We allow all-terrain vehicles (ATVs)/utility-type vehicles (UTVs) only on designated trails from September 15 through February 28.

(7) Sam D. Hamilton Noxubee National Wildlife Refuge. (i) We prohibit the use of airboats, sailboats, hovercrafts, and inboard-water-thrust boats such as, but not limited to, personal watercraft, watercycles, and waterbikes.

(ii) [Reserved]

(8) St. Catherine Creek National Wildlife Refuge. (i) You must hand-launch boats except at designated boat ramps, where you may trailer-launch them.

(ii) We allow all-terrain vehicles (ATVs) and utility-type vehicles (UTVs) as governed by State waterfowl management area (WMA) regulations and size specifications on designated trails from scouting season until February 28.

(iii) You must be age 16 or older to operate an ATV or UTV on the refuge.

(iv) We prohibit overnight parking.

(9) Yazoo National Wildlife Refuge. (i) With the exception of raccoon hunting, we limit refuge entry and exit to the period of 4 a.m. to 1½ hours after legal sunset.

(ii) [Reserved]

(x) [Reserved]

(y) Montana—(1) Benton Lake National Wildlife Refuge. (i) We only allow the use of nonmotorized boats.

(ii) [Reserved]

(2) Black Coulee National Wildlife Refuge. (i) We only allow the use of nonmotorized boats.

(ii) [Reserved]

(3) Bowdoin National Wildlife Refuge. (i) We only allow the use of nonmotorized boats.

(ii) [Reserved]

(4) Hewitt Lake National Wildlife Refuge. (i) We prohibit air-thrust boats and boats with motors greater than 25 horsepower.

(ii) [Reserved]

(5) Red Rock Lakes National Wildlife Refuge—(i) Boats. We only allow nonmotorized boats in the hunt area east of the Lower Red Rock Lake dam. We allow boats with motors 10 horsepower or less west of Lower Red Rock Lake dam.

(ii) Camping. (A) We allow camping only in two established campgrounds. We prohibit camping along roadsides.

(B) We restrict camping to 16 consecutive days within any 30-day period.

(C) We prohibit horses in the campgrounds.

(D) From March 1 to December 1, all bear attractants, including, but not limited to, food, garbage, and carcasses or parts thereof, must be acceptably stored at night (unless in immediate use) and during the day if unattended. Acceptably stored means any of the following:

(1) Suspended at least 10 feet high and 4 feet from any vertical support 100 yards from any camp or hiking trail;

(2) Secured in a certified bear-safe container; or

(3) Secured in a hard-sided vehicle, including an enclosed camper or horse trailer.

(z) Nebraska—(1) Boyer Chute National Wildlife Refuge. (i) We allow boating at no-wake speeds, not to exceed 5 miles per hour (8 kilometers per hour), on side or back channels. We prohibit all watercraft in the Boyer Chute waterway or other areas as posted.

(ii) [Reserved]

(2) Crescent Lake National Wildlife Refuge. (i) We only allow boating and float tubes on Island Lake. We prohibit use of internal combustion motors for boats on Island Lake.

(ii) [Reserved]

(3) Rainwater Basin Wetland Management District. (i) We prohibit the use of motorboats. We allow only nonpowered motorboats and those powered by electric motors (see § 27.32 of this chapter).

(ii) [Reserved]

(aa) Nevada—(1) Pahranagat National Wildlife Refuge. (i) We only allow motorless boats or boats with electric motors on the Upper Lake, Middle Marsh, and Lower Lake, with the exception that we close Upper Lake to all boating from October 1 through February 1.

(ii) We prohibit the use of boats, rubber rafts, or other flotation devices on the North Marsh.

(2) Ruby Lake National Wildlife Refuge. (i) We prohibit boats on refuge waters from January 1 through June 14.

(ii) During the boating season, we allow boats only on the South Marsh. From June 15 through July 31, we allow only motorless boats or boats with battery-powered electric motors. Anglers must remove all gasoline-powered motors. From August 1 through December 31, we allow only motorless boats and boats propelled with motors with a total of 10 horsepower or less.

(iii) We allow launching of boats only from designated landings.

(3) Sheldon National Wildlife Refuge. (i) We only allow nonmotorized boats or boats with electric motors.

(ii) [Reserved]

(4) Stillwater National Wildlife Refuge. (i) We prohibit boating outside of the waterfowl and youth waterfowl hunting season except in Swan Check Lake, where we allow nonmotorized boating all year.

(ii) We prohibit boats on Swan Lake, the northeast corner of North Nutgrass Lake, and the north end of Pintail Bay. We allow the use of nonmotorized carts, sleds, floating blinds, and other floating devices in these areas to transport hunting equipment and to conceal hunters, but not to transport hunters.

(iii) We only allow outboard motor boats on Lead Lake, Tule Lake, Goose Lake, South Nutgrass Lake, the southeast corner of North Nutgrass Lake, and south end of Pintail Bay.

(iv) We only allow air-thrust boats on Goose Lake, South Nutgrass Lake, the southeast corner of North Nutgrass Lake, and the south end of Pintail Bay.

(v) You may not operate air-thrust boats until 1 hour after the legal shooting time on opening day of waterfowl season.

(vi) We require air-thrust boat owners to get a Special Use Permit (FWS Form 3-1383-G) from the refuge manager and to display a number on their airboats.

(vii) We allow nonmotorized boats on all lakes and bays except Swan Lake, the northeast corner of North Nutgrass Lake, and the north end of Pintail Bay.

(viii) We allow camping only in designated areas.

(bb)-(dd) [Reserved]

(ee) New York—(1) Iroquois National Wildlife Refuge. (i) We only allow the use of nonmotorized boats.

(ii) [Reserved]

(2) [Reserved]

(ff) North Carolina—(1) Mattamuskeet National Wildlife Refuge. (i) We allow motorized and nonmotorized fishing boats, canoes, and kayaks from March 1 through October 31.

(ii) We prohibit airboats, sailboats, Jet Skis, and windboards.

(2) Pee Dee National Wildlife Refuge. (i) We prohibit boats utilizing gasoline-powered motors.

(ii) You must unload and load boats by hand on all waters except those having designated launch ramps.

(iii) We prohibit swimming.

(3) Pocosin Lakes National Wildlife Refuge. (i) We only prohibit boats on Pungo Lake.

(ii) We prohibit leaving a boat anywhere on the refuge overnight.

(gg) North Dakota—(1) J. Clark Salyer National Wildlife Refuge. (i) We only allow nonmotorized boats or boats with electric motors.

(ii) [Reserved]

(2) Lake Ilo National Wildlife Refuge. (i) We open the refuge to boating from May 1 through September 30.

(ii) [Reserved]

(3) Long Lake National Wildlife Refuge. (i) We restrict boats to 25 horsepower maximum.

(ii) We restrict boats to the period from May 1 through September 30.

(4) Silver Lake National Wildlife Refuge. (i) We allow boats on Silver Lake and on refuge waters south of the confluence of the Mauvais Coulee and Little Coulee from May 1 through September 30 of each year.

(ii) We prohibit water activities not related to fishing (e.g., sailing, skiing, tubing, etc.).

(5) Tewaukon National Wildlife Refuge. (i) We open the refuge to boating from May 1 through September 30.

(ii) We allow snowmobiles, all-terrain vehicles (ATVs), utility terrain vehicles (UTVs), motor vehicles, and fish houses on the ice as conditions allow.

(6) Upper Souris National Wildlife Refuge. (i) We prohibit the use of bicycles or similar vehicles on the refuge.

(ii) We prohibit the use of amphibious vehicles or personal watercraft on the refuge.

(hh) Ohio—(1) Cedar Point National Wildlife Refuge. (i) We allow nonmotorized boats and flotation devices in designated areas.

(ii) We prohibit the use of off-road vehicles and snowmobiles on refuge lands.

(2) Ottawa National Wildlife Refuge. (i) The Crane Creek and Crane Creek Estuary are closed to all boats and flotation devices from State Route 2 to the mouth of Crane Creek at Lake Erie.

(ii) We allow nonmotorized boats and flotation devices in designated areas.

(iii) We prohibit the use of off-road vehicles and snowmobiles on refuge lands.

(ii) Oklahoma—(1) Sequoyah National Wildlife Refuge. (i) We allow boats, and you must operate them under applicable State laws and comply with all licensing and marking regulations from their State of origin.

(ii) We prohibit boating on the closed portion of Sally Jones Lake from September 1 to March 31.

(iii) We prohibit alcoholic beverages.

(2) Tishomingo National Wildlife Refuge. (i) We prohibit glass containers.

(ii) We prohibit airboats, hovercrafts, and personal watercraft (e.g., Jet Skis, wave runners, jet boats) year round on refuge waters.

(iii) We prohibit swimming and water sports.

(3) Washita National Wildlife Refuge. (i) We do not allow boats and other flotation devices on refuge waters from October 15 through March 14.

(ii) [Reserved]

(4) Wichita Mountains National Wildlife Refuge. (i) We allow hand-powered boats only on Jed Johnson, Rush, Quanah Parker, and French Lakes.

(ii) Anglers may use electric trolling motors on boats 14 feet or less in length only on Jed Johnson, Rush, Quanah Parker, and French Lakes.

(jj) Oregon—(1) Baskett Slough National Wildlife Refuge. (i) We prohibit overnight camping on the refuge.

(ii) We prohibit parking on the refuge after the refuge is closed to public entry.

(2) Cold Springs National Wildlife Refuge. (i) We prohibit overnight camping.

(ii) We prohibit overnight parking.

(iii) We allow use of only nonmotorized boats and boats with electric motors.

(3) Lower Klamath National Wildlife Refuge. (i) We prohibit the use of air-thrust and water-thrust boats.

(ii) [Reserved]

(4) McKay Creek National Wildlife Refuge. (i) We prohibit overnight camping.

(ii) We prohibit overnight parking.

(5) Umatilla National Wildlife Refuge. (i) We prohibit overnight camping.

(ii) We prohibit overnight parking.

(6) Upper Klamath National Wildlife Refuge. (i) Motorized boats must not exceed 10 miles per hour in any stream, creek, or canal, and on that portion of Pelican Bay west of a line beginning at designated points on the north shore of Pelican Bay ¼ mile (402 meters) east of Crystal Creek and extending due south to the opposite shore of the lake.

(ii) [Reserved]

(kk)-(ll) [Reserved]

(mm) South Carolina—(1) Cape Romain National Wildlife Refuge. (i) We prohibit camping on the refuge except for designated archery hunters on Bulls Island and individuals obtaining a Special Use Permit (FWS Form 3-1383-G) from the refuge manager.

(ii) We allow boats to operate in salt water. We prohibit motorized equipment on the refuge islands or in refuge inholdings.

(iii) We prohibit private boats in the refuge boat basins at Garris Landing and Bulls Island. We clearly mark these areas with Closed Area signs.

(iv) We prohibit overnight parking at Garris Landing, except for archery hunters during the designated refuge archery white-tailed deer season and individuals obtaining a Special Use Permit (FWS Form 3-1383-G) from the refuge manager.

(v) We close Marsh Island, White Banks, and Sandy Point to public entry from February 15 through September 15 to protect nesting birds. This closed area extends from the low mean water mark to the highest elevation on these islands.

(2) Carolina Sandhills National Wildlife Refuge. (i) We allow nonmotorized boats and boats with electric motors. We allow boats with permanently mounted gas motors as long as you lock the propeller out of the water. You must hand load and unload boats except at designated boat ramps. We prohibit skidding boats up or down dams or on water control structures. We provide boat ramps at Pool D, Pool L, Honkers Lake, and Mays Lake.

(ii) We prohibit swimming and wading in any areas of the refuge.

(3) Santee National Wildlife Refuge. (i) We prohibit overnight camping.

(ii) We prohibit overnight parking.

(iii) We prohibit overnight mooring of boats.

(iv) We prohibit swimming and wading.

(v) We allow pets only in designated areas, and they must remain on a leash or within vehicles/vessels.

(vi) We prohibit nighttime access to boat-launching areas.

(vii) We prohibit mooring or attaching boats to any refuge boundary marker, post, or navigational post within refuge waters.

(viii) We prohibit air-thrust boats, hovercraft, airboats, and personal watercraft (e.g., Jet Skis) within the waters of and/or boundary of the refuge.

(nn) South Dakota—(1) LaCreek National Wildlife Refuge. (i) We allow boat use only on Pools 3, 4, 7, and 10, and the Little White River Recreation Area.

(ii) We prohibit the use of internal combustion motors in Pools 3, 4, 7, and 10.

(2) Sand Lake Wetland Management District. (i) We allow the use of motorized boats.

(ii) [Reserved]

(oo) Tennessee—(1) Chickasaw National Wildlife Refuge. (i) We seasonally close the refuge sanctuary area to the public from November 15 through March 15.

(ii) We allow horses only on roads open to motorized traffic.

(2) Cross Creeks National Wildlife Refuge. (i) We prohibit leaving boats unattended on the refuge after daylight use hours.

(ii) We prohibit swimming in refuge impoundments and from boat ramps and boat docks.

(3) Hatchie National Wildlife Refuge. (i) We seasonally close the sanctuary areas of the refuge to the public from November 15 through March 15.

(ii) We allow horses only on roads open to motorized traffic.

(iii) We allow the use of nonmotorized boats and boats with electric motors only; we prohibit the use of gas and diesel motors on refuge lakes except in the waterfowl hunting area.

(4) Lake Isom National Wildlife Refuge. (i) We seasonally close the sanctuary areas of the refuge to the public from November 15 through March 15.

(ii) We allow horses only on roads open to motorized traffic.

(iii) We allow boats with only electric or outboard motors of 10 horsepower or less.

(5) Lower Hatchie National Wildlife Refuge. (i) We seasonally close the sanctuary area of the refuge and the southern unit of Sunk Lake Public Use Natural Area to the public from November 15 through March 15.

(ii) We allow horses only on roads open to motorized traffic.

(iii) We allow the use of only nonmotorized boats and boats with electric motors on Sunk Lake Public Use Natural Area.

(6) Reelfoot National Wildlife Refuge. (i) We seasonally close the sanctuary areas of the refuge to the public from November 15 through March 15.

(ii) We allow horses only on roads open to motorized traffic.

(iii) We prohibit airboats, hovercraft, or personal watercraft (e.g., Jet Skis) on any waters within the refuge boundary.

(7) Tennessee National Wildlife Refuge. (i) We limit boats to no wake speed on all refuge impoundments.

(ii) We prohibit swimming in refuge impoundments and from boat ramps and boat docks.

(pp) Texas—(1) Anahuac National Wildlife Refuge. (i) We prohibit boats and other flotation devices on inland waters.

(ii) You may launch motorized boats in East Bay at the East Bay Boat Ramp on Westline Road and at the Oyster Bayou Boat Ramp (boat canal). We prohibit the launching of airboats or personal watercraft on the refuge.

(iii) You may launch nonmotorized boats only along East Bay Bayou and along the shoreline of East Galveston Bay.

(2) Aransas National Wildlife Refuge. (i) We prohibit camping on the refuge.

(ii) [Reserved]

(3) Big Boggy National Wildlife Refuge. (i) We prohibit camping on the refuge.

(ii) [Reserved]

(4) Brazoria National Wildlife Refuge. (i) We prohibit camping in all public hunting areas and parking lots.

(ii) We prohibit campfires in all public hunting areas and parking lots.

(iii) We allow only nonmotorized boat launching at designated areas.

(5) Hagerman National Wildlife Refuge. (i) We prohibit glass containers on the refuge.

(ii) We prohibit boats and other floating devices on all open waters of Lake Texoma, except Big Mineral Creek from October 1 through March 14 annually.

(iii) At the point where Big Mineral Creek joins Lake Texoma, Big Mineral Creek becomes a year-round no wake zone to the end of upstream navigable waters.

(iv) From October 1 through March 14, we allow only nonmotorized boats in Big Mineral Creek from the point where it joins Lake Texoma to the upstream end of navigable waters. You may not have any type of gas or electric motor onboard that is capable of use. You may launch boats from a boat ramp only from L Pad Road or by hand at the Big Mineral Day Use Area.

(6) Laguna Atascosa National Wildlife Refuge. (i) We only allow camping at Adolph Thomae Jr. County Park.

(ii) [Reserved]

(7) Lower Rio Grande Valley National Wildlife Refuge. (i) We prohibit overnight camping.

(ii) [Reserved]

(8) McFaddin National Wildlife Refuge. (i) On inland waters of the refuge open to motorized boats, we restrict the use of boats powered by air-cooled or radiator-cooled engines to those powered by a single engine of 25 horsepower or less and utilizing a propeller 9 inches (22.5 centimeters) in diameter or less.

(ii) On inland waters of the refuge open to motorized boats, we restrict the operation of motorized boats to lakes, ponds, ditches, and other waterways. We prohibit the operation of motorized boats on or through emergent wetland vegetation.

(9) San Bernard National Wildlife Refuge. (i) We prohibit camping in all public hunting areas and parking lots.

(ii) We prohibit campfires in all public hunting areas and parking lots.

(10) Texas Point National Wildlife Refuge. (i) On inland waters of the refuge open to motorized boats, we restrict the use of boats powered by air-cooled or radiator-cooled engines to those powered by a single engine of 25 horsepower or less and utilizing a propeller 9 inches (22.5 centimeters) in diameter or less.

(ii) On inland waters of the refuge open to motorized boats, we restrict the operation of motorized boats to lakes, ponds, ditches, and other waterways. We prohibit the operation or motorized boats on or through emergent wetland vegetation.

(11) Trinity River National Wildlife Refuge. (i) We limit motors to a maximum of 10 horsepower.

(ii) [Reserved]

(qq)-(rr) [Reserved]

(ss) Virginia—(1) Back Bay National Wildlife Refuge—(i) Access: qualifications and specifications. (A) As provided for in Public Law 96-315, we issue permits to permanent, full-time residents who can furnish to the refuge manager, Back Bay National Wildlife Refuge, adequate proof of continuous and continuing residency, commencing prior to December 31, 1979, on the Outer Banks from the refuge boundary south to and including the village of Corolla, North Carolina, as long as they remain permanent, full-time residents. The south boundary of the area for access consideration is defined as a straight east-west line extending from Currituck Sound to the Atlantic Ocean and passing through a point 1,600 feet due south of the Currituck lighthouse. “Residence” means a place of general abode; “Place of general abode” means a person's principal, actual dwelling place in fact, without regard to intent. A “dwelling” means a residential structure occupied on a year-round basis by the permit applicant and shall not include seasonal or part-time dwelling units such as beach houses, vacation cabins, or structures which are intermittently occupied.

(B) As provided for in Public Law 98-146, “Up to 15 additional permits shall be granted to those persons meeting any one of the following conditions:”

(1) A resident as of July 1, 1982, who held a valid Service access permit for improved property owners at any time during the period from July 29, 1976, through December 31, 1979.

(2) Anyone in continuous residency since 1976, in the area bounded on the north by the refuge boundary, and on the south by a straight line passing through a point in the east-west prolongation of the centerline of Albacore Street, Whaleshead Club Subdivision, Currituck County, North Carolina.

(3) Any permanent, full time resident as of April 1, 1983, residing in the area outlined in paragraph (ss)(1)(i)(B)(2) of this section and not otherwise eligible, who can substantiate to the Secretary of the Interior that access is essential to their maintaining a livelihood, as long as they maintain full-time continuous employment in the Norfolk, Virginia, area may qualify for access.

(C) The burden of proving that the prospective permittee meets these criteria shall be on the applicant by presentation of adequate documentation to the refuge manager. Permittees may be required to submit additional documentation of their eligibility to the refuge manager in order to maintain access. Permits (FWS Form 3-1383-G) will be issued only to those who legally qualify for them.

(D) Only one permit will be issued per family. All permits issued will be terminated in the event that alternate access becomes available during the permit period.

(E) Permits are issued for the purpose of providing entry and exit across the refuge beach to the permittee's residence. Personal access is limited to permittees, and their families, relatives, and guests while being transported in the permittee's vehicle. “Personal access” means private, non-commercial use. Permits are not transferable by sale or devise.

(F) All vehicle occupants must provide positive identification upon the request of any refuge official.

(ii) Access: Routes of travel. Access to, and travel along, the refuge beach by motorized vehicles may be allowed between the dune crossing at the key card operated gate near the refuge headquarters, and the south boundary of the refuge only after a permit has been issued or authorization provided by the refuge manager. Travel along the refuge beach by motorized vehicle shall be below the high tide line, within the intertidal zone, to the maximum extent practicable. This may require permittees to adjust their travel times to avoid high tides which would require the use of the emergency storm access/evacuation route over the east dike.

(iii) Access: Number of trips allowed. Permittees and members of their immediate families residing with them are limited to a total of two round trips per day per household.

(iv) Access: Hours of travel. Travel along the designated route is allowed 24 hours per day from October 1 through April 30. Travel is restricted to the hours of 5 a.m. to 12 a.m. (midnight) from May 1 through September 30.

(v) Access: Medical emergencies. (A) Private vehicles used in a medical emergency will be granted access. A “medical emergency” means any condition that threatens human life or limb unless medical treatment is immediately obtained.

(B) The vehicle operator is required to provide the refuge manager with a doctor's statement confirming the emergency within 36 hours after the access has occurred.

(vi) Access: Military, fire, or emergency vehicles. (A) Military, fire, emergency or law enforcement vehicles used for emergency purposes may be granted access.

(B) Vehicles used by an employee/agent of the Federal, State or local government, in the course of official duty other than for emergency purposes, may be granted access upon advance request to the refuge manager.

(C) Continuous or recurring use of the refuge beach for other than emergency purposes shall require the issuance of a permit (FWS Form 3-1383-G) from the refuge manager.

(vii) Access: Public utility vehicles. Public utility vehicles used on official business will be granted access. A permit (FWS Form 3-1383-G) specifying the times and types of access will be issued by the refuge manager. A “public utility vehicle” means any vehicle owned or operated by a public utility company enfranchised to supply Outer Banks residents with electricity or telephone service.

(viii) Access: Essential commercial service vehicles. (A) Essential commercial service vehicles on business calls during the hours of 8 a.m. to 5 p.m. Monday through Friday will be granted access, only upon prior approval of the refuge manager when responding to a request from a permittee. Such requests may be verbal or in writing. Access by essential commercial service vehicles will be granted only after all other reasonable alternatives to access through the refuge have been exhausted as determined by the refuge manager.

(B) “Commercial service vehicle” means any vehicle owned or operated by or on behalf of an individual, partnership, or corporation that is properly licensed to engage entirely in the business of furnishing emergency repair services, including, but not limited to, plumbing, electrical, and repairs to household appliances.

(C) Emergency situations. The refuge manager, upon reasonable notification, will be able to authorize essential service/emergency repair access, outside the prescribed time periods, for emergency situations should they arise.

(ix) False Cape State Park employees. False Cape State Park and Virginia Game Commission employees who are residents in the park will be considered as permanent, full-time residents as defined in paragraph (ss)(1)(i) of this section with access privileges identical to those of other permittees with beach access privileges.

(x) Access: Commercial fishermen, businesses, and their employees. (A) Commercial fishermen who have verified that their fishing operations on the Outer Banks of Virginia Beach, Virginia, or Currituck County, North Carolina, have been dependent since 1972 on entry and exit to or across the refuge are granted permits (FWS Form 3-1383-G) for access. Travel through the refuge by commercial fishermen from Currituck County, North Carolina, will be permitted only when directly associated with commercial fishing operations. Drivers and passengers on trips through the refuge are limited to commercial fishing crew members. A commercial fisherman means one who harvests finfish by gill net or haul seine in the Atlantic Ocean, and who has owned and operated a commercial fishing businesses continuously since 1972. Commercial permits are not transferable by sale or devise. The level of commercial permittee travel across the refuge shall not increase above the average yearly levels maintained in the 1985-1987 period.

(B) Other businesses who have verified that their business operations on the Outer Banks of Currituck County, North Carolina, have been dependent since 1972 on entry and exit to or across the refuge will be granted permits (FWS Form 3-1383-G) for access in accordance with the limitations outlined in paragraph (ss)(1)(x)(A) of this section.

(C) Each commercial fisherman or other business may be granted a maximum of five designated employees to travel the refuge beach for commercial fishing or other business-related purposes only. Commercial fishing employees may carry only other commercial fishing employees as passengers. Other business employees may carry only other employees of that business. The hauling of trailers associated with the conduct of commercial fishing or other business activities is authorized.

(D) Employees of commercial fishermen and/or other businesses who apply for access permits (FWS Form 3-1383-G) shall have the burden of proving, by the presentation of appropriate documentation to the refuge manager, that they are an “employee” for purposes of this section of the regulations. “Appropriate documentation” is defined as the submission of standardized and verifiable employment forms including: Signed W-2 and W-4 forms, IRS form #1099, official earnings statements for specified periods, employee income tax withholding submissions to State and Federal tax offices (e.g., IRS form W-3 with W-2s attached), State unemployment tax information, or other proof of actual employment. Documentation for each employee must be submitted in advance of access being granted, or, for new employees, within 30 days of their starting date. Failure to provide verification of employment for new employees within 30 days will result in termination of access privileges.

(xi) Access: Suspension or waiver of rules in this paragraph (ss)(1). (A) In an emergency, the refuge manager may suspend any or all of the restrictions in this paragraph (ss)(1) on vehicular travel and announce each suspension by whatever means are available. In the event of adverse weather conditions, the refuge manager may close all or any portion of the refuge to vehicular traffic for such periods as deemed advisable in the interest of public safety.

(B) The refuge manager may make exceptions to access restrictions, if they are compatible with refuge purposes, for qualified permittees who have demonstrated to the refuge manager a need for additional access relating to health or livelihood.

(C) The refuge manager may grant one-time use authorization for vehicular access through the refuge to individuals, not otherwise qualified in paragraph (ss)(1)(xi)(B) of this section, who have demonstrated to the refuge manager that there is no feasible alternative to the access requested. Authorization for access under this paragraph (ss)(1)(xi)(C) will not be based on convenience to the applicant.

(xii) Access: Violation of rules in this paragraph (ss)(1). Violators of the regulations in this paragraph (ss)(1) pertaining to Back Bay National Wildlife Refuge are subject to legal action as prescribed by 50 CFR 25.43 and 50 CFR part 28, including suspension or revocation of all permits issued to the violator or responsible permittee. The refuge manager may deny access permits to applicants who, during the 2 years immediately preceding the date of application, have formally been charged and successfully prosecuted for three or more violations of these or other regulations in effect at Back Bay National Wildlife Refuge. Individuals whose vehicle access privileges are suspended, revoked, or denied may, within 30 days, file a written appeal of the action to the Assistant Regional Director, Refuges and Wildlife, at the address for the Northeast Regional Office provided at 50 CFR 2.2(e), in accordance with 50 CFR 25.45(c).

(xiii) Other access rules in this paragraph (ss)(1). (A) No permit will remain in effect beyond December 31 of the year in which it was issued. Permits may be renewed upon the submission of appropriate updated information relating to the permit, and a signed statement that the conditions under which the previous permit was issued have not changed. In the event of any changes of conditions under which the permit is granted, the permittee shall notify the refuge manager in writing within 30 days. Failure to report changes may result in suspension/revocation of the permit.

(B) Vehicles shall be operated on the refuge beach only by the permittee or other authorized drivers. Permit holders shall not tow, transport, or operate vehicles owned by non-permit holders through the refuge. Non-commercial permit holders may tow utility and boat trailers when being used for their personal use only. Any towed vehicle shall have advance approval from the refuge manager prior to being brought through the refuge. The access privilege in this paragraph (ss)(1)(xiii)(B) is not to be used for any commercial purpose.

(C) The refuge manager may prescribe restrictions as to the types of vehicles to be permitted to ensure public safety and adherence to all applicable rules and regulations.

(D) A magnetic card will be issued to each authorized driver only for his or her operation of the computer-controlled gate. No more than two cards will be issued per family. Only one vehicle will be permitted to pass for each gate opening. Unauthorized use of the magnetic card may result in suspension of the permit. A fee will be charged to replace lost or misplaced cards. Malfunctioning cards will be replaced at no charge.

(E) Access is granted for the purpose of travel to and from the permittee's residence and/or place of business. Access is not authorized for the purpose of transporting individuals for hire, or for the transport of prospective real estate clients to or from the Outer Banks of North Carolina, or for any other purpose not covered by this paragraph (ss)(1).

(xiv) General rules in this paragraph (ss)(1)—(A) Entry on foot, bicycle, or motor vehicle. Entry on foot, bicycle, or by motor vehicle on designated routes is allowed one-half hour before sunrise to one-half hour after sunset for the purposes of nature observation and study, photography, hiking, surf fishing, and bicycling.

(B) Beach-oriented uses. Designated areas of the refuge beach are open to wildlife/wildlands-oriented recreation only as outlined in paragraph (ss)(1)(xiv)(A) of this section. Entry to the beach is via designated access points only.

(C) Parking. Limited parking at the refuge office/visitor contact station is allowed only in designated spaces. Parking is available on a first-come, first-served basis for persons engaged in wildlife/wildlands-oriented recreation only as outlined in paragraph (ss)(1)(xiv)(A) of this section.

(D) Fires. All fires are prohibited.

(E) Pets. Dogs and other pets, on a hand-held leash not exceeding 10 feet in length, are allowed from October 1 through March 31.

(F) Sand dunes. Pedestrians and vehicular traffic in the sand dunes are prohibited.

(G) Groups. Use by all groups exceeding 10 individuals will require a Special Use Permit (FWS Form 3-1383-G), issued by the refuge manager.

(H) Motorized vehicles. Registered motor vehicles and motorized bicycles (mopeds) are allowed on the paved refuge access road and parking lot at refuge headquarters. All other motorized vehicular use is prohibited, except as specifically authorized pursuant to this paragraph (ss)(1).

(2) [Reserved]

(tt) Washington—(1) Billy Frank Jr. Nisqually National Wildlife Refuge. (i) We prohibit boat launching on the refuge.

(ii) The maximum speed limit is 5 miles per hour for boats in all refuge waters.

(2) Columbia National Wildlife Refuge. (i) We prohibit overnight camping.

(ii) We prohibit overnight parking.

(3) Conboy Lake National Wildlife Refuge. (i) We prohibit overnight camping.

(ii) We prohibit overnight parking.

(4) Hanford Reach National Monument/Saddle Mountain National Wildlife Refuge. (i) We prohibit overnight camping.

(ii) We prohibit overnight parking.

(iii) We allow only nonmotorized boats and boats with electric motors on the WB-10 Pond (Wahluke Lake) and with walk-in access only.

(5) McNary National Wildlife Refuge. (i) We prohibit overnight camping.

(ii) We prohibit overnight parking.

(6) Toppenish National Wildlife Refuge. (i) We prohibit overnight camping.

(ii) We prohibit overnight parking.

(7) Umatilla National Wildlife Refuge. (i) We prohibit overnight camping.

(ii) We prohibit overnight parking.

(8) Willapa National Wildlife Refuge. (i) We prohibit camping on the refuge except in designated campgrounds on Long Island for up to 14 days.

(ii) [Reserved]

(uu) [Reserved]

(vv) Wisconsin—(1) Upper Mississippi River National Wildlife and Fish Refuge. Refer to paragraph (v)(2) of this section for regulations.

(2) [Reserved]

(ww) Wyoming—(1) Seedskadee National Wildlife Refuge. (i) You must only launch or pick up trailered boats at the following boat ramps: Dodge Bottom, Hayfarm, Lombard, and Six-Mile.

(ii) [Reserved]

(2) [Reserved]

(xx) Information collection requirements. The information collection requirements contained in this section have been approved by the Office of Management and Budget (OMB) under 44 U.S.C. 3501 et seq. and assigned clearance number 1018-0140. The information is being collected to provide the refuge managers the information needed to decide whether or not to allow the requested use. A response is required in order to obtain a benefit. The Service may not conduct or sponsor, and you are not required to respond to, a collection of information unless it displays a currently valid OMB control number. Direct comments regarding the burden estimate or any other aspect of these information collection requirements to the Service's Information Collection Clearance Officer at the address provided at 50 CFR 2.1(b).

PART 32—HUNTING AND FISHING

3. The authority citation for part 32 continues to read as follows:

Authority: 5 U.S.C. 301; 16 U.S.C. 460k, 664, 668dd-668ee, and 715i; Pub. L. 115-20, 131 Stat. 86.

Subpart A—General Provisions

4. Revise § 32.7 to read as follows:

§ 32.7 What refuge units are open to hunting and/or sport fishing?

Refuge units open to hunting and/or sport fishing in accordance with the provisions of this subpart and §§ 32.20 through 32.70, inclusive, are as follows:

(a) Alabama. (1) Bon Secour National Wildlife Refuge.

(2) Cahaba River National Wildlife Refuge.

(3) Choctaw National Wildlife Refuge.

(4) Eufaula National Wildlife Refuge.

(5) Grand Bay National Wildlife Refuge.

(6) Key Cave National Wildlife Refuge.

(7) Mountain Longleaf National Wildlife Refuge.

(8) Sauta Cave National Wildlife Refuge.

(9) Wheeler National Wildlife Refuge.

(b) Alaska. (1) Alaska Maritime National Wildlife Refuge.

(2) Alaska Peninsula National Wildlife Refuge.

(3) Arctic National Wildlife Refuge.

(4) Becharof National Wildlife Refuge.

(5) Innoko National Wildlife Refuge.

(6) Izembek National Wildlife Refuge.

(7) Kanuti National Wildlife Refuge.

(8) Kenai National Wildlife Refuge.

(9) Kodiak National Wildlife Refuge.

(10) Koyukuk National Wildlife Refuge.

(11) Nowitna National Wildlife Refuge.

(12) Salawik National Wildlife Refuge.

(13) Tetlin National Wildlife Refuge.

(14) Togiak National Wildlife Refuge.

(15) Yukon Delta National Wildlife Refuge.

(16)Yukon Flats National Wildlife Refuge.

(c) Arizona. (1) Bill Williams River National Wildlife Refuge.

(2) Buenos Aires National Wildlife Refuge.

(3) Cabeza Prieta National Wildlife Refuge.

(4) Cibola National Wildlife Refuge.

(5) Havasu National Wildlife Refuge.

(6) Imperial National Wildlife Refuge.

(7) Kofa National Wildlife Refuge.

(8) San Bernardino National Wildlife Refuge.

(d) Arkansas. (1) Bald Knob National Wildlife Refuge.

(2) Big Lake National Wildlife Refuge.

(3) Cache River National Wildlife Refuge.

(4) Dale Bumpers White River National Wildlife Refuge.

(5) Felsenthal National Wildlife Refuge.

(6) Holla Bend National Wildlife Refuge.

(7) Overflow National Wildlife Refuge.

(8) Pond Creek National Wildlife Refuge.

(9) Wapanocca National Wildlife Refuge.

(e) California. (1) Cibola National Wildlife Refuge.

(2) Clear Lake National Wildlife Refuge.

(3) Colusa National Wildlife Refuge.

(4) Delevan National Wildlife Refuge.

(5) Don Edwards San Francisco Bay National Wildlife Refuge.

(6) Havasu National Wildlife Refuge.

(7) Humboldt Bay National Wildlife Refuge.

(8) Imperial National Wildlife Refuge.

(9) Kern National Wildlife Refuge.

(10) Lower Klamath National Wildlife Refuge.

(11) Marin Islands National Wildlife Refuge.

(12) Merced National Wildlife Refuge.

(13) Modoc National Wildlife Refuge.

(14) Sacramento National Wildlife Refuge.

(15) Sacramento River National Wildlife Refuge.

(16) Salinas River National Wildlife Refuge.

(17) San Luis National Wildlife Refuge.

(18) San Pablo Bay National Wildlife Refuge.

(19) Sonny Bono Salton Sea National Wildlife Refuge.

(20) Stone Lakes National Wildlife Refuge.

(21) Sutter National Wildlife Refuge.

(22) Tule Lake National Wildlife Refuge.

(f) Colorado. (1) Alamosa National Wildlife Refuge.

(2) Arapaho National Wildlife Refuge.

(3) Baca National Wildlife Refuge.

(4) Browns Park National Wildlife Refuge.

(5) Monte Vista National Wildlife Refuge.

(6) Rocky Mountain Arsenal.

(g) Connecticut. (1) Silvio O. Conte National Fish and Wildlife Refuge.

(2) Stewart B. McKinney National Wildlife Refuge.

(h) Delaware. (1) Bombay Hook National Wildlife Refuge.

(2) Prime Hook National Wildlife Refuge.

(i) Florida. (1) Arthur R. Marshall Loxahatchee National Wildlife Refuge.

(2) Cedar Keys National Wildlife Refuge.

(3) Chassahowitzka National Wildlife Refuge.

(4) Egmont Key National Wildlife Refuge.

(5) Hobe Sound National Wildlife Refuge.

(6) J.N. “Ding” Darling National Wildlife Refuge.

(7) Lake Woodruff National Wildlife Refuge.

(8) Lower Suwannee National Wildlife Refuge.

(9) Merritt Island National Wildlife Refuge.

(10) Pelican Island National Wildlife Refuge.

(11) Pinellas National Wildlife Refuge.

(12) St. Marks National Wildlife Refuge.

(13) St. Vincent National Wildlife Refuge.

(14) Ten Thousand Islands National Wildlife Refuge.

(j) Georgia. (1) Banks Lake National Wildlife Refuge.

(2) Blackbeard Island National Wildlife Refuge.

(3) Bond Swamp National Wildlife Refuge.

(4) Eufaula National Wildlife Refuge.

(5) Harris Neck National Wildlife Refuge.

(6) Okefenokee National Wildlife Refuge.

(7) Piedmont National Wildlife Refuge.

(8) Savannah National Wildlife Refuge.

(9) Wassaw National Wildlife Refuge.

(10) Wolf Island National Wildlife Refuge.

(k) Hawaii. (1) Hanalei National Wildlife Refuge.

(2) Kakahaia National Wildlife Refuge.

(3) Kilauea Point National Wildlife Refuge.

(l) Idaho. (1) Bear Lake National Wildlife Refuge.

(2) Camas National Wildlife Refuge.

(3) Deer Flat National Wildlife Refuge.

(4) Grays Lake National Wildlife Refuge.

(5) Kootenai National Wildlife Refuge.

(6) Minidoka National Wildlife Refuge.

(m) Illinois. (1) Chautauqua National Wildlife Refuge.

(2) Crab Orchard National Wildlife Refuge.

(3) Cypress Creek National Wildlife Refuge.

(4) Emiquon National Wildlife Refuge.

(5) Great River National Wildlife Refuge.

(6) Hackmatack National Wildlife Refuge.

(7) Kankakee National Wildlife Refuge.

(8) Meredosia National Wildlife Refuge.

(9) Middle Mississippi River National Wildlife Refuge.

(10) Port Louisa National Wildlife Refuge.

(11) Two Rivers National Wildlife Refuge.

(12) Upper Mississippi River National Wildlife and Fish Refuge.

(n) Indiana. (1) Big Oaks National Wildlife Refuge.

(2) Muscatatuck National Wildlife Refuge.

(3) Patoka River National Wildlife Refuge and Management Area.

(o) Iowa. (1) De Soto National Wildlife Refuge.

(2) Driftless Area National Wildlife Refuge.

(3) Iowa Wetland Management District.

(4) Neal Smith National Wildlife Refuge.

(5) Northern Tallgrass Prairie National Wildlife Refuge.

(6) Port Louisa National Wildlife Refuge.

(7) Union Slough National Wildlife Refuge.

(8) Upper Mississippi River National Wildlife and Fish Refuge.

(p) Kansas. (1) Flint Hills National Wildlife Refuge.

(2) Kirwin National Wildlife Refuge.

(3) Marais des Cygnes National Wildlife Refuge.

(4) Quivira National Wildlife Refuge.

(q) Kentucky. (1) Clarks River National Wildlife Refuge.

(2) Ohio River Islands National Wildlife Refuge.

(3) Reelfoot National Wildlife Refuge.

(r) Louisiana. (1) Atchafalaya National Wildlife Refuge.

(2) Bayou Cocodrie National Wildlife Refuge.

(3) Bayou Sauvage National Wildlife Refuge.

(4) Bayou Teche National Wildlife Refuge.

(5) Big Branch Marsh National Wildlife Refuge.

(6) Black Bayou Lake National Wildlife Refuge.

(7) Bogue Chitto National Wildlife Refuge.

(8) Breton National Wildlife Refuge.

(9) Cameron Prairie National Wildlife Refuge.

(10) Cat Island National Wildlife Refuge.

(11) Catahoula National Wildlife Refuge.

(12) D'Arbonne National Wildlife Refuge.

(13) Delta National Wildlife Refuge.

(14) Grand Cote National Wildlife Refuge.

(15) Lacassine National Wildlife Refuge.

(16) Lake Ophelia National Wildlife Refuge.

(17) Mandalay National Wildlife Refuge.

(18) Red River National Wildlife Refuge.

(19) Sabine National Wildlife Refuge.

(20) Tensas River National Wildlife Refuge.

(21) Upper Ouachita National Wildlife Refuge.

(s) Maine. (1) Moosehorn National Wildlife Refuge.

(2) Petit Manan National Wildlife Refuge.

(3) Rachel Carson National Wildlife Refuge.

(4) Sunkhaze Meadows National Wildlife Refuge.

(5) Umbagog National Wildlife Refuge.

(t) Maryland. (1) Blackwater National Wildlife Refuge.

(2) Eastern Neck National Wildlife Refuge.

(3) Patuxent Research Refuge.

(u) Massachusetts. (1) Assabet River National Wildlife Refuge.

(2) Great Meadows National Wildlife Refuge.

(3) Mashpee National Wildlife Refuge.

(4) Monomoy National Wildlife Refuge.

(5) Nantucket National Wildlife Refuge.

(6) Oxbow National Wildlife Refuge.

(7) Parker River National Wildlife Refuge.

(8) Silvio O. Conte National Fish and Wildlife Refuge.

(v) Michigan. (1) Detroit River International Wildlife Refuge.

(2) Harbor Island National Wildlife Refuge.

(3) Kirtland's Warbler Wildlife Management Area.

(4) Michigan Wetland Management District.

(5) Seney National Wildlife Refuge.

(6) Shiawassee National Wildlife Refuge.

(w) Minnesota. (1) Agassiz National Wildlife Refuge.

(2) Big Stone National Wildlife Refuge.

(3) Big Stone Wetland Management District.

(4) Crane Meadows National Wildlife Refuge.

(5) Detroit Lakes Wetland Management District.

(6) Fergus Falls Wetland Management District.

(7) Glacial Ridge National Wildlife Refuge.

(8) Hamden Slough National Wildlife Refuge.

(9) Litchfield Wetland Management District.

(10) Minnesota Valley National Wildlife Refuge.

(11) Minnesota Valley Wetland Management District.

(12) Morris Wetland Management District.

(13) Northern Tallgrass Prairie National Wildlife Refuge.

(14) Rice Lake National Wildlife Refuge.

(15) Rydell National Wildlife Refuge.

(16) Sherburne National Wildlife Refuge.

(17) Tamarac National Wildlife Refuge.

(18) Upper Mississippi River National Wildlife and Fish Refuge.

(19) Windom Wetland Management District.

(x) Mississippi. (1) Bogue Chitto National Wildlife Refuge.

(2) Coldwater River National Wildlife Refuge.

(3) Dahomey National Wildlife Refuge.

(4) Grand Bay National Wildlife Refuge.

(5) Hillside National Wildlife Refuge.

(6) Holt Collier National Wildlife Refuge.

(7) Mathews Brake National Wildlife Refuge.

(8) Morgan Brake National Wildlife Refuge.

(9) Panther Swamp National Wildlife Refuge.

(10) Sam D. Hamilton Noxubee National Wildlife Refuge.

(11) St. Catherine Creek National Wildlife Refuge.

(12) Tallahatchie National Wildlife Refuge.

(13) Yazoo National Wildlife Refuge.

(y) Missouri. (1) Big Muddy National Fish and Wildlife Refuge.

(2) Clarence Cannon National Wildlife Refuge.

(3) Great River National Wildlife Refuge.

(4) Loess Bluffs National Wildlife Refuge.

(5) Middle Mississippi River National Wildlife Refuge.

(6) Mingo National Wildlife Refuge.

(7) Swan Lake National Wildlife Refuge.

(8) Two Rivers National Wildlife Refuge.

(z) Montana. (1) Benton Lake National Wildlife Refuge.

(2) Benton Lake Wetland Management District.

(3) Black Coulee National Wildlife Refuge.

(4) Bowdoin National Wildlife Refuge.

(5) Bowdoin Wetland Management District.

(6) Charles M. Russell National Wildlife Refuge.

(7) Charles M. Russell Wetland Management District.

(8) Creedman Coulee National Wildlife Refuge.

(9) Hailstone National Wildlife Refuge.

(10) Hewitt Lake National Wildlife Refuge.

(11) Lake Mason National Wildlife Refuge.

(12) Lake Thibadeau National Wildlife Refuge.

(13) Lamesteer National Wildlife Refuge.

(14) Lee Metcalf National Wildlife Refuge.

(15) Lost Trail National Wildlife Refuge.

(16) Medicine Lake National Wildlife Refuge.

(17) National Bison Range.

(18) Ninepipe National Wildlife Refuge.

(19) Northeast Montana Wetland Management District.

(20) Northwest Montana Wetland Management District.

(21) Pablo National Wildlife Refuge.

(22) Red Rock Lakes National Wildlife Refuge.

(23) Swan River National Wildlife Refuge.

(24) UL Bend National Wildlife Refuge.

(25) War Horse National Wildlife Refuge.

(aa) Nebraska. (1) Boyer Chute National Wildlife Refuge.

(2) Crescent Lake National Wildlife Refuge.

(3) Fort Niobrara National Wildlife Refuge.

(4) North Platte National Wildlife Refuge.

(5) Rainwater Basin Wetland Management District.

(6) Valentine National Wildlife Refuge.

(bb) Nevada. (1) Ash Meadows National Wildlife Refuge.

(2) Desert National Wildlife Refuge.

(3) Pahranagat National Wildlife Refuge.

(4) Ruby Lake National Wildlife Refuge.

(5) Sheldon National Wildlife Refuge.

(6) Stillwater National Wildlife Refuge.

(cc) New Hampshire. (1) Great Bay National Wildlife Refuge.

(2) Silvio O. Conte National Fish and Wildlife Refuge.

(3) Umbagog National Wildlife Refuge.

(dd) New Jersey. (1) Cape May National Wildlife Refuge.

(2) Edwin B. Forsythe National Wildlife Refuge.

(3) Great Swamp National Wildlife Refuge.

(4) Supawna Meadows National Wildlife Refuge.

(5) Wallkill River National Wildlife Refuge.

(ee) New Mexico. (1) Bitter Lake National Wildlife Refuge.

(2) Bosque del Apache National Wildlife Refuge.

(3) Las Vegas National Wildlife Refuge.

(4) Maxwell National Wildlife Refuge.

(5) San Andres National Wildlife Refuge.

(6) Sevilleta National Wildlife Refuge.

(ff) New York. (1) Amagansett National Wildlife Refuge.

(2) Elizabeth A. Morton National Wildlife Refuge.

(3) Iroquois National Wildlife Refuge.

(4) Montezuma National Wildlife Refuge.

(5) Oyster Bay National Wildlife Refuge.

(6) Seatuck National Wildlife Refuge.

(7) Shawangunk Grasslands National Wildlife Refuge.

(8) Target Rock National Wildlife Refuge.

(9) Wallkill National Wildlife Refuge.

(10) Wertheim National Wildlife Refuge.

(gg) North Carolina. (1) Alligator River National Wildlife Refuge.

(2) Cedar Island National Wildlife Refuge.

(3) Currituck National Wildlife Refuge.

(4) Great Dismal Swamp National Wildlife Refuge.

(5) Mackay Island National Wildlife Refuge.

(6) Mattamuskeet National Wildlife Refuge.

(7) Pea Island National Wildlife Refuge.

(8) Pee Dee National Wildlife Refuge.

(9) Pocosin Lakes National Wildlife Refuge.

(10) Roanoke River National Wildlife Refuge.

(11) Swanquarter National Wildlife Refuge.

(hh) North Dakota. (1) Ardoch National Wildlife Refuge.

(2) Arrowwood National Wildlife Refuge.

(3) Arrowwood Wetland Management District.

(4) Audubon National Wildlife Refuge.

(5) Audubon Wetland Management District.

(6) Chase Lake National Wildlife Refuge.

(7) Chase Lake Wetland Management District.

(8) Crosby Wetland Management District.

(9) Des Lacs National Wildlife Refuge.

(10) Devils Lake Wetland Management District.

(11) J. Clark Salyer National Wildlife Refuge.

(12) J. Clark Salyer Wetland Management District.

(13) Kulm Wetland Management District.

(14) Lake Alice National Wildlife Refuge.

(15) Lake Ilo National Wildlife Refuge.

(16) Lake Nettie National Wildlife Refuge.

(17) Lake Zahl National Wildlife Refuge.

(18) Long Lake National Wildlife Refuge.

(19) Long Lake Wetland Management District.

(20) Lostwood National Wildlife Refuge.

(21) Lostwood Wetland Management District.

(22) Rose Lake National Wildlife Refuge.

(23) Sibley Lake National Wildlife Refuge.

(24) Silver Lake National Wildlife Refuge.

(25) Slade National Wildlife Refuge.

(26) Stewart Lake National Wildlife Refuge.

(27) Tewaukon National Wildlife Refuge.

(28) Tewaukon Wetland Management District.

(29) Upper Souris National Wildlife Refuge.

(ii) Ohio. (1) Cedar Point National Wildlife Refuge.

(2) Ottawa National Wildlife Refuge.

(jj) Oklahoma. (1) Deep Fork National Wildlife Refuge.

(2) Little River National Wildlife Refuge.

(3) Optima National Wildlife Refuge.

(4) Ozark Plateau National Wildlife Refuge.

(5) Salt Plains National Wildlife Refuge.

(6) Sequoyah National Wildlife Refuge.

(7) Tishomingo National Wildlife Refuge.

(8) Tishomingo Wildlife Management Unit.

(9) Washita National Wildlife Refuge.

(10) Wichita Mountains National Wildlife Refuge.

(kk) Oregon. (1) Bandon Marsh National Wildlife Refuge.

(2) Baskett Slough National Wildlife Refuge.

(3) Bear Valley National Wildlife Refuge.

(4) Cold Springs National Wildlife Refuge.

(5) Deer Flat National Wildlife Refuge.

(6) Hart Mountain National Antelope Refuge.

(7) Julia Butler Hansen Refuge for the Columbian White-Tailed Deer.

(8) Klamath Marsh National Wildlife Refuge.

(9) Lewis and Clark National Wildlife Refuge.

(10) Lower Klamath National Wildlife Refuge.

(11) Malheur National Wildlife Refuge.

(12) McKay Creek National Wildlife Refuge.

(13) McNary National Wildlife Refuge.

(14) Nestucca Bay National Wildlife Refuge.

(15) Sheldon National Wildlife Refuge.

(16) Siletz Bay National Wildlife Refuge.

(17) Tualatin River National Wildlife Refuge.

(18) Umatilla National Wildlife Refuge.

(19) Upper Klamath National Wildlife Refuge.

(20) William L. Finley National Wildlife Refuge.

(ll) Pennsylvania. (1) Cherry Valley National Wildlife Refuge.

(2) Erie National Wildlife Refuge.

(3) John Heinz National Wildlife Refuge at Tinicum.

(4) Ohio River Islands National Wildlife Refuge.

(mm) Rhode Island. (1) Block Island National Wildlife Refuge.

(2) Ninigret National Wildlife Refuge.

(3) Sachuest Point National Wildlife Refuge.

(4) Trustom Pond National Wildlife Refuge.

(nn) South Carolina. (1) Cape Romain National Wildlife Refuge.

(2) Carolina Sandhills National Wildlife Refuge.

(3) Ernest F. Hollings ACE Basin National Wildlife Refuge.

(4) Pinckney Island National Wildlife Refuge.

(5) Santee National Wildlife Refuge.

(6) Savannah National Wildlife Refuge.

(7) Waccamaw National Wildlife Refuge.

(oo) South Dakota. (1) Huron Wetland Management District.

(2) Lacreek National Wildlife Refuge.

(3) Lake Andes National Wildlife Refuge.

(4) Lake Andes Wetland Management District.

(5) Madison Wetland Management District.

(6) Sand Lake National Wildlife Refuge.

(7) Sand Lake Wetland Management District.

(8) Waubay National Wildlife Refuge.

(9) Waubay Wetland Management District.

(pp) Tennessee. (1) Chickasaw National Wildlife Refuge.

(2) Cross Creeks National Wildlife Refuge.

(3) Hatchie National Wildlife Refuge.

(4) Lake Isom National Wildlife Refuge.

(5) Lower Hatchie National Wildlife Refuge.

(6) Reelfoot National Wildlife Refuge.

(7) Tennessee National Wildlife Refuge.

(qq) Texas. (1) Anahuac National Wildlife Refuge.

(2) Aransas National Wildlife Refuge.

(3) Balcones Canyonlands National Wildlife Refuge.

(4) Big Boggy National Wildlife Refuge.

(5) Brazoria National Wildlife Refuge.

(6) Buffalo Lake National Wildlife Refuge.

(7) Caddo Lake National Wildlife Refuge.

(8) Hagerman National Wildlife Refuge.

(9) Laguna Atascosa National Wildlife Refuge.

(10) Lower Rio Grande Valley National Wildlife Refuge.

(11) McFaddin National Wildlife Refuge.

(12) San Bernard National Wildlife Refuge.

(13) Texas Point National Wildlife Refuge.

(14) Trinity River National Wildlife Refuge.

(rr) Utah. (1) Bear River Migratory Bird Refuge.

(2) Fish Springs National Wildlife Refuge.

(3) Ouray National Wildlife Refuge.

(ss) Vermont. (1) Missisquoi National Wildlife Refuge.

(2) Silvio O. Conte National Fish and Wildlife Refuge.

(tt) Virginia. (1) Back Bay National Wildlife Refuge.

(2) Chincoteague National Wildlife Refuge.

(3) Eastern Shore of Virginia National Wildlife Refuge.

(4) Elizabeth Hartwell Mason Neck National Wildlife Refuge.

(5) Great Dismal Swamp National Wildlife Refuge.

(6) James River National Wildilfe Refuge.

(7) Mackay Island National Wildlife Refuge.

(8) Occoquan Bay National Wildlife Refuge.

(9) Plum Tree Island National Wildlife Refuge.

(10) Presquile National Wildlife Refuge.

(11) Rappahannock River Valley National Wildlife Refuge.

(12) Wallops Island National Wildlife Refuge.

(uu) Washington. (1) Billy Frank Jr. Nisqually National Wildlife Refuge.

(2) Columbia National Wildlife Refuge.

(3) Conboy Lake National Wildlife Refuge.

(4) Dungeness National Wildlife Refuge.

(5) Hanford Reach National Monument/Saddle Mountain National Wildlife Refuge.

(6) Julia Butler Hansen Refuge for the Columbian White-tailed Deer.

(7) Little Pend Oreille National Wildlife Refuge.

(8) McNary National Wildlife Refuge.

(9) Ridgefield National Wildlife Refuge.

(10) San Juan Islands National Wildlife Refuge.

(11) Toppenish National Wildlife Refuge.

(12) Turnbull National Wildlife Refuge.

(13) Umatilla National Wildlife Refuge.

(14) Willapa National Wildlife Refuge.

(vv) West Virginia. (1) Canaan Valley National Wildlife Refuge.

(2) Ohio River Islands National Wildlife Refuge.

(ww) Wisconsin. (1) Fox River National Wildlife Refuge.

(2) Green Bay National Wildlife Refuge.

(3) Hackmatack National Wildlife Refuge.

(4) Horicon National Wildlife Refuge.

(5) Leopold Wetland Management District.

(6) Necedah National Wildlife Refuge.

(7) St. Croix Wetland Management District.

(8) Trempealeau National Wildlife Refuge.

(9) Upper Mississippi River National Wildlife and Fish Refuge.

(10) Whittlesey Creek National Wildlife Refuge.

(xx) Wyoming. (1) Cokeville Meadows National Wildlife Refuge.

(2) Hutton Lake National Wildlife Refuge.

(3) National Elk Refuge.

(4) Pathfinder National Wildlife Refuge.

(5) Seedskadee National Wildlife Refuge.

(yy) Guam. (1) Guam National Wildlife Refuge.

(2) [Reserved]

5. Add § 32.9 to read as follows:

§ 32.9 Information collection requirements.

The information collection requirements contained in this part have been approved by the Office of Management and Budget (OMB) under 44 U.S.C. 3501 et seq. and assigned clearance number 1018-0140. The information is being collected to provide the refuge managers the information needed to decide whether or not to allow the requested use. A response is required in order to obtain a benefit. The Service may not conduct or sponsor, and you are not required to respond to, a collection of information unless it displays a currently valid OMB control number. Direct comments regarding the burden estimate or any other aspect of these information collection requirements to the Service's Information Collection Clearance Officer at the address provided at 50 CFR 2.1(b).

6. Revise subpart B to read as follows:

Subpart B—Refuge-Specific Regulations for Hunting and Fishing

Sec.
32.20 Alabama.
32.21 Alaska.
32.22 Arizona.
32.23 Arkansas.
32.24 California.
32.25 Colorado.
32.26 Connecticut.
32.27 Delaware.
32.28 Florida.
32.29 Georgia.
32.30 Hawaii.
32.31 Idaho.
32.32 Illinois.
32.33 Indiana.
32.34 Iowa.
32.35 Kansas.
32.36 Kentucky.
32.37 Louisiana.
32.38 Maine.
32.39 Maryland.
32.40 Massachusetts.
32.41 Michigan.
32.42 Minnesota.
32.43 Mississippi.
32.44 Missouri.
32.45 Montana.
32.46 Nebraska.
32.47 Nevada.
32.48 New Hampshire.
32.49 New Jersey.
32.50 New Mexico.
32.51 New York.
32.52 North Carolina.
32.53 North Dakota.
32.54 Ohio.
32.55 Oklahoma.
32.56 Oregon.
32.57 Pennsylvania.
32.58 Rhode Island.
32.59 South Carolina.
32.60 South Dakota.
32.61 Tennessee.
32.62 Texas.
32.63 Utah.
32.64 Vermont.
32.65 Virginia.
32.66 Washington.
32.67 West Virginia.
32.68 Wisconsin.
32.69 Wyoming.
32.70 Guam.

§ 32.20 Alabama.

The following refuge units are open for hunting and/or fishing as governed by applicable Federal and State regulations, and are listed in alphabetical order with additional refuge-specific regulations.

(a) Bon Secour National Wildlife Refuge. (1)-(3) [Reserved]

(4) Sport fishing. We allow fishing on designated areas of the refuge subject to the following condition: We allow fishing only from legal sunrise to legal sunset.

(b) Cahaba River National Wildlife Refuge. (1) [Reserved]

(2) Upland game hunting. We allow hunting of quail, squirrel, rabbit, opossum, raccoon, coyote, and bobcat on designated areas of the refuge subject to the following conditions:

(i) We require hunters to hunt as governed by Alabama Department of Conservation and Natural Resources' William R. Ireland, Sr.—Cahaba River Wildlife Management Area hunting permit conditions.

(ii) We require hunters to possess and carry a current and signed Alabama Department of Conservation and Natural Resources' William R. Ireland, Sr.—Cahaba River Wildlife Management Area hunting permit when hunting on the refuge.

(iii) Hunters may hunt with shotguns using only #4 shot or smaller, rifles and handguns using rim-fire ammunition only, or archery equipment that complies with State and Federal regulations.

(iv) We allow the use of dogs when hunting upland game.

(v) Hunters may only hunt during designated days and times.

(vi) Hunters must remove tree stands, blinds, or other personal property from the refuge at the end of each day's hunt (see § 27.93 of this chapter).

(3) Big game hunting. We allow the hunting of white-tailed deer, feral hog, and wild turkey on designated areas of the refuge subject to the following conditions:

(i) The conditions set forth at paragraphs (b)(2)(i), (ii), (v), and (vi) of this section apply.

(ii) We prohibit the use of firearms for hunting deer on the refuge. However, you may archery hunt in the portions of the refuge that are open for deer hunting during the archery, shotgun, and muzzleloader seasons established by the State.

(iii) We prohibit organized deer drives. We define a “deer drive” as an organized or planned effort to pursue, drive, chase, or otherwise frighten or cause deer to move in the direction of any person(s) who is part of the organized or planned hunt and known to be waiting for the deer. We also prohibit drives for feral hogs.

(4) Sport fishing. We allow sport fishing on designated areas of the refuge.

(c) Choctaw National Wildlife Refuge. (1) [Reserved]

(2) Upland game hunting. We allow hunting of squirrel, rabbit, coyote, beaver, and nutria on designated areas of the refuge subject to the following conditions:

(i) We prohibit leaving unattended personal property, including, but not limited to, boats or vehicles of any type, geocaches, lumber, and cameras, overnight on the refuge (see § 27.93 of this chapter).

(ii) You may only take incidental species (coyote, beaver, nutria, and feral hog) during any other refuge hunt with those weapons legal during those hunts as governed by the State of Alabama.

(iii) You must possess and carry a signed refuge hunt permit (signed brochure) when hunting.

(iv) All persons age 15 or younger, while hunting on the refuge, must be in the presence and under direct supervision of a licensed or exempt hunter age 21 or older. A licensed hunter supervising a youth must hold a valid State license for the species being hunted. One adult may supervise no more than two youth hunters.

(v) We require all hunters to record hours hunted and all harvested game on the Visitor Check-In Permit and Report (FWS Form 3-2405) at the conclusion of each day at one of the refuge check stations.

(vi) We allow the use of dogs when hunting squirrel and rabbit.

(vii) Hunters may only hunt during designated days and times.

(viii) For hunting, you may use only approved nontoxic shot (see § 32.2(k)), .22 caliber rimfire or smaller rifles, or legal archery equipment according to State regulations.

(3) Big game hunting. We allow archery hunting of white-tailed deer and incidental take of feral hog subject to the following conditions:

(i) The conditions set forth at paragraphs (c)(2)(ii), (iii), (iv), and (viii) of this section apply.

(ii) Deer hunters may place one portable stand or blind on the refuge for use while deer hunting, but only during the open deer season. The stand must be clearly labeled with the hunter's State hunting license number. You may leave the stand or blind on the refuge overnight during the deer season in a non-hunting position at ground level.

(iii) While climbing a tree, installing a tree stand that uses climbing aids, or hunting from a tree stand on the refuge, hunters must use a fall-arrest system (full body harness) that is manufactured to the Tree Stand Manufacturers Association's standards.

(4) Sport fishing. We allow fishing in designated areas of the refuge subject to the following conditions:

(i) We allow fishing year-round, except in the waterfowl sanctuary area as depicted within the refuge brochure. The waterfowl sanctuary is closed to fishing from November 15 through March 1.

(ii) The condition set forth at paragraph (c)(2)(iii) of this section applies.

(iii) We allow a rod and reel and pole and line. We prohibit all other methods of fishing, including bow fishing.

(iv) We prohibit the taking of frogs, turtles, and crawfish (see § 27.21 of this chapter).

(v) We prohibit fishing tournaments on all refuge waters.

(d) Eufaula National Wildlife Refuge—(1) Migratory game bird hunting. We allow hunting of mourning dove and Eurasian-collared dove, duck, and goose on designated areas of the refuge subject to the following conditions:

(i) You must possess and carry a signed refuge hunt permit (signed brochure) when hunting.

(ii) All youth hunters (ages 10 through 15) must remain within sight and normal voice contact of a properly licensed hunting adult age 21 or older. Youth hunters must possess and carry verification of passing a State-approved hunter education course. One adult may supervise no more than two youth hunters.

(iii) All waterfowl hunting opportunities are spaced-blind and assigned by lottery. Hunters wishing to participate in our waterfowl hunt must submit a Waterfowl Lottery Application (FWS Form 3-2439, Hunt Application—National Wildlife Refuge System).

(iv) Hunters must remove all stands/blinds and other personal property at the end of each day's hunt (see § 27.93 of this chapter).

(v) We allow access to the refuge for hunting from 1½ hours before legal sunrise to 1½ hours after legal sunset.

(vi) We prohibit organized drives. We define a “drive” as an organized or planned effort to pursue, drive, chase, or otherwise frighten or cause game to move in the direction of any person(s) who is part of the organized or planned hunt and known to be waiting for the game.

(vii) We prohibit hunting or observing from an elevated stand without use of a full body harness.

(2) Upland game hunting. We allow hunting of squirrel and rabbit on designated areas of the refuge subject to the following conditions:

(i) The conditions set forth at paragraphs (d)(1)(i) and (ii) and (v) through (vii) of this section apply.

(ii) We allow only shotguns as the means of take for upland game hunting.

(3) Big game hunting. We allow hunting of white-tailed deer and feral hog on designated areas of the refuge subject to the following conditions:

(i) The conditions set forth at paragraphs (d)(1)(i) and (v) through (vii) of this section apply.

(ii) We allow youth gun hunting opportunities that are spaced-blind and assigned by lottery. Hunters wishing to participate in our youth gun hunt must submit a Big/Upland Game Hunt Application (FWS Form 3-2439, Hunt Application—National Wildlife Refuge System).

(iii) All youth hunters must remain within sight and normal voice contact of a properly hunting-licensed adult age 21 or older. Youth hunters must possess and carry verification of passing a State-approved hunter education course. One adult may supervise no more than one youth hunter.

(iv) All big game hunting opportunities, except for youth gun, are archery-only.

(v) We close those portions of the refuge between Bustahatchee and Rood Creeks to archery hunting until November 1.

(4) Sport fishing. We allow sport fishing, including bowfishing, in designated areas of the refuge subject to the following conditions:

(i) We allow shoreline access for fishing from 1 hour before legal sunrise to 1 hour after legal sunset.

(ii) We prohibit taking frog or turtle on all refuge lands and waters (see § 27.21 of this chapter).

(iii) We adopt reciprocal license agreements between Alabama and Georgia for fishing in Lake Eufaula. Anglers fishing in waters not directly connected to Lake Eufaula must be properly licensed for the State in which they are fishing.

(e) Grand Bay National Wildlife Refuge. Refer to § 32.43(d) for regulations.

(f) Key Cave National Wildlife Refuge—(1) Migratory game bird hunting. We allow hunting of mourning and white-winged dove, crow, woodcock, and snipe on designated areas of the refuge subject to the following conditions:

(i) We require hunters to possess and carry a current and signed Key Cave National Wildlife Refuge permit, which is included with the Alabama Department of Conservation and Natural Resources' Seven Mile Island Wildlife Management Area hunting permit, when hunting on the refuge.

(ii) We allow hunting on Monday, Tuesday, Friday, and Saturday.

(iii) We allow the use of dogs when hunting migratory game birds and upland game.

(2) Upland game hunting. We allow hunting of quail, Eurasian-collared dove, squirrel, rabbit, raccoon, opossum, starling, coyote, bobcat, and fox on designated portions of the refuge subject to the following conditions:

(i) The conditions set forth at paragraphs (f)(1)(i) and (iii) of this section apply.

(ii) We allow hunting on designated areas from legal sunrise to legal sunset on Monday, Tuesday, Friday, and Saturday, except that you may hunt opossum and raccoon after legal sunset.

(iii) Hunters may hunt with shotguns using only #4 shot or smaller, rifles and handguns using rim-fire ammunition only, or archery equipment that complies with State regulations.

(3) Big game hunting. We allow hunting of white-tailed deer and feral hog on designated portions of the refuge as governed by State regulations subject to the following conditions:

(i) The conditions set forth at paragraphs (f)(1)(i) and (iii) of this section apply.

(ii) We allow hunting on designated areas from legal sunrise to legal sunset on Monday, Tuesday, Friday, and Saturday.

(iii) We prohibit the use of firearms for hunting deer on the refuge.

(iv) We allow hunters to hunt from portable tree stands. While climbing a tree, installing a tree stand that uses climbing aids, or hunting from a tree stand on the refuge, hunters must use a fall-arrest system (full body harness) that is manufactured to the Tree Stand Manufacturers Association's standards.

(v) We prohibit organized drives. We define a “drive” as an organized or planned effort to pursue, drive, chase, or otherwise frighten or cause game to move in the direction of any person(s) who is part of the organized or planned hunt and known to be waiting for the game.

(vi) Hunters may hunt big game species other than deer with shotguns using only approved nontoxic #4 shot or smaller (see § 32.2(k)), rifles and handguns using rim-fire ammunition only, or archery equipment that complies with State regulations.

(4) [Reserved]

(g) Mountain Longleaf National Wildlife Refuge—(1) Migratory game bird hunting. We allow hunting of woodcock on designated areas of the refuge subject to the following conditions:

(i) We require hunters to hunt as governed by Alabama Department of Conservation and Natural Resources' Choccolocco Wildlife Management Area hunting permit conditions.

(ii) We require hunters to possess and carry a current and signed Alabama Department of Conservation and Natural Resources' Choccolocco Wildlife Management Area hunting permit when hunting on the refuge.

(iii) Hunters may only hunt during designated days and times.

(iv) Hunters must remove tree stands, blinds, or other personal property from the refuge at the end of each day's hunt (see § 27.93 of this chapter).

(2) Upland game hunting. We allow hunting of quail, squirrel, rabbit, groundhog, raccoon, opossum, beaver, and fox on designated areas of the refuge subject to the following conditions:

(i) The conditions set forth at paragraphs (g)(1)(i) through (iv) of this section apply.

(ii) We prohibit hunting after legal sunset.

(iii) Hunters must use a body safety harness at all times while hunting from a tree.

(iv) We allow the use of dogs when hunting quail, squirrel, and rabbit only.

(3) Big game hunting. We allow hunting of white-tailed deer, bobcat, coyote, feral hog, and turkey on designated areas of the refuge subject to the following condition: The conditions set forth at paragraphs (g)(1)(i) through (iv) and (g)(2)(iii) of this section apply.

(4) [Reserved]

(h) Sauta Cave National Wildlife Refuge. (1) [Reserved]

(2) Upland game hunting. We allow hunting of quail, squirrel, rabbit, raccoon, and opossum on designated areas of the refuge subject to the following conditions:

(i) We require hunters to hunt as governed by Alabama Department of Conservation and Natural Resources' North Sauty refuge hunting permit.

(ii) We require hunters to possess and carry a current and signed Sauta Cave National Wildlife Refuge permit, which is found on the Alabama Department of Conservation and Natural Resources' Jackson County Waterfowl, Management Areas, refuges and Coon Gulf Tract hunting permit, when hunting.

(iii) Hunters may only hunt during designated days and times.

(iv) Hunters may hunt with shotguns using only #4 shot or smaller, rifles and handguns using rim-fire ammunition only, or archery equipment that complies with State regulations.

(v) We allow the use of dogs when hunting upland game.

(3)-(4) [Reserved]

(i) Wheeler National Wildlife Refuge. (1) [Reserved]

(2) Upland game hunting. We allow hunting of quail, squirrel, rabbit, raccoon, and opossum on designated areas of the refuge subject to the following conditions:

(i) We require hunters to possess and carry a current and signed hunting permit, found on the Wheeler National Wildlife Refuge hunting brochure, when hunting on the refuge.

(ii) Hunters may hunt with shotguns using only #4 shot or smaller, rifles and handguns using rim-fire ammunition only, or archery equipment that complies with State regulations.

(iii) We allow hunting on designated areas Monday through Saturday. We prohibit hunting on Sunday.

(iv) We allow the use of dogs when hunting upland game.

(v) Hunters must use a body safety harness at all times while hunting from a tree.

(vi) Hunters must remove tree stands, blinds, or other personal property from the refuge at the end of each day's hunt (see § 27.93 of this chapter).

(vii) Hunters may only hunt during designated days and times.

(3) Big game hunting. We allow the hunting of white-tailed deer and feral hog on designated areas of the refuge subject to the following conditions:

(i) The conditions set forth at paragraphs (i)(2)(i) and (iii) and (v) through (vii) of this section apply.

(ii) We prohibit organized drives. We define a “drive” as an organized or planned effort to pursue, drive, chase, or otherwise frighten or cause game to move in the direction of any person(s) who is part of the organized or planned hunt and known to be waiting for the game.

(iii) Hunters may only hunt with archery equipment that complies with State regulations and flintlocks .40 caliber or larger.

(iv) You may only hunt feral hog during the refuge archery and flintlock deer season.

(4) Sport fishing. We allow fishing on designated areas of the refuge subject to the following condition: We open all refuge waters to fishing year-round unless otherwise posted.

§ 32.21 Alaska.

Alaska refuges are opened to hunting, fishing, and trapping pursuant to the Alaska National Interest Lands Conservation Act (Pub. L. 96-487, 16 U.S.C. 3101 et seq.). The regulations set forth at 50 CFR part 36 concern National Wildlife Refuges in Alaska. Information regarding specific refuge rules can be obtained from the Regional Office of the U.S. Fish and Wildlife Service, Anchorage, AK (see 50 CFR 2.2), or by contacting the manager of the respective individual refuge.

§ 32.22 Arizona.

The following refuge units are open for hunting and/or fishing as governed by applicable Federal and State regulations, and are listed in alphabetical order with additional refuge-specific regulations.

(a) Bill Williams River National Wildlife Refuge—(1) Migratory game bird hunting. We allow hunting of mourning and white-winged dove on designated areas of the refuge subject to the following conditions:

(i) We allow shotguns, muzzleloaders, pistols, pneumatic guns, and archery equipment for hunting.

(ii) We prohibit hunting within 50 yards (45 meters) of any building, road, or levee open to public use.

(iii) You must remove boats, equipment, cameras, temporary blinds, stands, etc., at the end of each day's activities (see § 27.93 of this chapter).

(2) Upland game hunting. We allow hunting of Gambel's quail and cottontail rabbit on designated areas of the refuge subject to the following conditions:

(i) The conditions set forth at paragraphs (a)(1)(i) and (iii) of this section apply.

(ii) We allow hunting of cottontail rabbit from September 1 to the close of the State season.

(3) Big game hunting. We allow hunting of desert bighorn sheep on designated areas of the refuge subject to the following conditions:

(i) The conditions set forth at paragraphs (a)(1)(i) and (iii) of this section apply.

(ii) We allow the possession of rifles for desert bighorn sheep hunting.

(4) Sport fishing. We allow fishing on designated areas of the refuge subject to the following condition: The condition set forth at paragraph (a)(1)(iii) of this section applies.

(b) Buenos Aires National Wildlife Refuge—(1) Migratory game bird hunting. We allow hunting of goose, duck, coot, and mourning, white-winged, and Eurasian-collared dove on designated areas of the refuge subject to the following condition: You must remove temporary blinds, boats, and decoys from the refuge following each day's hunt (see § 27.93 of this chapter).

(2) Upland game hunting. We allow hunting of black-tailed and antelope jackrabbit, cotton-tailed rabbit, coyote, and hog-nosed, hooded, spotted, and striped skunk on designated areas of the refuge subject to the following condition: You must remove temporary blinds, boats, and decoys from the refuge following each day's hunt (see § 27.93 of this chapter).

(3) Big game hunting. We allow hunting of mule and white-tailed deer, javelina, and feral hog on designated areas of the refuge subject to the following condition: You must remove temporary blinds, boats, and decoys from the refuge following each day's hunt (see § 27.93 of this chapter).

(4) [Reserved]

(c) Cabeza Prieta National Wildlife Refuge. (1)-(2) [Reserved]

(3) Big game hunting. We allow hunting of desert bighorn sheep on designated areas of the refuge subject to the following conditions:

(i) We require hunters to obtain a Barry M. Goldwater Range Entry Permit (Department of Defense form/requirement) from the refuge.

(ii) We require Special Use Permits for all hunters (FWS Form 3-1383-G) and guides (FWS Form 3-1383-C).

(4) [Reserved]

(d) Cibola National Wildlife Refuge—(1) Migratory game bird hunting. We allow hunting of goose, duck, coot, moorhen (gallinule), common snipe, and mourning and white-winged dove on designated areas of the refuge subject to the following conditions:

(i) We only allow shotgun, archery, and crossbow.

(ii) Hunters may only hunt during designated days and times.

(iii) You must remove all temporary blinds, boats, and decoys from the refuge following each day's hunt (see § 27.93 of this chapter).

(iv) The Hart Mine Marsh area is open to entry from 10 a.m. to 3 p.m. from October 1 through March 14.

(2) Upland game hunting. We allow hunting of Gambel's quail and cottontail rabbit on designated areas of the refuge subject to the following conditions:

(i) For cottontail rabbit, we allow only shotgun, archery, crossbow, handgun, rifle, muzzleloader, and bow and arrow.

(ii) For quail, we allow only shotgun, archery, crossbow, and handgun shooting shot.

(iii) You may hunt cottontail rabbit from September 1 through the last day of the respective State's quail season.

(3) Big game hunting. We allow hunting of mule deer on designated areas of the refuge subject to the following condition: We allow rifle, shotgun, handgun, muzzleloader, crossbow and archery, except for archery only hunts.

(4) Sport fishing. We allow sport fishing and frogging subject to the following condition: Cibola Lake is open to fishing and frogging from March 15 through Labor Day.

(e) Havasu National Wildlife Refuge—(1) Migratory game bird hunting. We allow hunting of mourning and white-winged dove, duck, coot, moorhen (gallinule), goose, and common snipe on designated areas of the refuge subject to the following conditions:

(i) We allow shotguns, muzzleloaders, pistols, pneumatic guns, and archery equipment for hunting.

(ii) You must remove all boats, equipment, cameras, temporary blinds, stands, etc., at the end of each day's activities (see § 27.93 of this chapter).

(iii) We allow the use of dogs when hunting.

(iv) The following conditions apply to Pintail Slough (all refuge lands north of North Dike):

(A) We prohibit falconry.

(B) We limit the number of persons at each waterfowl hunt blind or field to four. Observers cannot hold shells or guns for hunting unless in possession of a valid State hunting license and stamps.

(C) Waterfowl hunters must possess at least four decoys per designated blind or field.

(D) You may use dead vegetation or materials for making or fixing hunt blinds.

(E) We allow waterfowl hunting on Wednesdays, Saturdays, and Sundays. Waterfowl hunting ends at 2 p.m. MST (Mountain Standard Time). Hunters must be out of the Pintail Slough area by 3 p.m. MST.

(2) Upland game hunting. We allow hunting of Gambel's quail and cottontail rabbit on designated areas of the refuge subject to the following conditions:

(i) The conditions set forth at paragraphs (e)(1)(i) through (iii) of this section apply.

(ii) We allow hunting of Gambel's quail and cottontail rabbit in Pintail Slough prior to and following the State waterfowl season.

(iii) We allow the incidental take of quail and cottontail rabbit in Pintail Slough during the State waterfowl season by hunters possessing a valid permit at their designated waterfowl hunt blind or field.

(3) Big game hunting. We allow hunting of desert bighorn sheep on designated areas of the refuge subject to the following conditions:

(i) The conditions set forth at paragraphs (e)(1)(i) through (iii) of this section apply.

(ii) We allow the possession of rifles for desert bighorn sheep hunting.

(4) Sport fishing. We allow fishing on designated areas of the refuge subject to the following conditions:

(i) The condition set forth at paragraph (e)(1)(ii) of this section applies.

(ii) We prohibit overnight boat mooring and shore anchoring unless actively fishing as governed by State regulations (see § 27.93 of this chapter).

(f) Imperial National Wildlife Refuge—(1) Migratory game bird hunting. We allow hunting of mourning and white-winged dove, duck, coot, moorhen (gallinule), goose, and common snipe on designated areas of the refuge subject to the following conditions:

(i) We allow shotgun, archery, and crossbow.

(ii) You must remove temporary blinds, boats, and decoys from the refuge following each day's hunt (see § 27.93 of this chapter).

(2) Upland game hunting. We allow hunting of Gambel's quail, cottontail rabbit, coyote, and gray fox on designated areas of the refuge subject to the following conditions:

(i) For hunting quail, we allow shotgun, handgun shooting shot, archery, and crossbow.

(ii) For hunting cottontail rabbit, coyote, and fox, we allow shotgun, rifle, handgun, muzzleloader, archery, and crossbow.

(iii) We allow cottontail rabbit hunting from September 1 to the close of the State quail season.

(iv) We allow coyote and fox hunting only during the State quail season.

(3) Big game hunting. We allow hunting of mule deer and desert bighorn sheep on designated areas of the refuge.

(4) Sport fishing. We allow fishing and frogging for bullfrog on designated areas of the refuge subject to the following condition: We close posted portions of Martinez Lake and Ferguson Lake to entry from October 1 through the last day of February.

(g) Kofa National Wildlife Refuge. (1) [Reserved]

(2) Upland game hunting. We allow hunting of Gambel's quail, cottontail rabbit, coyote, and gray fox on designated areas of the refuge subject to the following conditions:

(i) We allow hunting of coyote, fox, and cottontail rabbit during the State quail season only.

(ii) For hunting quail, we allow shotgun, archery, crossbow, and handgun shooting shot.

(iii) For hunting cottontail rabbit, coyote, and fox, we allow shotgun, rifle, muzzleloader, handgun, archery, and crossbow.

(3) Big game hunting. We allow hunting of mule deer and desert bighorn sheep on designated areas of the refuge.

(4) [Reserved]

(h) San Bernardino National Wildlife Refuge—(1) Migratory game bird hunting. We allow hunting of mourning and white-winged dove on designated areas of the refuge subject to the following condition: We allow the use of dogs while hunting.

(2) Upland game hunting. We allow hunting of Gambel's, scaled, and Mearns' quail and cottontail rabbit on designated areas of the refuge subject to the following conditions:

(i) We allow only shotgun.

(ii) We allow the use of dogs while quail hunting.

(iii) Cottontail rabbit season opens on September 1 and closes on the last day of the State quail season.

(3)-(4) [Reserved]

§ 32.23 Arkansas.

The following refuge units are open for hunting and/or fishing as governed by applicable Federal and State regulations, and are listed in alphabetical order with additional refuge-specific regulations.

(a) Bald Knob National Wildlife Refuge—(1) Migratory game bird hunting. We allow hunting of duck, goose, coot, snipe, woodcock, and dove on designated areas of the refuge subject to the following conditions:

(i) We require refuge hunting permits (signed brochure). The permits are nontransferable, and anyone on refuge land in possession of hunting equipment must possess a signed permit at all times.

(ii) We prohibit migratory game bird hunting on the refuge during the quota gun deer hunt.

(iii) With the exception of hunting for woodcock, we prohibit migratory game bird hunting after 12 p.m. (noon) during the regular State waterfowl hunting season.

(iv) You may not possess more than 25 shotgun shells while in the field. The field possession limit for shells does not apply to goose hunting during the State Conservation Order.

(v) We prohibit hunting closer than 100 yards (90 meters) to another hunter or hunting party.

(vi) You must remove decoys, blinds, boats, and all other equipment by 1 p.m. (see § 27.93 of this chapter).

(vii) Hunters may enter the refuge beginning at 4 a.m. and must exit by 1 hour after legal shooting time ends.

(viii) Boats displaying valid registration may be left on the refuge from March 1 through October 31. We prohibit the use of boats from 12 a.m. (midnight) to 4 a.m. during duck season.

(ix) We allow the use of dogs when migratory game bird hunting.

(2) Upland game hunting. We allow hunting of squirrel, rabbit, quail, raccoon, opossum, beaver, muskrat, nutria, armadillo, and coyote on designated areas of the refuge subject to the following conditions:

(i) The conditions set forth at paragraphs (a)(1)(i), (vii), and (viii) of this section apply.

(ii) Hunters may use shotguns and rifles chambered for rimfire cartridges.

(iii) We allow squirrel hunting September 1 through February 28, except for season closure of the refuge during the quota gun deer hunt.

(iv) We allow rabbit and quail hunting as governed by the State season, except for season closure of the refuge during the quota gun deer hunt.

(v) We allow the use of dogs when hunting upland game. We require the use of dogs when hunting raccoon and opossum at night, 30 minutes after legal sunset to 30 minutes before legal sunrise.

(vi) Hunters may take beaver, muskrat, nutria, armadillo, and coyote during any refuge hunt with those weapons legal during those hunts, subject to applicable State seasons and regulations.

(vii) We limit hunting after legal sunset to raccoon/opossum hunting.

(3) Big game hunting. We allow hunting of deer, feral hog, and turkey on designated areas of the refuge subject to the following conditions:

(i) The conditions set forth at paragraphs (a)(1)(i), (vii), and (viii) of this section apply.

(ii) We allow archery/crossbow deer hunting as governed by the State season, except for season closure of the refuge during the quota gun deer hunt.

(iii) Muzzleloader hunting season for deer will begin in October and continue for a period of up to 9 days in all hunting units with annual season dates and bag limits provided on the hunt brochure/permit.

(iv) The modern gun hunting season for deer will begin in November and continue for a period of up to 9 days in all hunting units with annual season dates and bag limits provided in the hunt brochure/permit.

(v) We prohibit spring and fall gun hunting for turkey.

(vi) You may use only shotguns with rifled slugs, muzzleloaders, and legal pistols for modern gun deer hunting on the Farm Unit.

(vii) We allow only portable deer stands. You may erect stands 7 days prior to the refuge deer season and must remove them from the waterfowl sanctuaries prior to November 15, except for stands used by quota gun deer hunt permit holders (fee/signature required), which you must remove by the last day of the quota gun deer hunt. You must remove all stands on the remainder of the refuge within 7 days of the closure of archery season (see § 27.93 of this chapter). We prohibit leaving any tree stand, ground blind, or game camera on the refuge without the owner's Arkansas Game and Fish customer identification number clearly written on it in a conspicuous location.

(viii) We prohibit the possession or use of buckshot for hunting on all refuge lands.

(ix) We prohibit hunting from mowed and/or graveled road rights-of-way.

(x) We allow only quota gun deer hunt permit holders on the refuge during the quota gun deer hunt and only for the purposes of deer hunting. We close the refuge to all other entry and public use during the quota gun deer hunt.

(xi) We close waterfowl sanctuaries to all entry and hunting from November 15 to February 28, except for quota gun deer hunt permit holders who may hunt in the sanctuary when the season overlaps with these dates.

(xii) Hunters may enter the refuge at 4 a.m. and remain until 1 hour after legal shooting time.

(xiii) You may take feral hog only during the refuge quota gun and muzzleloader deer hunts and according to State Wildlife Management Area (WMA) regulations.

(4) Sport fishing. We allow sport fishing on designated areas of the refuge subject to the following conditions:

(i) The condition set forth at paragraph (a)(1)(viii) of this section applies.

(ii) Anglers may enter the refuge beginning ½ hour before legal sunrise and must exit by 1 hour after legal sunset.

(iii) We prohibit the take or possession of turtles and/or mollusks (see § 27.21 of this chapter).

(b) Big Lake National Wildlife Refuge. (1) [Reserved]

(2) Upland game hunting. We allow hunting of squirrel, rabbit, raccoon, nutria, coyote, beaver, and opossum on designated areas of the refuge subject to the following conditions:

(i) We require refuge hunt permits. The permits (found on the front cover of the annual hunt brochure/permit—signature required) are nontransferable, and anyone on refuge land in possession of hunting equipment must sign and carry the permit at all times.

(ii) Hunters may only hunt during designated days and times.

(iii) We allow take of nutria, beaver, and coyote during any refuge hunt with the device allowed for that hunt subject to applicable State seasons and regulations.

(iv) You may take opossum when hunting raccoon.

(v) We require dogs for hunting of raccoon and opossum after legal sunset.

(vi) When hunting, you may only use shotguns and rifles chambered for rimfire cartridges.

(vii) We prohibit hunting from mowed and/or gravel road rights-of-way.

(viii) We limit nighttime use, 30 minutes after legal sunset to 30 minutes before legal sunrise, to fishing, frogging, and/or raccoon/opossum hunting.

(3) Big game hunting. We allow hunting of white-tailed deer on designated areas of the refuge subject to the following conditions:

(i) The conditions set forth at paragraphs (b)(2)(i), (iii), and (vii) of this section apply.

(ii) Hunters may only hunt during designated days and times.

(iii) Hunters may use only bows or crossbows.

(iv) Hunters may use only biodegradable materials to mark trails.

(v) We allow only portable deer stands. You may erect stands 7 days prior to the refuge deer season and must remove them 7 days after the closure of archery season (see § 27.93 of this chapter). We prohibit leaving any tree stand, ground blind, or game camera on the refuge without the owner's Arkansas Game and Fish customer identification number clearly written on it in a conspicuous location.

(vi) Hunters may enter the refuge no earlier than 4 a.m. and must leave 1 hour after legal sunset.

(4) Sport fishing. We allow fishing and frogging on designated areas of the refuge subject to the following conditions:

(i) The condition set forth at paragraph (b)(2)(viii) of this section applies.

(ii) Anglers may launch boats only in designated areas.

(iii) We allow frogging from the beginning of the State frogging season through October 31.

(iv) We prohibit the take or possession of turtles and/or mollusks (see § 27.21 of this chapter).

(c) Cache River National Wildlife Refuge—(1) Migratory game bird hunting. We allow hunting of duck, goose, coot, snipe, woodcock, and dove on designated areas of the refuge subject to the following conditions:

(i) We require refuge hunting permits. These permits (found on the front cover of the annual hunt brochure/permit—signature required) are nontransferable, and anyone on the refuge in possession of hunting equipment must sign and carry the permit at all times.

(ii) With the exception of hunting for woodcock, we prohibit migratory game bird hunting after 12 p.m. (noon) during the regular State waterfowl hunting season.

(iii) You must remove decoys, blinds, boats, and all other equipment by 1 p.m. each day (see § 27.93 of this chapter).

(iv) Waterfowl hunters may enter the refuge at 4 a.m. and hunt until 12 p.m. (noon).

(v) Boats displaying valid registration may be left on the refuge from March 1 through October 31. We prohibit boats on the refuge from 12 a.m. (midnight) to 4 a.m. during duck season.

(vi) We allow the use of dogs when migratory game bird hunting.

(vii) We allow waterfowl hunting on flooded refuge roads.

(viii) We close all other hunts during the quota gun deer hunt.

(2) Upland game hunting. We allow hunting of squirrel, rabbit, quail, raccoon, opossum, beaver, muskrat, nutria, armadillo, and coyote on designated areas of the refuge subject to the following conditions:

(i) The conditions set forth at paragraphs (c)(1)(i), (v), and (viii) of this section apply.

(ii) We allow squirrel hunting September 1 through February 28, except for refuge-wide season closure during the quota gun deer hunt.

(iii) We allow rabbit and quail hunting as governed by the State season, except for season closure of the refuge during the quota gun deer hunt.

(iv) We allow the use of dogs when hunting upland game. We require the use of dogs when hunting raccoon and opossum at night, 30 minutes after legal sunset to 30 minutes before legal sunrise.

(v) You may take beaver, muskrat, nutria, armadillo, and coyote during any refuge hunt with those weapons legal during those hunts subject to applicable State seasons and regulations.

(vi) We prohibit hunting from mowed and/or graveled refuge roads except by waterfowl hunters during flooded conditions.

(vii) You may use only shotguns and rifles chambered for rimfire cartridges when hunting.

(viii) We limit nighttime use, 30 minutes after legal sunset to 30 minutes before legal sunrise, to fishing, frogging, and/or raccoon/opossum hunting.

(3) Big game hunting. We allow hunting of deer, feral hog, and turkey on designated areas of the refuge subject to the following conditions:

(i) The conditions set forth at paragraphs (c)(1)(i) and (viii) and (c)(2)(v) and (vi) of this section apply.

(ii) We allow archery/crossbow deer hunting as governed by the State season, except for season closure of the refuge during the quota gun deer hunt.

(iii) Muzzleloader hunting season for deer will begin in October and will continue for a period of up to 9 days, with annual season dates and bag limits provided on the hunt brochure/permit.

(iv) Modern gun deer hunting will begin in November and continue for a period of up to 11 days, with annual season dates and bag limits provided in the refuge hunt brochure/permit.

(v) Hunters may take feral hog only during the quota gun and muzzleloader deer hunts and according to State Wildlife Management Area (WMA) regulations.

(vi) Hunters may only use shotguns with rifled slugs, muzzleloaders, or legal pistols for modern gun deer hunting on the Dixie Farm Unit Waterfowl Sanctuary, adjacent waterfowl hunt area, and Plunkett Farm Unit Waterfowl Sanctuary.

(vii) We allow only portable stands. Hunters may erect stands 7 days prior to the refuge deer season and must remove them from the waterfowl sanctuaries prior to November 15, and from the rest of the refuge within 7 days of the closure of archery season (see § 27.93 of this chapter). We prohibit leaving any tree stand, ground blind, or game camera on the refuge without the owner's Arkansas Game and Fish customer identification number clearly written on it in a conspicuous location.

(viii) We prohibit the possession or use of buckshot for hunting on all refuge lands.

(ix) We prohibit hunting from mowed and/or graveled road rights-of-way.

(4) Sport fishing. We allow fishing and frogging on designated areas of the refuge subject to the following conditions:

(i) The conditions set forth at paragraphs (c)(1)(v) and (c)(2)(viii) of this section apply.

(ii) We close waterfowl sanctuaries to all entry and fishing/frogging from November 15 to February 28. We prohibit refuge-wide entry and fishing during the quota gun deer hunt.

(iii) We prohibit the take or possession of turtles and/or mollusks (see § 27.21 of this chapter).

(d) Dale Bumpers White River National Wildlife Refuge—(1) Migratory game bird hunting. We allow hunting of duck and coot on designated areas of the refuge subject to the following conditions:

(i) We require an annual public use permit (signed brochure) to hunt and fish.

(ii) We allow duck hunting from legal shooting hours until 12 p.m. (noon).

(iii) We allow the use of dogs when migratory game bird hunting.

(iv) You must remove blinds, blind material, and decoys from the refuge by 1 p.m. each day (see § 27.93 of this chapter).

(v) Waterfowl hunters may enter the North Unit no earlier than 8 p.m. the day prior to the hunt. Waterfowl hunters may enter the Jack's Bay Hunt Area and Levee Hunt Area no earlier than 4 a.m.

(vi) We prohibit boating from November 1 through January 31 in the South Unit Waterfowl Hunt Areas, except from 4 a.m. to 1 p.m. on designated waterfowl hunt days.

(vii) We allow duck hunting on outlying-tracts; paragraph (d)(1)(v) of this section applies.

(viii) We only allow all-terrain vehicles (ATVs) for wildlife-dependent hunting and fishing activities. We prohibit the use of ATVs after December 15 each year in designated South Unit areas as shown in refuge user brochure.

(ix) We prohibit the use of decoys that contain moving parts or electrical components, except that you may use manually operated jerk strings to simulate decoy movement.

(2) Upland game hunting. We allow hunting of squirrel, rabbit, and all furbearers (as governed by State law) on designated areas of the refuge subject to the following conditions:

(i) The condition set forth at paragraph (d)(1)(i) of this section applies.

(ii) We allow hunting of rabbit and squirrel on the North Unit from September 1 through January 31.

(iii) We allow the use of dogs when hunting rabbit and squirrel from December 1 through January 31 on the North Unit only.

(iv) We allow rabbit and squirrel hunting on the South Unit from September 1 through November 30.

(v) We allow furbearer (as governed by State law) hunting. The annual public use permit (signed brochure) provides season dates and methods.

(vi) We allow the use of dogs for hunting furbearers from legal sunset to legal sunrise. Hunters must tether or pen all dogs used for furbearer hunting from legal sunrise to legal sunset and any time they are not involved in actual hunting.

(3) Big game hunting. We allow the hunting of white-tailed deer, feral hog, and turkey on designated areas of the refuge subject to the following conditions:

(i) The condition set forth at paragraph (d)(1)(i) of this section applies.

(ii) Archery deer seasons on the North Unit are from October 1 through January 31 except during quota muzzleloader and quota gun deer hunts, when the archery season is closed.

(iii) Archery deer seasons on the South Unit are from October 1 through December 31 except during quota muzzleloader and quota gun deer hunts, when the archery season is closed.

(iv) Muzzleloader season for deer will begin in October and will continue for a period of up to 3 days of quota hunting in the North and South Units, and no more than 4 days of non-quota hunting in the North Unit.

(v) The gun deer hunt will begin in November and will continue for a period of no more than 3 days of quota hunting in the North and South Units, and no more than 2 days of non-quota hunting in the North Unit.

(vi) We restrict hunt participants for quota hunts to those drawn for a quota permit (FWS Form 3-2439, Hunt Application—National Wildlife Refuge System). The permits are nontransferable and nonrefundable.

(vii) We close the refuge to all non-quota hunting during refuge-wide quota muzzleloader and quota gun deer hunts.

(viii) We prohibit organized deer drives. We define a “deer drive” as an organized or planned effort to pursue, drive, chase, or otherwise frighten or cause deer to move in the direction of any person(s) who is part of the organized or planned hunt and known to be waiting for the deer.

(ix) We prohibit firearm deer hunting from or across roads, ATV trails, levees, and maintained utility rights-of-way.

(x) You may only use portable deer stands. You may erect stands up to 7 days before each hunt, but you must remove them within 7 days after each hunt (see § 27.93 of this chapter). All unattended deer stands on the refuge must have the owner's hunting license number clearly displayed.

(xi) We close the Kansas Lake Area to all entry on December 1 and reopen it on March 1.

(xii) We prohibit the possession of buckshot on the refuge.

(xiii) We prohibit the possession and/or use of toxic shot by hunters using shotguns (see § 32.2(k) of this chapter) when hunting deer or turkey.

(xiv) Hunters who are hunting deer during a firearm season may kill feral hogs with weapons legal for those seasons. Feral hogs may be taken incidentally with archery equipment from November 1 through December 31.

(4) Sport fishing. We allow sport fishing, frogging, and crawfishing on designated areas of the refuge subject to the following conditions:

(i) The condition set forth at paragraph (d)(1)(i) of this section applies.

(ii) We allow fishing year-round in LaGrue, Essex, Prairie, Scrubgrass and Brooks Bayous, Big Island Chute, Moon, and Belknap Lakes next to Arkansas Highway 1, Indian Bay, the Arkansas Post Canal and adjacent drainage ditches; borrow ditches located adjacent to the west bank of that portion of the White River Levee north of the Graham Burke pumping station; and all waters in the refuge-owned North Unit and scattered tracts. We open all other South Unit refuge waters to sport fishing from March 1 through November 30 unless posted otherwise.

(iii) We allow frogging on all refuge-owned waters open for sport fishing as follows: We allow frogging on the South Unit from the beginning of the State season through November 30; we allow frogging on the North Unit for the entire State season.

(iv) We prohibit all commercial and recreational harvest of turtle on all property administered by Dale Bumpers White River National Wildlife Refuge.

(v) We prohibit take or possession of any freshwater mussel, and we do not open to mussel shelling.

(e) Felsenthal National Wildlife Refuge—(1) Migratory game bird hunting. We allow hunting of duck, goose, and coot on designated areas of the refuge subject to the following conditions:

(i) We allow hunting of duck, goose, and coot during the State waterfowl season except during scheduled refuge quota gun deer hunts.

(ii) Hunting of duck, goose, and coot ends at 12 p.m. (noon) each day.

(iii) We allow only portable blinds. You must remove all duck hunting equipment (portable blinds, boats, guns, and decoys) from the hunt area by 1:30 p.m. each day (see § 27.93 of this chapter).

(iv) We close areas of the refuge posted with “Area Closed” signs and identify them on the refuge hunt brochure map as a waterfowl sanctuary. We close waterfowl sanctuaries to all public entry and public use during the waterfowl hunting season.

(v) Hunters must possess and carry a signed refuge public use regulations brochure/access permit (signed brochure) while hunting.

(vi) All youth hunters age 15 and younger must remain within sight and normal voice contact of an adult age 21 or older, who possesses a valid state hunting license. One adult may supervise no more than two youth hunters.

(vii) We allow only all-terrain vehicles/utility-type vehicles (ATVs/UTVs) for hunting and fishing activities.

(viii) You may use horses and mules on roads and ATV/UTV trails (when open to motor vehicle and ATV/UTV traffic, respectively) as a mode of transportation for hunting and fishing activities on the refuge except during the quota deer hunts.

(ix) We prohibit hunting within 150 feet (45 meters) of roads and trails open to motor vehicle use (including ATV/UTV trails).

(x) You may take beaver, nutria, and coyote during any daytime refuge hunt with weapons and ammunition allowed for that hunt. There is no bag limit.

(xi) We allow the use of dogs when hunting.

(xii) We prohibit leaving any boat on the refuge. You must remove boat(s) at the end of each day's hunt.

(2) Upland game hunting. We allow hunting of quail, squirrel, rabbit, and furbearers (as governed by State law) on designated areas of the refuge subject to the following conditions:

(i) The conditions set forth at paragraphs (e)(1)(iv) through (ix) and (xi) of this section apply.

(ii) We allow hunting for quail, squirrel, rabbit, and furbearers (as governed by State law) on the refuge during State seasons through January 31. We close upland game hunting during refuge quota gun deer hunts.

(iii) We do not open for spring squirrel hunting season, or summer/early fall raccoon hunting season.

(iv) We allow the use of dogs for squirrel and rabbit hunting from December 1 through January 31 and for quail and raccoon/opossum hunting during the open season on the refuge for these species.

(3) Big game hunting. We allow hunting of white-tailed deer, feral hog, and turkey on designated areas of the refuge subject to the following conditions:

(i) The conditions set forth at paragraphs (e)(1)(v) through (ix) of this section apply.

(ii) We allow archery deer hunting on the refuge from the opening of the State season through January 31.

(iii) We close archery deer hunting during the quota gun deer hunts.

(iv) We allow muzzleloader deer hunting during the October State muzzleloader season for this deer management zone. The refuge will conduct one 4-day quota modern gun hunt for deer, typically in November. The refuge also may conduct one mobility-impaired hunt for deer typically in early November.

(v) Total deer harvested refuge-wide is two deer (two does, or one buck and one doe, as governed by State law) regardless of method.

(vi) During the deer and turkey hunts, hunters may possess lead ammunition legal for taking deer and turkey. We prohibit buckshot for gun deer hunting.

(vii) You may only use portable deer stands erected no earlier than the opening day of archery season, and you must remove them no later than January 31 each year (see § 27.93 of this chapter).

(viii) We prohibit the use of deer decoy(s).

(ix) We open spring archery turkey hunting during the State spring turkey season. We do not open for fall archery turkey season.

(x) We close spring archery turkey hunting during scheduled turkey quota gun hunts.

(xi) We restrict quota hunt participants to those selected for a quota permit (FWS Form 3-2439, Hunt Application—National Wildlife Refuge System), except that one nonhunting adult age 21 or older possessing a valid hunting license must accompany the youth hunter age 15 and younger.

(xii) An adult age 21 or older possessing a valid hunting license must accompany and be within sight and normal voice contact of hunters age 15 and younger. One adult may supervise no more than one youth hunter.

(xiii) We authorize the use of tree stands, ground blinds, and game cameras on the refuge if the owner's State hunting license number is clearly written on them in a conspicuous location. You must remove game cameras from the refuge at the end of each day's hunt.

(xiv) We restrict hunt participants for quota hunts to those drawn for a quota permit (FWS Form 3-2439, Hunt Application—National Wildlife Refuge System). These permits are nontransferable, and the permit fees are nonrefundable.

(xv) The incidental taking of feral hogs will be governed by Arkansas Game and Fish Commission regulations concerning the taking of feral hogs on State Wildlife Management Areas (WMAs). Subject to State regulations, we allow incidental take of feral hogs on State WMAs during daytime refuge hunts (without the use of dogs) with legal hunting equipment and ammunition allowed for that hunt. There is no bag limit. We prohibit transport or possession of live hogs.

(4) Sport fishing. We allow sport fishing, frogging, and crawfishing on designated areas of the refuge subject to the following conditions:

(i) The conditions set forth at paragraphs (e)(1)(v), (vi), and (xii) of this section apply.

(ii) We prohibit fishing in the waterfowl sanctuary area when the sanctuary is closed, with the exception of the main channel of the Ouachita and Saline Rivers and the borrow pits along Highway 82. We post the waterfowl sanctuary area with “Area Closed” signs and identify those areas in refuge hunt brochures.

(iii) We allow fishing only in areas accessible from the Ouachita and Saline Rivers and from Eagle, Jones, and Pereogeethe Lakes during the refuge quota gun deer hunts.

(iv) You must reset trotlines when receding water levels expose them.

(f) Holla Bend National Wildlife Refuge. (1) [Reserved]

(2) Upland game hunting. We allow hunting of squirrel, rabbit, raccoon, opossum, beaver, armadillo, coyote, and bobcat on designated areas of the refuge subject to the following conditions:

(i) We require refuge hunting permits (found on the front cover of the annual hunt brochure/permit—signature required). The permits are nontransferable, and anyone on refuge land in possession of hunting equipment must sign and carry a permit at all times. Your hunt permit will also act as your entrance pass to the refuge.

(ii) During the refuge archery season, you may take only squirrel, rabbit, raccoon, opossum, beaver, armadillo, coyote, or bobcat.

(iii) We allow the use of dogs when gun hunting raccoon and opossum every Friday, Saturday, and Sunday until legal sunrise during the month of February.

(iv) We only allow all-terrain vehicles (ATVs) for hunters and anglers with disabilities. We require a refuge ATV permit (Special Use Permit; FWS Form 3-1383-G) issued by the refuge manager.

(v) We allow the use of nonmotorized boats during the refuge fishing/boating season (March 1 through October 31), but hunters must remove boats at the end of each day's hunt (see § 27.93 of this chapter).

(3) Big game hunting. We allow hunting of deer and turkey on designated areas of the refuge subject to the following conditions:

(i) The conditions set forth at paragraphs (f)(2)(i), (iv), and (v) of this section apply.

(ii) We allow archery/crossbow hunting for white-tailed deer and turkey.

(iii) The refuge will conduct one youth-only (between ages 6 and 15 at the beginning of the gun deer season in Zone 7) quota gun deer hunt. We restrict hunt participants to those selected for a quota permit (electronic form), except that one nonhunting adult must accompany the youth hunter during the youth hunt.

(iv) We open spring archery turkey hunting during the State turkey season.

(v) We close the refuge to all entry and public use during scheduled youth quota gun hunts, except for those allowed to participate in the youth quota gun hunt.

(vi) The refuge will conduct two youth-only (age 6 to 15 at the beginning of the spring turkey season) quota spring gun turkey hunts, each 2 days in length. We restrict hunt participants to those selected for a quota permit, except that one nonhunting adult age 21 or older must accompany the youth hunter during the youth hunt.

(vii) We allow only portable deer stands. You may erect stands 7 days before the start of the season and must remove the stands from the refuge within 7 days after the season ends (see §§ 27.93 and 27.94 of this chapter).

(viii) You must permanently affix the owner's Arkansas Game and Fish customer identification number to all tree stands, ground blinds, and game cameras on the refuge.

(ix) We prohibit organized drives. We define a “drive” as an organized or planned effort to pursue, drive, chase, or otherwise frighten or cause game to move in the direction of any person(s) who is part of the organized or planned hunt and known to be waiting for the game.

(x) You must check all game at the refuge check station.

(4) Sport fishing. We allow sport fishing and frogging on designated areas of the refuge subject to the following conditions:

(i) The conditions set forth at paragraphs (f)(2)(iv) and (f)(3)(v) of this section apply.

(ii) We open the waters of the refuge to fishing only from March 1 through October 31 from legal sunrise to legal sunset.

(iii) Anglers must remove boats from the refuge at the end of each day's fishing activity (see § 27.93 of this chapter).

(iv) We prohibit the take and possession of turtles and/or mollusks (see § 27.21 of this chapter).

(g) Overflow National Wildlife Refuge—(1) Migratory game bird hunting. We allow hunting of duck, goose, and coot on designated areas of the refuge subject to the following conditions:

(i) You must possess and carry a refuge public use regulations brochure/access permit (signed brochure) while hunting.

(ii) Hunting of duck, goose, and coot ends at 12 p.m. (noon) each day.

(iii) We allow only portable blinds. Hunters must remove portable blinds, boats, and decoys from the hunt area by 1:30 p.m. each day (see § 27.93 of this chapter).

(iv) We allow only all-terrain vehicles (ATVs)/utility-type vehicles (UTVs) for hunting activities.

(v) You may use horses on roads and ATV/UTV trails (when open to motor vehicle and ATV/UTV traffic, respectively) as a mode of transportation for hunting activities on the refuge.

(vi) We prohibit hunting within 150 feet (45 meters) of roads and trails open to motor vehicle use (including ATV/UTV trails).

(vii) You may take beaver, nutria, and coyote during any daytime refuge hunt with weapons and ammunition legal for that hunt. There is no bag limit. We prohibit transportation or possession of live hog.

(viii) We allow boats on the refuge between the hours of 4 a.m. and 1:30 p.m. during waterfowl season.

(ix) Hunters may not enter the refuge until 4 a.m., with the exception of designated parking areas.

(2) Upland game hunting. We allow hunting of quail, squirrel, rabbit, and furbearers (as governed by State law) on designated areas of the refuge subject to the following conditions:

(i) The conditions set forth at paragraphs (g)(1)(iv) through (vii) of this section apply.

(ii) We allow hunting during State seasons for quail, squirrel, rabbit, and furbearers (as governed by State law) through January 31. State regulations governing appropriate zones apply.

(iii) We do not open for the spring squirrel hunting season or the summer/fall raccoon hunting season.

(iv) When upland game hunting, we prohibit possession of lead ammunition except that you may possess rimfire rifle lead ammunition no larger than .22 caliber.

(v) We allow the use of dogs for squirrel and rabbit hunting from December 1 through January 31, and for quail and raccoon/opossum hunting during the open season on the refuge for these species.

(vi) We allow nighttime raccoon and opossum hunting.

(3) Big game hunting. We allow hunting of white-tailed deer, feral hog, and turkey on designated areas of the refuge subject to the following conditions:

(i) The conditions set forth at paragraphs (g)(1)(iv) through (vii) of this section apply.

(ii) We allow muzzleloader deer hunting during the first State muzzleloader season for this zone. State regulations governing appropriate zones apply.

(iii) We prohibit buckshot for gun deer hunting.

(iv) The bag limit for the muzzleloader deer hunt is two deer, with no more than one buck.

(v) You may only use portable deer stands erected no earlier than the opening day of archery season, and you must remove them no later than January 31 each year (see § 27.93 of this chapter). The limit is one deer stand, blind, etc., per person.

(vi) We prohibit the use of deer decoy(s).

(vii) We restrict quota hunt participants on these hunts to those selected for a quota permit (electronic form), except that one nonhunting adult age 21 or older and possessing a valid hunting license must accompany a youth hunter age 15 or younger.

(viii) The incidental taking of feral hogs will be governed by Arkansas Game and Fish Commission regulations concerning the taking of feral hogs on State Wildlife Management Areas (WMAs). Subject to State regulations, we allow incidental take of feral hogs on State WMAs during daytime refuge hunts (without the use of dogs) with legal hunting equipment and ammunition allowed for that hunt. There is no bag limit. We prohibit transport or possession of live hogs.

(4) [Reserved]

(h) Pond Creek National Wildlife Refuge—(1) Migratory game bird hunting. We allow hunting of duck, coot, and goose on designated areas of the refuge subject to the following conditions:

(i) We close migratory game bird hunting during scheduled quota refuge gun deer hunts.

(ii) Hunting ends at 12 p.m. (noon) each day.

(iii) We allow only portable blinds. You must remove portable blinds, boats, and decoys from the hunt area by 1:30 p.m. each day (see § 27.93 of this chapter).

(iv) You must possess and carry a refuge public use regulations brochure/access permit (signed brochure) while hunting.

(v) We allow only all-terrain vehicles (ATVs)/utility-type vehicles (UTVs) for hunting and fishing activities.

(vi) You may use horses and mules only on roads and ATV/UTV trails (when open to motor vehicle and ATV/UTV traffic, respectively) as a mode of transportation for on-refuge hunting and fishing activities, except during refuge muzzleloader and quota deer hunts.

(vii) We prohibit hunting within 150 feet (45 meters) of roads and trails open to motor vehicle use (including ATV/UTV trails).

(viii) You may take beaver, nutria, and coyote during any daytime refuge hunt with weapons and ammunition allowed for that hunt. We prohibit the use of dogs to take these species. There is no bag limit.

(ix) We allow the use of dogs when waterfowl hunting.

(x) We authorize the use of tree stands, game cameras, and boats while hunting and fishing on the refuge. The owner's Arkansas Game and Fish customer identification number must be affixed to, or clearly written on, them in a conspicuous manner.

(2) Upland game hunting. We allow hunting of squirrel, rabbit, and furbearers (as governed by State law) on designated areas of the refuge subject to the following conditions:

(i) We allow hunting on the refuge during State seasons for this zone for squirrel, rabbit, and furbearers through January 31. We list specific hunting season dates annually in the refuge hunt brochure. We close upland game hunting during refuge quota deer hunts.

(ii) We do not open to spring squirrel hunting season, or summer/early fall raccoon hunting season.

(iii) The conditions set forth at paragraphs (h)(1)(iv) through (viii) of this section apply.

(iv) We allow the use of dogs when squirrel, rabbit, raccoon, and opossum hunting from the opening of hunting season through January 31.

(3) Big game hunting. We allow hunting of white-tailed deer, feral hog, and turkey on designated areas of the refuge subject to the following conditions:

(i) We allow archery deer hunting on the refuge from the opening of the State season through January 31. State regulations governing appropriate zones apply.

(ii) The conditions set forth at paragraphs (h)(1)(iv) through (viii) of this section apply.

(iii) We close archery deer hunting during the quota gun deer hunts.

(iv) We allow muzzleloader deer hunting for the first 5 days of the early State muzzleloader season for this deer management zone. The bag limit for the refuge muzzleloader hunt is two deer, with no more than one buck.

(v) We prohibit buckshot for gun deer hunting.

(vi) We restrict hunt participants for quota hunts to those drawn for a quota permit. These permits are nontransferable, and permit fees are nonrefundable.

(vii) The quota gun deer hunt bag limit is two deer, with no more than one buck (one buck and one doe). Exception: Youth hunters participating in the refuge youth deer hunt and hunters participating in the refuge mobility-impaired hunt may harvest the legal State bag limit without antler restrictions.

(viii) We do not open for fall archery turkey season.

(ix) We close spring archery turkey hunting during scheduled turkey quota permit gun hunts.

(x) You may use only portable deer stands erected no sooner than 2 days before the opening of the State deer season, and you must remove them no later than January 31 each year (see § 27.93 of this chapter).

(xi) We prohibit the use of deer decoy(s).

(xii) We restrict hunt participants during quota hunts to those selected for a quota permit, except that one nonhunting adult age 21 or older and possessing a valid hunting license must accompany a youth hunter.

(xiii) We allow tree stands, ground blinds, boats, or game cameras on the refuge only if the owner's Arkansas Game and Fish customer identification number is affixed to, or clearly written on, them in a conspicuous location.

(xiv) We prohibit organized deer drives. We define a “deer drive” as an organized or planned effort to pursue, drive, chase, or otherwise frighten or cause deer to move in the direction of any person(s) who is part of the organized or planned hunt and known to be waiting for the deer.

(xv) We prohibit all public use, except fishing and access for fishing, during quota hunts.

(xvi) We allow the taking of feral hogs on the refuge only during the muzzleloader and modern gun quota permit deer hunts and with weapons and ammunition allowed for that hunt. There is no bag limit. You may not transport or possess live hogs.

(4) Sport fishing. We allow fishing, frogging, and the taking of crawfish on designated areas of the refuge subject to the following conditions:

(i) You must reset trotlines when exposed by receding water levels.

(ii) The conditions set forth at paragraphs (h)(1)(iv) through (viii) and (x) of this section apply.

(iii) We prohibit taking or possessing turtles or mollusks (see § 27.21 of this chapter).

(i) Wapanocca National Wildlife Refuge—(1) Migratory game bird hunting. We allow hunting of snow goose on designated areas of the refuge subject to the following conditions:

(i) We require refuge hunting permits. The permits (found on the front cover of the annual hunt brochure/permit—signature required) are nontransferable, and anyone on refuge land in possession of hunting equipment must sign and carry them at all times.

(ii) Hunters may only hunt during designated days and times.

(iii) Hunters may enter the refuge at 4 a.m. and must leave the refuge by 1 hour after legal sunset.

(2) Upland game hunting. We allow hunting of squirrel, rabbit, raccoon, nutria, beaver, coyote, feral hog, and opossum on designated areas of the refuge subject to the following conditions:

(i) The conditions set forth at paragraphs (i)(1)(i) through (iii) of this section apply.

(ii) You may use only shotguns and rifles chambered for rimfire cartridges when hunting.

(iii) We allow the use of dogs when hunting.

(iv) You may take nutria, beaver, and coyote during any refuge hunt with those weapons legal during those hunts, subject to applicable State seasons and regulations.

(v) You may take feral hog only during the refuge quota gun deer hunt and according to State Wildlife Management Area (WMA) regulations.

(vi) We limit nighttime hunting to raccoon/opossum hunting.

(vii) We close all other hunts during the quota gun deer hunt. We allow only quota gun deer hunt permit (fee/signature required) holders to enter the refuge during this hunt and only for deer hunting.

(3) Big game hunting. We allow hunting of white-tailed deer on designated areas of the refuge subject to the following conditions:

(i) The conditions set forth at paragraphs (i)(1)(i) through (iii) and (i)(2)(iv) through (vii) of this section apply.

(ii) We prohibit hunting from mowed and/or graveled road rights-of-way.

(iii) We allow only portable deer stands. You may erect stands 7 days prior to the refuge deer season and must remove them from the waterfowl sanctuaries by December 1. You must remove all stands on the remainder of the refuge within 7 days of the closure of archery season (see § 27.93 of this chapter).

(iv) We prohibit the possession or use of buckshot for hunting on all refuge lands.

(v) We allow tree stands, ground blinds, and game cameras on the refuge only if the owner's Arkansas Game and Fish customer identification number is clearly written on them in a conspicuous location.

(4) Sport fishing. We allow sport fishing on designated areas of the refuge subject to the following conditions:

(i) We allow fishing from March 1 through October 31 from ½ hour before legal sunrise to ½ hour after legal sunset.

(ii) We prohibit the possession or use of yo-yos, jugs, or other floating containers; drops or limb lines; trotlines; and commercial fishing tackle.

(iii) We allow bank fishing.

(iv) We prohibit the take or possession of frogs, mollusks, and/or turtles (see § 27.21 of this chapter).

(v) Anglers may launch boats only in designated areas.

(vi) Anglers must remove all boats from the refuge at the end of each day's fishing activity (see § 27.93 of this chapter). We prohibit airboats, personal watercraft, and hovercraft.

§ 32.24 California.

The following refuge units are open for hunting and/or fishing as governed by applicable Federal and State regulations, and are listed in alphabetical order with additional refuge-specific regulations.

(a) Cibola National Wildlife Refuge. Refer to § 32.22(d) for regulations.

(b) Clear Lake National Wildlife Refuge—(1) Migratory game bird hunting. We allow hunting of goose, duck, coot, moorhen, and snipe on designated areas of the refuge.

(2) [Reserved]

(3) Big game hunting. We allow hunting of pronghorn antelope only on the controlled “U” Unit of the refuge subject to the following condition: You may hunt only in the unit for 9 consecutive days beginning on the first Saturday following the third Wednesday in August.

(4) [Reserved]

(c) Colusa National Wildlife Refuge—(1) Migratory game bird hunting. We allow hunting of goose, duck, coot, moorhen, and snipe on designated areas of the refuge subject to the following conditions:

(i) You must return the State-issued entry permit and vacate the refuge no later than 1½ hours after legal sunset unless participating in an authorized overnight stay.

(ii) All hunters age 15 and younger must remain in the immediate presence of an adult (age 18 or older) at all times while in the field.

(iii) Access to the hunt area is by foot traffic only. We prohibit bicycles and other conveyances. Mobility-impaired hunters should consult with the refuge manager for allowed conveyances.

(iv) You may enter or exit only at designated locations.

(v) The firearms used for hunting must remain unloaded until you are in designated free-roam areas or assigned pond/blind areas.

(vi) Hunters may use shotguns only. We prohibit shotguns larger than 12 gauge.

(vii) You may not possess more than 25 shot shells while in the field once you have left your assigned parking lot or boat launch.

(viii) You may not possess shot size larger than BB, except steel “T” (0.20-inch (0.5-centimeter) diameter).

(2) Upland game hunting. We allow hunting of pheasant and wild turkey only in the free-roam areas of the refuge subject to the following conditions:

(i) We allow pheasant hunting in the assigned pond area during a special 1-day-only pheasant hunt on the first Monday after the opening of the State pheasant hunting season.

(ii) We allow turkey hunting during the fall season only.

(iii) The conditions set forth at paragraphs (c)(1)(i) through (viii) of this section apply.

(3)-(4) [Reserved]

(d) Delevan National Wildlife Refuge—(1) Migratory game bird hunting. We allow hunting of goose, duck, coot, moorhen, and snipe on designated areas of the refuge subject to the following conditions:

(i) You must return the State-issued entry permit and vacate the refuge no later than 1½ hours after legal sunset unless participating in an authorized overnight stay.

(ii) All hunters age 15 and younger must remain in the immediate presence of an adult (age 18 or older) at all times while in the field.

(iii) Access to the hunt area is by foot traffic only. We prohibit bicycles and other conveyances. Mobility-impaired hunters should consult with the refuge manager for allowed conveyances.

(iv) You may enter or exit only at designated locations.

(v) The firearms used for hunting must remain unloaded until you are in designated free-roam areas or assigned pond/blind areas.

(vi) Hunters may use shotguns only. We prohibit shotguns larger than 12 gauge.

(vii) You may not possess more than 25 shot shells while in the field once you have left your assigned parking lot or boat launch.

(viii) You may not possess shot size larger than BB, except steel “T” (0.20-inch (0.5-centimeter) diameter).

(ix) We restrict hunters assigned to the spaced blind area to within 100 feet (30.5 meters) of their assigned hunt site except for when retrieving downed birds, placing decoys, or traveling to and from the area.

(2) Upland game hunting. We allow hunting of pheasant and wild turkey on designated areas on the refuge subject to the following conditions:

(i) We allow pheasant hunting in the assigned pond/spaced blind area during a special 1-day-only pheasant hunt on the first Monday after the opening of the State pheasant hunting season.

(ii) The conditions set forth at paragraphs (d)(1)(iii) through (viii) of this section apply.

(3)-(4) [Reserved]

(e) Don Edwards San Francisco Bay National Wildlife Refuge—(1) Migratory game bird hunting. We allow hunting of goose, duck, and coot on designated areas of the refuge subject to the following conditions:

(i) Hunters may only hunt during designated days and times.

(ii) During the 2 weeks before the opening of the hunt season, you may bring a boat into Ponds AB1, A2E, AB2, A3N, A3W, A5, A7, and A8N, and moor it at a designated site. You may use your boat to access the hunting ponds, and you may leave your boat on the refuge during the hunt season. You must remove your boat within 2 weeks following the close of the hunt season. We allow nonmotorized boats and motorized boats powered by electric, gasoline direct fuel injection 2-stroke, or 4-stroke gasoline motors only.

(iii) You may maintain an existing blind in the ponds open to hunting if you have a refuge permit (name and signature required), but the blind will be open for general use on a first-come, first-served basis.

(iv) You must remove all decoys and other personal property, except personal boats, from the refuge by legal sunset (see § 27.93 of this chapter).

(v) You may enter closed areas of the refuge to retrieve downed birds, provided you leave all weapons in a legal hunting area.

(vi) We allow the use of dogs when hunting.

(vii) You may not possess more than 25 shot shells while in the field once you have left your assigned parking lot or boat launch.

(viii) At the Ravenswood Unit only, we only allow portable blinds or construction of temporary blinds made from natural materials.

(2)-(3) [Reserved]

(4) Sport fishing. We allow sport fishing on designated areas of the refuge subject to the following conditions:

(i) We close Mallard Slough to boats from March 1 through August 31, and we close Mowry Slough from March 15 to June 15.

(ii) We open designated fishing areas from legal sunrise to legal sunset each day.

(iii) We prohibit the collection of bait of any type from the refuge except from the Dumbarton Fishing Pier, where it is legal to collect bait for noncommercial purposes.

(iv) We prohibit the use of balloons to float hooks and bait farther than hand casting.

(f) Havasu National Wildlife Refuge. Refer to § 32.22(e) for regulations.

(g) Humboldt Bay National Wildlife Refuge—(1) Migratory game bird hunting. We allow hunting of goose, duck, coot, common moorhen, and snipe on designated areas of the refuge subject to the following conditions:

(i) All hunters age 15 and younger must remain in the immediate presence of an adult (age 18 or older) at all times while in the field.

(ii) You may only use portable blinds in the free-roam hunting areas (i.e., all hunt areas except Salmon Creek Unit).

(iii) You must remove all blinds, decoys, shell casings, and other personal equipment and refuse from the refuge at the end of each day's hunt (see §§ 27.93 and 27.94 of this chapter).

(iv) We allow the use of dogs when hunting.

(v) On the Salmon Creek Unit, we allow hunting on Tuesdays and Saturdays (except Federal holidays), and hunters must possess and carry a valid daily refuge permit. We issue refuge permits prior to each hunt by random drawing of names conducted at the check station 1½ hours before legal shooting time. Shooting time ends at 3 p.m. Hunters drawn for a blind must completely fill out a Refuge Hunt Permit, which includes a “Record of Harvest” section. Each hunter must possess and carry the Refuge Hunt Permit/Record of Harvest (FWS Form 3-2439, Hunt Application—National Wildlife Refuge System) document while on the refuge and turn in a complete Record of Harvest at the check station before leaving the hunt area.

(vi) On the Salmon Creek Unit, you may possess shot shells in quantities of 25 or fewer per hunter, per day.

(vii) On the Salmon Creek Unit, we restrict hunters to within 100 feet (30 meters) of the assigned hunt site except for when placing and retrieving decoys, retrieving downed birds, or traveling to and from the parking area.

(2)-(3) [Reserved]

(4) Sport fishing. We allow sport fishing on designated areas of the refuge subject to the following condition: We allow fishing from the designated shoreline trail and dock (for nonmotorized boats only) at the Hookton Slough Unit from legal sunrise to legal sunset, only using pole and line or rod and reel.

(h) Imperial National Wildlife Refuge. Refer to § 32.22(f) for regulations.

(i) Kern National Wildlife Refuge—(1) Migratory game bird hunting. We allow hunting of goose, duck, coot, and moorhen on designated areas of the refuge subject to the following conditions:

(i) Hunters assigned to the spaced blind unit must remain within 100 feet (30.5 meters) of the numbered steel post (blind site) except when pursuing crippled birds, placing decoys, or traveling to and from the parking area.

(ii) You may not possess more than 25 shot shells while in the field once you have left your assigned parking lot or boat launch.

(iii) We allow only nonmotorized boats.

(2) Upland game hunting. We allow hunting of pheasant on designated areas of the refuge.

(3)-(4) [Reserved]

(j) Lower Klamath National Wildlife Refuge—(1) Migratory game bird hunting. We allow hunting of goose, duck, coot, moorhen, and snipe on designated areas of the refuge subject to the following conditions:

(i) In the controlled waterfowl hunting area, we require a valid Refuge Recreation Pass (available electronically or in person at the refuge office) for all hunters age 16 or older. All hunters age 15 and younger must remain in the immediate presence of an adult (age 18 or older) at all times while in the field.

(ii) We require advance reservations for the first 2 days of the hunting season. Reservations are obtained through the waterfowl lottery each year.

(iii) Hunters may enter the refuge at 4:30 a.m. unless otherwise posted.

(iv) Shooting hours end at 1 p.m. on all California portions of the refuge with the following exceptions:

(A) The refuge manager may designate up to 6 afternoon special youth, ladies, veteran, or disabled hunter waterfowl hunts per season.

(B) The refuge manager may designate up to 3 days per week of afternoon waterfowl hunting for the general public after December 1.

(v) We prohibit the setting of decoys in retrieving zones.

(vi) Pit-style hunting blinds located in the Stearns units and unit 9D are first-come, first-served. We require you to hunt within a 200-foot (61-meter) radius of the blind.

(2) Upland game hunting. We allow hunting of pheasant on designated areas of the refuge subject to the following condition: In the controlled pheasant hunting area, we require a valid permit (available electronically or in person at the refuge office) for all hunters age 16 or older. All hunters age 15 and younger must remain in the immediate presence of an adult (age 18 or older) at all times while in the field.

(3)-(4) [Reserved]

(k) Marin Islands National Wildlife Refuge. (1)-(3) [Reserved]

(4) Sport fishing. We allow sport fishing from boats on designated areas of the refuge.

(l) Merced National Wildlife Refuge—(1) Migratory game bird hunting. We allow hunting of goose, duck, coot, and moorhen on designated areas of the refuge subject to the following conditions:

(i) You may not possess more than 25 shot shells while in the field once you have left your assigned parking lot or boat launch.

(ii) Each hunter must remain inside his or her assigned blind, except for when placing decoys, retrieving downed birds, and traveling to and from the parking area. We prohibit shooting from outside the blind.

(iii) We restrict hunters in the spaced zone area of the Lonetree Unit to their assigned zone except when they are traveling to and from the parking area, retrieving downed birds, or shooting to retrieve crippled birds.

(iv) We allow the use of dogs when hunting.

(2)-(4) [Reserved]

(m) Modoc National Wildlife Refuge—(1) Migratory game bird hunting. We allow hunting of goose, duck, coot, moorhen, and snipe on designated areas of the refuge subject to the following conditions:

(i) On the opening weekend of the hunting season, hunters must possess and carry a refuge permit (FWS Form 3-2439, Hunt Application—National Wildlife Refuge System) issued through random drawing to hunters with advance reservations only.

(ii) After the opening weekend of the hunting season, we only allow hunting on Tuesdays, Thursdays, and Saturdays. Hunters must check-in and out of the refuge by using self-service permits (FWS Form 3-2405, Self-Clearing Check-in/out Permit). Hunters must completely fill out the “Refuge Hunt Permit” portion of the permit and deposit it in the drop box prior to hunting. The hunter must possess and carry the “Record of Kill” portion of the permit while on the refuge and turn it in prior to exiting the hunting area.

(iii) In the designated spaced blind area, you must remain within the blind assigned to you.

(iv) All hunters age 15 and younger must remain in the immediate presence of an adult (age 18 or older) at all times while in the field.

(v) You may not possess more than 25 shot shells while in the field once you have left your assigned parking lot or boat launch.

(vi) You may only use portable blinds in the free-roam hunting areas.

(vii) You must remove all blinds, decoys, shell casings, other personal equipment, and refuse from the refuge at the end of each day (see §§ 27.93 and 27.94 of this chapter).

(viii) Hunters must enter and exit the hunting area from the two designated hunt parking lots, which we open 1½ hours before legal sunrise and close 1 hour after legal sunset each hunt day.

(ix) We only allow access to the hunt area by foot, bicycle, and nonmotorized cart. We prohibit bicycles in the hunt area during the opening weekend of the hunting season.

(2) Upland game hunting. We allow hunting of pheasant on designated areas of the refuge subject to the following conditions:

(i) We limit hunting to junior hunters, age 15 or younger, possessing a valid State Junior Hunting License and refuge Junior Pheasant Hunt Permit (FWS Form 3-2439, Hunt Application—National Wildlife Refuge System).

(ii) All hunters age 15 and younger must remain in the immediate presence of an adult (age 18 or older) at all times while in the field.

(3) [Reserved]

(4) Sport fishing. We allow sport fishing only on Dorris Reservoir subject to the following conditions:

(i) We prohibit fishing from February 1 through September 30.

(ii) We allow fishing only from legal sunrise to legal sunset.

(iii) We allow only walk-in access to Dorris Reservoir from February 1 through March 31.

(iv) We allow use of boats for fishing on Dorris Reservoir only from April 1 through September 30.

(n) Sacramento National Wildlife Refuge—(1) Migratory game bird hunting. We allow hunting of goose, duck, coot, moorhen, and snipe on designated areas of the refuge subject to the following conditions:

(i) You must return the State-issued entry permit and vacate the refuge no later than 1½ hours after legal sunset unless participating in an authorized overnight stay.

(ii) All hunters age 15 and younger must remain in the immediate presence of an adult (age 18 or older) at all times while in the field.

(iii) Access to the hunt area is by foot traffic only. We prohibit bicycles and other conveyances. Mobility-impaired hunters should consult with the refuge manager for allowed conveyances.

(iv) You may enter or exit only at designated locations.

(v) The firearms used for hunting must remain unloaded until you are in designated free-roam areas or assigned pond/blind areas.

(vi) Hunters may use shotguns only. We prohibit shotguns larger than 12 gauge.

(vii) You may not possess more than 25 shot shells while in the field once you have left your assigned parking lot or boat launch.

(viii) You may not possess shot size larger than BB, except steel “T” (0.20-inch (0.5-centimeter) diameter).

(ix) We restrict hunters assigned to the spaced blind area to within 100 feet (30.5 meters) of their assigned hunt site except for when retrieving downed birds, placing decoys, or traveling to and from the area.

(2) Upland game hunting. We allow hunting of pheasant and wild turkey in designated areas on the refuge subject to the following conditions:

(i) We allow pheasant hunting in the assigned pond/spaced blind area during a special 1-day-only pheasant hunt on the first Monday after the opening of the State pheasant hunting season.

(ii) The conditions set forth at paragraphs (n)(1)(iii) through (ix) of this section apply.

(3)-(4) [Reserved]

(o) Sacramento River National Wildlife Refuge—(1) Migratory game bird hunting. We allow hunting of goose, duck, coot, moorhen, dove, and snipe on designated areas of the refuge subject to the following conditions:

(i) Access to the hunt area on all units open to public hunting is by boat only, except on designated units, which are accessible by foot traffic or boat. We prohibit bicycles or other conveyances. Mobility-impaired hunters should consult with the refuge manager for allowed conveyances.

(ii) On the Codora Unit, we prohibit hunting except for junior hunters on weekends only. Junior hunters must possess a valid junior hunting license and be accompanied by a nonhunting adult.

(iii) We allow only shotgun hunting.

(iv) We prohibit hunting within 50 feet (15 meters) of any landward boundary adjacent to private property.

(v) We allow the use of dogs only when hunting migratory birds and upland game birds.

(2) Upland game hunting. We allow hunting of pheasant, turkey, and quail on designated areas of the refuge subject to the following conditions:

(i) We allow only shotgun and archery hunting.

(ii) The conditions set forth at paragraphs (o)(1)(i), (ii), (iv), and (v) of this section apply.

(3) Big game hunting. We allow hunting of black-tailed deer and feral hog on designated areas of the refuge subject to the following conditions:

(i) The conditions set forth at paragraphs (o)(1)(i), (ii), and (iv) and (o)(2)(i) of this section apply.

(ii) You may hunt feral hogs from September 1 through March 15.

(iii) We prohibit the use of dogs while hunting black-tailed deer and feral hogs.

(iv) We allow the use of only shotguns firing single non-lead shotgun slugs, and archery equipment. We prohibit the use or possession of rifles and pistols on the refuge for hunting.

(4) Sport fishing. We allow sport fishing on designated areas of the refuge.

(p) Salinas River National Wildlife Refuge—(1) Migratory game bird hunting. We allow hunting of goose, duck, coot, and moorhen on designated areas of the refuge subject to the following conditions:

(i) You may not possess more than 25 shot shells while in the field once you have left your assigned parking lot or boat launch.

(ii) Access to the hunt area is by foot traffic only. We prohibit bicycles and other conveyances. Mobility-impaired hunters should consult with the refuge manager for allowed conveyances.

(iii) We allow the use of dogs when hunting waterfowl.

(iv) You must remove all decoys and other personal property from the refuge at the end of each day's hunt (see § 27.93 of this chapter).

(2)-(4) [Reserved]

(q) San Luis National Wildlife Refuge—(1) Migratory game bird hunting. We allow hunting of goose, duck, coot, moorhen, and snipe on designated areas of the refuge subject to the following conditions:

(i) You may not possess more than 25 shot shells while in the field once you have left your assigned parking lot or boat launch.

(ii) You must return your permits (state-issued) to the check stations immediately upon completion of your hunt and prior to using any tour routes or leaving the refuge vicinity.

(iii) We restrict hunters in the spaced blind area to their assigned blind except when they are placing decoys, traveling to and from the parking area, retrieving downed birds, or pursuing crippled birds.

(iv) We restrict hunters in the spaced zone area of the East Bear Creek Unit to their assigned zone except when they are traveling to and from the parking area, retrieving downed birds, or pursuing crippled birds.

(v) Access to the Freitas Unit free-roam hunting area is by boat only with a maximum of 5 miles per hour (mph). We prohibit air-thrust and inboard water-thrust boats.

(vi) We require State-issued Type A area permits for access on Wednesdays, Saturdays, and Sundays.

(vii) We prohibit the use of motorized boats in the free-roam units with the exception of the Freitas Unit.

(viii) We prohibit vehicle trailers of any type or size to be in the refuge hunt areas at any time or to be left unattended at any location on the refuge.

(ix) We allow the use of dogs when hunting.

(2) Upland game hunting. We allow hunting of pheasant on designated areas of the refuge.

(3) [Reserved]

(4) Sport fishing. We allow sport fishing on designated areas of the refuge subject to the following conditions:

(i) We only allow fishing during normal refuge visitation hours in designated areas as posted.

(ii) We only allow the use of pole and line or rod and reel to take fish, and anglers must attend their equipment at all times.

(r) San Pablo Bay National Wildlife Refuge—(1) Migratory game bird hunting. We allow hunting of goose, duck, and coot on designated areas of the refuge subject to the following conditions:

(i) You may only hunt from a boat. We prohibit walk-in hunting on the refuge.

(ii) We allow the use of dogs when hunting.

(2) Upland game hunting. We allow hunting of pheasant only in designated areas of the refuge subject to the following conditions:

(i) You may only hunt on Wednesdays, Saturdays, and Sundays.

(ii) The conditions set forth at paragraphs (r)(1)(ii) and (iii) of this section apply.

(3) [Reserved]

(4) Sport fishing. We allow sport fishing on designated areas of the refuge subject to the following condition: We allow fishing only with a pole and line or rod and reel. We prohibit bow fishing and gigging.

(s) Sonny Bono Salton Sea National Wildlife Refuge—(1) Migratory game bird hunting. We allow hunting of goose, duck, coot, and moorhen on designated areas of the refuge subject to the following conditions:

(i) Hunters using the Union Tract must use goose decoys.

(ii) You must hunt from assigned blinds on the Union Tract and within 100 feet (30 meters) of blind sites on the Hazard Tract, except when shooting to retrieve crippled birds.

(iii) You may not possess more than 25 shot shells while in the field once you have left your assigned parking lot or boat launch.

(2)-(3) [Reserved]

(4) Sport fishing. We only allow fishing on designated areas of the refuge subject to the following conditions:

(i) We allow fishing from April 1 through September 30.

(ii) We only allow boat fishing.

(t) Stone Lakes National Wildlife Refuge—(1) Migratory game bird hunting. We allow hunting of goose, duck, coot, and moorhen on designated areas of the refuge subject to the following conditions:

(i) We allow hunting on Sun River Unit only on Wednesdays and Saturdays from ½ hour before legal sunrise until 12 p.m. (noon).

(ii) We will select hunters through a random drawing process (FWS Form 3-2439, Hunt Application—National Wildlife Refuge System) conducted at the refuge. Hunters should bring a copy of their refuge notification on the day of their hunt. Hunters should contact the refuge manager for additional information.

(iii) All hunters age 15 and younger must remain in the immediate presence of an adult (age 18 or older) at all times while in the field.

(iv) We prohibit bicycles or other conveyances. Mobility-impaired hunters should contact the refuge manager regarding allowed conveyances.

(v) We restrict hunters to their assigned spaced-blind except when they are placing or retrieving decoys, traveling to and from the parking area, retrieving downed birds, or shooting to retrieve crippled birds.

(vi) You may not possess more than 25 shot shells while in the field once you have left your assigned parking lot or boat launch.

(vii) We allow only nonmotorized boats to access water blinds.

(viii) You must remove all decoys, personal equipment, shotshell hulls, and refuse from the refuge by 12:30 p.m. (see §§ 27.93 and 27.94 of this chapter).

(ix) We allow the use of dogs when hunting.

(2)-(3) [Reserved]

(4) Sport fishing. We allow sport fishing on designated areas of the refuge subject to the following conditions:

(i) We prohibit fishing from the bank.

(ii) We prohibit the take of native reptiles and amphibians (see § 27.21 of this chapter).

(u) Sutter National Wildlife Refuge—(1) Migratory game bird hunting. We allow hunting of goose, duck, coot, moorhen, and snipe on designated areas of the refuge subject to the following conditions:

(i) You must return the State-issued entry permit and vacate the refuge no later than 1½ hours after legal sunset unless participating in an authorized overnight stay.

(ii) All hunters age 15 and younger must remain in the immediate presence of an adult (age 18 or older) at all times while in the field.

(iii) Access to the hunt area is by foot traffic only. We prohibit bicycles and other conveyances. Mobility-impaired hunters should consult with the refuge manager for allowed conveyances.

(iv) You may enter or exit only at designated locations.

(v) The firearms used for hunting must remain unloaded until you are in designated free-roam areas or assigned pond/blind areas.

(vi) Hunters may use shotguns only. We prohibit shotguns larger than 12 gauge.

(vii) You may not possess more than 25 shot shells while in the field once you have left your assigned parking lot or boat launch.

(viii) You may not possess shot size larger than BB, except steel “T” (0.20-inch (0.5-centimeter) diameter).

(2) Upland game hunting. We only allow hunting of pheasant and wild turkey on designated areas of the refuge subject to the following conditions:

(i) We allow turkey hunting during the fall season only.

(ii) The conditions set forth at paragraphs (u)(1)(i) through (viii) of this section apply.

(3)-(4) [Reserved]

(v) Tule Lake National Wildlife Refuge—(1) Migratory game bird hunting. We allow hunting of goose, duck, coot, moorhen, and snipe on designated areas of the refuge subject to the following conditions:

(i) In the controlled waterfowl hunting area, we require a valid Refuge Recreation Pass (available electronically or in person at the refuge office) for all hunters age 16 or older.

(ii) All hunters age 15 or younger must remain in the immediate presence of an adult (age 18 or older) at all times while in the field.

(iii) We require advance reservations for the first 2 days of the hunting season. You may obtain a reservation through the waterfowl lottery each year.

(iv) Hunters may enter the refuge at 4:30 a.m. unless otherwise posted.

(v) Shooting hours end at 1 p.m. on all portions of the refuge with the following exceptions:

(A) The refuge manager may designate up to 6 afternoon special youth, ladies, veteran, or disabled hunter waterfowl hunts per season.

(B) The refuge manager may designate up to 3 days per week of afternoon waterfowl hunting for the general public after December 1.

(vi) You select blind sites by lottery at the beginning of each hunt day. You may shoot only from within your assigned blind site.

(vii) We prohibit the setting of decoys in retrieving zones.

(viii) We prohibit air-thrust and inboard water-thrust boats while hunting. We prohibit the use of all-terrain amphibious or utility-type vehicles (UTVs) in wetland units.

(2) Upland game hunting. We allow hunting of pheasant on designated areas of the refuge subject to the following conditions:

(i) In the controlled pheasant hunting area, we require a valid permit (available electronically or in person at the refuge office) for all hunters age 16 or older.

(ii) All hunters age 15 or younger must remain in the immediate presence of an adult (age 18 or older) at all times while in the field.

(3)-(4) [Reserved]

§ 32.25 Colorado.

The following refuge units are open for hunting and/or fishing as governed by applicable Federal and State regulations, and are listed in alphabetical order with additional refuge-specific regulations.

(a) Alamosa National Wildlife Refuge—(1) Migratory game bird hunting. We allow hunting of goose, duck, coot, snipe, Eurasian collared-dove, and mourning dove on designated areas of the refuge subject to the following conditions:

(i) We allow Eurasian collared-dove hunting only during the mourning dove season.

(ii) The only acceptable methods of take are shotguns, hand-held bows, and hawking/falconry.

(2) Upland game hunting. We allow hunting of cottontail rabbit, and black-tailed and whitetailed jackrabbit, on designated areas of the refuge subject to the following condition: The condition set forth at paragraph (a)(1)(ii) of this section applies.

(3) Big game hunting. We allow hunting of elk on designated areas of the refuge.

(4) [Reserved]

(b) Arapaho National Wildlife Refuge—(1) Migratory game bird hunting. We allow hunting of duck, coot, merganser, Canada goose, snipe, Virginia and Sora rail, and mourning dove on designated areas of the refuge subject to the following conditions:

(i) All migratory bird hunting closes annually on December 31.

(ii) We allow access to the refuge 1 hour prior to legal shooting time.

(iii) We allow use of only portable stands and blinds that the hunter must remove following each day's hunt (see § 27.93 of this chapter).

(iv) We prohibit hunting 200 feet (60 meters) from any public use road, designated parking area, or designated public use facility located within the hunt area.

(2) Upland game hunting. We allow hunting of jackrabbit, cottontail rabbit, and sage grouse on designated areas of the refuge subject to the following conditions:

(i) All upland game hunting closes annually on December 31.

(ii) The condition set forth at paragraph (b)(1)(ii) of this section applies.

(3) Big game hunting. We allow hunting of antelope and elk on designated areas of the refuge subject to the following conditions:

(i) The conditions set forth at paragraphs (b)(1)(ii) and (iii) of this section apply.

(ii) Elk hunters:

(A) Must possess a refuge-specific permit (state-issued) to hunt elk; and

(B) Must attend a scheduled pre-hunt information meeting prior to hunting.

(4) Sport fishing. We allow sport fishing on designated areas of the refuge subject to the following conditions:

(i) We prohibit fishing between June 1 and July 31 each year.

(ii) We allow fishing only from legal sunrise to legal sunset.

(iii) We prohibit ice fishing on the refuge.

(iv) We close Unit C to fishing when the refuge is open to big game rifle hunting.

(v) We prohibit lead sinkers and live bait for fishing.

(c) Baca National Wildlife Refuge—(1) Migratory game bird hunting. We allow hunting of Eurasian collared-dove and mourning dove on designated areas of the refuge subject to the following conditions:

(i) We allow Eurasian collared-dove hunting only during the mourning dove season.

(ii) The only acceptable methods of take are shotguns, hand-held bows, and hawking/falconry.

(2) Upland game hunting. We allow hunting of cottontail rabbit, and black-tailed and white-tailed jackrabbit, on designated areas of the refuge subject to the following condition: Shotguns, rifles firing rimfire cartridges less than .23 caliber, hand-held bows, pellet guns, slingshots, and hawking/falconry are the only acceptable methods of take.

(3) Big game hunting. We allow hunting of elk on designated areas of the refuge.

(4) [Reserved]

(d) Browns Park National Wildlife Refuge—(1) Migratory game bird hunting. We allow hunting of goose, duck, coot, and mourning dove on designated areas of the refuge.

(2) Upland game hunting. We allow hunting of cottontail rabbit on designated areas of the refuge.

(3) Big game hunting. We allow hunting of mule deer and elk on designated areas of the refuge.

(4) Sport fishing. We allow sport fishing on designated areas of the refuge.

(e) Monte Vista National Wildlife Refuge—(1) Migratory game bird hunting. We allow hunting of goose, duck, coot, snipe, Eurasian collared-dove, and mourning dove on designated areas of the refuge subject to the following conditions:

(i) We allow Eurasian collared-dove hunting only during the mourning dove season.

(ii) The only acceptable methods of take are shotguns, hand-held bows, and hawking/falconry.

(2) Upland game hunting. We allow hunting of cottontail rabbit, and black-tailed and white-tailed jackrabbit, on designated areas of the refuge subject to the following condition: The condition set forth at paragraph (e)(1)(ii) of this section applies.

(3) Big game hunting. We allow hunting of elk on designated areas of the refuge.

(4) [Reserved]

(f) Rocky Mountain Arsenal. (1)-(3) [Reserved]

(4) Sport fishing. We allow sport fishing on designated areas of the refuge subject to the following conditions:

(i) We allow fishing on Tuesdays, Saturdays, and Sundays from legal sunrise to legal sunset.

(ii) We allow fishing from the first Saturday in April through November 30.

(iii) All anglers age 16 and older must possess a signed refuge fishing permit (signed refuge fishing brochure) when fishing.

(iv) You must stop and pay the daily fishing recreation fee for each Colorado State licensed angler age 16 or older. Payments are made at self-service fishing fee stations, and you must display a receipt of payment or an annual pass while fishing. High school and college students can fish for free with a current student identification card.

(v) We allow bank fishing only at Lake Mary and Lake Ladora.

(vi) We allow wade fishing only in Lake Ladora after Memorial Day.

(vii) Each angler may use only one rod and reel or pole and line with one hook per line, except that we allow a second rod and reel or pole and line with one hook per line with a Colorado State-issued second rod stamp.

(viii) We only allow barbless hooks.

(ix) We only allow artificial lures and flies on Lake Ladora. We allow artificial lures and flies and artificial bait, cut bait, and food products only on Lake Mary.

(x) We prohibit the use of live bait on all refuge waters.

(xi) We only allow catch-and-release fishing.

(xii) We prohibit the possession and consumption of alcoholic beverages while fishing.

§ 32.26 Connecticut.

The following refuge units are open for hunting and/or fishing as governed by applicable Federal and State regulations, and are listed in alphabetical order with additional refuge-specific regulations.

(a) Silvio O. Conte National Fish and Wildlife Refuge—(1) Migratory game bird hunting. We allow hunting of migratory game birds on designated areas of the refuge subject to the following conditions:

(i) We allow refuge access from ½ hour prior to legal sunrise until ½ hour after legal sunset.

(ii) We allow the use of dogs when hunting waterfowl and upland game species.

(iii) We only allow the use of temporary tree stands and blinds, which must be removed at the end of each hunt day. All tree stands and blinds must have the name and telephone number of the owner clearly printed in an easily readable area.

(2) Upland game hunting. We allow hunting of upland game on designated areas of the refuge subject to the following condition: The conditions set forth at paragraphs (a)(1)(i) and (ii) of this section apply.

(3) Big game hunting. We allow hunting of big game on designated areas of the refuge subject to the following condition: The conditions set forth at paragraphs (a)(1)(i) and (iii) of this section apply.

(4) Sport fishing. We allow sport fishing on designated areas of the refuge subject to the following conditions:

(i) The condition set forth at paragraph (a)(1)(i) of this section applies.

(ii) We prohibit launching of motorboats from the refuge.

(iii) We prohibit the use of reptiles and amphibians as bait.

(b) Stewart B. McKinney National Wildlife Refuge—(1) Migratory game bird hunting. We allow hunting of duck, coot, and goose on designated areas of the refuge subject to the following conditions:

(i) We require hunters to obtain an annual Special Use Permit (FWS Form 3-1383-G) in advance for permission to hunt in the designated hunting area.

(ii) We will limit hunt days to Tuesdays, Wednesdays, and Saturdays during the waterfowl hunting season as established by the State.

(2)-(4) [Reserved]

§ 32.27 Delaware.

The following refuge units are open for hunting and/or fishing as governed by applicable Federal and State regulations, and are listed in alphabetical order with additional refuge-specific regulations.

(a) Bombay Hook National Wildlife Refuge—(1) Migratory game bird hunting. We allow hunting of migratory game birds on designated areas of the refuge subject to the following condition:

(i) We require a refuge permit (FWS Form 3-2439, Hunt Application—National Wildlife Refuge System) for waterfowl hunting except on the South Upland Hunting Area.

(ii) We allow the use of dogs when hunting migratory game birds and upland game species.

(2) Upland game hunting. We allow hunting of grey squirrel, cottontail rabbit, ring-necked pheasant, bobwhite quail, raccoon, opossum, and red fox on designated areas of the refuge subject to the following condition: The condition set forth at paragraph (a)(1)(ii) of this section applies.

(3) Big game hunting. We allow hunting of turkey and deer on designated areas of the refuge subject to the following conditions:

(i) We require a refuge permit (FWS Form 3-2439, Hunt Application—National Wildlife Refuge System) except on the South Upland Hunting Area.

(ii) In the Headquarters Deer Hunt Area, you may hunt only from a designated stand, unless you are actively tracking or retrieving wounded deer.

(4) [Reserved]

(b) Prime Hook National Wildlife Refuge—(1) Migratory game bird hunting. We allow the hunting of waterfowl, coot, mourning dove, snipe, and woodcock on designated areas of the refuge subject to the following conditions:

(i) We require a refuge permit (FWS Form 3-2439, Hunt Application—National Wildlife Refuge System) for waterfowl hunting except in designated walk-in areas. You must obtain a refuge permit from the refuge office or website and have the permit in your possession while hunting.

(ii) You must complete and return a Migratory Bird Hunt Report (FWS Form 3-2361), available at the refuge administration office or on the refuge's website, within 15 days of the close of the season.

(iii) You may access the Lottery Waterfowl Hunt Area by boat.

(iv) We allow hunting of waterfowl in the Disabled Waterfowl Draw Area subject to the following condition: We do not allow assistants to enter a designated disabled hunting area unless they are accompanied by a certified disabled hunter.

(v) We allow the use of dogs when hunting migratory game birds and upland game species.

(2) Upland game hunting. We allow hunting of rabbit, quail, pheasant, and red fox on designated areas of the refuge subject to the following conditions:

(i) The condition set forth at paragraph (b)(1)(v) of this section applies.

(ii) You must obtain a refuge permit (FWS Form 3-2439, Hunt Application—National Wildlife Refuge System) from the refuge office or website and have the permit in your possession while hunting.

(3) Big game hunting. We allow hunting of white-tailed deer and turkey on designated areas of the refuge subject to the following conditions:

(i) We prohibit organized deer drives. We define a “deer drive” as an organized or planned effort to pursue, drive, chase, or otherwise frighten or cause deer to move in the direction of any person(s) who is part of the organized or planned hunt and known to be waiting for the deer.

(ii) Hunting on the headquarters deer hunt area will be by lottery. You must obtain and possess a refuge permit (FWS Form 3-2439, Hunt Application—National Wildlife Refuge System) from the refuge office or website and have the permit in your possession while hunting.

(4) Sport fishing. We allow sport fishing and crabbing on designated areas of the refuge subject to the following conditions:

(i) On Turkle and Fleetwood ponds, we allow boats only with electric trolling motors.

(ii) You must attend all crabbing and fishing gear at all times.

(iii) You must remove all personal property at the end of each day's fishing activity (see §§ 27.93 and 27.94 of this chapter).

§ 32.28 Florida.

The following refuge units are open for hunting and/or fishing as governed by applicable Federal and State regulations, and are listed in alphabetical order with additional refuge-specific regulations.

(a) Arthur R. Marshall Loxahatchee National Wildlife Refuge—(1) Migratory game bird hunting. We allow hunting of duck and coot on designated areas of the refuge subject to the following conditions:

(i) You must possess and carry a signed refuge waterfowl hunt permit (signed brochure) while hunting.

(ii) We do not open to hunting on Mondays, Tuesdays, and Christmas Day.

(iii) We allow hunting on the refuge from ½ hour before legal sunrise to 1 p.m. Hunters may enter the refuge no earlier than 4 a.m. and must be off the refuge by 3 p.m.

(iv) Hunters may only enter and leave the refuge at the Headquarters Area (Boynton Beach) and the Hillsboro Area (Boca Raton).

(v) We allow only temporary blinds of native vegetation.

(vi) Hunters must remove decoys and other personal property from the hunting area at the end of each day's hunt (see § 27.93 of this chapter).

(vii) Hunters must complete a Migratory Bird Hunt Report (FWS Form 3-2361) and place it in an entrance fee canister each day prior to exiting the refuge.

(viii) All youth hunters age 15 and younger must be supervised by a licensed and permitted adult age 21 or older, and must remain with the adult while hunting. Youth hunters must have completed a hunter education course.

(2) [Reserved]

(3) Big game hunting. We allow hunting of alligator on designated areas of the refuge subject to the following conditions:

(i) You must possess and carry a signed refuge alligator hunt permit (signed brochure) while hunting.

(ii) We allow hunting on the refuge 1 hour before sunset on Friday night through 1 hour after sunrise Saturday morning, and 1 hour before sunset on Saturday night through 1 hour after sunrise Sunday morning. We allow alligator hunting the first 2 weekends during Harvest Period 1 (August) and the first 2 weekends during Harvest Period 2 (September). Following the close of Harvest Period 2, the remaining weekends in October will be open for alligator harvest permittees who possess unused CITES tags (OMB Control No. 1018-0093). We provide specific dates for the alligator hunt on the harvest permit.

(iii) Youth age 17 and younger may not hunt, but may only accompany an adult age 21 or older who possesses an Alligator Trapping Agent License (state-issued).

(iv) Hunters may only enter and leave the refuge at the Hillsboro Area (Loxahatchee Road, Boca Raton).

(v) You may take alligators using hand-held snares, harpoons, gigs, snatch hooks, artificial lures, manually operated spears, spear guns, and crossbows. We prohibit the taking of alligators using baited hooks, baited wooden pegs, or firearms. We allow the use of bang sticks (a hand-held pole with a pistol or shotgun cartridge on the end in a very short barrel) with approved nontoxic ammunition (see § 32.2(k)) only for taking alligators attached to a restraining line. Once an alligator is captured, it must be killed immediately. We prohibit catch-and-release of alligators. Once the alligator is dead, you must lock a CITES tag through the skin of the carcass within 6 inches (15.2 centimeters) of the tip of the tail. The tag must remain attached to the alligator at all times.

(vi) Hunters must remove all personal property from the hunting area at the end of each day's hunt (see § 27.93 of this chapter).

(vii) We allow only one vessel per hunting group or party.

(viii) We allow only temporary blinds of native vegetation.

(4) Sport fishing. We allow sport fishing on designated areas of the refuge subject to the following conditions:

(i) We only allow the use of rods and reels and poles and lines, and anglers must attend them at all times.

(ii) We prohibit the taking of frogs and turtles (see § 27.21 of this chapter).

(iii) We allow 12 fishing tournaments a year by Special Use Permit only (General Activities—Special Use Permit Application, FWS Form 3-1383-G).

(iv) We prohibit the possession or use of cast nets, seines, trot lines, jugs, gigs, and other fishing devices.

(v) Anglers may only launch boats at the Headquarters Area (Boynton Beach), the Hillsboro Area (Boca Raton), and 20 Mile Bend (West Palm Beach).

(vi) All youth anglers age 15 and younger must be supervised by a licensed and permitted adult age 21 or older, and must remain with the adult while fishing.

(b) Cedar Keys National Wildlife Refuge. (1)-(3) [Reserved]

(4) Sport fishing. We allow saltwater sport fishing year-round on designated areas of the refuge subject to the following conditions:

(i) We close a 300-foot (90-meter (m)) buffer zone beginning at mean high tide line and extending into the waters around Snake Key to all public entry from March 1 through June 30 to protect nesting birds.

(ii) We conditionally open to public entry a 300-foot (90-m) buffer zone beginning at mean high tide line and extending into the waters around Seahorse Key from March 1 through June 30. Should birds nest in that area during that timeframe, we will close that area of Seahorse Key to public entry.

(c) Chassahowitzka National Wildlife Refuge—(1) Migratory game bird hunting. We allow migratory game bird hunting in designated areas of the refuge subject to the following conditions:

(i) In Citrus County:

(A) You may take only ducks and coots.

(B) We allow waterfowl hunting on Wednesdays, Saturdays, and Sundays during those seasons established by the State of Florida.

(C) We allow the use of dogs when hunting migratory birds.

(D) We require hunters to possess and carry a signed, refuge hunting permit (signed brochure).

(E) We prohibit hunting within 100 yards (91.4 meters) of any residence or on navigable waterways of Chassahowitzka River, Seven Cabbage Cut-off, and Mason Creek.

(F) We allow temporary blinds and decoys, but you must remove all blinds and decoys from the refuge at the end of each day's hunt (see § 27.93 of this chapter).

(ii) In Hernando County:

(A) All hunters in Hernando County must comply with the State of Florida Chassahowitzka Wildlife Management Area regulations.

(B) The conditions set forth at paragraphs (c)(1)(i)(C), (D), and (F) of this section apply.

(C) We allow hunting of geese, duck, and coot only on Wednesdays, Saturdays, and Sundays.

(D) We prohibit hunting within 100 yards (91.4 meters) of any residence.

(2) Upland game hunting. In Hernando County, we allow hunting of quail, squirrel, rabbit, feral hog, opossum, armadillo, beaver, coyote, skunk, and nutria as governed by State of Florida Chassahowitzka Wildlife Management Area regulations and subject to the following conditions:

(i) The conditions set forth at paragraphs (c)(1)(i)(C) through (F) and (c)(1)(ii)(D) of this section apply.

(ii) We prohibit the use of traps or snares to take game.

(iii) You may take feral hog, opossum, armadillo, beaver, coyote, skunk, and nutria as incidental species with the equipment legal for use during the season.

(3) Big game hunting. In Hernando County, we allow hunting of whitetail deer and turkey, as governed by State of Florida Chassahowitzka Wildlife Management Area regulations and subject to the following condition: The conditions set forth at paragraphs (c)(2)(i) through (iii) of this section apply.

(4) Sport fishing. We allow sport fishing in designated areas of the refuge subject to the following conditions:

(i) We allow fishing 24 hours per day, year-round, except in areas posted closed.

(ii) We prohibit harvesting and possession of frogs, horseshoe crabs, turtles, and snakes (see § 27.21 of this chapter).

(iii) We permit commercial activities, including guiding, with a Special Use Permit (Commercial Activities Special Use Permit Application, FWS Form 3-1383-C). You must apply for the permit.

(d) Egmont Key National Wildlife Refuge. (1)-(3) [Reserved]

(4) Sport fishing. We allow sport fishing year-round on designated areas of the refuge subject to the following condition: Anglers may only use two poles per angler and must attend both poles at all times.

(e) Hobe Sound National Wildlife Refuge. (1)-(3) [Reserved]

(4) Sport fishing. We allow fishing on designated areas of the refuge subject to the following conditions:

(i) We allow fishing only from legal sunrise to legal sunset.

(ii) We allow salt-water fishing along the Atlantic Ocean and Indian River Lagoon year-round as governed by State recreational fishing regulations.

(iii) We allow the use of only rods and reels and poles and lines, and anglers must attend them at all times.

(iv) We allow only two poles per angler, and anglers must attend those poles at all times in conjunction with the Martin County, Florida, two-pole ordinance.

(f) J. N. “Ding” Darling National Wildlife Refuge. (1)-(3) [Reserved]

(4) Sport fishing. We allow sport fishing and crabbing in designated areas of the refuge subject to the following conditions:

(i) We allow the take of crabs with the use of dip nets only.

(ii) All anglers must exit refuge lands and waters no later than ½ hour after legal sunset.

(iii) We prohibit the possession and use of seines or trot lines.

(iv) We prohibit the use of cast nets from the left (south) side of Wildlife Drive or any water control structure, bridge, boardwalk, or rip rap affixed to Wildlife Drive.

(v) All fish must remain in whole condition until removed from refuge lands and waters, except for fish caught and landed by individuals using the services of the refuge concessionaire at the Tarpon Bay recreation area. Those fish may be cleaned at the designated fish cleaning station in the concession area.

(vi) We prohibit the use of bows and spears from Wildlife Drive or any trail or structure affixed to Wildlife Drive.

(g) Lake Woodruff National Wildlife Refuge. (1)-(2) [Reserved]

(3) Big game hunting. We allow hunting of white-tailed deer, feral hog, and turkey on designated areas of the refuge subject to the following conditions:

(i) We require a valid Lake Woodruff Quota Hunt Permit, which can be purchased through the Florida Fish and Wildlife Conservation Commission, and a valid Lake Woodruff National Wildlife Refuge hunt permit (signed annual hunt brochure), which is free and nontransferable.

(ii) All hunters must be on stands or in blinds during deer hunts.

(iii) We prohibit scouting in the hunt area during the quota hunt.

(iv) Hunters possessing a valid permit may access the refuge 2 hours prior to legal sunrise each hunting day. All hunters must leave the refuge within 2 hours of legal sunset.

(v) We allow stands or blinds to be set up 2 days prior to the permitted hunt, and you must remove them on or before the last day of your permitted hunt. You must clearly mark stands with the hunter's Florida Fish and Wildlife Conservation Commission (FWC) permit number found on your hunting license. No more than one stand or blind per person may be on the refuge at any time, unless a permitted hunter is accompanied by a youth hunter. You must place the stand and/or blind for a youth hunter within sight and normal voice contact of the permitted hunter's stand and mark it with the adult permitted hunter's FWC permit number and the word “YOUTH.”

(vi) If you use flagging or other trail marking material, you must print your FWC permit number on each piece or marker. You may set up flagging and trail markers 2 days prior to the permitted hunt, and you must remove them on or before the last day of the permitted hunt.

(vii) You must check out any game taken during the hunts at a self-check station.

(viii) You may access the Western Unit only by boat.

(ix) Hunters age 15 and younger do not need a quota permit, but they must be accompanied by an adult age 18 or older. Each adult may supervise one youth hunter and must remain within sight and normal voice contact of the youth hunter; the pair must share a single bag limit unless hunting during a designated family or youth hunt.

(x) We prohibit shotgun loads larger than #2 shot and slugs during turkey hunts.

(4) Sport fishing. We allow sport fishing on designated areas of the refuge subject to the following conditions:

(i) We only allow use of hook and line. We prohibit cast nets.

(ii) We allow fishing from legal sunrise to legal sunset.

(iii) We prohibit the use of snatch hooks in the refuge impoundments.

(h) Lower Suwannee National Wildlife Refuge—(1) Migratory game bird hunting. We allow hunting of duck and coot on designated areas of the refuge subject to the following conditions:

(i) We require all hunters, age 16 or older, to purchase and possess a general refuge hunting permit through the Florida Fish and Wildlife Conservation Commission to hunt during all refuge hunts, unless otherwise exempt. We do not require youth hunters age 15 and younger to possess a general refuge hunting permit.

(ii) Every hunter must possess a signed refuge hunt brochure (signed brochure) while hunting on the refuge.

(iii) We prohibit hunting from or within 150 feet (45 meters) of all refuge roads open to public vehicle travel.

(iv) An adult (parent or guardian) age 18 or older must supervise and must remain within sight of and in normal voice contact of a youth hunter, age 15 or younger. An adult may not supervise more than two youths. Youth hunters must meet State hunter-education requirements.

(v) Clothes-type pins or clips with reflective or colored markings can be used for the temporary marking of vegetation in order to identify a route of travel to or from a tree stand. You must remove these pins at the end of deer season (see §§ 27.93 and 27.94 of this chapter). Each clothes-type pin or clip must contain the hunting license number of the hunter.

(vi) You may leave a temporary tree stand on refuge property starting 1 week before archery season, but you must remove it by the last day of hog season. All tree stands left on the refuge within the hunt season must display the hunter's hunting license number legibly written on or attached to the stand. You may also use a temporary tree stand during small game season, but you must remove it by the last day of the small game season.

(vii) Hunters must be at their vehicles by 1 hour after legal shooting time.

(viii) We prohibit cleaning of game within 1,000 feet (300 meters) of any developed public recreation area, game check station, or gate.

(2) Upland game hunting. We allow hunting of feral hog, gray squirrel, armadillo, opossum, rabbit, raccoon, coyote, and beaver on designated areas of the refuge subject to the following conditions:

(i) The conditions set forth at paragraphs (h)(1)(i) through (viii) of this section apply.

(ii) Hunters may only hunt during designated days and times. The refuge prints dates for all the refuge hunting seasons in the annual refuge hunt brochure (signed brochure).

(iii) We allow night hunting for raccoon and opossum from legal sunset until legal sunrise as governed by State regulations.

(3) Big game hunting. We allow hunting of big game on designated areas of the refuge subject to the following conditions:

(i) The conditions set forth at paragraphs (h)(1)(i) through (viii) of this section apply.

(ii) During the refuge archery season, hunters may only use archery equipment, including crossbows, as governed by State archery regulations.

(iii) During the refuge muzzleloader season, hunters may only use muzzleloading firearms and archery equipment (see § 27.42 of this chapter) as governed by State muzzleloader regulations.

(iv) We prohibit organized drives. We define a “drive” as an organized or planned effort to pursue, drive, chase, or otherwise frighten or cause game to move in the direction of any person(s) who is part of the organized or planned hunt and known to be waiting for the game.

(v) We allow hunting of deer (except spotted fawns), feral hog, gray squirrel, rabbit, armadillo, opossum, raccoon, beaver, and coyote during the archery season.

(vi) Hunters may take feral hog (no size or bag limit), and a maximum of two deer per day, during the family hunt, except only one deer may be antlerless for each day of the family and senior hunts.

(vii) Hunters must fill out a Big Game Harvest Report (FWS Form 3-2359) and check all game harvested during all deer and hog hunts.

(viii) Hunters may take only bearded turkeys and only during the State Zone C youth turkey hunts and spring turkey season.

(ix) Shooting hours for spring turkey begin ½ hour before legal sunrise and end at 1 p.m.

(4) Sport fishing. We allow sport fishing on designated areas of the refuge subject to the following conditions:

(i) We prohibit taking of frogs and turtles (see § 27.21 of this chapter).

(ii) We prohibit the use or possession of alcohol while fishing on the refuge.

(i) Merritt Island National Wildlife Refuge—(1) Migratory game bird hunting. We allow hunting of duck, merganser, and coot in designated areas of the refuge subject to the following conditions:

(i) You must possess and carry a current, signed Merritt Island National Wildlife Refuge hunt permit (signed brochure, non-transferable) at all times while hunting waterfowl on the refuge.

(ii) You must carry (or hunt within 30 yards of a hunter who possesses) a valid State-issued Merritt Island Waterfowl Quota Permit, while hunting in areas 1 or 4 from the beginning of the regular waterfowl season through the end of January. The Waterfowl Quota Permit can be used for a single party consisting of the permit holder and up to three guests. The permit holder must be present.

(iii) During the State's waterfowl season, we allow hunting on Wednesdays, Saturdays, Sundays, and the following Federal holidays: Thanksgiving, Christmas, and New Year's Day.

(iv) We prohibit hunters entering the normal or expanded restricted areas of the Kennedy Space Center (KSC).

(v) We allow hunting of waterfowl on refuge-established hunt days from ½ hour before legal sunrise until 12 p.m. (noon). Hunters must remove all equipment and check out at the refuge check station prior to 1 p.m. each day.

(vi) You may enter the refuge no earlier than 4 a.m. for the purpose of waterfowl hunting.

(vii) We require an adult, age 18 or older, to supervise hunters age 15 and younger. The adult must remain within sight and normal voice contact of the youth hunter.

(viii) We prohibit hunting or shooting within 25 feet (7.6 meters), or shooting from any portion, of a dike, dirt road, or railroad grade.

(ix) We prohibit hunting or shooting within 150 yards (135 meters) of SR 402, SR 406, or any paved road right-of-way. We prohibit shooting over any dike or roadway.

(x) You must leave the refuge by 1 p.m. Prior to that, you must stop at a posted refuge waterfowl check station and report statistical hunt information on the Migratory Bird Hunt Report (FWS Form 3-2361) to refuge personnel.

(2) [Reserved]

(3) Big game hunting. We allow the hunting of white-tailed deer and feral hog in designated areas of the refuge subject to the following conditions:

(i) We require a State-issued Merritt Island National Wildlife Refuge Big Game Quota Hunt Permit. The Quota Hunt Permit is a limited entry quota permit, is zone-specific, and is nontransferable.

(ii) You must have a valid signed Big Game Hunt Permit (signed annual hunt brochure).

(iii) We prohibit hunters entering the normal or expanded restricted areas of the Kennedy Space Center (KSC).

(iv) We allow hunting during a 3-day weekend within the State's deer season. Legal shooting hours are ½ hour before legal sunrise to ½ hour after legal sunset.

(v) Hunters possessing a valid permit may access the refuge no earlier than 2 hours before legal sunrise and must leave the refuge no later than 2 hours after legal sunset.

(vi) We prohibit hunting from refuge roads or within 100 yards of roads open to public vehicle traffic or within 200 yards of a building or KSC facility.

(vii) Each permitted hunter may have one adult guest and one youth hunter. All guests must remain within sight and normal voice contact. The party must share a single bag limit. Each adult may supervise one youth hunter and must remain within sight and normal voice contact. The pair must share a single bag limit unless hunting during a designated youth or family hunt.

(viii) You may set up stands or blinds up to 2 days prior to the permitted hunt; you must remove them on the last day of your permitted hunt. You must clearly mark stands and blinds with your Florida State customer identification (ID) number found on your hunting license. You may have no more than one stand or blind per person on the refuge at any time. You must place a stand or blind for a youth hunter within sight and normal voice contact of the supervisory hunter's stand and mark it with the supervisory hunter's Florida State customer ID number and the word “YOUTH.”

(ix) We prohibit all scouting in the hunt area during the quota hunt.

(x) If you use flagging or other trail-marking material, you must print your Florida State customer ID number on each piece or marker. You may set out flagging and trail markers up to 2 days prior to the permitted hunt, and you must remove them on the last day of the permitted hunt.

(xi) We allow hunters possessing a valid permit to scout within their permitted zones up to 7 days prior to their permitted hunts. You must carry your valid Quota Hunt Permit identifying the permitted hunt zone while scouting.

(xii) You must be on your stand or in your blind while hunting.

(xiii) We prohibit stalking or moving through the hunt area while hunting.

(xiv) You must be at your vehicle within 1 hour after legal shooting time. If you wish to track wounded game beyond 1 hour after legal sunset, you must gain consent from a Federal Wildlife Officer to do so.

(xv) We prohibit using dogs for tracking unless authorized by a Federal Wildlife Officer. Dogs must remain on a leash and be equipped with a GPS tracking device.

(xvi) You may field dress game; however, we prohibit cleaning game within 1,000 feet of any public area, road, game-check station, or gate. We prohibit dumping game carcasses on the refuge.

(xvii) Archery hunters must wear at least 500 square inches (3,226 square centimeters) of solid fluorescent-orange color while moving to and from their vehicles, while moving to their stands or hunting spots, and while tracking or dragging out game.

(xviii) There is no bag limit or size limit for the take of feral hogs.

(xix) You must report all hunting activities, including successful and non-successful hunts, at one of the two check stations prior to leaving the refuge.

(4) Sport fishing. We allow recreational fishing, crabbing, clamming, and shrimping on designated areas of the refuge subject to the following conditions:

(i) You must possess a current, signed refuge fishing permit (signed brochure) at all times while fishing on the refuge.

(ii) We prohibit anglers entering the normal or expanded restricted areas of the Kennedy Space Center (KSC).

(iii) We prohibit fishing after legal sunset or before legal sunrise, except that we allow fishing at night from a vessel in the open waters of Mosquito Lagoon, Indian River Lagoon, Banana River, and Haulover Canal.

(iv) You may launch boats for night fishing and boating activities only from Bair's Cove, Beacon 42, and Biolab boat ramps.

(v) We prohibit crabbing or fishing from Black Point Wildlife Drive or any side road connected to Black Point Wildlife Drive except from L Pond Road.

(vi) We prohibit launching boats, canoes, or kayaks from Black Point Wildlife Drive or any side road connected to Black Point Wildlife Drive except from L Pond Road.

(vii) Anglers and crabbers must attend their lines at all times.

(viii) We prohibit harvesting and possession of horseshoe crab, frog, turtle, snake, and/or other wildlife (see § 27.21 of this chapter).

(ix) We prohibit use of personal watercraft, kite surfing, kite boarding, wind surfing, sail boarding, use of air-thrust boats, and use of hovercraft on the refuge or in refuge waters.

(x) We prohibit motorized vessels in the Banana River within the posted “No-Motor Zone,” including any vessel having an attached motor or a nonattached motor capable of use (including electric trolling motor).

(xi) We allow vessels drafting 12 inches (30 centimeters) or less (measured while vessel is fully stopped) to be propelled only by poling, paddling, drifting, or electric trolling motors in the established Pole & Troll Zone(s), except in the posted running channels.

(xii) We prohibit fish cleaning on refuge property.

(xiii) We prohibit fishing from, or in the immediate vicinity of, the Manatee Viewing Deck on the northeast side of Haulover Canal.

(xiv) When inside the impoundment perimeter ditch, you may use gasoline or diesel motors. Outside the perimeter ditch, you must propel vessels by paddling, push pole, or electric trolling motor.

(j) Pelican Island National Wildlife Refuge. (1)-(3) [Reserved]

(4) Sport fishing. We allow sport fishing on designated areas of the refuge subject to the following conditions:

(i) We allow fishing year-round.

(ii) We allow bank fishing from spoil islands during daylight hours only.

(k) Pinellas National Wildlife Refuge. (1)-(3) [Reserved]

(4) Sport fishing. We allow sport fishing year-round on designated areas of the refuge subject to the following condition: We allow fishing only from vessels in the waters surrounding Tarpon Key.

(l) St. Marks National Wildlife Refuge—(1) Migratory game bird hunting. We allow hunting of duck and coot on designated areas of the refuge subject to the following conditions:

(i) You must remove blinds at the end of each day's hunt (see § 27.93 of this chapter).

(ii) We allow the use of dogs to recover game.

(iii) Hunters may access the hunt area by boat.

(2) Upland game hunting. We allow hunting of grey squirrel, rabbit, and raccoon on designated areas of the refuge subject to the following conditions:

(i) We require refuge permits (signed brochure) for hunting upland game. Each hunter must possess and carry a signed refuge permit while participating in a hunt.

(ii) All hunters must wear 500 square inches (3,250 square centimeters) of fluorescent orange above the waistline while in a designated hunting unit during a refuge hunt.

(iii) You may only use .22 caliber or smaller rim-fire rifles, shotguns (#4 bird shot or smaller) (see § 32.2(k)), or muzzleloaders to harvest squirrel, rabbit, and raccoon. In addition, you may use shotgun slugs, buckshot, archery equipment, or pistols to take feral hogs. We prohibit the use of other weapons.

(iv) We allow the use of leashed dogs for trailing injured or harvested game.

(v) We prohibit hunting from any named or numbered road (with the exception of persons hunting during the mobility-impaired hunt).

(vi) We prohibit cleaning of game within 1,000 feet (300 meters) of any residence, developed public recreation area, or game check station.

(vii) You must check out all game taken at a game check station.

(3) Big game hunting. We allow hunting of white-tailed deer, feral hog, and turkey subject to the following conditions:

(i) We require refuge permits (hunters apply through State for license, and the State charges a fee). Permits are nontransferable. Each hunter must possess and carry a signed permit when participating in a hunt. Prior to hunting each day, you must check-in at a hunt check station as specified in the refuge hunt brochure. You must check out at the end of each hunting day.

(ii) The conditions set forth at paragraphs (l)(2)(ii) and (iv) through (vii) of this section apply.

(iii) We allow feral hog to be taken during any refuge hunt. There is no limit on the size or number of feral hogs that hunters may take.

(iv) There is a two deer limit per hunt, as specified at paragraph (l)(3)(vi) of this section, except during the youth hunt, when the limit is as specified at paragraph (l)(3)(vii) of this section. The limit for turkey is one per hunt.

(v) We prohibit the use of deer decoys.

(vi) The bag limit for white-tailed deer is two deer per hunt, either two antlerless deer or one antlerless deer and one antlered deer. State regulations define antlerless deer as deer with no antler or antlers less than 5 inches (12.75 centimeters). Antlered deer must have at least three points, 1 inch (2.5 centimeters) or greater on one antler, to be harvested.

(vii) There is one youth white-tailed deer hunt and one youth turkey hunt for youth ages 12 to 17. During these hunts, only the youth hunter may handle or discharge firearms used for hunting. An adult age 21 or older must accompany and remain in sight and normal voice contact of each youth hunter. There is no limit on the number of hogs a youth hunter may harvest during these hunts.

(A) Youth white-tailed deer hunt harvest limits. (1) Youth hunters age 12 to 15 may harvest two deer, either two antlerless deer or one antlerless and one antlered. State regulations define antlerless deer as deer with no antler or antlers less than 5 inches (12.75 centimeters). There are no restrictions on antler size for youth hunters age 12 to 15.

(2) Youth hunters age 16 or 17 may harvest two deer, either two antlerless or one antlerless and one antlered. State regulations define antlerless deer as deer with no antler or antlers less than 5 inches (12.75 centimeters). Antlered deer must have at least two points, 1 inch (2.5 centimeters) or greater on one antler, to be harvested by youth hunters age 16 or 17.

(B) Youth turkey hunt harvest limit. The limit is one bearded turkey per youth hunter.

(viii) Mobility-impaired hunters may have an assistant accompany them. You may transfer permits issued to assistants. We limit those hunt teams to harvesting white-tailed deer and feral hog within the limits provided at paragraph (l)(3)(vi) of this section.

(ix) You may harvest one bearded turkey per hunt. You may only use shotguns or archery equipment to harvest turkey. We prohibit hunting after 1 p.m.

(4) Sport fishing. We allow sport fishing on designated areas of the refuge subject to the following conditions:

(i) We prohibit taking blue crabs from impounded water on the St. Marks Unit.

(ii) We only allow fishing in refuge lakes, ponds, and impoundments from ½ hour before legal sunrise to ½ hour after legal sunset.

(iii) We allow fishing in tidal and coastal waters 24 hours per day year-round.

(iv) We prohibit taking of frogs or turtles (see § 27.21 of this chapter).

(v) We prohibit use of cast nets or traps to take fish from any lake, pond, or impoundment on the refuge.

(vi) You must attend all fishing equipment.

(vii) We prohibit bow fishing on refuge lakes, ponds, and impoundments.

(viii) The interior ponds and lakes on the Panacea Unit are open year-round for bank fishing. We open vehicle access to these areas from March 15 through May 15 each year. Ponds and lakes that anglers access from County Road 372 are open year-round for fishing and boating.

(m) St. Vincent National Wildlife Refuge. (1)-(2) [Reserved]

(3) Big game hunting. We allow hunting of white-tailed deer, sambar deer, raccoon, and feral hog on designated areas of the refuge subject to the following conditions:

(i) We require refuge permits (hunters apply through State for license, and the State charges a fee). The permits are nontransferable, and the hunter must possess them while hunting. Only signed permits are valid. We only allow people with a signed refuge hunt permit or the helpers of mobility-impaired hunters on the island during the hunt periods.

(ii) We authorize three refuge hunts: Sambar deer, white-tailed deer archery, and white-tailed deer muzzleloader. During the sambar deer hunt, only sambar deer, feral hog, and raccoon can be harvested. During the white-tailed deer hunts, only white-tailed deer, feral hog, and raccoon can be harvested.

(iii) We restrict access to St. Vincent Island to the Indian Pass and West Pass campsites. The hunt brochure lists check-in and check-out procedures. We restrict access to the hunt areas to foot or bicycle travel.

(iv) Hunt hours are ½ hour before legal sunrise until 3 p.m. for the sambar deer hunt.

(v) You may set up tree stands only after you check in, and you must remove them from the island at the end of the hunt (see §§ 27.93 and 27.94 of this chapter).

(vi) You may retrieve game from the closed areas only if accompanied by a refuge staff member or a Federal Wildlife Officer.

(vii) We limit weapons to primitive weapons (bow and arrow, and muzzleloader) on the primitive weapons sambar deer hunt and the primitive weapons white-tailed deer hunt. We limit the archery hunt to bow and arrow. We prohibit crossbows during the white-tailed deer archery hunt except with a State disabled persons permit. You may take feral hog and raccoon only with the weapons allowed for that period.

(viii) We allow only stand, still, and stalk hunting. We prohibit organized deer drives. We define a “deer drive” as an organized or planned effort to pursue, drive, chase, or otherwise frighten or cause deer to move in the direction of any person(s) who is part of the organized or planned hunt and known to be waiting for the deer.

(ix) You may only discharge muzzleloaders at the designated discharge area between 5 a.m. and 9 p.m.

(x) Hunters must check out at the check station prior to leaving the refuge at the end of their hunt. A refuge staff member or volunteer must check the campsites before the hunters leave the refuge.

(xi) Bag limits are:

(A) Muzzleloader weapons sambar deer hunt. One sambar deer of either sex; no limit on feral hog or raccoon.

(B) Archery hunt. One white-tailed deer of either sex. Antlered deer must have at least two points, 1 inch (2.5 centimeters) or more on one antler, to be harvested. State regulations define antlerless deer as deer with no antler or antlers less than 5 inches (12.75 centimeters). Youth age 15 or younger may harvest any deer except spotted fawn. We prohibit harvesting of spotted fawns. There is no limit on feral hog or raccoon.

(C) Muzzleloader weapons white-tailed deer hunt. One white-tailed deer. Antlered deer must have at least two points, 1 inch (2.5 centimeters) or more in length on one antler, to be harvested. We issue a limited number of either-sex tags. If you have an either-sex tag, the bag limit is one deer that may be antlerless or antlered with legal antler configuration. State regulations define antlerless deer as deer with no antler or antlers less than 5 inches (12.75 centimeters). Youth age 15 or younger may harvest any deer except spotted fawn. We prohibit harvesting of spotted fawns. There is no limit on feral hog or raccoon.

(xii) We prohibit bringing live game into the check station.

(4) Sport fishing. We allow fishing on designated areas of the refuge subject to the following conditions:

(i) You may fish from ½ hour before legal sunrise to ½ hour after legal sunset year-round.

(ii) We prohibit the use of live minnows as bait.

(iii) We allow the use of only rods and reels or poles and lines in refuge lakes. Anglers must attend their fishing equipment at all times.

(iv) We prohibit the taking of frog and/or turtle (see § 27.21 of this chapter).

(n) Ten Thousand Islands National Wildlife Refuge—(1) Migratory game bird hunting. We allow hunting of duck and coot on designated areas of the refuge subject to the following conditions:

(i) We allow hunting each day during the early wood duck/teal season.

(ii) We allow hunting only on Wednesdays, Saturdays, Sundays, and Federal holidays that fall within the State's waterfowl season, including Thanksgiving, Christmas, and New Year's Day.

(iii) Hunters must possess and carry a valid, signed refuge permit (signed brochure) at all times while hunting on the refuge.

(iv) We allow hunting from ½ hour before legal sunrise until 12 p.m. (noon). Hunters may enter the refuge no earlier than 4 a.m. and must remove all decoys, guns, blinds, and other related equipment by 1 p.m. each day (see § 27.93 of this chapter).

(v) We prohibit hunting within 100 yards (90 meters) of the south edge of U.S. 41 and the area posted around Marsh Trail extending south from U.S. 41.

(vi) We allow the use of dogs for waterfowl retrieval and prehunt scouting.

(2)-(3) [Reserved]

(4) Sport fishing. We allow sport fishing and crabbing on the refuge on designated areas subject to the following conditions:

(i) We allow fishing in the freshwater and brackish marsh area of the refuge year-round from legal sunrise to legal sunset.

(ii) We prohibit the taking of snake, turtle, frog, and other wildlife in the freshwater and brackish marsh area of the refuge (see § 27.21 of this chapter).

(iii) We prohibit the use of trotlines, gigs, spears, bush hooks, and snatch hooks in the freshwater and brackish marsh area of the refuge.

(iv) Anglers and crabbers must attend their lines at all times.

§ 32.29 Georgia.

The following refuge units are open for hunting and/or fishing as governed by applicable Federal and State regulations, and are listed in alphabetical order with additional refuge-specific regulations.

(a) Banks Lake National Wildlife Refuge. (1)-(3) [Reserved]

(4) Sport fishing. We allow sport fishing on designated areas of the refuge subject to the following conditions:

(i) We allow the use of only pole and line or rod and reel, which the angler must attend at all times.

(ii) We allow sport fishing after legal sunset.

(iii) We permit fishing tournaments by Special Use Permit (General Activities Special Use Permit Application, FWS Form 3-1383-G) issued by the refuge manager.

(b) Blackbeard Island National Wildlife Refuge. (1)-(2) [Reserved]

(3) Big game hunting. We allow hunting of white-tailed deer and feral hog on designated areas of the refuge subject to the following conditions:

(i) We require a refuge hunt permit (electronic form) for all hunters age 16 and older. Hunters must sign the permit and carry it with them at all times when hunting.

(ii) Hunters must check-in no more than 1 day in advance of the opening day of each hunt. We prohibit check-in after legal sunset of the second hunt day.

(iii) Each hunter may place one stand on the refuge no earlier than 1 month prior to the opening day of each hunt, but must remove the stand by the end of each hunt (see § 27.93 of this chapter).

(iv) Hunters must check-in at the refuge dock prior to setting up camp. We require personal identification at check-in.

(v) Only hunters may camp at the designated camping area during refuge hunts.

(vi) For hunting, we allow only bows as governed by State regulations.

(vii) Hunters may take five deer (no more than two antlered), and we will issue State bonus tags for two of these. There is no bag limit on feral hog.

(viii) Refuge personnel must check deer harvested during the scheduled hunt before hunters may remove them from the refuge.

(ix) Hunters must be off the island by 12 p.m. (noon) on Sunday.

(x) We allow mooring of boats to the government dock only for loading and unloading purposes.

(4) Sport fishing. We allow fishing on designated areas of the refuge subject to the following conditions:

(i) We allow saltwater fishing year-round in the estuarine waters adjacent to the refuge.

(ii) We allow bank/beach saltwater fishing into estuarine waters only from legal sunrise to legal sunset except during managed hunts.

(c) Bond Swamp National Wildlife Refuge—(1) Migratory game bird hunting. We allow hunting of waterfowl on designated areas of the refuge subject to the following conditions:

(i) You must possess and carry a signed refuge hunt permit (signed brochure) and an additional refuge quota hunt permit for the quota hunts while hunting.

(ii) We allow the incidental take of feral hog with legal weapons during open season.

(iii) We require hunters to report all harvested game at the check station before leaving the refuge (see hunting brochure).

(iv) We allow access to the hunt area from 2 hours before legal sunrise until 2 hours after legal sunset.

(v) We allow the use of dogs for retrieving downed waterfowl during waterfowl hunts.

(vi) We prohibit hunting within 50 yards (45 meters (m)) of a road open to vehicle travel or within 200 yards (180 m) of a building.

(vii) We prohibit entry into the designated hunt area by nonhunters during all quota deer-gun and waterfowl hunts.

(viii) We prohibit removal of live hogs from the refuge.

(ix) We prohibit organized drives. We define a “drive” as an organized or planned effort to pursue, drive, chase, or otherwise frighten or cause game to move in the direction of any person(s) who is part of the organized or planned hunt and known to be waiting for the game.

(x) Youth hunters age 15 and younger must remain within sight and normal voice contact of an adult age 21 or older possessing a valid hunting license.

(xi) We prohibit all-terrain vehicles (ATVs) on the refuge except by wheelchair-bound hunters with a refuge Special Use Permit (General Activities—Special Use Permit Application, FWS Form 3-1383-G).

(xii) We prohibit leaving vehicles, boats, trailers, or decoys on the refuge overnight (see § 27.93 of this chapter).

(xiii) We prohibit the possession or use of any suppressors or silencers on any firearm.

(xiv) We prohibit the possession or use of any trail or game camera or leaving any other hunting-related electronic device on the refuge.

(xv) We prohibit the possession or use of any night vision or thermal imaging equipment.

(xvi) We prohibit the possession or use of any electronic calls.

(xvii) We prohibit falconry.

(xviii) You may only place temporary blinds, blind material, and/or decoys on the day of the hunt, and you must remove them by 1:00 p.m. on that same day.

(2) Upland game hunting. We allow hunting of squirrel, rabbit, and quail on designated areas of the refuge subject to the following conditions:

(i) The conditions set forth at paragraphs (c)(1)(ii) through (iv), (vi), and (viii) through (xvii) of this section apply.

(ii) We require you to possess and carry a signed refuge hunt permit (signed brochure) while hunting for upland game. The hunt brochure will serve as your hunt permit.

(iii) We require each small game hunter to wear at least 500 square inches (3,250 square centimeters) of hunter orange as an outer garment above the waist during small game hunts.

(iv) We allow the use of dogs when hunting for squirrel, rabbit, and quail.

(v) You may place tree stands and hunting blinds during upland game and big game hunts on the day prior to each upland game and big game hunt. You must remove tree stands and hunting blinds by 11 a.m. on the day after the hunt.

(3) Big game hunting. We allow hunting for white-tailed deer, feral hog, and turkey on designated areas of the refuge subject to the following conditions:

(i) The conditions set forth at paragraphs (c)(1)(i) through (iv), (vi) through (ix), and (xi) through (xvii) and (c)(2)(v) of this section apply.

(ii) We prohibit the use of buckshot.

(iii) We prohibit the use of dogs during deer and feral hog hunts.

(iv) We require each deer and feral hog hunter to wear at least 500 square inches (3,250 square centimeters) of hunter orange as an outer garment above the waist during hunts.

(v) Youth hunters age 15 and younger must remain within sight and normal voice contact of an adult age 21 or older possessing a valid hunting license. One adult may supervise no more than one youth hunter.

(4) Sport fishing. We allow sport fishing on designated areas of the refuge subject to the following conditions:

(i) We allow fishing from March 1 to October 31, except on the Ocmulgee River, which is open to fishing year-round.

(ii) We allow access to the refuge and fishing only from legal sunrise to legal sunset.

(iii) We only allow fishing with pole and line or rod and reel.

(iv) The conditions set forth at paragraphs (c)(1)(xi) and (xii) of this section apply.

(v) We prohibit use or possession of alcoholic beverages while fishing on the refuge.

(vi) We require you to possess and carry a signed refuge fishing permit (signed brochure) while fishing.

(vii) Youth anglers age 15 and younger must remain within sight and normal voice contact of an adult age 21 or older who possesses a valid fishing license.

(d) Eufaula National Wildlife Refuge. Refer to § 32.20(d) for regulations.

(e) Harris Neck National Wildlife Refuge. (1)-(2) [Reserved]

(3) Big game hunting. We allow hunting of white-tailed deer and feral hog on designated areas of the refuge subject to the following conditions:

(i) We require a refuge hunt permit (electronic form) for all hunters age 16 and older. Hunters must sign the permit and carry it with them at all times when hunting.

(ii) Each hunter may place one stand on the refuge during the week preceding each hunt, but you must remove stands by the end of each hunt (see § 27.93 of this chapter).

(iii) We prohibit hunting within 100 yards (91.4 meters) of Harris Neck Road, the refuge entrance drive, Visitor Contact Station/Office, Barbour River Landing, Barbour River Road, or Gould's Cemetery.

(iv) We require hunters to check-in and check-out each hunt day. We require personal identification to check-in and check-out.

(v) We require hunters to check all harvested game at the check station before leaving the refuge each day.

(vi) Hunters may take five deer (no more than two antlered), and we will issue State bonus tags for two of these. There is no bag limit for feral hog.

(vii) During the gun hunt, we allow only shotguns (20 gauge or larger; slugs only), muzzleloaders, and bows as governed by State regulations.

(4) Sport fishing. We allow sport fishing on designated areas of the refuge subject to the following conditions:

(i) We allow saltwater fishing year-round in the estuarine waters adjacent to the refuge.

(ii) We allow bank fishing into estuarine waters only from legal sunrise to legal sunset except during managed hunts.

(iii) We prohibit freshwater fishing.

(f) Okefenokee National Wildlife Refuge. (1) [Reserved]

(2) Upland game hunting. We allow the hunting of rabbit, squirrel, and bobwhite quail on designated areas of the refuge subject to the following condition: We allow the use of dogs only to locate, point, and retrieve during quail hunts.

(3) Big game hunting. We allow hunting of turkey and white-tailed deer, and feral hog as incidental take, on designated areas subject to the following conditions:

(i) In the Pocket Unit:

(A) We only allow archery hunting and foot traffic.

(B) Hunters must sign in and out each hunt day and record harvest each day.

(ii) In the Suwannee Canal Recreation Area:

(A) We allow only shotguns or muzzleloaders.

(B) We require a refuge permit (Big/Upland Game Hunt Application, FWS Form 3-2439, Hunt Application—National Wildlife Refuge System) obtained through refuge lottery.

(C) Hunters must sign in and out each day and record harvest each day.

(D) You must tag your deer with special refuge tags.

(E) Harvest limit is two deer of either sex per day.

(F) We zone Chesser Island Hunt area to accommodate mobility-impaired and youth hunters. Only mobility-impaired hunters may use all-terrain vehicles (ATVs) and vehicles on firebreaks and unpaved roads.

(iii) In the Cowhouse Unit, State of Georgia's Dixon Memorial Wildlife Management Area rules, regulations, dates, and times apply.

(4) Sport fishing. We allow sport fishing on designated areas of the refuge subject to the following conditions:

(i) We prohibit possession of live bait fish.

(ii) We allow the use of only pole and line or rod and reel as methods of take.

(g) Piedmont National Wildlife Refuge. (1) [Reserved]

(2) Upland game hunting. We allow hunting of quail, squirrel, rabbit, raccoon, and opossum on designated areas of the refuge subject to the following conditions:

(i) We prohibit upland game hunting during refuge deer or turkey hunts.

(ii) You must possess and carry a signed refuge hunt permit (signed brochure) while hunting.

(iii) We require a signed refuge hunt permit (signed brochure) to hunt on the Hitchiti Experimental Forest.

(iv) We allow access to the hunt area from 2 hours before legal sunrise until 2 hours after legal sunset.

(v) We allow hunting for raccoon and opossum from 6 p.m. to 6 a.m. on the days listed as open in the refuge hunt brochure.

(vi) We only allow .22 caliber or smaller rimfire firearms for raccoon and opossum hunting.

(vii) We allow the use of dogs on designated areas of the refuge for hunting quail, squirrel, rabbit, raccoon, and opossum.

(viii) We prohibit possession or use of any suppressors or silencer on any firearms.

(ix) We prohibit possession or use of trail or game cameras or leaving any other hunting-related electronic device on the refuge.

(x) We prohibit possession or use of any night vision or thermal imaging equipment.

(xi) We prohibit possession or use of any electronic calls.

(xii) We prohibit falconry.

(xiii) Youth hunters age 15 and younger must remain within sight and normal voice contact of an adult age 21 or older who possesses a valid hunting license.

(3) Big game hunting. We allow hunting for white-tailed deer, turkey, and feral hog on designated areas of the refuge subject to the following conditions:

(i) The conditions set forth at paragraphs (g)(2)(iii), (iv), and (viii) through (xi) of this section apply.

(ii) You must possess and carry a signed refuge hunt permit (signed brochure), and possess and carry an additional refuge quota hunt permit (requires contact information only) for the quota hunts, while hunting.

(iii) We prohibit buckshot.

(iv) We prohibit hunting within 50 yards (45 meters (m)) of a road open to vehicle travel or within 200 yards (180 m) of a building.

(v) You must bring any deer, turkey, or hog you harvest to the refuge check station intact, except entrails, the day you kill them and before you leave the refuge. We prohibit possession of dressed deer, turkey, or hog unless you have checked them at the refuge check station.

(vi) We prohibit all-terrain vehicles (ATVs) on the refuge except by wheelchair-bound hunters with a special use permit (General Activities—Special Use Permit Application, FWS Form 3-1383-G).

(vii) We prohibit dogs for hunting big game.

(viii) We prohibit organized drives. We define a “drive” as an organized or planned effort to pursue, drive, chase, or otherwise frighten or cause game to move in the direction of any person(s) who is part of the organized or planned hunt and known to be waiting for the game.

(ix) Youth hunters age 15 and younger must remain within sight and normal voice contact of an adult age 21 or older who possesses a valid hunting license. One adult may supervise no more than one youth hunter.

(4) Sport fishing. We allow sport fishing on designated areas of the refuge subject to the following conditions:

(i) We allow fishing from March 15 to September 30.

(ii) We allow access to the refuge and fishing from only legal sunrise to legal sunset.

(iii) You may keep the following numbers of fish each day: Bass—5, channel catfish—5, sunfish or bream—15, and crappie—15.

(iv) We allow nonmotorized boats or boats with electric motors on all ponds designated as open to fishing.

(v) We prohibit use or possession of alcoholic beverages while fishing on the refuge.

(vi) We allow fishing only with pole and line or rod and reel.

(vii) We prohibit leaving boats or other personal equipment on the refuge overnight (see § 27.93 of this chapter).

(viii) We prohibit the use of fish for bait and the possession of minnows.

(ix) We prohibit possession or take of grass carp. You must immediately release any grass carp caught.

(x) We require you to possess and carry a signed refuge fishing permit (signed brochure) while fishing.

(xi) Youth anglers age 15 and younger must remain within sight and normal voice contact of an adult age 21 or older who possesses a valid fishing license.

(h) Savannah National Wildlife Refuge—(1) Migratory game bird hunting. We allow hunting of waterfowl and mourning dove on designated areas of the refuge subject to the following conditions:

(i) All hunters age 16 and older must possess and carry a signed refuge hunt permit (requires contact information only).

(ii) To participate in the quota youth waterfowl hunt, youth hunters must submit the Waterfowl Lottery Application (FWS Form 3-2439, Hunt Application—National Wildlife Refuge System).

(iii) You may take feral hog and coyote during all refuge hunts (migratory bird, upland, and big game) with weapons authorized and legal for those hunts.

(iv) We allow the use of dogs for retrieving migratory birds.

(2) Upland game hunting. We allow hunting of squirrel and rabbit on designated areas of the refuge subject to the following conditions:

(i) The conditions set forth at paragraphs (h)(1)(i) and (iii) of this section apply.

(ii) You may not hunt on or within 100 yards (90 meters) of public roads, refuge facilities, roads and trails, and railroad rights-of-way, or in closed areas.

(3) Big game hunting. We allow hunting of white-tailed deer, turkey, feral hog, and coyote on designated areas of the refuge subject to the following conditions:

(i) The conditions set forth at paragraphs (h)(1)(i) and (iii) of this section apply.

(ii) To participate in the quota gun hunt for wheelchair-dependent hunters, hunters must submit the Quota Deer Hunt Application (FWS Form 3-2439, Hunt Application—National Wildlife Refuge System). To participate in the quota youth turkey hunt and learn weekend, youth hunters must submit the Big/Upland Game Hunt Application (FWS Form 3-2439, Hunt Application—National Wildlife Refuge System).

(iii) You may only use bows, as governed by State regulations, for deer, feral hog, and coyote hunting during the archery hunt for these species.

(iv) You may only use shotguns (20 gauge or larger, slugs only), centerfire rifles, centerfire pistols, muzzleloaders, and bows, as governed by State regulations, for deer, feral hog, and coyote hunting during the firearm hunts for these species.

(v) Hunters may take as many as five deer (no more than two antlered). There is no bag limit on feral hog or coyote.

(vi) We allow only shotguns with approved nontoxic #2 shot or smaller, and bows, as governed by State regulations, for turkey hunting. We prohibit the use of slugs or buckshot for turkey hunting.

(4) Sport fishing. We allow sport fishing on designated areas of the refuge subject to the following conditions:

(i) Anglers may fish in refuge impoundments and canals from March 1 through November 30 annually.

(ii) Anglers may fish in Kingfisher Pond and all tidal creeks year-round.

(iii) We allow fishing from legal sunrise to legal sunset.

(iv) Anglers may bank fish year-round throughout the refuge, unless otherwise posted.

(v) Anglers may only use nonmotorized boats and boats with electric motors within impounded waters.

(i) Wassaw National Wildlife Refuge. (1)-(2) [Reserved]

(3) Big game hunting. We allow hunting of white-tailed deer and feral hog on designated areas of the refuge subject to the following conditions:

(i) We require a refuge hunt permit for all hunters age 16 and older. Hunters must sign the permit and carry it with them at all times when hunting.

(ii) Refuge personnel must check deer harvested during scheduled hunts before hunters leave the refuge.

(iii) Hunters may take five deer (no more than two antlered), and we will issue State bonus tags for two of these. There is no bag limit on feral hog.

(iv) We prohibit the use of buckshot.

(v) We allow mooring of boats to the government dock only for loading or unloading purposes.

(vi) Hunters must check-in at the refuge dock prior to setting up camp. We require personal identification at check-in.

(vii) We allow only hunters to camp at the designated camping area while participating in refuge hunts.

(viii) Each hunter may place one stand on the refuge no earlier than 1 month prior to the opening day of each hunt, but you must remove all stands by the end of each hunt (see § 27.93 of this chapter).

(ix) Hunters must be off the island by 12 p.m. (noon) the day following the last day of the hunt.

(4) Sport fishing. We allow sport fishing on designated areas of the refuge subject to the following conditions:

(i) We allow saltwater fishing year-round in the estuarine waters adjacent to the refuge.

(ii) We allow bank/beach fishing into estuarine waters only from legal sunrise to legal sunset except during managed hunts.

(iii) We prohibit freshwater fishing.

(j) Wolf Island National Wildlife Refuge. (1)-(3) [Reserved]

(4) Sport fishing. We allow sport fishing on designated areas of the refuge subject to the following conditions: We allow saltwater fishing year-round in the estuarine waters adjacent to the refuge.

§ 32.30 Hawaii.

The following refuge units are open for hunting and/or fishing as governed by applicable Federal and State regulations, and are listed in alphabetical order with additional refuge-specific regulations.

(a) Hanalei National Wildlife Refuge. (1)-(3) [Reserved]

(4) Sport fishing. We allow sport fishing on designated areas of the refuge.

(b) Kakahaia National Wildlife Refuge. (1)-(3) [Reserved]

(4) Sport fishing. We allow saltwater fishing on designated areas of the refuge.

(c) Kilauea Point National Wildlife Refuge. (1)-(3) [Reserved]

(4) Sport fishing. We allow saltwater fishing on designated areas of the refuge.

§ 32.31 Idaho.

The following refuge units are open for hunting and/or fishing as governed by applicable Federal and State regulations, and are listed in alphabetical order with additional refuge-specific regulations.

(a) Bear Lake National Wildlife Refuge—(1) Migratory game bird hunting. We allow hunting of duck, goose, coot, and snipe on designated areas of the refuge subject to the following conditions:

(i) We allow boats, except air thrust boats, after September 20 within the designated refuge hunting areas, for the purposes of hunting.

(ii) You may only use portable blinds or construct temporary blinds of natural vegetation. Blinds will be available for general use on a first-come, first-served basis. You must remove portable blinds, decoys, boats, and other personal property from the refuge at the end of each day's hunt (see § 27.93 of this chapter).

(2) Upland game hunting. We allow hunting of pheasant, grouse, partridge, and cottontail rabbit on designated areas of the refuge.

(3) [Reserved]

(4) Sport fishing. We allow fishing on designated areas of the refuge subject to the following condition: We prohibit use and possession of lead weights or sinkers.

(b) Camas National Wildlife Refuge—(1) Migratory game bird hunting. We allow hunting of duck, goose, coot, and snipe on designated areas of the refuge subject to the following conditions:

(i) We allow hunters to access the refuge 1 hour before legal shooting time.

(ii) You may only use portable blinds or construct temporary blinds of natural vegetation. Blinds will be available for general use on a first-come, first-served basis. You must remove portable blinds, decoys, and other personal property at the end of each day's hunt (see § 27.93 of this chapter).

(2) Upland game hunting. We allow hunting of pheasant, grouse, and partridge on designated areas of the refuge.

(3)-(4) [Reserved]

(c) Deer Flat National Wildlife Refuge—(1) Migratory game bird hunting. We allow hunting of goose, duck, coot, common snipe, and dove on designated areas of the refuge subject to the following conditions:

(i) Hunters in the South Side Recreation Area may use float tubes, nonmotorized boats, or boats equipped with electric motors within 200 yards (180 meters) of the shoreline. We prohibit the use or possession of gas-powered motors.

(ii) You must remove boats, decoys, blinds, other personal property, and any materials brought onto the refuge for blind construction at the end of each day (see §§ 27.93 and 27.94 of this chapter).

(iii) Hunters may enter the refuge 1 hour before official shooting hours (½ hour before legal sunrise), and remain on the refuge until 1 hour after official shooting hours (legal sunset).

(iv) We allow the use of dogs for hunting.

(2) Upland game hunting. We allow hunting of pheasant, quail, and partridge on designated areas of the refuge subject to the following condition: The condition set forth at paragraph (c)(1)(iv) of this section applies.

(3) Big game hunting. We allow hunting of deer on designated areas of the refuge subject to the following conditions:

(i) You must obtain a refuge-specific hunting permit (signed brochure) to hunt deer on the Lake Lowell Unit. Hunters must sign and carry the permit in the field while hunting.

(ii) Hunters may place up to two portable deer stands in the Lake Lowell Unit. Hunters must place stands/platforms by hand. Hunters may place stands/platforms on the refuge no earlier than the beginning date of the assigned hunt permit and must remove them no later than the ending date of the hunt permit. Each stand must display the hunter's hunting license number so that it is legible from the ground.

(iii) In the Lake Lowell Unit, you may only shoot deer while hunting from an elevated tree stand/platform. We prohibit ground stalking and/or still hunting from the ground. We prohibit shooting a firearm or bow while on the ground, except to kill a downed deer.

(iv) While hunting from a tree stand, you must use a fall-arrest system/full body harness meeting Treestand Manufacturer's Association standards.

(v) Hunters may enter the Lake Lowell Unit no earlier than 2 hours before official shooting hours (½ hour before legal sunrise) and must leave the area within 2 hours after official shooting hours (½ hour after legal sunset). Successful hunters may extend their departure time only as long as is necessary to retrieve dead deer.

(4) Sport fishing. We allow fishing on designated areas of the refuge subject to the following conditions:

(i) From October 1 through April 14, we only allow ice fishing within 200 yards (180 meters) of the shoreline in front of both the Lower Dam (Fishing Area A) and the Upper Dam (Fishing Area B) on the Lake Lowell Unit, unless otherwise posted by the Bureau of Reclamation.

(ii) We allow fishing from nonmotorized boats in designated areas of the Lake Lowell Unit from October 1 through April 14, from ½ hour before legal sunrise to ½ hour after legal sunset.

(iii) From February 1 through June 30, we prohibit fishing from all islands in the Snake River Islands Unit.

(d) Grays Lake National Wildlife Refuge—(1) Migratory game bird hunting. We allow hunting of duck, goose, coot, and snipe on designated areas of the refuge subject to the following conditions:

(i) Blinds will be available for general use on a first-come, first-served basis. You must remove portable blinds, decoys, boats, and other personal property from the refuge at the end of each day's hunt (see § 27.93 of this chapter).

(ii) We allow only hunters and dogs to retrieve game in designated hunting areas.

(2)-(4) [Reserved]

(e) Kootenai National Wildlife Refuge—(1) Migratory game bird hunting. We allow hunting of goose, duck, and coot on designated areas of the refuge subject to the following conditions:

(i) We allow hunting only on Tuesdays, Thursdays, Saturdays, and Sundays.

(ii) We allow the use of dogs when hunting.

(iii) We prohibit the discharge of firearms in posted retrieval zones and areas closed to hunting.

(iv) Hunters may access the waterfowl hunt area no earlier than 3 a.m. and must leave no later than 1 hour after legal sunset.

(2) Upland game hunting. We allow hunting of forest grouse and wild turkey on designated areas of the refuge subject to the following conditions:

(i) You may possess only approved nontoxic shot shells (see § 32.2(k)) while in the field.

(ii) We allow the use of dogs when hunting forest grouse and for turkey during the fall hunt.

(3) Big game hunting. We allow hunting of deer, elk, black bear, moose, and mountain lion on designated areas of the refuge subject to the following conditions:

(i) We allow hunting of deer at the designated accessible blind for hunters with disabilities subject to the following conditions:

(A) You must obtain a Special Use Permit (FWS Form 3-1383-G) from the refuge manager to use the accessible blind.

(B) We only allow deer hunting at the accessible blind using the following weapons: Muzzleloader, archery equipment, crossbow, shotgun, or handgun. For shotguns, you may only use slugs. For handguns, you may only use straight-walled cartridges not originally established for rifles.

(ii) You may possess only approved nontoxic ammunition for hunting (see § 32.2(k)).

(4) Sport fishing. We allow sport fishing on designated areas of the refuge subject to the following condition: We allow bank fishing only.

(f) Minidoka National Wildlife Refuge—(1) Migratory game bird hunting. We allow hunting of duck, goose, coot, and snipe on designated areas of the refuge subject to the following conditions:

(i) We allow only hunters and dogs to retrieve game in designated hunting areas.

(ii) You may only use portable blinds or construct temporary blinds of dead natural vegetation. Blinds will be available for general use on a first-come, first-served basis. You must remove portable blinds at the end of each day's hunt (see § 27.93 of this chapter). We prohibit use of rock piles above the high-water mark for blind construction.

(iii) On West Hunting Area (Lake Walcott), we allow hunting on the uplands and over water within 100 yards (90 meters) of the shoreline. We allow use of boats only for retrieval of game.

(iv) On East Hunting Area (Tule Island), we allow boats during the waterfowl hunting season.

(2) Upland game hunting. We allow hunting of pheasant, grouse, partridge, and cottontail rabbit on designated areas of the refuge.

(3) Big game hunting. We allow hunting of elk (archery only) on designated areas of the refuge subject to the following condition: Elk hunters may enter the hunt area from 1 and ½ hours before legal hunting time to 1 and ½ hours after legal hunting time.

(4) Sport fishing. We allow sport fishing on designated areas of the refuge.

§ 32.32 Illinois.

The following refuge units are open for hunting and/or fishing as governed by applicable Federal and State regulations, and are listed in alphabetical order with additional refuge-specific regulations.

(a) Chautauqua National Wildlife Refuge—(1) Migratory game bird hunting. We allow hunting of waterfowl on designated areas of the refuge subject to the following condition: Hunters must remove boats, decoys, blinds, and blind materials at the end of each day's hunt (see §§ 27.93 and 27.94 of this chapter).

(2)-(3) [Reserved]

(4) Sport fishing. We allow fishing on designated areas of the refuge from legal sunrise to legal sunset subject to the following conditions:

(i) We allow fishing on Lake Chautauqua from February 1 through October 15. We prohibit fishing in the waterfowl hunting area during the waterfowl hunting season.

(ii) We allow bank fishing year-round between the boat ramp and the fishing trail in the North Pool and from Goofy Ridge Public Access to the west gate of the North Pool water control structure.

(b) Crab Orchard National Wildlife Refuge—(1) Migratory game bird hunting. We allow hunting of duck, goose, coot, woodcock, dove, snipe, rail, and crow on designated areas of the refuge subject to the following conditions:

(i) We require a refuge hunt brochure permit (signed brochure). You must carry this signed permit when hunting on the refuge.

(ii) We prohibit hunting within 50 yards (45 meters (m)) of all designated public use facilities, including, but not limited to, parking areas, picnic areas, campgrounds, marinas, boat ramps, public roads, and established hiking trails listed in the refuge trails brochure.

(iii) Hunters must remove all boats, decoys, blinds, blind materials, stands, platforms, and other personal equipment brought onto the refuge at the end of each day's hunt (see §§ 27.93 and 27.94 of this chapter).

(iv) Waterfowl hunting blinds must be a minimum of 200 yards (180 m) apart. Hunters must anchor boat blinds on the shore or anchor them a minimum of 200 yards (180 m) away from any shoreline.

(v) We allow the use of dogs while hunting, provided the dog is under the immediate control of the hunter at all times.

(vi) We allow waterfowl hunting in the controlled waterfowl hunting area during the Canada goose season subject to the following conditions:

(A) Waterfowl hunters must attend a special drawing on the day of the hunt.

(B) We allow hunting ½ hour before legal sunrise to posted closing times.

(C) Hunters must hunt from assigned refuge blinds or markers. We allow water blind hunters to hunt from a boat immediately adjacent to their blind/marker.

(2) Upland game hunting. We allow hunting of squirrel, rabbit, bobwhite quail, raccoon, opossum, red fox, grey fox, bobcat, woodchuck, striped skunk, pheasant, partridge, and coyote on designated areas of the refuge subject to the following conditions:

(i) The conditions set forth at paragraphs (b)(1)(i) through (iii) and (v) of this section apply.

(ii) We prohibit hunters using rifles or handguns with ammunition larger than .22 caliber rimfire, except they may use black powder firearms up to and including .40 caliber.

(iii) We allow the use of .22 and .17 caliber rimfire lead ammunition for the taking of small game and furbearers during open season.

(3) Big game hunting. We allow hunting of white-tailed deer and turkey on designated areas of the refuge subject to the following conditions:

(i) The conditions set forth at paragraphs (b)(1)(i) through (iii) and (b)(2)(ii) of this section apply.

(ii) We require all deer and turkey hunters using the restricted use area to check-in at the refuge visitor center prior to hunting.

(iii) For hunting, you may possess only approved nontoxic shot shells while in the field, including shot shells used for hunting wild turkey (see § 32.2(k)).

(iv) We prohibit the use of handguns for the taking of deer in the restricted use area.

(v) We prohibit organized deer drives. We define a “deer drive” as an organized or planned effort to pursue, drive, chase, or otherwise frighten or cause deer to move in the direction of any person(s) who is part of the organized or planned hunt and known to be waiting for the deer.

(vi) We allow only deer hunting and only with archery equipment in the following areas:

(A) In the controlled waterfowl hunting area;

(B) On all refuge lands north of Illinois State Route 13; and

(C) In the area north of the Crab Orchard Lake emergency spillway and west of Crab Orchard Lake.

(4) Sport fishing. We allow sport fishing on designated areas of the refuge subject to the following conditions:

(i) On Crab Orchard Lake west of Wolf Creek Road:

(A) Anglers may fish from boats all year.

(B) Anglers must remove all trotlines/jugs from legal sunrise until legal sunset from the Friday immediately prior to Memorial Day through Labor Day.

(ii) On Crab Orchard Lake east of Wolf Creek Road:

(A) Anglers may fish from boats March 15 through September 30.

(B) Anglers may fish all year at the Wolf Creek and Route 148 causeways.

(iii) On A-41, Bluegill, Managers, Honkers, and Visitors Ponds:

(A) Anglers may fish only from legal sunrise to legal sunset from March 15 through September 30.

(B) We prohibit anglers from using boats or flotation devices.

(iv) Trotlines/jugs:

(A) We prohibit the use of trotlines/jugs on all refuge waters outside of Crab Orchard Lake.

(B) We prohibit the use of trotlines/jugs with any flotation device that has previously contained any petroleum-based material or toxic substances.

(C) Anglers must attach a buoyed device that is visible on the water's surface to all trotlines.

(v) Anglers may use all legal noncommercial fishing methods, except they may not use any underwater breathing apparatus.

(vi) Anglers may not submerge any poles or similar objects to take or locate any fish.

(vii) Organizers of all fishing events must possess a Special Use Permit (FWS Form 3-1383-G or FWS Form 3-1383-C).

(viii) We prohibit anglers from fishing within 250 yards (225 m) of an occupied waterfowl hunting blind.

(ix) Specific creel and size limits apply on various refuge waters as listed in the Crab Orchard fishing brochure and the annual Illinois fishing digest.

(c) Cypress Creek National Wildlife Refuge—(1) Migratory game bird hunting. We allow hunting of duck, goose, coot, woodcock, rail, dove, crow, and snipe on designated areas of the refuge subject to the following conditions:

(i) You must remove all boats, decoys, blinds, blind materials, stands, and platforms (see §§ 27.93 and 27.94 of this chapter) brought onto the refuge at the end of each day's hunt.

(ii) We prohibit outboard motors larger than 10 horsepower.

(iii) We allow the use of dogs while hunting, provided the dog is under the immediate control of the hunter at all times.

(2) Upland game hunting. We allow hunting of squirrel, rabbit, bobwhite quail, raccoon, opossum, red fox, gray fox, bobcat, striped skunk, woodchuck, turkey, pheasant, Hungarian partridge, and coyote on designated areas of the refuge subject to the following condition: The conditions set forth at paragraphs (c)(1)(i) and (iii) of this section apply.

(3) Big game hunting. We allow hunting of white-tailed deer and turkey on designated areas of the refuge subject to the following conditions:

(i) The conditions set forth at paragraphs (c)(1)(i) and (iii) of this section apply.

(ii) We prohibit organized deer drives. We define a “deer drive” as an organized or planned effort to pursue, drive, chase, or otherwise frighten or cause deer to move in the direction of any person(s) who is part of the organized or planned hunt and known to be waiting for the deer.

(iii) For hunting, you may use or possess only approved nontoxic shot shells while in the field, including shot shells used for hunting wild turkey (see § 32.2(k)).

(4) Sport fishing. We allow fishing on designated areas of the refuge subject to the following conditions:

(i) The condition set forth at paragraph (c)(1)(ii) of this section applies.

(ii) Anglers must remove all boats and fishing equipment (see § 27.93 of this chapter) brought onto the refuge at the end of each day's fishing activity.

(iii) We prohibit the use of trotlines, jugs, yo-yos, nets, or any commercial fishing equipment except in areas where State regulations authorize commercial tackle.

(iv) We prohibit the use of more than two poles per angler and more than two hooks or lures per pole.

(v) We prohibit possession of bass smaller than 15 inches (37.5 centimeters) in length from refuge ponds.

(vi) We prohibit possession of more than six channel catfish from refuge ponds.

(d) Emiquon National Wildlife Refuge—(1) Migratory game bird hunting. We allow hunting of migratory game birds on designated areas of the refuge subject to the following conditions:

(i) Hunters must remove boats, decoys, blinds, and blind materials brought onto the refuge at the end of each day's hunt (see §§ 27.93 and 27.94 of this chapter).

(ii) We allow access for hunting from 1 hour before legal shooting time (as governed by State regulations for the species in question) until 1 hour after legal sunset.

(2) Upland game hunting. We allow upland game hunting on designated areas of the refuge subject to the following condition: The condition set forth at paragraph (d)(1)(ii) of this section applies.

(3) Big game hunting. We allow hunting of white-tailed deer and turkey on designated areas of the refuge subject to the following conditions:

(i) The condition set forth at paragraph (d)(1)(ii) of this section applies.

(ii) For hunting, you may use or possess only approved nontoxic shot shells while in the field, including shot shells used for hunting wild turkey (see § 32.2(k)).

(4) Sport fishing. We allow sport fishing throughout the year on designated areas of the refuge subject to the following conditions:

(i) We allow fishing from legal sunrise to legal sunset.

(ii) We prohibit fishing in the waterfowl hunting area during the waterfowl hunting season.

(e) Great River National Wildlife Refuge—(1) Migratory game bird hunting. We allow hunting of waterfowl and coot on designated areas of the refuge subject to the following condition: On the Long Island Division, we allow hunting only from blinds constructed on sites posted by the Illinois Department of Natural Resources.

(2) Upland game hunting. We allow hunting of small game, furbearers, and game birds on designated areas of the refuge subject to the following conditions:

(i) We open the refuge divisions for upland game hunting from ½ hour before legal sunrise to ½ hour after legal sunset.

(ii) On the Cherry Box and Hickory Creek Units, we allow hunting with shotgun only during the Statewide upland game season.

(3) Big game hunting. We allow hunting of white-tailed deer and turkey on designated areas of the refuge subject to the following conditions:

(i) For wild turkey hunting, you may use or possess only approved nontoxic shot shells while in the field (see § 32.2(k)).

(ii) We allow only portable tree stands from September 1 through January 31 of each year. You must permanently attach your State-generated hunter identification number in a visible location on the stand. We allow only one tree stand per hunter.

(iii) On the Fox Island and Slim Island Divisions, and the Cherry Box and Hickory Creek Units, we only allow archery deer hunting.

(iv) On the Delair Division, we only allow deer hunting during special managed hunts. You must possess and carry a refuge permit (hunt letter) when hunting during special managed hunts.

(v) On the Fox Island Division, Cherry Box Unit, and Hickory Creek Unit, we allow turkey hunting during the State spring season, youth season, and fall archery season.

(4) Sport fishing. We allow fishing on designated areas of the refuge subject to the following conditions:

(i) We prohibit the taking of any mussel (clam), crayfish, frog, leech, and turtle species by any method on the refuge (see § 27.21 of this chapter).

(ii) On the Fox Island Division, we only allow bank fishing along any portion of the Fox River from January 1 through October 15.

(f) Hackmatack National Wildlife Refuge—(1) Migratory game bird hunting. We allow hunting of migratory game birds on designated areas of the refuge subject to the following condition: We allow the use of only portable or temporary blinds.

(2) Upland game hunting. We allow upland game hunting on designated areas of the refuge subject to the following condition: We allow the use of only portable or temporary blinds.

(3) Big game hunting. We allow big game hunting on designated areas of the refuge subject to the following condition: For wild turkey hunting, you may possess only approved nontoxic shot shells while in the field (see § 32.2(k)).

(4) Sport fishing. We allow sport fishing on designated areas of the refuge subject to the following condition: We prohibit the taking of turtle and frog (see § 27.21 of this chapter).

(g) Kankakee National Wildlife Refuge. (1) [Reserved]

(2) Upland game hunting. We allow hunting of wild turkey on designated areas of the refuge subject to the following condition: For hunting, you may possess only approved nontoxic shot shells while in the field (see § 32.2(k)).

(3) Big game hunting. We allow hunting of white-tailed deer on designated areas of the refuge.

(4) [Reserved]

(h) Meredosia National Wildlife Refuge. (1)-(3) [Reserved]

(4) Sport fishing. We allow sport fishing on designated areas of the refuge subject to the following conditions:

(i) We allow sport fishing on all areas open to public access from legal sunrise to legal sunset from February 1 to October 15.

(ii) We allow access to Meredosia Lake from the boat ramp and allow foot access on refuge land along the east side of the Meredosia Lake in Morgan County from legal sunrise to legal sunset throughout the year.

(i) Middle Mississippi River National Wildlife Refuge—(1) Migratory game bird hunting. We allow hunting of migratory game birds on designated areas of the refuge subject to the following condition: You must remove boats, blinds, blind materials, stands, decoys, and other hunting equipment from the refuge at the end of each day (see §§ 27.93 and 27.94 of this chapter).

(2) Upland game hunting. We allow hunting of squirrel, rabbit, and bobwhite quail on designated areas of the refuge.

(3) Big game hunting. We allow hunting of white-tailed deer and wild turkey on designated areas on the refuge subject to the following conditions:

(i) For wild turkey hunting, you may use or possess only approved nontoxic shot shells while in the field (see § 32.2(k)).

(ii) We prohibit organized deer drives. We define a “deer drive” as an organized or planned effort to pursue, drive, chase, or otherwise frighten or cause deer to move in the direction of any person(s) who is part of the organized or planned hunt and known to be waiting for the deer.

(iii) We prohibit placing temporary tree stands in dead or dying trees.

(iv) We allow only portable tree stands from September 1 through January 31 of each year. You must permanently attach your State-generated hunter identification number in a visible location on the stand. We allow only one tree stand per hunter.

(4) Sport fishing. We allow sport fishing on designated areas of the refuge subject to the following conditions:

(i) We prohibit the taking of any mussel (clam), crayfish, frog, leech, and turtle species by any method on the refuge (see § 27.21 of this chapter).

(ii) We allow fishing only from legal sunrise to legal sunset.

(iii) You must remove all fishing devices at the end of each day's fishing activity (see §§ 27.93 and 27.94 of this chapter).

(j) Port Louisa National Wildlife Refuge. Refer to § 32.34(f) for regulations.

(k) Two Rivers National Wildlife Refuge—(1) Migratory game bird hunting. We allow hunting of migratory game birds on designated areas of the refuge subject to the following condition: Hunters must remove boats, decoys, blinds, and blind materials brought onto the refuge at the end of each day's hunt (see §§ 27.93 and 27.94 of this chapter).

(2) Upland game hunting. We allow upland game hunting for wild turkey, small game, furbearers, and nonmigratory game birds on designated areas of the refuge subject to the following conditions:

(i) We allow hunting from legal sunrise to legal sunset.

(ii) We restrict turkey hunting to archery only in the fall and shotgun or archery in the spring.

(iii) For wild turkey hunting, you may use or possess only approved nontoxic shot shells while in the field (see § 32.2(k)).

(3) Big game hunting. We allow hunting of white-tailed deer on designated areas of the refuge subject to the following conditions:

(i) Hunters must remove all portable hunting stands and blinds from the refuge at the end of each day's hunt (see §§ 27.93 and 27.94 of this chapter).

(ii) We restrict white-tailed deer hunting on the Clarksville Island Division to archery only.

(4) Sport fishing. We allow fishing on designated areas of the refuge subject to the following conditions:

(i) We prohibit the taking of turtle or frog (see § 27.21 of this chapter).

(ii) We allow fishing only from legal sunrise to legal sunset.

(iii) Anglers must remove boats and all other fishing devices at the end of each day's fishing activity (see § 27.93 of this chapter).

(l) Upper Mississippi River National Wildlife and Fish Refuge. Refer to § 32.42(r) for regulations.

§ 32.33 Indiana.

The following refuge units are open for hunting and/or fishing as governed by applicable Federal and State regulations, and are listed in alphabetical order with additional refuge-specific regulations.

(a) Big Oaks National Wildlife Refuge. (1) [Reserved]

(2) Upland game hunting. We allow hunting of squirrel on designated areas of the refuge subject to the following conditions:

(i) We require a signed acknowledgment of danger agreement and a refuge hunt permit.

(ii) Hunters must possess a valid daily gate pass at all times.

(iii) We allow the use of dogs for hunting only during the squirrel hunting season in the day use area, provided the dog is under the immediate control of the hunter at all times. You must ensure that all hunting dogs wear a collar displaying the owner's contact information.

(iv) You must hunt only in assigned areas. We prohibit trespass into an unassigned hunt area.

(v) We require that all hunters check all harvested game taken on the refuge at the refuge check station.

(vi) We require all refuge hunters to hunt with a partner. We require hunting partners to know the location of their partner while hunting. An adult, age 18 or older, must directly supervise youth hunters age 17 and younger.

(vii) Hunters must possess and carry a compass while hunting on the refuge.

(3) Big game hunting. We allow hunting of white-tailed deer and turkey on designated areas of the refuge subject to the following conditions:

(i) The conditions set forth at paragraphs (a)(2)(i), (ii), and (iv) through (vii) of this section apply.

(ii) You may possess only approved nontoxic shot while in the field (see § 32.2(k)).

(iii) We allow the use of portable hunting stands and blinds.

(4) Sport fishing. We allow fishing on the Old Timbers Lake subject to the following conditions:

(i) We require a signed acknowledgment of danger agreement and a refuge access permit.

(ii) Anglers must possess a valid daily gate pass at all times.

(iii) We allow fishing only with a rod and reel or pole and line.

(iv) We prohibit the use of trotlines.

(v) We prohibit retaining black bass, largemouth bass, smallmouth bass, and spotted bass between 12 and 15 inches (30 and 37.5 centimeters).

(b) Muscatatuck National Wildlife Refuge. (1) [Reserved]

(2) Upland game hunting. We allow hunting of quail, squirrel, and rabbit on designated areas of the refuge subject to the following conditions:

(i) We prohibit hunting and the discharge of a firearm within 100 yards (30 meters) of any dwelling or any other building that people, pets, or livestock may occupy.

(ii) We allow the use of dogs for hunting rabbit, quail, and squirrel, provided the dog is under the immediate control of the hunter at all times.

(iii) We allow only shotguns for upland game hunting.

(iv) We require hunters to sign and carry the current hunting brochure while hunting.

(3) Big game hunting. We allow hunting of white-tailed deer and turkey on designated areas of the refuge subject to the following conditions:

(i) The conditions set forth at paragraphs (b)(2)(i) and (iv) of this section apply.

(ii) For wild turkey hunting, you may use or possess only approved nontoxic shot shells while in the field (see § 32.2(k)).

(iii) We prohibit firearms deer hunting during the State firearms season.

(iv) You may take only two deer per day from the refuge, only one of which may be an antlered buck.

(v) We allow only spring turkey hunting on the refuge, and hunters must possess a State-issued hunting permit during the first 6 days of the season.

(vi) We close archery deer hunting during the State muzzleloader season.

(vii) Turkey hunting ends at 1 p.m. each day.

(viii) We prohibit the possession of game trail cameras on the refuge.

(ix) We require you to remove arrows from crossbows during transport in a vehicle.

(4) Sport fishing. We allow fishing on designated areas of the refuge subject to the following conditions:

(i) We allow the use of belly boats or float tubes in all designated fishing areas.

(ii) We allow fishing only with rod and reel or pole and line.

(iii) We prohibit harvest of frog and turtle (see § 27.21 of this chapter).

(iv) We prohibit the use of lead fishing tackle.

(v) We allow only youth age 15 and younger to fish in the Discovery Pond.

(c) Patoka River National Wildlife Refuge and Management Area—(1) Migratory game bird hunting. We allow hunting of migratory game birds on designated areas of the refuge and the White River Wildlife Management Area subject to the following conditions:

(i) You must remove all boats, decoys, blinds, and blind materials after each day's hunt (see §§ 27.93 and 27.94 of this chapter).

(ii) We prohibit hunting and the discharge of a weapon within 150 yards (137 meters) of any dwelling or any building that may be occupied by people, pets, or livestock.

(2) Upland game hunting. We allow hunting of bobwhite quail, cottontail rabbit, squirrel (gray and fox), red and gray fox, coyote, opossum, and raccoon subject to the following conditions:

(i) We allow the use of dogs for hunting, provided the dog is under the immediate control of the hunter at all times.

(ii) The conditions set forth at paragraphs (c)(1)(i) and (ii) of this section apply.

(3) Big game hunting. We allow hunting of white-tailed deer and wild turkey on designated areas of the refuge subject to the following conditions:

(i) You may possess only approved nontoxic shells when hunting wild turkey (see § 32.2(k)).

(ii) On the Columbia Mine Unit, you may only hunt white-tailed deer during the first week (7 days) of the following seasons, as governed by the State: Archery, firearms, and muzzleloader.

(iii) On the Columbia Mine Unit, you may leave portable tree stands overnight only when the unit is open to hunting and for a 2-day grace period before and after the special season.

(iv) The conditions set forth at paragraphs (c)(1)(i) and (ii) of this section apply.

(4) Sport fishing. We allow sport fishing on designated areas of the refuge subject to the following conditions:

(i) We allow fishing from legal sunrise to legal sunset.

(ii) We allow fishing only with rod and reel, pole and line, bow and arrow, or crossbow.

(iii) The minimum size limit for largemouth bass on Snakey Point Marsh and on the Columbia Mine Unit is 14 inches (35.6 centimeters).

(iv) We prohibit the taking of any turtle, frog, leech, minnow, crayfish, and mussel (clam) species by any method on the refuge (see § 27.21 of this chapter).

(v) You must remove boats at the end of each day's fishing activity (see § 27.93 of this chapter).

§ 32.34 Iowa.

The following refuge units are open for hunting and/or fishing as governed by applicable Federal and State regulations, and are listed in alphabetical order with additional refuge-specific regulations.

(a) De Soto National Wildlife Refuge. (1) [Reserved]

(2) Upland game hunting. We allow youth hunting of ring-necked pheasant on designated areas of the refuge subject to the following condition: The refuge will annually determine hunting seasons, dates, and designated areas, and publish them in the refuge brochure.

(3) Big game hunting. We allow hunting of white-tailed deer and wild turkey on designated areas of the refuge subject to the following conditions:

(i) The refuge manager will annually determine and publish hunting seasons and dates, and will include them in the refuge access permit (signed brochure).

(ii) You must possess and carry a refuge access permit (signed brochure) at all times while in the hunting area. Hunters may enter the hunting areas only within the dates listed on the refuge access permit (signed brochure).

(iii) Hunters with a valid Iowa or Nebraska resident hunting permit may access all areas open to hunting. Reciprocity exists, with both States allowing hunters with either resident permit to access refuge hunting land in either State.

(iv) Hunters holding nonresident Nebraska or nonresident Iowa permits may hunt only on the ground that lies within the State that issued the nonresident permit.

(v) We allow hunters in the designated area from 2 hours before legal sunrise until 2 hours after legal sunset.

(vi) We prohibit the use of a crossbow as archery equipment unless the hunter has obtained a State-issued disability crossbow permit.

(vii) All hunters must be in possession of a valid entrance fee permit.

(viii) Hunters must remove hunting blinds or stands and other property by the close of the season (see §§ 27.93 and 27.94 of this chapter).

(ix) We prohibit shooting on or over any refuge road open to vehicle traffic within 30 feet (9 meters (m)) of the centerline.

(x) We prohibit field dressing of any big game within 100 feet (30 m) of the centerline of any refuge road.

(xi) We prohibit organized drives. We define a “drive” as an organized or planned effort to pursue, drive, chase, or otherwise frighten or cause game to move in the direction of any person(s) who is part of the organized or planned hunt and known to be waiting for the game.

(xii) We allow two portable tree stands/blinds per hunter within the hunt area. Of those, only one stand/blind can be left on the refuge from 1 week prior to the start of the designated hunt season to 1 week after the end of the designated hunt season.

(xiii) Unattended stands and blinds must be plainly labeled with the full name and/or hunting license number of the owner. Labels must be visible from ground level.

(4) Sport fishing. We allow sport fishing on designated areas of the refuge subject to the following conditions:

(i) We allow ice fishing in DeSoto Lake from January 2 through the end of February.

(ii) We allow the use of pole and line or rod and reel fishing in DeSoto Lake from April 15 through October 14.

(iii) We allow the use of archery and spear fishing for nongame fish only from April 15 through October 14.

(iv) When the lake is open to ice fishing, we prohibit motor- or wind-driven conveyances on the lake.

(v) We allow the use of portable ice fishing shelters on a daily basis from January 2 through the end of February.

(vi) Anglers may use no more than two lines and two hooks per line, including ice fishing.

(vii) We prohibit the use of trotlines, float lines, bank lines, or setlines.

(viii) Anglers must adhere to minimum length and creel limits as posted.

(ix) We prohibit anglers leaving any personal property, litter, fish, or fish parts on the banks, in the water, or on the ice (see §§ 27.93 and 27.94 of this chapter).

(x) We prohibit digging or seining for bait.

(xi) We prohibit take or possession of turtle or frog at any time (see §§ 27.21 of this chapter).

(xii) We allow anglers on the refuge from ½ hour before legal sunrise to ½ hour after legal sunset.

(b) Driftless Area National Wildlife Refuge. (1) [Reserved]

(2) Upland game hunting. We allow hunting of upland game on designated areas of the refuge subject to the following condition: In areas open to hunting, we allow hunting beginning November 1 until the close of State hunting seasons or January 15, whichever occurs first.

(3) Big game hunting. We allow hunting of white-tailed deer on designated areas of the refuge subject to the following conditions:

(i) In areas open to hunting, we allow hunting beginning November 1 until the close of State hunting seasons or January 15, whichever occurs first.

(ii) We allow only archery and muzzleloader hunting.

(iii) We allow deer drives only during lawful party hunting conducted within the refuge, as governed by State regulations. We prohibit driving deer from or through the refuge to any persons hunting outside the refuge boundary.

(4) Sport fishing. We allow sport fishing on designated areas of the refuge.

(c) Iowa Wetland Management District—(1) Migratory game bird hunting. We allow hunting of migratory game birds throughout the district subject to the following conditions:

(i) We prohibit leaving boats, decoys, or other personal property unattended at any time. You must remove all personal property, which includes boats, decoys, and blinds, brought onto the district at the end of each day (see §§ 27.93 and 27.94 of this chapter).

(ii) We allow the use of dogs while hunting, provided the dog is under the immediate control of the hunter at all times.

(2) Upland game hunting. We allow upland game hunting throughout the district subject to the following condition: The conditions set forth at paragraphs (c)(1)(i) and (ii) of this section apply.

(3) Big game hunting. We allow big game hunting throughout the district and subject to the following conditions:

(i) For wild turkey hunting, you may possess only approved nontoxic shot shells while in the field (see § 32.2(k)).

(ii) You may leave tree stands in an area for a continuous period of time beginning 7 days prior to the open season for hunting deer and ending 7 days after the final day of that season. You must clearly mark the stand with your Iowa hunting license number.

(4) Sport fishing. We allow sport fishing throughout the district subject to the following conditions:

(i) The condition set forth at paragraph (c)(1)(i) of this section applies.

(ii) You must remove all ice fishing shelters and other personal property at the end of each day's fishing (see § 27.93 of this chapter).

(d) Neal Smith National Wildlife Refuge—(1) Migratory game bird hunting. We allow the hunting of duck, goose, and coot on designated areas of the refuge subject to the following conditions:

(i) We prohibit all hunting February 1 through August 31 due to conflicts with existing appropriate and compatible uses.

(ii) We allow entry into the refuge 1 hour before legal sunrise and require hunters to leave the refuge no later than 1 hour after legal sunset.

(iii) We prohibit shooting on or over any refuge road within 50 feet (15 meters) from the centerline.

(iv) You must possess and carry a refuge permit (free brochure available at the refuge visitor center).

(v) We allow the use of dogs while hunting, provided the dog is under the immediate control of the hunter at all times.

(2) Upland game hunting. We allow hunting of ring-necked pheasant, bobwhite quail, pigeon, mourning dove, crow, cottontail rabbit, gray and fox squirrel, and fall wild turkey on designated areas of the subject to the following conditions:

(i) The conditions set forth at paragraphs (d)(1)(i) through (v) of this section apply.

(ii) You may only possess approved nontoxic shot (see § 32.2(k)) when turkey hunting.

(3) Big game hunting. We allow hunting of white-tailed deer on designated areas of the refuge and subject to the following conditions:

(i) The conditions set forth at paragraphs (d)(1)(i) through (iv) of this section apply.

(ii) We allow the use of portable stands and blinds for hunting, and hunters must remove them at the end of each day (see § 27.93 of this chapter).

(4) [Reserved]

(e) Northern Tallgrass Prairie National Wildlife Refuge—(1) Migratory game bird hunting. We allow hunting of duck, goose, merganser, coot, rail (Virginia and sora only), woodcock, snipe, and dove (mourning and Eurasian collared) on designated areas subject to the following conditions:

(i) For units adjacent to and managed by Neal Smith National Wildlife Refuge, you must follow the refuge-specific regulations provided in this paragraph (e).

(ii) Hunters must remove boats, decoys, portable or temporary blinds, materials brought onto the refuge, and other personal property at the end of each day's hunt (see §§ 27.93 and 27.94 of this chapter). Hunters must dismantle hunting blinds, platforms, and ladders made from natural vegetation at the end of each day.

(iii) We allow the use of dogs when hunting, except when hunting furbearers, provided the dog is under the immediate control of the hunter at all times.

(2) Upland game hunting. We allow hunting of wild turkey, ring-necked pheasant, bobwhite quail, gray partridge, cottontail rabbit, squirrel (fox and gray), groundhog, raccoon, opossum, fox (red and gray), coyote, badger, striped skunk, and crow on designated areas subject to the following conditions:

(i) Shotgun hunters may possess only approved nontoxic shot when hunting turkey (see § 32.2(k)).

(ii) The conditions set forth at paragraphs (e)(1)(i) through (iii) of this section apply.

(3) Big game hunting. We allow the hunting of deer on designated areas of the refuge subject to the following conditions:

(i) We allow the use of temporary stands, blinds, platforms, or ladders.

(ii) The conditions set forth at paragraphs (e)(1)(i) and (ii) of this section apply.

(iii) We prohibit shooting on, from, over, across, or within 30 feet (9 meters) of a roadway open to public vehicle transportation at a big game animal or a decoy of a big game animal.

(iii) For all counties with the exception of Jasper, you may leave tree stands in an area for a continuous period of time beginning 7 days prior to the open season for hunting deer and ending 7 days after the final day of that season. You must clearly mark the stand with your Iowa hunting license number.

(4) Sport fishing. We allow sport fishing on designated areas of the refuge subject to the following conditions:

(i) The condition set forth at paragraph (e)(1)(ii) of this section applies.

(ii) We prohibit the taking of any turtle, frog, leech, minnow, crayfish, and mussel (clam) species by any method on the refuge (see § 27.21 of this chapter).

(f) Port Louisa National Wildlife Refuge—(1) Migratory game bird hunting. We allow hunting of migratory game birds on designated areas of the refuge subject to the following condition: You must remove boats, decoys, and portable blinds at the end of each day (see § 27.93 of this chapter).

(2) Upland game hunting. We allow hunting of upland game on designated areas of the refuge subject to the following conditions:

(i) For wild turkey hunting, you may use or possess only approved nontoxic shot shells (see § 32.2(k)). We allow shotgun slug or muzzleloading rifle for hunting coyotes.

(ii) We allow only squirrel hunting on the Keithsburg Division from the beginning of the State season through September 15.

(iii) We allow hunting on the Horseshoe Bend Division from September 1 through September 15, and from December 1 through February 28. We allow spring turkey hunting.

(iv) We allow hunting on the Big Timber Division from September 1 through February 28. We allow spring turkey hunting.

(3) Big game hunting. We allow hunting of white-tailed deer on designated areas of the refuge subject to the following condition: We allow the use of only portable stands, and you must remove them at the end of each day (see § 27.93 of this chapter).

(4) Sport fishing. We allow sport fishing on designated areas of the refuge subject to the following conditions:

(i) We prohibit the taking of turtle or frog (see § 27.21 of this chapter).

(ii) We allow fishing only from legal sunrise to legal sunset.

(iii) Anglers must remove boats and all other fishing devices at the end of each day's fishing activity (see § 27.93 of this chapter).

(g) Union Slough National Wildlife Refuge—(1) Migratory game bird hunting. We allow hunting of duck, goose, coot, rail (Virginia and sora only), woodcock, and snipe on designated areas of the refuge subject to the following conditions:

(i) We allow hunters on the refuge from 1 hour before legal sunrise until 1 hour after legal sunset.

(ii) We allow boats or other floating devices. We allow electric motors only. We prohibit the use of gasoline motors. You may not leave boats unattended.

(iii) We allow the use of dogs while hunting, provided the dog is under the immediate control of the hunter at all times.

(iv) We prohibit entry into any closed area to retrieve downed game, unless the hunter has received written permission from the refuge manager.

(v) We prohibit hunting on road rights-of-way on any portion of the refuge not open to hunting. The road right-of-way extends to the center of the road.

(2) Upland game hunting. We allow hunting of pheasant, gray partridge, cottontail rabbit, squirrel (fox and gray), groundhog, raccoon, opossum, fox, coyote, and crow on designated areas of the refuge subject to the following conditions:

(i) We prohibit possession of shotgun slugs.

(ii) The conditions set forth at paragraphs (g)(1)(i), (iv), and (v) of this section apply.

(3) Big game hunting. We allow hunting of deer and turkey on designated areas of the refuge subject to the following conditions:

(i) The conditions set forth at paragraphs (g)(1)(i), (iv), and (v) of this section apply.

(ii) We allow portable tree stands, portable blinds, and freestanding elevated platforms to be left on the refuge from 7 days prior to the first deer hunting season; you must remove them prior to 7 days following the last deer hunting season (see § 27.93 of this chapter). Turkey hunters must remove blinds and stands each day (see § 27.93 of this chapter).

(iii) You must label portable tree stands, portable blinds, and freestanding elevated platforms that are left unattended with your hunting license number. The label must be legible from the ground.

(iv) You must remove any other personal property brought onto the refuge at the end of each day (see §§ 27.93 and 27.94 of this chapter).

(v) We allow deer hunters on the refuge from 1 hour before legal sunrise until 2 hours after legal sunset.

(vi) Deer hunters may possess only shot shells that shoot a single projectile (i.e., slugs).

(vii) For wild turkey hunting, you may use or possess only approved nontoxic shot shells while in the field (see § 32.2(k)).

(4) Sport fishing. We allow sport fishing on designated areas of the refuge subject to the following conditions:

(i) We allow fishing from legal sunrise to legal sunset.

(ii) We allow fishing from boats on the Buffalo Creek Bottoms; however, we prohibit the use of gasoline motors.

(iii) We prohibit the use or possession of lead terminal tackle.

(h) Upper Mississippi River National Wildlife and Fish Refuge. Refer to § 32.42(r) for regulations.

§ 32.35 Kansas.

The following refuge units are open for hunting and/or fishing as governed by applicable Federal and State regulations, and are listed in alphabetical order with additional refuge-specific regulations.

(a) Flint Hills National Wildlife Refuge—(1) Migratory game bird hunting. We allow hunting of goose, duck, coot, dove, rail, woodcock, crow, and common snipe on designated areas of the refuge subject to the following conditions:

(i) You must possess and carry a signed refuge hunt permit (signed brochure) when hunting.

(ii) We prohibit shooting from or over roads and parking areas.

(iii) You may leave temporary blinds (other than portable blinds) constructed of natural vegetation found on site overnight (see § 27.93 of this chapter).

(iv) We allow crow hunting on designated areas of the refuge subject to the following conditions:

(A) We prohibit the use of centerfire rifles and pistols for hunting on the refuge.

(B) We close hunting areas on the north side of the Neosho River to all hunting from November 1 through March 1.

(2) Upland game hunting. We allow hunting of pheasant, quail, prairie chicken, rabbit, and squirrel on designated areas of the refuge subject to the following condition: The conditions set forth at paragraphs (a)(1)(i) and (a)(1)(iv)(A) and (B) of this section apply.

(3) Big game hunting. We allow hunting of white-tailed deer and turkey on designated areas of the refuge subject to the following conditions:

(i) We only allow shotguns, muzzleloading firearms (see § 27.42 of this chapter), and archery equipment for deer hunting.

(ii) We do not open for deer hunting during the extended white-tailed deer antlerless season in January.

(iii) We require the use of approved nontoxic shot for turkey hunting (see § 32.2(k)).

(iv) The conditions set forth at paragraphs (a)(1)(i) and (a)(1)(iv)(A) of this section apply.

(4) Sport fishing. We allow sport fishing on designated areas of the refuge subject to the following conditions:

(i) We close areas on the north side of the Neosho River to all fishing from November 1 through March 1, except for the Dove Roost Pond and the Upper Burgess Marsh.

(ii) We prohibit the take of reptiles and amphibians (see § 27.21 of this chapter).

(b) Kirwin National Wildlife Refuge—(1) Migratory game bird hunting. We allow hunting of goose, duck, merganser, coot, mourning dove, and snipe on designated areas of the refuge subject to the following conditions:

(i) You may use natural vegetation to construct a temporary blind.

(ii) You may use portable hunting blinds.

(iii) In Bow Creek, we allow waterfowl hunting only by boat. You may not create a wake while in Bow Creek.

(2) Upland game hunting. We allow hunting of pheasant, quail, prairie chicken, fox squirrel, cottontail rabbit, and turkey on designated areas of the refuge subject to the following conditions:

(i) You may only possess bow and arrow or shotguns no larger than 10 gauge on the refuge.

(ii) During pheasant season, we allow hunting of only pheasant, fox squirrel, and cottontail rabbit.

(3) Big game hunting. We allow hunting of deer and turkey on designated areas of the refuge subject to the following conditions:

(i) We only allow archery hunting of deer.

(ii) You must obtain a refuge-issued permit (FWS Form 3-2405, Self-Clearing Check-in/out Permit) to hunt deer on the refuge.

(iii) You may use natural vegetation to construct a temporary blind.

(iv) We prohibit retrieving deer or turkey from an area closed to deer or turkey hunting.

(4) Sport fishing. We allow sport fishing on designated areas on the refuge subject to the following conditions:

(i) We allow access to Kirwin Reservoir by foot for bank or ice fishing.

(ii) We allow noncommercial collection of bait fish as governed by State regulations.

(iii) We prohibit fishing tournaments on the refuge.

(c) Marais des Cygnes National Wildlife Refuge—(1) Migratory game bird hunting. We allow hunting of goose, duck, coot, rail, snipe, woodcock, and mourning dove on designated areas of the refuge subject to the following conditions:

(i) You must possess and carry a signed refuge hunt permit (signed brochure) when hunting.

(ii) We prohibit discharge of firearms within 150 yards (135 meters) of any residence or occupied building.

(iii) We allow only temporary portable blinds and blinds made from natural vegetation.

(2) Upland game hunting. We allow hunting of cottontail rabbit, squirrel, and upland birds on designated areas of the refuge subject to the following conditions:

(i) The conditions set forth at paragraphs (c)(1)(i) and (ii) of this section apply.

(ii) We prohibit centerfire and rimfire rifles and pistols.

(iii) You may possess only bow and arrow or shotguns smaller than 10 gauge while hunting upland game.

(3) Big game hunting. We allow hunting of white-tailed deer and turkey on designated areas of the refuge subject to the following conditions:

(i) The conditions set forth at paragraphs (c)(1)(i), (ii), and (iii) and (c)(2)(ii) of this section apply.

(ii) You must possess and carry a refuge access permit to hunt deer and spring turkey.

(iii) You may possess only approved nontoxic shot for turkey hunting (see § 32.2(k)).

(4) Sport fishing. We allow sport fishing on designated areas of the refuge.

(d) Quivira National Wildlife Refuge—(1) Migratory game bird hunting. We allow hunting of goose, duck, coot, Virginia and Sora rail, mourning dove, and snipe on designated areas of the refuge subject to the following conditions:

(i) We open refuge hunting areas from September 1 through February 28.

(ii) The refuge is open from 1½ hours before legal sunrise to 1½ hours after legal sunset. Hunters must remove all decoys within 1 hour following the end of legal shooting time (legal sunset).

(iii) We prohibit the retrieval of game from areas closed to hunting.

(2) Upland game hunting. We allow hunting of pheasant, quail, squirrel, and rabbit on designated areas of the refuge subject to the following conditions:

(i) The conditions set forth at paragraphs (d)(1)(i) and (ii) of this section apply.

(ii) We only allow shotguns for hunting on the refuge.

(3) [Reserved]

(4) Sport fishing. We allow sport fishing on all waters on the refuge subject to the following conditions:

(i) We prohibit taking of frog, snake, or any other wildlife (see § 27.21 of this chapter).

(ii) We prohibit the use of trotlines and setlines.

(iii) We prohibit the use of seines for taking bait.

(iv) We prohibit fishing from water control structures and bridges.

(v) We restrict fishing in the designated “Kid's Pond,” approximately ¼ mile (.4 kilometers) west-southwest of headquarters, to youth age 14 and younger, and to a parent and/or guardian age 18 or older accompanying a youth.

(vi) The bag limit for the Kid's Pond is one fish per day.

(vii) The condition set forth at paragraph (d)(1)(ii) of this section applies.

§ 32.36 Kentucky.

The following refuge units are open for hunting and/or fishing as governed by applicable Federal and State regulations, and are listed in alphabetical order with additional refuge-specific regulations.

(a) Clarks River National Wildlife Refuge—(1) Migratory game bird hunting. We allow hunting of mourning dove, woodcock, common snipe, Canada and snow goose, coot, crow, and waterfowl listed at 50 CFR 10.13(c)(1) under DUCK on designated areas of the refuge subject to the following conditions:

(i) Except for raccoon, opossum, and bullfrog hunting, access to the refuge is from 2 hours before legal sunrise to 2 hours after legal sunset.

(ii) You must possess and carry a signed refuge hunting/fishing permit (signed brochure) while hunting and/or fishing on the refuge.

(iii) We prohibit discharge of firearms on or within 200 feet (90 meters) of any home, the abandoned railroad tracks, graveled roads, and hiking trails.

(iv) We allow trail cameras. Trail cameras must have the owner's State hunting license number clearly displayed or we may confiscate them.

(v) An adult age 21 or older must supervise all youth hunters age 15 and younger. Youth hunters must remain in sight of and normal voice contact with the adult. On small game hunts, the adult may supervise no more than two youths; on big game hunts, the adult may supervise no more than one youth.

(vi) All persons born after January 1, 1975, must possess a valid hunter education card while hunting.

(vii) We allow the use of dogs for waterfowl, small game, and fall turkey hunting. Dog owners/handlers must have a collar on each dog with the owner's contact information.

(viii) We allow waterfowl hunting from legal shooting time until 12 p.m. (noon).

(2) Upland game hunting. We allow hunting of squirrel, rabbit, quail, raccoon, opossum, and coyote on designated areas of the refuge subject to the following condition: The conditions set forth at paragraphs (a)(1)(i) through (vii) of this section apply.

(3) Big game hunting. We allow hunting of white-tailed deer and turkey on designated areas of the refuge subject to the following conditions:

(i) The conditions set forth at paragraphs (a)(1)(i) through (vii) of this section apply.

(ii) We close squirrel, rabbit, crow, woodcock, snipe, dove, and quail seasons during muzzleloader and modern gun deer hunts.

(iii) We allow the use of only portable and climbing stands. You may place stands in the field no earlier than 2 weeks prior to the opening of deer season, and you must remove them from the field within 1 week after the season closes (see §§ 27.93 and 27.94 of this chapter). The hunter's State hunting license number must appear on all stands left in the field.

(iv) You must use safety belts at all times when occupying the tree stands.

(v) We prohibit organized deer drives. We define a “deer drive” as an organized or planned effort to pursue, drive, chase, or otherwise frighten or cause deer to move in the direction of any person(s) who is part of the organized or planned hunt and known to be waiting for the deer.

(vi) Ground blinds used for the purpose of hunting any species during the deer modern gun, muzzleloader, and youth firearms seasons must display 1 square foot (144 square inches) of solid, unbroken, hunter orange visible from all sides. You must remove ground blinds when not in use.

(4) Sport fishing. We allow fishing and frogging on designated areas of the refuge subject to the following conditions:

(i) The conditions set forth at paragraphs (a)(1)(i) and (ii) of this section apply.

(ii) The following conditions apply to the Environmental Education and Recreation Area (EERA):

(A) The EERA is a day-use area only.

(B) We only allow one rod and reel or pole and line for fishing per person.

(C) We prohibit the use of live fish for bait.

(D) We allow the taking of largemouth bass, channel catfish, and bluegill in accordance with posted limits.

(E) We prohibit the hunting or harvesting of frog.

(b) Ohio River Islands National Wildlife Refuge. Refer to § 32.67(b) for regulations.

(c) Reelfoot National Wildlife Refuge. Refer to § 32.61(f) for regulations.

§ 32.37 Louisiana.

The following refuge units are open for hunting and/or fishing as governed by applicable Federal and State regulations, and are listed in alphabetical order with additional refuge-specific regulations.

(a) Atchafalaya National Wildlife Refuge—(1) Migratory game bird hunting. We allow hunting of migratory game birds on designated areas of the refuge subject to the following conditions:

(i) You may hunt only as governed by State-issued Sherburne Wildlife Management Area regulations.

(ii) Feral hogs are incidental take species. You may take feral hog during any open hunting season, only with the weapon allowed for that season, and only if you are a hunter with proper licenses and State permits for that season. There is no bag limit on feral hog.

(2) Upland game hunting. We allow hunting of upland game on designated areas of the refuge subject to the following condition: The conditions set forth at paragraphs (a)(1)(i) and (ii) of this section apply.

(3) Big game hunting. We allow hunting of feral hog, white-tailed deer, and turkey on designated areas of the refuge subject to the following condition: The conditions set forth at paragraphs (a)(1)(i) and (ii) of this section apply.

(4) Sport fishing. We allow recreational finfishing and shellfishing year-round as governed by Sherburne Wildlife Management Area regulations.

(b) Bayou Cocodrie National Wildlife Refuge—(1) Migratory game bird hunting. We allow hunting of duck, goose, coot, and woodcock on designated areas of the refuge subject to the following conditions:

(i) We require that all hunters and anglers age 16 and older purchase an annual public use permit (electronic form). You must sign the permit, certifying that you understand and will comply with all regulations. You must carry this permit at all times while on the refuge.

(ii) We allow migratory game bird hunting on Wednesdays, Saturdays, and Sundays until 12 p.m. (noon) during the State season. We do not open for the special teal season or the State youth waterfowl hunt.

(iii) We prohibit hunting within 150 feet (45 meters) of the maintained rights-of-way of roads, refuge roads or designated trails, buildings, residences, or designated public facilities.

(iv) You must remove harvested waterfowl, temporary blinds, and decoys used for duck hunting by 1 p.m. each day (see § 27.93 of this chapter).

(v) We allow the use of dogs to locate, point, and retrieve.

(vi) We prohibit any person or group to act as a hunting guide, outfitter, or in any other capacity that any other individual(s) pays or promises to pay directly or indirectly for services rendered to any other person or persons hunting on the refuge, regardless of whether the payment is for guiding, outfitting, lodging, or club membership.

(vii) We prohibit use or possession of any type of trail-marking material.

(viii) We allow the incidental take of raccoon, feral hog, beaver, nutria, and coyote when hunting migratory birds, upland game, or big game species with firearms and archery equipment authorized for use.

(ix) We allow all-terrain vehicles (ATVs) and utility vehicles as governed by State Wildlife Management Area (WMA) regulations and size specifications on designated trails (see § 27.31 of this chapter) from scouting season until February 28.

(x) You may enter the refuge no earlier than 4 a.m. and must exit the refuge by 2 hours after legal sunset, except that raccoon and opossum hunters during the month of February may use the refuge at night.

(2) Upland game hunting. We allow hunting of squirrel and rabbit on designated areas of the refuge subject to the following conditions:

(i) Hunters may only hunt upland game during designated refuge seasons.

(ii) The conditions set forth at paragraphs (b)(1)(i), (iii), and (vi) through (x) of this section apply.

(iii) We allow the use of dogs to hunt squirrel and rabbit during that portion of the season designated as small game with dogs.

(iv) While engaged in upland game hunting, we prohibit possession of hunting firearms (see § 27.42 of this chapter) larger than .22 caliber rimfire, shotgun slugs, or buckshot.

(3) Big game hunting. We allow hunting of white-tailed deer on designated areas of the refuge subject to the following conditions:

(i) The conditions set forth at paragraphs (b)(1)(i), (iii), and (vi) through (x) of this section apply.

(ii) The bag limit is one deer per day. The State tagging regulations apply.

(iii) You may possess only approved nontoxic shot while hunting deer on the refuge (see § 32.2(k)). The requirement in this paragraph (b)(3)(iii) only applies to the use of shotgun ammunition.

(iv) You must wear a minimum of 500 square inches (3,226 square centimeters) of unbroken hunter orange as the outermost layer of clothing on the chest and back, and a hat or cap of unbroken hunter orange. You must wear the solid-hunter-orange items while in the field.

(v) You may place stands up to 2 days prior to established hunting season dates. You must remove stands by 2 days after the hunting season closes (see § 27.93 of this chapter). You must mark your State license number on your stand. You are allowed one portable stand or blind on the refuge.

(vi) You must check all deer taken on the refuge before leaving the refuge at one of the self-clearing check stations indicated on the map in the refuge hunting and fishing regulations brochure.

(4) Sport fishing. We allow sport fishing on designated areas of the refuge subject to the following conditions:

(i) The condition set forth at paragraph (b)(1)(x) of this section applies.

(ii) We prohibit the taking of alligator snapping turtle (see § 27.21 of this chapter).

(iii) We allow fishing only during daylight hours.

(iv) The refuge boat ramp is open for daylight use only, except during specified hunting seasons when the ramp is open from 4 a.m. until 2 hours after legal sunset.

(v) We prohibit wire traps, slat traps, wire nets, hoop nets, trotlines, yo-yos, and jug lines on the refuge.

(c) Bayou Sauvage National Wildlife Refuge—(1) Migratory game bird hunting. We allow hunting of duck, goose, and coot on designated areas of the refuge subject to the following conditions:

(i) We allow only youth to hunt waterfowl and coot. An adult age 21 or older must supervise youth hunters during hunts. Youth hunter age and hunter education requirements are governed by State regulations. The youth must be capable of and must actively participate in such hunt by the possession and/or firing of a legal weapon during such hunt for the express purpose of harvesting game.

(ii) Each adult may supervise no more than two youths, and no more than one adult may supervise each youth during the course of any hunt. Youth must remain within normal voice contact of the adult who is supervising them. Adults accompanying youth on refuge hunts may participate by hunting but may not harvest more than their own daily bag limit. Youth must harvest their own bag limits.

(iii) We allow waterfowl hunting on Wednesdays, Thursdays, Saturdays, and Sundays from 30 minutes before legal sunrise until 12 p.m. (noon). We will close the refuge to waterfowl and coot hunting during any segment of goose season that extends beyond the regular duck season.

(iv) Hunters may not enter the refuge prior to 4 a.m. on the day of the hunt and must exit the refuge with all equipment and materials (see § 27.93 of this chapter) no later than 1 p.m.

(v) Hunters must possess and carry a valid refuge hunt permit (signed brochure).

(vi) When hunting migratory game birds, you may only use dogs to locate, point, and retrieve game.

(vii) We prohibit hunting within 500 feet (150 meters (m)) of any residence or structure adjacent to the refuge, and we prohibit hunting within 200 feet (60 m) of any road, railroad, levee, water control structure, designated public use trail, designated parking area, or other designated public use facility.

(viii) Hunters may use air-cooled propulsion engines to traverse the refuge through the Intracoastal Waterway and the Irish Bayou Straight Canal.

(2)-(3) [Reserved]

(4) Sport fishing. We allow finfishing and shellfishing on designated areas of the refuge subject to the following conditions:

(i) We allow sport fishing and shellfishing year-round on designated areas of the refuge and only after 12 p.m. on portions of the refuge outside of the Hurricane Protection Levee from November 1 through January 31 and during the State teal season. We close the remainder of the refuge from November 1 through January 31.

(ii) We only allow sport fishing with hand-held rod and reel or hand-held rod and line. You may take bait shrimp with cast nets 8 feet (2.4 m) in diameter or less. You may take crawfish (up to 100 pounds (45 kilograms) per person) with wire nets up to 20 inches (50 centimeters) in diameter. We allow recreational crabbing with a limit of 12 dozen per person. You must attend all fishing, crabbing, and crawfishing equipment at all times.

(iii) We prohibit the use of trotlines, limblines, slat traps, gar sets, nets, and alligator lines on the refuge.

(iv) The condition set forth at paragraph (c)(1)(viii) of this section applies.

(d) Bayou Teche National Wildlife Refuge—(1) Migratory game bird hunting. We allow hunting of migratory game birds and waterfowl on designated areas of the refuge subject to the following conditions:

(i) All hunters must possess and carry a signed hunt permit (signed brochure) while hunting on the refuge.

(ii) We prohibit hunting or discharge of firearm (see § 27.42 of this chapter) within 150 feet (45 meters (m)) of any residence or structure adjacent to the refuge, from the centerline of any road, railroad, designated public use maintained trail, designated parking area, or other designated public use facility.

(iii) An adult age 18 or older must supervise youth hunters during all hunts. Youth hunter age and hunter education requirements are governed by State regulations. One adult may supervise two youths during small game and migratory game bird hunts but may supervise only one youth during big game hunts. Youth(s) must remain within normal voice contact of the adult who is supervising them. Adult guardians are responsible for ensuring that youth hunters do not violate refuge rules.

(iv) We require waterfowl hunters to remove all portable blinds, boats, decoys, and other personal equipment from the refuge by 1 p.m. each day (see §§ 27.93 and 27.94 of this chapter).

(v) All hunters must check-in prior to hunting and check out after hunting at a refuge self-clearing check station. You must report all game taken on the refuge when checking out by using the check card.

(vi) We allow hunting until 12 p.m. (noon). Hunters may only enter the refuge after 4 a.m.

(vii) When hunting migratory game birds, you may only use dogs to locate, point, and retrieve game.

(viii) We allow the use of reflective tacks.

(2) Upland game hunting. We allow hunting of squirrel and rabbit on designated areas of the refuge subject to the following conditions:

(i) We only allow hunting from the start of the State squirrel and rabbit seasons until the last day of State waterfowl season in the Coastal Zone, except that the Centerville Unit will be open until the last day of the State waterfowl season in the East Zone.

(ii) We prohibit upland game hunting on days corresponding with refuge deer gun hunts.

(iii) Hunters may enter the refuge at 4 a.m. Hunters must leave the refuge no later than 1 hour after legal sunset.

(iv) The conditions set forth at paragraphs (d)(1)(i) through (iii), (v), and (viii) of this section apply.

(3) Big game hunting. We allow the hunting of white-tailed deer on designated areas of the refuge subject to the following conditions:

(i) We allow hunting of deer only with firearms (see § 27.42 of this chapter) during 5 specific days during October and November. A youth gun hunt will occur during the last weekend of October. The general gun hunt will occur during the final full weekend in November. The youth gun hunt includes both Saturday and Sunday. The general gun hunt includes the Friday immediately before the weekend.

(ii) We allow archery deer hunting from the start of the State archery season until January 31, except the Centerville Unit is open until February 15. Hunters may take deer of either sex as governed by State-approved archery equipment and regulations. We close refuge archery hunting on those days that the refuge deer gun hunts occur.

(iii) We do not allow hunting within 500 feet (152.4 meters) of the Garden City parking area and boardwalk.

(iv) We allow each hunter to possess only one deer per day; the deer may be a buck or a doe. State season limits apply.

(v) You may take feral hogs only as incidental take with archery equipment while participating in the refuge deer archery hunt.

(vi) Hunters may use only portable deer stands. Hunters may erect deer stands 1 day before the deer archery season and must remove them from the refuge within 1 day after the season closes (see § 27.93 of this chapter). Hunters may place only one deer stand on the refuge. Deer stands must have the owner's State hunting license number clearly printed on the stand. Hunters must place stands in a nonhunting position when not in use.

(vii) The conditions set forth at paragraphs (d)(1)(i) through (iii), (v), and (viii) and (d)(2)(ii) of this section apply.

(viii) We prohibit the use of deer decoys.

(ix) We prohibit organized deer drives. We define a “deer drive” as an organized or planned effort to pursue, drive, chase, or otherwise frighten or cause deer to move in the direction of any person(s) who is part of the organized or planned hunt and known to be waiting for the deer.

(4) Sport fishing. We allow sport fishing in all refuge waters subject to the following condition: We prohibit the use of unattended nets, traps, or lines (trot, jug, bush, etc.).

(e) Big Branch Marsh National Wildlife Refuge—(1) Migratory game bird hunting. We allow hunting of duck, coot, goose, snipe, rail, gallinule, and woodcock on designated areas of the refuge subject to the following conditions:

(i) We allow waterfowl hunting on Wednesdays, Thursdays, Saturdays, and Sundays from ½ hour before legal sunrise until 12 p.m. (noon), including during the State special teal season and State youth waterfowl hunt.

(ii) We prohibit goose hunting for that part of the season that extends beyond the regular duck season.

(iii) We allow only temporary blinds, and hunters must remove blinds and decoys by 1 p.m. each day (see § 27.93 of this chapter).

(iv) Hunters must possess and carry a valid refuge hunt permit (signed brochure).

(v) An adult age 18 or older must supervise youth hunters age 17 and younger during all hunts. Youth hunter age and hunter education requirements are governed by State regulations. One adult may supervise two youths during small game hunts and migratory bird hunts, but is only allowed to supervise one youth during big game hunts. Youths must remain within normal voice contact of the adult who is supervising them. Adult guardians are responsible for ensuring that youth hunters do not violate refuge rules.

(vi) We prohibit hunting or discharge of firearm (see § 27.42 of this chapter) within 150 feet (45 meters (m)) of any residence or structure adjacent to the refuge, and from the centerline of any road, railroad, designated public use maintained trail, designated parking area, or other designated public use facility.

(vii) Hunters may enter the refuge at 4 a.m. and must exit the refuge no later than 2 hours after legal sunset.

(viii) You may use only reflective tacks as trail markers on the refuge.

(2) Upland game hunting. We allow hunting of squirrel, rabbit, and quail on designated areas of the refuge subject to the following conditions:

(i) When hunting, you must possess only shot size 4 or smaller, or 0.22 caliber rim-fire rifles or smaller.

(ii) When hunting squirrel and rabbit, we allow the use of dogs only after the close of the State archery deer season. When hunting quail, you may only use dogs to locate, point, and retrieve.

(iii) The conditions set forth at paragraphs (e)(1)(iv) through (vii) of this section apply.

(iv) During the dog season for squirrel and rabbit, all hunters, including archers (while on the ground), except waterfowl hunters, must wear a minimum of a cap or hat that is hunter orange, blaze pink, or other such color as governed by State regulations.

(3) Big game hunting. We allow hunting of white-tailed deer and feral hog on designated areas of the refuge subject to the following conditions:

(i) We are open only during the State season for archery hunting of deer.

(ii) We prohibit organized deer drives. We define a “deer drive” as an organized or planned effort to pursue, drive, chase, or otherwise frighten or cause deer to move in the direction of any person(s) who is part of the organized or planned hunt and known to be waiting for the deer.

(iii) We allow placement of temporary deer stands 48 hours prior to the start of deer archery season. Hunters must remove all deer stands within 48 hours after the archery deer season closes (see § 27.93 of this chapter). We allow only one deer stand per hunter on the refuge. Deer stands must have the owner's State license/sportsmen's identification number clearly printed on the stand. We prohibit hunting stands on trees painted with white bands.

(iv) We allow take of feral hogs only as incidental take with archery equipment while participating in the refuge deer archery hunt.

(v) The conditions set forth at paragraphs (e)(1)(iv) through (vii) of this section apply.

(vi) We prohibit the use of deer decoys.

(4) Sport fishing. We allow recreational fishing and crabbing on designated areas of the refuge subject to the following conditions:

(i) You may fish only from ½ hour before legal sunrise until ½ hour after legal sunset, except we allow night fishing from the bank and pier on Lake Road.

(ii) You must only use rod and reel or pole and line while fishing.

(iii) You must attend to any fishing, crabbing, and crawfishing equipment at all times.

(f) Black Bayou Lake National Wildlife Refuge—(1) Migratory game bird hunting. We allow hunting of duck, coot, and woodcock on designated areas of the refuge subject to the following conditions:

(i) You must carry a signed refuge hunt permit (signed public use regulations brochure) and must carry and fill out daily a Visitor Check-In Permit and Report (FWS Form 3-2405).

(ii) We allow waterfowl hunting until 12 p.m. (noon) during the State season.

(iii) Hunters may enter the refuge no earlier than 4 a.m. and must leave the refuge by 1:30 p.m.

(iv) We prohibit hunting within 100 feet (30 meters (m)) of the maintained right-of-way of roads and from or across all-terrain vehicle (ATV) trails. We prohibit hunting within 50 feet (15 m) of, or trespassing on, aboveground oil, gas, or electrical transmission facilities.

(v) Hunters must remove boats, blinds, and decoys from the refuge at the end of each day's hunt (see § 27.93 of this chapter).

(vi) When hunting migratory game birds, you may only use dogs to locate, point, and retrieve game.

(vii) We only allow ATVs on trails designated for their use and marked by signs (see § 27.31 of this chapter). ATV trails are closed March 1 through August 31.

(2) Upland game hunting. We allow hunting of quail, squirrel, rabbit, raccoon, and opossum on designated areas of the refuge subject to the following conditions:

(i) The conditions set forth at paragraphs (f)(1)(i), (iv), and (vii) of this section apply.

(ii) Hunters may only hunt upland game during designated refuge seasons.

(iii) We prohibit taking small game with firearms larger than .22 caliber rimfire, shotgun slugs, and buckshot.

(iv) You may enter the refuge no earlier than 4 a.m. and must exit no later than 1 hour after legal shooting hours end.

(3) Big game hunting. We allow archery hunting of white-tailed deer on designated areas of the refuge subject to the following conditions:

(i) The conditions set forth at paragraphs (f)(1)(i), (iv), and (vii) and (f)(2)(iv) of this section apply.

(ii) Hunters may only hunt big game during designated refuge seasons.

(iii) We prohibit gun deer hunting.

(iv) An adult age 21 or older must supervise a youth hunter age 15 or younger during hunts. One adult may supervise only one youth during big game hunts. The youth hunter must remain within normal voice contact of the supervising adult.

(4) Sport fishing. We allow fishing on designated areas of the refuge subject to the following conditions:

(i) We prohibit trotlines, limb lines, yo-yos, traps, and nets.

(ii) We prohibit take of frog, turtle, and mollusk (see § 27.21 of this chapter).

(g) Bogue Chitto National Wildlife Refuge—(1) Migratory game bird hHunting. We allow hunting of duck, goose, coot, and woodcock on designated areas of the refuge subject to the following conditions:

(i) We allow hunting from ½ hour before legal sunrise until 12 p.m. (noon), including during the State special teal season and State youth waterfowl hunt.

(ii) You must remove blinds and decoys by 1 p.m. each day (see § 27.93 of this chapter).

(iii) We prohibit goose hunting for that part of the season that extends beyond the regular duck season.

(iv) When hunting migratory game birds, you may only use dogs to locate, point, and retrieve game.

(v) Hunters must possess and carry a valid refuge hunt permit (signed refuge brochure).

(vi) An adult age 18 or older must supervise youth hunters age 17 and younger during all hunts. Youth hunter age and hunter education requirements are governed by State regulations. One adult may supervise two youths during small game hunts and migratory bird hunts but is only allowed to supervise one youth during big game hunts. Youths must remain within normal voice contact of the adult who is supervising them. Adult guardians are responsible for ensuring that youth hunters do not violate refuge rules.

(vii) We prohibit hunting or discharge of firearms (see § 27.42 of this chapter) within 150 feet (45.7 meters (m)) from the centerline of any public road, refuge road, designated or maintained trail, building, residence, designated camping area, or designated public facility, or from or across aboveground oil, gas, or electric facilities.

(viii) For the purpose of hunting, we prohibit possession of slugs, buckshot, rifle, and pistol ammunition, except during the deer gun and primitive firearm seasons (see § 32.2(k)).

(ix) You may use only reflective tacks as trail markers on the refuge.

(2) Upland game hunting. We allow hunting of squirrel, rabbit, raccoon, and opossum on designated areas of the refuge subject to the following conditions:

(i) We allow the use of dogs for rabbit, squirrel, raccoon, and opossum hunting on specific dates listed in the refuge hunt brochure.

(ii) We prohibit the take of feral hog during any upland game hunts.

(iii) During any open deer firearm or primitive firearm season on the refuge, all hunters, except waterfowl hunters and nighttime raccoon and opossum hunters, must wear hunter orange, blaze pink, or other such color as governed by State regulations.

(iv) The conditions set forth at paragraphs (g)(1)(v) through (ix) of this section apply.

(3) Big game hunting. We allow hunting of white-tailed deer, turkey, and feral hog on designated areas of the refuge subject to the following conditions:

(i) The conditions set forth at paragraphs (g)(1)(v) through (vii) and (g)(2)(ii) and (iii) of this section apply.

(ii) Hunters may erect deer stands 48 hours before the deer archery season and must remove them from the refuge within 48 hours after this season closes (see § 27.93 of this chapter). We allow only one deer stand per hunter on the refuge. Deer stands must have the owner's State license/sportsmen's identification number clearly printed on the stand.

(iii) We allow take of feral hog as incidental game while participating in the refuge archery, primitive weapon, and general gun deer hunts, and where otherwise specified using legal methods of take for the hunt.

(iv) We hold a special hog dog hunt in February. During this hunt, the following conditions apply, in addition to other applicable conditions in this paragraph (g)(3):

(A) You must use trained hog-hunting dogs to aid in the take of hog.

(B) We allow take of hog from ½ hour before legal sunrise until ½ hour after legal sunset.

(C) You must possess only approved nontoxic shot or pistol or rifle ammunition not larger than .22 caliber rim-fire to take the hog after it has been caught by dogs.

(D) The condition set forth at paragraph (g)(1)(viii) of this section applies during the special dog hog hunt.

(v) You must kill all hogs prior to removal from the refuge.

(vi) We prohibit the use of deer and turkey gobbler decoys.

(4) Sport fishing. We allow recreational fishing year-round on designated areas of the refuge subject to the following conditions:

(i) We only allow cotton limb lines.

(ii) We close the fishing ponds at the Pearl River Turnaround to fishing from April through the first full week of June and to boating during the months of April, May, June, and July.

(iii) When the Pearl River Turnaround area is open, we allow boats that do not have gasoline-powered engines attached in the fishing ponds at the Pearl River Turnaround. Anglers must hand-launch these boats into the ponds. When open, we only allow hook and line as a legal method of take in the fishing ponds at the Pearl River Turnaround.

(iv) The Pearl River Turnaround area, when open to fishing, is open ½ hour before legal sunrise to ½ hour after legal sunset.

(h) Breton National Wildlife Refuge. (1)-(3) [Reserved]

(4) Sport fishing. We allow sport finfishing and shellfishing on designated areas of the refuge subject to the following conditions:

(i) Crabbers must tend crabbing equipment at all times.

(ii) We prohibit trotlines, slat traps, and nets.

(i) Cameron Prairie National Wildlife Refuge—(1) Migratory game bird hunting. We allow hunting of goose, duck, coot, gallinule, snipe, and dove on designated areas of the refuge subject to the following conditions:

(i) Hunters may only hunt during designated days and times.

(ii) We prohibit entrance to the waterfowl hunting area earlier than 4 a.m. Shooting hours for waterfowl hunts end at 2 p.m. each day.

(iii) We require every hunter to possess and carry a valid, signed refuge hunt permit and regulations brochure.

(iv) Every hunter must complete and turn in a Migratory Bird Hunt Report (FWS Form 3-2361) available from a self-clearing check station after each hunt.

(v) We prohibit hunting within 50 yards (45 meters) of any public road, refuge road, trail, building, resident, or designated public facility.

(vi) When migratory bird hunting, you may only use dogs for the purpose of locating, pointing, and retrieving.

(vii) Hunters must remove all hunting-related equipment from the refuge immediately following each day's hunt (see § 27.93 of this chapter).

(2) [Reserved]

(3) Big game hunting. We allow hunting of white-tailed deer on designated areas of the refuge subject to the following conditions:

(i) We allow only portable deer stands. Hunters may place deer stands on the refuge 1 day before the white-tail deer archery season and must remove them from the refuge within 1 day after the season closes (see § 27.93 of this chapter). Hunters may place only one deer stand on the refuge, and deer stands must have the owner's State hunting license number clearly printed on the stand. Hunters must place stands in a nonhunting position at ground level when not in use.

(ii) The conditions set forth at paragraphs (i)(1)(iii), (v), and (vii) of this section apply.

(iii) Each hunter must complete and turn in a Big Game Harvest Report (FWS Form 3-2359) available from a self-clearing check station after each hunt.

(iv) We prohibit entrance to the hunting area earlier than 4 a.m. Hunters must leave no later than 1 hour after legal sunset.

(4) Sport fishing. We allow sport fishing, crabbing, and cast netting on designated areas of the refuge subject to the following conditions:

(i) We allow fishing with a rod and reel or a pole and line. We prohibit possession of any other type of fishing gear, including limb lines, gill nets, jug lines, yo-yos, or trotlines.

(ii) We allow recreational fishing, crabbing, or cast netting in the East Cove Unit year-round from legal sunrise to legal sunset, except during the Louisiana west zone waterfowl season or when the Grand Bayou Boat Bay is closed.

(iii) We allow sport fishing, crabbing, and cast netting in the Gibbstown Unit's Outfall Canal from March 15 through October 15.

(iv) We allow only recreational crabbing with cotton hand lines or drop nets up to 24 inches (60 centimeters) outside diameter. We prohibit using floats on crab lines.

(v) Anglers must attend all lines, nets, and bait, and must remove same from the refuge at the end of each day's fishing activity (see § 27.93 of this chapter).

(vi) The daily limit of crabs is 5 dozen (60) per boat or vehicle, regardless of the number of people thereon.

(vii) The daily shrimp limit during the Louisiana inshore shrimp season is 5 gallons (19 liters (L)) of heads-on shrimp per day, per vehicle or boat.

(viii) We allow cast netting for bait on both the East Cove Unit and the Gibbstown Unit when the units are open for public fishing only. Anglers must empty cast nets directly into the container from the net. The daily bait shrimp limit is one gallon (3.8 L) per day, per boat, outside the Louisiana inshore shrimp season.

(ix) Shrimp must remain in your actual custody while on the refuge.

(x) We prohibit the taking of turtle (see § 27.21 of this chapter).

(j) Cat Island National Wildlife Refuge—(1) Migratory game bird hunting. We allow hunting of duck, goose, coot, and woodcock on designated areas of the refuge subject to the following conditions:

(i) We require that all hunters and anglers age 16 and older purchase an annual public use permit (electronic form). The refuge user is required to sign, certifying that you understand and will comply with all regulations, and carry this permit at all times while on the refuge.

(ii) You may enter the refuge no earlier than 4 a.m. and must exit the refuge by 2 hours after legal sunset.

(iii) We allow take of beaver, feral hog, nutria, raccoon, and coyote incidental to any refuge hunt with weapons legal for that hunt until you take the daily bag limit of game.

(iv) We allow all-terrain vehicles (ATVs) and utility-type vehicle (UTVs) as governed by State Wildlife Management Area regulations and size specifications on designated trails (see § 27.31 of this chapter) from scouting season until February 28.

(v) We prohibit hunting within 150 feet (45 meters) of any public road, refuge road, trail or ATV trail, building, residence, or designated public facility.

(vi) We prohibit all other hunting during refuge lottery deer hunts.

(vii) We allow waterfowl hunting on Wednesdays, Saturdays, and Sundays until 12 p.m. (noon) during the designated State duck season.

(viii) You must remove harvested waterfowl, temporary blinds, and decoys used for duck hunting by 1 p.m. each day (see § 27.93 of this chapter).

(ix) When hunting migratory game birds, you may only use dogs to locate, point, and retrieve.

(x) We prohibit accessing refuge property by boat from the Mississippi River.

(2) Upland game hunting. We allow hunting of squirrel, rabbit, beaver, nutria, raccoon, and coyote on designated areas of the refuge subject to the following conditions:

(i) The conditions set forth at paragraphs (j)(1)(i) through (vi) of this section apply.

(ii) While upland game hunting, we prohibit the possession of hunting firearms larger than 0.22 caliber rimfire, shotgun slugs, and buckshot (see § 27.42 of this chapter).

(iii) We allow the use of dogs during designated small game with dog seasons. We require the owner's contact information on the collars of all dogs. We allow up to two dogs per hunting party for squirrel hunting.

(3) Big game hunting. We allow hunting of white-tailed deer and feral hog on designated areas of the refuge subject to the following conditions:

(i) The conditions set forth at paragraphs (j)(1)(i) through (vi) of this section apply.

(ii) We allow archery-only deer hunting on the refuge during the State archery deer season.

(iii) You must check all deer (name only) taken prior to leaving the refuge at one of the self-clearing check stations indicated on the map in the refuge public use brochure.

(iv) You may place stands up to 2 days prior to established hunting season dates, and you must remove them no more than 2 days after the hunting season closes (see § 27.93 of this chapter). You must mark your State license identification number on your stand. You are allowed one portable stand or blind on the refuge.

(v) You may only take one deer of either sex per day during the deer season. State season limits apply.

(vi) You must wear a minimum of 500 square inches (3,226 square centimeters) of unbroken-hunter orange as the outermost layer of clothing on the chest and back, and a hat or cap of unbroken-hunter orange.

(vii) We prohibit organized drives. We define a “drive” as an organized or planned effort to pursue, drive, chase, or otherwise frighten or cause game to move in the direction of any person(s) who is part of the organized or planned hunt and known to be waiting for the game.

(4) Sport fishing. We allow sport fishing on designated areas of the refuge subject to the following conditions:

(i) The conditions set forth at paragraphs (j)(1)(i), (ii), (iv) (on the open portions of Wood Duck ATV trail for wildlife-dependent activities throughout the year), and (vi) of this section apply.

(ii) We prohibit slat traps or hoop nets on the refuge.

(iii) We prohibit possession of cleaned or processed fish on the refuge.

(iv) Anglers may only crawfish during designated days and times. The harvest limit is 50 pounds (22.5 kilograms) per permit per day.

(v) You must attend all crawfish traps and nets at all times. We allow up to, and no more than, 20 traps per angler on the refuge.

(vi) We prohibit harvest of frog or turtle on the refuge (see § 27.21 of this chapter).

(k) Catahoula National Wildlife Refuge—(1) Migratory game bird hunting. We allow hunting of duck, goose, and coot on designated areas of the refuge subject to the following conditions:

(i) We allow migratory hunting of duck, goose, and coot on Tuesdays, Thursdays, Saturdays, and Sundays from ½ hour before legal sunrise until 12 p.m. (noon) during the State season.

(ii) We prohibit migratory game bird hunting during deer modern and primitive firearms hunts.

(iii) When hunting migratory game birds, you may only use dogs to locate, point, and retrieve game.

(iv) We allow the use of only shotguns for hunting migratory birds.

(v) Hunters must check-in and check out as governed by refuge-specific terms.

(vi) We require hunters age 16 and older to purchase and carry a signed special refuge recreational activity permit (name/address/phone only).

(vii) Hunters may enter the refuge no earlier than 4 a.m. and must exit no later than 2 hours after legal sunset for that day. Hunters must remove all decoys, blinds, and boats from the hunting area by 1 p.m. (see § 27.93 of this chapter).

(viii) We prohibit hunting or discharge of firearms within 150 feet (45 meters (m)) from the edge of areas maintained for roads, trails, and utility rights-of-way.

(ix) We prohibit parking, walking, or hunting within 150 feet (45 m) of any active oil and gas facility or equipment.

(x) We allow the use of bright eyes or reflective tape for flagging or trail markers.

(xi) We restrict the use of all-terrain vehicles (ATVs) to designated trails. ATVs are allowed from September 1 through the last day of February. We allow ATVs only for hunting, fishing, and other wildlife-related activities.

(xii) We allow the incidental take of feral hog, raccoon, beaver, nutria, and coyote while hunting with firearms or archery equipment authorized for that hunt.

(2) Upland game hunting. We allow hunting of squirrel, raccoon, beaver, nutria, coyote, and rabbit on designated areas of the refuge subject to the following conditions:

(i) The conditions set forth at paragraphs (k)(1)(v) through (xii) of this section apply.

(ii) We prohibit squirrel and rabbit hunting during deer modern and primitive firearms hunts.

(iii) At the Bushley Unit, we allow the use of dogs to hunt squirrels and rabbits only after the last primitive firearms season for deer on the refuge. Hunters must place their contact information on the collars of all their dogs.

(iv) We require hunters participating in the dog season for rabbits to wear a hunter-orange cap.

(v) We only allow the use of shotguns and rifles that are .22 magnum caliber rim fire or less for upland game hunting.

(3) Big game hunting. We allow hunting of white-tailed deer and feral hog on designated areas of the refuge subject to the following conditions:

(i) The conditions set forth at paragraphs (k)(1)(v) through (xii) of this section apply.

(ii) We allow deer-modern hunting on the area south of the French Fork of the Little River for 2 days in December with these dates being set annually.

(iii) We allow hunting of deer with primitive firearms during the first segment of the State season for area 1, weekdays only (Monday through Friday) and 2 days in December with these dates set annually. We allow either-sex, deer gun hunting for the Friday, Saturday, and Sunday immediately following Thanksgiving Day and for 2 days in December with these dates to be set annually.

(iv) We allow the use of portable deer stands. Hunters may place deer stands on the refuge 1 day before the deer archery season and must remove them from the refuge within 1 day after this season closes (see § 27.93 of this chapter). Hunters may place only one stand on the refuge. Deer stands must have the owner's State hunting license number clearly printed on the stand. Hunters must place stands in a nonhunting position when not in use.

(v) We allow the use and possession of lead shotgun slugs during deer modern and primitive firearm hunts. We prohibit the use and possession of toxic and nontoxic shot shells during these hunts.

(vi) All hunters must wear and display 400 square inches (2,581 square centimeters) of hunter orange and a hunter orange cap during deer modern and primitive firearm hunts.

(vii) You may take only one deer per day during modern and primitive firearm deer hunts.

(viii) We prohibit organized drives. We define a “drive” as an organized or planned effort to pursue, drive, chase, or otherwise frighten or cause game to move in the direction of any person(s) who is part of the organized or planned hunt and known to be waiting for the game.

(ix) We prohibit the use of dogs to hunt and trail wounded deer.

(x) We prohibit use of deer decoys.

(4) Sport fishing. We allow sport fishing on designated areas of the refuge subject to the following conditions:

(i) The conditions set forth at paragraphs (k)(1)(ix) through (xi) of this section apply.

(ii) We require anglers age 16 and older to possess and carry a signed special refuge recreational activity permit (name/address/phone only).

(iii) We allow fishing from ½ hour before legal sunrise to legal sunset.

(iv) At the Headquarters Unit, we allow year-round fishing on Cowpen Bayou and the Highway 28 borrow pits. We allow fishing on Duck Lake and its tail-waters, Muddy Bayou, Willow Lake, and the Highway 84 borrow pits from March 1 through October 31. We only allow use of a rod and reel or pole with a hook and line attached for fishing in these waters. We prohibit snagging.

(v) At the Bushley Bayou Unit, we allow fishing year-round. We allow trotlines, but anglers must tend them at least once every 24 hours and reset them when receding water levels expose them. Anglers must attach lines with a length of cotton line that extends into the water. We allow the use of yo-yos, but you must attend and only use them from 1 hour before legal sunrise until ½ hour after legal sunset. We prohibit the use of nets and traps.

(vi) At the Headquarters Unit, we allow the launching of only trailered boats at designated boat ramps. Anglers may launch small hand-carried boats from the bank in other areas. We prohibit dragging of boats or driving onto road shoulders to launch boats.

(vii) We prohibit bank fishing on Bushley Creek and fishing in Black Lake, Dempsey Lake, Long Lake, Rhinehart Lake, and Round Lake during deer modern and primitive firearms hunts.

(viii) We prohibit fishing in Black Lake, Dempsey Lake, Long Lake, Round Lake, and Rhinehart Lake during waterfowl hunts.

(ix) We prohibit taking or possessing frogs and turtles (see § 27.21 of this chapter).

(x) We prohibit the possession of cleaned or processed fish on the refuge.

(l) D'Arbonne National Wildlife Refuge—(1) Migratory game bird hunting. We allow hunting of duck, goose, coot, and woodcock on designated areas of the refuge subject to the following conditions:

(i) You must carry a signed refuge hunt permit (signed public use regulations brochure) and must carry and fill out daily a Visitor Check-In Permit and Report (FWS Form 3-2405).

(ii) We allow waterfowl hunting until 12 p.m. (noon) during the State season.

(iii) Hunters may enter the refuge no earlier than 4 a.m. and must exit no later than 1:30 p.m.

(iv) We prohibit hunting within 100 feet (30 meters (m)) of the maintained rights-of-way of roads. We prohibit hunting within 50 feet (15 m) or trespassing on aboveground oil, gas, or electrical transmission facilities.

(v) Hunters must remove boats, blinds, and decoys from the refuge at the end of each day's hunt (see § 27.93 of this chapter).

(vi) When hunting migratory game birds, you may only use dogs to locate, point, and retrieve game.

(2) Upland game hunting. We allow hunting of squirrel, rabbit, raccoon, and opossum on designated areas of the refuge subject to the following conditions:

(i) The conditions set forth at paragraphs (l)(1)(i) and (iv) of this section apply.

(ii) You may enter the refuge no earlier than 4 a.m. and must exit no later than 2 hours after legal shooting hours.

(iii) When hunting upland game, you may only use dogs to locate, point, and retrieve game.

(3) Big game hunting. We allow hunting of white-tailed deer on designated areas of the refuge as indicated subject to the following conditions:

(i) The conditions set forth at paragraphs (l)(1)(i) and (iv) and (l)(2)(ii) of this section apply.

(ii) You must check all deer taken during general gun deer hunts at a refuge check station on the same day taken.

(iii) We prohibit hunters from placing or hunting from stands on pine trees with white-painted bands or rings.

(4) Sport fishing. We allow sport fishing on the refuge subject to the following conditions:

(i) For recreational fishing using commercial gear (slat traps, etc.), we require you to carry a Special Use Permit (FWS Form 3-1383-G), which is available at the refuge office.

(ii) We prohibit the taking of turtle (see § 27.21 of this chapter).

(m) Delta National Wildlife Refuge—(1) Migratory game bird hunting. We allow hunting of duck, goose, and coot on designated areas of the refuge subject to the following conditions:

(i) We allow waterfowl hunting on Wednesdays, Thursdays, Saturdays, and Sundays from ½ hour before legal sunrise until 12 p.m. (noon), including during the State special teal season, State youth waterfowl season, and State light goose special conservation season.

(ii) We only allow temporary blinds. You must remove both blinds and decoys by 1 p.m. each day (see § 27.93 of this chapter).

(iii) When hunting migratory game birds, you may only use dogs to locate, point, and retrieve game.

(iv) Hunters must possess and carry a valid refuge hunt permit (signed brochure).

(v) We prohibit discharge of firearms (see § 27.42 of this chapter) within 250 yards (225 meters) of buildings or worksites, such as oil or gas production facilities.

(vi) An adult age 18 or older must supervise youth hunters age 17 and younger during all hunts. Youth hunter age and hunter education requirements are governed by State regulations. One adult may supervise two youths during small game and migratory game bird hunts but must supervise only one youth during big game hunts. Youth(s) must remain within normal voice contact of the adult who is supervising them.

(vii) Hunters may enter the refuge at 4 a.m. and must exit the refuge no later than 2 hours after legal sunset.

(2) Upland game hunting. We allow hunting of rabbit on designated areas of the refuge subject to the following conditions:

(i) The refuge rabbit season opens the day after the State duck season closes and continues through the remainder of the State rabbit season.

(ii) We restrict hunting to shotgun only.

(iii) We allow the use of dogs when rabbit hunting.

(iv) The conditions set forth at paragraphs (m)(1)(iv) through (vii) of this section apply.

(3) Big game hunting. We only allow archery hunting of white-tailed deer and feral hog on designated areas of the refuge subject to the following conditions:

(i) The conditions set forth at paragraphs (m)(1)(iv) through (vii) of this section apply.

(ii) We allow archery deer hunting, bucks only, from October 1 through 15. We allow either-sex archery deer hunting from October 16 through 31 and from the day after the close of the State duck season through the end of the State deer archery season.

(iii) We allow placement of temporary deer stands 48 hours prior to the start of deer archery season. Hunters must remove all deer stands within 48 hours after the archery deer season closes (see § 27.93 of this chapter). We allow only one deer stand per hunter on the refuge. Deer stands must have the owner's State license/sportsmen's identification number clearly printed on the stand.

(iv) We prohibit organized deer drives. We define a “deer drive” as an organized or planned effort to pursue, drive, chase, or otherwise frighten or cause deer to move in the direction of any person(s) who is part of the organized or planned hunt and known to be waiting for the deer.

(v) We allow the take of hog(s) only with archery equipment during the archery deer season.

(vi) We prohibit the use of deer decoys.

(4) Sport fishing. We allow recreational fishing and crabbing on designated areas of the refuge subject to the following conditions:

(i) We only allow recreational fishing and crabbing from ½ hour before legal sunrise until ½ hour after legal sunset. During State waterfowl hunting seasons, however, we only allow recreational fishing and crabbing from after 12 p.m. (noon) until ½ hour after legal sunset.

(ii) We prohibit the use of trotlines, limblines, slat traps, jug lines, nets, or alligator lines.

(iii) We prohibit the taking of turtle (see § 27.21 of this chapter).

(n) Grand Cote National Wildlife Refuge—(1) Migratory game bird hunting. We allow hunting of duck, goose, coot, and woodcock on designated areas of the refuge subject to the following conditions:

(i) We allow waterfowl (duck, goose, coot) hunting on Wednesdays and Saturdays from ½ hour before legal sunrise until 12 p.m. (noon) during the State season.

(ii) We prohibit teal hunting during the State September season.

(iii) Hunters selected for lottery waterfowl hunts must be present and in possession of written documentation confirming their selection on the day of the hunt.

(iv) We allow no more than three persons to hunt in each of the lottery waterfowl blinds, and hunters must confine all hunting activity to the direct vicinity of the blinds.

(v) When hunting migratory game birds, you may only use dogs to locate, point, and retrieve.

(vi) Hunters may enter the refuge no earlier than 4 a.m. and must exit no later than 2 hours after legal sunset for that day.

(vii) We allow the incidental take of raccoon, feral hog, beaver, nutria, and coyote only when hunting for migratory bird, upland game, and big game species with firearms or archery equipment authorized for use.

(viii) We require hunters age 16 and older to purchase and carry a signed refuge special recreational activity permit (electronic form).

(ix) We prohibit hunting or the discharge of firearms within 150 feet (45 meters) from the edge of areas maintained for roads, trails, and utility rights-of-way.

(x) Hunters must check-in and check out as governed by refuge-specific terms (see refuge hunting brochure for details).

(xi) Refuge users must enter and exit the refuge only at designated parking areas occurring on the refuge. We prohibit accessing adjacent lands from refuge parking areas or any other part of the refuge.

(xii) We restrict the use of all-terrain vehicles (ATVs) to designated ATV trails. ATVs are allowed from September 1 through the last day of February. We allow ATVs only for hunting, fishing, and other wildlife-related activities.

(xiii) Hunters must remove all decoys, blinds, and boats from the hunt area by 1 p.m. (see § 27.93 of this chapter).

(xiv) We allow the use of bright eyes or reflective tape for flagging or trail markers.

(2) Upland game hunting. We allow hunting of rabbit, raccoon, beaver, nutria, and coyote on designated areas of the refuge subject to the following conditions:

(i) The conditions set forth at paragraphs (n)(1)(vi) through (xiv) of this section apply.

(ii) We allow the use of only shotguns and rifles that are .22 magnum caliber rimfire or less for upland game hunting

(iii) We allow the use of dogs when hunting rabbit only after the close of the State deer rifle season. Dog owners must place their contact information on the collars of all their dogs.

(iv) We require hunters participating in the special dog season for rabbits to wear a hunter-orange cap.

(3) Big game hunting. We allow hunting of white-tailed deer and feral hog on designated areas of the refuge subject to the following conditions:

(i) The conditions set forth at paragraphs (n)(1)(vi) through (xiv) of this section apply.

(ii) We only allow the use of archery equipment for big game hunting.

(iii) You may use only portable deer stands. Hunters must place deer stands on the refuge 1 day before the deer archery season and must remove them from the refuge within 1 day after the season closes (see § 27.93 of this chapter). Hunters may place only one deer stand on the refuge, and deer stands must have the owner's State hunting license/sportsmen's identification number clearly printed on the stand. Hunters must place the stand in a nonhunting position and at ground level when not in use.

(iv) We prohibit the use of deer decoys.

(v) We prohibit the use of dogs to trail wounded deer.

(vi) We prohibit organized drives. We define a “drive” as an organized or planned effort to pursue, drive, chase, or otherwise frighten or cause game to move in the direction of any person(s) who is part of the organized or planned hunt and known to be waiting for the game.

(4) Sport fishing. We allow sport fishing on designated areas of the refuge subject to the following conditions:

(i) The conditions set forth at paragraphs (n)(1)(xi) through (xiv) of this section apply.

(ii) We allow fishing within the Coulee Des Grues Bayou only from the bank adjacent to Little California Road and only from legal sunrise to legal sunset.

(iii) Except as provided under paragraph (n)(4)(ii) of this section, we allow fishing from ½ hour before legal sunrise to legal sunset. Anglers may enter the refuge no earlier than 4 a.m. and must exit no later than 2 hours after legal sunset for that day.

(iv) We require anglers age 16 and older to purchase and carry a signed refuge special recreational activity permit.

(v) We prohibit the use of nets, traps, set lines, and trot lines. Anglers may only use a rod and reel or pole with a hook and line attached to fish.

(vi) We prohibit the possession of cleaned or processed fish on the refuge.

(vii) We prohibit the harvest of frog, turtle, snake, or mollusk (see § 27.21 of this chapter).

(viii) We prohibit crawfishing.

(o) Lacassine National Wildlife Refuge—(1) Migratory game bird hunting. We allow hunting of goose, duck, gallinule, and coot on designated areas of the refuge subject to the following conditions:

(i) Hunters may only hunt migratory game birds during designated refuge seasons.

(ii) We require every hunter to possess and carry a valid signed refuge hunt permit (signed brochure) and regulations brochure.

(iii) Hunters may enter the refuge at 4 a.m. Shooting hours end at 2 p.m. each day.

(iv) Each hunter must complete and turn in a Migratory Bird Hunt Report (FWS Form 3-2361), available from a self-clearing check station, after each hunt.

(v) We prohibit hunting within 50 yards (45 meters (m)) of refuge canals; waterways; public roads; buildings; aboveground oil, gas, or electrical transmission facilities; or designated public facilities. Hunting parties must remain a distance of no fewer than 150 yards (135 m) away from another hunter.

(vi) You must remove all hunting-related equipment from the refuge immediately following each day's hunt (see § 27.93 of this chapter).

(vii) When migratory bird hunting, you may only use dogs for the purpose of locating, pointing, and retrieving.

(2) [Reserved]

(3) Big game hunting. We allow hunting for white-tailed deer on designated areas of the refuge subject to the following conditions:

(i) Hunters may only hunt big game during designated refuge seasons with archery equipment.

(ii) We allow only portable deer stands. Hunters may place deer stands on the refuge 1 day before the deer archery season and must remove them from the refuge within 1 day after the season closes (see § 27.93 of this chapter). Hunters may place only one deer stand on the refuge, and deer stands must have the owner's State hunting license number clearly printed on the stand. Hunters must place stands in a nonhunting position at ground level when not in use.

(iii) The conditions set forth at paragraphs (o)(1)(ii), (v), and (vi) of this section apply.

(iv) Hunters may enter the refuge at 4 a.m. Hunters must leave no later than 1 hour after legal sunset.

(v) Each hunter must complete and turn in a Big Game Harvest Report (FWS Form 3-2359) available from a self-clearing check station, after each hunt.

(4) Sport fishing. We allow fishing on designated areas of the refuge subject to the following conditions:

(i) We allow fishing from March 15 through October 15.

(ii) We prohibit fishing activities before legal sunrise and after legal sunset.

(iii) Anglers may enter the refuge 1 hour before legal sunrise, and you must leave 1 hour after legal sunset.

(iv) Anglers can travel the refuge by boat from 1 hour before legal sunrise until 1 hour after legal sunset in order to access fishing areas.

(v) We prohibit bank fishing from the Lacassine Pool Wildlife Drive.

(vi) We prohibit boat and bank fishing in Lacassine Pool Unit D and refuge waters from October 16 through March 14.

(vii) We allow fishing only with rod and reel or pole and line in refuge waters. We prohibit possession of any other type of fishing gear, including limb lines, gill nets, jug lines, yo-yos, or trotlines.

(viii) We prohibit the taking of turtle (see § 27.21 of this chapter).

(p) Lake Ophelia National Wildlife Refuge—(1) Migratory game bird hunting. We allow hunting of duck, goose, coot, and woodcock on designated areas of the refuge subject to the following conditions:

(i) We allow waterfowl (duck, goose, coot) hunting on Tuesdays, Thursdays, and Saturdays from ½ hour before legal sunrise until 12 p.m. (noon) during the Statewide duck season.

(ii) When hunting migratory game birds, you may only use dogs to locate, point, and retrieve.

(iii) Hunters may enter the refuge no earlier than 4 a.m. and must exit no later than 2 hours after legal sunset for that day. Hunters must remove all decoys, blinds, and boats from the hunt area by 1 p.m. (see § 27.93 of this chapter).

(iv) We prohibit migratory game bird hunting during refuge deer primitive firearm hunts.

(v) Except as restricted under paragraph (p)(3)(ix) of this section, we allow the incidental take of raccoon, feral hog, beaver, nutria, and coyote when hunting for migratory bird, upland game, and big game species with firearms and archery equipment authorized for use.

(vi) We restrict the use of all-terrain vehicles (ATVs) to designated ATV trails. ATVs are allowed from September 1 to the last day of the spring turkey season. We allow ATVs only for hunting, fishing, and other wildlife-related activities.

(vii) We restrict the use of the ATV trails that are designated for physically challenged persons to individuals who possess a State-issued physically challenged program hunter permit or are age 60 or older. Individuals that qualify must obtain a Special Use Permit (FWS Form 3-1383-G) from the refuge office to use these trails.

(viii) We require hunters age 16 and older to purchase and carry a signed refuge special recreational activity permit (electronic form).

(ix) We prohibit hunting or the discharge of firearms within 150 feet (45 meters) from the edge of areas maintained for roads, trails, and utility rights-of-way.

(x) Hunters must check-in and check out as governed by refuge-specific terms (see refuge hunting brochure for details).

(xi) Hunters and anglers must enter and exit the refuge only at designated parking areas occurring on the refuge. We prohibit accessing adjacent lands from refuge parking areas or any other part of the refuge.

(xii) We allow the use of bright eyes or reflective tape for flagging or trail markers.

(2) Upland game hunting. We allow hunting of squirrel, rabbit, raccoon, beaver, nutria, and coyote on designated areas of the refuge subject to the following conditions:

(i) The conditions set forth at paragraphs (p)(1)(v) through (xii) of this section apply.

(ii) Hunters may enter the refuge no earlier than 4 a.m. and must exit no later than 2 hours after legal sunset for that day.

(iii) We only allow the use of shotguns and rifles that are .22 magnum caliber rimfire or less for upland game hunting.

(iv) We prohibit upland game hunting during refuge deer primitive firearm hunts.

(v) We allow the use of dogs when squirrel and rabbit hunting only after the close of the State deer rifle season. Dog owners must place their contact information on the collars of all their dogs.

(vi) We require hunters participating in the special dog season for rabbits to wear a hunter-orange cap.

(3) Big game hunting. We allow hunting of white-tailed deer, turkey, and feral hog on designated areas of the refuge subject to the following conditions:

(i) The conditions set forth at paragraphs (p)(1)(v) through (xii) and (p)(2)(ii) of this section apply.

(ii) You may harvest only one antlered and one antlerless deer during each of the lottery primitive firearm hunts.

(iii) You may use only portable deer stands. Hunters may place deer stands on the refuge 1 day before the deer archery season and must remove them from the refuge within 1 day after the season closes (see § 27.93 of this chapter). Hunters may place only one deer stand on the refuge, and deer stands must have the owner's State hunting license number clearly printed on the stand. Hunters must place stands in a nonhunting position and at ground level when not in use.

(iv) All deer gun hunters must wear and display 400 square inches (2,600 square centimeters) of hunter orange and a hunter-orange cap during the deer gun seasons and lottery deer hunts.

(v) Only hunters that have been selected for lottery primitive firearm deer hunts may be present during these hunts.

(vi) We allow the use and possession of lead shotgun slugs during lottery primitive firearm deer hunts. We prohibit the use and possession of toxic and nontoxic shot shells during these hunts.

(vii) We prohibit all other hunting during refuge deer primitive firearm hunts as described in the refuge hunting brochure.

(viii) We prohibit the use of deer or turkey gobbler decoys.

(ix) We allow turkey hunting only during the first 16 days of the State season until 12 p.m. (noon). We prohibit incidental hunting of feral hog while turkey hunting.

(x) We prohibit the use of dogs to trail wounded deer.

(xi) We prohibit organized drives. We define a “drive” as an organized or planned effort to pursue, drive, chase, or otherwise frighten or cause game to move in the direction of any person(s) who is part of the organized or planned hunt and known to be waiting for the game.

(4) Sport fishing. We allow sport fishing in designated areas of the refuge subject to the following conditions:

(i) The conditions set forth at paragraphs (p)(1)(xi) and (xii) of this section apply.

(ii) We require anglers age 16 and older to purchase and carry a signed refuge special recreational activity permit (name/address/phone number only).

(iii) We allow fishing from March 1 through October 15 from ½ hour before legal sunrise to legal sunset.

(iv) We allow anglers to operate ATVs on the designated trails to the Duck Lake, Westcut Lake, and Possum Bayou boat ramps.

(v) We prohibit the use of nets, traps, set lines, and trot lines. Anglers may only use a rod and reel or pole with a hook and line attached to fish.

(vi) We prohibit the possession of cleaned or processed fish on the refuge.

(vii) We prohibit the harvest of frog, turtle, snake, or mollusk (see § 27.21 of this chapter).

(viii) We prohibit crawfishing.

(q) Mandalay National Wildlife Refuge—(1) Migratory game bird hunting. We allow hunting of duck, goose, moorhen, gallinule, and coot on designated areas of the refuge subject to the following conditions:

(i) We allow hunting of migratory game birds on Wednesdays and Saturdays until 12 p.m. (noon). Hunters may only enter the refuge after 4 a.m. and must exit the refuge no later than 1 p.m.

(ii) Prior to hunting, we must assign a refuge hunt unit and issue a refuge lottery waterfowl permit (signed brochure) to any person entering, using, or occupying the refuge for hunting migratory game birds. You may only hunt in your assigned unit.

(iii) When hunting migratory game birds, you may only use dogs to locate, point, and retrieve.

(iv) An adult age 18 or older must supervise youth hunters during all hunts. Youth hunter age and hunter education requirements are governed by State regulations. One adult may supervise two youths during small game and migratory game bird hunts. An adult may supervise only one youth during big game hunts. Youth must remain within normal voice contact of the adult who is supervising them. Parents or adult guardians are responsible for ensuring that hunters age 16 and younger do not violate refuge rules.

(v) All hunters must possess and carry a signed hunt brochure (signed brochure) while hunting on refuge.

(vi) Only one adult may occupy a unit with up to two youths during a designated lottery youth waterfowl hunt. We allow no more than three hunters to hunt from a single blind within a unit at one time during any waterfowl hunt.

(2) [Reserved]

(3) Big game hunting. We allow the hunting of white-tailed deer and feral hog on designated areas of the refuge subject to the following conditions:

(i) We open the refuge to hunting of deer and hog only during the State archery season, except that prior to 12 p.m. (noon) on Wednesdays and Saturdays during State waterfowl seasons, we close areas north of the Intracoastal Waterway to big game hunting.

(ii) Hunters may only enter the refuge after 4 a.m. and must exit by 1 hour after legal sunset.

(iii) You may take big game with archery equipment and as governed by State law. From October 1 through 15, State bucks-only regulations apply. From October 16 through February 15, you may take only one deer of either sex per day, and hunters may possess only one deer. The State season limits on deer apply. There is no daily or possession limit on feral hogs.

(iv) We prohibit the use of deer decoys.

(v) We only allow portable stands. Hunters may erect temporary deer stands 1 day prior to the start of deer archery season. Hunters must remove all deer stands within 1 day after the archery deer season closes (see § 27.93 of this chapter). Hunters may place only one deer stand on the refuge. Deer stands must have the owner's State hunting license number clearly printed on the stand. Hunters must place stands in a nonhunting position when not in use.

(vi) We prohibit organized deer drives. We define a “deer drive” as an organized or planned effort to pursue, drive, chase, or otherwise frighten or cause deer to move in the direction of any person(s) who is part of the organized or planned hunt and known to be waiting for the deer.

(vii) The conditions set forth at paragraphs (q)(1)(iv) and (v) of this section apply.

(4) Sport fishing. We allow sport fishing in all refuge waters subject to the following conditions:

(i) We prohibit the use of unattended nets, traps, or lines (trot, jog, bush, etc.).

(ii) We allow fishing in the refuge year-round.

(iii) The refuge is open from legal sunrise until legal sunset.

(iv) We prohibit the taking of turtle (see § 27.21 of this chapter).

(r) Red River National Wildlife Refuge—(1) Migratory game bird hunting. We allow hunting of duck, goose, coot, woodcock, and dove on designated areas of the refuge subject to the following conditions:

(i) Hunters must possess and carry a signed refuge permit (signed refuge brochure).

(ii) We allow waterfowl hunting until 12 p.m. (noon) during the State season.

(iii) We allow dove hunting only during the first 3 days of the State season on all refuge lands as indicated in the refuge brochure.

(iv) Hunters may enter the refuge no earlier than 4 a.m. and must exit the refuge no later than 1:30 p.m.

(v) Hunters may only hunt during designated times and seasons as listed in refuge brochure (signed brochure).

(vi) We prohibit hunting within 100 feet (30 meters) of any public road, refuge road, trail or ATV trail, residence, building, aboveground oil or gas or electrical transmission facility, or designated public facility.

(vii) When hunting migratory game birds, you may only use dogs to locate, point, and retrieve.

(2) Upland game hunting. We allow hunting of quail, squirrel, rabbit, raccoon, and opossum on designated areas of the refuge subject to the following conditions:

(i) The conditions set forth at paragraphs (r)(1)(i), (v), and (vi) of this section apply.

(ii) We allow hunting of raccoon and opossum during the daylight hours of rabbit and squirrel season. We allow night hunting during December and January, and you may use dogs for night hunting.

(iii) We allow the use of dogs to hunt squirrel and rabbit after December 31.

(iv) Hunters may enter the refuge no earlier than 4 a.m. and must exit the refuge no later than 1 hour after legal shooting hours.

(3) Big game hunting. We allow hunting of white-tailed deer, turkey, and feral hog on designated areas of the refuge subject to the following condition: The conditions set forth at paragraphs (r)(1)(i), (v), and (vi) and (r)(2)(iv) of this section apply.

(4) Sport Fishing. We allow sport fishing on designated areas of the refuge subject to the following conditions:

(i) We allow use of only electric trolling motors on all refuge waters while fishing.

(ii) Recreational fishing using commercial gear (slat traps, etc.) requires a special refuge permit (Special Use Permit (FWS Form 3-1383-G)), which is available at the refuge office. You must possess and carry the special refuge permit while fishing using commercial gear.

(iii) We prohibit the taking of alligator snapping turtle (see § 27.21 of this chapter).

(s) Sabine National Wildlife Refuge—(1) Migratory game bird hunting. We allow hunting of goose, duck, gallinule, and coot on designated areas of the refuge subject to the following conditions:

(i) Hunters may only hunt migratory game birds during designated refuge seasons.

(ii) We require all hunters to possess and carry a valid signed refuge hunt permit (signed brochure) and regulations brochure.

(iii) We prohibit entrance to the waterfowl hunting area earlier than 4 a.m. Shooting hours end at 2 p.m. each day.

(iv) Each hunter must complete and turn in a Migratory Bird Hunt Report (FWS Form 3-2361) from a self-clearing check station after each hunt.

(v) We allow only portable blinds and those made of native vegetation. Hunters must remove portable blinds, decoys, spent shells, and all other personal equipment after each day's hunt (see §§ 27.93 and 27.94 of this chapter).

(vi) We prohibit hunting within 50 yards (45 meters (m)) of refuge canals; waterways; public roads; buildings; aboveground oil, gas, or electrical transmission facilities; or designated public facilities. Hunting parties must maintain a distance of no less than 150 yards (135 m) away from another hunter.

(vii) When migratory bird hunting, you may only use dogs for the purpose of locating, pointing, and retrieving.

(2)-(3) [Reserved]

(4) Sport fishing. We allow sport fishing, crabbing, and cast netting on designated areas of the refuge subject to the following conditions:

(i) Bank and wharf access for fishing are available year-round at the public use areas along State Highway 27. Anglers may access the refuge for fishing by boat only during the March 15 to October 15 open period. You may launch boats at designated boat ramps only.

(ii) We allow fishing with a rod and reel, pole and line, or jug and line. We prohibit possession of any other type of fishing gear, including limb lines, gill nets, or trot lines. Jug line limit is up to 10 per boat, and you must attend them at all times. The angler must mark all jugs with their fishing license number (State requirement) and remove the jugs from the refuge at the end of each day (see § 27.93 of this chapter).

(iii) We prohibit fishing from October 16 through March 14 in Units 1A and 1B.

(iv) Anglers can travel the refuge by boat from 1 hour before legal sunrise until 1 hour after legal sunset in order to access fishing areas; however, we prohibit fishing activities before legal sunrise and after legal sunset.

(v) We allow recreational crabbing on designated areas of the refuge subject to the following conditions:

(A) We allow only recreational crabbing with cotton hand lines or drop nets up to 24 inches (60 centimeters) outside diameter. We prohibit using floats on crab lines.

(B) Anglers must remove all hand lines, drop nets, and bait from the refuge upon leaving (see § 27.93 of this chapter).

(C) We allow a daily limit of 5 dozen (60) crabs per vehicle or boat.

(vi) We allow recreational cast netting in designated areas of the refuge subject to the following conditions:

(A) We allow recreational cast netting from boats only from legal sunrise to legal sunset during the Louisiana inshore shrimp season.

(B) Anglers must immediately return all incidental take (bycatch) to the water before continuing to cast.

(C) The daily shrimp limit during the Louisiana inshore shrimp season is 5 gallons (19 liters (L)) of heads-on shrimp per day, per vehicle or boat.

(D) The daily bait shrimp limit is 1 gallon (3.8 L) per day, per boat, outside the Louisiana inshore shrimp season.

(E) Shrimp must remain in your actual custody while on the refuge.

(vii) We prohibit the taking of turtle (see § 27.21 of this chapter).

(t) Tensas River National Wildlife Refuge—(1) Migratory game bird hunting. We allow hunting of duck, coot, woodcock, and snipe on designated areas of the refuge subject to the following conditions:

(i) We allow hunting of duck and coot on Tuesdays, Thursdays, Saturdays, and Sundays until 2 p.m. during the State season. We prohibit migratory bird hunting during refuge gun hunts for deer.

(ii) We allow refuge hunters to enter the refuge no earlier than 4 a.m., and they must leave no later than 2 hours after legal sunset unless they are participating in the refuge nighttime raccoon hunt.

(iii) We allow all-terrain vehicle (ATV) travel on designated trails for access typically from October 1 to the last day of the refuge squirrel season.

(iv) We prohibit field dressing of game within 150 feet (45 meters) of parking areas, maintained roads, and trails.

(v) An adult age 18 or older must supervise youth hunters age 17 and younger during all hunts. One adult may supervise two youths during small game and migratory bird hunts but may supervise only one youth during big game hunts. Youth must remain within normal voice contact of the adult who is supervising them.

(2) Upland game hunting. We allow hunting of raccoon, squirrel, and rabbit on designated areas of the refuge subject to the following conditions:

(i) We allow nighttime raccoon hunting beginning the third Saturday in December and ending January 31. We allow raccoon hunters to hunt from legal sunset to legal sunrise with the aid of dogs, horses, and mules, and with use of lights. We allow such use of lights on the refuge only at the point of kill. We prohibit all other use of lights for hunting on the refuge. Hunters must attempt to take treed raccoons.

(ii) We allow the use of dogs when squirrel and rabbit hunting subject to the following conditions:

(A) We allow hunting without dogs from the beginning of the State season to December 31; during this time period, we do not require hunters to wear hunter orange.

(B) We allow squirrel and rabbit hunting with or without dogs from January 1 to the last day of February.

(C) We allow no more than three dogs per hunting party.

(iii) We close squirrel and rabbit hunting during the following gun hunts for deer: Refuge-wide youth hunt, primitive firearms hunt, and modern firearms hunt.

(iv) The conditions set forth at paragraphs (t)(1)(ii) through (v) of this section apply.

(3) Big game hunting. We allow hunting of white-tailed deer and turkey on designated areas of the refuge subject to the following conditions:

(i) Deer archery season will begin the first Saturday in November and will conclude on January 31. We prohibit archery hunting during the following refuge-wide deer hunts: Youth gun hunt and modern firearms hunts.

(ii) The deer primitive firearms season will occur between November 1 and January 31. We allow all legal primitive firearms as governed by State regulations.

(iii) During the deer primitive firearms season, hunters may fit any legal primitive firearms with magnified scopes. We allow hunters using primitive weapons to hunt reforested areas. We prohibit youth hunters from using modern firearms during the primitive weapon hunt.

(iv) During modern firearm hunts, all firearm hunting, even hunting with primitive weapons or muzzleloaders, is governed by applicable Federal and State regulations. We require a quota hunt permit for these hunts. We prohibit hunting in reforested areas. We prohibit hunting and/or shooting into or across any reforested area during the quota hunt for deer.

(v) For the guided quota youth hunts, we consider youth to be ages 8 through 15.

(vi) We will conduct a refuge-wide youth deer hunt. Hunt dates will be available at refuge headquarters typically in July. An adult age 18 or older must supervise a youth hunter age 15 or younger during the hunt. One adult may supervise only one youth during the deer hunt. A youth hunter must remain within normal voice contact of the supervising adult.

(vii) Hunters may take only one deer (one buck or one doe) per day during refuge deer hunts except during guided youth and wheelchair-bound hunts when the limit will be one antlerless and one antlered deer per day.

(viii) We designate refuge turkey hunt dates in the refuge hunting brochure (signed brochure).

(ix) The conditions set forth at paragraphs (t)(1)(ii) through (iv) of this section apply.

(x) We allow muzzleloader hunters to discharge their primitive firearms at the end of each hunt safely into the ground at least 150 feet (135 meters (m)) from any designated public road, maintained road, trail, fire break, dwelling, or aboveground oil and gas production facility. We define a “maintained road or trail” as one that has been mowed, disked, or plowed, or one that is free of trees.

(xi) We prohibit deer hunters leaving deer stands unattended before the opening day of the refuge archery season. Hunters must remove stands by the end of the last day of the refuge archery season (see § 27.93 of this chapter). Hunters must clearly mark stands left unattended on the refuge with the stand owner's State hunting license number. Hunters must remove portable stands from trees each day and place freestanding stands in a nonhunting position when unattended.

(xii) We allow hunting with slugs, rifle, or pistol ammunition larger than .22 caliber rimfire only during the quota hunts for deer. We prohibit use of buckshot when hunting.

(4) Sport fishing. We allow sport fishing on designated areas of the refuge subject to the following conditions:

(i) We allow anglers to enter the refuge no earlier than 4 a.m., and they must depart no later than 2 hours after legal sunset.

(ii) We prohibit the taking of turtle (see § 27.21 of this chapter).

(iii) We prohibit fish cleaning within 150 feet (45 m) of parking areas, maintained roads, and trails.

(u) Upper Ouachita National Wildlife Refuge—(1) Migratory game bird hunting. We allow hunting of duck, goose, coot, dove, and woodcock on designated areas of the refuge subject to the following conditions:

(i) You must carry a signed refuge hunt permit (signed public use regulations brochure) and must carry and fill out daily a Visitor Check-In Permit and Report (FWS Form 3-2405).

(ii) Hunters may only hunt during designated refuge seasons as listed in the signed refuge hunt permit.

(iii) We allow waterfowl hunting until 12 p.m. (noon) during the State season.

(iv) Hunters may enter the refuge no earlier than 4 a.m. and must exit the refuge no later than 1:30 p.m.

(v) We prohibit hunting within 100 feet (30 meters (m)) of the maintained rights-of-way of roads and from or across all-terrain vehicle (ATV) trails. We prohibit hunting within 50 feet (15 m) of, or trespassing on, aboveground oil, gas, or electrical transmission facilities.

(vi) When hunting migratory game birds, you may only use dogs to locate, point, and retrieve.

(vii) We allow ATVs only on trails designated for their use and marked by signs (see § 27.31 of this chapter). ATV trails are closed March 1 through August 31.

(2) Upland game hunting. We allow hunting of quail, squirrel, rabbit, raccoon, and opossum on designated areas of the refuge subject to the following conditions:

(i) The conditions set forth at paragraphs (u)(1)(i), (ii), (v), and (vii) of this section apply.

(ii) You may enter the refuge no earlier than 4 a.m. and must exit no later than 2 hours after legal shooting hours.

(3) Big game hunting. We allow hunting of white-tailed deer and turkey on designated areas of the refuge subject to the following conditions:

(i) The conditions set forth at paragraphs (u)(1)(i), (ii), (v), and (vii) and (u)(2)(ii) of this section apply.

(ii) Deer hunters must wear hunter orange as governed by State deer hunting regulations in wildlife management areas.

(iii) We prohibit hunters from placing stands or hunting from stands on pine trees with white-painted bands and/or rings.

(4) Sport fishing. We allow sport fishing on designated areas of the refuge subject to the following conditions:

(i) We prohibit leaving boats and other personal property on the refuge overnight (see § 27.93 of this chapter).

(ii) You must tend trotlines daily. You must attach ends of trotlines by a length of cotton line that extends into the water.

(iii) Recreational fishing using commercial gear (slat traps, etc.) requires a special refuge permit (Special Use Permit (FWS Form 3-1383-G)), which is available at the refuge office. You must possess and carry the special refuge permit while fishing using commercial gear.

(iv) We prohibit the taking of turtle (see § 27.21 of this chapter).

§ 32.38 Maine.

The following refuge units are open for hunting and/or fishing as governed by applicable Federal and State regulations, and are listed in alphabetical order with additional refuge-specific regulations.

(a) Moosehorn National Wildlife Refuge—(1) Migratory game bird hunting. We allow hunting of duck, goose, American woodcock, and snipe on designated areas of the refuge subject to the following conditions:

(i) We require every hunter to possess and carry a personally signed Migratory Bird Hunt Application (FWS Form 3-2439, Hunt Application—National Wildlife Refuge System).

(ii) We allow hunters to enter the refuge 2 hours before legal shooting hours, and they must exit the refuge by 1 hour past legal shooting hours.

(iii) We only allow portable or temporary blinds and decoys that must be removed from the refuge following each day's hunt (see § 27.93 of this chapter).

(iv) We allow the use of dogs to assist in the location and retrieval of game species during State hunt seasons for migratory birds.

(2) Upland game hunting. We allow hunting of ruffed grouse, snowshoe hare, red fox, gray and red squirrel, raccoon, skunk, and woodchuck on designated areas of the refuge subject to the following conditions:

(i) We require every hunter to possess and carry a personally signed Big/Upland Game Hunt Application (FWS Form 3-2439, Hunt Application—National Wildlife Refuge System).

(ii) We allow hunters to enter the refuge 2 hours before legal shooting hours, and they must exit the refuge by 1 hour past legal shooting hours, except for hunters pursuing raccoons at night.

(iii) We prohibit hunting of upland game species on refuge lands between April 1 and September 30.

(iv) We allow the use of dogs when hunting raccoon or red fox. We allow the use of dogs to assist in the location and retrieval of game species during State hunting seasons for upland game.

(3) Big game hunting. We allow hunting of black bear, bobcat, eastern coyote, moose, and white-tailed deer on designated areas of the refuge subject to the following conditions:

(i) The condition set forth at paragraph (a)(2)(i) of this section applies.

(ii) We allow hunters to enter the refuge 2 hours before legal shooting hours, and they must exit the refuge by 1 hour past legal shooting hours, except for hunters pursuing eastern coyotes at night.

(iii) The hunter must retrieve all species, including coyotes, harvested on the refuge.

(iv) We allow eastern coyote hunting from October 1 to March 31.

(v) We allow portable tree stands, blinds, and ladders. You must clearly label any tree stand, blind, or ladder left on the refuge overnight with your hunting license number. You must remove your tree stand(s), blind(s), and/or ladder(s) from the refuge on the last day of the muzzleloader deer season (see § 27.93 of this chapter).

(vi) You may hunt black bear, eastern coyote, and white-tailed deer during the State archery and firearms deer seasons on that part of the Baring Division that lies east of State Route 191.

(vii) We prohibit use of firearms to hunt bear and coyote during the archery deer season on that part of the Baring Division that lies east of Route 191. We prohibit the use of firearms, other than a muzzleloader, to hunt coyote during the deer muzzleloader season on that part of the Baring Division that lies east of Route 191.

(viii) We allow the use of dogs when hunting black bear, bobcat, and eastern coyote. We allow the use of dogs to assist in the location and retrieval of game species during State hunting seasons for big game.

(4) Sport fishing. We allow sport fishing on designated areas of the refuge subject to the following conditions:

(i) We only allow fishing from ½ hour before legal sunrise to ½ hour after legal sunset.

(ii) We prohibit trapping fish for use as bait on the refuge.

(b) Petit Manan National Wildlife Refuge—(1) Migratory game bird hunting. We allow hunting of duck, goose, woodcock, rail, and snipe on designated areas of the refuge subject to the following condition: We allow the use of dogs for retrieving migratory game birds.

(2) Upland game hunting. We allow hunting of upland game on designated areas of the refuge subject to the following conditions:

(i) We allow the use of dogs for hunting ruffed grouse.

(ii) You may hunt coyotes from November 1 to March 31.

(iii) Hunters must retrieve all species, including coyotes, harvested on the refuge.

(iv) We prohibit night hunting from ½ hour after legal sunset until ½ hour before legal sunrise the following day.

(3) Big game hunting. We allow hunting of white-tailed deer and black bear on designated areas of the refuge subject to the following conditions:

(i) Petit Manan Point is open only during the State-prescribed muzzleloader deer season.

(ii) We allow black bear hunting during the firearm season for white-tailed deer.

(iii) We allow hunters to enter the refuge 1 hour prior to legal sunrise and remain on the refuge 1 hour after legal sunset.

(4) [Reserved]

(c) Rachel Carson National Wildlife Refuge—(1) Migratory game bird hunting. We allow hunting of duck, goose, coot, woodcock, and snipe on designated areas of the refuge subject to the following conditions:

(i) Prior to entering designated refuge hunting areas, you must obtain a Migratory Bird Hunt Application (FWS Form 3-2439, Hunt Application—National Wildlife Refuge System) and sign and carry the permit at all times.

(ii) We open designated youth hunting areas to hunters age 15 and younger who possess and carry a refuge hunting permit (FWS Form 3-2439, Hunt Application—National Wildlife Refuge System). Youth hunters must be accompanied by an adult age 18 or older. The accompanying adult must possess and carry a refuge hunting permit (FWS Form 3-2439, Hunt Application—National Wildlife Refuge System) and may also hunt.

(iii) We allow the use of dogs when hunting migratory game birds and upland game species.

(iv) You may use seasonal blinds with a Special Use Permit (FWS Form 3-1383-G). A permitted seasonal blind is available to permitted hunters on a first-come, first-served basis. The permit holder for the blind is responsible for the removal of the blind at the end of the season and compliance with all conditions of the Special Use Permit.

(2) Upland game hunting. We allow hunting of pheasant, quail, grouse, fox, and coyote on designated areas of the refuge subject to the following conditions:

(i) Prior to entering designated refuge hunting areas, you must obtain a Big/Upland Game Hunt Application (FWS Form 3-2439, Hunt Application—National Wildlife Refuge System) and sign and carry the permit at all times

(ii) We allow take of pheasant, quail, and grouse by falconry on the refuge during State seasons.

(iii) The condition set forth at paragraph (c)(1)(iii) of this section applies.

(3) Big game hunting. We allow hunting of white-tailed deer and turkey on designated areas of the refuge subject to the following conditions:

(i) The condition as set forth at paragraph (c)(2)(i) of this section applies.

(ii) We allow hunting with shotgun and archery only. We prohibit rifles and muzzleloading firearms for hunting.

(iii) We allow turkey hunting during the fall season only, as designated by the State.

(iv) We allow only archery on those areas of the Little River division open to hunting.

(v) During the State firearm deer season, we only allow hunting of fox and coyote with archery or shotgun as incidental take with a refuge big game permit.

(vi) We allow hunting from ½ hour before legal sunrise to ½ hour after legal sunset.

(4) Sport fishing. We allow sport fishing on designated areas of the refuge subject to the following conditions:

(i) We allow fishing from legal sunrise to legal sunset.

(ii) We prohibit lead jigs and sinkers.

(iii) We prohibit trapping fish for use as bait on the refuge.

(d) Sunkhaze Meadows National Wildlife Refuge—(1) Migratory game bird hunting. We allow hunting of migratory game birds on designated areas of the refuge subject to the following condition: We allow the use of dogs to assist in the location and retrieval of game species during State hunting seasons for migratory bird game hunting.

(2) Upland game hunting. We allow hunting of upland game on designated areas of the refuge subject to the following conditions:

(i) We allow eastern coyote hunting from October 1 to March 31.

(ii) We allow hunters to enter the refuge 1 hour before legal shooting hours, and they must exit the refuge by 1 hour past legal shooting hours, except for hunters pursuing raccoons and coyotes at night.

(iii) The hunter must retrieve all species, including coyotes, harvested on the refuge.

(iv) We allow the use of dogs to assist in the location and retrieval of game species during State hunting seasons for upland game.

(3) Big game hunting. We allow hunting of black bear, bobcat, moose, and white-tailed deer on designated areas of the refuge subject to the following conditions:

(i) We allow hunters to enter the refuge 1 hour before legal shooting hours, and they must exit the refuge by 1 hour past legal shooting hours.

(ii) We allow portable tree stands, blinds, and ladders. You must clearly label any tree stand, blind, or ladder left on the refuge overnight with your name and hunting license number. You must remove your tree stand(s), blind(s), and/or ladder(s) from the refuge on the last day of the muzzleloader deer season (see § 27.93 of this chapter).

(iii) We allow the use of dogs to assist in the location of game species during State hunting seasons for big game.

(4) Sport fishing. We allow sport fishing on designated areas of the refuge subject to the following condition: We prohibit trapping fish for use as bait on the refuge.

(e) Umbagog National Wildlife Refuge—(1) Migratory game bird hunting. We allow hunting of duck, goose, snipe, coot, crow, and woodcock on designated areas of the refuge subject to the following conditions:

(i) Hunters must remove temporary blinds, boats, and decoys from the refuge following each day's hunt (see § 27.93 of this chapter).

(ii) We allow the use of dogs to assist in the location and retrieval of game species.

(2) Upland game hunting. We allow hunting of fox, raccoon, woodchuck, squirrel, porcupine, skunk, snowshoe hare, ring-necked pheasant, and ruffed grouse on designated areas of the refuge subject to the following conditions:

(i) We prohibit night hunting from ½ hour after legal sunset until ½ hour before legal sunrise the following day.

(ii) The condition set forth at paragraph (e)(1)(ii) of this section applies.

(3) Big game hunting. We allow hunting of bear, white-tailed deer, coyote, wild turkey, and moose on designated areas of the refuge subject to the following conditions:

(i) The conditions set forth at paragraphs (e)(1)(ii) and (e)(2)(i) of this section apply.

(ii) Hunters must retrieve all species, including coyotes, harvested on the refuge.

(iii) We allow temporary blinds and tree stands that are clearly marked with the owner's State hunting license number. You may erect temporary blinds and tree stands no earlier than 14 days prior to the hunting season, and you must remove them within 14 days after the hunting season (see § 27.93 of this chapter).

(4) [Reserved]

§ 32.39 Maryland.

The following refuge units are open for hunting and/or fishing as governed by applicable Federal and State regulations, and are listed in alphabetical order with additional refuge-specific regulations.

(a) Blackwater National Wildlife Refuge—(1) Migratory game bird hunting. We allow hunting of goose and duck on designated areas of the refuge subject to the following conditions:

(i) You must obtain and possess while hunting a refuge waterfowl hunting permit (signed brochure) by signing the corresponding season's refuge waterfowl hunting brochure in ink.

(ii) Up to three additional hunters may accompany you on your reserved unit.

(2) [Reserved]

(3) Big game hunting. We allow the hunting of white-tailed and sika deer and turkey on designated areas of the refuge subject to the following conditions:

(i) General hunt regulations for this paragraph (a)(3). (A) You must obtain, and possess while hunting, a turkey or deer hunting permit (Big/Upland Game or Quota Deer Hunt Application, FWS Form 3-2439, Hunt Application—National Wildlife Refuge System).

(B) We prohibit organized deer drives unless authorized by the refuge manager. We define a “deer drive” as an organized or planned effort to pursue, drive, chase, or otherwise frighten or cause deer to move in the direction of any person(s) who is part of the organized or planned hunt and known to be waiting for the deer.

(C) We prohibit shooting a projectile from a firearm, muzzleloader, bow, or crossbow from, down, or across any refuge road. A refuge road is any road that is traveled by vehicular traffic.

(D) You must check all deer harvested at the refuge-sponsored check station during hunt days when the refuge-sponsored check station is open. If you fail to check deer during operation hours of the check station, you must notify the hunt coordinator by 12 p.m. (noon) on the day after your kill.

(E) We prohibit the use of rimfire or centerfire rifles and all handguns, including muzzleloading pistols, for hunting.

(ii) Archery deer hunt. We do not allow archery hunters to hunt within areas designated for the youth hunt on designated days.

(iii) Turkey hunt. We allow turkey hunt permit holders to have an assistant, who must remain within sight and normal voice contact and abide by the rules set forth in the Blackwater turkey brochure (signed brochure).

(iv) Youth deer and turkey hunt. We allow youth hunters to hunt on designated areas on designated days (youth hunt) if they meet the criteria of a “youth hunter” as governed by State law and possess a signed refuge hunt brochure (signed brochure).

(v) Designated disabled hunt. (A) We require disabled hunters to have their America the Beautiful Access pass (OMB Control 1024-0252) in their possession while hunting in disabled areas.

(B) Disabled hunters may have an assistant, age 18 or older, who must remain within sight and normal voice contact while hunting. Assistants must possess a valid refuge hunt brochure (permit), signed in ink, and a valid government-issued photo identification.

(4) Sport fishing. We allow sport fishing and crabbing on designated areas of the refuge subject to the following conditions:

(i) We allow fishing and crabbing only from April 1 through September 30 from legal sunrise to legal sunset in refuge waters, unless otherwise authorized by the refuge manager.

(ii) We allow fishing and crabbing by boat in the Big Blackwater and the Little Blackwater River.

(b) Eastern Neck National Wildlife Refuge. (1)-(2) [Reserved]

(3) Big game hunting. We allow hunting of white-tailed deer and turkey on designated areas of the refuge subject to the following conditions:

(i) General hunt regulations for this paragraph (b)(3). (A) You must obtain, and possess while hunting, a deer or turkey hunting permit (Big/Upland Game Hunt Application, FWS Form 3-2439, Hunt Application—National Wildlife Refuge System).

(B) We prohibit shooting a projectile from a firearm, muzzleloader, bow, or crossbow from, down, or across any refuge road. A refuge road is any road that is traveled by vehicular traffic.

(C) We prohibit the use of rimfire or centerfire rifles and all handguns, including muzzleloading pistols, for hunting.

(ii) Youth deer hunt. We allow youth hunters to hunt on designated areas on designated days (youth hunt) if they meet the criteria of a “youth hunter” as governed by State law and possess a signed refuge hunt brochure (signed brochure).

(iii) Designated disabled hunt. (A) We require disabled hunters to have their America the Beautiful Access pass (OMB Control 1024-0252) in their possession while hunting in disabled areas.

(B) Disabled hunters may have an assistant who must be age 18 or older and remain within sight and normal voice contact. Assistants must possess a valid refuge hunt brochure (permit), signed in ink, and a valid government-issued photo identification.

(4) Sport fishing. We allow sport fishing and crabbing in designated areas of the refuge subject to the following conditions:

(i) We allow fishing and crabbing from designated shoreline areas located at the Ingleside Recreation Area from legal sunrise to legal sunset, April 1 through September 30.

(ii) We allow fishing from designated shoreline areas located at the Chester River end of Boxes Point and Duck Inn Trails from legal sunrise to legal sunset.

(c) Patuxent Research Refuge—(1) Migratory game bird hunting. We allow hunting of goose, duck, and dove on designated areas of the refuge subject to the following conditions:

(i) We require a Refuge Hunt Application (FWS Form 3-2439, Hunt Application—National Wildlife Refuge System), and a signed Statement of Hunter Ethics (FWS Form 3-2516).

(ii) We prohibit hunting and scouting on Sundays and Federal holidays. No hunt-related activities may take place unless the Hunting Control Station is open.

(iii) We allow the use of dogs to retrieve migratory game birds.

(iv) We prohibit wading in all impounded waters except for when placing and retrieving decoys.

(2) Upland game hunting. We allow hunting of gray squirrel, eastern cottontail rabbit, and woodchuck on designated areas of the refuge subject to the following condition: The conditions set forth at paragraphs (c)(1)(i) and (ii) of this section apply.

(3) Big game hunting. We allow hunting of turkey and white-tailed deer on designated areas of the refuge subject to the following conditions:

(i) The conditions set forth at paragraphs (c)(1)(i) and (ii) of this section apply.

(ii) We prohibit organized deer drives. We define a “deer drive” as an organized or planned effort to pursue, drive, chase, or otherwise frighten or cause deer to move in the direction of any person(s) who is part of the organized or planned hunt and known to be waiting for the deer.

(iii) We allow the use of portable tree stands and blinds as governed by State regulations. You must remove your tree stand(s) and/or blind(s) from the refuge at the end of each day (see § 27.93 of this chapter).

(4) Sport fishing. We allow sport fishing on designated areas of the refuge subject to the following conditions:

(i) We prohibit the use and/or possession of lead sinkers.

(ii) We allow the use of earthworms as the only source of live bait. We prohibit the use of bloodworms, fish, or other animals or parts of animals as bait.

§ 32.40 Massachusetts.

The following refuge units are open for hunting and/or fishing as governed by applicable Federal and State regulations, and are listed in alphabetical order with additional refuge-specific regulations.

(a) Assabet River National Wildlife Refuge—(1) Migratory game bird hunting. We allow hunting of woodcock on designated areas of the refuge subject to the following conditions:

(i) Hunters must obtain and possess a refuge-specific hunting permit (electronic form) to hunt on the refuge.

(ii) You may begin scouting hunting areas 4 weeks prior to the opening day of your permitted season. We require possession of a valid refuge hunting permit while scouting.

(iii) We allow the use of dogs to retrieve game.

(2) Upland game hunting. We allow hunting of ruffed grouse, gray squirrel, and cottontail rabbit on designated areas of the refuge subject to the following conditions:

(i) We allow only shotgun hunting for ruffed grouse, cottontail rabbit, and gray squirrel within those portions of the refuge located north of Hudson Road, except those areas north of Hudson Road designated as “archery only” hunting.

(ii) The conditions set forth at paragraphs (a)(1)(i) and (iii) of this section apply.

(3) Big game hunting. We allow hunting of white-tailed deer and turkey on designated areas of the refuge subject to the following conditions:

(i) We allow shotgun and muzzleloader hunting of white-tailed deer, as well as shotgun hunting of turkey, within the portions of the refuge located north of Hudson Road, except those areas north of Hudson Road that are designated as “archery only” hunting.

(ii) We allow archery deer and archery turkey hunting within all portions of the refuge during the hunting seasons for these species.

(iii) The conditions set forth at paragraphs (a)(1)(i) and (ii) of this section apply.

(iv) We prohibit organized deer drives. We define a “deer drive” as an organized or planned effort to pursue, drive, chase, or otherwise frighten or cause deer to move in the direction of any person(s) who is part of the organized or planned hunt and known to be waiting for the deer.

(v) One nonhunting companion may accompany each permitted hunter. We prohibit nonhunting companions from hunting, but they may assist in other means. All companions must carry identification and stay with the hunter.

(vi) Hunters may use temporary tree stands and/or ground blinds while engaged in hunting deer during the applicable archery, shotgun, or muzzleloader deer seasons or while hunting turkey. We allow hunters to keep one tree stand or ground blind on the refuge during the permitted season. Hunters must mark ground blinds with their permit number. Hunters must mark tree stands with their permit number so that all numbers are visible from the ground. Hunters must remove all temporary tree stands and ground blinds by 15 days after the end of the permitted season (see § 27.93 of this chapter).

(4) Sport fishing. We allow sport fishing on designated areas of the refuge subject to the following conditions:

(i) We allow catch-and-release fishing only.

(ii) We allow the use of live bait with the exception of any amphibians or reptiles (frogs, salamanders, etc.).

(b) Great Meadows National Wildlife Refuge—(1) Migratory game bird hunting. We allow hunting of duck and goose on designated areas of the refuge subject to the following condition: We allow the use of dogs to retrieve game.

(2) [Reserved]

(3) Big game hunting. We allow archery hunting of whitetail deer on designated areas of the refuge subject to the following conditions:

(i) Hunters must obtain and possess a valid refuge hunting permit (electronic form) to hunt deer on the refuge.

(ii) We allow archery hunting of deer only. We prohibit the use of firearms for hunting deer on the refuge.

(iii) Hunters may begin scouting hunting areas beginning 4 weeks prior to the opening day of their permitted season. We require possession of a valid refuge hunting permit (electronic form) while scouting.

(iv) We allow one nonhunting companion to accompany each permitted hunter. We prohibit nonhunting companions from hunting, but they can assist in other means. All companions must carry identification and stay with the hunter.

(v) We prohibit organized deer drives. We define a “deer drive” as an organized or planned effort to pursue, drive, chase, or otherwise frighten or cause deer to move in the direction of any person(s) who is part of the organized or planned hunt and known to be waiting for the deer.

(vi) You may use temporary tree stands and/or ground blinds while engaged in hunting deer during the applicable archery season. We allow hunters to keep one tree stand or ground blind on each refuge during the permitted season. Hunters must mark ground blinds with their permit number. Hunters must mark tree stands with their permit number so that all numbers are visible from the ground. Hunters must remove all temporary tree stands and ground blinds by 15 days after the end of the permitted deer season (see § 27.93 of this chapter).

(4) Sport fishing. We allow sport fishing on designated areas of the refuge.

(c) Mashpee National Wildlife Refuge—(1) Migratory game bird hunting. We allow migratory game bird hunting on designated areas of the refuge subject to the following conditions:

(i) Hunters may enter the refuge no earlier than ½ hour before legal sunrise and must leave the refuge no later than ½ hour after legal sunset.

(ii) We allow the use of dogs to retrieve game.

(2) Upland game hunting. We allow hunting of coyote, fox, raccoon, opossum, gray squirrel, quail, pheasant, crow, and ruffed grouse on designated areas of the refuge subject to the following condition: The conditions set forth at paragraphs (c)(1)(i) and (ii) of this section apply.

(3) Big game hunting. We allow hunting of white-tailed deer and wild turkey on designated areas of the refuge subject to the following conditions:

(i) The condition set forth at paragraph (c)(1)(i) of this section applies.

(ii) We prohibit organized deer drives. We define a “deer drive” as an organized or planned effort to pursue, drive, chase, or otherwise frighten or cause deer to move in the direction of any person(s) who is part of the organized or planned hunt and known to be waiting for the deer.

(4) [Reserved]

(d) Monomoy National Wildlife Refuge—(1) Migratory game bird hunting. We allow hunting of waterfowl (duck, goose, and coot) on designated areas of the refuge by boat only subject to the following condition: We allow the use of dogs for retrieving game.

(2) Upland game hunting. We allow hunting of coyote on designated areas subject to the following conditions:

(i) We prohibit hunting of coyote during the month of October.

(ii) We allow refuge access from ½ hour prior to legal sunrise until legal sunset.

(3) [Reserved]

(4) Sport fishing. We allow sport fishing on designated areas of the refuge subject to the following conditions:

(i) We allow fishing on the portions of the Monomoy Islands that we do not post as closed to public use from legal sunrise to legal sunset.

(ii) We allow surf fishing from the Morris Island shore 24 hours a day.

(e) Nantucket National Wildlife Refuge. (1)-(3) [Reserved]

(4) Sport fishing. We allow sport fishing on designated areas of the refuge.

(f) Oxbow National Wildlife Refuge—(1) Migratory game bird hunting. We allow hunting of waterfowl, woodcock, and Wilson's snipe on designated areas of the refuge subject to the following conditions:

(i) Hunters must obtain and possess a refuge-specific hunting permit to hunt on the refuge.

(ii) Hunters may begin scouting hunting areas 4 weeks prior to the opening day of your permitted season. We require possession of a valid refuge hunting permit (electronic form) while scouting.

(iii) We allow the use of dogs to retrieve game.

(iv) One nonhunting companion may accompany each permitted hunter. We prohibit nonhunting companions from hunting, but they can assist in other means. All companions must carry identification and stay with the hunter.

(2) Upland game hunting. We allow hunting of ruffed grouse, gray squirrel, and eastern cottontail rabbit on designated areas of the refuge subject to the following condition: The condition set forth at paragraph (f)(1)(i) of this section applies.

(3) Big game hunting. We allow hunting of white-tailed deer and turkey on designated areas of the refuge subject to the following conditions:

(i) We allow shotgun, archery, and muzzleloader hunting of white-tailed deer, as well as shotgun and archery hunting of turkey, within the portions of the refuge located south of Massachusetts Route 2 and west of the B&M railroad tracks.

(ii) We allow archery deer and archery turkey hunting within the portions of the refuge located south of Massachusetts Route 2 and east of the B&M railroad tracks, and within the portions of the refuge along the easterly side of the Nashua River located north of the commuter rail tracks in Ayer, Massachusetts.

(iii) We allow archery deer hunting as well as shotgun and archery turkey hunting within the portions of the refuge located north of Massachusetts Route 2 and south of Hospital Road, and within the portions of the refuge along the westerly side of the Nashua River located north of the commuter rail tracks in Shirley, Massachusetts.

(iv) The conditions set forth at paragraphs (f)(1)(i) and (iv) of this section apply.

(v) Hunters may begin scouting hunting areas 4 weeks prior to the opening day of your permitted season. We require possession of a valid refuge hunting permit (electronic form) while scouting.

(vi) We prohibit organized deer drives. We define a “deer drive” as an organized or planned effort to pursue, drive, chase, or otherwise frighten or cause deer to move in the direction of any person(s) who is part of the organized or planned hunt and known to be waiting for the deer.

(vii) Hunters may use temporary tree stands and/or ground blinds while engaged in hunting deer during the applicable archery, shotgun, or muzzleloader deer seasons or while hunting turkey. We allow hunters to keep one tree stand or ground blind on the refuge during the permitted season. Hunters must mark ground blinds with their permit number. Hunters must mark tree stands with their permit number so that all numbers are visible from the ground. Hunters must remove all temporary tree stands and ground blinds by 15 days after the end of the permitted season (see § 27.93 of this chapter).

(4) Sport fishing. We allow sport fishing in designated areas of the refuge.

(g) Parker River National Wildlife Refuge—(1) Migratory game bird hunting. We allow hunting of migratory game birds on designated areas of the refuge subject to the following conditions:

(i) We allow hunting ½ hour before legal sunrise to ½ hour after legal sunset.

(ii) We prohibit the use of centerfire rifles and handguns to hunt any species.

(iii) We prohibit shooting across refuge roads, across boundaries, and within or into administratively closed zones.

(iv) We allow the use of dogs for retrieving game, but prohibit the use of dogs to hunt furbearers.

(v) We prohibit launching motorized boats for scouting purposes prior to hunting.

(vi) We allow crow hunting only from September 1 through February 28.

(2) Upland game hunting. We allow hunting of upland game on designated areas of the refuge subject to the following condition: The conditions set forth at paragraphs (g)(1)(i) through (v) of this section apply.

(3) Big game hunting. We allow hunting of white-tailed deer and wild turkey on designated areas of the refuge subject to the following conditions:

(i) The conditions set forth at paragraphs (g)(1)(i) through (v) of this section apply.

(ii) We only allow hunting of white-tailed deer on Plum Island subject to the following conditions:

(A) We allow archery, primitive firearms, shotgun, and crossbow (by MassWildlife permit only, for certain disabled persons) hunting during a designated 2-day hunt on the first Wednesday and Thursday of the State shotgun deer season.

(B) You must have a lottery-issued hunt permit (FWS Form 3-2439, Hunt Application—National Wildlife Refuge System) to hunt during this 2-day time period.

(C) We allow deer hunt permittees to scout from Thursday through Sunday prior to their hunt and require hunters to possess their refuge permit while scouting.

(D) You must register harvested deer (Big Game Harvest Report, FWS Form 3-2359) at the refuge check station, if operational.

(E) Hunters must check-in and out with refuge personnel prior to entering and exiting the refuge.

(iii) We allow hunting of deer and wild turkey in Areas A, B, C, and D subject to the following condition: You may take deer using archery equipment only.

(4) Sport fishing. We allow saltwater fishing on designated areas of the refuge subject to the following conditions:

(i) We allow saltwater fishing on the ocean beach from legal sunrise to legal sunset without a refuge permit.

(ii) Stage Island is open to fishing from legal sunrise to legal sunset.

(iii) Nelson Island is open to fishing from legal sunrise to legal sunset.

(iv) We allow walk-on night fishing after legal sunset with a valid refuge permit (FWS Form 3-2358; vehicle sticker issued by the refuge office).

(v) We allow anglers to use over-the-sand, surf-fishing vehicles, or off-road vehicles (ORVs) with a valid refuge permit and permit fee, as determined in an annual lottery.

(h) Silvio O. Conte National Fish and Wildlife Refuge—(1) Migratory game bird hunting. We allow hunting of migratory game birds on designated areas subject to the following conditions:

(i) We allow refuge access from ½ hour prior to legal sunrise until ½ hour after legal sunset.

(ii) We prohibit access to Third Island between January 1 and June 30.

(iii) We allow the use of dogs when hunting waterfowl and upland game species.

(iv) We only allow the use of temporary tree stands and blinds, which must be removed at the end of each hunt day. All tree stands and blinds must have the name and telephone number of the owner clearly printed in an easily readable area.

(2) Upland game hunting. We allow hunting of upland game on designated areas of the refuge subject to the following condition: The conditions set forth at paragraphs (h)(1)(i) through (iii) of this section apply.

(3) Big game hunting. We allow hunting of big game on designated areas of the refuge subject to the following condition: The conditions set forth at paragraphs (h)(1)(i) and (iv) of this section apply.

(4) Sport fishing. We allow sport fishing on designated areas of the refuge subject to the following conditions:

(i) The conditions set forth at paragraphs (h)(1)(i) and (ii) of this section apply.

(ii) We prohibit launching of motorboats from the refuge.

(iii) We prohibit the use of reptiles and amphibians as bait.

§ 32.41 Michigan.

The following refuge units are open for hunting and/or fishing as governed by applicable Federal and State regulations, and are listed in alphabetical order with additional refuge-specific regulations.

(a) Detroit River International Wildlife Refuge—(1) Migratory game bird hunting. We allow hunting of duck, goose, rail, gallinule, coot, woodcock, and snipe on designated areas of the refuge subject to the following conditions:

(i) You must remove all of your blinds, boats, and decoys from the refuge each day (see § 27.93 of this chapter).

(ii) We allow refuge access from 1½ hours prior to legal sunrise until 1 hour after legal sunset.

(iii) We allow the use of dogs while hunting, provided the dog is under the immediate control of the hunter at all times.

(iv) We allow hunting of waterfowl only on the Plum Creek Bay Unit of the refuge and only through boat access.

(v) We allow hunting of waterfowl only on the Brancheau Unit of the refuge as governed by Pointe Mouillee State Game Area special hunt regulations and subject to the following conditions:

(A) You must obtain and possess a State-issued permit for this unit by entering the Michigan Department of Natural Resources' daily drawing at the Pointe Mouillee State Game Area.

(B) You must remain with 75 feet (22.5 meters) of your assigned blind or numbered post. We allow an exception for unarmed (hunting weapons) retrieval of waterfowl.

(C) We allow only nonmotorized boats.

(D) We prohibit shot size larger than BBB.

(2) Upland game hunting. We allow hunting of pheasant, squirrel, rabbit, fox, raccoon, and coyote on designated areas of the refuge and subject to the following conditions:

(i) The conditions set forth at paragraphs (a)(1)(i) through (iii) of this section apply.

(ii) You may possess only approved nontoxic shot (see § 32.2(k)) while in the field with the following exception: While hunting fox, coyotes, and raccoons in units where we allow it, you may use single projectile shot such as bullets, slugs, or muzzleloader bullets containing lead. We prohibit the use of buckshot for any hunting on the refuge.

(iii) On the Humbug Island Unit, you may only hunt with shotgun shells or archery equipment.

(3) Big game hunting. We allow hunting of deer and turkey on designated areas of the refuge subject to the following conditions:

(i) The conditions set forth at paragraphs (a)(1)(i) and (ii) of this section apply.

(ii) For wild turkey hunting, you may possess only approved nontoxic shot (see § 32.2(k)) while in the field.

(iii) For deer hunting, you may possess only single projectile shot. We prohibit the use of buckshot for any hunting on the refuge.

(iv) We allow portable tree stands for deer hunting. We allow only one tree stand per hunter per refuge unit.

(v) For Humbug Marsh Mainland only:

(A) You must obtain and possess a State-issued permit for this unit by entering the Michigan Department of Natural Resources' annual drawing.

(B) You must obtain and possess a state access permit (issued by the refuge) for the date on which you are hunting in the Humbug Marsh Unit.

(C) You must hunt from a provided fixed hunting platform and/or blind.

(vi) The Humbug Island Unit is closed to firearm deer hunting. We allow only archery deer hunting on Humbug Island.

(vii) The Fix Unit is closed to firearm deer hunting. We allow only archery deer hunting in the Fix Unit.

(4) [Reserved]

(b) Harbor Island National Wildlife Refuge. (1)-(2) [Reserved]

(3) Big game hunting. We allow hunting of white-tailed deer and black bear subject to the following condition: We prohibit the use of dogs when hunting.

(4) [Reserved]

(c) Kirtland's Warbler Wildlife Management Area—(1) Migratory game bird hunting. We allow migratory game bird hunting.

(2) Upland game hunting. We allow upland game hunting.

(3) Big game hunting. We allow big game hunting.

(4) [Reserved]

(d) Michigan Wetland Management District—(1) Migratory game bird hunting. We allow hunting of migratory game birds subject to the following conditions:

(i) Hunters must remove boats, decoys, blinds, and blind materials at the end of each day (see § 27.93 of this chapter).

(ii) We allow the use of dogs while hunting, provided the dog is under the immediate control of the hunter at all times.

(2) Upland game hunting. We allow hunting of upland game subject to the following condition: The conditions set forth at paragraphs (d)(1)(i) and (ii) of this section apply.

(3) Big game hunting. We allow the hunting of big game.

(4) Sport fishing. We allow sport fishing on designated areas of the refuge.

(e) Seney National Wildlife Refuge—(1) Migratory game bird hunting. We allow hunting of woodcock and snipe on designated areas of the refuge subject to the following condition: We allow the use of dogs when hunting migratory birds, provided the dog is under the immediate control of the hunter at all times.

(2) Upland game hunting. We allow hunting of ruffed grouse and snowshoe hare on designated areas of the refuge subject to the following condition: We allow the use of dogs when hunting upland game, provided the dog is under the immediate control of the hunter at all times.

(3) Big game hunting. We allow the hunting of deer and bear on designated areas of the refuge subject to the following condition: We prohibit the use of dogs while deer or bear hunting.

(4) Sport fishing. We allow fishing on designated areas of the refuge subject to the following conditions:

(i) We prohibit the use of fishing weights or lures containing lead.

(ii) We allow ice fishing from January 1 through the end of February.

(iii) Anglers must remove ice fishing shelters and all other personal property from the refuge each day (see § 27.93 of this chapter).

(iv) We allow fishing on designated refuge pools from May 15 through September 30.

(v) We allow fishing only from legal sunrise to legal sunset.

(f) Shiawassee National Wildlife Refuge—(1) Migratory game bird hunting. We allow hunting of waterfowl (duck and goose), American coot, common gallinule, sora, Virginia rail, and Wilson's snipe on designated areas of the refuge subject to the following conditions:

(i) You must possess and carry a refuge permit (signed brochure).

(ii) We allow waterfowl hunting on Saturdays, Sundays, Tuesdays, and Thursdays during the regular goose season after September 30.

(iii) We allow hunter access to the refuge 1½ hours before legal shooting time.

(iv) You may possess no more than 25 shotgun shells while hunting in the field.

(v) We allow the use of dogs while hunting, provided the dog is under the immediate control of the hunter at all times.

(vi) We allow the take of feral hogs incidental to other lawful hunting using legal methods of take.

(2) Upland game hunting. We allow hunting of turkey, small game (eastern fox squirrel, eastern cottontail, ring-necked pheasant, American woodcock, and American crow), and furbearers (raccoon, coyote, and red fox) on designated areas of the refuge subject to the following conditions:

(i) The condition set forth at paragraph (f)(1)(vi) of this section applies.

(ii) You may only hunt turkey during the spring season.

(iii) We allow hunter access for the spring wild turkey season from 1½ hours before legal shooting time to ½ hour after legal shooting time.

(iv) We allow hunter access for small game hunting from ½ hour before legal shooting time to ½ hour after legal shooting time.

(v) We allow hunter access for furbearer hunting from ½ hour before legal sunrise to ½ hour after legal sunset.

(vi) We allow dogs for hunting. Raccoon hunting dogs must wear global positioning system (GPS) or radio collars.

(3) Big game hunting. We allow hunting of white-tailed deer on designated areas of the refuge subject to the following conditions:

(i) The condition set forth at paragraph (f)(1)(vi) of this section applies.

(ii) You must possess and carry a refuge permit (State-issued permit).

(4) Sport fishing. We allow sport fishing on designated areas of the refuge subject to the following conditions:

(i) We allow fishing by boat in navigable waterways but not within any managed refuge units.

(ii) We allow bank fishing from legal sunrise to legal sunset only at designated sites along the Tittabawassee and Cass Rivers.

§ 32.42 Minnesota.

The following refuge units are open for hunting and/or fishing as governed by applicable Federal and State regulations, and are listed in alphabetical order with additional refuge-specific regulations.

(a) Agassiz National Wildlife Refuge—(1) Migratory game bird hunting. We allow youth waterfowl hunting on designated areas of the refuge subject to the following conditions:

(i) We allow the use of dogs while hunting, provided the dog is under the immediate control of the hunter at all times.

(ii) Hunters must dismantle hunting blinds, platforms, and ladders made from natural vegetation at the end of each day.

(iii) You must remove all boats, decoys, blind materials, stands, platforms, cameras, and other personal property brought onto the refuge at the end of each day (see §§ 27.93 and 27.94 of this chapter).

(iv) We close the refuge from 7 p.m. to 5:30 a.m.

(v) We allow the use of motorless boats for hunting.

(vi) We only allow waterfowl hunting during the State's youth waterfowl season.

(2) Upland game hunting. We allow hunting of ruffed grouse and sharp-tailed grouse on designated areas of the refuge subject to the following conditions:

(i) The conditions set forth at paragraphs (a)(1)(i) through (v) of this section apply.

(ii) We only allow hunting from the opening of the State's deer firearms season to the close of the State's ruffed grouse and sharp-tailed grouse seasons, respectively.

(3) Big game hunting. We allow hunting of white-tailed deer and moose on designated areas of the refuge subject to the following conditions:

(i) The conditions set forth at paragraphs (a)(1)(ii) through (v) of this section apply.

(ii) We prohibit shooting on, from, over, across, or within 30 feet (9 meters) of a roadway open to motorized public vehicle transportation at a big game animal or a decoy of a big game animal.

(iii) We only allow archery hunting from the start of the State's deer firearms season, and close according to the State's archery deer season.

(4) [Reserved]

(b) Big Stone National Wildlife Refuge—(1) Migratory game bird hunting. We prohibit the hunting of migratory game birds. We allow the unarmed retrieval of waterfowl, legally taken outside the refuge, up to 100 yards (90 meters) inside the refuge boundary.

(2) Upland game hunting. We allow hunting of ring-necked pheasant, bobwhite quail, pigeon, mourning dove, crow, cottontail rabbit, gray and fox squirrel, and wild turkey on designated areas of the refuge subject to the following conditions:

(i) For wild turkey hunting, you may use or possess only approved nontoxic shot shells (see § 32.2(k)) while in the field.

(ii) We allow the use of dogs for upland game bird hunting only, provided the dog is under the immediate control of the hunter at all times.

(iii) Hunters must dismantle hunting blinds, platforms, and ladders made from natural vegetation at the end of each day.

(iv) You must remove all boats, decoys, blind materials, stands, platforms, and other personal property brought onto the refuge at the end of each day (see §§ 27.93 and 27.94 of this chapter).

(v) You may only hunt fox and raccoon from ½ hour before legal sunrise until legal sunset from the beginning of the State season through the last day of February.

(vi) You may only hunt striped skunk from ½ hour before legal sunrise until legal sunset from September 1 through the last day of February.

(3) Big game hunting. We allow hunting of deer on designated areas of the refuge subject to the following conditions:

(i) We prohibit shooting on, from, over, across, or within 30 feet (9 meters) of a roadway open to public vehicle transportation at a big game animal or a decoy of a big game animal.

(ii) The conditions set forth at paragraphs (b)(2)(iii) and (iv) of this section apply.

(4) Sport fishing. We allow sport fishing on designated areas of the refuge subject to the following conditions:

(i) We allow only bank fishing on all refuge pools and open marshes.

(ii) We prohibit the taking of any turtle, frog, leech, minnow, crayfish, and mussel (clam) species by any method on the refuge (see § 27.21 of this chapter).

(c) Big Stone Wetland Management District—(1) Migratory game bird hunting. We allow hunting of migratory game birds throughout the district subject to the following conditions:

(i) We allow the use of dogs for hunting, provided the dog is under the immediate control of the hunter at all times.

(ii) Hunters must dismantle hunting blinds, platforms, and ladders made from natural vegetation at the end of each day.

(iii) You must remove all boats, decoys, blind materials, stands, platforms, and other personal property brought onto the district at the end of each day (see §§ 27.93 and 27.94 of this chapter).

(2) Upland game hunting. We allow upland game hunting throughout the district subject to the following conditions:

(i) The conditions set forth at paragraphs (c)(1)(i) through (iii) of this section apply.

(ii) You may use or possess only approved nontoxic shot shells (see § 32.2(k)) in the field while hunting turkey.

(3) Big game hunting. We allow hunting of white-tailed deer throughout the district subject to the following condition: The conditions set forth at paragraphs (c)(1)(ii) and (iii) of this section apply.

(4) Sport fishing. We allow fishing throughout the district subject to the following condition: The condition set forth at paragraph (c)(1)(iii) of this section applies.

(d) Crane Meadows National Wildlife Refuge—(1) Migratory game bird hunting. We allow the hunting of goose, duck, merganser, coot, woodcock, common moorhen, mourning dove, Sora/Virginia rail, crow, and common snipe on designated areas of the refuge subject to the following conditions:

(i) We allow the use of dogs while hunting, provided the dog is under the immediate control of the hunter at all times.

(ii) Hunters must dismantle hunting blinds, platforms, and ladders made from natural vegetation at the end of each day.

(iii) You must remove all boats, decoys, blind materials, stands, platforms, and other personal property brought onto the refuge at the end of each day (see §§ 27.93 and 27.94 of this chapter).

(iv) We prohibit entry onto the refuge earlier than 2 hours before legal shooting time, and we require hunters to leave the refuge no later than 2 hours after legal shooting time.

(2) Upland game hunting. We allow hunting of ruffed grouse; ring-necked pheasant; red, gray, and fox squirrel; cottontail rabbit; jackrabbit; snowshoe hare; red and gray fox; raccoon; badger; bobcat; coyote; striped skunk; opossum; long and short tailed weasel; and turkey on designated areas of the refuge subject to the following conditions:

(i) The conditions set forth at paragraphs (d)(1)(i) through (iv) of this section apply.

(ii) You may use or possess only approved nontoxic shot shells (see § 32.2(k)) in the field while hunting turkey.

(3) Big game hunting. We allow hunting of white-tailed deer on designated areas of the refuge subject to the following conditions:

(i) The conditions set forth at paragraphs (d)(1)(ii) and (iv) of this section apply.

(ii) We prohibit shooting on, from, over, across, or within 30 feet (9 meters) of a roadway open to public vehicle transportation at a big game animal or a decoy of a big game animal.

(iii) We prohibit the possession of hunting firearms or archery equipment on areas closed to deer hunting.

(4) [Reserved]

(e) Detroit Lakes Wetland Management District—(1) Migratory game bird hunting. We allow hunting of migratory game birds throughout the district, except that we prohibit hunting on the Headquarters waterfowl production area (WPA) in Becker County, the Hitterdal WPA in Clay County, and the McIntosh WPA in Polk County. The following conditions apply:

(i) We allow the use of dogs for hunting, provided the dog is under the immediate control of the hunter at all times.

(ii) Hunters must dismantle hunting blinds, platforms, and ladders made from natural vegetation at the end of each day.

(iii) You must remove all boats, decoys, blind materials, stands, platforms, and other personal property brought onto the district at the end of each day (see §§ 27.93 and 27.94 of this chapter).

(2) Upland game hunting. We allow upland game hunting throughout the district, except that we prohibit hunting on the Headquarters WPA in Becker County, the Hitterdal WPA in Clay County, and the McIntosh WPA in Polk County. The following conditions apply:

(i) The conditions set forth at paragraphs (e)(1)(i) through (iii) of this section apply.

(ii) You may use or possess only approved nontoxic shot shells (see § 32.2(k)) in the field while hunting turkey.

(3) Big game hunting. We allow big game hunting throughout the district, except that we prohibit hunting on the Headquarters WPA in Becker County, the Hitterdal WPA in Clay County, and the McIntosh WPA in Polk County. The following conditions apply:

(i) The conditions set forth at paragraphs (e)(1)(ii) and (iii) of this section apply.

(ii) Hunters may use portable stands.

(4) Sport fishing. We allow sport fishing throughout the district subject to the following condition: The condition set forth at paragraph (e)(1)(iii) of this section applies.

(f) Fergus Falls Wetland Management District—(1) Migratory game bird hunting. We allow hunting of migratory game birds throughout the district, except that we prohibit hunting on the Townsend, Mavis, and Gilmore waterfowl production areas (WPAs) and the building and administrative area of Knollwood WPA in Otter Tail County, and on the Larson WPA in Douglas County. The following conditions apply:

(i) We allow the use of dogs while hunting, provided the dog is under the immediate control of the hunter at all times.

(ii) Hunters must dismantle hunting blinds, platforms, and ladders made from natural vegetation at the end of each day.

(iii) You must remove all boats, decoys, blind materials, stands, platforms, and other personal property brought onto the district at the end of each day (see §§ 27.93 and 27.94 of this chapter).

(2) Upland game hunting. We allow upland game hunting throughout the district, except that we prohibit hunting on the Townsend, Mavis, and Gilmore WPAs and in designated portions of Knollwood WPA in Otter Tail County, and on the Larson WPA in Douglas County. The following conditions apply:

(i) The conditions set forth at paragraphs (f)(1)(i) through (iii) of this section apply.

(ii) You may use and possess only approved nontoxic shot shells (see § 32.2(k)) in the field while hunting turkey.

(3) Big game hunting. We allow big game hunting throughout the district, except that we prohibit hunting on the Townsend, Mavis, and Gilmore WPAs and the building and administrative area of Knollwood WPA in Otter Tail County, and on the Larson WPA in Douglas County. The following condition applies: The conditions set forth at paragraphs (f)(1)(ii) and (iii) of this section apply.

(4) Sport fishing. We allow sport fishing throughout the district, except that we prohibit hunting on the Townsend, Mavis, and Gilmore WPAs and the building and administrative area of Knollwood WPA in Otter Tail County, and on the Larson WPA in Douglas County. The following condition applies: The condition set forth at paragraph (f)(1)(iii) of this section applies.

(g) Glacial Ridge National Wildlife Refuge—(1) Migratory game bird hunting. We allow hunting of goose, duck, coot, woodcock, snipe, rail, and mourning dove on designated areas of the refuge subject to the following conditions:

(i) We allow the use of dogs while hunting, provided the dog is under the immediate control of the hunter at all times.

(ii) Hunters must dismantle hunting blinds, platforms, and ladders made from natural vegetation at the end of each day.

(iii) You must remove all boats, decoys, blind materials, stands, platforms, and other personal property brought onto the refuge at the end of each day (see §§ 27.93 and 27.94 of this chapter).

(iv) We allow nonmotorized boats in areas open to migratory bird hunting during the migratory bird hunting seasons.

(v) We prohibit hunting during the Spring Light Goose Conservation Order.

(vi) We allow hunting during special State-administered youth seasons.

(vii) We allow the use of wheeled, nonmotorized conveyance devices (e.g., bikes, game carts).

(viii) We prohibit entry onto the refuge earlier than 2 hours before legal shooting time, and we require hunters to leave the refuge no later than 2 hours after legal shooting time.

(2) Upland game hunting. We allow hunting of prairie chicken, sharp-tailed grouse, ring-necked pheasant, gray (Hungarian) partridge, ruffed grouse, rabbit (cottontail and jack), snowshoe hare, squirrel (fox and gray), and wild turkey on designated areas of the refuge subject to the following conditions:

(i) The conditions set forth at paragraphs (g)(1)(i) through (iii) and (vi) through (viii) of this section apply.

(ii) You may use or possess only approved nontoxic shot shells (see § 32.2(k)) in the field while hunting turkey.

(3) Big game hunting. We allow hunting of white-tailed deer on designated areas of the refuge subject to the following conditions:

(i) The conditions set forth at paragraphs (g)(1)(ii) through (iii) and (vi) through (viii) of this section apply.

(ii) We prohibit shooting on, from, over, across, or within 30 feet (9 meters) of a roadway open to public vehicle transportation at a big game animal or a decoy of a big game animal.

(4) [Reserved]

(h) Hamden Slough National Wildlife Refuge—(1) Migratory game bird hunting. We allow hunting of waterfowl on designated areas of the refuge subject to the following conditions:

(i) We only allow youth waterfowl hunting on the State's youth waterfowl day.

(ii) We allow the use of dogs while hunting, provided the dog is under the immediate control of the hunter at all times.

(iii) Hunters must dismantle hunting blinds, platforms, and ladders made from natural vegetation at the end of each day.

(iv) You must remove all boats, decoys, blind materials, stands, platforms, and other personal property brought onto the refuge at the end of each day (see §§ 27.93 and 27.94 of this chapter).

(v) We prohibit entry to hunting areas earlier than 2 hours before legal shooting hours.

(2) [Reserved]

(3) Big game hunting. We allow hunting of white-tailed deer on designated areas of the refuge subject to the following conditions:

(i) We only allow hunting during the State's muzzleloader season with muzzleloaders.

(ii) The conditions set forth at paragraphs (h)(1)(iii) and (iv) of this section apply.

(4) [Reserved]

(i) Litchfield Wetland Management District—(1) Migratory game bird hunting. We allow hunting of migratory game birds throughout the district, except we prohibit hunting on that part of the Phare Lake waterfowl production area (WPA) in Renville County that lies within the Phare Lake State Game Refuge. The following conditions apply:

(i) We allow the use of dogs while hunting, provided the dog is under the immediate control of the hunter at all times.

(ii) Hunters must dismantle hunting blinds, platforms, and ladders made from natural vegetation at the end of each day.

(iii) You must remove all boats, decoys, blind materials, stands, platforms, and other personal property brought onto the district at the end of each day (see §§ 27.93 and 27.94 of this chapter).

(2) Upland game hunting. We allow upland game hunting throughout the district, except we prohibit hunting on that part of the Phare Lake WPA in Renville County. The following conditions apply:

(i) The conditions set forth at paragraphs (i)(1)(i) through (iii) of this section apply.

(ii) You may use and possess only approved nontoxic shot shells (see § 32.2(k)) in the field while hunting turkey.

(3) Big game hunting. We allow big game hunting throughout the district, except we prohibit hunting on that part of the Phare Lake WPA in Renville County that lies within the Phare Lake State Game Refuge. The following condition applies: The conditions set forth at paragraph (i)(1)(ii) and (iii) of this section apply.

(4) Sport fishing. We allow sport fishing throughout the district subject to the following condition: The condition set forth at paragraph (i)(1)(iii) of this section applies.

(j) Minnesota Valley National Wildlife Refuge—(1) Migratory game bird hunting. We allow the hunting of goose, duck, merganser, moorhen, coot, rail, woodcock, common snipe, and mourning dove on designated areas of the refuge subject to the following conditions:

(i) We require a special use permit (FWS Form 3-1383-G) for refuge-specific special hunts and refuge-specific population management hunts.

(ii) We prohibit the discharge of a weapon on, from, across, or within 100 feet (30 meters) of any service road, parking area, or designated hiking trail.

(iii) Hunters must dismantle hunting blinds, platforms, and ladders made from natural vegetation at the end of each day.

(iv) You must remove all boats, decoys, blind materials, stands, platforms, and other personal property brought onto the refuge at the end of each day (see §§ 27.93 and 27.94 of this chapter).

(v) We prohibit entry into the refuge earlier than 2 hours before legal shooting time.

(vi) We allow the use of dogs while hunting migratory birds, provided the dog is under the immediate control of the hunter at all times.

(vii) We prohibit hunting during the State spring goose hunt.

(2) Upland game hunting. We allow hunting of ruffed grouse, gray partridge, ring-necked pheasant, American crow, squirrel (gray, fox, and red), snowshoe hare, cottontail rabbit, jackrabbit, raccoon, fox (red and gray), striped skunk, coyote, opossum, and wild turkey on designated areas of the refuge subject to the following conditions:

(i) The conditions set forth at paragraphs (j)(1)(i) through (v) of this section apply.

(ii) We prohibit single projectile ammunition for hunting upland game and furbearers, except that we allow hunters to use small-caliber rimfire rifles and handguns (.22 caliber and smaller) on designated areas of the refuge.

(iii) We prohibit the use of dogs for hunting furbearers. We allow the use of dogs while hunting upland game birds.

(iv) You may use or possess only approved nontoxic shot shells (see § 32.2(k)) in the field while hunting turkey.

(v) You may only hunt fox, opossum, and raccoon from ½ hour before legal sunrise until legal sunset, from the beginning of the State season through the last day of February, on designated areas of the refuge.

(vi) You may only hunt coyotes and skunks from ½ hour before legal sunrise until legal sunset, from September 1 through the last day of February, on designated areas of the refuge.

(vii) You may only hunt crows during the State-designated crow seasons, which occur between September 1 and the last day of February, on designated areas of the refuge.

(3) Big game hunting. We allow hunting of white-tailed deer on designated areas of the refuge subject to the following condition: The conditions set forth at paragraphs (j)(1)(i) through (v) of this section apply.

(4) Sport fishing. We allow sport fishing on designated areas of the refuge during daylight hours subject to the following conditions:

(i) The condition set forth at paragraph (j)(1)(iv) of this section applies.

(ii) We prohibit the taking of any turtle, frog, leech, minnow, crayfish, and mussel (clam) species by any method on the refuge (see § 27.21 of this chapter).

(k) Minnesota Valley Wetland Management District—(1) Migratory game bird hunting. We allow hunting of migratory game birds throughout the district subject to the following conditions:

(i) Hunters must dismantle hunting blinds, platforms, and ladders made from natural vegetation at the end of each day.

(ii) You must remove all boats, decoys, blind materials, stands, platforms, and other personal property brought onto the district at the end of each day (see §§ 27.93 and 27.94 of this chapter).

(iii) We allow the use of dogs while hunting, provided the dog is under the immediate control of the hunter at all times.

(2) Upland game hunting. We allow upland game hunting throughout the district subject to the following conditions:

(i) The conditions set forth at paragraphs (k)(1)(i) through (iii) of this section apply.

(ii) We prohibit the possession of single projectile ammunition for hunting on the Soberg waterfowl production area (WPA).

(iii) You may use or possess only approved nontoxic shot shells (see § 32.2(k)) in the field while hunting turkey.

(3) Big game hunting. We allow big game hunting throughout the district subject to the following conditions:

(i) The conditions set forth at paragraphs (k)(1)(i) through (iii) of this section apply.

(ii) We prohibit firearms deer hunting on Soberg WPA.

(4) Sport fishing. We allow sport fishing throughout the district subject to the following conditions: The condition set forth at paragraph (k)(1)(ii) of this section applies.

(l) Morris Wetland Management District—(1) Migratory game bird hunting. We allow hunting of migratory game birds throughout the district, except that we prohibit hunting on the designated portions of the Edward-Long Lake waterfowl production area (WPA) in Stevens County. The following conditions apply:

(i) We allow the use of dogs while hunting, provided the dog is under the immediate control of the hunter at all times.

(ii) Hunters must dismantle hunting blinds, platforms, and ladders, including those made from natural vegetation at the end of each day.

(iii) All boats, decoys, blind materials, stands, platforms, and other personal property (see 27.93 and 27.94 of this chapter) brought onto the WPA, must be removed at the end of each day.

(2) Upland game hunting. We allow hunting of upland game, except that we prohibit hunting on the designated portions of the Edward-Long Lake WPA in Stevens County. The following conditions apply:

(i) The conditions set forth at paragraphs (l)(1)(i) through (iii) of this section apply.

(ii) You may use and possess only approved nontoxic shot shells (see § 32.2(k)) in the field while hunting turkey.

(3) Big game hunting. We allow hunting of deer throughout the district, except that we prohibit hunting on the designated portions of the Edward-Long Lake WPA in Stevens County. The following condition applies: The conditions set forth at paragraphs (l)(1)(ii) and (iii) of this section apply.

(4) Sport fishing. We allow fishing throughout the district, except that we prohibit fishing on the designated portions of the Edward-Long WPA in Stevens County. The following condition applies: The condition set forth at paragraph (l)(1)(iii) of this section applies.

(m) Northern Tallgrass Prairie National Wildlife Refuge—(1) Migratory game bird hunting. We allow hunting of duck, goose, merganser, moorhen, coot, rail (Virginia and sora only), woodcock, common snipe, mourning dove, and sandhill crane subject to the following conditions:

(i) We allow the use of dogs while hunting, provided the dog is under the immediate control of the hunter at all times.

(ii) Hunters must dismantle hunting blinds, platforms, and ladders made from natural vegetation at the end of each day.

(iii) You must remove all boats, decoys, blind materials, stands, platforms, and other personal property brought onto the refuge at the end of each day (see §§ 27.93 and 27.94 of this chapter).

(iv) We allow hunting on the unit located within the Hiawatha Game Refuge in Pipestone County, as governed by applicable State regulations.

(v) We allow migratory game bird hunting on the Spieker tract in Clay County, as governed by applicable State regulations.

(2) Upland game hunting. We allow hunting of wild turkey, ring-necked pheasant, Hungarian partridge, prairie chicken, spruce grouse, ruffed grouse, sharp-tailed grouse, rabbit (cottontail and jack), snowshoe hare, squirrel (fox and gray), raccoon, opossum, fox (red and gray), badger, coyote, bobcat, striped skunk, and crow on designated areas subject to the following conditions:

(i) The conditions set forth at paragraphs (m)(1)(ii) through (iv) of this section apply.

(ii) We prohibit the use of dogs for hunting furbearers. For all other upland game, we allow the use of dogs while hunting, provided the dog is under the immediate control of the hunter at all times.

(iii) You may use or possess only approved nontoxic shells (see § 32.2(k)) in the field while hunting turkey.

(3) Big game hunting. We allow hunting of deer, elk, and black bear on designated areas of the refuge subject to the following conditions:

(i) The conditions set forth at paragraphs (m)(1)(ii) through (iv) of this section apply.

(ii) We prohibit shooting on, from, over, across, or within 30 feet (9 meters) of a roadway open to public vehicle transportation at a big game animal or a decoy of a big game animal.

(4) Sport fishing. We allow sport fishing on designated areas of the refuge subject to the following conditions:

(i) We prohibit the taking of any turtle, frog, leech, minnow, crayfish, and mussel (clam) species by any method on the refuge (see § 27.21 of this chapter).

(ii) The condition set forth at paragraph (m)(1)(iii) of this section applies.

(n) Rice Lake National Wildlife Refuge—(1) Migratory game bird hunting. We allow hunting of woodcock and common snipe on designated areas of the refuge subject to the following conditions:

(i) We allow the use of dogs while hunting, provided the dog is under the immediate control of the hunter at all times.

(ii) Hunters must dismantle hunting blinds, platforms, and ladders made from natural vegetation at the end of each day.

(iii) You must remove all boats, decoys, blind materials, stands, platforms, and other personal property brought onto the refuge at the end of each day (see §§ 27.93 and 27.94 of this chapter).

(2) Upland game hunting. We allow hunting of ruffed grouse, spruce grouse, gray and fox squirrel, cottontail rabbit, and snowshoe hare on designated areas of the refuge subject to the following condition: The conditions set forth at paragraphs (n)(1)(i) through (iii) of this section apply.

(3) Big game hunting. We allow hunting of white-tailed deer on designated areas of the refuge subject to the following conditions:

(i) We require a State-issued permit for firearms hunting.

(ii) The conditions set forth at paragraphs (n)(1)(ii) and (iii) of this section apply.

(iii) We prohibit shooting on, from, over, across, or within 30 feet (9 meters) of a roadway open to public vehicle transportation at a big game animal or a decoy of a big game animal.

(4) Sport fishing. We allow fishing on designated areas of the refuge subject to the following conditions:

(i) We only allow fishing from nonmotorized boats or boats powered by electric motors in designated areas.

(ii) The condition set forth at paragraph (n)(1)(iii) of this section applies.

(iii) We prohibit the taking of any turtle, frog, leech, minnow, crayfish, and mussel (clam) species by any method on the refuge (see § 27.21 of this chapter).

(o) Rydell National Wildlife Refuge. (1)-(2) [Reserved]

(3) Big game hunting. We allow hunting of white-tailed deer on designated areas of the refuge subject to the following conditions:

(i) Hunters must dismantle hunting blinds, platforms, and ladders made from natural vegetation at the end of each day.

(ii) You must remove all blind materials, stands, platforms, and other personal property brought onto the refuge at the end of each day (see §§ 27.93 and 27.94 of this chapter).

(iii) We prohibit shooting on, from, over, across, or within 30 feet (9 meters) of a roadway open to public vehicle transportation at a big game animal or a decoy of a big game animal.

(iv) We require a State-issued permit to hunt white-tailed deer in the Special Permit Area of the refuge.

(4) Sport fishing. We allow sport fishing on designated areas of the refuge subject to the following conditions:

(i) We prohibit the taking of any turtle, frog, leech, minnow, crayfish, and mussel (clam) species by any method on the refuge (see § 27.21 of this chapter).

(ii) We allow fishing from May 1 through November 1.

(p) Sherburne National Wildlife Refuge—(1) Migratory game bird hunting. We allow hunting of goose, duck, coot, rail, woodcock, and snipe on designated areas of the refuge subject to the following conditions:

(i) We allow the use of dogs while hunting, provided the dog is under the immediate control of the hunter at all times.

(ii) Hunters must dismantle hunting blinds, platforms, and ladders made from natural vegetation at the end of each day.

(iii) You must remove all boats, decoys, blind materials, stands, platforms, and other personal property brought onto the refuge at the end of each day (see §§ 27.93 and 27.94 of this chapter).

(iv) We prohibit entry onto the refuge earlier than 2 hours before legal shooting time, and we require hunters to leave the refuge no later than 2 hours after legal shooting time.

(v) We prohibit hunting from March 1 through August 31.

(vi) We allow only nonmotorized boats, and they must be launched at designated access sites.

(2) Upland game hunting. We allow hunting of ruffed grouse, ring-necked pheasant, gray and fox squirrel, snowshoe hare, cottontail rabbit, jackrabbit, and turkey on designated areas of the refuge subject to the following conditions:

(i) The conditions set forth at paragraphs (p)(1)(i) through (v) of this section apply.

(ii) We close the refuge to turkey hunting, except we allow a turkey hunt for youth hunters and persons with disabilities by special use permit (FWS Form 3-1383-G).

(iii) You may use or possess only approved nontoxic shot shells (see § 32.2(k)) in the field while hunting turkey.

(3) Big game hunting. We allow hunting of white-tailed deer on designated areas of the refuge subject to the following conditions:

(i) The conditions set forth at paragraphs (p)(1)(ii) through (vi) of this section apply.

(ii) We prohibit shooting on, from, over, across, or within 30 feet (9 meters) of a roadway open to public vehicle transportation at a big game animal or a decoy of a big game animal.

(4) Sport fishing. We allow sport fishing on designated areas of the refuge subject to the following conditions:

(i) We prohibit the taking of any turtle, frog, leech, minnow, crayfish, and mussel (clam) species by any method on the refuge (see § 27.21 of this chapter).

(ii) From March 1 through August 31 (the refuge wildlife sanctuary period), we allow fishing only from nonmotorized boats on the designated canoe route and on banks within 100 yards (91.44 meters) both upstream and downstream of designated access points.

(q) Tamarac National Wildlife Refuge—(1) Migratory game bird hunting. We allow the hunting of goose, duck, coot, woodcock, snipe, rail (Virginia and Sora), mourning dove, and American crow on designated areas of the refuge subject to the following conditions:

(i) Hunting by tribal members is governed by White Earth Reservation regulations on those portions of the Reservation that are a part of the refuge.

(ii) You must remove all boats, decoys, blind materials, stands, platforms, and other personal property brought onto the refuge at the end of each day (see §§ 27.93 and 27.94 of this chapter).

(iii) We allow the use of dogs while hunting, provided the dog is under the immediate control of the hunter at all times.

(iv) You may hunt American crow from September 1 through the end of February within all migratory bird hunting areas, and from March 1 through the end of season in areas open to migratory bird hunting south of County Highway 26.

(v) Hunters must dismantle hunting blinds, platforms, and ladders made from natural vegetation at the end of each day.

(2) Upland game hunting. We allow hunting of wild turkey; bobcat; ruffed grouse; red, gray, and fox squirrel; cottontail rabbit; jackrabbit; snowshoe hare; red fox; raccoon; and striped skunk on designated areas of the refuge subject to the following conditions:

(i) You may only hunt fox and raccoon from ½ hour before legal sunrise until legal sunset from the beginning of the State season through the last day of February within all upland game hunting areas, and from March 1 through the end of the season in areas open to upland game hunting south of County Highway 26.

(ii) You may only hunt striped skunk from ½ hour before legal sunrise until legal sunset from September 1 through the last day of February.

(iii) You may only hunt wild turkey south of County Highway 26 during spring seasons.

(iv) You may possess only approved nontoxic shells (see 32.2(k)) when hunting wild turkey.

(v) The conditions set forth at paragraphs (q)(1)(i) through (iii) and (v) of this section apply.

(3) Big game hunting. We allow hunting of white-tailed deer on designated areas of the refuge subject to the following conditions:

(i) We prohibit shooting on, from, over, across, or within 30 feet (9 meters) of a road edge open to public vehicle transportation at a big game animal or a decoy of a big game animal.

(ii) The conditions set forth at paragraphs (q)(1)(i), (ii), and (v) of this section apply.

(4) Sport Fishing. We allow fishing on designated areas of the refuge subject to the following conditions:

(i) We allow fishing in North Tamarac Lake, Wauboose Lake, and Two Island Lake year-round as governed by State and/or White Earth Reservation regulations.

(ii) We allow fishing in Blackbird Lake and Lost Lake from the first day of the State walleye season through Labor Day as governed by State and/or White Earth Reservation regulations.

(iii) We allow fishing in Pine Lake from December 1 until March 31.

(iv) We prohibit the taking of any turtle, frog, leech, minnow, crayfish, or mussel (clam) species by any method on the refuge (see § 27.21 of this chapter).

(v) The condition set forth at paragraph (q)(1)(ii) of this section applies.

(r) Upper Mississippi River National Wildlife and Fish Refuge—(1) Migratory game bird hunting. We allow hunting of migratory game birds on designated areas of the refuge subject to the following conditions:

(i) We prohibit migratory bird hunting from March 16 through August 31 each year.

(ii) You cannot reserve hunting areas, except at Potter's Marsh Managed Hunt Area, Pool 13, near Thomson, Illinois.

(iii) In areas posted and shown on maps as “Closed to All Access,” we prohibit public entry, to include hunting and fishing, at all times. This area is named and located as follows: Crooked Slough Backwater, Pool 13, Illinois, 2,453 acres.

(iv) In areas posted and shown on maps as “No Entry—Sanctuary,” we prohibit hunting at all times and all public entry except as specified. These areas are named and located as follows:

(A) Pool Slough, Pool 9, Minnesota/Iowa, 1,126 acres.

(B) Bertom Island, Pool 11, Wisconsin, 31 acres.

(C) Guttenberg Ponds, Pool 11, Iowa, 252 acres.

(D) Spring Lake, Pool 13, Illinois, 3,697 acres.

(v) In areas posted and shown on maps as “Area Closed” and “Area Closed—No Motors,” we prohibit migratory bird hunting at all times. We ask that you practice voluntary avoidance of these areas by any means or for any purpose from October 15 to the end of the respective State duck season. In areas also marked “no motors,” we prohibit the use of motors on watercraft from October 15 to the end of the respective State duck season.

(A) The areas posted and marked on maps as “Area Closed” are named and located as follows:

(1) Big Lake, Pool 4, Wisconsin, 2,210 acres.

(2) Weaver Bottoms/Lost Island, Pool 5, Minnesota/Wisconsin, 3,508 acres.

(3) Polander Lake, Pool 5A, Minnesota/Wisconsin, 1,873 acres.

(4) Lake Onalaska, Pool 7, Wisconsin, 7,366 acres (voluntary avoidance on 3,365 acres until mid-November).

(5) Wisconsin Islands, Pool 8, Minnesota/Wisconsin, 6,538 acres.

(6) Harpers Slough, Pool 9, Iowa/Wisconsin, 5,209 acres.

(7) Wisconsin River Delta, Pool 10, Wisconsin, 1,414 acres (closed November 1 to end of duck season).

(8) 12-Mile Island, Pool 11, Iowa, 1,139 acres.

(9) Bertom-McCartney, Pool 11, Wisconsin, 2,384 acres (no voluntary avoidance provision).

(10) Pleasant Creek, Pool 13, Iowa, 2,191 acres.

(11) Elk River, Pool 13, Iowa, 1,248 acres.

(B) The areas posted and marked on maps as “Area Closed—No Motors” are named and located as follows:

(1) Peterson Lake, Pool 4, Wisconsin 572 acres.

(2) Rieck's Lake, Pool 4, Wisconsin, 499 acres.

(3) Spring Lake, Pool 5, Wisconsin, 254 acres.

(4) Sturgeon Slough, Pool 10, Wisconsin, 340 acres.

(5) 12-Mile Island, Pool 10, Iowa, 540 acres.

(6) John Deere Marsh, Pool 11, Iowa, 439 acres.

(7) Kehough Slough, Pool 12, Illinois, 333 acres.

(8) Beaver Island, Pool 14, Iowa, 864 acres.

(vi) In areas posted and shown on maps as “No Hunting Zone” or “No Hunting or Trapping Zone,” we prohibit hunting at all times. These areas are named and located as follows:

(A) Buffalo River, Pool 4, Wisconsin, 219 acres.

(B) Fountain City Bay, Pool 5A, Wisconsin, 24 acres.

(C) Upper Halfway Creek Marsh, Pool 7, Wisconsin, 143 acres.

(D) Brice Prairie Tract, Pool 7, Wisconsin, 186 acres.

(E) Hunter's Point, Pool 8, Wisconsin, 82 acres.

(F) Goose Island, Pool 8, Wisconsin, 984 acres (also no motors and voluntary avoidance).

(G) Sturgeon Slough, Pool 10, Wisconsin, 66 acres.

(H) Goetz Island Trail, Pool 11, Iowa, 31 acres.

(I) Crooked Slough Proper, Pool 13, Illinois, 270 acres.

(J) Frog Pond, Pool 13, Illinois, 64 acres.

(K) Ingersoll Wetlands Learning Center, Pool 13, Illinois, 41 acres.

(L) Amann Tract, Pool 7, Wisconsin, 0.21 acre.

(M) Lost Mound Unit Office and River Road, Pool 13, Illinois, 175 acres.

(vii) In the area posted and shown on maps as “Mesquaki Lake No Hunting Zone,” Pool 13, Illinois, we prohibit hunting migratory birds from April 1 through September 30.

(viii) You may not engage in open-water waterfowl hunting in Pool 11, approximate river miles 586-592, Grant County, Wisconsin, as marked with signs and as shown on refuge maps. Open-water hunting regulations and definitions that apply for Wisconsin outside of Grant County also apply in this area.

(ix) We allow the use of dogs while hunting, provided the dog is under the immediate control of the hunter at all times.

(x) We allow working a dog in refuge waters by tossing a retrieval dummy or other object for out-and-back exercise.

(xi) You may use natural material for temporary blinds, with restrictions. You may hunt from a boat blind or pop-up blind, or you may construct a temporary blind of natural materials. You may gather grasses and marsh vegetation (e.g., willow, cattail, bulrush, lotus, and/or arrowhead) from the refuge for blind-building materials. However, you may not gather, bring onto the refuge, or use for blind building any tree(s) or other plant parts, including dead wood on the ground, greater than 2 inches (5 centimeters (cm)) in diameter.

(xii) We require a 200-yard (182.9-meter) spacing distance between hunting parties on the Illinois portions of the refuge in Pools 12, 13, and 14.

(xiii) You may set up hunting equipment the day of the hunt, but you must remove it at the end of each day (see § 27.93 of this chapter). You may place and leave hunting equipment and decoys on the refuge only from 1 hour before the start of legal shooting hours until ½ hour after the close of legal shooting hours.

(2) Upland game hunting. We allow hunting of upland game on designated areas of the refuge subject to the following conditions:

(i) We prohibit upland game hunting from March 16 through August 31 each year, except for spring wild turkey hunting and squirrel hunting on the Illinois portion of the refuge.

(ii) The conditions set forth at paragraphs (r)(1)(ii) through (iv), (vi), (ix), (xi), and (xiii) of this section apply.

(iii) In areas posted and shown on maps as “Area Closed” and “Area Closed—No Motors,” we allow upland game hunting beginning the day after the respective State duck hunting season until upland game season closure or March 15, whichever comes first, except we allow spring turkey hunting during State seasons. In areas also marked “Area Closed—No Motors,” we prohibit the use of motors on watercraft from October 15 to the end of the respective State duck season.

(iv) In the area posted and shown on maps as “Mesquaki Lake No Hunting Zone,” Pool 13, Illinois, we prohibit hunting upland game from April 1 to September 30.

(v) For hunting, you may use or possess only approved nontoxic shot shells (see § 32.2(k)) while in the field, including shot shells used for hunting wild turkey.

(3) Big game hunting. We allow hunting of big game on designated areas of the refuge subject to the following conditions:

(i) We prohibit big game hunting from March 16 through August 31 each year.

(ii) In areas closed to public access on the Lost Mound Unit of Savanna District, Illinois, we allow firearm deer hunts as established by the refuge manager.

(iii) The conditions set forth at paragraphs (r)(1)(ii) through (iv), (vi), (ix), (xi), and (xiii) and (r)(2)(v) of this section apply.

(iv) In areas posted and shown on maps as “No Entry—Sanctuary” we allow big game hunting beginning the day after the respective State duck hunting season until big game season closure or March 15, whichever comes first. We describe these areas more fully at paragraph (r)(1)(iv) of this section.

(v) In areas posted and shown on maps as “Area Closed” and “Area Closed—No Motors,” we allow big game hunting beginning the day after the respective State duck hunting season until big game season closure or March 15, whichever comes first. In areas also marked “Area Closed—No Motors,” we prohibit the use of motors on watercraft from October 15 to the end of the respective State duck season.

(vi) In the area posted and shown on maps as “Mesquaki Lake No Hunting Zone,” Pool 13, Illinois, we prohibit big game hunting from April 1 to September 30.

(vii) On refuge-managed lands in Illinois, we prohibit organized drives for deer. We define a “deer drive” as an organized or planned effort to pursue, drive, chase, or otherwise frighten or cause deer to move in the direction of any person(s) who is part of the organized or planned hunt and known to be waiting for the deer.

(4) Sport fishing. We allow fishing on designated areas of the refuge subject to the following conditions:

(i) The conditions set forth at paragraphs (r)(1)(iii) and (xi) of this section apply.

(ii) In areas also marked “Area Closed—No Motors,” we prohibit the use of motors on watercraft from October 15 to the end of the respective State duck season.

(iii) Commercial fishing in Spring Lake, Pool 13, Illinois, requires a Special Use Permit (FWS Form 3-1383-C) issued by the refuge or district manager (see § 31.13 of this chapter).

(s) Windom Wetland Management District—(1) Migratory game bird hunting. We allow hunting of migratory game birds on designated areas of the district, except that we prohibit hunting on the Worthington waterfowl production area (WPA) in Nobles County and on designated portions of the Wolf Lake WPA in Cottonwood County. The following conditions apply:

(i) You must remove all boats, decoys, blind materials, stands, platforms, and other personal property brought onto the district at the end of each day (see §§ 27.93 and 27.94 of this chapter).

(ii) We allow the use of dogs while hunting, provided the dog is under the immediate control of the hunter at all times.

(2) Upland game hunting. We allow hunting of upland game on designated areas of the district, except that we prohibit hunting on the Worthington WPA in Nobles County and on designated portions of the Wolf Lake WPA in Cottonwood County. The following condition applies: The conditions set forth at paragraphs (s)(1)(i) and (ii) of this section apply.

(3) Big game hunting. We allow hunting of big game on designated areas of the district, except that we prohibit hunting on the Worthington WPA in Nobles County and on designated portions of the Wolf Lake WPA in Cottonwood County. The following conditions apply:

(i) We allow the use of portable stands.

(ii) The condition set forth at paragraph (s)(1)(i) of this section applies.

(4) Sport fishing. We allow fishing throughout the district subject to the following condition: The condition set forth at paragraph (s)(1)(i) of this section applies.

§ 32.43 Mississippi.

The following refuge units are open for hunting and/or fishing as governed by applicable Federal and State regulations, and are listed in alphabetical order with additional refuge-specific regulations.

(a) Bogue Chitto National Wildlife Refuge. Refer to § 32.37(g) for regulations.

(b) Coldwater River National Wildlife Refuge—(1) Migratory game bird hunting. We allow hunting of migratory waterfowl, coot, snipe, and woodcock on designated areas of the refuge subject to the following conditions:

(i) All hunters age 16 and older must possess and carry a valid, signed refuge hunting permit (Visitor Check-In Permit and Report, FWS Form 3-2405). While hunting on the refuge, all persons age 16 and younger (“youth hunter”) must be in the presence and under the direct supervision of a licensed or exempt hunter age 21 or older (“licensed hunter”). A hunter supervising a youth hunter must hold all required licenses and permits.

(ii) Hunters may enter the refuge at 4 a.m. and must exit the refuge no later than 2 hours after legal sunset except during raccoon and frog hunts.

(iii) We allow hunting of migratory game birds, including under the Light Goose Conservation Order, only on Wednesdays, Saturdays, and Sundays ending at 12 p.m. (noon).

(iv) Each hunter must obtain a daily Migratory Bird Hunt Report (FWS Form 3-2361). You must display the card in plain view on the dashboard of your vehicle so that the personal information is readable. Prior to leaving the refuge, you must complete the reverse side of the card and deposit it at one of the refuge information stations. Include all game harvested, and if you harvest no game, report “0.” We prohibit hunters possessing more than one Big Game Harvest Report at a time.

(v) It is unlawful to hunt from or shoot into the 100-foot (30.5-meter) zone along either side of designated roads and parking lots.

(vi) The refuge has requirements for certain hunters and other persons on the refuge to wear fluorescent orange.

(A) We do not require waterfowl hunters or nighttime raccoon hunters to wear any fluorescent orange.

(B) All hunters or persons on the refuge for any reason during the refuge deer firearm season (including primitive weapons and youth gun hunt) must wear, in full view, a minimum of 500 square inches (3,226 square centimeters (cm)) of solid, unbroken, fluorescent orange.

(C) Deer archery hunters on the refuge must wear in full view a minimum of 500 square inches (3,226 square cm) of solid, unbroken, fluorescent orange when there is a State gun season on private land.

(D) When hunting quail or rabbit on the refuge outside the refuge's general gun and primitive weapon season, hunters must wear only a fluorescent orange vest or cap.

(vii) We allow the use of dogs on the refuge when hunting.

(viii) You must remove decoys, blinds, boats, other personal property, and litter from the hunting area following each morning's hunt (see §§ 27.93 and 27.94 of this chapter).

(ix) We allow no more than 25 shotshells per person in the field.

(2) Upland game hunting. We allow hunting of squirrel, rabbit, nutria, and raccoon on designated areas of the refuge subject to the following conditions:

(i) The conditions set forth at paragraphs (b)(1)(i), (ii), (iv) (substitute Upland/Small Game/Furbearer Report [FWS Form 3-2362] for Migratory Bird Hunt Report [FWS Form 3-2361]), (vi), and (vii) of this section apply.

(ii) Hunters may enter the refuge no earlier than 2 hours before legal sunrise and must leave the refuge no later than 2 hours after legal sunset. We may make exceptions for raccoon hunters possessing a Special Use Permit (FWS Form 3-1383-G).

(iii) When hunting, we allow only shotguns, .17 or .22-caliber rimfire rifles, or archery equipment without broadheads.

(3) Big game hunting. We allow hunting of white-tailed deer and feral hog on designated areas of the refuge subject to the following conditions:

(i) The conditions set forth at paragraphs (b)(1)(i), (ii), (iv) (substitute Big Game Harvest Report [FWS Form 3-2359] for Migratory Bird Hunt Report [FWS Form 3-2361]), and (vi) of this section apply.

(ii) We prohibit dogs while hunting deer. We allow the use of dogs to hunt feral hog during designated hog seasons.

(iii) We prohibit organized deer drives. We define a “deer drive” as an organized or planned effort to pursue, drive, chase, or otherwise frighten or cause deer to move in the direction of any person(s) who is part of the organized or planned hunt and known to be waiting for the deer.

(iv) We prohibit hunting or shooting across any open, fallow, or planted field from ground level or on or across any public road, public highway, railroad, or their rights-of-way during all general gun and primitive weapon hunts.

(v) Hunters may erect portable deer stands 2 weeks prior to the opening of archery season on the refuge and must remove them (see § 27.93 of this chapter) by January 31.

(4) Sport fishing. We allow sport fishing on designated areas of the refuge subject to the following conditions:

(i) All anglers must carry a valid refuge permit (Visitor Check-In Permit and Report, FWS Form 3-2405), certifying that they understand and will comply with all regulations.

(ii) We prohibit possession or use of jugs, seines, nets, hand-grab baskets, slat traps/baskets, or any other similar devices.

(iii) We allow trotlines, yo-yos, limb lines, crawfish traps, or any other similar devices for recreational use only, and you must tag or mark them with waterproof ink, legibly inscribed or legibly stamped on the tag with your State fishing license number. You must attend these devices a minimum of once daily. If you are not going to attend these devices, you must remove them from the refuge (see § 27.93 of this chapter).

(iv) We allow crawfishing.

(v) We allow take of frog only with a Special Use Permit (FWS Form 3-1383-G).

(c) Dahomey National Wildlife Refuge—(1) Migratory game bird hunting. We allow hunting of migratory waterfowl, coot, snipe, and woodcock on designated areas of the refuge subject to the following conditions:

(i) All hunters age 16 and older must carry a valid, signed refuge hunting permit (Visitor Check-In Permit and Report, FWS Form 3-2405). While hunting on the refuge, all persons age 16 and younger (“youth hunter”) must be in the presence and under the direct supervision of a licensed or exempt hunter at age 21 or older (“licensed hunter”). A hunter supervising a youth hunter must hold all required licenses and permits.

(ii) Hunters may enter the refuge at 4 a.m. and must exit the refuge no later than 2 hours after legal sunset except during raccoon and frog hunts.

(iii) We allow hunting of migratory game birds, including under the Light Goose Conservation Order, only on Wednesdays, Saturdays, and Sundays ending at 12 p.m. (noon).

(iv) Each hunter must obtain a daily Migratory Bird Hunt Report (FWS Form 3-2361). You must display the card in plain view on the dashboard of your vehicle so that the personal information is readable. Prior to leaving the refuge, you must complete the card and deposit it at one of the refuge information stations. Include all game harvested, and if you harvest no game, report “0.”

(v) We allow the use of dogs on the refuge when hunting.

(vi) You must remove decoys, blinds, boats, other personal property, and litter from the hunting area following each morning's hunt (see §§ 27.93 and 27.94 of this chapter).

(vii) We allow no more than 25 shotshells per person in the field.

(2) Upland game hunting. We allow hunting of quail, squirrel, rabbit, and raccoon on designated areas of the refuge subject to the following conditions:

(i) You must possess a valid general Special Use Permit (FWS Form 3-1383-G) to hunt raccoon on the refuge.

(ii) Each hunter must obtain a daily Upland/Small Game/Furbearer Report (FWS Form 3-2362). You must display the card in plain view on the dashboard of your vehicle so that the personal information is readable. Prior to leaving the refuge, you must complete the card and deposit it at one of the refuge information stations. Include all game harvested, and if you harvest no game, report “0.”

(iii) The conditions set forth at paragraphs (c)(1)(i), (ii), and (v) of this section apply.

(3) Big game hunting. We allow hunting of white-tailed deer and feral hog on designated areas of the refuge subject to the following conditions:

(i) Each hunter must obtain a daily Big Game Harvest Report (FWS Form 3-2359). You must display the card in plain view on the dashboard of your vehicle so that the personal information is readable. Prior to leaving the refuge, you must complete the card and deposit it at one of the refuge information stations. Include all game harvested, and if you harvest no game, report “0.” We prohibit hunters possessing more than one Big Game Harvest Report (FWS Form 3-2359) at a time.

(ii) The conditions set forth at paragraphs (c)(1)(i) and (ii) of this section apply.

(iii) We prohibit dogs for any big game hunt.

(iv) We prohibit organized deer drives. We define a “deer drive” as an organized or planned effort to pursue, drive, chase, or otherwise frighten or cause deer to move in the direction of any person(s) who is part of the organized or planned hunt and known to be waiting for the deer.

(v) We prohibit hunting or shooting across any open, fallow, or planted field from ground level.

(vi) We allow valid permit holders to possess and hunt from one portable stand or blind on the refuge. You must clearly label your stand or blind with your State license/sportsmen's identification number. Stands left in the area do not reserve the hunting locations. You may place stands up to 2 days prior to the hunt, and you must remove them no more than 2 days after the refuge's deer season closes (see § 27.93 of this chapter).

(vii) Hunters using a climbing tree stand must use a fall-arrest system manufactured to Treestand Manufacturers Association standards.

(viii) We prohibit the use of buckshot on the refuge.

(4) Sport fishing. We allow sport fishing on designated areas of the refuge subject to the following conditions:

(i) We prohibit the use or possession of alcoholic beverages while fishing.

(ii) All anglers must carry a valid refuge permit (Visitor Check-In Permit and Report, FWS Form 3-2405), certifying that they understand and will comply with all regulations.

(iii) We prohibit possession or use of jugs, seines, nets, hand-grab baskets, slat traps/baskets, or any other similar devices and commercial fishing of any kind.

(iv) We allow trotlines, yo-yos, limb lines, crawfish traps, or any other similar devices for recreational use only. You must tag or mark these devices with your State fishing license number, written with waterproof ink, legibly inscribed or legibly stamped on the tag. You must attend these devices a minimum of once a day. If you do not attend these devices, you must remove them from the refuge (see § 27.93 of this chapter).

(v) We allow crawfishing.

(vi) We allow take of frog only by Special Use Permit (FWS Form 3-1383-G).

(d) Grand Bay National Wildlife Refuge—(1) Migratory game bird hunting. We allow hunting of goose, duck, coot, and mourning dove on designated areas of the refuge subject to the following conditions:

(i) Hunters must remove all decoys, blind material, and harvested waterfowl from the refuge at the end of each day's hunt (see § 27.93 of this chapter).

(ii) You must only use portable or temporary blinds.

(iii) We only allow the use of dogs when waterfowl hunting. We require all dogs to wear a collar displaying the owner's contact information.

(iv) Each hunter must possess and carry a valid, signed copy of the refuge hunting brochure (signed brochure) while participating in refuge hunts.

(2) Upland game hunting. We allow hunting of squirrel on designated areas of the refuge subject to the following conditions:

(i) The condition set forth at paragraph (d)(1)(iv) of this section applies.

(ii) We only allow .22 caliber rimfire.

(3) Big game hunting. We allow hunting of white-tailed deer and feral hog on designated areas of the refuge subject to the following conditions:

(i) The condition set forth at paragraph (d)(1)(iv) of this section applies.

(ii) We only allow hunting with bow and arrow. We prohibit firearms.

(iii) We allow portable and climbing tree stands. Hunters must remove tree stands from the refuge at the end of each day's hunt (see § 27.93 of this chapter).

(iv) We prohibit organized deer drives. We define a “deer drive” as an organized or planned effort to pursue, drive, chase, or otherwise frighten or cause deer to move in the direction of any person(s) who is part of the organized or planned hunt and known to be waiting for the deer.

(4) [Reserved]

(e) Hillside National Wildlife Refuge—(1) Migratory game bird hunting. We allow hunting of goose, duck, merganser, coot, and dove on designated areas of the refuge subject to the following conditions:

(i) Each person age 16 or older hunting or fishing must possess a valid Theodore Roosevelt Complex Annual Public Use Permit (electronic form).

(ii) All youth hunters age 15 and younger must be in the presence and direct supervision of a Mississippi licensed or exempt hunter, age 21 or older. One adult may supervise no more than one youth hunter.

(iii) Before hunting or fishing, all participants must display their Daily Visitor Information/Harvest Report Card (Big Game Harvest Report, FWS Form 3-2359) in plain view in their vehicle so that the required information is readable. You must return all cards upon completion of the activity and before leaving the refuge.

(iv) We prohibit all other public use on the refuge during the muzzleloader deer hunt.

(v) Valid permit holders may incidentally take opossum, coyote, beaver, bobcat, nutria, and feral hog in any refuge hunt season with weapons legal for that hunt.

(vi) We prohibit hunting or shooting into a 100-foot (30.5-meter) zone along either side of pipelines, power line rights-of-way, designated roads, and trails, and around parking lots. It is considered hunting if you have a loaded weapon, if you have a nocked arrow while bow hunting, or if you are in an elevated tree stand or ground blind with a means to take, within these areas.

(vii) Hunters must remove all decoys, blind material, and harvested waterfowl from the area no later than 1 p.m. each day (see § 27.93 of this chapter).

(viii) We allow the use of dogs for retrieving migratory birds.

(ix) We allow goose, duck, merganser, and coot hunting beginning ½ hour before legal sunrise until 12 p.m. (noon).

(x) We do not open for early teal season.

(xi) We limit waterfowl hunters to 25 shotshells per person in the field.

(2) Upland game hunting. We allow hunting of squirrel, rabbit, quail, raccoon, opossum, coyote, beaver, bobcat, and nutria on designated areas of the refuge subject to the following conditions:

(i) The conditions set forth at paragraphs (e)(1)(i) through (vi) of this section apply.

(ii) We allow only shotguns and .22 and .17 caliber rimfire rifles for small game hunting.

(iii) We allow the use of dogs for hunting squirrel and quail, and for the February rabbit hunt.

(iv) Beginning the first day after the deer muzzleloader hunt, we prohibit entry into the Turkey Point area until March 1.

(3) Big game hunting. We allow hunting of white-tailed deer, turkey, and feral hog on designated areas of the refuge subject to the following conditions:

(i) The conditions set forth at paragraphs (e)(1)(i) through (vi) and (e)(2)(iv) of this section apply.

(ii) We prohibit organized drives. We define a “drive” as an organized or planned effort to pursue, drive, chase, or otherwise frighten or cause game to move in the direction of any person(s) who is part of the organized or planned hunt and known to be waiting for the game.

(iii) Hunting or shooting within or adjacent to open fields and tree plantations less than 5 feet (1.5 meters (m)) in height must be from a stand a minimum of 10 feet (3 m) above the ground.

(iv) Prior to leaving the refuge, you must check all harvested deer at the nearest self-service check station following the posted instructions.

(v) Hunters may possess and hunt from only one stand or blind. Hunters may place a deer stand or blind 48 hours prior to a hunt and must remove it within 48 hours after each designated hunt (see § 27.93 of this chapter), with the exception of closed areas where special regulations apply.

(vi) During designated muzzleloader hunts, we allow archery equipment and muzzleloaders loaded with a single ball; we prohibit breech-loading firearms of any type.

(vii) Turkey hunting opportunities will consist of three limited draw hunts within the State season time frame. These hunts require a Limited Hunt Permit (Big/Upland Game Hunt Application, FWS Form 3-2439, Hunt Application—National Wildlife Refuge System) assigned by random computer drawing. At the end of the hunt, you must return the permit with information concerning your hunt (Big Game Harvest Report (FWS 3-2359)). If you fail to return this permit, you will not be eligible for any limited hunts the next year.

(4) Sport fishing. We allow sport fishing on designated areas of the refuge subject to the following conditions:

(i) The conditions set forth at paragraphs (e)(1)(i) and (iii) of this section apply.

(ii) We prohibit trotlines, limb lines, jugs, seines, and traps.

(iii) We allow frogging during the State bullfrog season.

(iv) We allow fishing in the borrow ponds along the north levee (see refuge brochure map) throughout the year except during the muzzleloader deer hunt.

(v) We open all other refuge waters to fishing March 1 through November 15.

(vi) We prohibit fishing from bridges.

(f) Holt Collier National Wildlife Refuge. (1) [Reserved]

(2) Upland game hunting. We allow hunting of rabbit, opossum, coyote, beaver, bobcat, and nutria on designated areas of the refuge subject to the following conditions:

(i) Each person age 16 or older hunting or fishing must possess a valid Theodore Roosevelt Complex Annual Public Use Permit (electronic form).

(ii) All youth hunters age 15 and younger must be in the presence and direct supervision of a Mississippi licensed or exempt hunter, age 21 or older. One adult may supervise no more than one youth hunter.

(iii) Before hunting or fishing, all participants must display their Daily Visitor Information/Harvest Report Card (Big Game Harvest Report, FWS Form 3-2359) in plain view in their vehicle so that the required information is readable. You must return all cards upon completion of the activity and before leaving the refuge.

(iv) We prohibit all other public use on the refuge during all limited draw hunts.

(v) Valid permit holders may incidentally take opossum, coyote, beaver, bobcat, nutria, and feral hog in any refuge hunt season with weapons legal for that hunt.

(vi) We allow the use of dogs when rabbit hunting in February.

(vii) During the rabbit hunt, any hunter or person accompanying a hunter must wear at least 500 square inches (3,226 square centimeters (cm)) of unbroken, fluorescent-orange material visible above the waistline as an outer garment.

(viii) We prohibit all other public use on the refuge during muzzleloader deer hunts.

(ix) We prohibit hunting or shooting into a 100-foot (30.5-meter (m)) zone along either side of pipelines, power line rights-of-way, designated roads, and trails, and around parking lots. It is considered hunting if you have a loaded weapon, if you have a nocked arrow while bow hunting, or if you are in an elevated tree stand or ground blind with a means to take, within these areas.

(3) Big game hunting. We allow hunting of white-tailed deer and feral hog on designated areas of the refuge subject to the following conditions:

(i) The conditions set forth at paragraphs (f)(2)(i) through (iii), (v), (viii), and (ix) of this section apply.

(ii) We prohibit organized drives. We define a “drive” as an organized or planned effort to pursue, drive, chase, or otherwise frighten or cause game to move in the direction of any person(s) who is part of the organized or planned hunt and known to be waiting for the game.

(iii) Hunting or shooting within or adjacent to open fields or tree plantations less than 5 feet (1.5 m) in height must be from a stand a minimum of 10 feet (3 m) above the ground.

(iv) Hunters may possess and hunt from only one stand or blind. Hunters may place a deer stand or blind 48 hours prior to a hunt and must remove it within 48 hours after each designated hunt (see § 27.93 of this chapter), with the exception of closed areas where special regulations apply.

(v) During designated muzzleloader hunts, we allow archery equipment and muzzleloaders loaded with a single ball; we prohibit breech-loading firearms of any type.

(4) [Reserved]

(g) Mathews Brake National Wildlife Refuge—(1) Migratory game bird hunting. We allow hunting of goose, duck, merganser, and coot on designated areas of the refuge subject to the following conditions:

(i) Each person age 16 or older hunting or fishing must possess a valid Theodore Roosevelt Complex Annual Public Use Permit (electronic form).

(ii) All youth hunters age 15 and younger must be in the presence and direct supervision of a Mississippi licensed or exempt hunter, age 21 or older. One adult may supervise no more than one youth hunter.

(iii) Before hunting or fishing, all participants must display their Daily Visitor Information/Harvest Report Card (Big Game Harvest Report, FWS Form 3-2359) in plain view in their vehicle so that the required information is readable. You must return all cards upon completion of the activity and before leaving the refuge.

(iv) Valid permit holders may incidentally take opossum, coyote, beaver, bobcat, nutria, and feral hog in any refuge hunt season with weapons legal for that hunt.

(v) We prohibit hunting or shooting into a 100-foot (30.5 meter (m)) zone along either side of pipelines, power line rights-of-way, designated roads, and trails, and around parking lots. It is considered hunting if you have a loaded weapon, if you have a nocked arrow while bow hunting, or if you are in an elevated tree stand or ground blind with a means to take, within these areas.

(vi) Hunters must remove all decoys, blind material, boats, and harvested waterfowl from the area no later than 1 p.m. each day (see § 27.93 of this chapter).

(vii) We allow the use of dogs for retrieving migratory birds.

(viii) We allow goose, duck, merganser, and coot hunting beginning ½ hour before legal sunrise until 12 p.m. (noon).

(ix) We do not open for early teal season.

(x) We allow hunting during open State seasons. The first 2 days of the season and all weekends, with the exception of youth weekends, are limited draw hunts. These hunts require a Limited Hunt Permit (electronic form) assigned by random computer drawing. At the end of the hunt, you must return the permit with information concerning your hunt. If you fail to return this permit, you will not be eligible for any limited hunts the next year.

(xi) We limit waterfowl hunters to 25 shotshells per person in the field.

(2) Upland game hunting. We allow hunting of squirrel, rabbit, raccoon, opossum, coyote, beaver, bobcat, and nutria on designated areas of the refuge subject to the following conditions:

(i) The conditions set forth at paragraphs (g)(1)(i) through (v) of this section apply.

(ii) We allow only shotguns and .22 and .17 caliber rimfire rifles for small game hunting.

(iii) We allow the use of dogs for hunting squirrel and for the February rabbit hunt.

(iv) Beginning the day before waterfowl season, we restrict hunting to the waterfowl hunt area.

(3) Big game hunting. We allow hunting of white-tailed deer and feral hog on designated areas of the refuge subject to the following conditions:

(i) The conditions set forth at paragraphs (g)(1)(i) through (v) and (g)(2)(iv) of this section apply.

(ii) We prohibit organized drives. We define a “drive” as an organized or planned effort to pursue, drive, chase, or otherwise frighten or cause game to move in the direction of any person(s) who is part of the organized or planned hunt and known to be waiting for the game.

(iii) Hunting or shooting within or adjacent to open fields or tree plantations less than 5 feet (1.5 m) in height must be from a stand a minimum of 10 feet (3 m) above the ground.

(iv) The refuge brochure provides deer check station dates, locations, and requirements. Prior to leaving the refuge, you must check all harvested deer at the nearest self-service check station following the posted instructions.

(v) Hunters may possess and hunt from only one stand or blind. A hunter may place a deer stand or blind 48 hours prior to a hunt and must remove it within 48 hours after each designated hunt (see § 27.93 of this chapter), with the exception of closed areas where special regulations apply.

(vi) We allow archery hunting October 1 through January 31.

(4) Sport fishing. We allow sport fishing on designated areas of the refuge subject to the following conditions:

(i) The conditions set forth at paragraphs (g)(1)(i) and (iii) of this section apply.

(ii) We prohibit trotlines, limb lines, jugs, seines, and traps.

(iii) We allow frogging during the State bullfrog season.

(iv) We allow fishing in all refuge waters throughout the year, except in the waterfowl sanctuary, which we close to fishing from the first day of duck season through March 1 (see refuge brochure map).

(h) Morgan Brake National Wildlife Refuge—(1) Migratory game bird hunting. We allow hunting of goose, duck, merganser, and coot on designated areas of the refuge subject to the following conditions:

(i) Each person age 16 or older hunting or fishing must possess a valid Theodore Roosevelt Complex Annual Public Use Permit (electronic form).

(ii) All youth hunters age 15 and younger must be in the presence and direct supervision of a Mississippi licensed or exempt hunter, age 21 or older. One adult may supervise no more than one youth hunter.

(iii) Before hunting or fishing, all participants must display their Daily Visitor Information/Harvest Report Card (Big Game Harvest Report, FWS Form 3-2359) in plain view in their vehicle so that the required information is readable. You must return all cards upon completion of the activity and before leaving the refuge.

(iv) We prohibit all other public use on the refuge during the muzzleloader deer hunt.

(v) Valid permit holders may incidentally take opossum, coyote, beaver, bobcat, nutria, and feral hog in any refuge hunt season with weapons legal for that hunt.

(vi) We prohibit hunting or shooting into a 100-foot (30.5-meter (m)) zone along either side of pipelines, power line rights-of-way, designated roads, and trails, and around parking lots. It is considered hunting if you have a loaded weapon, if you have a nocked arrow while bow hunting, or if you are in an elevated tree stand or ground blind with a means to take, within these areas.

(vii) Hunters must remove all decoys, blind material, and harvested waterfowl from the area no later than 1 p.m. each day (see § 27.93 of this chapter).

(viii) We allow the use of dogs for retrieving migratory birds.

(ix) We allow goose, duck, merganser, and coot hunting beginning ½ hour before legal sunrise until 12 p.m. (noon).

(x) We do not open for early teal season.

(xi) We limit waterfowl hunters to 25 shotshells per person in the field.

(2) Upland game hunting. We allow hunting of squirrel, rabbit, quail, raccoon, opossum, coyote, beaver, bobcat, and nutria on designated areas of the refuge subject to the following conditions:

(i) The conditions set forth at paragraphs (h)(1)(i) through (vi) of this section apply.

(ii) We allow only shotguns and .22 and .17 caliber rimfire rifles for small game hunting.

(iii) We allow the use of dogs for hunting squirrel and for the February rabbit hunt.

(3) Big game hunting. We allow hunting of white-tailed deer and feral hog on designated areas of the refuge subject to the following conditions:

(i) The conditions set forth at paragraphs (h)(1)(i) through (vi) of this section apply.

(ii) We prohibit organized drives. We define a “drive” as an organized or planned effort to pursue, drive, chase, or otherwise frighten or cause game to move in the direction of any person(s) who is part of the organized or planned hunt and known to be waiting for the game.

(iii) Hunting or shooting within or adjacent to open fields or tree plantations less than 5 feet (1.5 m) in height must be from a stand a minimum of 10 feet (3 m) above the ground.

(iv) The refuge brochure provides deer check station dates, locations, and requirements. Prior to leaving the refuge, you must check all harvested deer at the nearest self-service check station following the posted instructions.

(v) Hunters may possess and hunt from only one stand or blind. Hunters may place a deer stand or blind 48 hours prior to a hunt and must remove it within 48 hours after each designated hunt (see § 27.93 of this chapter), with the exception of closed areas where special regulations apply.

(vi) During designated muzzleloader hunts, we allow archery equipment and muzzleloaders loaded with a single ball; we prohibit breech-loading firearms of any type.

(4) Sport fishing. We allow sport fishing on designated areas of the refuge subject to the following conditions:

(i) The conditions set forth at paragraphs (h)(1)(i) and (iii) of this section apply.

(ii) We prohibit trotlines, limb lines, jugs, seines, and traps.

(iii) We allow frogging during the State bullfrog season.

(iv) We open refuge waters to fishing March 1 through November 15, except Providence Ponds, which are closed 1 day prior to the beginning of waterfowl season until March 1.

(i) Panther Swamp National Wildlife Refuge—(1) Migratory game bird hunting. We allow hunting of goose, duck, merganser, coot, and dove on designated areas of the refuge subject to the following regulations:

(i) Each person age 16 or older hunting or fishing must possess a valid Theodore Roosevelt Complex Annual Public Use Permit (electronic form).

(ii) All youth hunters age 15 and younger must be in the presence and direct supervision of a Mississippi licensed or exempt hunter, age 21 or older. One adult may supervise no more than one youth hunter.

(iii) Before hunting or fishing, all participants must display their Daily Visitor Information/Harvest Report Card (Big Game Harvest Report, FWS Form 3-2359) in plain view in their vehicle so that the required information is readable. You must return all cards upon completion of the activity and before leaving the refuge.

(iv) We prohibit all other public use on the refuge during all limited draw hunts.

(v) Valid Theodore Roosevelt Complex Annual Public Use Permit (electronic form) holders may incidentally take opossum, coyote, beaver, bobcat, nutria, and feral hog in any refuge hunt season with weapons legal for that hunt.

(vi) We prohibit hunting or shooting into a 100-foot (30-meter (m)) zone along either side of pipelines, power line rights-of-way, designated roads, and trails, and around parking lots. It is considered hunting if you have a loaded weapon, if you have a nocked arrow while bow hunting, or if you are in an elevated tree stand or ground blind with a means to take, within these areas.

(vii) Hunters must remove all decoys, blind material, and harvested waterfowl from the area no later than 1 p.m. each day (see § 27.93 of this chapter).

(viii) We allow the use of dogs for retrieving migratory birds.

(ix) We allow goose, duck, merganser, and coot hunting beginning ½ hour before legal sunrise until 12 p.m. (noon).

(x) Beginning December 15 through March 1, we prohibit all entry into the Lower Twist and Carter Ponds area.

(xi) During the State waterfowl season (except early teal season), waterfowl hunting in Unit 1 will be on Mondays, Tuesdays, and Wednesdays. Waterfowl hunting in Unit 2 will be on Fridays, Saturdays, and Sundays (see refuge brochure for details).

(xii) We limit waterfowl hunters to 25 shotshells per person in the field.

(2) Upland game hunting. We allow hunting of squirrel, rabbit, quail, raccoon, opossum, coyote, beaver, bobcat, and nutria on designated areas of the refuge subject to the following conditions:

(i) The conditions set forth at paragraphs (i)(1)(i) through (vi) and (x) of this section apply.

(ii) We allow only shotguns and .22 and .17 caliber rimfire rifles for small game hunting.

(iii) We allow the use of dogs for hunting squirrel and raccoon, and for the February rabbit hunt.

(3) Big game hunting. We allow hunting of white-tailed deer, turkey, and feral hog on designated areas of the refuge subject to the following conditions:

(i) The conditions set forth at paragraphs (i)(1)(i) through (vi) and (x) of this section apply.

(ii) We prohibit organized drives. We define a “drive” as an organized or planned effort to pursue, drive, chase, or otherwise frighten or cause game to move in the direction of any person(s) who is part of the organized or planned hunt and known to be waiting for the game.

(iii) Hunting or shooting within or adjacent to open fields or tree plantations less than 5 feet (1.5 m) in height must be from a stand a minimum of 10 feet (3 m) above the ground.

(iv) The refuge brochure provides deer check station dates, locations, and requirements. Prior to leaving the refuge, you must check all harvested deer at the nearest self-service check station following the posted instructions.

(v) Hunters may possess and hunt from only one stand or blind. Hunters may place a deer stand or blind 48 hours prior to a hunt and must remove it within 48 hours after each designated hunt (see § 27.93 of this chapter), with the exception of closed areas where special regulations apply.

(vi) During designated muzzleloader hunts, we allow archery equipment and muzzleloaders loaded with a single ball; we prohibit breech-loading firearms of any type.

(vii) We allow only shotguns with approved nontoxic shot (see § 32.2(k)) and archery equipment for turkey hunting.

(viii) Limited draw hunts require a Limited Hunt Permit (electronic form) assigned by random computer drawing. At the end of the hunt, you must return the permit with information concerning that hunt to the refuge. Failure to return this permit will disqualify the hunter for any limited hunts the next year.

(ix) We hold limited draw hunts for persons with disabilities in November, December, and/or January. We will make hunt dates and permit application procedures (electronic form) available at the Theodore Roosevelt Complex headquarters.

(4) Sport fishing. We allow fishing on designated areas of the refuge subject to the following conditions:

(i) The conditions set forth at paragraphs (i)(1)(i), (iii), and (x) of this section apply.

(ii) We prohibit trotlines, limb lines, jugs, seines, and traps.

(iii) We allow frogging during the State bullfrog season.

(j) Sam D. Hamilton Noxubee National Wildlife Refuge—(1) Migratory game bird hunting. We allow hunting of duck, woodcock, and coot on designated areas of the refuge subject to the following conditions:

(i) You must purchase a refuge waterfowl permit (Waterfowl Lottery Application; FWS Form 3-2439, Hunt Application—National Wildlife Refuge System) for waterfowl hunting. No more than two companions may accompany each permitted hunter, and we do not require these companions to purchase permits. Permits are nontransferable and only issued to hunters ages 16 and older. Permit holders can hunt as standby hunters for any date for which waterfowl hunting is open. Youth hunters age 15 and younger are not required to obtain a refuge waterfowl permit and can obtain a free permit from the refuge's office.

(ii) You must remove all decoys, blind material, and harvested game from the refuge by 1 p.m. each day (see §§ 27.93 and 27.94 of this chapter).

(iii) All youth hunters age 15 and younger must remain within sight and normal voice contact of an adult age 21 or older. One adult may supervise not more than two youth hunters.

(iv) All waterfowl hunters must check-in before the day's hunt, and check-out at the end of the day's hunt (no later than 1 p.m.), at the refuge's duck check station.

(v) We limit waterfowl hunters to 25 shotshells per person.

(vi) Hunters must remove all personal property at the end of each day's hunt from the Noxubee Wilderness Area (see §§ 27.93 and 27.94 of this chapter). Outside the Noxubee Wilderness Area, hunters may leave tree stands labeled with the hunter's State hunting license number used for deer hunting.

(vii) During the deer firearm (primitive or modern gun) hunts, any person hunting species other than waterfowl, accompanying another person hunting species other than waterfowl, or walking off-trail within areas open to deer hunting must wear at least 500 square inches (3,226 square centimeters (cm)) of unbroken fluorescent-orange material visible above the waistline as an outer garment at all times. When occupied, ground blinds must display a minimum of 400 square inches (2,581 square cm) of unbroken fluorescent-orange material.

(viii) We allow the use of dogs for retrieval of migratory and upland game only.

(ix) We require all hunters and anglers to record hours active and game harvested using the Visitor Check-In Permit and Report (FWS Form 3-2405).

(x) We require all users to possess and display a valid Entrance Pass. You may use a current Federal Recreational Lands Pass or valid Federal Migratory Bird Hunting and Conservation Stamp (Federal Duck Stamp) as the Entrance Pass.

(xi) Waterfowl hunters must stay within 100 feet (30.5 meters (m)) of the assigned hunt location. You may exceed 100 feet (30.5 m) when retrieving downed birds.

(2) Upland game hunting. We allow hunting of squirrel, rabbit, quail, opossum, raccoon, coyote, beaver, and nutria on designated areas of the refuge subject to the following conditions:

(i) When waterfowl hunting is actively taking place, we prohibit all public use other than waterfowl hunting within the designated areas for waterfowl hunting.

(ii) We allow raccoon and opossum hunting between the hours of legal sunset and legal sunrise.

(iii) The conditions set forth at paragraphs (j)(1)(iii) and (vi) through (x) of this section apply.

(iv) You may take incidental species (coyote, beaver, nutria, and feral hog) during any hunt with those weapons legal during those hunts.

(v) We require bobwhite quail and rabbit hunters to wear at least a solid hunter orange vest or cap.

(3) Big game hunting. We allow hunting of white-tailed deer, turkey, and feral hog on designated areas of the refuge subject to the following conditions:

(i) The conditions set forth at paragraphs (j)(1)(iii) and (vi) through (x) and (j)(2)(i) and (iv) of this section apply.

(ii) You must purchase a refuge quota deer permit (Quota Deer Hunt Application; FWS Form 3-2439, Hunt Application—National Wildlife Refuge System). Permits are nontransferable. Youth hunters age 15 and younger are not required to a purchase a refuge quota deer permit and can obtain a free permit from the refuge's office.

(iii) We prohibit organized deer drives. We define a “deer drive” as an organized or planned effort to pursue, drive, chase, or otherwise frighten or cause deer to move in the direction of any person(s) who is part of the organized or planned hunt and known to be waiting for the deer.

(iv) You may place one portable tree stand or ground blind for deer hunting on the refuge only during the open deer season. You must clearly label the stand or blind with your State hunting license number. When not in use and left on the refuge, you must place stands in a non-hunting position at ground level.

(v) While climbing a tree, installing a tree stand that uses climbing aids, or hunting from a tree stand on the refuge, you must use a fall-arrest system (full body harness) that is manufactured to the Treestand Manufacturer's Association standards.

(4) Sport fishing. We allow sport fishing on designated areas of the refuge subject to the following conditions:

(i) The general sport fishing, boating, and bow fishing season extends from March 1 through October 31, except that we open the shoreline of Bluff Lake from the Bluff Lake Boardwalk to the visitor center, the entire Noxubee River, and all borrow pit areas along Highway 25 to fishing year-round.

(ii) The conditions set forth at paragraphs (j)(1)(ix) and (x) and (j)(2)(i) of this section apply.

(iii) Anglers must keep boat travel at idle speed, and they must not create a wake when moving.

(iv) We prohibit limb lines, jug fishing, trotlines, snag lines, and hand grappling in Ross Branch, Bluff, and Loakfoma Lakes, as well as in areas within 100 yards of refuge water and transportation structures.

(v) When left unattended, anglers must tag fishing gear with their State fishing license number. Anglers must check all gear within 24 hours each day or remove these devices (see § 27.93 of this chapter).

(vi) We allow trotlining on the refuge subject to the following conditions:

(A) Anglers must label each end of the trotline floats with the owner's State fishing license number.

(B) We limit trotlines to one line per person, and we allow no more than two trotlines per boat.

(C) Anglers must tend all trotlines every 24 hours, and must remove them when not in use (see § 27.93 of this chapter).

(D) Trotlines must possess at least 6-inch (15.2-cm) cotton string leads.

(vii) We allow jug fishing on the refuge subject to the following conditions:

(A) Anglers must label each jug with their State fishing license number.

(B) Anglers must check all jugs every 24 hours, and must remove them when not in use (see § 27.93 of this chapter).

(viii) We prohibit bow fishing after legal sunset.

(ix) We prohibit fishing tournaments on all refuge waters.

(x) We prohibit the taking of frogs, turtles, and crawfish (see § 27.21 of this chapter).

(xi) We prohibit using nets of any type to capture free-roaming fish or wildlife. You may use a fishing net to recover fish caught by hook and line.

(xii) Outside the Noxubee Wilderness Area, anglers may leave trotlines and jugs used for fishing overnight if they are labeled with the angler's State fishing license number.

(k) St. Catherine Creek National Wildlife Refuge—(1) Migratory game bird hunting. We allow hunting of duck, goose, coot, and woodcock on designated areas of the refuge subject to the following conditions:

(i) We allow hunting on Butler Lake, Salt Lake, and Gillard Lake from ½ hour before legal sunrise until 12 p.m. (noon) on Wednesdays, Saturdays, and Sundays.

(ii) We require that all hunters and anglers age 16 and older purchase an Annual Public Use Permit (electronic form). We require the refuge user to sign, certifying that you understand and will comply with all regulations, and carry this permit at all times while on the refuge.

(iii) Hunters must remove harvested waterfowl, temporary blinds, and decoys used for duck hunting by 1 p.m. each day (see § 27.93 of this chapter).

(iv) We allow only portable blinds.

(v) Hunters only may enter the refuge no earlier than 4 a.m. and must exit the refuge by 2 hours after legal sunset.

(vi) We allow no more than 25 shotshells per person in the field.

(vii) We prohibit hunting within 150 feet (45 meters) of any petroleum facility or equipment, or refuge residences and buildings.

(viii) We prohibit the use of handguns for hunting on the refuge.

(2) Upland game hunting. We allow hunting of squirrel, rabbit, raccoon, opossum, beaver, nutria, and coyote in designated areas of the refuge subject to the following conditions:

(i) We only allow hunting shotguns, .22 caliber rimfire rifles or smaller, and muzzle-loading rifles under .38 caliber shooting patched round balls. We prohibit the possession of hunting with slugs, buckshot, or rifle hunting ammunition larger than .22 rimfire.

(ii) You must wear a hunter-orange hat and upper garment when hunting in open fields or reforested areas.

(iii) We allow raccoon hunting only during the month of February from legal sunset to legal sunrise with the following conditions:

(A) We require the use of dogs.

(B) You may use only .22 caliber rimfire rifles for hunting.

(iv) We allow the incidental take of raccoon, feral hog, beaver, nutria, and coyote when hunting migratory birds, upland game, big game species with firearms and archery equipment authorized for use.

(v) The conditions set forth at paragraphs (k)(1)(ii) and (iv) through (vii) of this section apply.

(3) Big game hunting. We allow hunting of deer, lottery youth turkey, and feral hog on designated areas of the refuge subject to the following conditions:

(i) We allow only still hunting.

(ii) Hunters may take only one deer per day.

(iii) You must wear a minimum of 500 square inches (3,226 square centimeters) of unbroken hunter orange as the outermost layer of clothing on the chest and back, and a hat or cap of unbroken hunter orange. You must wear the solid-hunter-orange items while in the field.

(iv) While hunting, all persons age 16 and younger must be in the presence and under direct supervision of a licensed or exempt hunter age 21 or older.

(v) Youth gun hunts (ages 10 to 15) for deer and waterfowl will coincide with designated State youth hunts each year. Youth deer hunters may use any weapon deemed legal by the State except for buckshot, which we prohibit.

(vi) You may place stands up to 2 days prior to established hunting season dates, and you must remove them no more than 2 days after the hunting season closes (see § 27.93 of this chapter). You must mark your stand with your State hunting license identification number. We allow each hunter one portable stand or blind on the refuge.

(vii) Refuge users must check all deer (name) taken prior to leaving the refuge at one of the self-clearing check stations indicated on the map in the refuge public use brochure.

(viii) The conditions set forth at paragraphs (k)(1)(ii) and (iv) through (vii) and (k)(2)(iv) of this section apply.

(4) Sport fishing. We allow sport fishing on designated areas of the refuge subject to the following conditions:

(i) We allow sport fishing from February 1 through November 15. On those days, you may fish from 30 minutes before legal sunrise to 30 minutes after legal sunset only.

(ii) On the Sibley Unit, we prohibit motorized boats north of the Ring Levee. Anglers may hand-launch boats in Swamp Lake during nonflood conditions.

(iii) An adult age 21 or older must supervise youth age 15 and younger who may fish in the Kid's Pond. We prohibit adults from fishing in this pond.

(iv) We allow bow fishing.

(v) We prohibit taking alligator gar.

(vi) We prohibit crawfishing.

(vii) We prohibit commercial fishing.

(viii) We prohibit possession of trotline equipment, including limb lines, nets, traps, yo-yos, and/or jugs.

(ix) The condition set forth at paragraph (k)(1)(ii) of this section applies.

(l) Tallahatchie National Wildlife Refuge—(1) Migratory game bird hunting. We allow hunting of migratory waterfowl, coot, snipe, and woodcock on designated areas of the refuge subject to the following conditions:

(i) All hunters age 16 and older must possess and carry a signed North Mississippi NWR hunting permit (code 606, available from the Mississippi Department of Wildlife, Fisheries, and Parks). While hunting on the refuge, all persons age 16 and younger (“youth hunter”) must be in the presence and under the direct supervision of a licensed or exempt hunter age 21 or older (“licensed hunter”). A licensed hunter supervising a youth hunter must hold all required licenses and permits.

(ii) Hunters may enter the refuge at 4 a.m. and must exit the refuge no later than 2 hours after legal sunset, except during raccoon and frog hunts.

(iii) We allow hunting of migratory game birds, including under the Light Goose Conservation Order, only on Wednesdays, Saturdays, and Sundays ending at 12 p.m. (noon).

(iv) Each hunter must obtain a daily Migratory Bird Hunt Report (FWS Form 3-2361). You must display the card in plain view on the dashboard of your vehicle so that the personal information is readable. Prior to leaving the refuge, you must complete the card and deposit it at one of the refuge information stations. Include all game harvested, and if you harvest no game, report “0.”

(v) It is unlawful to hunt from or shoot into the 100-foot (30.5-meter) zone along either side of designated roads and parking lots.

(vi) We allow the use of dogs on the refuge when hunting migratory game birds and upland game. We prohibit the use of dogs during big game hunts.

(vii) You must remove decoys, blinds, boats, other personal property, and litter from the hunting area following each morning's hunt (see §§ 27.93 and 27.94 of this chapter).

(viii) You are allowed no more than 25 shotshells per person in the field.

(2) Upland game hunting. We allow hunting of quail, squirrel, rabbit, and raccoon on designated areas of the refuge subject to the following conditions:

(i) You must possess a valid general Special Use Permit (FWS Form 3-1383-G) to hunt raccoon on the refuge.

(ii) Each hunter must obtain a daily Upland/Small Game/Furbearer Report (FWS Form 3-2362). You must display the card in plain view on the dashboard of your vehicle so that the personal information is readable. Prior to leaving the refuge, you must complete the card and deposit it at one of the refuge information stations. Include all game harvested, and if you harvest no game, report “0.”

(iii) The conditions set forth at paragraphs (l)(1)(i), (ii), and (v) through (vii) of this section apply.

(3) Big game hunting. We allow hunting of white-tailed deer and feral hog on designated areas of the refuge subject to the following conditions:

(i) Each hunter must obtain a daily Big Game Harvest Report (FWS Form 3-2359). You must display the card in plain view on the dashboard of your vehicle so that the personal information is readable. Prior to leaving the refuge, you must complete the card and deposit it at one of the refuge information stations. Include all game harvested, and if you harvest no game, report “0.” We prohibit hunters possessing more than one Big Game Harvest Report (FWS Form 3-2359) at a time.

(ii) The conditions set forth at paragraphs (l)(1)(i), (ii), and (v) through (vii) of this section apply.

(iii) We prohibit organized deer drives. We define a “deer drive” as an organized or planned effort to pursue, drive, chase, or otherwise frighten or cause deer to move in the direction of any person(s) who is part of the organized or planned hunt and known to be waiting for the deer.

(iv) We prohibit hunting or shooting across any open, fallow, or planted field from ground level.

(v) We allow valid permit holders to possess and hunt from one portable stand or blind on the refuge. You must permanently and legibly write your State hunting license number on all stands on the refuge. Stands left on the area do not reserve the hunting locations. You may place stands up to 2 days prior to the hunt, and you must remove them no more than 2 days after the refuge's deer season closes (see § 27.93 of this chapter). Ground blinds must display a minimum 400 square inches (2,581 square centimeters) of fluorescent orange that is visible from all sides.

(vi) Hunters using a climbing tree stand must use a fall-arrest system manufactured to Treestand Manufacturer's Association standards.

(vii) We prohibit the use of buckshot on the refuge.

(4) Sport fishing. We allow sport fishing on designated areas of the refuge subject to the following conditions:

(i) We prohibit the use or possession of alcoholic beverages while fishing.

(ii) All anglers must carry a valid refuge permit (Visitor Check-In Permit and Report, FWS Form 3-2405), certifying that they understand and will comply with all regulations.

(iii) We prohibit possession or use of jugs, seines, nets, hand-grab baskets, slat traps/baskets, or any other similar devices.

(iv) We prohibit commercial fishing of any kind.

(v) We only allow trotlines, yo-yos, limb lines, crawfish traps, or any other similar devices for recreational use. You must tag or mark them with the angler's State fishing license number written with waterproof ink, legibly inscribed or legibly stamped on the tag, and you must attend the devices a minimum of once every 24 hours. When not attended, you must remove these devices from the refuge (see § 27.93 of this chapter).

(vi) We prohibit snagging or attempting to snag fish.

(vii) We allow crawfishing.

(viii) We allow take of frog only with a Special Use Permit (FWS Form 3-1383-G).

(m) Yazoo National Wildlife Refuge—(1) Migratory game bird hunting. We allow hunting of duck, goose, merganser, coot, and dove on designated areas of the refuge subject to the following conditions:

(i) Each person age 16 or older hunting or fishing must possess a valid Theodore Roosevelt National Wildlife Refuge Complex Annual Public Use Permit (electronic form).

(ii) All youth hunters age 15 and younger must be in the presence and direct supervision of a Mississippi licensed or exempt hunter, age 21 or older. One adult may supervise no more than one youth hunter.

(iii) Before hunting or fishing, all participants must display their Daily Visitor Information/Harvest Report Card (Big Game Harvest Report, FWS Form 3-2359) in plain view in their vehicle so that the required information is readable. You must return all cards upon completion of the activity and before leaving the refuge.

(iv) We prohibit all other public use on the refuge during all limited draw hunts.

(v) Valid Theodore Roosevelt National Wildlife Refuge Complex Annual Public Use Permit (electronic form) holders may incidentally take opossum, coyote, beaver, bobcat, nutria, and feral hog in any refuge hunt season with weapons legal for that hunt.

(vi) We prohibit hunting or shooting into a 100-foot (30.5-meter (m)) zone along either side of pipelines, power line rights-of-way, designated roads, and trails, and around parking lots. It is considered hunting if you have a loaded weapon, if you have a nocked arrow while bow hunting, or if you are in an elevated tree stand or ground blind with a means to take, within these areas.

(vii) Hunters must remove all decoys, blind material, and harvested waterfowl from the area no later than 1 p.m. each day (see § 27.93 of this chapter).

(viii) We allow the use of dogs for retrieving migratory birds.

(ix) We allow goose, duck, merganser, and coot hunting beginning ½ hour before legal sunrise until 12 p.m. (noon).

(x) We limit waterfowl hunters to 25 shotshells per person in the field.

(2) Upland game hunting. We allow hunting of squirrel, rabbit, raccoon, opossum, coyote, beaver, bobcat, and nutria on designated areas of the refuge subject to the following conditions:

(i) The conditions set forth at paragraphs (m)(1)(i) through (vi) of this section apply.

(ii) We allow only shotguns .22 and .17 caliber rimfire rifles for small game hunting.

(iii) We allow the use of dogs for hunting squirrel and raccoon, and for the February rabbit hunt.

(3) Big game hunting. We allow hunting of white-tailed deer and feral hog on designated areas of the refuge subject to the following conditions:

(i) The conditions set forth at paragraphs (m)(1)(i) through (vi) of this section apply.

(ii) We prohibit organized drives. We define a “drive” as an organized or planned effort to pursue, drive, chase, or otherwise frighten or cause game to move in the direction of any person(s) who is part of the organized or planned hunt and known to be waiting for the game.

(iii) Hunting or shooting within or adjacent to open fields or tree plantations less than 5 feet (1.5 m) in height must be from a stand a minimum of 10 feet (3 m) above the ground.

(iv) The refuge brochure provides deer check station dates, locations, and requirements. Prior to leaving the refuge, you must check all harvested deer at the nearest self-service check station following the posted instructions.

(v) Hunters may possess and hunt from only one stand or blind. Hunters may place a deer stand or blind 48 hours prior to a hunt, and must remove it within 48 hours after each designated hunt (see § 27.93 of this chapter), with the exception of closed areas where special regulations apply.

(vi) During designated muzzleloader hunts, we allow archery equipment and muzzleloaders loaded with a single ball; we prohibit breech-loading firearms of any type.

(vii) Limited draw hunts require a Limited Hunt Permit (electronic form) assigned by random computer drawing. At the end of the hunt, you must return the permit (Big Game Harvest Report, FWS Form 3-2359) with information concerning that hunt to the refuge. Failure to return this permit will disqualify the hunter for any limited hunts the next year.

(4) [Reserved]

§ 32.44 Missouri.

The following refuge units are open for hunting and/or fishing as governed by applicable Federal and State regulations, and are listed in alphabetical order with additional refuge-specific regulations.

(a) Big Muddy National Fish and Wildlife Refuge—(1) Migratory game bird hunting. We allow hunting of migratory game birds on designated areas of the refuge subject to the following condition: You must remove all your blinds, boats, and decoys from the refuge each day (see § 27.93 of this chapter), except for blinds made entirely of marsh vegetation.

(2) Upland game hunting. We allow upland game hunting on designated areas of the refuge subject to the following condition: On the 131-acre mainland unit of Boone's Crossing, we allow upland game hunting with archery methods only. On Johnson Island, we allow hunting of game animals during Statewide seasons using archery methods or shotguns using shot no larger than BB.

(3) Big game hunting. We allow hunting of deer and turkey on designated areas of the refuge subject to the following conditions:

(i) We allow only portable tree stands from September 1 through January 31. Hunters must place their State Conservation number on their stands.

(ii) On the Boone's Crossing Unit, including Johnson Island, we allow deer and turkey hunters with archery methods only.

(iii) On the Cora Island Unit, we allow deer hunting with archery methods only. We restrict hunting for other game on this unit to shotgun only with shot no larger than BB.

(iv) For wild turkey hunting, you may use or possess only approved nontoxic shot shells (see § 32.2(k)) while in the field.

(4) Sport fishing. We allow fishing on designated areas of the refuge subject to the following condition: You must operate all motorized boats at no-wake speed.

(b) Clarence Cannon National Wildlife Refuge. (1)-(2) [Reserved]

(3) Big game hunting. We allow hunting of white-tailed deer on designated areas of the refuge subject to the following conditions:

(i) You must register at the hunter sign-in/out station and record the sex and age of deer harvested on the Big Game Harvest Report (FWS Form 3-2359).

(ii) We prohibit shooting at deer that are on any portion of the main perimeter levee.

(iii) If you are assigned a specific blind location, you may hunt only from that location.

(iv) We allow use of portable stands, but hunters must remove them at the end of each day (see § 27.93 of this chapter).

(v) You must remove all boats, blinds, blind materials, stands, platforms, scaffolds, and other hunting equipment from the refuge at the end of each day's hunt (see §§ 27.93 and 27.94 of this chapter).

(4) Sport fishing. We allow fishing subject to the following conditions:

(i) We prohibit the taking of turtle or frog (see § 27.21 of this chapter).

(ii) We allow only boat fishing, except that we allow bank fishing during managed refuge special events.

(iii) Anglers must remove all boats and fishing equipment at the end of each day (see § 27.93 of this chapter).

(c) Great River National Wildlife Refuge. Refer to § 32.32(e) for regulations.

(d) Loess Bluffs National Wildlife Refuge—(1) Migratory game bird hunting. We allow hunting of light goose on designated areas of the refuge subject to the following conditions:

(i) We allow hunting of light geese only during the spring conservation order season.

(ii) We require hunters to have a Special Use Permit (FWS Form 3-1383-C), and all hunters must hunt with a guide.

(iii) We allow the guide and hunters into the hunt boundary up to 2 hours prior to legal shooting time.

(iv) Hunting ends at 1 p.m.

(v) We allow dogs while hunting, provided the dog is under the immediate control of the hunter at all times.

(vi) We allow portable blinds and decoys at the discretion of the guide.

(vii) We prohibit pit blinds.

(viii) We prohibit retrieving crippled geese outside of the hunt boundary, including adjacent private land. This includes retrieval by dogs.

(2) [Reserved]

(3) Big game hunting. We allow hunting of deer on designated areas of the refuge subject to the following conditions:

(i) We require a valid State-managed hunt unit permit to hunt deer on the refuge.

(ii) We allow only muzzleloader hunting.

(iii) We require hunters to check in and out of the refuge.

(iv) You must remove your stand(s) from the refuge at the end of the managed deer hunt (see § 27.93 of this chapter).

(4) Sport fishing. We allow fishing on designated areas of the refuge subject to the following condition: You may take fish, amphibians, reptiles, and crustaceans only with a hand-held pole and line or rod and reel.

(e) Middle Mississippi River National Wildlife Refuge. Refer to § 32.32(i) for regulations.

(f) Mingo National Wildlife Refuge—(1) Migratory game bird hunting. We allow waterfowl hunting in Pool 7 and Pool 8 subject to the following conditions:

(i) We allow the use of dogs for waterfowl hunting, provided the dogs are under the immediate control of the hunter at all times.

(ii) We allow waterfowl hunting from ½ hour before legal sunrise until 1 p.m.

(iii) You must remove boats, decoys, blinds, and blind materials brought onto the refuge at the end of each day's hunt (see §§ 27.93 and 27.94 of this chapter).

(iv) We require hunters to go through the Missouri Department of Conservation daily draw process at Duck Creek Conservation Area to hunt in Pool 7 and Pool 8.

(v) We require hunters to read our refuge hunting brochure that contains a hunting permit (signed brochure). We require hunters to sign and carry the permit/brochure while hunting.

(vi) We allow the take of feral hog at any time, and bobcat when in season, while legally hunting others species on the refuge.

(2) Upland game hunting. We allow hunting of squirrel, raccoon, and bobcat in designated areas of the refuge subject to the following conditions:

(i) The conditions set forth at paragraphs (f)(1)(v) and (vi) of this section apply.

(ii) We allow hunter access from 1½ hours before legal shooting time until 1½ hours after legal shooting time.

(iii) We require that all hunters register at the hunter sign-in stations and complete an Upland Game Hunt Report (FWS Form 3-2362) located at the exit kiosks prior to exiting the refuge.

(iv) We allow squirrel hunting from the State opening day until the day before the State opening of archery deer season.

(v) Archery hunters may take squirrel, raccoon, and bobcat while in season and feral hog anytime while archery deer hunting.

(vi) We allow raccoon hunting by special use permit during the Statewide raccoon season.

(3) Big game hunting. We allow big game hunting in designated areas of the refuge subject to the following conditions:

(i) The conditions set forth at paragraphs (f)(1)(iii), (v), and (vi) and (f)(2)(ii) of this section apply.

(ii) We require that all hunters register at the hunter sign-in stations and complete the Big Game Harvest Report (FWS Form 3-2359) located at the exit kiosks prior to exiting the refuge.

(iii) We allow archery hunting for deer and turkey during the fall season.

(iv) We allow spring turkey hunting. You may only use or possess approved nontoxic shot shells (see § 32.2(k)) while in the field, including shot shells used for hunting wild turkey.

(v) We allow archery hunting in the Expanded General Hunt Area through October 31.

(vi) We allow portable tree stands. You may place a portable tree stand no earlier than 2 weeks before the State archery deer season, and you must remove it no later than 2 weeks after the State archery deer season (see § 27.93 of this chapter), except that in the Expanded General Hunt Area, you must remove all personal property at the end of each day (see § 27.93 of this chapter). A tree stand left on the refuge must be labeled with hunter's conservation identification number.

(vii) We allow only one tree stand per deer hunter.

(viii) Hunters may use boats to access the hunt area.

(ix) We require hunters to apply for managed deer hunts through the Missouri Department of Conservation internet draw.

(4) Sport fishing. We allow fishing on designated areas of the refuge subject to the following conditions:

(i) Except as provided under paragraph (f)(4)(ii) of this section, we allow fishing from March 1 through September 30, from ½ hour before legal sunrise until ½ hour after legal sunset, on all refuge waters.

(ii) We allow fishing year-round from ½ hour before legal sunrise to ½ hour after legal sunset on Red Mill Pond, Mingo River (south of Ditch 6 Road), Stanley Creed, May Pond, Fox Pond, and Ditches 1, 2, 3, 6, 10, and 11.

(iii) We allow the use of electric trolling motors outside the Mingo Wilderness.

(iv) We require the removal of watercraft from the refuge at the end of each day's fishing activity (see § 27.93 of this chapter).

(v) We allow anglers to take nongame fish by nets and seines for personal use only from March 1 through September 30.

(vi) Anglers must attend trammel and gill nets at all times and plainly label them with the angler's conservation identification (ID) number.

(vii) We only allow the use of trotlines, throwlines, limb lines, bank lines, and jug lines from ½ hour before legal sunrise until ½ hour after legal sunset. Anglers must mark each line with their conservation ID number.

(viii) We allow the take of common snapping turtle and soft-shelled turtle using only pole and line. We require all anglers to immediately release all alligator snapping turtles.

(g) Swan Lake National Wildlife Refuge—(1) Migratory game bird hunting. We allow hunting of waterfowl, dove, rail, snipe, and woodcock on the refuge subject to the following conditions:

(i) We require the Missouri Department of Conservation “Green Card” while hunting waterfowl.

(ii) We require Missouri Department of Conservation “White Cards” while dove hunting.

(iii) You must follow designated check-in and check-out procedures.

(iv) We only allow waterfowl hunting during designated days of the waterfowl seasons, late goose season, and Spring Conservation Order season.

(v) We restrict hunting hours to designated times on designated units. You must remove all equipment (see § 27.93 of this chapter) and exit units by 1 p.m.

(vi) During the Spring Conservation Order season, you may leave decoys and blinds overnight in your assigned unit.

(vii) You may hunt only in your assigned designated area. We assign designated areas to hunters at the check station.

(viii) We allow the use of dogs while hunting, provided the dog is under the immediate control of the hunter at all times.

(ix) We restrict hunting units to parties no larger than four, unless otherwise designated.

(x) We allow hand-pulled carts.

(xi) You must park vehicles in designated parking areas.

(xii) We prohibit hunting or shooting on, across, or within 100 feet (30.5 meters) of a service road, parking lot, or designated trail.

(2) Upland game hunting. We allow hunting of upland game on designated areas of the refuge subject to the following conditions:

(i) The condition set forth at paragraph (g)(1)(xii) of this section applies.

(ii) We allow shotguns, handguns, and rimfire .22 caliber rifles.

(iii) You may not access the refuge from neighboring private or public lands.

(iv) We restrict hunting use hours on designated hunting units.

(3) Big game hunting. We allow hunting of deer and wild turkey on designated areas of the refuge subject to the following conditions:

(i) The conditions set forth at paragraphs (g)(1)(iii) and (g)(2)(iii) of this section apply.

(ii) For wild turkey hunting, you may use or possess only approved nontoxic shot shells (see § 32.2(k)) while in the field.

(iii) On the refuge, we allow hunting of white-tailed deer subject to the following conditions:

(A) We require a Missouri Department of Conservation Permit, along with Missouri Department of Conservation hunter identification tags and parking permits (name/address/phone number), to hunt during the managed deer hunt.

(B) You must participate in a pre-hunt orientation for managed deer hunts.

(C) You must hunt in designated areas during designated times.

(D) We allow entry onto the refuge 1 hour prior to shooting hours during managed deer hunts. You must be off the refuge 1 hour after shooting hours, unless the refuge manager or designee has given you permission to stay on the refuge until a later time.

(E) We prohibit shooting from, across, or within 100 feet (30.5 meters (m)) of a service road, public road, parking lot, or designated trail unless authorized by the refuge manager.

(F) We allow use of portable tree stands and blinds during managed deer hunts, and you must remove them at designated times (see § 27.93 of this chapter). You must attach your conservation identification number to all stands and blinds. During managed firearms hunts, you must mark enclosed hunting blinds and stands with hunter orange visible from all sides.

(G) During special hunts, one nonhunting assistant may accompany youth or hunters with disabilities.

(4) Sport fishing. We allow sport fishing on designated areas of the refuge subject to the following conditions:

(i) We allow fishing on the refuge only during refuge open hours.

(ii) The Taylor Point area of Elk Creek is open to fishing year-round during daylight hours. Anglers may access this area by a refuge road (FHWA Route 100) off of State Highway E.

(iii) We allow only nonmotorized boats on refuge waters, except that anglers may use motor boats on the Silver Lake impoundment. No wake applies to all waters on the refuge.

(iv) Anglers must remove all boats from the refuge at the end of each day (see § 27.93 of this chapter).

(h) Two Rivers National Wildlife Refuge. Refer to § 32.32(k) for regulations.

§ 32.45 Montana.

The following refuge units are open for hunting and/or fishing as governed by applicable Federal and State regulations, and are listed in alphabetical order with additional refuge-specific regulations.

(a) Benton Lake National Wildlife Refuge—(1) Migratory game bird hunting. We allow hunting of duck, goose, swan, and coot in designated areas of the refuge subject to the following conditions:

(i) We allow hunters to enter and remain in open hunting areas 2 hours before legal sunrise until 2 hours after legal sunset.

(ii) Hunters with a documented mobility disability may reserve an accessible blind in advance by contacting the refuge office.

(2) Upland game hunting. We allow hunting of pheasant, sharp-tailed grouse, and gray partridge in designated areas of the refuge subject to the following condition: The condition set forth at paragraph (a)(1)(i) of this section applies.

(3) [Reserved]

(4) Sport fishing. We allow fishing on designated areas of the refuge.

(b) Benton Lake Wetland Management District—(1) Migratory game bird hunting. We allow migratory game bird hunting on designated areas of the district.

(2) Upland game hunting. We allow the hunting of coyote, skunk, red fox, raccoon, hare, rabbit, and tree squirrel on designated areas of the district.

(3) Big game hunting. We allow big game hunting on designated areas of the district.

(4) Sport fishing. We allow sport fishing on designated areas of the district.

(c) Black Coulee National Wildlife Refuge—(1) Migratory game bird hunting. We allow hunting of duck, goose, coot, swan, sandhill crane, and mourning dove on designated areas of the refuge subject to the following condition: You must remove all boats, decoys, portable blinds, other personal property, and any materials brought onto the refuge for blind construction by legal sunset each day (see §§ 27.93 and 27.94 of this chapter).

(2) Upland game hunting. We allow hunting of pheasant, sharp-tailed grouse, sage grouse, gray partridge, fox, and coyote on designated areas of the refuge subject to the following condition: Fox and coyote hunters may only use centerfire rifles, rimfire rifles, or shotguns with approved nontoxic shot (see § 32.2(k)).

(3) Big game hunting. We allow big game hunting on designated portions of the refuge subject to the following conditions:

(i) We allow hunters to leave portable tree stands, portable blinds, and freestanding elevated platforms on the refuge from August 15 through December 15.

(ii) You must visibly mark portable tree stands, portable blinds, and freestanding elevated platforms with your automated licensing system (ALS) number.

(4) [Reserved]

(d) Bowdoin National Wildlife Refuge—(1) Migratory game bird hunting. We allow hunting of duck, goose, coot, swan, sandhill crane, and mourning dove on designated areas of the refuge.

(2) Upland game hunting. We allow hunting of pheasant, sharp-tailed grouse, sage grouse, gray partridge, fox, and coyote on designated areas of the refuge subject to the following conditions:

(i) You must possess and carry a refuge Special Use Permit (FWS Form 3-1383-G) to hunt fox and coyotes.

(ii) Fox and coyote hunters may only use centerfire rifles, rimfire rifles, or shotguns with approved nontoxic shot (see § 32.2(k)).

(iii) Any person hunting or accompanying a hunter must wear a minimum of 400 square inches (2,581 square centimeters) of hunter orange (fluorescent) material above the waist, visible at all times.

(3)-(4) [Reserved]

(e) Bowdoin Wetland Management District—(1) Migratory game bird hunting. We allow migratory game bird hunting on designated areas of the district.

(2) Upland game hunting. We allow upland game hunting on designated areas of the district.

(3) Big game hunting. We allow big game hunting on designated areas of the district subject to the following conditions:

(i) You may leave portable tree stands, portable blinds, and freestanding elevated platforms on waterfowl production areas (WPAs) from August 15 through December 15.

(ii) You must label portable tree stands, portable blinds, and freestanding elevated platforms with your automated licensing system (ALS) number. The label must be legible from the ground.

(iii) We only allow the use of archery, muzzleloader (as governed by State regulations), or shotgun on the McNeil Slough WPA and Hammond WPA.

(4) Sport fishing. We allow sport fishing on designated areas of the district.

(f) Charles M. Russell National Wildlife Refuge—(1) Migratory game bird hunting. We allow migratory game bird hunting on designated areas of the refuge.

(2) Upland game hunting. We allow hunting of upland game birds, turkey, and coyote on designated areas of the refuge subject to the following condition: We allow coyote hunting from the first day of antelope rifle season through March 1 annually.

(3) Big game hunting. We allow hunting of big game on designated areas of the refuge subject to the following conditions:

(i) We allow the use of portable blinds and stands.

(ii) We limit each hunter to three stands or blinds. The hunter must have their automated licensing system (ALS) number visibly marked on the stand(s) or blind(s).

(iii) You may install portable stands and blinds no sooner than August 1, and you must remove them by December 15 of each year (see § 27.93 of this chapter).

(4) Sport fishing. We allow sport fishing on designated areas of the refuge.

(g) Charles M. Russell Wetland Management District—(1) Migratory game bird hunting. We allow migratory game bird hunting on designated areas of the district subject to the following condition: You must remove all watercraft and personal equipment following each day of hunting (see §§ 27.93 and 27.94 of this chapter).

(2) Upland game hunting. We allow upland game bird hunting on designated areas of the district.

(3) Big game hunting. We allow big game hunting on designated areas of the district subject to the following condition: You must remove your tree stand(s) from the refuge after each day's hunt (see § 27.93 of this chapter).

(4) Sport fishing. We allow sport fishing on designated areas of the district subject to the following condition: Anglers must remove all motor boats and other personal equipment at the end of each day (see §§ 27.93 and 27.94 of this chapter).

(h) Creedman Coulee National Wildlife Refuge—(1) Migratory game bird hunting. We allow hunting of duck, goose, coot, swan, sandhill crane, and mourning dove on designated areas of the refuge.

(2) Upland game hunting. We allow hunting of pheasant, sharp-tailed grouse, sage grouse, gray partridge, fox, and coyote on designated areas of the refuge.

(3) Big game hunting. We allow big game hunting on designated areas of the refuge.

(4) [Reserved]

(i) Hailstone National Wildlife Refuge—(1) Migratory game bird hunting. We allow migratory game bird hunting on designated areas of the refuge.

(2) Upland game hunting. We allow only upland game bird hunting on designated areas of the refuge.

(3)-(4) [Reserved]

(j) Hewitt Lake National Wildlife Refuge—(1) Migratory game bird hunting. We allow hunting of duck, goose, coot, swan, sandhill crane, and mourning dove on designated areas of the refuge subject to the following condition: You must remove all boats, decoys, portable blinds, other personal property, and any materials brought onto the refuge for blind construction by legal sunset each day (see §§ 27.93 and 27.94 of this chapter).

(2) Upland game hunting. We allow hunting of pheasant, sharp-tailed grouse, sage grouse, gray partridge, fox, and coyote on designated portions of the refuge subject to the following condition: Fox and coyote hunters may use only centerfire rifles, rim-fire rifles, or shotguns with approved nontoxic shot (see § 32.2(k)).

(3) Big game hunting. We allow big game hunting on designated areas of the refuge subject to the following conditions:

(i) We allow hunters to leave portable tree stands, portable blinds, and freestanding elevated platforms on the refuge from August 15 through December 15.

(ii) You must visibly mark portable tree stands, portable blinds, and freestanding elevated platforms with your automated licensing system (ALS) number.

(4) [Reserved]

(k) Lake Mason National Wildlife Refuge—(1) Migratory game bird hunting. We allow hunting of migratory game birds on designated areas of the refuge.

(2) Upland game hunting. We allow hunting of upland game on designated areas of the refuge.

(3) Big game hunting. We allow hunting of big game on designated areas of the refuge.

(4) [Reserved]

(l) Lake Thibadeau National Wildlife Refuge—(1) Migratory game bird hunting. We allow hunting of duck, goose, coot, swan, sandhill crane, and mourning dove on designated areas of the refuge.

(2) Upland game hunting. We allow hunting of pheasant, sharp-tailed grouse, sage grouse, gray partridge, fox, and coyote on designated areas of the refuge.

(3) Big game hunting. We allow big game hunting on designated areas of the refuge.

(4) [Reserved]

(m) Lamesteer National Wildlife Refuge—(1) Migratory game bird hunting. We allow hunting of migratory birds on designated areas of the refuge subject to the following condition: Hunters must obtain landowner permission before hunting on the refuge.

(2) Upland game hunting. We allow hunting of upland game on designated areas of the refuge subject to the following condition: Hunters must obtain landowner permission before hunting on the refuge.

(3) Big game hunting. We allow hunting of big game on designated areas of the refuge subject to the following condition: Hunters must obtain landowner permission before hunting on the refuge.

(4) Sport fishing. We allow sport fishing on designated areas of the refuge subject to the following condition: Anglers must obtain landowner permission before fishing on the refuge.

(n) Lee Metcalf National Wildlife Refuge—(1) Migratory game bird hunting. We allow hunting of duck, goose, and coot on designated areas of the refuge subject to the following conditions:

(i) You must hunt from an established blind.

(ii) Legal entry time into the hunting area is no earlier than 2 hours before legal shooting hours. All hunters must exit the hunting area no later than 2 hours after legal shooting hours.

(iii) We prohibit wildlife observation, scouting, and loitering during waterfowl hunting season at the waterfowl hunting area parking lot and on the refuge road leading to the waterfowl hunting area parking lot.

(iv) We close the waterfowl hunting area to waterfowl hunting on Mondays and Thursdays.

(v) Each hunter must complete the Migratory Bird Hunt Report (FWS Form 3-2361), must set the appropriate blind selector (metal flip tag) before and after hunting, and must record hunting data (hours hunted and birds harvested) on FWS Form 3-2361 before departing the hunting area.

(vi) We prohibit attempting to “reserve” a blind for use later in the day by depositing a vehicle or other equipment on the refuge. A hunter must be physically present in the hunting area in order to use a blind. The exceptions are blinds 2 and 7, which may be reserved for hunters with disabilities.

(vii) No more than four hunters or individuals may use a blind at one time.

(viii) You must conduct all hunting from within the hunting blind.

(ix) All hunters must have a visible means of retrieving waterfowl such as a float tube, waders, or a dog capable of retrieving.

(x) We prohibit falconry hunting.

(xi) We allow the use of a portable ground blind within the immediate mowed area around field blind #13.

(2) [Reserved]

(3) Big game hunting. We allow archery hunting of white-tailed deer on designated areas of the refuge subject to the following conditions:

(i) We prohibit wildlife observation, scouting, and loitering at access points and parking areas.

(ii) Hunters may only enter the hunt area 2 hours prior to legal hunting hours and must exit no later than 2 hours after legal hunting hours.

(iii) We allow archery hunting in the waterfowl hunting area in September, except during the youth waterfowl hunt weekend. We will allow archery hunting on Mondays and Thursdays in the waterfowl hunting area during waterfowl hunting season.

(iv) Each hunter must complete the Big Game Harvest Report (FWS Form 3-2359) before departing the hunting area.

(v) We allow the use of portable tree stands or ground blinds. You must attach a tag displaying the owner's automated licensing system (ALS) number to each tree stand and/or ground blind you place on the refuge.

(vi) Hunters may not enter or retrieve deer from closed areas of the refuge without the consent of an authorized official.

(vii) Hunters with a documented mobility disability may access designated locations in the hunting area to hunt from ground blinds. To access these areas, hunters must contact the refuge manager in advance to obtain a Special Use Permit (FWS Form 3-1383-G).

(viii) We prohibit organized drives. We define a “drive” as an organized or planned effort to pursue, drive, chase, or otherwise frighten or cause game to move in the direction of any person(s) who is part of the organized or planned hunt and known to be waiting for the game.

(4) Sport fishing. We allow sport fishing on designated areas of the refuge.

(o) Lost Trail National Wildlife Refuge. (1) [Reserved]

(2) Upland game hunting. We allow hunting of turkey and mountain grouse on designated areas of the refuge subject to the following conditions:

(i) We allow use of riding or pack stock on designated access routes through the refuge to access off-refuge lands as identified in the public use leaflet.

(ii) We prohibit retrieval of game in areas closed to hunting without a refuge retrieval permit.

(iii) We allow portable or temporary blinds and tree stands.

(3) Big game hunting. We allow hunting of elk, white-tailed deer, and mule deer on designated areas of the refuge subject to the following conditions:

(i) The conditions set forth at paragraphs (o)(2)(i) through (iii) of this section apply.

(ii) The first week of the archery elk and deer hunting season and the first week of the general elk and deer hunting season are open only to youth hunters (ages 12 to 15). A nonhunting adult age 18 or older must accompany the youth hunter in the field.

(iii) Persons assisting disabled hunters must not be afield with a hunting firearm, bow, or other hunting device.

(4) [Reserved]

(p) Medicine Lake National Wildlife Refuge—(1) Migratory game bird hunting. We allow hunting of coot, duck, goose, sandhill crane, tundra swan, snipe, and dove on designated areas of the refuge.

(2) Upland game hunting. We allow hunting of pheasant, partridge, sharp-tailed grouse, coyote, red fox, and white-tailed jackrabbit on designated areas of the refuge subject to the following condition: We allow hunting of coyote, red fox, and white-tailed jackrabbit during daylight hours from November 15 through March 31.

(3) Big game hunting. We allow hunting of deer and antelope on designated areas of the refuge.

(4) Sport fishing. We allow sport fishing on designated areas of the refuge.

(q) National Bison Range. (1)-(3) [Reserved]

(4) Sport fishing. We allow sport fishing on designated areas of the National Bison Range as governed by joint State and Confederated Salish and Kootenai Tribal regulations for non-members and Confederated Salish and Kootenai Tribal regulations for members of the Confederated Salish and Kootenai Tribe subject to the following condition: We prohibit the use of lead or lead-based lures or sinkers.

(r) Ninepipe National Wildlife Refuge. (1)-(3) [Reserved]

(4) Sport fishing. We allow sport fishing on designated areas of the refuge as governed by joint State and Confederated Salish and Kootenai Tribal regulations for non-members and Confederated Salish and Kootenai Tribal regulations for members of the Confederated Salish and Kootenai Tribe subject to the following condition: We prohibit the use of lead or lead-based tackle.

(s) Northeast Montana Wetland Management District—(1) Migratory game bird hunting. We allow migratory game bird hunting on designated areas of the district subject to the following condition: You must remove boats, decoys, portable blinds, other personal property, and any materials brought onto the area for blind construction at the end of each day (see §§ 27.93 and 27.94 of this chapter).

(2) Upland game hunting. We allow upland game hunting on designated areas of the district.

(3) Big game hunting. We allow big game hunting on designated areas of the district subject to the following conditions:

(i) We allow hunters to leave portable tree stands and freestanding elevated platforms on waterfowl production areas (WPAs) from August 25 through February 15.

(ii) You must label portable tree stands and freestanding elevated platforms with your automated licensing system (ALS) number so that the number is legible from the ground.

(4) [Reserved]

(t) Northwest Montana Wetland Management District—(1) Migratory game bird hunting. We allow migratory game bird hunting on designated areas of the district as governed by State law (Flathead County waterfowl production areas (WPAs)) and joint State and Confederated Salish and Kootenai Tribal regulations for non-members and Confederated Salish and Kootenai Tribal regulations for members of the Confederated Salish and Kootenai Tribe (Lake County WPAs), subject to the following conditions:

(i) Hunters must remove all boats, decoys, portable blinds (including those made of native materials), boat blinds, and all other personal property at the end of each day (see §§ 27.93 and 27.94 of this chapter).

(ii) We allow the use of hunting dogs when hunting.

(2) Upland game hunting. We allow upland game hunting on designated areas of the district as governed by State law (Flathead County WPAs) and joint State and Confederated Salish and Kootenai Tribal regulations for non-members and Confederated Salish and Kootenai Tribal regulations for members of the Confederated Salish and Kootenai Tribe (Lake County WPAs), subject to the following conditions:

(i) We prohibit hunting with a shotgun capable of holding more than three shells.

(ii) The conditions set forth at paragraphs (t)(1)(i) and (ii) of this section apply.

(3) Big game hunting. We allow big game hunting on designated areas of the district as follows:

(i) We allow big game hunting on Flathead County WPAs as governed by State law and subject to the following conditions:

(A) The conditions set forth at paragraphs (t)(1)(i) and (t)(2)(i) of this section apply.

(B) We restrict hunting on Flathead, Blasdel, and Batavia WPAs to hunting with archery equipment, shotgun, traditional handgun, muzzleloader, or crossbow only.

(ii) We allow big game hunting on Lake County WPAs as governed by joint State and Confederated Salish and Kootenai Tribal regulations for non-members and Confederated Salish and Kootenai Tribal regulations for members of the Confederated Salish and Kootenai Tribe.

(4) Sport fishing. We allow sport fishing on all WPAs throughout the district as governed by State law (Flathead County WPAs) and joint State and Confederated Salish and Kootenai Tribal regulations for non-members and Confederated Salish and Kootenai Tribal regulations for members of the Confederated Salish and Kootenai Tribe (Lake County WPAs).

(u) Pablo National Wildlife Refuge. (1)-(3) [Reserved]

(4) Sport fishing. We allow sport fishing on designated areas of the refuge as governed by joint State and Confederated Salish and Kootenai Tribal regulations for non-members and Confederated Salish and Kootenai Tribal regulations for members of the Confederated Salish and Kootenai Tribe subject to the following condition: We prohibit the use of lead or lead-based lures or sinkers.

(v) Red Rock Lakes National Wildlife Refuge—(1) Migratory game bird hunting. We allow hunting of goose, duck, and coot on designated areas of the refuge subject to the following conditions:

(i) Hunters must remove all blinds, decoys, shell casings, and other personal equipment from the refuge each day (see §§ 27.93 and 27.94 of this chapter).

(ii) We prohibit the use of motorized decoys.

(2) [Reserved]

(3) Big game hunting. We allow hunting of deer, elk, moose, and pronghorn antelope on designated areas of the refuge subject to the following conditions:

(i) We limit the number of hunters per day during the general big game season for the area north of South Valley Road, south of Red Rock River Mash, and west of Upper Red Rock Lake to the west refuge boundary. We close this area to hunting by other big game hunters during the general big game season. We select the hunters per day by annual lottery.

(ii) You may hire outfitters or ranchers for the retrieval of big game only.

(iii) We prohibit use of wheeled game carts or other mechanical transportation devices for game retrieval on portions of the refuge designated as Wilderness Area.

(iv) We prohibit horses north of South Valley Road except for the retrieval of big game. We only allow horses for back-country access to the Centennial Mountains south of South Valley Road. We require the use of certified weed-free hay or pellets in refuge parking lots and on refuge roads or trails.

(v) We prohibit hunting and/or shooting from or onto refuge lands from within 50 yards (45 meters) of the centerline of any public road open to motorized vehicles.

(4) Sport fishing. We allow sport fishing on designated areas of the refuge subject to the following conditions:

(i) You may only use pole and line or rod and reel to fish on the refuge.

(ii) We prohibit the use of felt-soled wading boots on all refuge waters.

(iii) We prohibit the use or possession of lead sinkers or any lead fishing product while fishing.

(w) Swan River National Wildlife Refuge—(1) Migratory game bird hunting. We allow hunting of goose, duck, and coot on designated areas of the refuge.

(2) [Reserved]

(3) Big game hunting. We allow archery hunting of elk, white-tailed deer, and mule deer on designated areas of the refuge subject to the following conditions:

(i) We allow the use of portable blinds and stands.

(ii) We limit each hunter to one stand or blind. The hunter must have their automated licensing system (ALS) number visibly marked on the stand or blind.

(iii) You may install portable stands and blinds no sooner than the first day of the hunting season, and you must remove them by the last day of the hunting season (see § 27.93 of this chapter).

(4) Sport fishing. We allow sport fishing on designated areas of the refuge.

(x) UL Bend National Wildlife Refuge—(1) Migratory game bird hunting. We allow hunting of migratory game birds on designated areas of the refuge.

(2) Upland game hunting. We allow hunting of upland game birds and coyote on designated areas of the refuge subject to the following condition: We allow coyote hunting from the first day of antelope rifle season through March 1 annually.

(3) Big game hunting. We allow hunting of big game on designated areas of the refuge subject to the following conditions:

(i) We allow the use of portable blinds and stands.

(ii) We limit each hunter to three stands or blinds. The hunter must have their automated licensing system (ALS) number visibly marked on the stand(s) or blind(s).

(iii) You may install portable stands and blinds no sooner than August 1, and you must remove them by December 15 of each year (see § 27.93 of this chapter).

(4) Sport fishing. We allow sport fishing on designated areas of the refuge.

(y) War Horse National Wildlife Refuge—(1) Migratory game bird hunting. We allow hunting of migratory game birds on designated areas of the refuge.

(2) Upland game hunting. We allow hunting of upland game birds on designated areas of the refuge.

(3) Big game hunting. We allow hunting of big game on designated areas of the refuge.

(4) Sport fishing. We allow sport fishing on designated areas of the refuge.

§ 32.46 Nebraska.

The following refuge units are open for hunting and/or fishing as governed by applicable Federal and State regulations, and are listed in alphabetical order with additional refuge-specific regulations.

(a) Boyer Chute National Wildlife Refuge—(1) Migratory game bird hunting. We allow hunting of duck, goose, and coot on designated areas of the refuge subject to the following conditions:

(i) Hunters may access the refuge from 2 hours before legal sunrise until 2 hours after legal sunset along the immediate shoreline and including the high bank of the Missouri River. You may access the hunting area by water or, if by land, only within the public use area of the Island Unit.

(ii) You must remove all blinds and decoys at the conclusion of each day's hunt (see § 27.93 of this chapter).

(2) [Reserved]

(3) Big game hunting. We allow hunting of white-tailed deer and wild turkey on designated areas of the refuge subject to the following conditions:

(i) The refuge manager will annually determine and publish hunting season dates and include them in the refuge access permit (signed brochure).

(ii) You must possess and carry a refuge access permit (signed brochure) at all times while in the hunting area.

(iii) We allow hunters in the designated areas from 2 hours before legal sunrise until 2 hours after legal sunset.

(iv) We allow two portable tree stands/blinds per hunter within the hunt area. Of those, only one stand/blind can be left on the refuge from 1 week prior to the start of the designated hunt season to 1 week after the end of the designated hunt season.

(v) You must plainly label unattended stands and blinds with the full name and/or hunting license number of the owner. Labels must be visible from ground level.

(4) Sport fishing. We allow fishing on designated areas of the refuge subject to the following conditions:

(i) We allow personally attended hook and line fishing and archery fishing (rough fish only) from ½ hour before legal sunrise to ½ hour after legal sunset.

(ii) We prohibit the use of trotlines, float lines, bank lines, or setlines.

(iii) We prohibit digging or seining for bait.

(iv) We prohibit the take or possession of turtles or frogs (see § 27.21 of this chapter).

(v) Anglers may use no more than two lines and two hooks per line.

(b) Crescent Lake National Wildlife Refuge—(1) Migratory game bird hunting. We allow hunting of waterfowl and coot on designated areas of the refuge subject to the following conditions:

(i) Hunters may enter the designated hunting area 2 hours before legal sunrise and must be back to their vehicle in the process of leaving the refuge 2 hours after legal sunset. Official shooting hours are from ½ hour before legal sunrise until ½ hour after legal sunset for deer, coyote, and furbearer hunters; and from ½ hour before legal sunrise until legal sunset for all other hunters.

(ii) When hunting migratory game birds and upland game, you may only use dogs to locate, point, and retrieve.

(iii) We open the refuge to hunting from September 1 through January 31.

(iv) We prohibit publicly organized hunts unless authorized under a Special Use Permit (FWS Form 3-1383-C).

(v) We only allow floating blinds on Island Lake.

(2) Upland game hunting. We allow hunting of cottontail rabbit, jack rabbit, furbearer, coyote, ring-necked pheasant, and prairie grouse on designated areas of the refuge subject to the following conditions:

(i) The conditions set forth at paragraphs (b)(1)(i) through (iv) of this section apply.

(ii) We allow electronic calls for coyote and furbearer hunting.

(iii) Coyotes and all furbearers or their parts, if left in the field, must be left at least 50 yards away from any road, trail, or building. Otherwise, hunters must remove them from the refuge (see §§ 27.93 and 27.94 of this chapter).

(3) Big game hunting. We allow hunting of white-tailed deer and mule deer on designated areas of the refuge subject to the following condition: The conditions set forth at paragraphs (b)(1)(i) and (iv) of this section apply.

(4) Sport fishing. We allow sport fishing on designated areas of the refuge subject to the following conditions:

(i) Anglers may enter the refuge 1 hour before legal sunrise and remain until 1 hour after legal sunset.

(ii) We open Island Lake to fishing year-round and open Smith and Crane Lakes to fishing seasonally from November 1 through February 15. We close all other refuge lakes to fishing.

(iii) We prohibit leaving temporary shelters used for fishing overnight on the refuge.

(c) Fort Niobrara National Wildlife Refuge. (1)-(2) [Reserved]

(3) Big game hunting. We allow hunting of deer and elk on designated areas of the refuge subject to the following conditions:

(i) We require the submission of a Big/Upland Game Hunt Application (FWS Form 3-2439, Hunt Application—National Wildlife Refuge System). You must possess and carry a signed refuge hunt permit (signed brochure) when hunting. We require hunters to complete a Big Game Harvest Report (FWS Form 3-2359) and return it to the refuge at the conclusion of the hunting season.

(ii) We allow hunting with muzzleloader and archery equipment. We prohibit hunting with firearms capable of firing cartridge ammunition.

(iii) We allow hunter access from 2 hours before legal sunrise until 2 hours after legal sunset.

(iv) We allow horses within the wilderness area. We limit horse use to three groups at a time and no more than five horses per group. We limit horse access to the wilderness area via the wilderness overlook or the refuge corrals and buffalo bridge.

(v) We prohibit leaving tree stands and ground blinds in the same location for more than 7 consecutive days. You may put up tree stands, elevated platforms, and ground blinds, but no earlier than opening day of deer season; you must remove them by the last day of deer season (see § 27.93 of this chapter).

(vi) We prohibit hunting during the Nebraska November Firearm Deer Season.

(4) Sport fishing. We allow fishing on designated areas of the refuge subject to the following conditions:

(i) We prohibit the use of limb or set lines.

(ii) We prohibit the take of baitfish, reptiles, and amphibians (see § 27.21 of this chapter).

(iii) We prohibit use or possession of alcoholic beverages while fishing on refuge lands and waters.

(d) North Platte National Wildlife Refuge. (1) [Reserved]

(2) Upland game hunting. We allow hunting of squirrel, rabbit, pheasant, furbearers (as governed by State definitions), and coyote on designated areas of the refuge subject to the following conditions:

(i) We close the Lake Alice Unit to all public entry from October 15 through January 14.

(ii) Hunters must be 15 years of age or younger (“youth hunters”). A licensed hunter 19 years of age or older (“adult guide”) must accompany youth hunters. Adult guides must not hunt or carry firearms.

(iii) We close the refuge to public use from legal sunset to legal sunrise. However, youth hunters and their adult guides may enter the designated hunting area 1 hour prior to legal sunrise.

(iv) We only allow the use of dogs for pheasant hunting on the refuge.

(3) Big game hunting. We allow archery hunting of mule deer and white-tailed deer on designated areas of the refuge subject to the following conditions:

(i) The condition set forth at paragraph (d)(2)(i) of this section applies.

(ii) We close the refuge to public use from legal sunset to legal sunrise. However, archery deer hunters may enter the designated hunting area 1 hour prior to legal sunrise and remain until 1 hour after legal sunset.

(4) Sport fishing. We allow sport fishing on designated areas of the refuge.

(e) Rainwater Basin Wetland Management District—(1) Migratory game bird hunting. We allow migratory game bird hunting on designated areas of the district subject to the following conditions:

(i) We allow the use of dogs when hunting, except that we prohibit hunting with dogs from May 1 to July 31.

(ii) We prohibit exercising, running, or training dogs from May 1 to July 31.

(2) Upland game hunting. We allow upland game hunting on designated areas of the district subject to the following condition: The conditions set forth at paragraphs (e)(1)(i) and (ii) of this section apply.

(3) Big game hunting. We allow big game hunting on designated areas of the district subject to the following condition: The conditions set forth at paragraphs (e)(1)(i) and (ii) of this section apply.

(4) Sport fishing. We allow sport fishing on designated areas of the district.

(f) Valentine National Wildlife Refuge—(1) Migratory game bird hunting. We allow hunting of waterfowl and coot on designated areas of the refuge subject to the following conditions:

(i) We allow hunter access from 2 hours before legal sunrise to 2 hours after legal sunset.

(ii) When hunting migratory game birds, you may only use dogs to locate, point, and retrieve.

(2) Upland game hunting. We allow hunting of sharp-tailed grouse, prairie chicken, ring-necked pheasant, dove, and coyote on designated areas of the refuge subject to the following conditions:

(i) The condition set forth at paragraph (f)(1)(i) of this section applies.

(ii) We allow coyote hunting from September 1 to March 31. Shooting hours are ½ hour before legal sunrise to ½ hour after legal sunset.

(iii) When hunting upland game, you may only use dogs to locate, point, and retrieve, except that we prohibit the use of dogs to hunt coyotes.

(iv) We prohibit the use of bait to hunt coyotes.

(3) Big game hunting. We allow hunting of white-tailed and mule deer on designated areas of the refuge subject to the following condition: The condition set forth at paragraph (f)(1)(i) of this section applies.

(4) Sport fishing. We allow sport fishing on designated areas of the refuge subject to the following conditions:

(i) Anglers may enter the refuge 1 hour before legal sunrise and remain 1½ hours after legal sunset.

(ii) We prohibit the take of reptiles, amphibians, and minnows (see § 27.21 of this chapter), with the exception that you may take bullfrogs on refuge lakes open to fishing.

§ 32.47 Nevada.

The following refuge units are open for hunting and/or fishing as governed by applicable Federal and State regulations, and are listed in alphabetical order with additional refuge-specific regulations.

(a) Ash Meadows National Wildlife Refuge—(1) Migratory game bird hunting. We allow hunting of goose, duck, coot, moorhen, snipe, and dove on designated areas of the refuge subject to the following conditions:

(i) We only allow motorless boats or boats with electric motors on the refuge hunting area during the migratory waterfowl hunting season.

(ii) We open the refuge to the public from 1 hour before legal sunrise until 1 hour after legal sunset.

(2) Upland game hunting. We allow hunting of quail and rabbit on designated areas of the refuge subject to the following condition: The condition set forth at paragraph (a)(1)(ii) of this section applies.

(3)-(4) [Reserved]

(b) Desert National Wildlife Refuge. (1)-(2) [Reserved]

(3) Big game hunting. We allow hunting of bighorn sheep on designated areas of the refuge subject to the following condition: We require bighorn sheep guides to obtain a Special Use Permit (FWS Form 3-1383-C) prior to taking clients onto the refuge.

(4) [Reserved]

(c) Pahranagat National Wildlife Refuge—(1) Migratory game bird hunting. We allow hunting of goose, duck, coot, moorhen, snipe, and dove on designated areas of the refuge subject to the following conditions:

(i) We allow hunting on designated days.

(ii) We only allow motorless boats or boats with electric motors on the refuge hunting area during the migratory waterfowl hunting season.

(iii) From October 1 to February 1, you may only possess shotshells in quantities of 25 or fewer when in the field once you have left your assigned parking lot or boat launch.

(2) Upland game hunting. We allow hunting of quail and rabbit on designated areas of the refuge subject to the following conditions:

(i) We allow hunting on designated days.

(ii) We allow hunting of jackrabbits only during the State cottontail season.

(iii) You may not possess more than 25 shot shells while in the field once you have left your assigned parking lot or boat launch.

(3) [Reserved]

(4) Sport fishing. We allow sport fishing on designated areas of the refuge subject to the following condition: We allow fishing year-round, except that we close the North Marsh to all fishing from October 1 through February 1.

(d) Ruby Lake National Wildlife Refuge—(1) Migratory game bird hunting. We allow hunting of dark goose, duck, coot, moorhen, and common snipe on designated areas of the refuge subject to the following conditions:

(i) Hunters may access the refuge from 1 hour before legal sunrise until 2 hours after legal sunset.

(ii) Hunters must remove all blind materials and decoys following each day's hunt.

(2)-(3) [Reserved]

(4) Sport fishing. We allow sport fishing on designated areas of the refuge subject to the following conditions:

(i) Anglers may access the refuge from 1 hour before legal sunrise until 2 hours after legal sunset.

(ii) We allow fishing by wading and from personal flotation devices (float tubes) and bank fishing in designated areas.

(iii) You may use only artificial lures in the Collection Ditch and adjoining spring ponds.

(iv) We prohibit the possession of live or dead bait fish, any amphibians (including frogs), and crayfish on the refuge.

(e) Sheldon National Wildlife Refuge—(1) Migratory game bird hunting. We allow hunting of goose, duck, and coot on designated areas of the refuge subject to the following condition: We allow only portable blinds and temporary blinds constructed of synthetic material.

(2) Upland game hunting. We allow hunting of quail, grouse, and chukar on designated areas of the refuge.

(3) Big game hunting. We allow hunting of deer, antelope, and bighorn sheep on designated areas of the refuge subject to the following conditions:

(i) We allow ground blinds, and you must not construct them earlier than 1 week prior to the opening day of the legal season for which you have a valid State-issued hunting permit.

(ii) You must remove blinds within 24 hours of harvesting an animal or at the end of the permittee's legal season (see § 27.93 of this chapter).

(iii) You must label blinds with your State hunting license and permit numbers.

(4) Sport fishing. We allow sport fishing on designated areas of the refuge.

(f) Stillwater National Wildlife Refuge—(1) Migratory game bird hunting. We allow hunting of migratory game birds on designated areas of the refuge.

(2) Upland game hunting. We allow hunting of upland game species on designated areas of the refuge subject to the following condition: We prohibit hunting after legal sunset.

(3) Big game hunting. We allow hunting of mule deer on designated areas of the refuge subject to the following condition: Hunters must only use shotguns, muzzleloading weapons, or bow and arrow for hunting deer.

(4) [Reserved]

§ 32.48 New Hampshire.

The following refuge units are open for hunting and/or fishing as governed by applicable Federal and State regulations, and are listed in alphabetical order with additional refuge-specific regulations.

(a) Great Bay National Wildlife Refuge—(1) Migratory game bird hunting. We allow hunting of waterfowl on designated areas of the refuge subject to the following conditions:

(i) You must access waterfowl hunting areas by boat launched from off-refuge sites only. We prohibit overland access through the refuge.

(ii) We allow the use of dogs for retrieving migratory game birds.

(2) [Reserved]

(3) Big game hunting. We allow hunting of white-tailed deer and wild turkey on designated areas of the refuge subject to the following conditions:

(i) We prohibit hunters from discharging a bow and arrow within 15 feet (4.5 meters), or a firearm within 200 feet (61 meters), of the traveled portion of, or across, any refuge roads or trails.

(ii) We allow hunting for deer during a 2-day hunt during the first weekend of the State's firearms season subject to the following conditions:

(A) We require hunters to have a lottery-issued refuge firearms deer hunt permit (FWS Form 3-2439, Hunt Application—National Wildlife Refuge System) and to possess it at all times while scouting and hunting on the refuge.

(B) We allow scouting during the week prior to the first day of the firearms deer hunt.

(C) Hunters must check-in with refuge personnel prior to entering the refuge, and must check out with refuge personnel when exiting the refuge.

(D) Hunters must register harvested deer at the refuge check station, if a refuge check station is offered.

(E) Hunters must wear a minimum of 400 square inches (2,581 square centimeters) of solid-colored, blaze-orange clothing or material, in a visible manner on the head, chest, and back.

(iii) We allow archery deer and archery turkey hunting during the fall season subject to the following conditions:

(A) We require hunters to have a lottery-issued refuge hunt permit (Big/Upland Game Hunt Application, FWS Form 3-2439, Hunt Application—National Wildlife Refuge System) and to possess it at all times while scouting and hunting on the refuge.

(B) We allow scouting during the week prior to the season opening.

(C) We prohibit archery hunting during the 2-day deer firearms hunt, unless the hunter possesses the appropriate firearms deer hunt permit.

(iv) We allow turkey hunting during the spring season subject to the following conditions: The conditions set forth at paragraphs (a)(3)(iii)(A) and (B) of this section apply.

(4) Sport fishing. [Reserved]

(b) Silvio O. Conte National Fish and Wildlife Refuge—(1) Migratory game bird hunting. We allow hunting of duck, goose, common snipe, and American woodcock on designated areas of the refuge.

(2) Upland game hunting. We allow hunting of coyote, fox, raccoon, woodchuck, red squirrel, eastern gray squirrel, porcupine, skunk, American crow, snowshoe hare, ring-necked pheasant, and ruffed grouse on designated areas of the refuge.

(3) Big game hunting. We allow hunting of white-tailed deer, moose, black bear, and wild turkey on designated areas of the refuge subject to the following conditions:

(i) We allow portable tree stands and blinds.

(ii) You must label your portable tree stands and/or blinds with your name and State hunting license number. The label must be clearly visible on the stands or blinds.

(iii) You must remove your tree stands or blinds by the end of the season (see § 27.93 of this chapter).

(4) [Reserved]

(c) Umbagog National Wildlife Refuge—(1) Migratory game bird hunting. We allow hunting of duck, goose, snipe, coot, crow, and woodcock on designated areas of the refuge subject to the following conditions:

(i) Hunters must remove temporary blinds, boats, and decoys from the refuge at the end of each day's hunt (see § 27.93 of this chapter).

(ii) We allow the use of dogs to assist in the location and retrieval of game species.

(2) Upland game hunting. We allow hunting of fox, raccoon, woodchuck, squirrel, porcupine, skunk, snowshoe hare, ring-necked pheasant, and ruffed grouse on designated areas of the refuge subject to the following conditions:

(i) We prohibit night hunting from ½ hour after legal sunset until ½ hour before legal sunrise the following day.

(ii) The condition set forth at paragraph (c)(1)(ii) of this section applies.

(3) Big game hunting. We allow hunting of bear, white-tailed deer, coyote, wild turkey, and moose on designated areas of the refuge subject to the following conditions:

(i) The conditions set forth at paragraphs (c)(1)(ii) and (c)(2)(i) of this section apply.

(ii) Hunters must retrieve all species, including coyotes, harvested on the refuge.

(iii) We allow temporary blinds and tree stands that are clearly marked with the owner's name and State hunting license number. You may erect temporary blinds and tree stands no earlier than 14 days prior to the hunting season, and you must remove them within 14 days after the hunting season (see § 27.93 of this chapter).

(4) [Reserved]

§ 32.49 New Jersey.

The following refuge units are open for hunting and/or fishing as governed by applicable Federal and State regulations, and are listed in alphabetical order with additional refuge-specific regulations.

(a) Cape May National Wildlife Refuge—(1) Migratory game bird hunting. We allow hunting of waterfowl, coot, moorhen, rail, snipe, and woodcock on designated areas of the refuge subject to the following conditions:

(i) The snipe season on the refuge begins with the start of the State early woodcock south zone season and continues through the end of the State snipe season.

(ii) We allow the use of dogs when hunting migratory game birds.

(iii) We prohibit falconry.

(2) Upland game hunting. We allow hunting of rabbit and squirrel on designated areas of the refuge subject to the following conditions:

(i) The condition set forth at paragraph (a)(1)(iii) of this section applies.

(ii) We allow rabbit and squirrel hunting following the end of the State's 6-day firearm season for white-tailed deer, until the close of the regular rabbit and squirrel season.

(3) Big game hunting. We allow hunting of white-tailed deer and turkey on designated areas of the refuge subject to the following conditions:

(i) You must mark tree stands with the owner's New Jersey Conservation Identification Number.

(ii) You must remove all tree stands, blinds, and hunting materials at the end of the State deer hunting season (see § 27.93 of this chapter).

(4) Sport fishing. We allow saltwater sport fishing on designated areas of the refuge subject to the following conditions:

(i) We allow fishing from 1 hour before legal sunrise to 1 hour after legal sunset.

(ii) We close the Atlantic Ocean beach annually to all access, including fishing, between April 1 and September 30.

(iii) We prohibit fishing for, or possession of, shellfish on refuge lands.

(b) Edwin B. Forsythe National Wildlife Refuge—(1) Migratory game bird hunting. We allow hunting of waterfowl, coot, moorhen, and rail on designated areas of the refuge subject to the following conditions:

(i) We require hunters to possess a signed refuge hunt permit (Migratory Bird Hunt Application (FWS Form 3-2439, Hunt Application—National Wildlife Refuge System)) at all times while scouting and hunting on the refuge.

(ii) We allow the use of dogs for retrieving migratory game birds.

(2) Upland game hunting. We allow hunting of squirrel on designated areas of the refuge subject to the following condition: We require hunters to possess a signed refuge hunt permit (Big/Upland Game Hunt Application (FWS Form 3-2439, Hunt Application—National Wildlife Refuge System)) at all times while scouting and hunting on the refuge.

(3) Big game hunting. We allow hunting of white-tailed deer and wild turkey on designated areas of the refuge subject to the following conditions:

(i) We require hunters to possess a signed refuge hunt permit (Big/Upland Game Hunt Application (FWS Form 3-2439, Hunt Application—National Wildlife Refuge System)) at all times while scouting and hunting deer and turkey on the refuge.

(ii) You must mark deer stands with the hunter's New Jersey Conservation Identification Number. You must remove deer stands from the refuge at the end of the last day of the hunting season (see §§ 27.93 and 27.94 of this chapter).

(4) Sport fishing. We allow sport fishing on designated areas of the refuge.

(c) Great Swamp National Wildlife Refuge. (1)-(2) [Reserved]

(3) Big game hunting. We allow hunting of deer on designated areas of the refuge subject to the following conditions:

(i) Hunters must obtain a refuge hunt permit (FWS Form 3-2439, Hunt Application—National Wildlife Refuge System), and possess the signed refuge permit at all times while hunting or scouting on the refuge.

(ii) On scouting days, hunters must access the refuge between legal sunrise and legal sunset. On hunting days, hunters may enter the refuge 2 hours before legal shooting time and must leave no later than 2 hours after legal shooting time.

(iii) Hunters may put up tree stands beginning on the first scouting day, except on the day of the refuge's youth hunt. Hunters must retrieve their stands by 12 p.m. (noon) on the Sunday after the last day of the hunt (see § 27.93 of this chapter). All hunters must put their last name and Conservation Identification Number on their stand, and they may have only one stand in the field at any one time.

(iv) We allow hunters to use sleds to retrieve deer in the Wilderness Area east of Long Hill/New Vernon Road. We prohibit wheeled game carriers.

(v) We prohibit organized deer drives. We define a “deer drive” as an organized or planned effort to pursue, drive, chase, or otherwise frighten or cause deer to move in the direction of any person(s) who is part of the organized or planned hunt and known to be waiting for the deer.

(4) [Reserved]

(d) Supawna Meadows National Wildlife Refuge—(1) Migratory game bird hunting. We allow hunting of goose and duck on designated areas of the refuge.

(2) [Reserved]

(3) Big game hunting. We allow hunting of white-tailed deer on designated areas of the refuge subject to the following condition: We allow only bow hunting on the refuge.

(4) Sport fishing. We allow sport fishing and crabbing on the refuge in designated areas subject to the following conditions:

(i) We prohibit the taking of frogs and turtles from all nontidal waters and refuge lands (see § 27.21 of this chapter).

(ii) We prohibit fishing in designated nontidal waters from legal sunset to legal sunrise.

(iii) We prohibit bow fishing in nontidal waters.

(e) Wallkill River National Wildlife Refuge—(1) Migratory game bird hunting. We allow hunting of migratory birds on designated areas of the refuge subject to the following conditions:

(i) Hunters must obtain a refuge hunt permit (FWS Form 3-2439, Hunt Application—National Wildlife Refuge System). We require hunters to possess a signed refuge hunt permit at all times while scouting and hunting on the refuge.

(ii) Hunters may enter the refuge 2 hours before legal shooting time and must leave no later than 2 hours after legal shooting time.

(2) Upland game hunting. We allow hunting of coyote, fox, crow, ruffed grouse, opossum, raccoon, pheasant, chukar, rabbit/hare/jackrabbit, squirrel, and woodchuck on designated areas of the refuge subject to the following conditions:

(i) Hunters must obtain a refuge hunt permit (FWS Form 3-2439, Hunt Application—National Wildlife Refuge System). We require hunters to possess a signed refuge hunt permit at all times while scouting and hunting on the refuge.

(ii) The condition set forth at paragraph (e)(1)(ii) of this section applies.

(iii) We allow hunting from legal sunrise to legal sunset.

(iv) We prohibit the use of rifles.

(3) Big game hunting. We allow hunting of white-tailed deer, bear, and wild turkey on designated areas of the refuge subject to the following conditions:

(i) The conditions set forth at paragraphs (e)(1)(ii) and (e)(2)(i) of this section apply.

(ii) We prohibit organized deer drives. We define a “deer drive” as an organized or planned effort to pursue, drive, chase, or otherwise frighten or cause deer to move in the direction of any person(s) who is part of the organized or planned hunt and known to be waiting for the deer.

(iii) The Armstrong tract is archery only for deer and bear.

(4) Sport fishing. We allow sport fishing on the refuge subject to the following conditions:

(i) We open Owens Station Crossing for catch-and-release fishing only.

(ii) We allow fishing from ½ hour before legal sunrise to ½ hour after legal sunset.

(iii) We prohibit the taking of amphibians and reptiles (see § 27.21 of this chapter).

(iv) We prohibit minnow/bait trapping.

§ 32.50 New Mexico.

The following refuge units are open for hunting and/or fishing as governed by applicable Federal and State regulations, and are listed in alphabetical order with additional refuge-specific regulations.

(a) Bitter Lake National Wildlife Refuge—(1) Migratory game bird hunting. We allow hunting of goose; duck; coot; mourning and white-winged dove; and sandhill crane on designated areas of the refuge subject to the following conditions:

(i) We restrict hunting in the Middle Tract to the following times:

(A) You may hunt only on Tuesdays, Thursdays, and Saturdays during the period when the State seasons that apply to the Middle Tract area are open simultaneously for hunting all of the species allowed.

(B) You may hunt only until 1 p.m. on each hunt day.

(ii) On the South Tract, we allow hunting only during special hunts (hunters with disabilities and/or youth hunters age 17 and younger).

(iii) You must remove all waterfowl decoys and all temporary blinds/stands after each day's hunt (see § 27.93 of this chapter).

(iv) We allow the use of dogs when hunting.

(2) Upland game hunting. We allow hunting of pheasant, quail (scaled, Gambel's, bobwhite, and Montezuma), Eurasian-collared dove, cottontail, and jack rabbit on designated areas of the refuge subject to the following conditions:

(i) We allow rabbit hunting on the North Tract only during the season that is concurrently open for quail hunting within the State.

(ii) The conditions set forth at paragraphs (a)(1)(i) and (ii) of this section apply.

(3) Big game hunting. We allow hunting of mule deer, white-tailed deer, and feral hog on designated areas of the refuge subject to the following conditions:

(i) Hunters may take feral hog (no bag limit) only while legally hunting deer and only with the weapon legal for deer on that day in that area.

(ii) You must remove all temporary blinds/stands after each day's hunt (see § 27.93 of this chapter).

(4) [Reserved]

(b) Bosque del Apache National Wildlife Refuge—(1) Migratory game bird hunting. We allow hunting of mourning and white-winged dove and light goose on designated areas of the refuge subject to the following conditions:

(i) We allow hunting of light goose on dates to be determined by refuge staff. Hunters must possess a permit available through a lottery drawing (Waterfowl Lottery Application, FWS Form 3-2439, Hunt Application—National Wildlife Refuge System).

(ii) You must remove all waterfowl decoys, spent shells, all temporary blinds/stands, and all other personal equipment at the end of each day's hunt (see §§ 27.93 and 27.94 of this chapter).

(iii) We allow the use of dogs when hunting.

(iv) We prohibit falconry on the refuge.

(2) Upland game hunting. We allow hunting of scaled, Gambel's, bobwhite, and Montezuma quail and cottontail rabbit on designated areas of the refuge subject to the following condition: The conditions set forth at paragraphs (b)(1)(ii) through (iv) of this section apply.

(3) Big game hunting. We allow hunting of mule deer, oryx, and bearded Rio Grande turkey on designated areas of the refuge subject to the following conditions:

(i) The condition set forth at paragraph (b)(1)(ii) of this section applies.

(ii) You may hunt on the east side of the Rio Grande only by foot, horseback, or bicycle. Bicycles must stay on designated roads.

(iii) We allow hunting of bearded Rio Grande turkey for youth hunters on weekends April through May. All hunters must fill out FWS Form 3-2439 (Hunt Application—National Wildlife Refuge System) and pay a fee. The permit is available through a lottery drawing. If selected, you must carry your refuge hunt permit (FWS Form 3-2349) at all times during the hunt.

(4) Sport fishing. We allow fishing on designated areas of the refuge subject to the following conditions:

(i) We allow fishing from April 1 through September 30.

(ii) We allow fishing from ½ hour before legal sunrise until ½ hour after legal sunset.

(iii) We prohibit trotlines, bow fishing, seining, dip netting, and traps.

(iv) We allow frogging for bullfrog on the refuge in areas that are open to fishing. We allow the use of hook and line, spears, gigs, and archery equipment to take bullfrog.

(c) Las Vegas National Wildlife Refuge—(1) Migratory Game Bird Hunting. We allow hunting of mourning dove and goose on designated areas of the refuge subject to the following conditions:

(i) You must possess and carry a refuge hunt permit (FWS Form 3-2439, Hunt Application—National Wildlife Refuge System).

(ii) We allow the use of dogs when hunting.

(iii) We allow hunting of goose on dates to be determined by refuge staff. Hunters must possess a permit (FWS Form 3-2439, Hunt Application—National Wildlife Refuge System).

(iv) Shooting hours for geese are from ½ hour before legal sunrise to 1 p.m. local time.

(v) We assign a bag limit for both light goose and Canada goose.

(2)-(4) [Reserved]

(d) Maxwell National Wildlife Refuge. (1)-(3) [Reserved]

(4) Sport fishing. We allow fishing on designated areas of the refuge subject to the following conditions:

(i) We allow fishing from noon March 1 through October 31.

(ii) We allow boats on Lake 13 only during the fishing season; boats must travel at trolling speed only.

(e) San Andres National Wildlife Refuge. (1)-(2) [Reserved]

(3) Big game hunting. We allow hunting of oryx or gemsbok (Oryx gazella) and desert bighorn sheep (Ovis canadensis mexicana) on designated areas of the refuge as governed by White Sands Missile Range (WSMR) regulations subject to the following conditions:

(i) Hunters using livestock (i.e., horses or mules) must provide only certified weed-free feed to their animals while on the refuge. You must feed livestock weed-free feed exclusively for 3 days prior to arrival on the refuge.

(ii) We allow all-terrain vehicle (ATV) use by hunters or members of their hunting party, for game retrieval only. ATVs must remain on designated roads. All vehicles, including trailers and ATVs, must be cleaned of mud, vegetation, and other debris prior to use on the refuge.

(4) [Reserved]

(f) Sevilleta National Wildlife Refuge—(1) Migratory game bird hunting. We allow hunting of mourning dove, white-winged dove, goose, duck, and coot on designated areas of the refuge subject to the following conditions:

(i) In Units A and B, legal hunting hours begin from ½ hour before legal sunrise and will not extend past 1 p.m. on each hunt day. Hunters may access Units A and B from 1 hour before legal sunrise until 1 hour after legal sunset.

(ii) In Unit B, we allow waterfowl hunting from designated blinds only.

(iii) We allow the use of dogs when hunting.

(iv) At Unit A, in the Cornerstone Marsh Unit, we give priority use to disabled hunters (per Mobility-Impaired Certification in the State Hunting Rules and Information pamphlet).

(2) Upland game hunting. We allow hunting of Gambel's quail and Eurasian collared-dove on designated areas of the refuge subject to the following conditions:

(i) The conditions set forth at paragraphs (f)(1)(iii) and (iv) of this section apply.

(ii) In the Rio Puerco Unit, legal hunting hours will run from ½ hour before legal sunrise to legal sunset.

(iii) We allow falcons to hunt dove in the Rio Puerco Unit only.

(iv) We open to Eurasian collared-dove hunting only during the State South Zone mourning and white-winged dove season.

(3)-(4) [Reserved]

§ 32.51 New York.

The following refuge units are open for hunting and/or fishing as governed by applicable Federal and State regulations, and are listed in alphabetical order with additional refuge-specific regulations.

(a) Amagansett National Wildlife Refuge. (1)-(3) [Reserved]

(4) Sport fishing. We allow sport fishing on designated areas of the refuge subject to the following condition: We seasonally close the refuge to sport fishing from April 1 to August 31.

(b) Elizabeth A. Morton National Wildlife Refuge. (1)-(3) [Reserved]

(4) Sport fishing. We allow sport fishing on designated areas of the refuge.

(c) Iroquois National Wildlife Refuge—(1) Migratory game bird hunting. We allow hunting of duck, goose, rail, coot, gallinule, woodcock, and snipe on designated areas of the refuge subject to the following conditions:

(i) For hunting of duck, goose, and coot:

(A) We allow hunting on Saturday of the New York State Youth Days.

(B) We allow hunting Tuesdays, Thursdays, and Saturdays from opening day of regular waterfowl season until the end of the first split.

(C) We require proof of successful completion of the New York State waterfowl identification course, the Iroquois nonresident waterfowl identification course, or a suitable nonresident State waterfowl identification course. All hunters must show proof of successful course completion each time they hunt, in addition to showing their valid hunting license and signed Federal Migratory Bird Hunting and Conservation Stamp (Federal Duck Stamp).

(D) We require a refuge hunt permit (FWS Form 3-2439, Hunt Application—National Wildlife Refuge System).

(E) We only allow hunting from legal starting time until 12 p.m. (noon). We require hunters to check out no later than 1 p.m., and return a completed Migratory Bird Hunt Report (FWS Form 3-2361).

(F) We require hunters to stay in designated hunting areas, unless actively pursuing downed or crippled birds.

(ii) For hunting of rail, gallinule, snipe, and woodcock, we only allow hunting east of Sour Springs Road from October 1 until the opening of regular waterfowl season.

(2) Upland game hunting. We allow hunting of ruffed grouse, gray squirrel, cottontail rabbit, pheasant, coyote, fox, raccoon, skunk, and opossum on designated areas of the refuge subject to the following conditions:

(i) For small game hunting:

(A) We allow hunting from October 1 until the last day of February.

(B) We prohibit the use of raptors to take small game.

(ii) For furbearer hunting, we prohibit hunting from legal sunset to legal sunrise.

(3) Big game hunting. We allow hunting of white-tailed deer and turkey on designated areas of the refuge subject to the following condition: We require a refuge permit (FWS Form 3-2439, Hunt Application—National Wildlife Refuge System) for spring turkey hunting.

(4) Sport fishing. We allow sport fishing and frogging on designated areas of the refuge subject to the following conditions:

(i) We allow fishing and frogging from legal sunrise to legal sunset.

(ii) We prohibit collecting fish for use as bait.

(d) Montezuma National Wildlife Refuge—(1) Migratory game bird hunting. We allow hunting of waterfowl, Canada goose, and snow goose on designated areas of the refuge subject to the following conditions:

(i) For the regular waterfowl season:

(A) We require daily refuge permits (Migratory Bird Hunt Report, FWS Form 3-2361) and reservations; we issue permits to hunters with a reservation for that hunt day. We require you to complete and return your permit by the end of the hunt day.

(B) We allow hunting only on Tuesdays, Thursdays, and Saturdays during the established refuge season set within the State western zone season. We allow a youth waterfowl hunt during New York State's established youth waterfowl hunt each year.

(C) All hunters with reservations and their hunting companions must check-in at the Route 89 Hunter Check Station area at least 1 hour before legal shooting time or forfeit their reservation.

(D) We allow motorless boats to hunt waterfowl. We limit hunters to one boat per reservation and one motor vehicle in the hunt area per reservation.

(E) We prohibit shooting from any dike or within 50 feet (15.2 meters (m)) of any dike or road, or from within 500 feet (152.4 m) of the Tschache Pool observation tower.

(F) We require proof of successful completion of the New York State waterfowl identification course, the Montezuma nonresident waterfowl identification course, or a suitable nonresident State waterfowl identification course. All hunters must show proof of successful course completion each time they hunt, in addition to showing their valid State-issued hunting license and signed Federal Migratory Bird Hunting and Conservation Stamp (Federal Duck Stamp).

(ii) For Canada goose and snow goose hunting:

(A) We allow hunting of Canada goose during the New York State September (or “early”) season and of snow goose during portions of the New York State snow goose season and portions of the period covered by the Light Goose Conservation Order.

(B) You must possess a valid daily hunt permit card (Migratory Bird Hunt Report, FWS Form 3-2361). We require you to complete and return the daily hunt permit card by the end of the hunt day.

(2) [Reserved]

(3) Big game hunting. We allow hunting of white-tailed deer and wild turkey on designated areas of the refuge subject to the following conditions:

(i) We close Esker Brook and South Spring Pool Trails to hunting before November 1 each year. We close Wildlife Drive to hunting before December 1 each year. We open Seneca Trail and the Refuge Headquarters area during New York State's late archery/muzzleloader season only. We allow a youth white-tailed deer hunt during the State's established youth white-tailed deer hunt each year.

(ii) You must possess a valid daily Big/Upland Game Hunt permit card (FWS Form 3-2439, Hunt Application—National Wildlife Refuge System). We require you to complete and return the daily hunt permit card by the end of the hunt day.

(iii) We allow white-tailed deer hunters to be on the refuge during the period that begins 2 hours before legal sunrise and ends 2 hours after legal sunset.

(iv) We only allow turkey hunting during the State fall and youth turkey seasons.

(4) Sport fishing. We allow access for fishing from designated areas of the refuge.

(e) Oyster Bay National Wildlife Refuge. (1)-(3) [Reserved]

(4) Sport fishing. We allow sport fishing on designated areas of the refuge subject to the following condition: Anglers may fish from the refuge shoreline at Mill Pond from legal sunrise to legal sunset.

(f) Seatuck National Wildlife Refuge. (1)-(3) [Reserved]

(4) Sport fishing. We allow sport fishing on designated areas of the refuge subject to the following condition: Anglers may fish in refuge-controlled waters of the Great South Bay from boats only.

(g) Shawangunk Grasslands National Wildlife Refuge. (1)-(2) [Reserved]

(3) Big game hunting. We allow hunting of white-tailed deer on designated areas of the refuge subject to the following conditions:

(i) Hunters must purchase a refuge hunt permit (FWS Form 3-2439, Hunt Application—National Wildlife Refuge System). We require hunters to possess a signed refuge hunt permit at all times while scouting and hunting on the refuge.

(ii) You may take deer using archery equipment only.

(iii) We prohibit organized deer drives. We define a “deer drive” as an organized or planned effort to pursue, drive, chase, or otherwise frighten or cause deer to move in the direction of any person(s) who is part of the organized or planned hunt and known to be waiting for the deer.

(iv) Hunters may enter the refuge 2 hours before legal shooting time and leave no later than 2 hours after legal shooting time.

(4) [Reserved]

(h) Target Rock National Wildlife Refuge. (1)-(3) [Reserved]

(4) Sport fishing. We allow sport fishing on designated areas of the refuge subject to the following condition: We allow sport fishing in Huntington Bay from the refuge shoreline when the refuge is open to visitors.

(i) Wallkill River National Wildlife Refuge—(1) Migratory game bird hunting. We allow hunting of migratory birds on designated areas of the refuge subject to the following conditions:

(i) Hunters must obtain a refuge hunt permit (FWS Form 3-2439, Hunt Application—National Wildlife Refuge System). We require hunters to possess a signed refuge hunt permit at all times while scouting and hunting on the refuge.

(ii) Hunters may enter the refuge 2 hours before legal shooting time and leave no later than 2 hours after legal shooting time.

(2) Upland game hunting. We allow hunting of rabbit/hare, gray/black/fox squirrel, pheasant, bobwhite quail, ruffed grouse, crow, red/gray fox, coyote, bobcat, raccoon, skunk, mink, weasel, and opossum on designated areas of the refuge subject to the following conditions:

(i) Hunters must obtain a refuge hunt permit (FWS Form 3-2439, Hunt Application—National Wildlife Refuge System). We require hunters to possess a signed refuge hunt permit at all times while scouting and hunting on the refuge.

(ii) The condition set forth at paragraph (i)(1)(ii) of this section applies.

(iii) We allow hunting from legal sunrise to legal sunset.

(iv) We prohibit the use of rifles.

(3) Big game hunting. We allow hunting of white-tailed deer, bear, and wild turkey on designated areas of the refuge subject to the following conditions:

(i) The conditions set forth at paragraphs (i)(1)(ii) and (i)(2)(i) and (iii) of this section apply.

(ii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) We open Owens Station Crossing for catch-and-release fishing only.

(ii) We allow fishing from ½ hour before legal sunrise to ½ hour after legal sunset.

(iii) We prohibit the taking of amphibians and reptiles (see § 27.21 of this chapter).

(iv) We prohibit minnow/bait trapping.

(j) Wertheim National Wildlife Refuge. (1)-(2) [Reserved]

(3) Big game hunting. We allow hunting of white-tailed deer within designated areas of the refuge subject to the following conditions:

(i) We allow archery and shotgun hunting of white-tailed deer within portions of the refuge during specific days between October 1 and January 31.

(ii) We require a permit (FWS Form 3-2439, Hunt Application—National Wildlife Refuge System) for deer hunting on the refuge.

(iii) We prohibit organized deer drives. We define a “deer drive” as an organized or planned effort to pursue, drive, chase, or otherwise frighten or cause deer to move in the direction of any person(s) who is part of the organized or planned hunt and known to be waiting for the deer.

(iv) Hunters assigned to Unit 5 must hunt from portable tree stands and must direct aim away from a public road and/or dwelling.

(4) Sport fishing. We allow fishing on designated areas of the refuge subject to the following conditions:

(i) We allow shore and boat fishing on the portion of the Carmans River between Sunrise and Montauk Highways.

(ii) We allow only boat fishing from Montauk Highway south to the mouth of the Carmans River.

(iii) We prohibit spearfishing.

(iv) We prohibit the taking of baitfish and frogs (see § 27.21 of this chapter).

§ 32.52 North Carolina.

The following refuge units are open for hunting and/or fishing as governed by applicable Federal and State regulations, and are listed in alphabetical order with additional refuge-specific regulations.

(a) Alligator River National Wildlife Refuge—(1) Migratory game bird hunting. We allow hunting of duck, goose, tundra swan, coot, mourning dove, snipe and woodcock on designated areas of the refuge subject to the following conditions:

(i) We require all hunters to possess and carry a signed, self-service refuge hunting regulations and permit (signed brochure) while hunting on the refuge.

(ii) We allow the use of dogs when hunting in designated areas.

(iii) We allow hunters to enter and remain in open hunting areas from 1 hour before legal shooting time until 1 hour after legal shooting time.

(2) Upland game hunting. We allow hunting of quail, rabbit, squirrel, opossum, and raccoon on designated areas of the refuge subject to the following conditions:

(i) The conditions set forth at paragraphs (a)(1)(i) through (iii) of this section apply.

(ii) We only allow dog training during the corresponding hunt season.

(iii) We require a Special Use Permit (FWS Form 3-1383-G) to hunt raccoon or opossum from ½ hour after legal sunset until ½ hour before legal sunrise.

(3) Big game hunting. We allow hunting of white-tailed deer on designated areas of the refuge subject to the following conditions:

(i) The conditions set forth at paragraphs (a)(1)(i) through (iii) and (a)(2)(ii) of this section apply.

(ii) Unarmed hunters may walk to retrieve stray dogs from closed areas and “no dog hunting” areas.

(4) Sport fishing. We allow sport fishing and frogging on designated areas of the refuge subject to the following conditions:

(i) We allow only fishing from legal sunrise to legal sunset.

(ii) We only allow pole and line, rod and reel, or cast net.

(iii) We require a Special Use Permit (FWS Form 3-1383-G) for fishing or frogging between legal sunset and legal sunrise.

(iv) You must only take frogs by use of frog gigs.

(b) Cedar Island National Wildlife Refuge—(1) Migratory game bird hunting. We allow hunting of tundra swan, Canada and snow goose, brant, duck, teal, and coot on designated areas of the refuge subject to the following conditions:

(i) We allow portable blinds. Hunters must remove blinds, decoys, and other personal property from the refuge at the end of each day's hunt (see § 27.93 of this chapter).

(ii) Hunters/hunt parties must not hunt closer than 150 yards (135 meters) apart.

(iii) We allow hunters to enter and remain in open hunting areas from 1 hour before legal shooting time until 1 hour after legal shooting time.

(2)-(4) [Reserved]

(c) Currituck National Wildlife Refuge—(1) Migratory game bird hunting. We allow hunting of swan, goose, duck, and coot on designated areas of the refuge subject to the following conditions:

(i) We require a North Carolina Waterfowl Hunt Permit or a refuge hunt permit (signed brochure). You must carry a permit while hunting on the refuge.

(ii) You must hunt from your assigned blind location.

(iii) We allow hunting from ½ hour before legal sunrise to 4:20 p.m. (as governed by County regulations).

(iv) We allow hunters to access the refuge 1½ hours before legal shooting time until 1 hour after legal shooting time.

(2) [Reserved]

(3) Big game hunting. We allow hunting of deer and feral hog on limited dates on designated areas of the refuge subject to the following conditions:

(i) We require a refuge hunting permit (signed brochure) that hunters must sign and carry while hunting on the refuge.

(ii) We allow the use of shotguns, muzzleloading rifles/shotguns, pistols, and bows in designated units. We prohibit the use of all other rifles and crossbows.

(iii) We allow hunters on the refuge from 1 hour before legal sunrise to 1 hour after legal sunset.

(iv) We allow the use of portable tree stands, but hunters must remove them from the refuge at the end of each day's hunt (see § 27.93 of this chapter).

(v) Hunters may access the refuge by foot, boat, and/or vehicle, but we prohibit hunting from a boat or vehicle.

(vi) Each youth hunter, age 15 and younger, must have successfully completed a State-approved hunter safety course, and must possess and carry proof of certification. While hunting, each youth hunter must remain within sight and normal voice contact of an adult age 21 or older. An adult may directly supervise up to two youth hunters.

(4) [Reserved]

(d) Great Dismal Swamp National Wildlife Refuge. Refer to § 32.65(e) for regulations.

(e) Mackay Island National Wildlife Refuge. (1)-(2) [Reserved]

(3) Big game hunting. We allow hunting of deer on designated areas of the refuge subject to the following conditions:

(i) We require a refuge deer hunting permit (signed brochure) that hunters must sign and carry while hunting on the refuge.

(ii) We allow the use of shotguns, muzzleloading rifles/shotguns, pistols, crossbows, and bows. We prohibit the use of all other rifles.

(iii) We allow access to hunting areas from 5 a.m. until 8 p.m.

(iv) We prohibit carrying a loaded firearm on or within 50 feet (15 meters) of gravel roads.

(4) Sport fishing. We allow sport fishing on designated areas of the refuge subject to the following conditions:

(i) We allow fishing only from legal sunrise to legal sunset from March 15 through October 15, except that we allow fishing along the Marsh Causeway year-round. The 0.3 Mile Loop Trail and the terminus of the canal immediately adjacent to the Visitor Center are open year-round, but we close them during the refuge permit deer hunts.

(ii) Anglers must attend all fishing lines.

(f) Mattamuskeet National Wildlife Refuge—(1) Migratory game bird hunting. We allow the hunting of tundra swan, goose, duck, and coot on designated areas of the refuge subject to the following conditions:

(i) We require refuge-issued permits (name and address) that you must validate at the refuge headquarters, sign, and possess while hunting.

(ii) Refuge personnel will assign you to a hunting blind. You must hunt from your assigned blind.

(iii) Hunters may only shoot crippled waterfowl from outside the assigned blind.

(iv) Hunters may use decoys, but you must remove them from the refuge at the end of each day's hunt (see § 27.93 of this chapter).

(v) All waterfowl hunters must check out at the assigned station prior to leaving the refuge.

(vi) Shooting hours are from ½ hour before legal sunrise until 12 p.m. (noon). Hunting hours on the first day of the youth hunt are from 1 p.m. until legal sunset.

(vii) We allow the use of dogs when hunting.

(viii) We allow the taking of only Canada goose during the State September Canada goose season subject to the following conditions:

(A) We allow hunting Monday through Saturday during the State season.

(B) The hunter must possess and carry a validated refuge permit (name and address) while hunting.

(2) [Reserved]

(3) Big game hunting. We allow the hunting of white-tailed deer on designated areas of the refuge subject to the following conditions:

(i) The hunter must possess and carry a signed, validated refuge permit (name and address) and a State-issued lottery permit while hunting.

(ii) Hunters may take one antlered deer and one antlerless deer per day, or two antlerless deer per day.

(iii) Hunters may take deer with shotgun, bow and arrow, crossbow, or muzzleloading rifle/shotgun.

(iv) We allow hunters on the refuge from 1 hour before legal shooting time until 1 hour after legal shooting time.

(v) Hunters can use boats to access hunt areas, but we prohibit hunting from a boat.

(vi) We allow the use of only portable blinds and deer stands. Blinds must display hunter orange that is visible from all directions. Hunters with a valid permit (name and address) may erect one portable blind or stand the day before the start of their hunt and must remove it at the end of the second day of that 2-day hunt (see § 27.93 of this chapter). Any stands or blinds left overnight on the refuge must have a tag with the hunter's State hunting license number.

(vii) Hunters must wear a minimum of 500 square inches (3,250 square centimeters) of hunter-orange material above the waist that is visible from all directions.

(viii) An adult may only supervise one youth hunter. The youth hunter must be within sight and normal voice contact of the adult.

(ix) We allow the use of only biodegradable-type flagging.

(4) Sport fishing. We allow sport fishing and crabbing on designated areas of the refuge subject to the following conditions:

(i) We are open to sport fishing, bow fishing, and crabbing from March 1 through October 31, from ½ hour before legal sunrise to ½ hour after legal sunset, except that we allow bank fishing and crabbing year-round from:

(A) State Route 94 (24 hours a day);

(B) The north bridge and south of the north bridge at Lake Landing;

(C) The Outfall Canal water control structure;

(D) The Central Canal bridge on Wildlife Drive; and

(E) Along the west main and east main canal between the Entrance Road metal bridge and Number One East Canal as posted.

(ii) We prohibit herring dipping.

(iii) We allow crabbing subject to the following conditions:

(A) We allow only five handlines and hand-activated traps per person. Owners must be in attendance, and must remove all handlines and traps daily (see §§ 27.93 and 27.94 of this chapter).

(B) We prohibit crab pots.

(C) You may only take or possess 12 crabs per person per day.

(g) Pea Island National Wildlife Refuge. (1)-(3) [Reserved]

(4) Sport fishing. We allow sport fishing and crabbing on designated areas of the refuge subject to the following condition: We require all recreational nighttime surf anglers to possess and carry a signed, self-service refuge nighttime surf fishing permit (signed brochure) while fishing on the refuge between ½ hour after legal sunset and ½ hour before legal sunrise.

(h) Pee Dee National Wildlife Refuge—(1) Migratory game bird hunting. We allow hunting of dove on designated dates and areas of the refuge subject to the following conditions:

(i) We require all hunters to possess and carry a signed refuge general hunt permit (signed brochure) and government-issued picture identification while in the field.

(ii) Validly licensed adults, age 21 or older, holding applicable permits must accompany and supervise, remaining in sight and voice contact at all times, any youth hunters (age 18 and younger). Each adult may supervise no more than two youth hunters. Youth hunters must possess and carry evidence of successful completion of a State-approved hunter education course.

(iii) We prohibit hunting on Sundays.

(2) Upland game hunting. We allow hunting of quail, rabbit, squirrel, raccoon, and opossum on designated dates and areas of the refuge subject to the following conditions:

(i) The conditions set forth at paragraphs (h)(1)(i) through (iii) of this section apply (with the following exception to the condition at paragraph (h)(1)(ii): Each adult may supervise no more than one youth hunter).

(ii) We require the use of dogs on raccoon/opossum hunts. All dogs must wear a collar displaying the owner's contact information.

(3) Big game hunting. We allow hunting of white-tailed deer on designated dates and areas of the refuge subject to the following conditions:

(i) The conditions set forth at paragraphs (h)(1)(i) through (iii) of this section apply (with the following exception to the condition at paragraph (h)(1)(ii): Each adult may supervise no more than one youth hunter).

(ii) We require each person participating in a muzzleloader or firearms quota hunt to possess a nontransferable refuge quota hunt permit. You may apply for quota hunt permits by submitting a completed hunt application (FWS Form 3-2439, Hunt Application—National Wildlife Refuge System) available at the refuge office.

(iii) During big game hunts, we prohibit hunters from entering the refuge earlier than 4 a.m., and they must leave the refuge no later than 2 hours after legal sunset.

(iv) Youth quota hunts are for hunters ages 10 through 17.

(v) During refuge firearms deer hunts, all participants must wear at least 500 square inches (3,250 square centimeters) of unbroken, fluorescent-orange material above the waist as an outer garment while hunting and while en route to and from hunting areas.

(vi) We prohibit organized deer drives. We define a “deer drive” as an organized or planned effort to pursue, drive, chase, or otherwise frighten or cause deer to move in the direction of any person(s) who is part of the organized or planned hunt and known to be waiting for the deer.

(vii) We prohibit placing a tree stand on the refuge more than 4 days prior to the opening day of the deer hunt in which hunters will be participating, except for participants of the youth deer hunt, who may place tree stands no more than 7 days prior to the hunt day. Archery hunters must remove their tree stands by the last day of that hunt (see § 27.93 of this chapter). Muzzleloader and firearms hunters must remove their tree stands by the day after the last day of that hunt (see § 27.93 of this chapter).

(viii) You must check all deer taken on the refuge at the refuge check station on the date of take prior to removing the animal from the refuge.

(ix) During refuge muzzleloader and firearms deer hunts, we prohibit all other public use in refuge hunting areas.

(x) We prohibit big game hunting within 100 feet (30 meters) of any vehicle or road open to vehicle traffic.

(4) Sport fishing. We allow sport fishing on designated dates and areas of the refuge subject to the following conditions:

(i) We require all anglers to possess and carry a signed refuge sport fishing permit (signed brochure) and government-issued picture identification while fishing in refuge waters.

(ii) We prohibit possession or use of trotlines, set hooks, gigs, jug lines, limblines, snagging devices, nets, seines, fish traps, or other special devices.

(i) Pocosin Lakes National Wildlife Refuge—(1) Migratory game bird hunting. We allow hunting of duck, goose, swan, dove, woodcock, rail, and snipe on designated areas of the refuge subject to the following conditions:

(i) We require consent from refuge personnel to enter and retrieve legally taken game animals from closed areas, including “No Hunting Zones.”

(ii) We require all hunters and anglers to possess and carry a signed, self-service refuge hunting/fishing permit (signed brochure) while hunting and fishing on the refuge. We require all hunters age 16 and older to purchase and carry a special refuge recreational activity permit (name/address/phone number).

(iii) We allow hunters to enter and remain in hunting areas from 2 hours before legal sunrise until 2 hours after legal sunset when we allow hunting in those areas.

(iv) We allow the use of all-terrain vehicles (ATVs) only on designated ATV roads (see § 27.31 of this chapter) and only to transport hunters and their equipment to hunt and scout. We allow hunting from ATVs while on these designated ATV roads when they are stationary and the engine is turned off. We allow ATV use only on the ATV roads at the following times:

(A) When we open the ATV road and surrounding area to hunting;

(B) One week prior to the ATV road and surrounding area opening to hunting; and

(C) On Sundays, when we open the ATV road and surrounding area for hunting the following Monday.

(v) We allow the use of biodegradable-type flagging.

(vi) We allow the use of only portable blinds and temporary blinds constructed of natural materials. You must remove portable blinds at the end of each day (see § 27.93 of this chapter).

(vii) We allow the use of dogs to point and retrieve migratory game birds.

(2) Upland game hunting. We allow hunting of quail, squirrel, raccoon, opossum, rabbit, beaver, nutria, and fox on designated areas of the refuge subject to the following conditions:

(i) The conditions set forth at paragraphs (i)(1)(i) through (iv) of this section apply.

(ii) We only allow the taking of beaver and nutria with firearms and only during those times when the area is open to hunting of other game animals with firearms.

(iii) We prohibit the hunting of raccoon and opossum during, 5 days before, and 5 days after the State bear seasons. Outside of these periods, we allow the hunting of raccoon and opossum at night but only while possessing a General Special Use Application and Permit (FWS Form 3-1383-G).

(iv) We prohibit the use of rifles, other than .22-caliber rimfire rifles for hunting, and we prohibit the use of pistols for hunting.

(v) We allow the use of dogs for pointing and retrieving upland game and for chasing rabbit (but not fox). We prohibit possession of buckshot or slugs while hunting with dogs.

(3) Big game hunting. We allow hunting of deer, turkey, and feral hog on designated areas of the refuge subject to the following conditions:

(i) The conditions set forth at paragraphs (i)(1)(i) through (iv) of this section apply.

(ii) You may hunt turkey only if you carry a valid permit (General Activities Special Use Permit Application, FWS Form 3-1383-G). These permits are valid only for the dates and areas shown on the permit. You may possess only approved nontoxic shot (see § 32.2(k)) while hunting turkeys west of Evans Road and on the Pungo Unit.

(iii) We prohibit the use of rifles and pistols.

(iv) We allow deer hunting on the Pungo Unit only through the end of October each season, except that we allow deer hunting with archery equipment on the Pungo Unit through the end of November.

(v) We allow hunters to take feral hogs in any area that is open to hunting deer using only those weapons authorized for taking deer. On the Frying Pan tracts, we also allow hunters to take feral hogs, using only those weapons authorized for taking deer, whenever we open those tracts to hunting any game species with firearms.

(vi) We allow the use of only portable deer stands (tree climbers, ladders, tripods, etc.). We require that you remove all stands, blinds, and other personal property at the end of each day (see § 27.93 of this chapter).

(4) Sport fishing. We allow sport fishing on designated areas of the refuge subject to the following conditions:

(i) We allow fishing in Pungo Lake and New Lake only from March 1 through October 31, except that we close Pungo Lake and the entire Pungo Unit to fishing during the limited big game hunts.

(ii) We allow fishing only from ½ hour before legal sunrise until ½ hour after legal sunset.

(j) Roanoke River National Wildlife Refuge—(1) Migratory game bird hunting. We allow hunting of duck and coot on designated areas of the refuge.

(2) Upland game hunting. We allow hunting of squirrel, raccoon, and opossum on designated areas of the refuge.

(3) Big game hunting. We allow hunting of white-tailed deer and turkey on designated areas of the refuge.

(4) [Reserved]

(k) Swanquarter National Wildlife Refuge—(1) Migratory game bird hunting. We allow the hunting of tundra swan, goose, brant, duck, teal, and coot on designated areas of the refuge subject to the following conditions:

(i) We allow portable blinds. You must remove blinds, decoys, and other personal property at the end of each day's hunt (see § 27.93 of this chapter).

(ii) We prohibit hunters/hunt parties from hunting closer than 150 yards (135 meters) apart.

(iii) We allow hunters to enter and remain in open hunting areas from 1 hour before legal shooting time until 1 hour after legal shooting time.

(2)-(4) [Reserved]

§ 32.53 North Dakota.

The following refuge units are open for hunting and/or fishing as governed by applicable Federal and State regulations, and are listed in alphabetical order with additional refuge-specific regulations.

(a) Ardoch National Wildlife Refuge. (1)-(3) [Reserved]

(4) Sport fishing. We allow shore fishing and ice fishing on designated areas of the refuge subject to the following condition: We allow vehicles and fish houses on the ice as conditions allow.

(b) Arrowwood National Wildlife Refuge. (1) [Reserved]

(2) Upland game hunting. We allow hunting of pheasant, sharp-tailed grouse, partridge, cottontail rabbit, and fox on designated areas of the refuge subject to the following conditions:

(i) We allow hunting of upland game birds on the day following the close of the State firearm deer season through the end of the regular upland bird season.

(ii) We allow hunting of cottontail rabbit and fox on the day following the close of the State firearm deer season through March 31.

(3) Big game hunting. We allow deer hunting on designated areas of the refuge subject to the following conditions:

(i) We prohibit entering the refuge before legal shooting hours on the opening day of firearms deer season. We require all hunters to be off the refuge 1½ hours after legal sunset.

(ii) We allow deer hunting on the refuge during the State youth deer season.

(iii) After harvesting a deer, firearm deer hunters must wear blaze orange on the refuge.

(iv) We allow access by foot travel only. You may use a vehicle on designated refuge roads and trails to retrieve deer during the following times only: 9:30 to 10 a.m.; 1:30 to 2 p.m.; and ½ hour after legal sunset for 1 hour.

(v) We allow temporary tree stands, blinds, and game cameras for daily use; you must remove them by the end of each day's hunt (see § 27.93 of this chapter).

(4) Sport fishing. We allow sport fishing on designated areas of the refuge subject to the following conditions:

(i) We allow boats at idle speed only on Arrowwood Lake and Jim Lake from May 1 to September 30 of each year.

(ii) We allow ice fishing and dark house spearfishing. We allow snowmobiles, all-terrain vehicles (ATVs), utility terrain vehicles (UTVs), motor vehicles, and fish houses on the ice as conditions allow.

(iii) You may use and leave fish houses on the ice overnight until March 15.

(c) Arrowwood Wetland Management District—(1) Migratory game bird hunting. We allow migratory game bird hunting on designated areas of the district subject to the following condition: You must remove boats, decoys, portable blinds, other personal property, and any materials brought onto the area for blind construction at the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by legal sunset (see §§ 27.93 and 27.94 of this chapter).

(d) Audubon National Wildlife Refuge. (1) [Reserved]

(2) Upland game hunting. We allow hunting of ring-necked pheasant, gray partridge, and sharp-tailed grouse on designated areas of the refuge subject to the following conditions:

(i) We open to upland game hunting annually on the day following the close of the regular deer gun season, and we close as governed by the State season.

(ii) We allow game retrieval without a firearm up to 100 yards (90 meters) inside the refuge boundary fence and closed areas of the refuge. Retrieval time may not exceed 10 minutes. You may use dogs to assist in retrieval.

(3) Big game hunting. We allow hunting of white-tailed and mule deer on designated areas of the refuge subject to the following conditions:

(i) We close the refuge to hunting during the State's special youth deer hunting season.

(ii) Hunters may use designated refuge roads to retrieve downed deer.

(iii) We allow only portable tree stands. You must remove all tree stands at the end of each day's hunt (see §§ 27.93 and 27.94 of this chapter).

(4) Sport fishing. We allow ice fishing on designated areas of the refuge.

(e) Audubon Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(f) Chase Lake National Wildlife Refuge. (1)-(2) [Reserved]

(3) Big game hunting. We allow deer hunting on designated areas of the refuge.

(4) [Reserved]

(g) Chase Lake Wetland Management District—(1) Migratory game bird hunting. We allow migratory game bird hunting on designated areas of the district subject to the following conditions: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(h) Crosby Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(i) Des Lacs National Wildlife Refuge. (1) [Reserved]

(2) Upland game hunting. We allow hunting of sharp-tailed grouse, Hungarian partridge, turkey, and ring-necked pheasant on designated areas of the refuge subject to the following conditions:

(i) We open for upland game bird hunting on the day following the close of the regular deer gun season through the end of the State season.

(ii) We allow the use of hunting dogs for retrieval of upland game.

(iii) We allow fox hunting from the day following the regular firearm deer season until March 31.

(iv) We prohibit accessing refuge lands from refuge waters.

(3) Big game hunting. We allow deer and moose hunting on designated areas of the refuge subject to the following conditions:

(i) We only allow the use of portable tree stands and ground blinds. We prohibit leaving stands and blinds overnight on the refuge (see § 27.93 of this chapter).

(ii) We prohibit entry to the refuge before 12 p.m. (noon) on the first day of the respective bow, gun, or muzzleloader deer hunting seasons.

(iii) The condition set forth at paragraph (i)(2)(iv) of this section applies.

(4) [Reserved]

(j) Devils Lake Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district subject to the following condition: You must remove boats, decoys, portable blinds, other personal property, and any materials brought onto the area for blind construction by the end of each day's hunt (see §§ 27.93 and 27.94 of this chapter).

(3) Big game hunting. We allow big game hunting on designated areas of the district subject to the following condition: You must remove boats, decoys, portable blinds, other personal property, and any materials brought onto the area for blind construction by the end of each day's hunt (see §§ 27.93 and 27.94 of this chapter).

(4) Sport fishing. We allow sport fishing on designated areas of the district subject to the following condition: You must remove boats, motor vehicles, fishing equipment, and other personal property (excluding ice houses) by the end of each day's fishing activity (see §§ 27.93 and 27.94 of this chapter).

(k) J. Clark Salyer National Wildlife Refuge—(1) Migratory game bird hunting. We allow hunting of goose, duck, and coot on designated areas of the refuge subject to the following condition: We allow the use of dogs for hunting and retrieving game birds.

(2) Upland game hunting. We allow hunting of ruffed and sharp-tailed grouse, Hungarian partridge, turkey, ring-necked pheasant, and fox on designated areas of the refuge subject to the following conditions:

(i) We open to hunting for sharp-tailed grouse, Hungarian partridge, and ring-necked pheasant north of the Willow-Upham road on the day following the close of the regular firearm deer season.

(ii) We open the refuge to fox hunting on the day following the close of the regular firearm deer season. Fox hunting on the refuge closes March 31.

(iii) Hunters may possess only approved nontoxic shot (see § 32.2(k)) for all upland game hunting, including turkey.

(3) Big game hunting. We allow hunting of deer and moose on designated areas of the refuge subject to the following conditions:

(i) You must possess and carry a refuge permit to hunt antlered deer on the refuge outside the nine public hunting areas during the regular firearms season.

(ii) We prohibit entry to the refuge before 12 p.m. (noon) on the first day of the respective bow, gun, or muzzleloader deer hunting seasons. You may access refuge roads open to the public before 12 p.m. (noon).

(4) Sport fishing. We allow sport fishing on designated areas of the refuge subject to the following conditions:

(i) We allow boat fishing from May 1 through September 30.

(ii) We allow ice fishing and dark house spearfishing. We allow snowmobiles, all-terrain vehicles (ATVs), utility terrain vehicles (UTVs), motor vehicles, and fish houses on the ice as conditions allow.

(l) J. Clark Salyer Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(m) Kulm Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(n) Lake Alice National Wildlife Refuge—(1) Migratory game bird hunting. We allow migratory game bird hunting on designated areas of the refuge subject to the following conditions:

(i) We allow motorized boats only during the migratory game bird hunting season; however, motors must not exceed 10 horsepower.

(ii) You must remove all boats, decoys, portable blinds, other personal property, and any materials brought onto the refuge for blind construction by the end of each day's hunt (see §§ 27.93 and 27.94 of this chapter).

(2) Upland game hunting. We allow hunting of ring-necked pheasants, sharp-tailed grouse, gray partridge, cottontail rabbit, jackrabbit, snowshoe hare, and fox on designated areas of the refuge.

(3) Big game hunting. We allow deer and fox hunting on designated areas of the refuge subject to the following conditions:

(i) We prohibit trapping.

(ii) We allow portable tree stands. Hunters must remove tree stands from the refuge by the end of each day's hunt (see § 27.93 of this chapter).

(4) Sport fishing. We allow ice fishing on designated areas of the refuge subject to the following conditions:

(i) We allow vehicles and fish houses on the ice as conditions allow.

(ii) We allow public access for ice fishing from 5 a.m. to 10 p.m.

(iii) You must remove ice fishing shelters and personal property from the refuge by 10 p.m. each day (see §§ 27.93 and 27.94 of this chapter).

(o) Lake Ilo National Wildlife Refuge. (1)-(3) [Reserved]

(4) Sport fishing. We allow sport fishing on designated areas of the refuge subject to the following conditions:

(i) We open the lake to fishing from 5 a.m. to 10 p.m. year round.

(ii) We open the refuge to ice fishing from October 1 through March 31.

(p) Lake Nettie National Wildlife Refuge. (1)-(2) [Reserved]

(3) Big game hunting. We allow hunting of white-tailed and mule deer on designated areas of the refuge subject to the following conditions:

(i) We allow only portable tree stands.

(ii) Hunters must remove tree stands from the refuge at the end of each day's hunt (see § 27.93 of this chapter).

(4) [Reserved]

(q) Lake Zahl National Wildlife Refuge. (1) [Reserved]

(2) Upland game hunting. We allow hunting of sharp-tailed grouse, Hungarian partridge, and ring-necked pheasant on designated areas of the refuge subject to the following conditions:

(i) We open to upland game bird hunting on the day following the close of the regular deer gun season through the end of the State season.

(ii) We allow the use of hunting dogs to retrieve upland game.

(3) Big game hunting. We allow deer hunting on designated areas of the refuge subject to the following conditions:

(i) You may only use portable tree stands and ground blinds. We prohibit leaving stands and blinds overnight (see § 27.93 of this chapter).

(ii) We prohibit entry to the refuge before 12 p.m. (noon) on the first day of the respective archery, gun, or muzzleloader deer hunting season.

(4) [Reserved]

(r) Long Lake National Wildlife Refuge. (1) [Reserved]

(2) Upland game hunting. We allow hunting of ring-necked pheasant, sharp-tailed grouse, and grey partridge on designated areas of the refuge subject to the following condition: We open to upland game bird hunting annually on the day following the close of the firearm deer season through the close of the State season.

(3) Big game hunting. We allow hunting of deer on designated areas of the refuge.

(4) Sport fishing. We allow sport fishing on designated areas of the refuge subject to the following condition: We only allow fishing from legal sunrise to legal sunset.

(s) Long Lake Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(t) Lostwood National Wildlife Refuge. (1) [Reserved]

(2) Upland game hunting. We allow hunting of sharp-tailed grouse, Hungarian partridge, and ring-necked pheasant on designated areas of the refuge subject to the following condition: We allow the use of dogs to retrieve upland game.

(3) Big game hunting. We allow deer and moose hunting on designated areas of the refuge subject to the following condition: We prohibit entry to the refuge before 12 p.m. (noon) on the first day of the respective archery, gun, or muzzleloader deer hunting season.

(4) [Reserved]

(u) Lostwood Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's fishing activity (see §§ 27.93 and 27.94 of this chapter).

(v) Rose Lake National Wildlife Refuge. (1)-(3) [Reserved]

(4) Sport fishing. We allow sport fishing on designated areas of the refuge subject to the following condition: We allow vehicles and fish houses on the ice as conditions allow.

(w) Sibley Lake National Wildlife Refuge. (1)-(2) [Reserved]

(3) Big game hunting. We allow hunting of white-tailed deer on designated areas of the refuge.

(4) [Reserved]

(x) Silver Lake National Wildlife Refuge. (1)-(3) [Reserved]

(4) Sport fishing. We allow sport fishing on designated areas of the refuge subject to the following condition: We allow vehicles and fish houses on the ice as conditions allow.

(y) Slade National Wildlife Refuge. (1)-(2) [Reserved]

(3) Big game hunting. We allow hunting of deer on designated areas of the refuge.

(4) [Reserved]

(z) Stewart Lake National Wildlife Refuge. (1)-(3) [Reserved]

(4) Sport fishing. We allow ice or shore fishing on designated areas of the refuge.

(aa) Tewaukon National Wildlife Refuge. (1) [Reserved]

(2) Upland game hunting. We allow ring-necked pheasant hunting on designated areas of the refuge subject to the following condition: We open for upland game hunting on the first Monday following the close of the State deer gun season through the close of the State pheasant season.

(3) Big game hunting. We allow deer hunting on designated areas of the refuge subject to the following conditions:

(i) We allow deer bow hunting on designated areas of the refuge as governed by State regulations.

(ii) The deer bow hunting season closes September 30, reopens the Friday following the close of the State gun deer season, and continues through the end of the State archery deer season.

(4) Sport fishing. We allow sport fishing on designated areas of the refuge.

(bb) Tewaukon Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day (see §§ 27.93 and 27.94 of this chapter).

(cc) Upper Souris National Wildlife Refuge. (1) [Reserved]

(2) Upland game hunting. We allow hunting of wild turkey, sharp-tailed grouse, Hungarian partridge, and pheasant on designated areas of the refuge subject to the following conditions:

(i) We allow the use of dogs for hunting and retrieving of upland game birds with the exception of wild turkey.

(ii) We allow hunters on the refuge from 5 a.m. until 10 p.m.

(3) Big game hunting. We allow deer and moose hunting on designated areas of the refuge subject to the following conditions:

(i) We only allow the use of portable tree stands and ground blinds. You must remove stands and blinds from the refuge at the end of each day's hunt (see § 27.93 of this chapter).

(ii) The condition set forth at paragraph (cc)(2)(ii) of this section applies.

(iii) We prohibit entry to the refuge before 12 p.m. (noon) on the first day of the respective bow, gun, or muzzleloader deer hunting seasons.

(4) Sport fishing. We allow sport fishing on designated areas of the refuge subject to the following conditions:

(i) We allow the use of fishing boats, canoes, kayaks, and float tubes in designated boat fishing areas from Lake Darling Dam north to State Highway 28 (Greene) crossing for fishing from May 1 through September 30.

(ii) We allow fishing from nonmotorized vessels only on the Beaver Lodge Canoe Trail from May 1 through September 30.

(iii) We allow boating and fishing from vessels on the Souris River from Mouse River Park to the north boundary of the refuge from May 1 through September 30.

(iv) We allow snowmobiles, all-terrain vehicles (ATVs), utility terrain vehicles (UTVs), motor vehicles, and fish houses on the ice as conditions allow from Lake Darling Dam north to Carter Dam (Dam 41) for ice fishing.

(v) We allow you to place fish houses overnight on the ice of Lake Darling as governed by State regulations.

(vi) We allow anglers to place portable fish houses on the Souris River north of Carter Dam (Dam 41) and south of Lake Darling Dam for ice fishing, but anglers must remove the fish houses from the refuge at the end of each day's fishing activity (see § 27.93 of this chapter).

(vii) We allow anglers on the refuge from 5 a.m. until 10 p.m.

§ 32.54 Ohio.

The following refuge units are open for hunting and/or fishing as governed by applicable Federal and State regulations, and are listed in alphabetical order with additional refuge-specific regulations.

(a) Cedar Point National Wildlife Refuge. (1)-(2) [Reserved]

(3) Big game hunting. We allow white-tailed deer hunting on designated areas of the refuge subject to the following conditions:

(i) You must possess and carry a State-issued permit. All hunters must check in and out at the refuge check station. We require hunters to check out with the State-issued Harvest Card no later than 2 hours after the conclusion of their controlled hunt.

(ii) We prohibit hunting or shooting within 150 feet (45.7 meters) of any structure, building, or parking lot.

(4) Sport fishing. We allow sport fishing on designated areas of the refuge subject to the following conditions:

(i) We allow fishing from legal sunrise to legal sunset.

(ii) We prohibit the taking of turtle, frog, leech, minnow, crayfish, and mussel (clam) species by any method on the refuge (see § 27.21 of this chapter).

(iii) You must remove all boats, ice fishing structures, devices, and personal property from the refuge each day (see § 27.93 of this chapter).

(b) Ottawa National Wildlife Refuge—(1) Migratory game bird hunting. We allow hunting of duck, goose, rail, gallinule, coot, dove, woodcock, and snipe on designated areas of the refuge subject to the following conditions:

(i) On controlled waterfowl hunt units, we allow hunting of goose, duck, and coot as governed by with State regulations and subject to the following conditions:

(A) You must stop hunting at 12 p.m. (noon) each day.

(B) You may possess no more than 25 shot shells.

(ii) On public hunting units, we allow hunting of duck, goose, rail, gallinule, coot, dove, woodcock, and snipe subject to the following conditions:

(A) We allow refuge access from 1½ hours prior to the State-listed morning shooting time and 1 hour after the State-listed evening shooting time.

(B) We allow the use of dogs when hunting, provided the dog is under the immediate control of the hunter at all times.

(C) We allow nonmotorized boats in areas open to waterfowl hunting during the waterfowl hunting seasons with the following exception: We allow motorized boats in the Metzger Marsh and Two Rivers units.

(2) Upland game hunting. We allow hunting of pheasant, squirrel, rabbit, fox, raccoon, skunk, opossum, groundhog, and coyote on designated areas of the refuge subject to the following conditions:

(i) The conditions set forth at paragraphs (b)(1)(ii)(A) and (B) of this section apply.

(ii) We prohibit the use of buckshot for any hunting on the refuge.

(3) Big game hunting. We allow hunting of white-tailed deer and wild turkey on designated areas of the refuge subject to the following conditions:

(i) On controlled deer hunt units, we allow hunting of white-tailed deer only as governed by State regulations and subject to the following conditions:

(A) We require hunters to possess and carry a State-issued permit. You must check in and out at the refuge check station using the State-issued Harvest Card no later than 2 hours after the conclusion of your hunt.

(B) We prohibit hunting or shooting within 150 feet (45.7 meters) of any structure, building, or parking lot.

(ii) We allow hunting of white-tailed deer and turkey on designated public hunting units of the refuge as governed by State regulations and subject to the following conditions:

(A) The conditions set forth at paragraphs (b)(1)(ii)(A) and (b)(2)(ii) of this section apply.

(B) We allow only portable deer stands for hunting. We allow only one tree stand per hunter per refuge unit. We allow placement of tree stands after September 1, and require hunters to remove tree stands by March 1 of each year (see § 27.93 of this chapter). We require deer stands to be labeled with the hunter's Ohio customer identification number, which is on the hunting license.

(C) For hunting, you may use or possess only approved nontoxic shot shells (see § 32.2(k)) while in the field, including shot shells used for hunting wild turkey.

(4) Sport fishing. We allow sport fishing on designated areas of the refuge subject to the following conditions:

(i) We allow fishing from legal sunrise to legal sunset.

(ii) We prohibit the taking of any turtle, frog, leech, minnow, crayfish, and mussel (clam) species by any method on the refuge (see § 27.21 of this chapter).

(iii) You must remove all boats, ice fishing structures, devices, and personal property from the refuge each day (see § 27.93 of this chapter).

§ 32.55 Oklahoma.

The following refuge units are open for hunting and/or fishing as governed by applicable Federal and State regulations, and are listed in alphabetical order with additional refuge-specific regulations.

(a) Deep Fork National Wildlife Refuge—(1) Migratory game bird hunting. We allow hunting of duck, dark goose, merganser, and coot on designated areas of the refuge subject to the following conditions:

(i) You must possess and carry a signed refuge hunt tearsheet (signed brochure).

(ii) We allow waterfowl hunting on Fridays, Saturdays, Sundays, and Mondays, from ½ hour before legal sunrise until 1 p.m.

(iii) You may only use blinds constructed of natural dead vegetation. You must remove blinds, decoys, stands, and all personal equipment by legal sunset on the last day of the hunt (see §§ 27.93 and 27.94 of this chapter).

(2) Upland game hunting. We allow hunting of fox and gray squirrel, swamp and cottontail rabbit, turkey, and raccoon on designated areas of the refuge subject to the following conditions:

(i) The conditions set forth at paragraphs (a)(1)(i) and (iii) of this section apply.

(ii) We allow shotguns, .22- and .17-caliber rimfire rifles, and pistols for rabbit and squirrel hunting.

(iii) For raccoon hunting only, we allow hunting from legal sunset to legal sunrise only.

(iv) We allow the use of dogs when hunting squirrel, rabbit, and raccoon.

(3) Big game hunting. We allow hunting of white-tailed deer and feral hog on designated areas of the refuge subject to the following conditions:

(i) You must possess and carry a signed refuge tearsheet (signed brochure) for the archery deer hunt. Hunters must turn in a Big Game Harvest Report (FWS Form 3-2359) by December 31 annually. Failure to submit the report will render the hunter ineligible for the next year's limited season archery deer hunt.

(ii) We will offer a limited season archery deer hunt following the controlled deer hunt.

(iii) You may hunt feral hog during any established refuge hunting season.

(iv) Hunters may place no more than one stand on the refuge. You may place stands starting on the day the hunt begins. You must remove stands the day the hunt ends (see § 27.93 of this chapter).

(4) Sport fishing. We allow sport fishing in designated areas of the refuge subject to the following conditions:

(i) We allow year-round fishing on the Deep Fork River and at the Montezuma Creek Fishing Area. We allow fishing on all other sloughs, farm ponds, and impoundments not connected to the River from March 1 through October 31.

(ii) We allow bowfishing on the refuge from legal sunrise to legal sunset from March 1 to September 30.

(iii) We prohibit snagging and netting.

(iv) We allow the use of trotlines, juglines, limblines, and yo-yos only in the Deep Fork River; we prohibit their use in any other areas on the refuge.

(b) Little River National Wildlife Refuge—(1) Migratory game bird hunting. We allow hunting of duck on designated areas of the refuge subject to the following conditions:

(i) You may only use portable blinds. You must remove blinds, decoys, and all personal equipment from the refuge at the end of each day's hunt (see §§ 27.93 and 27.94 of this chapter).

(ii) You may hunt from ½ hour before legal sunrise until 12 p.m. (noon) each day.

(iii) You must possess and carry a signed refuge tearsheet (signed brochure) while hunting.

(iv) We close the refuge to duck hunting during controlled deer hunts.

(2) Upland game hunting. We allow hunting of gray and fox squirrel, eastern cottontail and swamp rabbit, beaver, coyote, and raccoon on designated areas of the refuge subject to the following conditions:

(i) We open squirrel season from May 15 through the Friday before the State deer muzzleloader season. We reopen squirrel season on the Monday after the last refuge controlled deer hunt through January 31.

(ii) We open rabbit season from October 1 through the Friday before the State deer muzzleloader season. We reopen rabbit season on the Monday after the last refuge controlled deer hunt through January 31.

(iii) You make take beaver, raccoon, and coyote as incidental take to any daytime established refuge hunt with legal weapons and a signed hunt tearsheet for the current hunt season.

(iv) Hunters may only hunt upland game during designated refuge seasons.

(v) We allow the use of dogs when hunting squirrel, rabbit, and raccoon.

(3) Big game hunting. We allow hunting of white-tailed deer, turkey, and feral hog on designated areas of the refuge subject to the following conditions:

(i) We open the deer archery season from October 1 through the Friday before the State deer muzzleloader season. We reopen deer season on the Monday after the last refuge controlled deer hunt through January 15.

(ii) We open the deer gun season during the months of October and November. Hunters must pay a fee and obtain a controlled hunt permit through the State.

(iii) We open the turkey archery season from October 1 through the Friday before the State deer muzzleloader season. We reopen turkey season on the Monday after the last refuge controlled deer hunt through January 15.

(iv) We open the turkey gun season during the month of April. Hunters must pay a fee and obtain a controlled hunt permit through the State.

(v) Shotgun hunters may only possess approved nontoxic shot (see § 32.2(k)) while in the field while hunting turkey.

(vi) You may hunt feral hog during any established refuge hunting season. Refuge signed tearsheet (signed brochure) and legal weapons apply for the current hunting season.

(vii) Hunters may only hunt big game during designated refuge seasons.

(4) Sport fishing. We allow sport fishing on designated areas of the refuge.

(c) Optima National Wildlife Refuge—(1) Migratory game bird hunting. We allow hunting of mourning dove on designated areas of the refuge.

(2) Upland game hunting. We allow hunting of ring-necked pheasant, bobwhite and scaled quail, cottontail rabbit, and jackrabbit on the refuge subject to the following condition: We allow only shotguns for upland game hunting.

(3) Big game hunting. We allow hunting of white-tailed deer, mule deer, and turkey on the refuge subject to the following conditions:

(i) We allow archery and shotguns during spring turkey season.

(ii) We allow only archery hunting during fall seasons.

(4) [Reserved]

(d) Ozark Plateau National Wildlife Refuge. (1) [Reserved]

(2) Upland game hunting. We allow hunting of cottontail rabbit and gray and fox squirrel on designated areas of the refuge subject to the following conditions:

(i) You must possess and carry a signed refuge tearsheet (signed brochure).

(ii) We prohibit falconry.

(iii) The only allowed methods of take are shotguns, .17 or .22 rimfire rifle, and archery equipment as governed by State regulations.

(3) Big game hunting. We allow hunting of white-tailed deer and feral hogs on designated portions of the refuge subject to the following conditions:

(i) The condition set forth at paragraph (d)(2)(i) of this section applies.

(ii) We only allow the use of archery equipment.

(iii) We allow the use of portable deer stands only. You must remove stand(s) from the refuge within 2 days of the last day of the season (see § 27.93 of this chapter).

(iv) We allow the incidental take of feral hogs during the deer, rabbit, and squirrel hunting seasons.

(4) [Reserved]

(e) Salt Plains National Wildlife Refuge—(1) Migratory game bird hunting. We allow hunting of duck, goose, American coot, sandhill crane, mourning dove, white-winged dove, Eurasian collared dove, and rock dove on designated areas of the refuge subject to the following conditions:

(i) We allow hunting from ½ hour before legal sunrise until 12 p.m. (noon).

(ii) We open public hunting areas to all access 2 hours prior to legal shooting time, and close those areas at 12 p.m. (noon).

(2) Upland game hunting. We allow hunting of northern bobwhite quail and ring-necked pheasant on designated areas of the refuge subject to the following condition: The conditions set forth at paragraphs (e)(1)(i) and (ii) of this section apply.

(3) Big game hunting. We allow hunting of white-tailed deer, wild turkey, American beaver, and feral hog on designated areas of the refuge subject to the following conditions:

(i) We require a limited hunt permit (State-issued) for controlled hunts for deer and spring wild turkey hunts.

(ii) White-tailed deer and wild turkey hunters may place no more than one stand/blind on the refuge. You may place stands starting on the day the hunt begins. You must remove stands the day the hunt ends (see § 27.93 of this chapter).

(iii) White-tailed deer and wild turkey hunters must check-in and out at a refuge check station. Refuge staff provide a hunter briefing as part of check-in.

(iv) You may take feral hogs and American beaver only as incidental game during a controlled hunt, open upland game season, or open migratory game bird season using a State-approved method of take for that season.

(v) Wild turkey hunters must use and only possess approved nontoxic shot (see § 32.2(k)).

(4) Sport fishing. We allow fishing on designated areas of the refuge subject to the following conditions:

(i) We allow fishing from April 1 through October 15.

(ii) We prohibit the use of netting, seines, cast nets, trawls, dip nets, and traps.

(iii) Posts used to secure or anchor trotlines must reach a minimum of 2 feet (30 centimeters) above the water surface, and you must mark them to make them clearly visible to boaters. You must remove posts when they are not in use (see § 27.93 of this chapter).

(iv) We only allow youth and persons with disabilities to fish on Bonham Pond subject to the following conditions:

(A) We open to fishing from legal sunrise to legal sunset.

(B) We limit anglers to one pole per person.

(C) We restrict Bonham Pond to catch-and-release fishing only.

(f) Sequoyah National Wildlife Refuge—(1) Migratory game bird hunting. We allow hunting of duck, goose, mourning dove, American coot, snipe, and woodcock on designated areas of the refuge subject to the following conditions:

(i) You must possess and carry a signed refuge hunt tearsheet (signed brochure).

(ii) We open the refuge to hunting only on Saturdays, Sundays, Mondays, and Tuesdays. We prohibit hunters from entering the land portion of the Sandtown Bottom Unit or any portion of Sally Jones Lake before 5 a.m. Hunters must leave the area by 1 hour after legal sunset.

(iii)We prohibit hunting or shooting within 50 feet (15 meters) of designated roads or parking areas.

(iv) Season lengths and bag limits will be governed by State regulations with the exception that all hunting, except for the conservation light goose season, will close on January 31 of each year. If a conservation light goose season is in effect, State regulations apply with the exception of special hunting days.

(v) You must remove stands, blinds, boats, and other personal property from the refuge at the end of each day's hunt (see §§ 27.93 and 27.94 of this chapter).

(vi) We prohibit hunters from using refuge boat ramps to access hunting areas outside the refuge boundary:

(A) On days when we close the refuge to hunting for certain species; and/or

(B) When hunting species that we do not allow to be hunted on the refuge.

(vii) We restrict the use of airboats within the refuge boundary to the navigation channel and the designated hunting areas from September 1 through March 31.

(2) Upland game hunting. We allow hunting of eastern gray and fox squirrel and swamp and eastern cottontail rabbit on designated areas of the refuge subject to the following conditions:

(i) The conditions set forth at paragraphs (f)(1)(i) through (iii) and (v) through (vii) of this section apply.

(ii) Season lengths and bag limits will be governed by State regulations with the exception that all upland game hunting will close on January 31 of each year.

(iii) We only allow legal shotguns, and .22 and .17 rimfire rifles, for hunting upland game. You must plug hunting shotguns so that they are incapable of holding more than three shells.

(iv) The east portion of the Sandtown Bottom Unit and the portion of Robert S. Kerr Reservoir, from Tuff boat ramp to the confluence of Vian Creek, are designated as a waterfowl sanctuary that we close to all entry, except for the designated hiking trail, from September 1 through March 31. The closed area is marked with signs and buoys.

(3) Big game hunting. We allow hunting of white-tailed deer, wild turkey, and feral hog on designated areas of the refuge subject to the following conditions:

(i) The conditions set forth at paragraphs (f)(1)(i) through (iii) and (v) through (vii) of this section apply.

(ii) We require a limited hunt permit (State-issued) for controlled hunts for archery deer, and for spring wild turkey hunts.

(iii) Hunters must apply to the State-controlled deer hunt drawing administered by the Oklahoma Department of Wildlife Conservation for selection. You must attend a pre-hunt briefing.

(iv) Incidental take of feral hogs may occur during deer, rabbit, and squirrel hunting seasons.

(4) Sport fishing. We allow fishing and frogging on designated areas of the refuge subject to the following conditions:

(i) We prohibit fishing or frogging from September 1 through March 31 in the closed zone south of refuge headquarters, as designated by buoys and signs.

(ii) You must remove trotlines from the closed zone before September 1 (see § 27.93 of this chapter).

(iii) The conditions set forth at paragraphs (f)(1)(v) and (vii) of this section apply.

(g) Tishomingo National Wildlife Refuge—(1) Migratory game bird hunting. We allow the hunting of duck, teal, light geese, dark geese, snipe, gallinule, American coot, and merganser on designated areas of the refuge subject to the following conditions:

(i) We allow the hunting of migratory birds every day, but waterfowl hunters must be off the unit by 1 p.m.

(ii) Hunters must possess and carry a signed hunt tearsheet (signed brochure).

(iii) We require the hunters to self-check-in and self-check-out.

(iv) We allow only shotguns for hunting.

(v) We prohibit falconry.

(2) [Reserved]

(3) Big game hunting. We allow hunting of white-tailed deer, feral hog, and turkey on designated areas of the refuge subject to the following conditions:

(i) The condition set forth at paragraph (g)(1)(ii) of this section applies.

(ii) We require State-controlled deer hunt drawing hunters to attend a pre-hunt briefing.

(iii) You may hunt feral hog during any established refuge hunting season, using the weapon authorized for that particular hunt.

(4) Sport fishing. We allow sport fishing on designated areas of the refuge subject to the following conditions:

(i) Anglers may bank and wade fish with pole and line or rod and reel year-round.

(ii) Anglers may use boats from March 1 through September 30 in designated waters.

(iii) Anglers may “no-wake” boat fish during the boating season with line and pole or rod and reel, except in areas designated as sanctuary zones.

(iv) Anglers may use trotlines and other set tackle only in the Cumberland Pool (designated areas), Rock Creek, and between the natural banks of the Washita River. Anglers may only use set tackle with anchored floats.

(v) We prohibit use of limblines, throwlines, juglines, and yo-yos.

(vi) We prohibit use of any containers (jugs, bottles) as floats.

(vii) Anglers may fish after legal sunset from a boat (during boating season) in the Cumberland Pool, except in the sanctuary zones. Anglers may fish after legal sunset at the headquarters area, Sandy Creek Bridge, Murray 23, and Nida Point.

(viii) We prohibit bow fishing.

(ix) We prohibit take of fish by use of hands (noodling).

(x) We prohibit take of frog, turtle, or mussel (see § 27.21 of this chapter).

(h) Tishomingo Wildlife Management Unit—(1) Migratory game bird hunting. We allow hunting of mourning dove and waterfowl on the Tishomingo Wildlife Management Unit of Tishomingo National Wildlife Refuge.

(2) Upland game hunting. We allow hunting of quail, squirrel, turkey, and rabbit on the Tishomingo Wildlife Management Unit of Tishomingo National Wildlife Refuge.

(3) Big game hunting. We allow hunting of white-tailed deer and turkey on the Tishomingo Wildlife Management Unit of Tishomingo National Wildlife Refuge.

(4) Sport fishing. We allow sport fishing on the Tishomingo Wildlife Management Unit of Tishomingo National Wildlife Refuge.

(i) Washita National Wildlife Refuge—(1) Migratory game bird hunting. We allow hunting of duck, goose, merganser, sandhill crane, mourning, white-winged, and Eurasian collared-dove on designated areas of the refuge subject to the following conditions:

(i) We require hunters to carry a signed tearsheet (signed brochure) while hunting duck, goose, merganser, and sandhill crane.

(ii) Duck, goose, merganser, and sandhill crane hunters must hunt only in designated fields on specified days at specified hours.

(iii) We prohibit bringing natural vegetation from outside the refuge onto the refuge to construct temporary blinds. You must remove temporary blinds, decoys, and other hunting equipment from the refuge at the end of each hunt day (see § 27.93 of this chapter).

(2) Upland game hunting. We allow hunting of bobwhite quail, cottontail rabbit, and black-tailed jackrabbit on designated areas of the refuge.

(3) Big game hunting. We allow hunting of white-tailed deer, feral hog, and Rio Grande wild turkey on designated areas of the refuge subject to the following conditions:

(i) We allow deer and feral hog hunting during the special refuge season. We will hold turkey hunts during the State spring turkey season.

(ii) You must check in and out of hunt areas daily at the refuge office or check station.

(iii) You must take bagged deer, hog, and/or turkey to the refuge check station.

(iv) We will determine bag limits on deer and turkey annually.

(v) We prohibit using handguns for hunting.

(4) Sport fishing. We allow fishing in designated areas of the refuge subject to the following conditions:

(i) Anglers may fish from March 15 through October 14 in the Washita River and Foss Reservoir.

(ii) Anglers may bank fish year-round in the Washita River and Foss Reservoir from open areas.

(j) Wichita Mountains National Wildlife Refuge—(1) Migratory game bird hunting. We allow hunting of duck, goose, merganser, and coot on designated portions of the refuge subject to the following conditions:

(i) Hunters must possess a current signed refuge hunting tearsheet (signed brochure) while hunting on the refuge.

(ii) We prohibit waterfowl hunting during the refuge controlled elk and deer hunts.

(iii) We allow waterfowl hunting from ½ hour before legal sunrise until 1 p.m.

(iv) We allow the use of hunting dogs only for waterfowl hunting.

(v) You may only build blinds constructed of natural vegetation materials from the refuge.

(vi) Hunters must remove decoys and blinds from the refuge at the end of each day's hunt (see § 27.93 of this chapter).

(vii) We prohibit jump shooting.

(viii) We prohibit hunting within 400 feet (122 meters) of any paved road, parking area, or building/dwelling.

(ix) We prohibit shooting from or across any designated trail, road, or parking area.

(x) We prohibit the use of motorized decoys in portions of the refuge designated as wilderness area.

(xi) We prohibit the use of game carts or other mechanical transportation devices on portions of the refuge designated as wilderness area.

(2) [Reserved]

(3) Big game hunting. We allow hunting of elk, turkey, and white-tailed deer on designated areas of the refuge subject to the following conditions:

(i) We allow elk, deer, and turkey hunting only during the State-controlled hunt program.

(ii) We allow only five (5) rounds of ammunition per day during controlled elk and white-tailed deer hunts.

(iii) We allow elk and deer hunting with centerfire rifles only; the minimum calibers are .243 for deer and .270 caliber for elk.

(iv) You must possess only approved nontoxic shot (see § 32.2(k)) while in the field while hunting turkey.

(v) You must check all harvested elk and deer through the refuge check station, and attach a metal transportation tag, before leaving refuge property.

(vi) We only allow use of archery equipment and shotgun or muzzleloader with a shot size of #2 or smaller for turkey hunting. We prohibit crossbows.

(vii) You may take feral hogs and coyote only during controlled hunts with weapons approved for that hunt.

(viii) The conditions set forth at paragraphs (j)(1)(viii) and (xi) of this section apply.

(4) Sport fishing. We allow fishing on designated areas of the refuge subject to the following conditions:

(i) You may take fish only with pole and line or rod and reel.

(ii) We prohibit taking of frogs and turtles (see § 27.21 of this chapter).

(iii) Anglers may use motorized boats on Elmer Thomas Lake; however, we enforce a no-wake rule on the lake.

(iv) We allow fishing after legal sunset on the refuge, but we prohibit all other boating after legal sunset.

§ 32.56 Oregon.

The following refuge units are open for hunting and/or fishing as governed by applicable Federal and State regulations, and are listed in alphabetical order with additional refuge-specific regulations.

(a) Bandon Marsh National Wildlife Refuge—(1) Migratory game bird hunting. We allow hunting of migratory game birds on designated areas of the refuge subject to the following conditions:

(i) We allow hunting of goose, duck, coot, and snipe 7 days per week on that portion of the refuge west of U.S. Highway 101 and outside the Bandon city limits.

(ii) On the Ni-les'tun Unit of the refuge, we allow hunting of goose, duck, and coot only on Wednesdays, Saturdays, and Sundays.

(iii) You must remove all blinds, decoys, shotshell hulls, and other personal equipment and refuse from the refuge at the end of each day's hunt (see §§ 27.93 and 27.94 of this chapter).

(iv) Hunters accessing the Ni-les'tun Unit via boat must secure or anchor boats and use established boat launch areas. Hunters may park boats within the marsh while they hunt, but we require boats landing on the bank of the Coquille River within the Ni-les'tun Unit to park within a designated location.

(v) Hunters may enter the refuge no earlier than 2 hours before legal sunrise and must exit the refuge no later than 1 hour after legal sunset.

(vi) Hunters may use dogs as an aid to retrieving waterfowl during the hunting season.

(vii) You may enter posted retrieval zones while retrieving downed birds and when traveling to and from the hunting areas. We prohibit discharging firearms while in a retrieval zone.

(2)-(3) [Reserved]

(4) Sport fishing. We allow sport fishing on designated areas of the refuge.

(b) Baskett Slough National Wildlife Refuge—(1) Migratory game bird hunting. We allow hunting of duck and goose on designated areas of the refuge subject to the following conditions:

(i) We allow only hunters age 17 and younger to participate in the youth waterfowl hunt. Youths must be accompanied by an adult age 21 or older.

(ii) We require youth hunters to obtain a refuge waterfowl hunting permit (Waterfowl Lottery Application, FWS Form 3-2439, Hunt Application—National Wildlife Refuge System). All youth hunting waterfowl must do so from designated blinds.

(iii) You must remove blinds, decoys, and other personal property at the end of each day's hunt (see § 27.93 of this chapter).

(iv) We allow the use of dogs when hunting.

(v) We require waterfowl and goose permit hunters to check in and out at the Hunter Check Station (refuge office), which is open from 1½ hours before legal hunting hours to 8 a.m. and from 11 a.m. to 1 p.m. We prohibit hunting after 12 p.m. (noon).

(vi) We require goose hunters to space themselves no less than 200 yards (183 meters) apart from each other during the early September goose hunt.

(2)-(4) [Reserved]

(c) Bear Valley National Wildlife Refuge. (1)-(2) [Reserved]

(3) Big game hunting. We allow hunting of deer on designated areas of the refuge subject to the following conditions:

(i) Hunting opens concurrent with the State season and closes October 31.

(ii) We prohibit hunting or public entry of any kind from November 1 to the State-regulated opening day of deer season in the hunting unit.

(iii) We allow walk-in access only from designated entry points.

(4) [Reserved]

(d) Cold Springs National Wildlife Refuge—(1) Migratory game bird hunting. We allow hunting of goose, duck, coot, dove, and snipe on designated areas of the refuge subject to the following conditions:

(i) We prohibit discharge of any firearm within ¼ mile (396 meters (m)) of any maintained building or Federal facility, such as, but not limited to, a structure designed for storage, human occupancy, or shelter for animals.

(ii) We allow hunting only on Tuesdays, Thursdays, Saturdays, Sundays, and all federally recognized holidays within the State season, with the exception of dove. We only allow hunting for all dove species within the State mourning dove season.

(iii) On the Memorial Marsh Unit:

(A) We allow waterfowl hunting only from numbered field blind sites. We allow a maximum of four persons per blind site.

(B) Waterfowl hunters must remain within 100 feet (30 m) of the numbered field blind post unless retrieving birds or setting decoys.

(iv) Hunters must remove all decoys and other equipment (see § 27.93 of this chapter) at the end of each day's hunt.

(2) Upland game hunting. We allow hunting of upland game birds on designated areas of the refuge subject to the following conditions:

(i) The conditions set forth at paragraphs (d)(1)(i) and (ii) of this section apply.

(ii) We allow hunting from 12 p.m. (noon) to the end of legal hunting hours.

(3) Big game hunting. We allow hunting of elk on designated areas of the refuge subject to the following conditions:

(i) The condition set forth at paragraph (d)(1)(i) of this section applies.

(ii) We only allow hunting with a valid, State-issued emergency hunt permit or kill permit.

(4) Sport fishing. We allow fishing on designated areas of the refuge.

(e) Deer Flat National Wildlife Refuge—(1) Migratory game bird hunting. We allow hunting of mourning dove, goose, duck, coot, and snipe on designated areas of the refuge subject to the following condition: We allow only portable blinds and temporary blinds constructed of natural materials.

(2) Upland game hunting. We allow hunting of pheasant, quail, and partridge on designated areas of the refuge subject to the following condition: We prohibit hunting from February 1 through May 31.

(3) Big game hunting. We allow hunting of deer on designated areas of the refuge.

(4) Sport fishing. We allow fishing on designated areas of the refuge subject to the following condition: We prohibit shoreline fishing on the islands of the Snake River Sector from February 1 through May 31.

(f) Hart Mountain National Antelope Refuge. (1) [Reserved]

(2) Upland game hunting. We allow hunting of chukar on designated areas of the refuge.

(3) Big game hunting. We allow hunting of deer, antelope, and bighorn sheep on designated areas of the refuge subject to the following conditions:

(i) We allow ground blinds, but we prohibit construction of them earlier than 1 week prior to the opening day of the legal season for which you have a valid permit.

(ii) You must remove blinds within 24 hours of harvesting an animal or at the end of the permittee's legal season (see § 27.93 of this chapter).

(iii) We limit hunters to one blind each, and you must tag blinds with the owner's State license or permit number.

(4) Sport fishing. We allow fishing on designated areas of the refuge.

(g) Julia Butler Hansen Refuge for the Columbian White-Tailed Deer—(1) Migratory game bird hunting. We allow hunting of goose, duck, coot, and common snipe on designated areas of the refuge subject to the following conditions:

(i) You must remove all personal property, including decoys and boats, by 1 hour after legal sunset (see §§ 27.93 and 27.94 of this chapter).

(ii) We open the refuge for day-use access from 1½ hours before legal sunrise until 1½ hours after legal sunset.

(iii) We allow the use of dogs when hunting.

(2)-(3) [Reserved]

(4) Sport fishing. We allow sport fishing on designated areas of the refuge.

(h) Klamath Marsh National Wildlife Refuge—(1) Migratory game bird hunting. We allow hunting of goose, duck, coot, and common snipe on designated areas of the refuge subject to the following condition: We prohibit the use of air-thrust and inboard water-thrust boats when waterfowl hunting.

(2)-(3) [Reserved]

(4) Sport fishing. We allow sport fishing on designated areas of the refuge subject to the following condition: We prohibit the use of boats when sport fishing.

(i) Lewis and Clark National Wildlife Refuge—(1) Migratory game bird hunting. We allow hunting of goose, duck, coot, and snipe on the designated areas of the refuge subject to the following conditions:

(i) You must remove all personal property, including decoys and boats, by 1 hour after legal sunset (see §§ 27.93 and 27.94 of this chapter).

(ii) We open the refuge for hunting access from 1½ hours before legal sunrise until 1½ hours after legal sunset.

(iii) We allow the use of dogs when hunting.

(2)-(3) [Reserved]

(4) Sport fishing. We allow sport fishing on designated areas of the refuge.

(j) Lower Klamath National Wildlife Refuge—(1) Migratory game bird hunting. We allow hunting of goose, duck, coot, and common snipe on designated areas of the refuge subject to the following conditions:

(i) In the controlled waterfowl hunting area, we require a valid Refuge Recreation Pass (electronic form) for all hunters age 16 and older. All hunters age 15 and younger must remain in the immediate presence of an adult (age 18 or older) at all times while in the field.

(ii) We require advance reservations for the first 2 days of the hunting season. You may obtain a reservation through the waterfowl lottery (Migratory Bird Hunt Application, FWS form 3-2439, Hunt Application—National Wildlife Refuge System) each year.

(iii) Entry hours for hunters begin at 4:30 a.m. unless otherwise posted.

(iv) We prohibit the setting of decoys in retrieving zones.

(2) Upland game hunting. We allow hunting of pheasant on designated areas of the refuge subject to the following condition: In the controlled pheasant hunting area, we require a valid permit for all hunters age 16 and older. All hunters age 15 and younger must remain in the immediate presence of an adult (age 18 or older) at all times while in the field.

(3)-(4) [Reserved]

(k) Malheur National Wildlife Refuge—(1) Migratory game bird hunting. We allow hunting of dove, goose, duck, merganser, coot, snipe, and pigeon on designated areas of the refuge subject to the following conditions:

(i) We allow nonmotorized boats or boats equipped with only electric motors on the North and South Malheur Lake Hunt Units.

(ii) We allow only portable and temporary hunting blinds.

(iii) You must remove boats, decoys, blinds, materials, and all personal property at the end of each day's hunt (see §§ 27.93 and 27.94 of this chapter).

(iv) The South Malheur Lake and Buena Vista Hunt Units open for migratory bird hunting on the fourth Saturday of October and close at the end of the State waterfowl season.

(v) You may access the South Malheur Lake Hunt Unit from the North Malheur Lake Hunt Unit, but no earlier than the fourth Saturday of October.

(2) Upland game hunting. We allow hunting of pheasant, quail, partridge, chukar, and rabbit on designated areas of the refuge subject to the following conditions:

(i) We allow hunting of upland game species on designated areas of the Blitzen Valley east of Highway 205 from the fourth Saturday in October through the end of the State pheasant season.

(ii) We allow hunting of upland game species on the North Malheur Lake Hunt Unit concurrent with the State pheasant season.

(3) Big game hunting. We allow hunting of deer and pronghorn on designated areas of the refuge.

(4) Sport fishing. We allow fishing on designated areas of the refuge subject to the following conditions:

(i) We prohibit ice fishing on, and all public access to, any ice formations.

(ii) We allow fishing year-round on Krumbo Reservoir and in the Blitzen River, East Canal, and Mud Creek upstream from and including Bridge Creek.

(iii) We allow fishing on the north bank of the Blitzen River from Sodhouse Lane downstream to the bridge on the Boat Landing Road between August 1 and September 15.

(iv) We prohibit boats on public fishing areas, except that we allow nonmotorized boats and boats equipped with only electric motors on Krumbo Reservoir.

(l) McKay Creek National Wildlife Refuge—(1) Migratory game bird hunting. We allow hunting of goose, duck, coot, snipe, and dove on designated areas of the refuge subject to the following conditions:

(i) We prohibit discharge of any firearm within ¼ mile (396 meters) of any maintained building or Federal facility, such as, but not limited to, a structure designed for storage, human occupancy, or shelter for animals.

(ii) Hunters must remove all decoys and other equipment from the refuge at the end of each day's hunt (see § 27.93 of this chapter).

(2) Upland game hunting. We allow hunting of upland game birds and turkey on designated areas of the refuge subject to the following conditions:

(i) The condition set forth at paragraph (l)(1)(i) of this section applies.

(ii) On the opening weekend of the hunting season, we require all hunters to possess and carry a special refuge permit (signed refuge brochure).

(3) Big game hunting. We allow hunting of deer and elk on designated areas of the refuge subject to the following conditions:

(i) The conditions set forth at paragraphs (l)(1)(i) and (ii) of this section apply.

(ii) We only allow elk hunting only with a valid, State-issued emergency hunt permit or kill permit.

(iii) We allow deer hunting only with a special, State-issued permit.

(4) Sport fishing. We allow sport fishing on designated areas of the refuge.

(m) McNary National Wildlife Refuge. Refer to § 32.66(h) for regulations.

(n) Nestucca Bay National Wildlife Refuge—(1) Migratory game bird hunting. We allow hunting of duck and coot on designated areas of the refuge subject to the following conditions:

(i) Hunters must remove all blinds, decoys, shotshell hulls, and other personal equipment and refuse from the refuge at the end of each day's hunt (see §§ 27.93 and 27.94 of this chapter).

(ii) Hunters may enter the refuge no earlier than 2 hours before legal sunrise and must exit the refuge no later than 1 hour after legal sunset.

(iii) Hunters may use dogs as an aid to retrieving waterfowl during the hunting season.

(2)-(3) [Reserved]

(4) Sport fishing. We allow sport fishing and shellfishing on designated areas of the refuge.

(o) Sheldon National Wildlife Refuge. (1) [Reserved]

(2) Upland game hunting. We allow hunting of quail, grouse, and partridge on designated areas of the refuge.

(3) Big game hunting. We allow hunting of deer and antelope on designated areas of the refuge.

(4) [Reserved]

(p) Siletz Bay National Wildlife Refuge—(1) Migratory game bird hunting. We allow hunting of goose, duck, and coot on designated areas of the refuge subject to the following conditions:

(i) We allow waterfowl hunting 7 days per week on refuge lands west of U.S. Highway 101.

(ii) On the Millport Slough South Unit, we allow waterfowl hunting only on Wednesdays, Saturdays, and Sundays.

(iii) Hunters must remove all blinds, decoys, shotshell hulls, and other personal equipment and refuse from the refuge at the end of each day's hunt (see §§ 27.93 and 27.94 of this chapter).

(iv) Hunters may enter the refuge no earlier than 2 hours before legal sunrise and must exit the refuge no later than 1 hour after legal sunset.

(v) Hunters may use dogs as an aid to retrieving waterfowl during the hunting season.

(vi) You may enter posted retrieval zones while retrieving downed birds and when traveling to and from the hunting areas. We prohibit discharging firearms while in a retrieval zone.

(2)-(3) [Reserved]

(4) Sport fishing. We allow fishing and clamming on designated areas of the refuge only from legal sunrise to legal sunset.

(q) Tualatin River National Wildlife Refuge—(1) Migratory game bird hunting. We allow waterfowl hunting on designated areas of the refuge subject to the following conditions:

(i) Youth age 17 and younger may participate as active hunters. An adult age 21 or older must accompany and supervise youth hunters. We do not allow supervising adults to hunt.

(ii) We allow a maximum of two youth hunters and two nonhunters per hunting blind, for a maximum occupancy of four persons per blind.

(iii) Disabled youth hunters must possess an Oregon Disabilities Hunting and Fishing Permit issued by the Oregon Department of Fish and Wildlife (ODFW) to qualify for preference in using the designated accessible hunting blind.

(iv) We open the hunting season on the last weekend of October, as conditions allow, through the end of the regular State hunting season. We close the refuge for the third-period northwest permit zone goose hunt.

(v) Official hunting start times for game birds are governed by State regulations. Hunting ends at 1 p.m. for the entire season.

(vi) We open the hunt area for access 1½ hours before legal shooting hours.

(vii) You must remove decoys, other personal property, and trash from the refuge at the end of each day's hunt (see §§ 27.93 and 27.94 of this chapter).

(viii) We allow the use of dogs for retrieving waterfowl.

(ix) All hunters must hunt from designated blinds.

(x) All hunters must have visible means of retrieving waterfowl such as float tube, waders, or a dog capable of retrieving.

(xi) Hunters must check-in and check-out with a Refuge representative and submit a Migratory Bird Hunt Report (FWS Form 3-2361) when checking out.

(2)-(4) [Reserved]

(r) Umatilla National Wildlife Refuge—(1) Migratory game bird hunting. We allow hunting of goose, duck, coot, dove, and snipe on designated areas of the refuge subject to the following conditions:

(i) We prohibit discharge of any firearm within ¼ mile (396 meters) of any maintained building or Federal facility, such as, but not limited to, a structure designed for storage, human occupancy, or shelter for animals.

(ii) Hunters must remove all decoys and other equipment at the end of each day's hunt (see § 27.93 of this chapter).

(iii) On the McCormack Unit, we allow hunting subject to the following conditions:

(A) The McCormack Unit is a fee-hunt area only open to hunting on Wednesdays, Saturdays, Sundays, Thanksgiving Day, and New Year's Day during State waterfowl seasons.

(B) We require hunters to stop at the check station to obtain a special refuge permit (signed refuge brochure).

(C) We allow hunting only from assigned areas.

(2) Upland game hunting. We allow hunting of upland game birds on designated areas of the refuge subject to the following conditions:

(i) The conditions set forth at paragraphs (r)(1)(i) and (ii) of this section apply.

(ii) On the McCormack Fee Hunt Unit, we allow hunting subject to the following conditions:

(A) We allow hunting only on Wednesdays, Saturdays, Sundays, Thanksgiving Day, and New Year's Day from 12 p.m. (noon) to the end of State legal hunting hours.

(B) We require all hunters to possess and carry a special refuge permit (signed refuge brochure).

(3) Big game hunting. We allow hunting of deer on designated areas of the refuge subject to the following conditions:

(i) The condition set forth at paragraph (r)(1)(i) of this section applies.

(ii) We allow hunting only with a special, State-issued permit.

(4) Sport fishing. We allow fishing on designated areas of the refuge.

(s) Upper Klamath National Wildlife Refuge—(1) Migratory game bird hunting. We allow hunting of goose, duck, coot, and common snipe on designated areas of the refuge.

(2)-(3) [Reserved]

(4) Sport fishing. We allow sport fishing in designated areas of the refuge.

(t) William L. Finley National Wildlife Refuge. (1)-(2) [Reserved]

(3) Big game hunting. We allow deer and elk hunting on designated areas of the refuge subject to the following conditions:

(i) You may harvest only antlerless elk with appropriate State-issued tags.

(ii) We prohibit hunting from any refuge structure, observation blind, or boardwalk.

(iii) We require all hunters to register at a self-service hunt kiosk. All hunters must complete a Big Game Harvest Report (FWS Form 3-2359) at the end of each hunt day.

(4) Sport fishing. We allow fishing on designated areas of the refuge subject to the following conditions:

(i) We allow fishing from legal sunrise to legal sunset.

(ii) We allow anglers to use only pole and line, or rod and reel. Anglers must attend their line.

§ 32.57 Pennsylvania.

The following refuge units are open for hunting and/or fishing as governed by applicable Federal and State regulations, and are listed in alphabetical order with additional refuge-specific regulations.

(a) Cherry Valley National Wildlife Refuge—(1) Migratory game bird hunting. We allow hunting of migratory game birds on designated areas of the refuge subject to the following conditions:

(i) Hunters must obtain a refuge hunt permit (FWS Form 3-2439, Hunt Application—National Wildlife Refuge System). We require hunters to possess a signed refuge hunt permit at all times while scouting and hunting on the refuge.

(ii) Hunters may enter the refuge 2 hours before legal shooting time and must leave no later than 2 hours after legal shooting time.

(2) Upland game hunting. We allow hunting of squirrel, grouse, rabbit, pheasant, quail, woodchuck, crow, fox, raccoon, opossum, skunk, weasel, coyote, and bobcat on designated areas of the refuge subject to the following conditions:

(i) Hunters must obtain a refuge hunt permit (FWS Form 3-2439, Hunt Application—National Wildlife Refuge System). We require hunters to possess a signed refuge hunt permit at all times while scouting and hunting on the refuge.

(ii) The condition set forth at paragraph (a)(1)(ii) of this section applies.

(iii) We allow hunting from legal sunrise to legal sunset.

(3) Big game hunting. We allow hunting of white-tailed deer, bear, and wild turkey on designated areas of the refuge subject to the following conditions:

(i) The conditions set forth at paragraphs (a)(1)(ii) and (a)(2)(i) of this section apply.

(ii) We prohibit organized deer drives. We define a “deer drive” as an organized or planned effort to pursue, drive, chase, or otherwise frighten or cause deer to move in the direction of any person(s) who is part of the organized or planned hunt and known to be waiting for the deer.

(4) Sport fishing. We allow sport fishing on the refuge subject to the following conditions:

(i) The Cherry Creek section located on the former Cherry Valley Golf Course is open for catch-and-release fishing, with only artificial lures and barbless hooks. Anglers at this location must obtain a day-use fishing permit, with a maximum of three anglers per day.

(ii) We allow fishing from ½ hour before legal sunrise to ½ hour after legal sunset.

(iii) We allow only nonmotorized or electric-motor boats in designated areas.

(iv) We prohibit the use of eel chutes, eelpots, and fyke nets.

(v) We prohibit trapping fish for use as bait on the refuge.

(vi) We prohibit the take, collection, capture, killing and possession of any reptile or amphibian on the refuge (see § 27.21 of this chapter).

(b) Erie National Wildlife Refuge—(1) Migratory game bird hunting. We allow hunting of mourning dove, rail, Wilson's snipe, Canada goose, duck, coot, and crow on designated areas of the refuge subject to the following conditions:

(i) We allow hunting activities on the refuge from September 1 through the end of February. We allow scouting for those same dates, and for the 7 days prior to the start of each season.

(ii) We allow only nonmotorized boats for waterfowl hunting in permitted areas.

(iii) We prohibit field possession of migratory game birds in areas of the refuge closed to migratory game bird hunting.

(2) Upland game hunting. We allow hunting of ruffed grouse, squirrel, rabbit, woodchuck, pheasant, quail, raccoon, fox, coyote, skunk, and opossum on designated areas of the refuge subject to the following conditions:

(i) We allow woodchuck hunting on the refuge from September 1 through the end of February.

(ii) We prohibit the use of raptors to take small game.

(3) Big game hunting. We allow hunting of deer, bear, and turkey on designated areas of the refuge.

(4) Sport fishing. We allow sport fishing on designated areas of the refuge subject to the following conditions:

(i) We allow nonmotorized watercraft use in Area 5. Watercraft must remain in an area from the dike to 3,000 feet (900 meters) upstream.

(ii) We prohibit the taking of turtle or frog (see § 27.21 of this chapter).

(iii) We prohibit the collecting or releasing of baitfish.

(iv) We prohibit the taking or possession of shellfish on the refuge (see § 27.21 of this chapter).

(c) John Heinz National Wildlife Refuge at Tinicum. (1)-(2) [Reserved]

(3) Big game hunting. We allow archery-only hunting of white-tailed deer on designated areas of the refuge subject to the following condition: Hunters must possess a refuge hunt permit (FWS Form 3-2439, Hunt Application—National Wildlife Refuge System) and comply with all of its terms and conditions.

(4) Sport fishing. We allow sport fishing on designated areas of the refuge subject to the following conditions:

(i) We allow fishing on the refuge from legal sunrise to legal sunset.

(ii) Anglers may only operate boats, canoes, and floats in tidal waters.

(iii) We prohibit bowfishing or spearfishing on the refuge.

(iv) We prohibit the take, collection, or capture of any reptile or amphibian on the refuge (see § 27.21 of this chapter).

(d) Ohio River Islands National Wildlife Refuge. Refer to § 32.67(b) for regulations.

§ 32.58 Rhode Island.

The following refuge units are open for hunting and/or fishing as governed by applicable Federal and State regulations, and are listed in alphabetical order with additional refuge-specific regulations.

(a) Block Island National Wildlife Refuge. (1)-(2) [Reserved]

(3) Big game hunting. We allow hunting of white-tailed deer on designated areas of the refuge subject to the following conditions:

(i) We require hunters to submit a hunt application (FWS Form 3-2439, Hunt Application—National Wildlife Refuge System) to be selected to hunt on the refuge.

(ii) Hunters must mark portable tree stands/blinds with refuge permit number.

(iii) We prohibit hunting within 100 feet (30 meters) of a refuge trail.

(4) Sport fishing. We allow saltwater fishing from refuge shorelines.

(b) Ninigret National Wildlife Refuge. (1)-(2) [Reserved]

(3) Big game hunting. We allow hunting of white-tailed deer on designated areas of the refuge subject to the following conditions:

(i) We require hunters to submit a hunt application (FWS Form 3-2439, Hunt Application—National Wildlife Refuge System) to be selected to hunt on the refuge.

(ii) Hunters must mark portable tree stands/blinds with refuge permit number.

(iii) We prohibit hunting within 100 feet (30 meters) of a refuge trail.

(4) Sport fishing. We allow saltwater fishing from refuge shorelines.

(c) Sachuest Point National Wildlife Refuge. (1)-(3) [Reserved]

(4) Sport fishing. We allow saltwater fishing on designated areas of the refuge subject to the following conditions:

(i) Anglers may only saltwater fish at Sachuest Beach shoreline from September 16 through March 31.

(ii) Anglers may night-fish after legal sunset with a refuge permit (FWS Form 3-2358).

(d) Trustom Pond National Wildlife Refuge—(1) Migratory game bird hunting. We allow hunting of Canada goose and mourning dove on designated areas of the refuge.

(2)-(3) [Reserved]

(4) Sport fishing. We allow saltwater fishing on designated areas of the refuge subject to the following condition: Anglers may saltwater fish from September 16 through March 31.

§ 32.59 South Carolina.

The following refuge units are open for hunting and/or fishing as governed by applicable Federal and State regulations, and are listed in alphabetical order with additional refuge-specific regulations.

(a) Cape Romain National Wildlife Refuge—(1) Migratory game bird hunting. We allow hunting of marsh hen/rail on designated areas of the refuge subject to the following conditions:

(i) We require each hunter to carry at all times while hunting a signed, current refuge hunt permit (signed brochure) and a government-issued picture identification.

(ii) We prohibit hunting on Sundays.

(iii) Each hunter age 15 and younger must remain within sight and normal voice contact of an adult age 21 or older. Youth hunters must have successfully completed a State-approved hunter education course.

(iv) We allow the use of dogs while hunting for marsh hen/rail.

(2) Upland game hunting. We allow hunting of raccoon on designated areas of the refuge subject to the following conditions:

(i) The conditions set forth at paragraphs (a)(1)(i) through (iii) of this section apply.

(ii) We allow hunting only on days designated annually by the refuge within the State season.

(iii) Each archery hunter must check-in at the camping site on Bulls Island before setting up camp or before starting to hunt. We require each hunter to record his or her State hunting license number in the available register.

(iv) Hunters may camp in the designated camping areas on Bulls Island during the archery white-tailed deer hunts from 9 a.m. on the day preceding the hunt until 12 p.m. (noon) on the day following the hunt.

(v) Hunters must hunt from a tree stand or the ground. We prohibit stalking, driving, corralling, or any other cooperative form of hunting.

(3) Big game hunting. We allow the hunting of white-tailed deer on designated areas of the refuge subject to the following conditions:

(i) The conditions set forth at paragraphs (a)(1)(i) through (iii) and (a)(2)(ii) through (v) of this section apply.

(ii) The refuge designates daily limits for white-tailed deer.

(iii) We prohibit crossbows, muzzleloaders, shotguns, rifles, pistols, and any other firearms or illegal means (as governed by State designations) to take white-tailed deer during the designated refuge archery hunt.

(iv) Hunters much check all white-tailed deer at the refuge check station prior to removal from Bulls Island.

(4) Sport fishing. We allow saltwater fishing and shell fishing on designated areas of the refuge subject to the following conditions:

(i) We prohibit cast nets on the pier at Garris Landing.

(ii) We prohibit anglers or visitors taking, possessing, or transporting more than one 3-quart plastic bag of sea shells per person per day from the refuge.

(b) Carolina Sandhills National Wildlife Refuge—(1) Migratory game bird hunting. We allow hunting of mourning dove and woodcock on designated areas of the refuge subject to the following conditions:

(i) All hunters must carry a signed refuge general hunt permit (signed brochure) and government-issued picture identification.

(ii) Each youth hunter (age 15 and younger) must remain within sight and voice contact and under supervision of an adult age 21 or older.

(iii) We prohibit discharge of any weapon on or across any part of the refuge road system.

(iv) We prohibit the use of outdoor recreational vehicles (ORVs) except by mobility-impaired hunters with a Special Use Permit (FWS Form 3-1383-G) to use ORV in designated areas during specified hunts. Companions assisting disabled hunters must be listed on the Special Use Permit.

(v) For hunting, you may possess shotguns with shot no larger than #5.

(vi) Legal shooting hours for September dove hunts are 12 p.m. (noon) to 6 p.m.

(vii) We prohibit the possession of more than 50 shotgun shells during the September dove hunts.

(2) Upland game hunting. We allow hunting of quail, rabbit, raccoon, and opossum on designated areas of the refuge subject to the following conditions:

(i) The conditions set forth at paragraphs (b)(1)(i) through (iv) of this section apply.

(ii) We require dogs for hunting raccoon and opossum. All dogs must wear a collar displaying the owner's contact information.

(iii) Upland game hunters may possess shotguns with shot no larger than #4, or .22 caliber rimfire rifles or primitive muzzleloading rifles of .40 caliber or smaller. We prohibit possession of buckshot or slugs.

(iv) Upland game hunters using archery equipment must use small game tips on the arrows.

(v) All persons participating in refuge firearms hunts and while en route to and from hunting areas must wear either a hat, coat, or vest of solid blaze orange. This does not apply to raccoon and opossum hunters.

(vi) We prohibit falconry.

(3) Big game hunting. We allow hunting of white-tailed deer, turkey, and feral hog on designated areas of the refuge subject to the following conditions:

(i) The conditions set forth at paragraphs (b)(1)(i), (iii), and (iv) and (b)(2)(v) of this section apply.

(ii) Each youth hunter (age 15 and younger) must remain within sight and voice contact and under supervision of an adult age 21 or older. Each adult may supervise no more than one youth hunter

(iii) Harvested deer, feral hog, or turkey must be checked at the designated check station prior to removing from the refuge. Hunters must complete the Big Game Harvest Report (FWS Form 3-2359).

(iv) During deer and turkey hunts, we prohibit hunters from entering the refuge earlier than 4 a.m. and staying on the refuge later than 2 hours after legal sunset.

(v) During the primitive weapons hunt, you may use bow and arrow, crossbows, muzzleloading shotguns (20 gauge or larger), or muzzleloading rifles (.40 caliber or larger). We prohibit revolving rifles and black-powder handguns.

(vi) During modern gun hunts, you may use shotguns, rifles (centerfire and larger than .22 caliber), handguns (.357 caliber or larger and barrel length no less than 6 inches [15 centimeters (cm)]), or any weapon allowed during the primitive weapons hunt. We prohibit military, hard-jacketed bullets, and .22 caliber rimfire rifles during the modern gun hunts.

(vii) We prohibit organized deer drives. We define a “deer drive” as an organized or planned effort to pursue, drive, chase, or otherwise frighten or cause deer to move in the direction of any person(s) who is part of the organized or planned hunt and known to be waiting for the deer.

(viii) We prohibit adults from possessing or discharging firearms during youth deer or turkey hunts.

(ix) We prohibit placing stands on the refuge more than 3 days prior to the opening day of each big game hunt period. You must remove stands at the end of each hunt period (see § 27.93 of this chapter).

(4) Sport fishing. We allow sport fishing on designated areas of the refuge subject to the following conditions:

(i) We allow fishing from 1 hour before legal sunrise to 1 hour after legal sunset.

(ii) We prohibit bow fishing, fish baskets, nets, set hooks, trotlines, or snagging devices.

(iii) We prohibit snagging of fish by pulling or jerking any device equipped with one or more hooks through the water for the purpose of impaling fish.

(iv) At Mays and Honkers Lakes, the creel limit on largemouth bass is five fish per person per day. All bass must be a minimum length of 12 inches (30 cm).

(v) We designate Oxpen Lake as adult-youth fishing only. A youth (age 15 and younger) must be actively fishing and accompanied by no more than two adults age 18 or older. We prohibit adults fishing unless a youth accompanies them. The creel limit on channel catfish is five fish per person per day.

(vi) We prohibit the use or possession of alcoholic beverages while fishing on the refuge.

(c) Ernest F. Hollings ACE Basin National Wildlife Refuge—(1) Migratory game bird hunting. We allow hunting of duck, goose, and coot on designated areas of the refuge subject to the following conditions:

(i) We require each hunter to carry at all times while hunting a signed, current refuge hunting regulations brochure (signed brochure) containing a refuge hunt permit.

(ii) Each youth hunter (age 15 and younger) must remain within sight and normal voice contact of an adult age 21 or older. Youth hunters must have successfully completed a State-approved hunter education course.

(iii) We only allow hunting until 12 p.m. (noon) each day during the State waterfowl season.

(iv) You must remove portable blinds and decoys at the end of each day's hunt (see § 27.93 of this chapter).

(v) We only allow the use of dogs while hunting.

(vi) We allow scouting all year from legal sunrise to legal sunset.

(vii) You may access the hunt areas only by boat.

(2) [Reserved]

(3) Big game hunting. We allow hunting of white-tailed deer and feral hog on designated areas of the refuge subject to the following conditions:

(i) The conditions set forth at paragraphs (c)(1)(i) and (ii) of this section apply.

(ii) Except for the special quota permit hunts, we allow only archery or muzzleloader hunting. During special quota permit hunts, we allow use of centerfire rifles or shotguns.

(iii) On hunt days, hunters may enter the refuge no earlier than 5 a.m. and must leave the refuge no later than 1 hour after legal sunset.

(iv) We require all deer taken during any hunt to be checked at the designated refuge check station before removal from the refuge. In addition, all deer must be tagged with an antlerless tag (State-issued) provided by the refuge.

(v) The refuge daily bag limit is two antlerless deer and one antlered buck that must have at least three antler points on one side. We define a “point” as an antler projection of at least 1 inch (2.5 centimeters) or more in length.

(vi) You may take feral hogs during refuge deer hunts. There is no size or bag limit on hogs. We may offer special hog hunts during and after deer season to further control this invasive species. We prohibit removal of live hogs from the refuge.

(vii) You must hunt deer and feral hogs from an elevated deer stand. We prohibit shooting big game from a boat.

(viii) All permanently fixed ground blinds are for the mobility-impaired hunt only.

(ix) We prohibit crossbows on the archery hunts. We only allow muzzleloading rifles using a single projectile on the muzzleloader hunts. We prohibit buckshot.

(x) You may use flagging to mark the site of hunter entry from roads or trails and again at the stand site. You may use clothespins with reflective tape between these sites to mark the route to the stand. Hunters must label all such markers with their last name and State hunting license number.

(xi) We require hunters to wear an outer garment visible above the waist that contains a minimum of 500 square inches (3,226 square centimeters) of solid, florescent-orange material at all times during the muzzleloader and mobility-impaired hunts.

(xii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) We allow fishing in impounded waters contained within dikes and levees in the Beaufort County portion of the refuge annually from April 1 through August 31 during daylight hours. We close fishing during all remaining times within all refuge-impounded waters.

(ii) We only allow bank fishing.

(iii) We only allow hook and line sport fishing using rod and reel or pole.

(d) Pinckney Island National Wildlife Refuge. (1)-(2) [Reserved]

(3) Big game hunting. We allow hunting of white-tailed deer on designated areas of the refuge subject to the following conditions:

(i) We only allow hunting on the refuge by lottery.

(ii) We require a refuge hunt permit (electronic form) for all hunters chosen in the lottery who are age 16 and older. You must sign the refuge hunt permit and carry it at all times when hunting.

(iii) Hunters must check-in at the designated check station and park in the designated area prior to hunting. We require personal identification at check-in.

(iv) We prohibit organized deer drives. We define a “deer drive” as an organized or planned effort to pursue, drive, chase, or otherwise frighten or cause deer to move in the direction of any person(s) who is part of the organized or planned hunt and known to be waiting for the deer.

(v) Each hunter may place one stand on the refuge during the week preceding the hunt. You must remove your stand at the end of the hunt (see § 27.93 of this chapter).

(vi) We prohibit the use of buckshot.

(vii) We prohibit hunting closer than 100 yards (90 meters (m)) to U.S. Highway 278 or the check station area, or closer than 200 yards (180 m) to the residence area.

(viii) Refuge personnel must check deer harvested during a scheduled hunt before hunters leave the refuge.

(ix) You may take five deer (no more than two antlered).

(4) Sport fishing. We allow sport fishing on designated areas of the refuge subject to the following conditions:

(i) We allow saltwater fishing year-round in the estuarine waters adjacent to the refuge.

(ii) We prohibit freshwater fishing.

(e) Santee National Wildlife Refuge. (1) [Reserved]

(2) Upland game hunting. We allow hunting of raccoon and opossum on designated areas of the refuge subject to the following conditions:

(i) We allow only primitive weapons. We prohibit hunting with exploding arrows, centerfire rifles, and handguns.

(ii) All refuge hunters age 14 and younger must show proof of successful completion of a hunter-education/safety course. A properly licensed adult age 21 or older must directly supervise (within sight and normal voice contact) hunters age 14 and younger. An adult may supervise only one youth.

(iii) We require hunters to possess a refuge hunt permit (signed refuge hunt brochure), a valid State hunting license, and government-issued picture identification while hunting.

(iv) You must check in all harvested animals at a designated check station. If no refuge employee is present at a designated check station to check the harvested animal, the hunter must record species harvest information on the provided data sheet (FWS Form 3-2405).

(v) You must check all animals taken on the refuge before removing the animal from the refuge and prior to 8:30 p.m. at the check station.

(vi) We require hunters to make a reasonable effort to retrieve wounded game. You must obtain permission from refuge personnel to enter a “No Hunting Zone” or “Closed Area” for any purpose.

(vii) We prohibit hunting from within 100 feet (30 meters (m)) of or across any roadway, whether open or closed to vehicular traffic, or from or within 300 yards (270 m) of any designated hunter check station or residence.

(viii) We open hunting areas from 5 a.m. until 8:30 p.m. during designated hunt periods.

(ix) We allow the use of dogs only for raccoon and opossum hunting. The dogs must wear a collar displaying the owner's contact information.

(x) We allow take of raccoon and opossum only during night hunting from the hours of 6 p.m. to 6 a.m. We prohibit hunting on Saturday nights and Sunday nights. Special State regulations apply for night hunting.

(xi) We only allow take of raccoon and opossum with a shotgun using shot size no larger than #4 or a .22-caliber rimfire rifle. We prohibit possession of buckshot or slugs.

(3) Big game hunting. We allow hunting of white-tailed deer on designated areas of the refuge subject to the following conditions:

(i) The conditions set forth at paragraphs (e)(2)(i) through (viii) of this section apply.

(ii) We prohibit night hunting of deer and feral hogs. On the refuge, we define “nighttime” as from ½ hour after legal sunset to ½ hour before legal sunrise.

(iii) We allow the unlimited incidental take of feral hog while hunting during the day.

(iv) We prohibit trail flagging. You may use clothes pins with reflective tape/tack or commercially made reflective orange glow or trail clips to mark the path to the tree. You must mark all clips and pins with your full name, and you must remove them at the end of the hunt period (see §§ 27.93 and 27.94 of this chapter).

(v) You must hunt deer and feral hog from portable elevated hunting stands. You must wear a safety belt or harness while using a hunting stand. We prohibit ground blinds. We allow only one stand per hunter, and each hunter must clearly mark stands with his or her State hunting license number.

(vi) You may place stands, clothespins, or clips, only on open hunt areas, on the Friday, Saturday, and Sunday immediately prior to each hunt (from 7 a.m. until 5 p.m.). You must remove them by 8:30 p.m. on the last day of each hunt period (see §§ 27.93 and 27.94 of this chapter).

(vii) We open the Plantation Islands (Cuddo Unit) to deer and feral hog hunting only from 5 a.m. until 2:30 p.m.

(viii) Shooting hours are from ½ hour before legal sunrise until ½ hour after legal sunset.

(ix) We allow the use of nonmotorized boats for accessing the unit's interior canals to inland areas open to hunting.

(x) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) Anglers must sign and possess a refuge fishing permit (signed brochure), and possess government-issued picture identification, while fishing on the refuge. We require all recreational fishing boat operators to have one refuge fishing permit per boat.

(ii) We open Cantey Bay (Bluff Unit), Black Bottom (Cuddo Unit), and Savannah Branch (Pine Island Unit) only to boating and fishing, from March 1 through October 31.

(iii) We allow fishing access in interior freshwater canals and ponds only by canoes or kayaks, or by foot or bicycle travel only.

(iv) We prohibit attaching trotlines, bush/limb lines, fishing devices, signs, or any other objects to trees, posts, or markers within refuge boundaries.

(f) Savannah National Wildlife Refuge. Refer to § 32.29(h) for regulations.

(g) Waccamaw National Wildlife Refuge—(1) Migratory game bird hunting. We allow hunting of duck, goose, dove, woodcock, and snipe on designated areas of the refuge subject to the following conditions:

(i) You must possess and carry at all times while hunting a signed, current refuge hunting regulations brochure (signed brochure), which serves as the hunt permit.

(ii) Each youth hunter age 15 and younger must remain within sight, within normal voice contact, and under the supervision of an adult age 21 or older, except when participating in the Federal youth days waterfowl hunt, when the youth hunter must be under the supervision of an adult age 18 or older. We do not require youth hunters to have a hunter-education card for migratory gamebird hunting, but they must possess a signed refuge hunting regulations brochure. The supervising adult must comply with all State and Federal hunting license requirements and also possess a signed refuge hunting regulations brochure. Each supervising adult may supervise no more than two youths.

(iii) We allow waterfowl hunting only until 12 p.m. (noon) each Saturday and Wednesday during the State waterfowl season. Hunters may enter the refuge no earlier than 5 a.m. on hunt days and must be off the refuge by 2 p.m.

(iv) We allow scouting Monday through Friday during the waterfowl season. Hunters must be off the refuge by 2 p.m.

(v) Hunters must remove portable blinds and decoys from the refuge at the end of each day's hunt (see § 27.93 of this chapter).

(vi) We allow the use of dogs only while hunting. We require dogs to wear a collar displaying the owner's contact information.

(2) Upland game hunting. We allow hunting of gray squirrel, raccoon, and opossum on designated areas of the refuge subject to the following conditions:

(i) The conditions set forth at paragraphs (g)(1)(i), (ii), and (vi) of this section apply.

(ii) We allow hunting only on days designated annually by the refuge within the State season.

(iii) You may possess only nontoxic shot (see § 32.2(k)) no larger than #2 in shotguns for hunting. We allow .22-caliber rimfire rifles.

(iv) We prohibit shooting any game from a boat except waterfowl.

(v) We prohibit upland game hunting during refuge big game hunts.

(3) Big game hunting. We allow hunting of white-tailed deer, feral hog, and turkey on designated areas of the refuge subject to the following conditions:

(i) The conditions set forth at paragraphs (g)(1)(i) and (g)(2)(ii) and (iv) of this section apply.

(ii) We allow archery, muzzleloading (black powder), rifles (centerfire larger than .22 caliber), and shotguns according to refuge unit-specific regulations. We allow muzzleloading rifles that use only a single projectile on the muzzleloader hunts. We prohibit buckshot, rimfire ammunition, and full-metal-jacketed military ammunition.

(iii) We allow scouting all year during daylight hours except during the State waterfowl season. During the waterfowl season, the same regulations that apply to scouting for waterfowl (paragraph (g)(1)(iv) of this section) apply to scouting for big game species.

(iv) Hunters may enter the refuge no earlier than 5 a.m. on hunt days and must leave the refuge no later than 1 hour after legal sunset.

(v) We allow harvest of only one antlered deer for each hunt session; you may not exceed harvest of a total of three antlered deer per year. We allow harvest of three antlerless deer per season; you may not exceed harvest of more than two antlerless deer per day.

(vi) You may take feral hogs during refuge deer hunts. There is no size or bag limit on hogs.

(vii) We prohibit hunting on or within 100 feet (30 meters) of all routes marked as roads or trails on the hunt brochure map.

(viii) You must hunt deer and feral hog from an elevated hunting stand.

(ix) We allow only one portable tree stand per hunter, and you must clearly mark it with your State hunting license number. We prohibit placing deer stands on the refuge more than 3 days prior to the opening day of a hunting session. Hunters must remove stands from the refuge no later than 3 days after each refuge big game hunt (see § 27.93 of this chapter).

(x) We allow hunters to use flagging to mark the site of hunter entry from roads or trails and again at the stand site. We allow hunters to use clothes pins with reflective tape between entry and stand sites to mark the route to the stand. You must label all pins with your last name, and you must remove them at the end of the hunt (see §§ 27.93 and 27.94 of this chapter).

(xi) We require hunters to wear an outer garment visible above the waist that contains a minimum of 500 square inches (3,226 square centimeters) of solid, fluorescent-orange material at all times during big game hunts except for wild turkey.

(xii) We prohibit organized drives. We define a “drive” as an organized or planned effort to pursue, drive, chase, or otherwise frighten or cause game to move in the direction of any person(s) who is part of the organized or planned hunt and known to be waiting for the game.

(xiii) We allow crossbows only during the big game hunting sessions, when we allow muzzleloaders and modern weapons.

(xiv) Each youth hunter age 15 and younger must remain within sight, within normal voice contact, and under supervision of an adult age 21 or older. Each youth hunter must possess a signed refuge hunting regulations brochure. We require youth hunters who are sitting in a hunting stand by themselves to possess a valid hunter-education card. The supervising adult must comply with all State and Federal hunting license requirements and possess a signed refuge hunting regulations brochure. Each supervising adult may supervise a maximum of one youth.

(xv) We only allow deer and hog hunting on the uplands of Sandy Island during a special archery-only lottery hunt. Hunters must apply for lottery entry (name/address/phone number) and are chosen by a random selection process. There is a quota on the number of hunters selected for this hunt.

(4) Sport fishing. We allow fishing on designated areas of the refuge.

§ 32.60 South Dakota.

The following refuge units are open for hunting and/or fishing as governed by applicable Federal and State regulations, and are listed in alphabetical order with additional refuge-specific regulations.

(a) Huron Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district.

(4) Sport fishing. We allow sport fishing on designated areas of the district subject to the following condition: You must remove boats, motor vehicles, fishing equipment, and other personal property (excluding ice houses) by the end of each day's hunt (see §§ 27.93 and 27.94 of this chapter).

(b) LaCreek National Wildlife Refuge—(1) Migratory game bird hunting. We allow the hunting of goose, duck, coot, common snipe, sandhill crane, American crow, and mourning dove on designated areas of the refuge.

(2) Upland game hunting. We allow the hunting of ring-necked pheasant and sharp-tailed grouse on designated areas of the refuge subject to the following condition: Hunters may remain on the refuge no longer than ½ hour after legal sunset.

(3) Big game hunting. We allow hunting of white-tailed and mule deer on designated areas of the refuge subject to the following conditions:

(i) All archery deer hunters must possess and carry a refuge permit (signature required).

(ii) Deer hunters may enter the refuge 1½ hours before legal sunrise and remain no longer than 1½ hours after legal sunset.

(iii) Hunters may leave portable tree stands and free-standing elevated platforms on the refuge from the first Saturday after August 25 through February 15. Hunters must remove all other personal property by the end of the day's hunt (see § 27.93 of this chapter).

(iv) We close the refuge to archery hunting during refuge firearm seasons.

(4) Sport fishing. We allow sport fishing on designated areas of the refuge subject to the following conditions:

(i) We prohibit the use or possession of live minnows or bait fish in Pools 3, 4, 7, and 10 and the Cedar Creek Trout Ponds.

(ii) We open designated fishing areas from ½ hour before legal sunrise to ½ hour after legal sunset, except the Little White River Recreation Area.

(c) Lake Andes National Wildlife Refuge—(1) Migratory game bird hunting. We allow migratory game bird hunting on designated areas of the refuge.

(2) Upland game hunting. We allow upland game hunting on designated areas of the refuge.

(3) Big game hunting. We allow big game hunting on designated areas of the refuge.

(4) Sport fishing. We allow sport fishing on designated areas of the refuge subject to the following condition: You must remove all boats, motor vehicles, fishing equipment, and other personal property, excluding ice houses, by the end of each day's hunt (see §§ 27.93 and 27.94 of this chapter).

(d) Lake Andes Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district subject to the following condition: You must remove portable ground blinds and other personal property at the end of each day's hunt (see §§ 27.93 and 27.94 of this chapter).

(4) Sport fishing. We allow sport fishing on designated areas of the district subject to the following condition: You must remove boats, motor vehicles, fishing equipment, and other personal property (excluding ice houses) by the end of each day's fishing activity (see §§ 27.93 and 27.94 of this chapter).

(e) Madison Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district subject to the following condition: You must remove portable ground blinds and other personal property by the end of each day's hunt (see §§ 27.93 and 27.94 of this chapter).

(4) Sport fishing. We allow sport fishing on designated areas of the district subject to the following condition: You must remove boats, motor vehicles, fishing equipment, and other personal property (excluding ice houses) by the end of each day's fishing activity (see §§ 27.93 and 27.94 of this chapter).

(f) Sand Lake National Wildlife Refuge—(1) Migratory game bird hunting. We allow hunting of waterfowl on designated portions of the refuge subject to the following condition: Unarmed waterfowl hunters on the perimeter of the refuge may retrieve downed waterfowl up to 100 yards (90 meters) inside the refuge boundary.

(2) Upland game hunting. We allow hunting of pheasant, sharp-tailed grouse, and partridge on designated portions of the refuge subject to the following conditions:

(i) We allow hunting of upland game birds from the Monday following closure of the refuge firearms deer season through the first Sunday in January.

(ii) Hunters may enter the refuge no earlier than 10 a.m. each day.

(3) Big game hunting. We allow hunting of deer on designated areas of the refuge subject to the following conditions:

(i) Only firearms deer hunters possessing and carrying a State-issued Sand Lake refuge permit may hunt deer on the refuge.

(ii) We allow portable tree stands; portable, elevated hunting platforms not attached to trees; and portable ground blinds only.

(iii) You may place your tree stand(s), elevated platform(s), and/or ground blind(s) on the refuge only during your designated licensed season. You must remove these stands/blinds by the end of your designated licensed season (see § 27.93 of this chapter).

(iv) Deer hunters may enter the refuge 1 hour before legal shooting time and remain no longer than 1 hour after shooting time ends.

(v) We allow vehicles on designated refuge roads only for retrieving harvested deer and only during the following times: 9:30 to 10 a.m., 1:30 to 2 p.m., and from the end of legal shooting time to 1 hour after the end of shooting time (see § 27.31 of this chapter).

(4) Sport fishing. We allow sport fishing on designated areas of the refuge subject to the following conditions:

(i) Fishing hours are ½ hour before legal sunrise to ½ hour after legal sunset.

(ii) We allow ice fishing shanties, but anglers must remove them at the end of each day's fishing activity (see § 27.93 of this chapter).

(g) Sand Lake Wetland Management District—(1) Migratory game bird hunting. We allow migratory game bird hunting on designated areas of the district and subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district subject to the following conditions:

(i) We allow hunters to leave portable tree stands and free-standing elevated platforms on waterfowl production areas from the first Saturday after August 25 through February 15.

(ii) You must remove portable ground blinds, trail cameras, and other personal property by the end of each day's hunt (see §§ 27.93 and 27.94 of this chapter).

(4) Sport fishing. We allow sport fishing on designated areas of the district subject to the following condition: You must remove boats, motor vehicles, fishing equipment, and other personal property (excluding ice houses) by the end of each day's fishing activity (see §§ 27.93 and 27.94 of this chapter).

(h) Waubay National Wildlife Refuge. (1)-(2) [Reserved]

(3) Big game hunting. We allow deer hunting on designated areas of the refuge subject to the following conditions:

(i) Hunters must remove stands by the end of the hunt (see § 27.93 of this chapter).

(ii) Hunters may launch nonmotorized watercraft from designated access points to travel to islands.

(iii) We close archery seasons during refuge firearm seasons.

(iv) We prohibit organized deer drives during archery season. We define a “deer drive” as an organized or planned effort to pursue, drive, chase, or otherwise frighten or cause deer to move in the direction of any person(s) who is part of the organized or planned hunt and known to be waiting for the deer.

(4) Sport fishing. We allow ice fishing on designated areas of the refuge subject to the following conditions:

(i) We prohibit open water fishing at any time.

(ii) Anglers must not be on the ice until 1 hour prior to legal sunrise and must be off the ice by 1 hour after legal sunset.

(iii) Anglers must remove ice shacks by 1 hour after legal sunset (see § 27.93 of this chapter).

(iv) We restrict angler foot travel to posted access points, public roads, and lake ice.

(i) Waubay Wetland Management District—(1) Migratory game bird hunting. We allow migratory game bird hunting on designated areas of the district subject to the following condition: You must remove boats, decoys, portable blinds, other personal property, and any materials brought onto the area for blind construction by the end of each day's hunt (see §§ 27.93 and 27.94 of this chapter).

(2) Upland game hunting. We allow upland game hunting on designated areas of the district.

(3) Big game hunting. We allow big game hunting on designated areas of the district subject to the following conditions:

(i) We allow hunters to leave portable tree stands and free-standing elevated platforms on waterfowl production areas from the first Saturday after August 25 through February 15.

(ii) You must remove portable ground blinds and other personal property by the end of each day's hunt (see §§ 27.93 and 27.94 of this chapter).

(4) Sport fishing. We allow sport fishing on designated areas of the district subject to the following condition: You must remove boats, motor vehicles, fishing equipment, and other personal property (excluding ice houses) by the end of each day's fishing activity (see §§ 27.93 and 27.94 of this chapter).

§ 32.61 Tennessee.

The following refuge units are open for hunting and/or fishing as governed by applicable Federal and State regulations, and are listed in alphabetical order with additional refuge-specific regulations.

(a) Chickasaw National Wildlife Refuge—(1) Migratory game bird hunting. We allow hunting of duck, goose, coot, merganser, mourning dove, woodcock, and snipe on designated areas of the refuge subject to the following conditions:

(i) You must possess and carry a signed refuge permit (signed refuge brochure) and comply with all permit provisions.

(ii) We allow hunting for duck, goose, coot, and merganser from ½ hour before legal sunrise to 12 p.m. (noon). We allow hunters to access the refuge no more than 2 hours before legal sunrise.

(iii) We close mourning dove, woodcock, and snipe seasons during all youth and muzzleloader hunts, and during the first 4 weeks of firearms deer seasons.

(iv) You may use only portable blinds, and you must remove all boats, blinds, and decoys from the refuge by 1 p.m. each day (see § 27.93 of this chapter).

(2) Upland game hunting. We allow hunting of squirrel, rabbit, quail, coyote, beaver, raccoon, and opossum on designated areas of the refuge subject to the following conditions:

(i) The condition set forth at paragraph (a)(1)(i) of this section applies.

(ii) We allow hunters to access the refuge no more than 2 hours before legal sunrise to no later than 2 hours after legal sunset, except that raccoon and opossum hunters may access the refuge from legal sunset to legal sunrise.

(iii) We close squirrel, rabbit, and quail seasons during all youth and muzzleloader hunts, and during the first 4 weeks of firearms deer seasons.

(iv) We close raccoon and opossum seasons on Friday and Saturday nights during all firearms, youth, and muzzleloader deer hunts and seasons, including the Friday night prior to any hunt or season that opens on a Saturday morning.

(v) You may take coyote and beaver incidental to legal hunting activities with legal methods of take for those hunts.

(3) Big game hunting. We allow hunting of white-tailed deer and turkey on designated areas of the refuge subject to the following conditions:

(i) The conditions set forth at paragraphs (a)(1)(i) and (a)(2)(ii) and (v) of this section apply.

(ii) You may only participate in the refuge quota hunts with a special quota permit issued through random drawing (electronic form).

(4) Sport fishing. We allow sport fishing on designated areas of the refuge subject to the following conditions:

(i) We allow fishing only with pole and line, or rod and reel.

(ii) We allow the use of bow and arrow, or a gig, to take nongame fish on refuge waters.

(iii) We prohibit taking frog or turtle on the refuge (see § 27.21 of this chapter).

(b) Cross Creeks National Wildlife Refuge—(1) Migratory game bird hunting. We allow hunting of Canada goose on designated areas of the refuge subject to the following conditions:

(i) We require a refuge hunt permit (electronic form) for all hunters age 17 and older. You must carry a valid refuge permit while hunting on the refuge.

(ii) The annual refuge hunting and fishing regulations brochure provides season dates and bag limits.

(iii) We prohibit hunting within 50 yards (45 meters) of any building, public use road, or boat launching ramp.

(iv) We allow hunters to access the refuge from 2 hours before legal sunrise to 2 hours after legal sunset.

(v) We allow the use of dogs to retrieve geese.

(vi) You may use only portable blinds, and you must remove all boats, blinds, and decoys from the refuge at the end of each day's hunt (see § 27.93 of this chapter).

(vii) We allow the take of beaver and coyote incidental to legal hunting activities with legal methods of take for those hunts.

(2) Upland game hunting. We allow hunting of squirrel, beaver, and coyote on designated areas of the refuge subject to the following condition: The conditions set forth at paragraphs (b)(1)(i) through (iv) and (vii) of this section apply.

(3) Big game hunting. We allow the hunting of white-tailed deer and turkey on designated areas of the refuge subject to the following conditions:

(i) The conditions set forth at paragraphs (b)(2)(i) through (iv) and (b)(1)(vii) of this section apply.

(ii) We only allow the use of portable blinds and tree stands on the refuge. You must remove blinds, tree stands, and all other personal equipment from the refuge at the end of each day's hunt (see § 27.93 of this chapter).

(iii) You may only participate in the refuge quota deer hunts with a special quota permit (electronic form) issued through random drawing.

(iv) Each youth hunter age 16 and younger must remain within sight of and normal voice contact of an adult age 21 or older. One adult hunter may supervise no more than one youth hunter.

(4) Sport fishing. We allow sport fishing on designated areas of the refuge subject to the following conditions:

(i) We allow fishing on the refuge pools and reservoirs from March 16 through November 14, from ½ hour before legal sunrise to ½ hour after legal sunset.

(ii) We prohibit trotlines, limblines, jugs, and slat baskets in refuge pools and impoundments and on Elk Reservoir and South Cross Creeks Reservoir.

(iii) We prohibit taking frog, turtle, and crawfish on the refuge (see § 27.21 of this chapter).

(iv) We allow bow fishing in refuge impoundments and on Barkley Lake.

(c) Hatchie National Wildlife Refuge—(1) Migratory game bird hunting. We allow hunting of duck, goose, coot, merganser, mourning dove, woodcock, and snipe on designated areas of the refuge subject to the following conditions:

(i) You must possess and carry a signed refuge permit (signed refuge brochure) and comply with all permit provisions.

(ii) We allow hunting for duck, goose, coot, and merganser from ½ hour before legal sunrise until 12 p.m. (noon). We allow hunters to access the refuge no earlier than 2 hours before legal sunrise.

(iii) We close mourning dove, woodcock, and snipe seasons during all quota gun and youth deer gun hunts.

(iv) You may use only portable blinds, and you must remove all boats, blinds, and decoys from the refuge by 1 p.m. each day (see § 27.93 of this chapter).

(2) Upland game hunting. We allow hunting of squirrel, rabbit, quail, coyote, beaver, raccoon, and opossum on designated areas of the refuge subject to the following conditions:

(i) The condition set forth at paragraph (c)(1)(i) of this section applies.

(ii) We allow hunters to access the refuge no earlier than 2 hours before legal sunrise to no later than 2 hours after legal sunset, except that raccoon and opossum hunters may access the refuge from legal sunset to legal sunrise.

(iii) We close all small game hunts during the refuge deer quota and youth gun hunts.

(iv) You may take coyote and beaver incidental to legal hunting activities with legal methods of take for those hunts.

(3) Big game hunting. We allow hunting of white-tailed deer and turkey on designated areas of the refuge subject to the following conditions:

(i) The conditions set forth at paragraphs (c)(1)(i) and (c)(2)(ii) and (iv) of this section apply.

(ii) You may only participate in the refuge deer quota hunts with a special quota permit (electronic form) issued through random drawing.

(4) Sport fishing. We allow sport fishing on designated areas of the refuge subject to the following conditions:

(i) We allow fishing only with pole and line, or rod and reel.

(ii) We allow use of a bow and arrow, or gig, to take nongame fish on refuge waters.

(iii) We prohibit taking frog or turtle on the refuge (see § 27.21 of this chapter).

(iv) We open Oneal Lake for fishing during a restricted season and for authorized special events.

(v) We only allow fishing boats of 18 feet (5.5 meters) or less in length on refuge lakes.

(d) Lake Isom National Wildlife Refuge. (1) [Reserved]

(2) Upland game hunting. We allow hunting of squirrel, coyote, beaver, and raccoon on designated areas of the refuge subject to the following conditions:

(i) You must possess and carry a signed refuge permit (signed refuge brochure) and comply with all permit provisions.

(ii) We allow hunters to access the refuge no earlier than 2 hours before legal sunrise to no later than 2 hours after legal sunset, except that raccoon hunters may access the refuge from legal sunset to legal sunrise.

(iii) You may take coyote and beaver incidental to legal hunting activities with legal methods of take for those hunts.

(3) Big game hunting. We allow only archery hunting for white-tailed deer on designated areas of the refuge subject to the following condition: The conditions set forth at paragraphs (d)(2)(i) through (iii) of this section apply.

(4) Sport fishing. We allow sport fishing on designated areas of the refuge subject to the following conditions:

(i) We open all waters of Lake Isom to fishing only from March 16 through November 14, and from legal sunrise to legal sunset.

(ii) We prohibit taking frog or turtle from refuge waters (see § 27.21 of this chapter).

(iii) We allow fishing only with pole and line, or rod and reel.

(iv) We allow use of a bow and arrow, or a gig, to take nongame fish on refuge waters.

(e) Lower Hatchie National Wildlife Refuge—(1) Migratory game bird hunting. We allow hunting of duck, goose, coot, merganser, mourning dove, woodcock, and snipe on designated areas of the refuge subject to the following conditions:

(i) You must possess and carry a signed refuge permit (signed refuge brochure) and comply with all permit provisions.

(ii) We allow hunting for duck, goose, coot, and merganser from ½ hour before legal sunrise to 12 p.m. (noon). We allow hunters to access the refuge no earlier than 2 hours before legal sunrise.

(iii) We close mourning dove, woodcock, and snipe seasons all youth and muzzleloader hunts, and during the first 4 weeks of firearms deer seasons.

(iv) You may use only portable blinds, and you must remove all boats, blinds, and decoys from the refuge by 1 p.m. each day (see § 27.93 of this chapter).

(2) Upland game hunting. We allow hunting of squirrel, rabbit, quail, coyote, beaver, raccoon, and opossum on designated areas of the refuge subject to the following conditions:

(i) The condition set forth at paragraph (e)(1)(i) of this section applies.

(ii) We allow hunters to access the refuge no more than 2 hours before legal sunrise to no more than 2 hours after legal sunset, except that raccoon and opossum hunters may access the refuge from legal sunset to legal sunrise.

(iii) We close squirrel, rabbit, and quail seasons during all youth and muzzleloader hunts, and during the first 4 weeks of firearms deer seasons.

(iv) We close raccoon and opossum seasons on Friday and Saturday nights during all firearms, youth, and muzzleloader deer hunts and seasons, including the Friday night prior to any hunt or season that opens on a Saturday morning.

(v) You may take coyote and beaver incidental to legal hunting activities with legal methods of take for those hunts.

(3) Big game hunting. We allow hunting of white-tailed deer and turkey on designated areas of the refuge subject to the following conditions:

(i) The conditions set forth at paragraphs (e)(1)(i) and (e)(2)(ii) and (v) of this section apply.

(ii) You may participate in the refuge quota hunts only with a special quota permit (electronic form) issued through random drawing.

(4) Sport fishing. We allow sport fishing on designated areas of the refuge and the Sunk Lake Public Use Natural Area as governed by State regulations and subject to the following conditions:

(i) We allow fishing only from legal sunrise to legal sunset.

(ii) We allow fishing only with pole and line, or rod and reel.

(iii) We allow use of a bow and arrow, or a gig, to take nongame fish on refuge waters.

(iv) We prohibit taking frog or turtle on the refuge (see § 27.21 of this chapter).

(f) Reelfoot National Wildlife Refuge. (1) [Reserved]

(2) Upland game hunting. We allow hunting of squirrel, coyote, beaver, and raccoon on designated areas of the refuge subject to the following conditions:

(i) You must possess and carry a signed refuge permit (signed refuge brochure) and comply with all permit provisions.

(ii) We allow hunters to access the refuge no earlier than 2 hours before legal sunrise to no later than 2 hours after legal sunset, except that raccoon hunters may access the refuge from legal sunset to legal sunrise.

(iii) You may take coyote and beaver incidental to legal hunting activities with legal methods of take for those hunts.

(3) Big game hunting. We allow hunting for white-tailed deer and turkey on designated areas of the refuge subject to the following conditions:

(i) The conditions set forth at paragraphs (f)(2)(i) through (iii) of this section apply.

(ii) You may participate in the refuge firearms deer and turkey quota hunts only with a special quota permit (electronic form) issued through random drawing.

(4) Sport fishing. We allow sport fishing on designated areas of the refuge subject to the following conditions:

(i) We allow access to the Long Point Unit (north of Upper Blue Basin) for fishing from March 16 through November 14, and the Grassy Island Unit (south of Upper Blue Basin) for fishing from February 1 through November 14.

(ii) We allow fishing on the refuge from legal sunrise to legal sunset.

(iii) We prohibit taking of frog or turtle on the refuge (see § 27.21 of this chapter).

(g) Tennessee National Wildlife Refuge—(1) Migratory game bird hunting. We allow hunting of Canada goose on designated areas of the refuge subject to the following conditions:

(i) We require a refuge hunt permit (name and address) for all hunters age 17 and older. You must carry a valid refuge permit while hunting on the refuge.

(ii) The annual refuge hunting and fishing regulations brochure provides season dates and bag limits.

(iii) We prohibit hunting within 50 yards (45 meters) of any building, public use road, or boat launching ramp.

(iv) We allow hunters to access the refuge from 2 hours before legal sunrise to 2 hours after legal sunset, except as provided under paragraph (g)(2)(ii) of this section.

(v) Youth hunters age 16 and younger must remain in sight of and normal voice contact with an adult hunter age 21 or older. One adult hunter may supervise no more than two youth hunters.

(vi) We allow the use of dogs to retrieve geese.

(vii) You may use only portable blinds, and you must remove all boats, blinds, and decoys from the refuge at the end of each day's hunt (see § 27.93 of this chapter).

(viii) We allow the take of beaver and coyote incidental to legal hunting activities with legal methods of take for those hunts.

(2) Upland game hunting. We allow hunting of squirrel, coyote, beaver, and raccoon on designated areas of the refuge subject to the following conditions:

(i) The conditions set forth at paragraphs (g)(1)(i) through (v) and (viii) of this section apply.

(ii) We allow hunting for raccoon from legal sunset to legal sunrise.

(3) Big game hunting. We allow hunting of white-tailed deer and turkey on designated areas of the refuge subject to the following conditions:

(i) The conditions set forth at paragraphs (g)(1)(i) through (iv) and (viii) of this section apply.

(ii) Youth hunters age 16 and younger must remain in sight of and normal voice contact with an adult hunter age 21 or older. One adult hunter may supervise no more than one youth hunter.

(iii) You may participate in the refuge quota deer hunts only with a special quota permit (electronic form) issued through random drawing.

(iv) We allow the use of only portable blinds and tree stands on the refuge. You must remove blinds, tree stands, and all other personal equipment from the refuge at the end of each day's hunt (see § 27.93 of this chapter).

(4) Sport fishing. We allow sport fishing on designated areas of the refuge subject to the following conditions:

(i) We allow fishing in Swamp Creek, Sulphur Well Bay, and Bennetts Creek from March 16 through November 14. We open the remainder of the refuge portion of Kentucky Lake to fishing year-round. We allow bank fishing year-round along Refuge Lake from the New Johnsonville Pump Station.

(ii) We allow fishing on interior refuge impoundments from ½ hour before legal sunrise to ½ hour after legal sunset from March 16 to November 14.

(iii) We prohibit taking frog, turtle, and crawfish on the refuge (see § 27.21 of this chapter).

(iv) We prohibit trotlines, limblines, jugs, and slat baskets in refuge pools and impoundments.

(v) We allow bow fishing in refuge impoundments and on Kentucky Lake.

§ 32.62 Texas.

The following refuge units are open for hunting and/or fishing as governed by applicable Federal and State regulations, and are listed in alphabetical order with additional refuge-specific regulations.

(a) Anahuac National Wildlife Refuge—(1) Migratory game bird hunting. We allow hunting of goose, duck, coot, white-winged, mourning, rock, and Eurasian collared-dove, and rock pigeon on designated areas of the refuge subject to the following conditions:

(i) You must carry a current signed refuge hunting permit (signed tearsheet) while waterfowl hunting on all refuge hunt units.

(ii) Season dates for waterfowl will be concurrent with the State, except as specified in the refuge hunting permit (signed tearsheet).

(iii) Hunters age 17 and younger must be under the direct supervision of an adult age 18 or older.

(iv) For waterfowl hunting, you may enter the refuge hunt units no earlier than 4 a.m. Hunting starts at the designated legal shooting time and ends at 12 p.m. (noon). You must leave refuge hunt units by 12:30 p.m. For dove hunting, you may enter the refuge 1 hour before legal sunrise and must leave the refuge by ½ hour after legal sunset. We close refuge hunt units on Thanksgiving, Christmas, and New Year's Day.

(v) For waterfowl hunting, we allow hunting in portions of the East Unit on Saturdays, Sundays, and Tuesdays during the regular waterfowl seasons.

(vi) Hunters must check in and out through the check station (FWS Form 3-2405) when accessing the East Unit by vehicle.

(vii) We require hunters to remain in an assigned area for that day's hunt.

(viii) We allow hunters to access designated areas of the East Unit by boat from Jackson Ditch, East Bay Bayou, or Onion Bayou.

(ix) We allow hunting on the East Unit as governed by the State light goose conservation order. Hunt areas are by permit on a first-come, first-served basis the morning of the hunt. We allow a maximum of six persons per field. Individuals in each group must set up and stay in their permitted area and stay within 50 feet (15 meters (m)) of each other unless retrieving goose.

(x) Hunters must set up within 50 yards (45 m) of the post marker and must stay within 50 feet (15 m) of each other unless retrieving waterfowl. We allow a minimum of two, and a maximum of six, persons per permit.

(xi) We allow hunting in portions of the Middleton Tract daily during the September teal season and on Saturdays, Sundays, and Wednesdays of the regular waterfowl season.

(xii) We restrict motorized boats in inland waters of the Middleton Tract to motors of 25 horsepower or less or electric trolling motors during hunting season.

(xiii) On inland waters of refuge hunt areas open to motorized boats, we restrict the operation of motorized boats to lakes, ponds, ditches, and other waterways when hunting. We prohibit the operation of motorized boats on or through emergent wetland vegetation.

(xiv) On inland waters of the refuge hunt areas open to motorized boats, we restrict the use of boats powered by air-cooled or radiator-cooled engines to those powered by a single engine of 25 horsepower or less and utilizing a propeller 9 inches (22.5 centimeters) in diameter or less during the hunting season.

(xv) We allow portable blinds or temporary natural vegetation blinds. You must remove all blinds, decoys, boats, spent shells, marsh chairs, and other equipment from the refuge at the end of each day's hunt (see §§ 27.93 and 27.94 of this chapter).

(xvi) We require a minimum distance between hunt parties of 200 yards (180 m).

(xvii) We allow the use of dogs when hunting.

(2)-(3) [Reserved]

(4) Sport fishing. We allow fishing and crabbing on designated areas of the refuge subject to the following conditions:

(i) We allow fishing and crabbing only with pole and line, rod and reel, or handheld line. We prohibit the use any method not expressly allowed, including trotlines, setlines, jug lines, limb lines, bows and arrows, gigs, spears, or crab traps.

(ii) We allow cast netting for bait for personal use along waterways in areas open to the public and along public roads.

(b) Aransas National Wildlife Refuge—(1) Migratory game bird hunting. We allow hunting of duck, goose, coot, and merganser on designated areas of the refuge subject to the following conditions:

(i) For the Matagorda Island upland units, each adult hunter age 17 or older must possess an annual public hunting permit administered by the State.

(ii) Hunting starts at the designated legal shooting time and ends at 12 p.m. (noon) on the Matagorda Island upland units. Hunters must leave upland units by 12:30 p.m. Authorized hunting on other designated areas begins 30 minutes before legal sunrise and ends at legal sunset.

(iii) Hunters age 17 and younger must be under the direct supervision of an adult age 18 or older.

(iv) We allow portable blinds or temporary natural vegetation blinds. You must remove all blinds, decoys, boats, spent shells, marsh chairs, and other equipment from the refuge at the end of each day's hunt (see §§ 27.93 and 27.94 of this chapter).

(v) For the Matagorda Island upland units, we require all hunters to check in and out at the hunter check station located on the north end of the Island.

(vi) We allow the use of dogs when hunting.

(2) [Reserved]

(3) Big game hunting. We allow hunting of white-tailed deer and feral hog on designated areas of the refuge subject to the following conditions:

(i) The condition set forth at paragraph (b)(1)(iii) of this section applies.

(ii) On the Blackjack and Tatton Units, we allow hunting subject to the following conditions:

(A) We allow sprays and other non-ingestible attractants.

(B) All hunters must fill out FWS Form 3-2359 (Big Game Harvest Report) upon leaving the hunt area.

(C) For the archery and rifle season, hunters must obtain a refuge self-clearing permit (FWS Form 3-2405).

(D) The annual refuge hunt brochure provides bag limits.

(E) Hunters must field dress all harvested game in the field.

(F) We prohibit hunting on or across any part of the refuge road system, or hunting from a vehicle on any refuge road or road right-of-way. Hunters must remain at a minimum of 100 yards (90 meters) off any designated refuge road or structure.

(G) We prohibit hunters using handguns during archery and rifle hunts.

(H) We allow use of portable hunting stands, stalking of game, and still-hunting. There is a limit of two portable stands per permitted hunter. A hunter may set up the portable stands during the scouting day, but must remove them when the hunter's permit expires (see § 27.93 of this chapter).

(I) We allow the use of only biodegradable flagging tape to mark trails and hunt stand location during the archery and rifle hunts on the refuge. You must write your last name in black permanent marker on the first piece of flagging tape nearest the adjacent designated roadway.

(iii) On the Matagorda Island Unit, we allow hunting subject to the following conditions:

(A) The conditions set forth at paragraphs (b)(3)(ii)(A) through (I) of this section apply.

(B) We require all hunters to stay in their designated stand unless they are retrieving game. We prohibit stalking of game.

(C) Each adult hunter may supervise up to two youth hunters.

(4) Sport fishing. We allow sport fishing and fishing access on designated areas of the refuge subject to the following conditions:

(i) We prohibit the use of crab traps in marshes within the boundary of any refuge unit.

(ii) Beginning April 15 through October 15, you may access State waters for fishing at areas designated in the refuge fishing brochure. From October 16 through April 14, we open to fishing only the area adjacent to the picnic area off of the fishing pier; we allow wade fishing access in that immediate area. You may fish all year in the bayside marsh unit and the Gulf side beach of Matagorda Island.

(iii) We prohibit consumption of alcohol or possession of open alcohol containers while fishing.

(c) Balcones Canyonlands National Wildlife Refuge—(1) Migratory game bird hunting. We allow hunting of mourning, white-wing, rock, and Eurasian-collared dove on designated areas of the refuge subject to the following conditions:

(i) We allow hunters in designated area(s) from 12 p.m. (noon) to legal sunset.

(ii) We require refuge permits (name only).

(iii) We allow the use of dogs to retrieve game birds during the hunt.

(iv) Hunters age 17 and younger must be under the direct supervision of an adult age 18 or older.

(v) Hunter may bring up to two guests. Guests may not use a hunting firearm. Guests must be with the hunter at all times.

(2) Upland game hunting. We allow hunting of wild turkey on designated areas of the refuge subject to the following conditions:

(i) The conditions set forth at paragraphs (c)(1)(ii) and (iv) of this section apply.

(ii) We require hunters to check in and out daily at designated check station(s).

(iii) The annual refuge hunt brochure provides bag limits.

(iv) We allow the use of all-terrain vehicles (ATVs) to retrieve downed game.

(v) We allow scent attractants.

(vi) A hunter may bring one guest. The guest may not use a hunting firearm or other hunting weapon (archery). The guest may assist the hunter in game retrieval or field dressing activities. The guest must be with the hunter at all times.

(3) Big game hunting. We allow hunting of white-tailed deer and feral hog on designated areas of the refuge subject to the following conditions: The conditions set forth at paragraphs (c)(1)(iv) and (c)(2)(ii) through (vi) of this section apply.

(4) [Reserved]

(d) Big Boggy National Wildlife Refuge—(1) Migratory game bird hunting. We allow hunting of goose, duck, and coot on designated areas of the refuge subject to the following conditions:

(i) Season dates will be concurrent with the State for the September teal season, youth-only season, and duck and coot regular season in the Texas South Zone, and goose regular season in the Texas East Zone, with the exception that we prohibit duck (not including the September teal and youth-only seasons) and coot hunting on the refuge until the last Saturday in October. If the State-specified duck and coot regular season opens later than the last Saturday in October, then hunting on the refuge will open consistent with the State-specified season date.

(ii) Hunters 17 and younger must be under the direct supervision of an adult age 18 or older.

(iii) Hunters may enter the refuge hunt units no earlier than 4 a.m. Hunting starts at the designated legal shooting time and ends at 12 p.m. (noon). Hunters must leave refuge hunt units by 1 p.m.

(iv) We allow motorized boats, including airboats, in open tidal waters. We prohibit the operation of motorized boats in shallow water through emergent and submergent wetland vegetation, or where bottom gouging would occur. We allow motorized boats to enter shallow water by drifting or polling, or by means of trolling motor where it does not cause damage to vegetation or the bottom.

(v) You must remove all decoys, boats, spent shells, marsh chairs, vegetation (blind material), and other equipment from the refuge at the end of each day's hunt (see §§ 27.93 and 27.94 of this chapter).

(vi) We require a minimum distance between hunt parties of 200 yards (180 meters).

(vii) We restrict vehicle access to designated roads and parking areas. You may access hunt units from land by foot or nonmotorized conveyance from designated parking areas or turn-arounds. You may access public waterfowl hunting areas by motorized boat from State waters, where applicable.

(2)-(4) [Reserved]

(e) Brazoria National Wildlife Refuge—(1) Migratory game bird hunting. We allow hunting of goose, duck, and coot on designated areas of the refuge subject to the following conditions:

(i) Season dates will be concurrent with the State for the September teal season, youth-only season, and duck and coot regular season in the Texas South Zone, and goose regular season in the Texas East Zone, with the exception that we prohibit duck (not including the September teal and youth-only seasons) and coot hunting on the refuge until the last Saturday in October. If the State-specified duck and coot regular season opens later than the last Saturday in October, then hunting on the refuge will open consistent with the State-specified season date.

(ii) Hunters age 17 and younger must be under the direct supervision of an adult age 18 or older.

(iii) Hunters may enter the refuge hunt units no earlier than 4 a.m. Hunting starts at the designated legal shooting time and ends at 12 p.m. (noon). Hunters must leave refuge hunt units by 1 p.m.

(iv) We allow hunting in the Alligator Marsh public waterfowl hunting area daily during the September teal season and on Saturdays, Sundays, and Wednesdays of the regular waterfowl season.

(v) We allow motorized boats, including airboats, in open tidal waters. We prohibit the operation of motorized boats in shallow waters, through emergent and submergent wetland vegetation, or where bottom gouging would occur. We allow motorized boats to enter shallow water by drifting or polling, or by means of trolling motor where it does not cause damage to vegetation or the bottom.

(vi) You must remove all decoys, boats, spent shells, marsh chairs, vegetation (blind material), and other equipment from the refuge at the end of each day's hunt (see §§ 27.93 and 27.94 of this chapter).

(vii) We require a minimum distance between hunt parties of 200 yards (180 meters (m)).

(viii) We allow the retrieval of downed waterfowl inside a 100-yard (91-m) retrieval zone west of Middle Bayou. We also allow the retrieval of downed waterfowl inside a 100-yard (91-m) retrieval zone around the portions of Alligator Lake that are open to hunting.

(ix) We restrict vehicle access to designated roads and parking areas. You may access hunt units from land by foot or nonmotorized conveyance from designated parking areas and turn-arounds. You may access public waterfowl hunting areas by motorized boat from State waters, where applicable.

(2)-(3) [Reserved]

(4) Sport fishing. We allow fishing on designated areas of the refuge subject to the following conditions:

(i) We prohibit the use or possession of alcoholic beverages in all public fishing areas.

(ii) We open Bastrop Bayou Fishing Pier and pull-offs to fishing 24 hours a day.

(iii) We prohibit the use of trotlines, sail lines, set lines, jugs, gigs, spears, bush hooks, snatch hooks, crossbows, or bows and arrows of any type.

(iv) The condition set forth at paragraph (e)(1)(v) of this section applies.

(f) Buffalo Lake National Wildlife Refuge. (1) [Reserved]

(2) Upland game hunting. We allow hunting of ring-necked pheasant on designated areas of the refuge subject to the following conditions:

(i) We require hunters to obtain a Special Use Permit (FWS Form 3-1383-G).

(ii) Hunters age 17 and younger (“youth hunters”) must be under the direct supervision of an adult age 18 or older (“adult supervisor”).

(iii) We limit hunting to 5 days, opening on Saturday as governed by the opening of the State of Texas hunting season, and the subsequent Monday, Wednesday, Friday, and Sunday.

(iv) Hunting hours will be from 9 a.m. to the close of legal shooting time as listed in the State of Texas pheasant hunting regulations.

(v) All hunters must check in and out at refuge headquarters.

(vi) We allow only shotguns for pheasant hunting.

(3) Big game hunting. We allow hunting of white-tailed deer, mule deer, and feral hog on designated areas of the refuge subject to the following conditions:

(i) The condition set forth at paragraph (f)(2)(ii) of this section applies.

(ii) After legal sunset, hunters may be in designated camping areas only. We prohibit hunters in all other areas of the refuge after legal sunset.

(iii) During the youth hunt:

(A) When hunting, each adult supervisor may supervise only one youth hunter. A youth hunter may have up to two adult supervisors.

(B) The condition set forth at paragraph (f)(2)(i) of this section applies.

(4) [Reserved]

(g) Caddo Lake National Wildlife Refuge. (1)-(2) [Reserved]

(3) Big game hunting. We allow hunting of white-tailed deer and feral hog on designated areas of the refuge subject to the following conditions:

(i) The annual refuge tearsheet (signed brochure) provides season dates and bag limits.

(ii) Deer archery hunters must possess and carry a signed refuge tearsheet (signed brochure) while hunting.

(iii) Hunters age 17 and younger must be under the direct supervision of an adult age 18 or older.

(iv) You may hunt feral hog during any established refuge hunting season. Refuge permits and legal weapons apply for the current hunting season.

(v) We allow hunters to access the refuge no more than 2 hours before legal sunrise and no more than 2 hours after legal sunset.

(vi) You may participate in the refuge firearms deer hunt only with a Quota Deer Hunt Permit (FWS Form 3-2439, Hunt Application—National Wildlife Refuge System) issued through random drawing.

(vii) We allow the use of only portable blinds and tree stands on the refuge. You must remove blinds, tree stands, and all other personal equipment from the refuge at the end of each day's hunt (see § 27.93 of this chapter).

(viii) We allow all-terrain vehicles for medically documented disabled hunters by Special Use Permit (FWS Form 3-1383-G only).

(4) [Reserved]

(h) Hagerman National Wildlife Refuge—(1) Migratory game bird hunting. We allow hunting of mourning dove on designated areas of the refuge subject to the following conditions:

(i) You must possess and carry a signed refuge tearsheet (signed brochure).

(ii) Hunters age 17 and younger must be under the direct supervision of an adult age 18 or older.

(iii) We require hunters to self-check-in and self-check-out (FWS Form 3-2405), with the exception of Nocona Unit.

(iv) We prohibit falconry.

(v) We allow the use of dogs to retrieve game.

(vi) We allow only approved nontoxic shot (see § 32.2(k)) for all hunts on the refuge.

(vii) We prohibit hunting within 150 feet (45 meters) of any day use area or walking trail.

(2) Upland game hunting. We allow hunting of fox, squirrel, and eastern cottontail rabbit in the months of January, February, and September on designated areas of the refuge and subject to the following condition: The conditions set forth at paragraphs (h)(1)(i) through (vii) of this section apply.

(3) Big game hunting. We allow hunting of white-tailed deer, feral hog, and wild turkey on designated areas of the refuge subject to the following conditions:

(i) We require a limited hunt permit (name only) for controlled hunts for archery deer, hunts for feral hog, and spring wild turkey hunts.

(ii) We require feral hog and turkey hunters to self-check-in and self-check-out (FWS Form 3-2405), with the exception of Nocona Unit.

(iii) We require controlled deer hunters to check in and out (FWS Form 3-2405) at the refuge check station.

(iv) We allow muzzleloaders, bow and arrow, and shotguns for feral hog and spring turkey hunts. You may possess only lead-free, approved nontoxic (steel, bismuth, copper, or tungsten; see § 32.2(k)) bullets, slugs, and shot (00 buck for hogs, no shell larger than #4 shot size for turkey).

(v) We require all hunters to check-in, show proof of personal identification, and produce a valid limited hunt permit (name only) prior to the hunt.

(vi) We limit each hunter to one stand, which the hunter may place on the refuge during the day preceding each hunt. You must remove all stands by legal sunset on the last day of each hunt (see § 27.93 of this chapter).

(vii) Hunters must check all game harvested during limited hunts at the refuge check station the same day of the kill and prior to leaving the refuge for the day.

(viii) The conditions set forth at paragraphs (h)(1)(ii) and (v) of this section apply.

(ix) We require proof of completion of a bow hunter education course for all archery deer hunting.

(x) We require annual successful completion of an archery proficiency test with a score of 80 percent or higher for all deer hunt permit holders.

(xi) We allow hunting only from stands or blinds, or by stalking.

(xii) We prohibit cutting of trees or limbs greater than 1 inch (2.5 centimeters).

(xiii) We allow hunters with valid limited permits to place hunt stands on trees the day before their hunt segment begins, but they must first check-in at the hunter check station. They may not enter any hunt unit until 8 a.m., and they must leave the unit by 2 p.m. We will disqualify anyone in violation from hunting.

(4) Sport fishing. We allow sport fishing on designated areas of the refuge and subject to the following conditions:

(i) We open Lake Texoma and connected streams to fishing year-round.

(ii) You may bank fish on Lake Texoma with pole and line, rod and reel, or hand line year-round.

(iii) We allow wade fishing from March 15 through October 1 annually from all areas except Refuge Road, Wildlife Drive, Plover Road, Tern Road, and Egret Road.

(iv) We allow fishing in refuge ponds from March 15 through September 30 annually, with the exception of Refuge Road pond, which is open year-round.

(v) We prohibit the use of glass containers, plastic jugs, and/or plastic bottles as floats on trotlines.

(vi) You may only take bait for personal use while fishing in refuge waters as governed by Texas State law.

(vii) We allow the use of bow and arrow to take nongame fish on refuge waters except from Refuge Road, Wildlife Drive, Plover Road, Tern Road, and Egret Road.

(viii) We prohibit limb lines, throw lines, jug lines, seine nets, noodling, and yo-yos.

(ix) We prohibit taking frog, turtle, and mussel from refuge lands and waters (see § 27.21 of this chapter).

(i) Laguna Atascosa National Wildlife Refuge. (1)-(2) [Reserved]

(3) Big game hunting. We allow hunting of white-tailed deer, feral hog, and nilgai antelope on designated areas of the refuge subject to the following conditions:

(i) We require hunters to obtain a refuge hunt permit (name and address only). We require the hunter to possess and carry a signed and dated refuge hunt permit (tearsheet) in addition to the State hunt permit.

(ii) We allow archery and firearm hunting on designated units of the refuge. Units 1, 2, 3, 5, 6, and 8 are open to archery hunting during designated dates. Units 2, 3, 5, and 8 are open to firearm hunting during designated dates.

(iii) The annual refuge hunt brochure provides the bag limit for deer hunted on the refuge.

(iv) Hunters age 17 and younger must be under the direct supervision of an adult age 18 or older.

(v) We allow a scouting period prior to the commencement of the refuge deer hunting season. A permitted hunter and a limit of two non-permitted individuals may enter the hunt units during the scouting period. We allow access to the units during the scouting period from 1½ hours before legal sunrise to legal sunset. You must clearly display the signed refuge hunt permit (tearsheet) face up on the vehicle dashboard when hunting and scouting.

(vi) We allow hunters to enter the refuge 1½ hours before legal sunrise during the permitted hunt season. Hunters must leave the hunt unit no later than 1 hour after legal shooting hours.

(vii) You may access hunt units only by foot or by bicycle.

(viii) We allow hunting from portable stands or by stalking and still hunting. There is a limit of one blind or stand per permitted hunter. You must attach hunter identification (permit number or license number) to the blind or stand. You must remove all blinds and stands at the end of the permitted hunt season (see § 27.93 of this chapter).

(ix) Hunters must field-dress all harvested big game in the field and check the game at the refuge check station before removal from the refuge. You may use a nonmotorized cart to assist with the transportation of harvested game animals.

(x) We prohibit killing or wounding a deer, hog, or antelope and then intentionally or knowingly failing to make a reasonable effort to retrieve and include it in the hunter's bag limit.

(4) Sport fishing. We allow fishing and crabbing on designated areas of the refuge subject to the following conditions:

(i) We only allow fishing and crabbing year-round from Adoph Thomae Jr. County Park on San Martin Lake of the Bahia Grande Unit, and on the South Padre Island Unit.

(ii) We only allow pole and line, rod and reel, hand line, dip net, or cast net for fishing. We prohibit the use of crab traps or pots for crabbing. Anglers must attend all fishing lines, crabbing equipment, or other fishing devices at all times.

(iii) We allow the use of boats for sport fishing. We only allow bank and wade fishing on the shoreline of San Martin Lake within the refuge boundary. We only allow access by foot behind posted refuge boundary signs.

(j) Lower Rio Grande Valley National Wildlife Refuge—(1) Migratory game bird hunting. We allow hunting of mourning, white-winged, and white-tipped dove on designated areas of the refuge subject to the following conditions:

(i) We require hunters to obtain a refuge hunt permit (signed tearsheet) and to possess and carry that permit at all times during your designated hunt period. Hunters must also display the refuge-issued vehicle placard (part of the hunt permit) while participating in the designated hunt period.

(ii) Hunters age 17 and younger must be under the direct supervision of an adult age 18 or older.

(iii) You may access the refuge during your permitted hunt period from 1 hour before legal hunt time to 1 hour after legal hunt time. You must only hunt during legal hunt hours.

(iv) We restrict hunt participants to those listed on the refuge hunt permit (hunter, non-hunting chaperone, and non-hunting assistant).

(v) We allow hunters to use bicycles on designated routes of travel.

(vi) We allow the use of dogs to retrieve doves during the hunt.

(2) [Reserved]

(3) Big game hunting. We allow hunting of white-tailed deer, feral hog, and nilgai antelope on designated areas of the refuge subject to the following conditions:

(i) The conditions set forth at paragraphs (j)(1)(i) through (v) of this section apply.

(ii) We allow the use of rattling horns.

(iii) We allow free-standing blinds or tripods. Hunters may set them up during the scouting days preceding each permitted hunt day and must take them down by the end of each hunt day (see § 27.93 of this chapter). Hunters must mark and tag all stands with their hunting license number during the period of use.

(iv) Hunters must field-dress all harvested big game in the field.

(v) Hunters may use nonmotorized dollies or carts off improved roads or trails to haul carcasses to a parking area.

(vi) We prohibit use of big game decoys.

(vii) We prohibit the killing, wounding, taking, or possession of a deer, hog, or antelope and then intentionally or knowingly failing to make a reasonable effort to retrieve or keep the edible portions of the animal and include it in your bag limit.

(4) [Reserved]

(k) McFaddin National Wildlife Refuge—(1) Migratory game bird hunting. We allow hunting of goose, duck, and coot on designated areas of the refuge subject to the following conditions:

(i) Season dates will be concurrent with the State for the September teal season, youth-only season, and duck and coot regular season in the Texas South Zone, and goose regular season in the Texas East Zone, with the exception that we prohibit duck (not including the September teal and youth-only seasons) and coot hunting on the refuge until the last Saturday in October. If the State-specified duck and coot regular season opens later than the last Saturday in October, then hunting on the refuge will open consistent with the State-specified season date.

(ii) You must possess and carry a current signed refuge hunting permit (signed tearsheet) while hunting on all units of the refuge.

(iii) Hunters age 17 and younger must be under the direct supervision of an adult age 18 or older.

(iv) Hunters must enter the refuge hunt units between 4 a.m. and ½ hour before the designated legal shooting time. Hunting starts at legal shooting time and ends at 12 p.m. (noon). Hunters must leave refuge hunt units by 12:30 p.m. We close refuge hunt units on Thanksgiving, Christmas, and New Year's Day.

(v) You may access hunt areas by foot, nonmotorized watercraft, outboard motorboat, or airboat. Airboats may not exceed 10 horsepower with direct drive with a propeller length of 48 inches (120 centimeters) or less. Engines may not exceed 2 cylinders and 484 cc.

(vi) We allow hunting in the Star Lake/Clam Lake Hunt Unit daily during the special teal season and on Saturdays, Sundays, and Tuesdays of the regular waterfowl season. During the regular waterfowl season only, all hunters hunting the Star Lake/Clam Lake Hunt Units must register at the check station (FWS Form 3-2405), including those accessing the unit from the beach along the Brine Line or Perkins Levee.

(vii) We allow hunting in the Central Hunt Units daily during the September teal season and on Saturdays, Sundays, and Tuesdays of the regular waterfowl season.

(viii) We only allow hunting in the Spaced Hunt Units on Saturdays, Sundays, and Tuesdays of the regular waterfowl season. We allow a maximum of four hunters per area. Hunters must possess and carry Special Fee Area Permits (signed refuge tearsheet) while hunting.

(ix) We allow daily hunting in the Mud Bayou Hunt Unit during the September teal season and on Sundays, Wednesdays, and Fridays of the regular waterfowl season. We allow access by foot from the beach at designated crossings or by boat from the Gulf Intracoastal Waterway via Mud Bayou.

(x) We allow portable blinds and temporary natural vegetation blinds. You must remove all blinds, decoys, boats, spent shells, marsh chairs, and other equipment from the refuge at the end of each day's hunt (see §§ 27.93 and 27.94 of this chapter).

(xi) We require a minimum distance between hunt parties, and between hunters and driveable roads and buildings, of 200 yards (180 meters).

(xii) We allow the use of dogs when hunting.

(2)-(3) [Reserved]

(4) Sport fishing. We allow fishing and crabbing on designated areas of the refuge subject to the following conditions:

(i) We only allow fishing and crabbing with pole and line, rod and reel, or handheld line. We prohibit the use of any method not expressly allowed in inland waters, including trotlines, set lines, jug lines, limb lines, bows and arrows, gigs, spears, and crab traps.

(ii) We allow cast netting for bait for personal use along waterways in areas open to the public and along public roads.

(iii) We prohibit mooring to water control structures.

(l) San Bernard National Wildlife Refuge—(1) Migratory game bird hunting. We allow hunting of goose, duck, and coot on designated areas of the refuge subject to the following conditions:

(i) Season dates will be concurrent with the State for the September teal season, youth-only season, and duck and coot regular season in the Texas South Zone, and goose regular season in the Texas East Zone, with the exception that we prohibit duck (not including the September teal and youth-only seasons) and coot hunting on the refuge until the last Saturday in October. If the State-specified duck and coot regular season opens later than the last Saturday in October, then hunting on the refuge will open consistent with the State-specified season date.

(ii) Hunters age 17 and younger must be under the direct supervision of an adult age 18 or older.

(iii) Hunters may enter the refuge hunt units no earlier than 4 a.m. Hunting starts at the designated legal shooting time and ends at 12 p.m. (noon). Hunters must leave refuge hunt units by 1 p.m.

(iv) We require hunters to use the Waterfowl Lottery Application (FWS Form 3-2439, Hunt Application—National Wildlife Refuge System) for the Sargent Permit Waterfowl Hunt Area. Hunters must abide by all terms and conditions set by the permit.

(v) We allow motorized boats, including airboats, in open tidal waters. We prohibit the operation of motorized boats in shallow waters, through emergent and submergent wetland vegetation, or where bottom gouging would occur. We allow motorized boats to enter shallow water by drifting or polling, or by means of trolling motor where it does not cause damage to vegetation or the bottom.

(vi) You must remove all decoys, boats, spent shells, marsh chairs, vegetation (blind material), and other equipment from the refuge at the end of each day's hunt (see §§ 27.93 and 27.94 of this chapter).

(vii) We require a minimum distance between hunt parties of 200 yards (180 meters).

(viii) We restrict vehicle access to designated roads. You may access hunt units from land by foot or nonmotorized conveyance from designated parking areas or turn-arounds. You may access public waterfowl hunting areas by motorized boat from State waters, where applicable.

(2)-(3) [Reserved]

(4) Sport fishing. We allow sport fishing on designated areas of the refuge subject to the following conditions:

(i) We prohibit the use or possession of alcoholic beverages in all public fishing areas.

(ii) The condition set forth at paragraph (l)(1)(v) of this section applies.

(m) Texas Point National Wildlife Refuge—(1) Migratory game bird hunting. We allow hunting of goose, duck, and coot on designated areas of the refuge subject to the following conditions:

(i) Season dates will be concurrent with the State for the September teal season, youth-only season, and duck and coot regular season in the Texas South Zone, and goose regular season in the Texas East Zone, with the exception that we prohibit duck (not including the September teal and youth-only seasons) and coot hunting on the refuge until the last Saturday in October. If the State-specified duck and coot regular season opens later than the last Saturday in October, then hunting on the refuge will open consistent with the State-specified season date.

(ii) You must possess and carry a current signed refuge hunting permit (signed tearsheet) while hunting on all hunt units of the refuge.

(iii) Hunters age 17 and younger must be under the direct supervision of an adult age 18 or older.

(iv) Hunters must enter the refuge hunt unit between 4 a.m. and ½ hour before the designated legal shooting time. Hunting starts at legal shooting time and ends at 12 p.m. (noon). Hunters must be off refuge hunt units by 12:30 p.m. We close refuge hunt units on Thanksgiving, Christmas, and New Year's Day.

(v) We allow hunting in portions of the refuge daily during the September teal season and on Saturdays, Mondays, and Wednesdays during the regular waterfowl season.

(vi) You may access hunt areas by foot, nonmotorized watercraft, outboard motorboat, or airboat. Airboats may not exceed 10 horsepower with direct drive with a propeller length of 48 inches (120 centimeters) or less. Engines may not exceed 2 cylinders and 484 cc.

(vii) We allow portable blinds and temporary natural vegetation blinds. You must remove all blinds, decoys, boats, spent shells, marsh chairs, and other equipment from the refuge at the end of each day's hunt (see §§ 27.93 and 27.94 of this chapter).

(viii) We require a minimum distance between hunt parties of 200 yards (180 meters).

(ix) We allow the use of dogs when hunting.

(2)-(3) [Reserved]

(4) Sport fishing. We allow fishing and crabbing on designated areas of the refuge subject to the following conditions:

(i) We allow fishing and crabbing with pole and line, rod and reel, or handheld line. We prohibit the use of any method not expressly allowed in inland waters, including trotlines, set lines, jug lines, limb lines, bows and arrows, gigs, spears, and crab traps.

(ii) We allow cast netting for bait by individuals along waterways in areas open to the public and along public roads.

(iii) We prohibit mooring to water control structures.

(n) Trinity River National Wildlife Refuge—(1) Migratory game bird hunting. We allow hunting of duck on designated areas of the refuge subject to the following conditions:

(i) We only allow hunting on Champion Lake by State lottery drawing.

(ii) We only allow hunting on Champion Lake Saturdays and Sundays during the State duck season. Hunters may not enter the refuge until 5 a.m. and must be out of the hunt area by 12 p.m. (noon).

(iii) You must remove all blinds, decoys, shell casings, and other personal equipment following each hunt day (see §§ 27.93 and 27.94 of this chapter).

(iv) We allow the use of dogs when retrieving game.

(v) Hunters age 17 and younger must be under the direct supervision of an adult age 18 or older.

(vi) We require a minimum distance between hunt parties of 150 yards (135 meters).

(2) Upland game hunting. We allow hunting for squirrel and rabbit on designated areas of the refuge subject to the following conditions:

(i) We require hunters to possess a refuge permit (signed tearsheet). The hunter must carry the nontransferable permit at all times while hunting.

(ii) We require that refuge hunters turn in the Upland/Small Game/Furbearer Report (FWS Form 3-2362) by the date specified on the permit. Failure to submit the report will render the hunter ineligible for the next year's limited upland game hunt.

(iii) The condition set forth at paragraph (n)(1)(v) of this section applies.

(iv) We allow all-terrain vehicle use for hunters with disabilities in designated units.

(v) We require a minimum distance between hunt parties of 200 yards (180 meters). Hunters must visibly wear 400 square inches (2,600 square centimeters) of hunter orange above the waist and a solid hunter-orange hat or cap.

(vi) Hunters may enter the refuge no earlier than 4:30 a.m. We allow hunting from ½ hour before legal sunrise to legal sunset only during the days specified on the permit.

(vii) Hunters may place no more than one temporary stand on the refuge. Hunters may place the stand during the scouting week before the hunt begins and must remove it the day the hunt ends (see § 27.93 of this chapter). Hunters must label blinds with the name of the permit holder. We prohibit hunting or erection of blinds on refuge roads or mowed/maintained trails.

(3) Big game hunting. We allow hunting of white-tailed deer and feral hog on designated areas of the refuge subject to the following conditions:

(i) We require a refuge permit (signed refuge tearsheet) and Big Game Harvest Report (FWS Form 3-2359). Hunters must turn in both forms by the date specified on the permit. Failure to submit the Big Game Harvest Report will render the hunter ineligible for the next year's limited big game hunt. Drawings are by lottery. The hunter must carry the nontransferable permit at all times while hunting.

(ii) The conditions set forth at paragraphs (n)(1)(v) and (n)(2)(iv) through (vii) of this section apply.

(iii) We allow hunting during a designated 23-day archery season.

(4) Sport fishing. We allow fishing on designated areas of the refuge subject to the following conditions:

(i) We only allow fishing with pole and line, rod and reel, or hand-held line.

(ii) We prohibit the use of trotlines, setlines, bows and arrows, gigs, spears, fish traps, crab/crawfish traps, and/or nets.

(iii) We prohibit the harvesting of frog or turtle (see § 27.21 of this chapter).

(iv) We allow fishing from legal sunrise to legal sunset.

§ 32.63 Utah.

The following refuge units are open for hunting and/or fishing as governed by applicable Federal and State regulations, and are listed in alphabetical order with additional refuge-specific regulations.

(a) Bear River Migratory Bird Refuge—(1) Migratory game bird hunting. We allow hunting of goose, duck, coot, and tundra swan on designated areas of the refuge subject to the following conditions:

(i) We prohibit hunting or shooting within 100 yards (90 meters (m)) of refuge roads, parking areas, and observation platforms.

(ii) We allow airboats only in Refuge Unit 9 and Block C.

(iii) You may possess only 25 shells while hunting on or within 50 feet (15 m) from the center of Unit 1A or 2C dike.

(iv) We close for the spring and extended season goose hunts.

(v) We prohibit archery hunting on the refuge.

(vi) You may enter the refuge 2 hours before legal sunrise and must exit the refuge by 2 hours after legal sunset.

(2) Upland game hunting. We allow hunting of pheasant on designated areas of the refuge subject to the following condition: We prohibit hunting or taking of pheasants with a shotgun of any description capable of holding more than three shells, unless it is plugged with a one-piece filler incapable of removal without disassembling the gun so that its total capacity does not exceed three shells.

(3) [Reserved]

(4) Sport fishing. We allow sport fishing on designated areas of the refuge subject to the following conditions:

(i) We open to fishing year-round.

(ii) You may fish only in designated areas west of the Auto Tour Road access gate from legal sunrise to legal sunset.

(b) Fish Springs National Wildlife Refuge—(1) Migratory game bird hunting. We allow hunting of duck, coot, and goose on designated areas of the refuge subject to the following conditions:

(i) All hunters must register individually at the visitor information station before entering the open hunting area and must check-out at the same location prior to exiting the refuge.

(ii) We allow the use of dogs when hunting.

(iii) You may construct temporary blinds. You must remove all blinds constructed out of materials other than vegetation at the end of each day's hunt (see §§ 27.93 and 27.94 of this chapter).

(iv) We allow the use of small boats (15 feet or less) when hunting. We prohibit gasoline motors and air boats.

(v) You may enter the refuge 2 hours prior to legal sunrise and must exit the refuge by 1½ hours after legal sunset. You must remove leave decoys, boats, vehicles, and other personal property on the refuge at the end of each day (see §§ 27.93 and 27.94 of this chapter).

(vi) We have a special blind area for use by disabled hunters. We prohibit trespass for any reason by any individual not registered to use that area.

(2)-(4) [Reserved]

(c) Ouray National Wildlife Refuge—(1) Migratory game bird hunting. We allow hunting of duck, coot, and goose on designated areas of the refuge subject to the following condition: During hunting season, the refuge is open from 1½ hours before legal sunrise to 1½ hours after legal sunset.

(2) Upland game hunting. We allow hunting of pheasant and turkey on designated areas of the refuge subject to the following conditions:

(i) You may possess only approved nontoxic shot (see § 32.2(k)) while hunting turkey in the field.

(ii) We allow turkey hunting for youth hunters only.

(3) Big game hunting. We allow hunting of deer and elk on designated areas of the refuge subject to the following conditions:

(i) You must remove all tree stands and blinds no later than the last day of the hunting season for which you have a permit (see § 27.93 of this chapter).

(ii) We allow any-legal-weapon elk hunting for youth, disabled, and depredation pool hunters during State seasons.

(iii) We close for the general any-legal-weapon (rifle) and muzzleloader bull elk hunts.

(iv) We allow any-legal-weapon elk hunting during limited late season antlerless elk hunts starting on December 1 during State seasons.

(4) Sport fishing. We allow sport fishing on designated areas of the refuge subject to the following conditions:

(i) You may only fish with the aid of a pole, hook, and line. We prohibit trot lines, bow and arrows, spears, spear guns, cross bows, and firearms.

(ii) You must release unharmed any of the following four endangered fish if caught: Razorback sucker, Colorado pikeminnow, humpback chub, and bonytailed chub.

§ 32.64 Vermont.

The following refuge units are open for hunting and/or fishing as governed by applicable Federal and State regulations, and are listed in alphabetical order with additional refuge-specific regulations.

(a) Missisquoi National Wildlife Refuge—(1) Migratory game bird hunting. We allow hunting of goose, duck, brant, merganser, coot, woodcock, and snipe on designated areas of the refuge subject to the following conditions:

(i) In the Delta Lakeshore Area:

(A) We prohibit blind staking and unattended decoys.

(B) We prohibit jumpshooting within 200 yards of a party hunting from a boat or blind.

(ii) In the Maquam Shore Area:

(A) We do not require a refuge permit to hunt or scout in this area.

(B) We prohibit jumpshooting within 200 yards (183 meters) of a party hunting from a boat or blind.

(iii) In the Saxes Pothole/Creek and Shad Island Pothole:

(A) This is a controlled hunting area. We require a refuge permit (FWS Form 3-2439, Hunt Application—National Wildlife Refuge System) to hunt in this area.

(B) Each hunting party must possess and carry a permit (FWS Form 3-2439, Hunt Application—National Wildlife Refuge System) for the specific zone on the specific day they are hunting in this area. Permits are not transferable.

(C) You must use a dog to retrieve migratory game birds.

(iv) In the Junior Waterfowl Hunting Area:

(A) This is a controlled hunting area. We require a refuge permit (FWS Form 3-2439, Hunt Application—National Wildlife Refuge System) to hunt in this area.

(B) Each junior hunter must possess and carry a permit (FWS Form 3-2439, Hunt Application—National Wildlife Refuge System) for the assigned blind site and day. On Mentor Day, mentors must also possess and carry this permit for the assigned blind site. Each adult hunting party must possess and carry a permit for the blind site and day they are hunting. Permits are not transferable.

(C) Shooting hours end at 11 a.m.

(v) In the Long Marsh Channel and Metcalfe Island:

(A) This is a controlled hunting area. We require a refuge permit (FWS Form 3-2439, Hunt Application—National Wildlife Refuge System) to hunt in this area.

(B) We limit hunting to Tuesdays, Thursdays, and Saturdays throughout the waterfowl hunting season for duck.

(C) Each hunting party must possess and carry a permit for the blind on the specific day they are hunting in this area. Permits are not transferable.

(D) Shooting hours end at 11 a.m.

(E) You must use a dog to retrieve migratory game birds.

(F) We close this area to waterfowl hunting during split seasons when geese are the only waterfowl that hunters may legally take.

(vi) In the Maquam Swamp Area:

(A) We prohibit blind staking and unattended decoys.

(B) You must use a dog to retrieve migratory game birds.

(2) Upland game hunting. We allow hunting of cottontail rabbit, snowshoe hare, ruffed grouse, and gray squirrel on designated areas of the refuge subject to the following conditions:

(i) You must obtain a signed refuge hunt brochure (signed brochure) at refuge headquarters prior to hunting, and you must hold a valid State hunting license.

(ii) We only allow shotguns or muzzleloaders on open areas east of the Missisquoi River and on Shad Island.

(iii) We prohibit hunting from the end of snowshoe hare and rabbit season through September 1.

(iv) On the Eagle Point Unit, conditions in paragraphs (a)(2)(i) through (iii) of this section do not apply.

(3) Big game hunting. We allow hunting of white-tailed deer, moose, bear, and turkey on designated areas of the refuge subject to the following conditions:

(i) You must obtain a signed refuge hunt brochure (signed brochure) at refuge headquarters prior to hunting, and you must hold a valid State hunting license.

(ii) We only allow shotguns, muzzleloaders, or archery equipment on open areas east and north of Vermont Route 78. We prohibit rifles in these areas at any time.

(iii) You may use portable tree stands as governed by State regulations guiding their use on State wildlife management areas with the following exception: We allow only one tree stand or ground blind for each signed refuge hunt brochure (signed brochure) we issue.

(iv) On the Eagle Point Unit, we allow hunting subject to the following conditions:

(A) You may use portable tree stands as governed by State regulations guiding their use on State wildlife management areas.

(B) We allow training of dogs during the regular hunting seasons as governed by State regulations. We allow dog training outside the regular hunting seasons (i.e., from June 1 through July 31) only with a Special Use Permit (Permit Application Form: National Wildlife Refuge System General Special Use, FWS Form 3-1383-G).

(4) Sport fishing. We allow sport fishing on designated areas of the refuge subject to the following conditions:

(i) We allow sport fishing (including bow fishing) by boat and ice fishing in designated areas with the following exceptions:

(A) We close the following areas from ice-out to July 15: Goose Bay, Saxes Creek and Pothole, Metcalfe Island Pothole, Long Marsh Channel, and Clark Marsh.

(B) We close the following areas from Labor Day to December 31: Long Marsh Bay and Long Marsh Channel.

(ii) We allow bank fishing along designated areas of Charcoal Creek.

(iii) We prohibit taking fish with firearms within refuge boundaries.

(iv) We allow boat launching from Louie's Landing year-round. We allow boat launching from Mac's Bend boat launch area from September through November (inclusive).

(b) Silvio O. Conte National Fish and Wildlife Refuge—(1) Migratory game bird hunting. We allow hunting of duck, goose, crow, and American woodcock on designated areas of the refuge subject to the following condition: We allow disabled hunters to hunt from a vehicle that is at least 10 feet from the traveled portion of the refuge road if the hunter possesses a State-issued disabled hunting license and a Special Use Permit (FWS Form 3-1383-G) issued by the refuge manager.

(2) Upland game hunting. We allow hunting of coyote, fox, raccoon, bobcat, woodchuck, red squirrel, eastern gray squirrel, porcupine, skunk, snowshoe hare, eastern cottontail, and ruffed grouse on designated areas of the refuge subject to the following conditions:

(i) We allow disabled hunters to hunt from a vehicle that is at least 10 feet from the traveled portion of the refuge road if the hunter possesses a State-issued disabled hunting license and a Special Use Permit (FWS Form 3-1383-G) issued by the refuge manager.

(ii) Shooting from, over, or within 10 feet of the traveled portion of any gravel road is prohibited (see § 25.71 of this chapter).

(iii) We require hunters hunting at night to possess a Special Use Permit (FWS Form 3-1383-G) issued by the refuge manager.

(3) Big game hunting. We allow hunting of white-tailed deer, moose, black bear, and wild turkey on designated areas of the refuge subject to the following conditions:

(i) The condition set forth at paragraph (b)(2)(ii) of this section applies.

(ii) We allow disabled hunters to hunt from a vehicle that is at least 10 feet from the traveled portion of the refuge road if the hunter possesses a State-issued disabled hunting license and a Special Use Permit (FWS Form 3-1383-G) issued by the refuge manager.

(iii) You may use portable tree stands and blinds as governed by State regulations guiding their use on State wildlife management areas. You must remove tree stands and blinds by the end of the final deer season (see § 27.93 of this chapter).

(iv) You may retrieve moose at the Nulhegan Basin Division with the use of a commercial moose hauler, if the hauler possesses a Special Use Permit (FWS Form 3-1383-C) issued by the refuge manager.

(4) [Reserved]

§ 32.65 Virginia.

The following refuge units are open for hunting and/or fishing as governed by applicable Federal and State regulations, and are listed in alphabetical order with additional refuge-specific regulations.

(a) Back Bay National Wildlife Refuge. (1)-(2) [Reserved]

(3) Big game hunting. We allow hunting of white-tailed deer and feral hog on designated areas of the refuge subject to the following conditions:

(i) We allow scouting on designated days prior to the start of each refuge hunt period. Hunters may enter the hunt zones on foot, on bicycle, or through transportation provided by the refuge only.

(ii) Hunters may go to Hunt Zone 1 (Long Island) only by hand-launched watercraft (canoe, punt, rowboat, and similar watercraft) from the canoe launch at refuge headquarters. We prohibit use of trailers.

(iii) We prohibit hunting or discharging of firearms within designated safety zones. We prohibit retrieval of wounded game from a “No Hunting Area” or “Safety Zone” without the consent of the refuge employee on duty at the check station.

(iv) We prohibit the use of tree stands, except on Long Island (Hunt Zone 1).

(4) Sport fishing. We allow sport fishing, noncommercial crabbing, and clamming on designated areas of the refuge subject to the following conditions:

(i) We close all areas within the hunting zones, as well as the oceanfront, to fishing, crabbing, and clamming during the annual refuge white-tailed deer and feral hog hunt.

(ii) You may surf fish, crab, and clam south of the refuge's beach access ramp. We allow night surf fishing by Special Use Permit (FWS Form 3-1383-G) in this area on dates and at times designated on the permit.

(iii) For sport fishing in D Pool:

(A) We only allow fishing from the docks or banks in D Pool. We prohibit boats, canoes, and kayaks on D Pool.

(B) We prohibit hooks other than barbless or flattened.

(C) You must catch and release all freshwater game fish. The daily creel limit for D Pool for other species is a maximum combination of any 10 nongame fish.

(D) Parking for non-ambulatory anglers is available adjacent to the dock at D Pool. All other anglers must enter the area by foot or bicycle.

(b) Chincoteague National Wildlife Refuge—(1) Migratory game bird hunting. We allow hunting of waterfowl and rail on designated areas of the refuge subject to the following conditions:

(i) You must obtain a refuge hunt permit (FWS Form 3-2439, Hunt Application—National Wildlife Refuge System) and maintain the permit on your person while hunting on the refuge.

(ii) You may only access hunting areas by boat.

(iii) We prohibit hunting on Assawoman and Metompkin Islands' beach and dune habitats beginning March 15.

(2) [Reserved]

(3) Big game hunting. We allow hunting of white-tailed deer and sika in designated areas of the refuge subject to the following conditions:

(i) We allow holders of a refuge hunt permit (FWS Form 3-2439, Hunt Application—National Wildlife Refuge System) to access areas of the refuge typically closed to the nonhunting public. All occupants of a vehicle or hunt party must possess a refuge hunt permit and be actively engaged in hunting. We allow an exception for those persons aiding a disabled person who possesses a valid State-issued Commonwealth of Virginia Disabled Resident Lifetime License or Commonwealth of Virginia Resident Disabled Veteran's Lifetime License.

(ii) You may not hunt within 100 feet (30.5 meters) of any building.

(iii) We prohibit organized deer drives. We define a “deer drive” as an organized or planned effort to pursue, drive, chase, or otherwise frighten or cause deer to move in the direction of any person(s) who is part of the organized or planned hunt and known to be waiting for the deer.

(iv) You may not hunt, discharge a firearm, or nock an arrow or crossbow bolt within 50 feet (15.2 meters) of the centerline of any road, whether improved or unimproved, or paved trail.

(4) Sport fishing. We allow sport fishing, crabbing, and clamming from the shoreline of the refuge in designated areas subject to the following conditions:

(i) You must attend minnow traps, crab traps, crab pots, and handlines at all times.

(ii) We prohibit the use of seine nets and pneumatic (compressed air or otherwise) bait launchers.

(iii) The State regulates certain species of finfish, shellfish, and crustacean (crab) using size or possession limits. You may not alter these species, to include cleaning or filleting, in such a way that we cannot determine its species or total length.

(iv) In order to fish after the refuge closes for the day, anglers must obtain an overnight fishing pass (name/address/phone) issued by the National Park Service. Anglers can obtain a pass in person at the National Park Service Tom's Cove Visitor Center.

(v) We allow only three surf fishing poles per licensed angler, and those poles must be attended at all times. This includes persons age 65 or older who are license-exempt in Virginia.

(c) Eastern Shore of Virginia National Wildlife Refuge. (1)-(2) [Reserved]

(3) Big game hunting. We allow archery and shotgun hunting of white-tailed deer on designated areas of the refuge subject to the following conditions:

(i) We allow holders of a refuge hunt permit (Quota Deer Hunt Application, FWS Form 3-2439, Hunt Application—National Wildlife Refuge System) to access areas of the refuge typically closed to the nonhunting public. All occupants of a vehicle or hunt party must possess a refuge hunt permit and be actively engaged in hunting. We allow an exception for those persons aiding a disabled person who possesses a valid State-issued Commonwealth of Virginia Disabled Resident Lifetime License or Commonwealth of Virginia Resident Disabled Veteran's Lifetime License.

(ii) You must sign in before entering the hunt zone and sign out upon leaving the zone.

(iii) We prohibit organized deer drives. We define a “deer drive” as an organized or planned effort to pursue, drive, chase, or otherwise frighten or cause deer to move in the direction of any person(s) who is part of the organized or planned hunt and known to be waiting for the deer.

(iv) You may not hunt, discharge a firearm, or nock an arrow or crossbow bolt outside of the designated hunting areas.

(v) We only allow shotguns loaded with buckshot during the firearm season.

(4) [Reserved]

(d) Elizabeth Hartwell Mason Neck National Wildlife Refuge. (1)-(2) [Reserved]

(3) Big game hunting. We allow hunting of deer on designated areas of the refuge subject to the following conditions:

(i) You must possess and carry a refuge permit (FWS Form 3-2439, Hunt Application—National Wildlife Refuge System).

(ii) Hunters must certify/qualify weapons and ammunition and view the orientation session online prior to issuance of a permit.

(iii) We only allow shotguns with slugs during the firearm season.

(iv) Hunters must remove all hunting equipment from the refuge at the end of each day's hunt (see § 27.93 of this chapter).

(v) We prohibit organized deer drives. We define a “deer drive” as an organized or planned effort to pursue, drive, chase, or otherwise frighten or cause deer to move in the direction of any person(s) who is part of the organized or planned hunt and known to be waiting for the deer.

(4) [Reserved]

(e) Great Dismal Swamp National Wildlife Refuge. (1)-(2) [Reserved]

(3) Big game hunting. We allow hunting of white-tailed deer and bear on designated areas of the refuge subject to the following condition: You must possess and carry a refuge permit (FWS Form 3-2439, Hunt Application—National Wildlife Refuge System).

(4) Sport fishing. We allow sport fishing in designated areas of the refuge subject to the following conditions:

(i) We allow fishing in Lake Drummond from a boat (maximum 25 horsepower) and from the piers at Washington Ditch and Interior Ditch.

(ii) We prohibit bank fishing.

(iii) We require permits (Special Use Permit (FWS Form 3-1383-G)) for vehicular access to the boat ramp on Interior Ditch Road on the west side of Lake Drummond.

(f) James River National Wildlife Refuge. (1)-(2) [Reserved]

(3) Big game hunting. We allow hunting of white-tailed deer on designated areas of the refuge subject to the following conditions:

(i) We require hunters to possess and carry a refuge hunting permit (FWS Form 3-2439, Hunt Application—National Wildlife Refuge System).

(ii) We require persons who wish to hunt during the refuge's archery season to obtain a refuge hunting permit through a lottery administered by the Virginia Department of Game and Inland Fisheries.

(iii) We require that, during firearms and muzzleloader seasons, hunters remain within 100 feet (30 meters (m)) of their assigned stand while hunting.

(iv) We require that hunters using a muzzleloader must hunt from a stand elevated 10 feet (3 m) or more above the ground.

(4) [Reserved]

(g) Mackay Island National Wildlife Refuge. Refer to § 32.52(e) for regulations.

(h) Occoquan Bay National Wildlife Refuge. (1)-(2) [Reserved]

(3) Big game hunting. We allow hunting of deer on designated areas of the refuge subject to the following conditions:

(i) You must possess and carry a refuge permit (FWS Form 3-2439, Hunt Application—National Wildlife Refuge System) and be selected in the refuge lottery to hunt.

(ii) Hunters must certify/qualify weapons and ammunition and view an orientation session online prior to issuance of a permit.

(iii) We only allow shotguns with slugs during the firearm season.

(iv) Hunters must remove all hunting equipment from the refuge at the end of each day's hunt (see § 27.93 of this chapter).

(v) We prohibit organized deer drives. We define a “deer drive” as an organized or planned effort to pursue, drive, chase, or otherwise frighten or cause deer to move in the direction of any person(s) who is part of the organized or planned hunt and known to be waiting for the deer.

(4) [Reserved]

(i) Plum Tree Island National Wildlife Refuge—(1) Migratory game bird hunting. We allow hunting of migratory waterfowl, gallinule, and coot on designated areas of the refuge subject to the following conditions:

(i) We require migratory game bird hunters to obtain a permit through a lottery administered by the Virginia Department of Game and Inland Fisheries. We require hunters to possess and carry that permit, along with their State hunting license and stamps, while hunting migratory game birds on the refuge.

(ii) We prohibit jump-shooting by foot or boat.

(iii) You must hunt from a blind, as assigned by the hunting permit.

(2)-(4) [Reserved]

(j) Presquile National Wildlife Refuge. (1)-(2) [Reserved]

(3) Big game hunting. We allow hunting of white-tailed deer on designated areas of the refuge subject to the following conditions:

(i) We require big game hunters to obtain a permit through a lottery administered by the Virginia Department of Game and Inland Fisheries.

(ii) We prohibit organized deer drives. We define a “deer drive” as an organized or planned effort to pursue, drive, chase, or otherwise frighten or cause deer to move in the direction of any person(s) who is part of the organized or planned hunt and known to be waiting for the deer.

(iii) We allow shotgun hunting on designated days as indicated on refuge hunting permits, in the State hunting guide, and on the refuge website.

(iv) We require hunters to dock their boats at designated locations on the refuge.

(4) [Reserved]

(k) Rappahannock River Valley National Wildlife Refuge. (1)-(2) [Reserved]

(3) Big game hunting. We allow hunting of white-tailed deer on designated areas of the refuge subject to the following condition: We require big game hunters to obtain a permit (FWS Form 3-2439, Hunt Application—National Wildlife Refuge System).

(4) Sport fishing. We allow sport fishing on designated areas of the refuge subject to the following conditions:

(i) We allow fishing access each day from legal sunrise to legal sunset.

(ii) During the period when the refuge is open for hunting, we close hunting areas to all other uses, including sport fishing.

(iii) We allow fishing only by use of one or more attended poles with hook and line attached. We prohibit all other fishing methods and means.

(iv) We prohibit the use of lead sinkers in freshwater ponds, including Wilna Pond and Laurel Grove Pond.

(v) We require catch-and-release fishing for largemouth bass in freshwater ponds, including Wilna Pond and Laurel Grove Pond. Anglers may take other finfish species as governed by State regulations.

(vi) We prohibit the use of minnows as bait.

(vii) We prohibit use of boats propelled by gasoline motors, sail, or mechanically operated paddle wheel while fishing.

(l) Wallops Island National Wildlife Refuge. (1)-(2) [Reserved]

(3) Big game hunting. We allow hunting of white-tailed deer on designated areas of the refuge subject to the following conditions:

(i) You must obtain a refuge hunt permit (FWS Form 3-2439, Hunt Application—National Wildlife Refuge System) and carry it on your person while hunting.

(ii) You must sign in at the hunter registration station prior to entering your hunt zone and sign out upon exiting your hunt zone. All hunters must sign out no later than 2 hours after the end of legal shooting hours.

(iii) You must report all harvested animals on the sign-out sheet at the hunter registration station when signing out.

(iv) We prohibit organized deer drives. We define a “deer drive” as an organized or planned effort to pursue, drive, chase, or otherwise frighten or cause deer to move in the direction of any person(s) who is part of the organized or planned hunt and known to be waiting for the deer.

(4) [Reserved]

§ 32.66 Washington.

The following refuge units are open for hunting and/or fishing as governed by applicable Federal and State regulations, and are listed in alphabetical order with additional refuge-specific regulations.

(a) Billy Frank Jr. Nisqually National Wildlife Refuge—(1) Migratory game bird hunting. We allow hunting of goose, duck, and coot on designated areas of the refuge subject to the following conditions:

(i) We allow hunters to possess and carry no more than 25 shells while hunting in the field.

(ii) Hunters may access the hunt areas by boat only.

(2)-(3) [Reserved]

(4) Sport fishing. We allow fishing and shellfishing on designated areas of the refuge subject to the following conditions:

(i) We prohibit bank fishing within the refuge along the Nisqually River and McAllister Creek.

(ii) We prohibit shellfishing (clams, oysters, mussels) on the tideflats.

(iii) We prohibit tidal flat and marsh access from refuge trails.

(b) Columbia National Wildlife Refuge—(1) Migratory game bird hunting. We allow hunting of goose, duck, coot, and snipe on designated areas of the refuge subject to the following conditions:

(i) We prohibit discharge of any firearm within ¼ mile (396 meters) of any maintained building or Federal facility, such as, but not limited to, a structure designed for storage, human occupancy, or shelter for animals.

(ii) We only allow portable blinds and temporary blinds constructed of nonliving natural materials. Hunters must remove all decoys and other equipment at the end of each day's hunt (see § 27.93 of this chapter).

(iii) We allow hunting only on Wednesdays, Saturdays, Sundays, and Federal holidays on Marsh Unit 1 and Farm Units 226 and 227.

(2) Upland game hunting. We allow hunting of upland game birds on designated areas of the refuge subject to the following conditions:

(i) The condition set forth at paragraph (b)(1)(i) of this section applies.

(ii) We allow hunting from 12 p.m. (noon) to legal sunset on Wednesdays, Saturdays, Sundays, and Federal holidays in Marsh Unit 1.

(3) Big game hunting. We allow hunting of deer on designated areas of the refuge subject to the following conditions:

(i) The condition set forth at paragraph (b)(1)(i) of this section applies.

(ii) We allow hunting with shotgun, muzzleloader, and archery only.

(4) Sport fishing. We allow fishing on designated areas of the refuge subject to the following conditions:

(i) On waters open to fishing, we allow fishing only from April 1 to September 30, except that we allow fishing year-round on Falcon, Heron, Goldeneye, Corral, Blythe, Chukar, and Scaup Lakes.

(ii) We allow frogging during periods when we allow fishing on designated waters.

(c) Conboy Lake National Wildlife Refuge—(1) Migratory game bird hunting. We allow hunting of goose, duck, coot, and snipe on designated areas of the refuge subject to the following conditions:

(i) We prohibit discharge of any firearm within ¼ mile (396 meters) of any maintained building or Federal facility, such as, but not limited to, a structure designed for storage, human occupancy, or shelter for animals.

(ii) Hunters must remove all decoys and other equipment at the end of each day's hunt (see § 27.93 of this chapter).

(2) [Reserved]

(3) Big game hunting. We allow hunting of deer on designated areas of the refuge subject to the following conditions: The condition set forth at paragraph (c)(1)(i) of this section applies.

(4) [Reserved]

(d) Dungeness National Wildlife Refuge. (1)-(3) [Reserved]

(4) Sport fishing. We allow saltwater fishing on designated areas of the refuge.

(e) Hanford Reach National Monument/Saddle Mountain National Wildlife Refuge—(1) Migratory game bird hunting. We allow hunting of goose, duck, coot, dove, and snipe on designated areas of the monument/refuge subject to the following conditions:

(i) We prohibit discharge of any firearm within ¼ mile (396 meters) of any maintained building or Federal facility, such as, but not limited to, a structure designed for storage, human occupancy, or shelter for animals.

(ii) Hunters must remove all decoys and other equipment at the end of each day's hunt (see § 27.93 of this chapter).

(2) Upland game hunting. We allow hunting of pheasant, quail, grey partridge, and chukar partridge on designated areas of the monument/refuge subject to the following conditions: The conditions set forth at paragraphs (e)(1)(i) and (ii) of this section apply.

(3) Big game hunting. We allow hunting of deer and elk on designated areas of the monument/refuge subject to the following conditions:

(i) We allow sport hunting of deer and elk on the Saddle Mountain, Ringold, and Wahluke (East) units of the monument/refuge subject to the following conditions:

(A) The condition set forth at paragraph (e)(1)(i) of this section applies.

(B) We allow hunting with shotgun, muzzleloader, and archery only.

(ii) We allow population control hunting of elk on the Rattlesnake Unit of the monument/refuge subject to the following conditions:

(A) We prohibit overnight camping, overnight parking, and smoking.

(B) We require elk population control hunters to participate in a Service-directed, hunt-specific training session each year prior to hunting. Hunters must check-in and out at a refuge check station and fill out and display the Self-Clearing check-In Permit (Form 3-2405) on the dashboards of their vehicles.

(C) We allow hunting with modern firearms only.

(D) We allow authorized vehicles only on designated roads and only in designated parking areas.

(E) We prohibit the use of bicycles and carts.

(F) We allow hunting Monday through Friday only.

(G) All hunt assistants must check-in and out at a refuge check station and be under the supervision of the permitted hunter at all times. All hunt assistants must fill out and display the Self-Clearing check-In Permit (Form 3-2405) on the dashboards of their vehicles.

(H) We allow foot access only beyond designated roads and parking areas.

(I) We prohibit retrieval of animals outside the hunt area without prior Service approval.

(4) Sport fishing. We allow sport fishing on the designated areas of the monument/refuge subject to the following condition: We allow access from legal sunrise to legal sunset, except that we allow access to the Wahluke Unit's White Bluffs boat launch from 2 hours before legal sunrise until 2 hours after legal sunset for launch and recovery activities only.

(f) Julia Butler Hansen Refuge for the Columbian White-Tailed Deer—(1) Migratory game bird hunting. We allow hunting of goose, duck, coot, and common snipe on designated areas of the refuge subject to the following conditions:

(i) You must remove all personal property, including decoys and boats, by 1 hour after legal sunset (see §§ 27.93 and 27.94 of this chapter).

(ii) We open the refuge for hunting access from 1½ hours before legal sunrise until 1½ hours after legal sunset.

(iii) We allow the use of dogs when hunting.

(2) [Reserved]

(3) Big game hunting. We allow hunting of elk on designated areas of the refuge subject to the following conditions:

(i) We allow hunting on Mondays through Fridays only. We close the refuge to hunting on weekends and Federal holidays.

(ii) We allow a maximum of 10 hunters to use the refuge in any one day, with one hunt period consisting of 5 consecutive days.

(iii) We allow hunting of elk using muzzleloading firearms only.

(iv) We require hunters to attend a refuge-specific orientation session each year prior to hunting on the refuge.

(v) We require hunters to sign in and out each day at the refuge headquarters. When signing out for the day, you must report hunting success or failure, and any hit-but-not-retrieved animals on the Big Game Harvest Report (FWS Form 3-2359).

(vi) Additional persons may assist hunters during elk retrieval only. No more than one unlicensed person may assist each licensed hunter during the hunt or during elk retrieval.

(vii) We prohibit hunters from operating motorized vehicles on the refuge.

(4) Sport fishing. We allow bank fishing on designated areas of the refuge.

(g) Little Pend Oreille National Wildlife Refuge—(1) Migratory game bird hunting. We allow hunting of migratory game birds on designated areas of the refuge subject to the following conditions:

(i) We allow hunting September through December.

(ii) We allow the use of dogs when hunting.

(2) Upland game hunting. We allow hunting of upland game and small game on designated areas of the refuge subject to the following conditions:

(i) We allow hunting September through December, and during the spring wild turkey season.

(ii) During the spring turkey season, we prohibit hunting of all species except wild turkey.

(iii) We allow the use of dogs when hunting, with the exception of raccoon.

(3) Big Game Hunting. We allow hunting of big game on designated areas of the refuge subject to the following conditions: The condition set forth at paragraph (g)(1)(i) of this section applies.

(4) Sport fishing. We allow sport fishing on designated areas of the refuge.

(h) McNary National Wildlife Refuge—(1) Migratory game bird hunting. We allow hunting of goose, duck, coot, dove, and snipe on designated areas of the refuge subject to the following conditions:

(i) We prohibit discharge of any firearm within ¼ mile (396 meters) of any maintained building or Federal facility, such as, but not limited to, a structure designed for storage, human occupancy, or shelter for animals.

(ii) Hunters must remove all decoys and other equipment at the end of each day's hunt (see § 27.93 of this chapter).

(iii) On the McNary Fee Hunt Area (McNary Headquarters Unit), we allow hunting subject to the following conditions:

(A) The McNary Fee Hunt Area (McNary Headquarters Unit) is only open on Wednesdays, Saturdays, Sundays, Thanksgiving Day, and New Year's Day.

(B) We require hunters to possess and carry a special refuge permit (signed refuge brochure).

(C) We allow hunting only from assigned areas.

(iv) On the Peninsula Unit, we allow hunting subject to the following condition: On the east shoreline of the Peninsula Unit, we allow hunting only from established numbered blind sites, assigned on a first-come, first-served basis, and we require hunters to remain within 100 feet (30 meters) of marked posts unless retrieving birds or setting decoys.

(2) Upland game hunting. We allow hunting of upland game birds on designated areas of the refuge subject to the following conditions:

(i) The condition set forth at paragraph (h)(1)(i) of this section applies.

(ii) On the McNary Fee Hunt Area (McNary Headquarters Unit), we allow hunting on Wednesdays, Saturdays, Sundays, Thanksgiving Day, and New Year's Day from 12 p.m. (noon) to the end of State legal hunting hours.

(3) Big game hunting. We allow hunting of deer on designated areas of the refuge subject to the following conditions:

(i) The condition set forth at paragraph (h)(1)(i) of this section applies.

(ii) On the Stateline and Juniper Canyon Units, we allow hunting with modern firearms, shotgun, muzzleloader, and archery.

(iii) On the Peninsula, Two-Rivers, and Wallula Units, we allow hunting with archery and shotgun only.

(4) Sport fishing. We allow sport fishing on designated areas of the refuge.

(i) Ridgefield National Wildlife Refuge—(1) Migratory game bird hunting. We allow hunting of goose, duck, and coot on designated areas of the refuge subject to the following conditions:

(i) You may not shoot or discharge any firearm from, across, or along any designated route of travel, including pedestrian trails.

(ii) We close the refuge to goose hunting when the dusky Canada goose harvest reaches the quota posted at the refuge.

(iii) We allow hunting on designated portions of the River “S” Unit on Tuesdays, Thursdays, and Saturdays, excluding Federal holidays, during the regular State waterfowl hunting season.

(iv) Prior to entering the hunt area, you must check in at the refuge check station, and obtain a Migratory Bird Hunt Report (FWS Form 3-2361). You must carry the Migratory Bird Hunt Report while hunting as proof of blind assignment and user fee payment.

(v) We allow access to the refuge check station 2 hours before legal shooting time. We require hunters to depart the refuge no later than 1 hour after legal shooting time.

(vi) We allow hunting only from designated permanent blinds.

(vii) We allow a maximum of three persons per hunting blind.

(viii) We prohibit additional hunters to join a hunt party after the party has checked in.

(ix) We allow the use of dogs when hunting.

(x) Prior to switching blinds, you must first report to the refuge check station to obtain a new blind assignment. You must submit an accurate Migratory Bird Hunt Report (FWS Form 3-2361) for the blind being vacated, and obtain a new Migratory Bird Hunt Report for the new blind.

(xi) Prior to leaving the hunt area, you must check out at the refuge check station, submit an accurate Migratory Bird Hunt Report (FWS Form 3-2361), and present all harvested birds for inspection by check station personnel.

(xii) We reserve Blind 1A for exclusive use by hunters with permanent disabilities who qualify for a valid State Disabled Hunter Permit or America the Beautiful access pass, and their nonhunting assistants.

(2)-(3) [Reserved]

(4) Sport fishing. We allow sport fishing and frogging on designated areas of the refuge subject to the following conditions:

(i) We allow fishing and frogging from March 1 through September 30 only.

(ii) We allow fishing and frogging from legal sunrise to legal sunset only.

(j) San Juan Islands National Wildlife Refuge. (1)-(3) [Reserved]

(4) Sport fishing. We allow sport fishing on designated areas of the refuge.

(k) Toppenish National Wildlife Refuge—(1) Migratory game bird hunting. We allow hunting of goose, duck, coot, dove, and snipe on designated areas of the refuge subject to the following conditions:

(i) We prohibit discharge of any firearm within ¼ mile (396 meters (m)) of any maintained building or Federal facility, such as, but not limited to, a structure designed for storage, human occupancy, or shelter for animals.

(ii) We allow only portable blinds and temporary blinds constructed of nonliving natural materials. Hunters must remove all decoys and other equipment at the end of each day's hunt (see § 27.93 of this chapter).

(iii) On the Pumphouse, Petty, Isiri, Chamber, and Chloe Units, we allow hunting 7 days a week subject to the following condition: We require a minimum distance between hunt parties of 200 yards (180 m).

(iv) On the Halvorson and Webb Units, we allow hunting only on Wednesdays, Saturdays, Sundays, Thanksgiving Day, Christmas Day, and New Year's Day.

(v) On the Robbins Road Unit, we allow hunting only on Tuesdays, Thursdays, Saturdays, Sundays, Thanksgiving Day, Christmas Day, and New Year's Day.

(vi) On the Robbins Road and Pumphouse Units, we allow hunting only from numbered field blind sites. We prohibit free-roam hunting or jump shooting, and you must remain within 100 feet (30 m) of the numbered field blind post unless retrieving birds or setting decoys. We allow a maximum of four persons per blind site.

(2) Upland game hunting. We allow hunting of upland game birds on designated areas of the refuge subject to the following conditions:

(i) The condition set forth at paragraph (k)(1)(i) of this section applies.

(ii) We allow hunting of upland game birds from 12 p.m. (noon) to legal sunset of each hunt day.

(iii) On the Halvorson and Webb Units, we allow hunting only on Wednesdays, Saturdays, Sundays, Thanksgiving Day, Christmas Day, and New Year's Day.

(iv) On the Robbins Road Unit, we allow hunting only on Tuesdays, Thursdays, Saturdays, Sundays, Thanksgiving Day, Christmas Day, and New Year's Day.

(3)-(4) [Reserved]

(l) Turnbull National Wildlife Refuge—(1) Migratory game bird hunting. We allow hunting of duck, goose, and coot on designated areas of the refuge subject to the following conditions:

(i) We only allow hunting during the State youth season.

(ii) We allow the use of dogs when hunting.

(iii) Hunters may access the refuge no earlier than 2 hours before legal sunrise and must leave no later than 1 hour after legal sunset.

(iv) Hunters must obtain a letter from the refuge manager authorizing them to access the refuge for the purpose of hunting migratory game birds.

(2) [Reserved]

(3) Big game hunting. We allow hunting of elk on designated areas of the refuge subject to the following conditions:

(i) Hunters must obtain a letter from the refuge manager assigning them a hunt unit.

(ii) Hunters may access the refuge no earlier than 2 hours before State legal shooting time and must leave no later than 5 hours after the end of State legal hunting hours.

(iii) Hunters not using approved nontoxic ammunition (see § 32.2(k)) must remove or bury the visceral remains of harvested animals.

(4) [Reserved]

(m) Umatilla National Wildlife Refuge—(1) Migratory game bird hunting. We allow hunting of goose, duck, coot, dove, and snipe on designated areas of the refuge subject to the following conditions:

(i) We prohibit discharge of any firearm within ¼ mile (396 meters) of any maintained building or Federal facility, such as, but not limited to, a structure designed for storage, human occupancy, or shelter for animals.

(ii) Hunters must remove all decoys and other equipment at the end of each day's hunt (see § 27.93 of this chapter).

(iii) On the Paterson and Whitcomb Units, we allow hunting only on Wednesdays, Saturdays, Sundays, and all Federal holidays within the State season.

(iv) On the Ridge Unit, we allow only shoreline hunting; we prohibit hunting from boats.

(2) Upland game hunting. We allow hunting of upland game birds on designated areas of the refuge subject to the following conditions:

(i) The conditions set forth at paragraphs (m)(1)(i) and (iii) of this section apply.

(ii) On the Whitcomb Island Unit, we only allow hunting of upland game from 12 p.m. (noon) to the end of State legal hunting hours.

(3) Big game hunting. We allow hunting of deer on designated areas of the refuge subject to the following conditions:

(i) The condition set forth at paragraph (m)(1)(i) of this section applies.

(ii) We allow hunting by special permit only (issued by the State).

(4) Sport fishing. We allow sport fishing on designated areas of the refuge.

(n) Willapa National Wildlife Refuge—(1) Migratory game bird hunting. We allow hunting of goose, duck, coot, and snipe on designated areas of the refuge subject to the following conditions:

(i) We require all hunters to obtain and carry a Migratory Bird Hunt Application (FWS Form 3-2439, Hunt Application—National Wildlife Refuge System) prior to entering the hunt area at the Riekkola Unit.

(ii) We require all hunters to report waterfowl taken per instructions on the Migratory Bird Hunt Report (FWS Form 3-2361).

(iii) In the designated goose hunt area in the Riekkola Unit, hunters may take ducks, coots, and snipe only incidental to hunting geese.

(iv) We allow goose hunting on Wednesdays, Saturdays, and Sundays in the designated goose hunt area in the Riekkola Unit.

(v) We open the refuge for hunting access from 1½ hours before legal sunrise until 1½ hours after legal sunset.

(vi) We allow the use of dogs when hunting.

(vii) You must remove all personal property, including decoys and boats, by 1 hour after legal sunset (see §§ 27.93 and 27.94 of this chapter).

(2) Upland game hunting. We allow hunting of forest grouse (sooty and ruffed) on designated areas of the refuge subject to the following conditions:

(i) We require all hunters to obtain and carry a Big/Upland Game Hunt Application (FWS Form 3-2439, Hunt Application—National Wildlife Refuge System).

(ii) We require all hunters to report game taken, hours hunted, and name/address/date on the Upland/Small Game/Furbearer Report (FWS Form 3-2362).

(iii) We allow archery hunting only.

(iv) The conditions set forth at paragraphs (n)(1)(v) and (vi) of this section apply.

(3) Big game hunting. We allow hunting of deer, elk, and bear on designated areas of the refuge subject to the following conditions:

(i) We require all Long Island hunters to obtain and carry a Big/Upland Game Hunt Application (FWS Form 3-2439, Hunt Application—National Wildlife Refuge System).

(ii) We require all hunters to report game taken, hours hunted, and name/address/date on the Big Game Harvest Report (FWS Form 3-2359).

(iii) At Long Island, we allow only archery hunting; we prohibit hunting firearms.

(iv) We prohibit bear hunting on any portion of the refuge except Long Island.

(v) We prohibit the use of centerfire or rimfire rifles within the Lewis, Porter Point, and Riekkola Units.

(vi) The conditions set forth at paragraphs (n)(1)(v) and (vi) of this section apply.

(vii) You may leave your tree stand(s) in place for 3 days. You must label your tree stand(s) with your hunting license number and the date you set up the stand. You may set up stands 1½ hours before legal sunrise. You must remove your tree stand(s) and all other personal property from the refuge by 1½ hours after legal sunset on the third day (see § 27.93 of this chapter).

(4) Sport fishing. We allow sport fishing on designated areas of the refuge.

§ 32.67 West Virginia.

The following refuge units are open for hunting and/or fishing as governed by applicable Federal and State regulations, and are listed in alphabetical order with additional refuge-specific regulations.

(a) Canaan Valley National Wildlife Refuge—(1) Migratory game bird hunting. We allow hunting of goose, duck, rail, coot, gallinule, mourning dove, snipe, and woodcock on designated areas of the refuge subject to the following conditions:

(i) We require each hunter to possess and carry a signed refuge hunting brochure (signed brochure).

(ii) We prohibit overnight parking except by Special Use Permit (FWS Form 3-1383-G) on Forest Road 80.

(iii) We allow the use of dogs for hunting migratory game birds. We prohibit more than two dogs per hunter. We require all dogs to wear a collar displaying the owner's name and telephone number.

(iv) We prohibit dog training except during legal hunting seasons.

(2) Upland game hunting. We allow the hunting of ruffed grouse, squirrel, cottontail rabbit, snowshoe hare, red fox, gray fox, bobcat, woodchuck, coyote, opossum, striped skunk, and raccoon on designated areas of the refuge subject to the following conditions:

(i) The conditions set forth at paragraphs (a)(1)(i) and (iv) of this section apply.

(ii) You may hunt raccoon at night, but you must obtain a Special Use Permit (FWS Form 3-1383-G) for raccoon hunting.

(iii) We only allow hunting in the No Rifle Zones with the following equipment: Archery, shotgun, or muzzleloader.

(iv) We allow the use of dogs for hunting upland game species. We prohibit more than six dogs per hunting party for raccoon hunting. All dogs must wear a collar displaying the owner's name and telephone number.

(v) We prohibit the hunting of upland game species from March 1 through August 31.

(3) Big game hunting. We allow the hunting of white-tailed deer, black bear, and turkey on designated areas of the refuge subject to the following conditions:

(i) The conditions set forth at paragraphs (a)(1)(i) and (iv) and (a)(2)(iii) of this section apply.

(ii) We allow the use of temporary tree stands. You must clearly print your name and telephone number on the stand in a place that is easily read while the stand is affixed to a tree. You must remove tree stands at the end of the deer season (see § 27.93 of this chapter).

(iii) We allow the use of dogs for hunting black bear during the gun season. We prohibit more than six dogs per hunting party. We require all dogs to wear a collar displaying the owner's name and telephone number.

(4) [Reserved]

(b) Ohio River Islands National Wildlife Refuge—(1) Migratory game bird hunting. We allow hunting of migratory game birds (waterfowl, coot, rail, gallinule, snipe, woodcock, and dove) on designated areas of the refuge subject to the following conditions:

(i) We require each hunter to possess and carry a signed refuge hunting brochure (signed brochure).

(ii) Hunters and anglers may enter the refuge 1 hour before legal sunrise and must exit the refuge, including parking areas, no later than 1 hour after legal sunset.

(iii) When hunting migratory game birds, you may only use dogs to locate, point, and retrieve.

(2) Upland game hunting. We allow hunting of rabbit and squirrel on designated areas of the refuge subject to the following conditions:

(i) The conditions set forth at paragraphs (b)(1)(i) and (ii) of this section apply.

(ii) We prohibit the use of rifles, muzzleloaders, or pistols for hunting rabbit or squirrel.

(3) Big game hunting. We allow archery hunting of white-tailed deer on designated areas of the refuge subject to the following conditions:

(i) The conditions set forth at paragraphs (b)(1)(i) and (ii) of this section apply.

(ii) We prohibit organized deer drives. We define a “deer drive” as an organized or planned effort to pursue, drive, chase, or otherwise frighten or cause deer to move in the direction of any person(s) who is part of the organized or planned hunt and known to be waiting for the deer.

(iii) We only allow the use of temporary tree stands and blinds. You must remove your tree stand(s) and/or blind(s) at the end of each hunt day (see § 27.93 of this chapter). You must clearly print your name and telephone number on the stand(s) and/or blind(s) in a place that is easily read while the stand is affixed to a tree.

(4) Sport fishing. We allow sport fishing throughout the refuge subject to the following conditions:

(i) The condition set forth at paragraph (b)(1)(ii) of this section applies.

(ii) We prohibit trotlines (setlines) and turtle lines.

§ 32.68 Wisconsin.

The following refuge units are open for hunting and/or fishing as governed by applicable Federal and State regulations, and are listed in alphabetical order with additional refuge-specific regulations.

(a) Fox River National Wildlife Refuge. (1)-(2) [Reserved]

(3) Big game hunting. We allow hunting of white-tailed deer on designated areas of the refuge and subject to the following conditions:

(i) Hunters must remove all stands from the refuge following each day's hunt (see § 27.93 of this chapter). We prohibit hunting from any stand left up overnight.

(ii) Hunters may enter the refuge no earlier than 1 hour before legal shooting hours and must exit the refuge no later than 1 hour after legal shooting hours end.

(iii) Any ground blind used during any gun deer season must display at least 144 square inches (929 square centimeters) of solid, blaze-orange material visible from all directions.

(4) [Reserved]

(b) Green Bay National Wildlife Refuge. (1)-(2) [Reserved]

(3) Big game hunting. We allow hunting of white-tailed deer on designated areas of the refuge subject to the following conditions:

(i) You must remove all stands from the refuge following each day's hunt (see § 27.93 of this chapter). We prohibit hunting from any stand left up overnight.

(ii) Hunters may enter the refuge no earlier than 1 hour before legal shooting hours and must exit the refuge no later than 1 hour after legal shooting hours end.

(iii) Any ground blind used during any gun deer season must display at least 144 square inches (929 square centimeters) of solid, blaze-orange material visible from all directions.

(iv) We require hunters to possess a permit (FWS Form 3-1383-G) for deer hunting on Plum Island.

(4) Sport fishing. We allow sport fishing on designated areas of the refuge subject to the following condition: We only allow fishing from the shoreline; we prohibit fishing from docks, piers, and other structures.

(c) Hackmatack National Wildlife Refuge. Refer to § 32.32(f) for regulations.

(d) Horicon National Wildlife Refuge—(1) Migratory game bird hunting. We allow hunting of goose, duck, and coot on designated areas of the refuge subject to the following condition: We allow only participants in the Learn to Hunt and other special programs to hunt.

(2) Upland game hunting. We allow hunting of wild turkey, ring-necked pheasant, gray partridge, squirrel, and cottontail rabbit on designated areas of the refuge subject to the following condition: For wild turkey hunting, hunters may possess only approved nontoxic shot shells (see § 32.2(k)) while in the field.

(3) Big game hunting. We allow hunting of white-tailed deer in designated areas of the refuge subject to the following conditions:

(i) Hunters must remove all stands and personal property from the refuge following each day's hunt (see §§ 27.93 and 27.94 of this chapter). We prohibit hunting from any stand left up overnight.

(ii) Hunters must possess a refuge permit (FWS Form 3-2439, Hunt Application—National Wildlife Refuge System) to hunt in Area E (surrounding the office/visitor center).

(iii) Hunters may enter the refuge no earlier than 1 hour before legal shooting hours and must exit the refuge no later than 1 hour after legal shooting hours.

(iv) Any ground blind used during any gun deer season must display at least 144 square inches (929 square centimeters) of solid-blaze-orange material visible from all directions.

(v) We prohibit the field possession of white-tailed deer in areas closed to white-tailed deer hunting.

(4) Sport fishing. We allow fishing on designated areas of the refuge subject to the following conditions:

(i) We only allow bank fishing or fishing through the ice.

(ii) We prohibit the use of fishing weights or lures containing lead.

(e) Leopold Wetland Management District—(1) Migratory game bird hunting. We allow hunting of migratory game birds throughout the district, except that we prohibit hunting on the Blue-wing waterfowl production area (WPA) in Ozaukee County and on the Wilcox WPA in Waushara County, subject to the following conditions:

(i) We allow the use of hunting dogs, provided the dog is under the immediate control of the hunter at all times.

(ii) You must remove boats, decoys, and blinds at the conclusion of each day (see § 27.93 of this chapter).

(2) Upland game hunting. We allow hunting of upland game throughout the district, except that we prohibit hunting on the Blue-wing WPA in Ozaukee County and on the Wilcox WPA in Waushara County, subject to the following conditions:

(i) The condition set forth at paragraph (e)(1)(i) of this section applies.

(ii) For hunting, you may use or possess only approved nontoxic shot shells (see § 32.2(k)) while in the field, including shot shells used for hunting wild turkey.

(3) Big game hunting. We allow hunting of big game throughout the district, except that we prohibit hunting on the Blue-wing WPA in Ozaukee County and on the Wilcox WPA in Waushara County, subject to the following condition: Any ground blind used during any gun deer season must display at least 144 square inches (929 square centimeters) of solid, blaze-orange material visible from all directions.

(4) Sport fishing. We allow sport fishing on WPAs throughout the district.

(f) Necedah National Wildlife Refuge—(1) Migratory game bird hunting. We allow hunting of migratory game birds on designated areas of the refuge subject to the following condition: We allow the use of dogs while hunting migratory game birds, provided the dog is under the immediate control of the hunter at all times.

(2) Upland game hunting. We allow hunting of wild turkey, ruffed grouse, gray squirrel, fox squirrel, cottontail rabbit, snowshoe hare, and raccoon on designated areas of the refuge subject to the following conditions:

(i) For wild turkey hunting, you may use or possess only approved nontoxic shot shells (see § 32.2(k)) while in the field.

(ii) During the spring turkey season, we allow unarmed hunters who have a valid spring turkey permit in their possession to scout the hunt area. We allow this scouting beginning on the Saturday immediately prior to the opening date listed on the State turkey hunting permit.

(iii) We open Refuge Area 3 to hunting after the State deer gun season through the end of the respective State seasons or until February 28, whichever occurs first.

(iv) We allow the use of dogs while hunting upland game (except raccoon), provided the dog is under the immediate control of the hunter at all times.

(v) You may only hunt snowshoe hare during the season for cottontail rabbit.

(3) Big game hunting. We allow hunting of white-tailed deer on designated areas of the refuge subject to the following conditions:

(i) We prohibit possession of a loaded firearm or a nocked arrow on a bow within 50 feet (15 meters (m)) of the centerline of all public roads. During the gun deer season, we prohibit possession of a loaded firearm within 50 feet (15 m) of the center of refuge trails, and we prohibit discharge of guns from, across, down, or alongside these trails.

(ii) You may use portable elevated devices, but you must lower them to ground level at the close of shooting hours each day. You must remove all blinds, stands, platforms, and ladders from the refuge at the end of the hunting season (see §§ 27.93 and 27.94 of this chapter).

(iii) You must clearly mark all non-natural blinds, stands, platforms, and ladders on the exterior with the hunter's State hunting license number in letters that are at least 1 inch (2.5 centimeters) high. You may also use an attached metal tag with stamped or engraved lettering that is clearly visible.

(iv) We open Refuge Area 2 to deer hunting during State archery, gun, and muzzleloader seasons, except for any early antlerless-only hunts.

(v) We open Refuge Area 3 to deer hunting during the State regular gun, muzzleloader, and late archery seasons. Unarmed deer hunters may enter Area 3 to scout beginning the Saturday prior to the gun deer season.

(vi) You may use clothespins marked with flagging or reflective material. We prohibit all other types of marking. You must clearly identify the hunter's State hunting license number on the clothes pin or the flagging itself. You must remove all clothes pins by the last day of archery season (see §§ 27.93 and 27.94 of this chapter).

(vii) Beginning the Saturday prior to the opening of the State regular gun deer season, you may use nonmotorized boats on Sprague-Goose Pools until freeze-up in order to access areas for deer hunting.

(viii) Any ground blind used during any gun deer season must display at least 144 square inches (929 square centimeters) of solid-blaze-orange material visible from all directions.

(4) Sport fishing. We allow sport fishing on designated areas of the refuge subject to the following conditions:

(i) We allow use of nonmotorized boats in Sprague-Goose pools only when we open these pools to fishing.

(ii) We allow motorized boats in Suk Cerney Pool.

(iii) We allow fishing by hook and line only.

(g) St. Croix Wetland Management District—(1) Migratory game bird hunting. We allow hunting of migratory game birds on designated areas throughout the district subject to the following conditions:

(i) We prohibit hunting on designated portions posted as closed of the St. Croix Prairie Waterfowl Production Area (WPA) and the Prairie Flats—South WPA in St. Croix County.

(ii) We close the Oak Ridge WPA in St. Croix County to hunting from the opening day of waterfowl season until the first Saturday in December, except that we allow deer hunting during regular archery, gun, and muzzleloader seasons.

(2) Upland game hunting. We allow hunting of upland game on designated areas throughout the district subject to the following conditions:

(i) The conditions set forth at paragraphs (g)(1)(i) and (ii) of this section apply.

(ii) For hunting, you may use or possess only approved nontoxic shot shells (see § 32.2(k)) while in the field, including shot shells used for hunting wild turkey.

(3) Big game hunting. We allow hunting of big game on designated areas throughout the district subject to the following condition: We prohibit hunting on designated portions of the St. Croix Prairie WPA and the Prairie Flats—South WPA in St. Croix County.

(4) Sport fishing. We allow sport fishing on WPAs throughout the district.

(h) Trempealeau National Wildlife Refuge—(1) Migratory game bird hunting. We allow hunting of migratory game birds on designated areas of the refuge subject to the following conditions:

(i) We allow hunting of duck, merganser, goose, coot, mourning dove, sora, Virginia rail, woodcock, snipe, and crow on refuge lands north of the main channel of the Trempealeau River and north of State Highway 35/54, subject to the following conditions:

(A) We allow only the use of portable or temporary blinds.

(B) We allow the use of dogs while hunting migratory game birds, provided the dog is under the immediate control of the hunter at all times.

(ii) We allow hunting of duck, merganser, goose, and coot on refuge lands south of the main channel of the Trempealeau River and south of State Highway 35/54, subject to the following condition: We require a refuge permit.

(2) Upland game hunting. We allow hunting of wild turkey, ruffed grouse, ring-necked pheasant, bobwhite quail, Hungarian partridge, sharp-tailed grouse, coyote, gray and red fox, bobcat, raccoon, snowshoe hare, cottontail rabbit, and gray and red squirrel on designated areas of the refuge subject to the following conditions:

(i) We allow upland game hunting only on refuge land north of the main channel of the Trempealeau River and north of State Highway 35/54.

(ii) We allow only the use of portable or temporary blinds.

(iii) We allow the use of dogs while hunting upland game birds, provided the dog is under the immediate control of the hunter at all times.

(3) Big game hunting. We allow hunting of white-tailed deer on designated areas of the refuge subject to the following conditions:

(i) On refuge land south of the main channel of the Trempealeau River and south of State Highway 35/54:

(A) We prohibit the use of rifles for deer hunting.

(B) We allow white-tailed deer hunting only by refuge permit.

(ii) On refuge land north of the main channel of the Trempealeau River and north of State Highway 35/54:

(A) We allow white-tailed deer hunting during the State archery, muzzleloader, and firearms seasons.

(B) We allow hunting during the youth gun deer hunt and the gun hunt for hunters with disabilities as governed by State regulations.

(4) Sport fishing. We allow fishing on designated areas of the refuge subject to the following conditions:

(i) We allow fishing only from legal sunrise to legal sunset.

(ii) We allow boats propelled by hand or electric motors only on refuge pools. We do not prohibit the possession, only the use, of other watercraft motors.

(iii) We prohibit harvest of turtle (see § 27.21 of this chapter).

(iv) We prohibit night-lighting, archery, spearing, or netting of fish.

(i) Upper Mississippi River National Wildlife and Fish Refuge. Refer to § 32.42(r) for regulations.

(j) Whittlesey Creek National Wildlife Refuge—(1) Migratory game bird hunting. We allow hunting of waterfowl on designated areas of the refuge subject to the following conditions:

(i) We allow only the use of portable or temporary blinds.

(ii) You must remove portable or temporary blinds and any material brought on to the refuge for blind construction at the end of each day's hunt (see §§ 27.93 and 27.94 of this chapter).

(2) [Reserved]

(3) Big game hunting. We allow hunting of white-tailed deer on designated areas of the refuge subject to the following conditions:

(i) We allow archery deer hunting to take place on refuge lands owned by the Service that constitute tracts greater than 20 acres (8 hectares).

(ii) Hunters may construct ground blinds entirely of dead vegetation from refuge lands.

(iii) Hunters must remove all stands and blinds from the refuge at the end of each day's hunt (see §§ 27.93 and 27.94 of this chapter).

(4) Sport fishing. We allow sport fishing on designated areas of the refuge subject to the following conditions:

(i) We allow fishing from legal sunrise to legal sunset only.

(ii) We prohibit the taking of any mussel (clam), crayfish, frog, leech, or turtle species by any method on the refuge (see § 27.21 of this chapter).

§ 32.69 Wyoming.

The following refuge units are open for hunting and/or fishing as governed by applicable Federal and State regulations, and are listed in alphabetical order with additional refuge-specific regulations.

(a) Cokeville Meadows National Wildlife Refuge—(1) Migratory game bird hunting. We allow hunting of duck, dark goose, coot, merganser, snipe, Virginia rail, Sora rail, sandhill crane, and mourning dove on designated areas of the refuge subject to the following conditions:

(i) We allow the use of dogs to find and retrieve legally harvested migratory game birds.

(ii) Hunters may only access the refuge 1 hour before legal sunrise until 1 hour after legal sunset.

(2) Upland game hunting. We allow hunting of blue grouse, ruffed grouse, chukar partridge, gray partridge, cottontail rabbit, snowshoe hare, squirrel (red, gray, and fox), red fox, raccoon, and striped skunk on designated areas of the refuge subject to the following conditions:

(i) The condition set forth at paragraph (a)(1)(ii) of this section applies.

(ii)We allow the use of dogs to find and retrieve legally harvested upland game birds, cottontail rabbits, and squirrels. You may not use dogs to chase red fox, raccoon, striped skunk, or any other species not specifically allowed in this paragraph (a)(2)(ii).

(iii) Licensed migratory bird, big game, or upland/small game hunters may harvest red fox, raccoon, and striped skunk on the refuge from September 1 until the end of the last open big game, upland bird, or small game season. You must possess, and remove from the refuge, all red fox, raccoon, or striped skunk that you harvest on the refuge.

(3) Big game hunting. We allow hunting of elk, mule deer, white-tailed deer, pronghorn, and moose subject to the following condition: The condition set forth at paragraph (a)(1)(ii) of this section applies.

(4) [Reserved]

(b) Hutton Lake National Wildlife Refuge—(1) Migratory game bird hunting. We allow hunting of goose, duck, coot, and merganser on designated areas of the refuge subject to the following conditions:

(i) We allow the use of dogs when hunting.

(ii) We prohibit the cleaning of birds on the refuge.

(2)-(4) [Reserved]

(c) National Elk Refuge. (1)-(2) [Reserved]

(3) Big game hunting. We allow hunting of elk and bison on designated areas of the refuge subject to the following conditions:

(i) We require refuge permits (issued by State of Wyoming).

(ii) We prohibit shooting from or across refuge roads and parking areas.

(4) Sport fishing. We allow sport fishing on designated areas of the refuge.

(d) Pathfinder National Wildlife Refuge—(1) Migratory game bird hunting. We allow hunting of goose, duck, and coot on designated areas of the refuge.

(2) Upland game hunting. We allow hunting of sage grouse and cottontail rabbit on designated areas of the refuge.

(3) Big game hunting. We allow hunting of pronghorn antelope and deer on designated areas of the refuge.

(4) [Reserved]

(e) Seedskadee National Wildlife Refuge—(1) Migratory game bird hunting. We allow hunting of dark goose, duck, coot, merganser, dove, snipe, and rail on designated areas of the refuge subject to the following conditions:

(i) We open the refuge to the general public from ½ hour before legal sunrise to ½ hour after legal sunset. Waterfowl hunters may enter the refuge 1 hour before legal shooting hours to set up decoys and blinds.

(ii) We allow the use of dogs when hunting.

(iii) You must only use portable blinds or blinds constructed from dead and downed wood.

(iv) You must remove portable blinds, tree stands, decoys, and other personal equipment from the refuge after each day's hunt (see §§ 27.93 and 27.94 of this chapter).

(2) Upland game hunting. We allow hunting of sage grouse, cottontail rabbit, jackrabbit, raccoon, fox, and skunk on designated areas of the refuge subject to the following condition: The conditions set forth at paragraphs (e)(1)(i) and (ii) of this section apply.

(3) Big game hunting. We allow hunting of pronghorn, mule deer, white-tailed deer, elk, and moose on designated areas of the refuge subject to the following condition: The condition set forth at paragraph (e)(1)(i) section applies.

(4) Sport fishing. We allow sport fishing on designated areas of the refuge subject to the following conditions:

(i) The condition set forth at paragraph (e)(1)(i) of this section applies.

(ii) We prohibit taking of mollusk, crustacean, reptile, and amphibian from the refuge (see § 27.21 of this chapter).

§ 32.70 Guam.

The following refuge units are open for hunting and/or fishing as governed by applicable Federal and State regulations, and are listed in alphabetical order with additional refuge-specific regulations.

(a) Guam National Wildlife Refuge. (1)-(3) [Reserved]

(4) Sport fishing. We allow sport fishing and collection of marine life on designated areas of the refuge as governed by Government of Guam laws and regulations and subject to the following conditions:

(i) We open the refuge to anglers from 8:30 a.m. until 5 p.m. each day year-round, except on Thanksgiving, Christmas, and New Year's Day, when we close to all public entry.

(ii) You may not possess surround or gill nets on the refuge.

(iii) We prohibit use of Self Contained Underwater Breathing Apparatus (SCUBA) to take fish or invertebrates.

(b) [Reserved]

PART 36—ALASKA NATIONAL WILDLIFE REFUGES

7. The authority citation for part 36 continues to read as follows:

Authority: 16 U.S.C. 460(k) et seq., 668dd-668ee, 3101 et seq., Pub. L. 115-20, 131 Stat. 86.

8. Amend § 36.32 by:

a. Revising the section heading;

b. Removing paragraph (c)(1)(iv);

c. Revising paragraph (d); and

d. Removing paragraph (e).

The revisions read as follows:

§ 36.32 Non-subsistence taking of fish and wildlife.

* * * * *

(d) You may conduct an animal control program only if you obtain a special use permit, issued by the Refuge Manager, to do so.

SUBCHAPTER E—MANAGEMENT OF FISHERIES CONSERVATION AREAS

9. Revise part 71 to read as follows:

PART 71—HUNTING AND SPORT FISHING ON NATIONAL FISH HATCHERIES

Subpart A—General Provisions
Sec.
71.1 Opening of national fish hatcheries to hunting and sport fishing.
71.2 What are the requirements for hunting on areas of the National Fish Hatchery System?
71.3 Information collection requirements.
Subpart B—Hatchery-Specific Regulations for Hunting and Sport Fishing
71.11 National fish hatcheries open for hunting.
71.12 National fish hatcheries open for sport fishing.

Authority: Sec. 4, Pub. L. 73-121, 48 Stat. 402, as amended; sec. 4, Pub. L. 87-714, 76 Stat. 654; 5 U.S.C. 301; 16 U.S.C. 460k, 664, 668dd, 1534.

Subpart A—General Provisions

§ 71.1 Opening of national fish hatcheries to hunting and sport fishing.

National fish hatchery areas may be opened to hunting or sport fishing when such activity is not detrimental to the propagation and distribution of fish or other aquatic wildlife.

§ 71.2 What are the requirements for hunting on areas of the National Fish Hatchery System?

The following provisions apply to public hunting and sport fishing on a national fish hatchery area:

(a) Each person must secure and possess the required State license.

(b) Each person age 16 and older must obtain and possess a Federal Migratory Bird Hunting and Conservation Stamp (Federal Duck Stamp) while hunting migratory waterfowl.

(c) Each person must comply with the applicable provisions of Federal laws and regulations including this subchapter and the current Federal migratory bird regulations at 50 CFR parts 20 and 21.

(d) Each person must comply with the applicable provisions of the laws and regulations of the State in which a hatchery is located unless further restricted by Federal law or regulation.

(e) Each person must comply with the terms and conditions authorizing access and use of the national fish hatchery area.

(f) The regulations contained in this part are prescribed for hunting and sport fishing of all National Fish Hatcheries and supplement the general National Wildlife Refuge System regulations found in 50 CFR chapter I, subchapter C. The general National Wildlife Refuge System regulations are automatically applicable in their entirety to the National Fish Hatcheries except as supplemented these regulations. If these regulations conflict with the general National Wildlife Refuge System regulations, comply with these regulations.

(g) Each person must comply with the provisions of any special notices governing hunting on the national fish hatchery area. Such special notices will be posted throughout the area and will be available at the headquarters of the fish hatchery to which they relate.

(1) Special notices are issued only after the announcement of applicable annual State and Federal hunting regulations.

(2) Special notices may contain the following items:

(i) Wildlife species which may be hunted, or species of fish which may be taken;

(ii) Seasons;

(iii) Bag/creel limits;

(iv) Methods of hunting or fishing;

(v) Description of areas open to hunting or fishing; or

(vi) Other provisions as required.

(3) Special notices will not liberalize existing State law or regulations.

(4) Special notices may be amended as needed to meet management responsibilities for the area.

§ 71.3 Information collection requirements.

The information collection requirements contained in this part have been approved by the Office of Management and Budget (OMB) under 44 U.S.C. 3501 et seq. and assigned clearance number 1018-0140. The information is being collected to provide the refuge managers the information needed to decide whether or not to allow the requested use. A response is required in order to obtain a benefit. The Service may not conduct or sponsor, and you are not required to respond to, a collection of information unless it displays a currently valid OMB control number. Direct comments regarding the burden estimate or any other aspect of these information collection requirements to the Service's Information Collection Clearance Officer at the address provided at 50 CFR 2.1(b).

Subpart B—Hatchery-Specific Regulations for Hunting and Fishing

§ 71.11 National fish hatcheries open for hunting.

The following hatcheries are open for hunting as governed by applicable Federal and State regulations, and are listed in alphabetical order with additional hatchery-specific regulations.

(a) Iron River National Fish Hatchery—(1) Migratory game bird hunting. We allow migratory game bird hunting on designated areas of the hatchery.

(2) Upland game hunting. We allow upland game hunting on designated areas of the hatchery.

(3) Big game hunting. We allow big game hunting on designated areas of the hatchery subject to the following conditions:

(i) You must label tree stands and ground blinds with the owner's State hunting license number. The label must be readable from the ground.

(ii) You may place tree stands and ground blinds on the refuge only from September 1 to December 31 annually.

(b) Leadville National Fish Hatchery—(1) Migratory game bird hunting. We allow migratory game bird hunting on designated areas of the hatchery.

(2) Upland game hunting. We allow upland game hunting on designated areas of the hatchery.

(3) Big game hunting. We allow big game hunting on designated areas of the hatchery subject to the following conditions:

(i) You must label tree stands and ground blinds with the owner's State hunting license number. The label must be readable from the ground.

(ii) You may place tree stands and ground blinds on the refuge only from September 1 to December 31 annually.

(4) Sport fishing. See § 71.12(g) for hatchery-specific fishing regulations for this hatchery.

(c) Southwest Native Aquatic Resources and Recovery Center—(1) Migratory game bird hunting. We allow the hunting of sandhill crane, light and dark goose, duck, merganser, coot, mourning and white-winged dove, and band-tailed pigeon on designated areas of the hatchery.

(2) Upland game hunting. We allow the hunting of Eurasian collared dove; dusky (blue) grouse; pheasant; scaled, Montezuma, Gambel's, and bobwhite quail; and Abert's, red, gray, and fox squirrel on designated areas of the hatchery.

(3) [Reserved]

§ 71.12 National fish hatcheries open for sport fishing.

The following hatcheries are open for sport fishing as governed by applicable Federal and State regulations, and are listed in alphabetical order with additional hatchery-specific regulations.

(a) Craig Brook National Fish Hatchery. We allow sport fishing on designated areas of the hatchery subject to the following condition: We only allow fishing from legal sunrise to legal sunset.

(b) Edenton National Fish Hatchery. We allow sport fishing on designated areas of the hatchery subject to the following conditions:

(1) We allow fishing during open hatchery hours only.

(2) We prohibit the cleaning of fish on the hatchery.

(c) Entiat National Fish Hatchery. We allow sport fishing on designated areas of the hatchery.

(d) Harrison Lake National Fish Hatchery. We allow sport fishing on designated areas of the hatchery subject to the following conditions:

(1) We only allow fishing from ½ hour before legal sunrise until ½ hour after legal sunset.

(2) We prohibit the use of nets for the capture of fish in Herring Creek.

(3) We prohibit the use of gasoline motors greater than 5 horsepower on watercraft.

(e) Hotchkiss National Fish Hatchery. We allow sport fishing on designated areas of the hatchery subject to the following condition: We prohibit the cleaning of fish on the hatchery.

(f) Inks Dam National Fish Hatchery. We allow sport fishing on designated areas of the hatchery.

(g) Leadville National Fish Hatchery. We allow sport fishing on designated areas of the hatchery subject to the following condition: We prohibit the cleaning of fish on the hatchery. See § 71.11 for hatchery-specific hunting regulations for this hatchery.

(h) Leavenworth National Fish Hatchery. We allow sport fishing on designated areas of the hatchery.

(i) Little White Salmon National Fish Hatchery. We allow sport fishing on designated areas of the hatchery subject to the following condition: We allow fishing after legal sunset, but the hatchery access road is closed from 11 p.m. to 4 a.m.

(j) Orangeburg National Fish Hatchery. We allow sport fishing on designated areas of the hatchery subject to the following conditions:

(1) We prohibit fishing after legal sunset.

(2) We prohibit the cleaning of fish on the hatchery.

(3) We prohibit motorized boats on the hatchery while fishing.

(k) Spring Creek National Fish Hatchery. We allow sport fishing on designated areas of the hatchery subject to the following condition: We only allow fishing from legal sunrise to legal sunset.

(l) Tishomingo National Fish Hatchery. We allow sport fishing on designated areas of the hatchery.

(m) Valley City National Fish Hatchery. We allow sport fishing on designated areas of the hatchery subject to the following condition: We prohibit the cleaning of fish on the hatchery.

Dated: May 22, 2019.
Andrea Travnicek,
Principal Deputy Assistant Secretary for Fish and Wildlife and Parks, exercising the authority of the Assistant Secretary for Fish and Wildlife and Parks.

[FR Doc. 2019-11443 Filed 6-25-19; 8:45 am]

BILLING CODE 4333-15-P